DEPARTMENT OF HOUSING AND URBAN DEVELOPMENT

[Docket No. FR-5200-N-01A]

Fiscal Year 2008 SuperNOFA for HUD's Discretionary Programs

AGENCY: Office of the Secretary, HUD.

ACTION: Notice of HUD's 2008 Notice of Funding Availability (NOFA) for HUD's Discretionary Programs (SuperNOFA).

SUMMARY: On March 19, 2008, HUD published its Notice of Fiscal Year (FY) 2008 Notice of Funding Availability Policy Requirements and General Section to HUD's FY2008 NOFAs (General Section). HUD published the General Section in advance of the individual NOFAs to give prospective applicants sufficient time to understand policy and program requirements that apply to the majority of HUD's programs in advance of the publication of the program section NOFAs, to register early with Grants.gov in order to facilitate their application submission process, and to gain a better understanding of the Grants.gov application receipt and validation process. Today's publication contains the 36 funding opportunities that constitute HUD's FY2008 SuperNOFA. Today's publication also provides a revised Appendix A that lists the programs contained in the FY2008 SuperNOFA and corrects two items contained in the General Section published on March 19, 2008.

DATES: Application deadline and other key dates that apply to all HUD federal financial assistance made available through HUD's FY2008 SuperNOFA are contained in each individual program NOFA and in Appendix A of this notice.

FOR FURTHER INFORMATION CONTACT: The individual program NOFA identifies the applicable agency contact(s) for each program. Questions regarding today's Introduction to the SuperNOFA should be directed to the NOFA Information Center between the hours of 10 a.m. and 6:30 p.m. eastern time at (800) HUD-8929. Hearing-impaired persons may access this telephone via TTY by calling the toll-free Federal Information Relay Service at (800) 877-8339. Questions regarding specific program requirements should be directed to the agency contact(s) identified in each program NOFA.

SUPPLEMENTARY INFORMATION: HUD published the Policy Requirements and General Section to HUD's FY2008 NOFAs (the General Section) in the Federal Register on March 19, 2008 (73 FR 14882). HUD published the General Section in advance of the individual program NOFAs to give prospective applicants sufficient time to understand policy and program requirements that apply to the majority of HUD's programs in advance of the publication of the program section NOFAs, to register early with Grants.gov in order to facilitate their application submission process, and to gain a better understanding of the Grants.gov application receipt and validation process. Today's publication contains the 36 individual funding opportunities that constitute HUD's FY2008 SuperNOFA. Through the FY2008 SuperNOFA, HUD is making available approximately $1.02 billion in federal financial assistance. Today's publication also provides a revised Appendix A that lists the programs contained in the FY2008 SuperNOFA and corrects items contained in the General Section published on March 19, 2008.

Each program NOFA provides the statutory and regulatory requirements, threshold requirements, and rating factors applicable to funding made available through the individual NOFA. Applicants must also read, however, the General Section for important application information and requirements, including submission requirements that provide explicit instructions on file formats acceptable to HUD.

Appendix A to the General Section identified the funding opportunities that HUD anticipated would be included in the FY2008 SuperNOFA. HUD is revising and republishing Appendix A (Revised Appendix A) as part of today's publication. Revised Appendix A provides a corrected and up-to-date list of the funding opportunities included in today's FY2008 SuperNOFA publication. Revised Appendix A also lists the application deadline date and the approximate amount of funding available for each of the program NOFAs contained in the FY2008 SuperNOFA. Applicants are reminded that, unless they obtain a written waiver, applications must be received and validated by Grants.gov by 11:59:59 p.m. eastern time on the application deadline date. The validation check can take 24 to 48 hours after an application is received by Grants.gov. As a result, HUD strongly encourages applicants to submit their applications 48 to 72 hours prior to the application deadline date. By submitting prior to the application deadline date, applicants will have time to cure any deficiency in their applications should it fail the validation process. HUD also reminds applicants that, if they have changed their e-mail address, they must also update their Authorized Organization Representative (AOR) registration with Grants.gov. Failure to update the AOR e-mail address will prevent individuals submitting applications on behalf of an applicant from receiving a validation receipt or rejection notice from Grants.gov.

In reviewing Revised Appendix A, applicants should note that the HOPE VI program is not part of the FY2008 SuperNOFA. HUD published the HOPE VI NOFA separately in the Federal Register on March 26, 2008 (73 FR 16140). The application and instructions for the HOPE VI NOFA can be found on the Grants.gov Web site at http://www.07grants.gov/applicants/find_grant_opportunities.jsp. In addition, the Continuum of Care program is not part of today's publication. Applicants for the Continuum of Care program should be advised that HUD will require applicants to submit Continuum of Care applications electronically in FY2008. Because the electronic application is not yet available, however, details of the registration process and other submission details (including, application submission date and timely receipt requirements) will be published in two notices that will be published in the Federal Register later this year. HUD expects the first notice to be available in spring 2008. HUD expects to publish the Continuum of Care NOFA no earlier than July 1, 2008. Notification of the availability of registration instructions, the application and other information will be released through the Grants.gov/Find Web site. To be placed on the Grants.gov notification service for notices about the Continuum of Care electronic application process, go to http://www.grants.gov/search/subscribeAdvanced.do. To join the HUD homeless assistance programs listserv go to http://www.hud.gov/subscribe/signup.cfm?listname=Homeless%20Assistance%20Program&list=HOMELESS-ASST-L.

HUD is also using today's publication to correct the following items in the General Section published on March 19, 2008:

On page 14885, Section III, C.2.j., the section on Debarment and Suspension, is modified to reference the December 24, 2007, final rule on Implementation of OMB Guidance on Nonprocurement Debarment and Suspension (72 FR 73484). The December 24, 2007, final rule relocated HUD's regulations governing nonprocurement debarment and suspension to a new part in title 2 of the Code of Federal Regulations. The relocation of HUD's nonprocurement debarment and suspension regulation is part of a governmentwide initiative to create one location where the public can access both the Office of Management and Budget guidance for grants and agreements and the associated federal agency implementing regulations. HUD's final Rule is available at http://www.hud.gov/grants/index.cfm on the right hand side of the page under “What's Hot!

On page 14890, Section VI.B.b. “Step Two: Register with CCR,” is corrected to reflect the operating hours of the Central Contractor Registration (CCR) Assistance Center. If you need assistance you can contact the CCR Assistance Center, Monday to Friday, except federal holidays, from 9 a.m.-5 p.m. eastern time by calling 888-227-2423 or 269-961-5757. CCR also has on line help incorporated into its Web site. To obtain the online help, use the HELP link at the top of the page.

Applicants are invited and encouraged to participate in HUD's satellite training and Webcast sessions designed to provide a detailed explanation of the general section and program section requirements for each of the SuperNOFA programs. The interactive broadcasts provide an opportunity to ask questions of HUD staff. These broadcasts are archived and accessible from HUD's Grants page at http://www.hud.gov/offices/adm/grants/fundsavail.cfm. HUD also encourages all applicants to subscribe to the Grants.gov free notification service. By doing so, applicants will receive e-mail notification as soon as items are posted to Grants.gov and have access to a significant amount of useful information, including responses to frequently asked questions that arise during the funding application period. The address to subscribe to the Grants.gov free notification service is http://www.grants.gov/applicants/email_subscription.jsp. Corrections to the General Section, program NOFAs, or the application are posted to http://www.Grants.gov as soon as they are available. HUD will also post the Continuum of Care NOFA (and any corrections to the Continuum of Care NOFA) on the Grants.gov/Find site.

HUD hopes that the steps that it has taken to provide information early in the FY2008 funding process will be of benefit to you, our applicants and urges applicants to carefully read the instructions provided in the General Section and program sections of the NOFA and to apply early so any issues can be addressed prior to the deadline date.

Dated: April 15, 2008.
Dawn Luepke,
General Deputy Assistant Secretary for Administration.

BILLING CODE 4210-67-P

Community Development Technical Assistance

Overview Information

A. Federal Agency Name: Department of Housing and Urban Development, Office of Community Planning and Development.

B. Funding Opportunity Title: Community Development Technical Assistance (CD-TA).

C. Announcement Type: Initial Announcement.

D. Funding Opportunity Number: The Federal Register number for this NOFA is FR-5200-N-19. The OMB Approval Numbers for this NOFA are: 2506-0166 for the HOME Investment Partnerships Program (HOME), the HOME Investment Partnerships Program for Community Housing Development Organizations (CHDO (HOME)) and McKinney-Vento Homeless Assistance (Homeless); 2506-0133 for Housing Opportunities for Persons With AIDS (HOPWA) and for Community Development Block Grants (CDBG).

E. Catalog of Federal Domestic Assistance (CFDA) Numbers: 14.239, HOME and CHDO (HOME); 14.235, Homeless; 14.241, HOPWA; 14.218 CDBG Entitlement Grants; 14.219 CDBG States and Small Cities Program; 14.225 CDBG Insular Program; 14.248 CDBG Section 108.

F. Dates: The application deadline date is July 3, 2008. Applications must be received and validated by Grants.gov by 11:59:59 p.m. eastern time on the deadline date. Please be sure to read the General Section for electronic application submission and receipt requirements.

G. Additional Overview Information: Applicants interested in providing technical assistance to entities participating in HUD's community development programs should carefully review the General Section and the information listed in this CD-TA NOFA. Applicants should note that HUD has made significant changes to this CD-TA NOFA from previous years' requirements.

The following chart highlights some of the major changes to this year's CD-TA NOFA:

Revision
CDBG TA is included this year.
A minimum award amount has been established for national awards and field office awards.
Training requirements are explained in more detail for national and local awards.
Requirements added to include HOME Certification for HOME and CHDO (HOME) providers as well as references required for new applicants or applicants that do not have an open HUD CD-TA award.
Rating Factor 2—Need, has been eliminated the other rating Factors have been changed significantly.
The Logic Model is now a post-award requirement.

1. Available Funds. Funds are available to provide technical assistance for five separate program areas: HOME, CHDO (HOME), Homeless, HOPWA, and CDBG. Applicants may apply for up to all five CD-TA program areas. The application submission information is contained in this CD-TA NOFA at Section IV.B. Approximately $27.9 million is available. No cost sharing is required. Awards will be administered under cooperative agreements with significant HUD involvement (see Section II.C of this NOFA).

2. Eligible Applicants. Eligible applicants vary by each program listed under the CD-TA NOFA. Please see a chart for a full list of eligible applicants in section III A, under the Full Text of Announcement.

Full Text of Announcement

I. Funding Opportunity Description

A. Program Description. The purpose of the CD-TA program is to provide technical assistance to achieve the highest level of performance and results for five separate community development program areas: (1) HOME; (2) CHDO (HOME); (3) Homeless; (4) HOPWA and (5) CDBG. Information about the five community development programs and their missions, goals, and activities can be found on the HUD Web site at http://www.hud.gov.

B. Authority. HOME TA is authorized by the HOME Investment Partnerships Act (42 U.S.C. 12781-12783); 24 CFR part 92. CHDO (HOME) TA is authorized by the HOME Investment Partnerships Act (42 U.S.C. 12773); 24 CFR part 92. For the McKinney-Vento Act Homeless Assistance Programs, TA is authorized by the Consolidated Appropriations Act, 2008, (Pub. L. 110-161). HOPWA TA is also authorized by the Consolidated Appropriations Act, 2008 (Pub. L. 110-161). CDBG TA is authorized under Title 1 of the Housing and Community Development Act of 1974 (42 U.S.C. 5301-5320); 24 CFR 570.402.

II. Award Information

A. Available Funds. Approximately $27.9 million is available for the CD-TA program. Additional funds may become available as a result of HUD's efforts to recapture unused funds or to utilize carry over funds. In addition, should a balance of national CHDO (HOME) funds remain after awards are provided, the balance may be reprogrammed, pending Congressional authorization, as national HOME funds. The chart below demonstrates the division of funds among the programs that comprise CD-TA, and presents the national versus local share of those funds. No local funds are available under either HOPWA or CDBG TA. For the $14.9 million available for national TA programs, HUD has established a $200,000 award minimum for successful national TA applications, and a $50,000 minimum award for successful local HOME and CHDO (HOME) applicants. A $15,000 award minimum has been established for successful local Homeless TA applications. All awards are subject to the funding restrictions described in detail in Section IV, Subpart E.

Program | National TA | Local TA
HOME | $5,000,000 | $5,000,000
CHDO (HOME) | 2,500,000 | 6,000,000
Homeless | 5,600,000 | 2,000,000
HOPWA | 820,000 | 0
CDBG | 1,000,000 | 0
Total | 14,920,000 | 13,000,000

For the HOME, CHDO (HOME), and Homeless TA programs, the local TA funds are distributed among HUD's forty-three Community Planning and Development field offices. Each field office has been allotted a fair share of HOME, CHDO (HOME), and Homeless TA funds based on the needs identified by each individual field office. The chart below highlights the local TA funds available, by CD-TA program, for each field office. All awards will be subject to the minimum funding thresholds noted above, and the funding restrictions identified in Section IV, Subpart E.

Local TA area | HOME | CHDO (HOME) | Homeless
Alabama | $0 | $0 | 30,000
Alaska | 50,000 | 50,000 | 30,000
Arkansas | 50,000 | 50,000 | 30,000
California—Northern and Arizona, Nevada | 400,000 | 850,000 | 180,000
California—Southern | 350,000 | 500,000 | 165,000
Caribbean | 100,000 | 100,000 | 30,000
Colorado and Montana, North Dakota, South Dakota, Utah, Wyoming | 150,000 | 200,000 | 45,000
Connecticut | 50,000 | 100,000 | 30,000
District of Columbia area | 50,000 | 50,000 | 30,000
Florida—Southern | 50,000 | 50,000 | 15,000
Florida—Northern | 150,000 | 0 | 45,000
Georgia | 150,000 | 150,000 | 45,000
Hawaii | 100,000 | 100,000 | 30,000
Illinois | 150,000 | 400,000 | 95,000
Indiana | 50,000 | 50,000 | 15,000
Kansas and Missouri—Western | 100,000 | 100,000 | 30,000
Missouri—Eastern | 50,000 | 50,000 | 15,000
Kentucky | 200,000 | 150,000 | 45,000
Louisiana | 50,000 | 100,000 | 30,000
Maryland, except District of Columbia area | 50,000 | 150,000 | 30,000
Massachusetts, Maine, New Hampshire, Rhode Island, Vermont | 150,000 | 200,000 | 120,000
Michigan | 150,000 | 200,000 | 105,000
Minnesota | 100,000 | 200,000 | 45,000
Mississippi | 150,000 | 150,000 | 30,000
Nebraska and Iowa | 50,000 | 50,000 | 30,000
New Jersey | 150,000 | 100,000 | 30,000
New Mexico | 150,000 | 300,000 | 45,000
New York—Downstate | 200,000 | 450,000 | 135,000
New York—Upstate | 50,000 | 50,000 | 30,000
North Carolina | 200,000 | 200,000 | 45,000
Ohio | 200,000 | 150,000 | 60,000
Oklahoma | 100,000 | 50,000 | 15,000
Oregon and Idaho | 100,000 | 50,000 | 30,000
Pennsylvania—Eastern and Delaware | 50,000 | 50,000 | 15,000
Pennsylvania—Western and West Virginia | 100,000 | 0 | 45,000
South Carolina | 50,000 | 50,000 | 30,000
Tennessee | 100,000 | 100,000 | 30,000
Texas—Northern | 200,000 | 200,000 | 60,000
Texas—Southern | 100,000 | 50,000 | 0
Virginia, except District of Columbia area | 100,000 | 50,000 | 30,000
Washington | 50,000 | 50,000 | 30,000
Wisconsin | 100,000 | 0 | 45,000
Houston | 100,000 | 100,000 | 30,000
Total | 5,000,000 | 6,000,000 | 2,000,000

B. Type of Assistance instrument. Funds will be awarded as a Cooperative Agreement.

1. National TA activities are administered by a Government Technical Representative (GTR) and Government Technical Monitor (GTM) at HUD Headquarters. Local TA will be administered by a GTR and GTM in the respective HUD field office. Significant HUD involvement is required in all aspects of TA planning, delivery, and follow-up. Applicants for National TA must also be willing to work in any HUD field office area, although work in the field office areas is likely to be a negligible portion of National TA activities.

2. Awards will be for a period of 24 months up to 36 months, depending on such factors as whether or not the TA provider has been selected as a lead provider; the number of field offices that the provider will work in; and the number of CD-TA programs that the provider participates in. HUD reserves the right to determine the award period based on any or all of these factors.

3. HUD reserves the right to withdraw funds from any TA provider if HUD determines that: (1) The TA provider's performance is duly found to be substandard and unacceptable; (2) the need for assistance is not commensurate with the award; or (3) the need for assistance is greater in other field office jurisdictions. HUD will make this determination on a case by case basis and will provide a 30-day due process notice accordingly.

4. HUD anticipates substantial involvement in determining and approving the work to be performed as described below:

a. Demand-Response System. All successful CD-TA applicants must operate within the structure of the demand-response system. Under the demand-response system HUD identifies technical assistance needs and prioritizes them based on Departmental, program and jurisdictional priorities. Successful TA applicants are then tasked with responding to identified needs. Under the demand-response system, TA providers are required to:

(1) When requested by a GTR, market the availability of their services to existing and potential recipients within the jurisdictions in which the assistance will be delivered;

(2) Respond to requests for assistance from the GTR;

(3) When requested by a GTR, conduct a needs assessment to identify the type and nature of the assistance needed by the recipient of the assistance;

(4) Obtain the local HUD field office's approval before responding to direct requests for technical assistance from HOME Participating Jurisdictions (PJs), Community Housing Development Organizations (CHDOs), and McKinney-Vento Act Homeless Assistance.

(5) For CHDO (HOME) TA providers, secure a letter from a PJ stating that a CHDO, or prospective CHDO to be assisted by the provider, is a recipient or intended recipient of HOME funds and indicating, at its option, subject areas of assistance that are most important to the PJ.

III. Eligibility Information

A. Eligible Applicants. The eligible applicants for each of the five CD-TA programs are listed in the chart below. In accordance with the President's faith-based initiative, HUD welcomes the participation of eligible faith-based and other community organizations in the CD-TA programs.

Program | Eligible applicants
HOME | • A for-profit or nonprofit professional and technical services company or firm that has demonstrated knowledge of the HOME program and the capacity to provide technical assistance services;
| • A HOME Participating Jurisdiction (PJ);
| • A public purpose organization, established pursuant to state or local legislation, responsible to the chief elected officer of a PJ;
| • An agency or authority established by two or more PJs to carry out activities consistent with the purposes of the HOME program; or
| • A national or regional nonprofit organization that has membership comprised predominantly of entities or officials of entities of PJs or PJs' agencies or established organizations.
CHDO (HOME) | • A public or private nonprofit intermediary organization that customarily provides services, in more than one community, related to the provision of decent housing that is affordable to low-income and moderate-income persons or related to the revitalization of deteriorating neighborhoods; has demonstrated experience in providing a range of assistance (such as financing, technical assistance, construction and property management assistance) to CHDOs or similar organizations that engage in community revitalization; and has demonstrated the ability to provide technical assistance and training for community-based developers of affordable housing.
| Note: Any organization funded to assist CHDOs under CD-TA may not undertake CHDO set-aside activities itself within its service area while under cooperative agreement with HUD.
Homeless | • A state;
| • A unit of general local government;
| • A public housing authority; or
| • A public or private nonprofit or for-profit organization, including educational institutions and area-wide planning organizations.
HOPWA | • A for-profit or nonprofit organization;
| • A state; or
| • A unit of general local government.
CDBG | • A state;
| • A unit of general local government;
| • A national or regional nonprofit organization that has membership comprised predominately of entities or officials of entities of CDBG recipients;
| • A for-profit or nonprofit professional and technical services company or firm that has demonstrated knowledge of the CDBG program and the capacity to provide technical assistance services; or
| • A public or private nonprofit or for-profit organization, including educational services and area-wide planning organizations.

All HOME and CHDO (HOME) TA providers applying under this NOFA must now have a minimum number of training and technical assistance staff who have sat for and passed the HOME Certified Specialist—Regulations training as described in Section VB. All TA providers applying to the HOME or CHDO (HOME) TA programs must be able to document staff certification in their application.

A consortium of organizations may apply for one or more CD-TA programs, but one organization must be designated as the applicant. Applicants may propose assistance using in-house staff, sub-contractors, sub-recipients, and local organizations with the requisite experience and capabilities. Where appropriate, applicants should make use of TA providers located in the field office jurisdiction receiving services.

B. Cost Sharing or Matching. None.

C. Other

1. Eligible TA Priorities. Activities eligible for funding under each of the five CD-TA programs must address the TA priorities identified below:

a. HOME TA. HUD has identified five HOME program technical assistance priorities. These priorities that result in measurable performance outputs and outcomes are:

(1) Improve the ability of PJs to design and implement housing programs that reflect sound underwriting, management, and fiscal controls; demonstrate measurable outcomes in the use of public funds; and provide accurate and timely reporting of HOME program accomplishments.

(2) Encourage public-private partnerships that yield an increase in the amount of private dollars leveraged for HOME-assisted projects and result in an increase in the commitment and production of HOME-assisted units.

(3) Assist PJs in developing strategies that ameliorate the affordability gap between rapidly increasing housing costs and the less rapid growth in incomes among low-income households, especially among underserved populations (e.g., residents of the Colonias, homeless persons, persons with disabilities, and residents of an empowerment zone (EZ) designated by HUD or the United States Department of Agriculture (USDA), an urban or rural renewal community designated by HUD (RC), or an enterprise community designated in round II by USDA (EC-II).

(4) Assist PJs in developing strategies that increase and help sustain homeownership opportunities for low-income households—particularly low-income, minority households—and directly result in the commitment and completion of HOME-assisted units.

(5) Improve PJs' ability to incorporate energy efficiency into the planning, design, financing, construction, and operation of affordable housing. This is consistent with the Department's policy priority of Participation in Energy Star as described in the General Section.

b. CHDO (HOME) TA.

(1) HUD has identified three CHDO-specific technical assistance priorities. These priorities that result in measurable performance outputs and outcomes are:

(a) Assist new CHDOs and potential CHDOs in developing the organizational capacity to own, develop, and sponsor HOME-assisted projects. A new CHDO is defined as a nonprofit organization that within three years of the publication of this NOFA was determined by a PJ to qualify as a CHDO. A potential CHDO is defined as a nonprofit organization that is expected by the PJ to qualify as a CHDO and is expected to enter into a written agreement with that PJ to own, develop, or sponsor HOME-assisted housing within 24 months of the PJ determining the organization qualifies as a CHDO.

(b) Improve the HOME program production and performance of existing CHDOs in the areas of:

(i) Program design and management, including underwriting, project financing, property management, and compliance; and

(ii) Organizational management and capacity, including fiscal controls, board development, contract administration, and compliance systems.

(c) Provide organizational support, technical assistance, and training to community groups for the establishment of community land trusts, as defined in section 233(f) of the Cranston-Gonzalez National Affordable Housing Act. These priorities are consistent with the Department's policy priority for Providing Increased Homeownership and Rental Opportunities for Low- and Moderate-Income Persons, Persons with Disabilities, the Elderly, Minorities, and Persons with Limited English Proficiency.

(2) Additional CHDO (HOME) eligible activities are:

(a) Under the “Pass-Through” provision, CD-TA providers may propose to fund various operating expenses for eligible CHDOs that own, develop, or sponsor HOME-assisted housing. Such operating expenses may include reasonable and necessary costs for the operation of the CHDO including salaries, wages, and other employee compensation and benefits; employee education, training and travel; rent; utilities; communication costs; taxes; insurance; equipment, materials, and supplies.

(b) CD-TA providers must establish written criteria for selection of CHDOs receiving pass-through funds. PJs must designate the organizations as CHDOs; and, generally, the organizations should not have been in existence more than three years.

CD-TA providers must enter into an agreement with the CHDO that the agreement and pass-through funding may be terminated at the discretion of HUD if no written legally binding agreement to provide assistance for a specific housing project (for acquisition, rehabilitation, new construction, or tenant-based rental assistance) has been made by the PJ with the CHDO within 24 months of initially receiving pass-through funding. The pass-through amount, when combined with other capacity building and operating support available through the HOME program, cannot exceed the greater of 50 percent of the CHDO's operating budget for the year in which it receives funds, or $50,000 annually.

c. Homeless TA. Homeless TA funds are available to provide McKinney-Vento Homeless Assistance Act, HUD-funded grantees, project sponsors, and potential recipients with skills and knowledge needed to develop and operate projects and activities. These HUD-funded grantees, project sponsors and potential recipients are organized as Continuums of Care (CoCs) for community planning. The assistance may include, but is not limited to, developing, enhancing, and disseminating written information such as papers, monographs, manuals, curriculums, guides, and brochures; and person-to-person exchanges, conferences, training and use of technology.

1. National TA activities are focused on these priorities that result in measurable performance outputs and outcomes:

a. Improve the ability of HUD-funded grantees, project sponsors, and potential recipients as CoCs to participate in the Annual Homeless Assessment Report (AHAR). Develop materials and training for: Reporting bed coverage; extrapolation and data analysis methodologies and documents; data integration; data quality assessments; utilization of AHAR data at the program and/or CoC level; and the collection and analysis of CoC data for Congressionally-directed HMIS-related reports.

b. Assist CoCs with Homeless Management Information System (HMIS) implementation. National technical assistance will relate to data collection, data quality, data analysis, provider participation, HMIS structure and governance, reporting, performance measurement, data warehousing, HMIS Data and Technical Standards and Annual Progress Report (APR).

c. Maintain and enhance the HMIS Web site portal as the vehicle for collection and dissemination of HMIS information.

d. Support collaboration between metropolitan, regional and statewide HMISs. Assistance may include providing state and/or regional HMIS technical assistance coordinators and/or technology to promote effectuating long-distance meeting, conferencing and networking and supporting disaster preparedness and recovery efforts.

e. Develop new and enhance existing materials to facilitate the understanding of the electronic submission process for CoC Homeless Assistance program applications, technical submissions and Annual Progress Reports (APRs) by HUD-funded grantees, project sponsors, and potential recipients.

f. Maintain and enhance the Homelessness Resource Exchange (HRE) as the vehicle for collection and dissemination of information related to homelessness. The Homelessness Resource Exchange is HUD's one-stop shop for information and resources for providers who are assisting persons who are homeless or at risk of becoming homeless;

g. Develop, enhance and deliver curriculums for HUD-funded grantees, project sponsors, and potential recipients on topics including, but not limited to: Performance outcome measures, homeless prevention strategies, comprehensive housing development strategies using collaborative public and private partnerships, CoC governance and structure, organizational capacity, planning, strategies for ending chronic homelessness and increasing access to mainstream services for homeless persons. This priority is consistent with the Department's policy priority for Ending Chronic Homelessness as described in the General Section.

2. Local TA activities are focused on these priorities that result in measurable performance outputs and outcomes:

a. Capacity building for HUD-funded grantees, project sponsors, and potential recipients including information that would help these stakeholders carry out the purposes of the McKinney-Vento Act homeless assistance programs and assist in identifying and overcoming barriers.

b. Delivery of approved curricula to assist HUD-funded grantees, project sponsors, and potential recipients with understanding program requirements and monitoring standards, including sound fiscal and financial management practices, assessment of subrecipients and providing TA to help CoCs assess grantees, project sponsors, and individual projects.

c. Assisting HUD-funded grantees, project sponsors, and potential recipients to improve access to mainstream systems of care.

d. HOPWA TA. HOPWA funds are available for technical assistance, training, and oversight activities which can be used to provide grantees, project sponsors, and potential recipients with the skills and knowledge to effectively develop, operate, evaluate, and oversee HOPWA-eligible project activities that result in measurable performance outputs and outcomes consistent with the HOPWA program. HOPWA TA, including program training and support is to be developed and conducted in collaboration with HUD field office oversight of local HOPWA-assisted activities. The national TA priority is directed toward the development and implementation of activities that promote successful HOPWA grantee performance management and reporting under the national performance goal of increasing housing stability, reducing risks of homelessness, and improving access to care for HOPWA beneficiaries. This priority is consistent with the departmental policy priorities of Ending Chronic Homelessness and Providing Increased Homeownership and Rental Opportunities for Low- and Moderate-Income Persons, Persons with Disabilities, the Elderly, Minorities and Persons with Limited English Proficiency as described in the General Section.

e. CDBG TA. HUD may provide CDBG program technical assistance to meet specified objectives, in particular the facilitating of skills and knowledge in planning, developing, and administering activities under the CDBG program for recipients and other entities that may need but do not possess such skill and knowledge, including measuring programs and activities under the CDBG program. These technical assistance funds will support local and state grantees' efforts in these areas as well as program management, reporting accomplishments, and analytical support of information for performance measurement. TA activities that result in measurable performance outputs and outcomes are focused on the following priorities:

(1) Improve CDBG recipient knowledge and skills to implement the CPD Performance Measurement system.

(2) Improve CDBG recipient knowledge and understanding of reporting accomplishments and the importance of measuring performance from a national programmatic perspective.

(3) Develop and deliver training on implementing the re-engineered Integrated Disbursement and Information System (IDIS).

(4) Improve CDBG program knowledge through training of recipients, subrecipients, and subgrantees on CDBG program regulations and financial management requirements.

(5) Increase program knowledge of the CDBG Section 108 program through program-specific recipient training.

(6) Develop model protocols that ensure accurate, required program recordkeeping and performance data by recipients, subrecipients, and subgrantees.

(7) Develop materials for grantees, subrecipients, and subgrantees on energy conservation or other Departmental or programmatic priorities. This is consistent with the Department's policy priority of Participation in Energy Star as described in the General Section.

2. Eligible National TA and Local TA Activities. There are two types of technical assistance (TA) funding available in this NOFA: National TA and Local TA.

National TA activities are those that address, at a nationwide level, one or more of the CD-TA program activities and/or priorities identified in Section III.C. of this NOFA. National TA activities may include the development of written products, development of on-line materials, development of training courses, delivery of training courses previously approved by HUD, organization and delivery of workshops and conferences, and delivery of direct TA as part of a national program.

Local TA activities also must address the CD-TA program activities and/or priorities identified in this NOFA; however, the Local TA is targeted to the specific needs of the HUD community development program recipients in the field office area in which the TA is proposed. Local TA activities are limited to the development of need assessments, direct TA to HUD community development program recipients, organization and delivery of workshops and conferences, and customization and delivery of previously HUD-approved trainings.

3. Threshold Requirements. Applicants must meet the Threshold requirements in the General Section to receive an award of funds from HUD. Please carefully read the General Section.

4. False Statements. An applicant's false statement in an application is grounds for denial or termination of an award and grounds for possible punishment as provided in 18 U.S.C. 1001.

5. Program Requirements. The following program requirements apply to the CD-TA programs:

a. Training. When conducting training sessions as part of its CD-TA activities, CD-TA providers are required to:

(1) Design the course materials as “step-in” packages so that HUD or other CD-TA providers may independently conduct the course on their own;

(2) Make the course materials available to the GTR in sufficient time for review (minimum of three weeks) and receive concurrence from the GTR on the content and quality prior to delivery;

(3) Provide all course materials in an electronic format that will permit wide distribution among TA providers, field offices, and HUD grantees;

(4) Arrange for joint delivery of the training with multiple providers at the same time and/or location with HUD participation when requested by the GTR;

(5) Deliver HUD-approved training courses that have been designed and developed by others on a “step-in” basis when requested; and

(6) Send trainers to approved “train-the-trainers” sessions. The costs associated with attending these required sessions are eligible under the cooperative agreement.

b. Local Training. The development of new training courses using local TA funds is prohibited. Local TA providers, when conducting training sessions as part of the CD-TA program, are required to:

(1) Arrange for joint delivery of the training with HUD participation when requested by the GTR;

(2) Deliver only HUD-approved training courses that have been designed and developed by national TA providers or other qualified experts on a “step-in” basis when requested; and

(3) Send trainers to approved “train-the-trainers” sessions. The cost associated with attending these required sessions will be eligible TA costs under the cooperative agreement executed with HUD and will not be the burden of the TA provider.

c. National Training: To ensure that CD-TA funds are used efficiently and that new training courses are not duplicative of existing materials, only national TA providers are allowed to develop new training courses. National TA providers, when developing new training courses or conducting training sessions as part of the CD-TA program, are required to:

(1) Design new course materials as “step-in” packages so that HUD and other CD-TA providers may independently conduct the course;

(2) Make the course material available to the GTR/GTM in sufficient time for review and receive concurrence from the GTR on the content and quality of the material prior to establishing a course delivery date;

(3) Provide all course materials in an electronic format to HUD;

(4) Arrange for joint delivery of the training with HUD participation when requested by the GTR; and

(5) Send trainers to approved “train-the-trainers” sessions. The cost associated with attending these required sessions will be eligible TA costs under the cooperative agreement executed with HUD and will not be the burden of the TA provider.

When National TA providers are undertaking activities in field office jurisdictions, the National TA providers must work cooperatively with HUD field offices. Providers must notify the applicable HUD field office of the planned activities; consider the views or recommendations of that office, if any; follow those recommendations, to the degree practicable; and report to the applicable field office on the accomplishments of the assistance.

d. Affirmatively Furthering Fair Housing (AFFH). The requirements to Affirmatively Further Fair Housing (AFFH) and the requirements of Section 3 of the Housing and Urban Development Act of 1968 (section 3) do not apply pursuant to funding under this NOFA. This does not affect recipients' responsibilities to affirmatively further fair housing or provide employment, contracting, or training opportunities pursuant to Section 3 that may exist by virtue of the receipt of other HUD funding that retains those requirements.

e. Environmental review. Most activities under the CD-TA program are categorically excluded and not subject to environmental review under 24 CFR 50.19(b)(9) or (13), but in the case of CHDO (HOME) TA eligible activities, a proposal for payment of rent as part of CHDO operational costs will be subject to environmental review by HUD under 24 CFR part 50. If an applicant proposes to assist CHDO operating expenses that include rent, the application constitutes an assurance that the applicant and CHDO will assist HUD to comply with 24 CFR part 50; will supply HUD with all available and relevant information to perform an environmental review for the proposed property to be rented; will carry out mitigating measures required by HUD or select an alternate property; and will not lease or rent, construct, rehabilitate, convert or repair the property, or commit or expend HUD or non-HUD funds for these activities on the property to be rented, until HUD has completed an environmental review to the extent required by 24 CFR part 50. The results of the environmental review may require that the proposed property be rejected.

IV. Application and Submission Information

A. Addresses To Request Application Package. Applicants may download the instructions to the application found on the Grants.gov Web site at http://www.Grants.gov./applicants/apply_for_grants.jsp. If you have difficulty accessing the information you may call the Grants.gov Support Desk toll free at 800-518-GRANTS or e-mail your questions to Support@Grants.gov. See the General Section for information regarding the registration process or ask for registration information from the Grants.gov Support Desk.

B. Content and Form of Application Submission. Applicants must submit a separate and distinct application for each of the different program areas (i.e., HOME, CHDO (HOME), Homeless, HOPWA and CDBG) for which they are applying. For applicants that are applying for both national and local TA for the HOME, CHDO and/or Homeless programs, you may limit your submission to two separate applications for each program area (one for national TA and one for local TA), provided you meet the following: (1) The local TA application must identify all field office jurisdictions that you elect to apply in; (2) the application content for each local jurisdiction must be identical; and (3) the dollar amount of TA requested for each jurisdiction is clearly notated.

A completed application consists of an application submitted by an authorized official of the organization and contains all relevant sections of the application, as shown in the checklist below in Section IV.B.4.

1. Number of Copies. HUD requires TA providers applying for assistance under this NOFA to apply electronically through grants.gov. An applicant may submit a written request to waive the electronic submission requirement. Should HUD grant a waiver of the electronic submission requirement, the waiver approval letter will note the number of paper copies the applicant must submit to HUD.

2. Page Limitation and Font Size. Narratives addressing Factors 1-4 must be formatted so that the total number of pages submitted are equal to no more than 25 single sided pages of text based on an 8.5 by 11 inch paper, using a standard 12 point font. Reviewers will not review more than 25 pages for all the factors combined. The one page funding and capacity summary and the list of references for new applicants are not included in the 25 page limit.

3. Prohibition on Materials Not Required. Materials other than what is requested in this NOFA are prohibited. Reviewers will not consider resumes, charts, letters, or any other documents attached to the application.

4. Checklist for Application Submission. Applicants submitting electronic copies should follow the procedures in Sections IV.B. and F. of the General Section. The following checklist is provided as a guide to help ensure that you submit all the required elements. For applicants receiving a waiver of the electronic submission, the paper submission must be in the order provided below. All applicants should enter the applicant name, DUNS number, and page numbers on the narrative pages of the application. All forms are available when you download the application and instructions from http://www.grants.gov/applicants/apply_for_grants.jsphttps://apply.grants.gov/forms_apps_idx.html.

• SF-424, Application for Federal Assistance (see General Section).

• An Application Cover Page indicating in bold (a) the type of TA proposed in the application whether HOME National, HOME Local, CHDO (HOME) National, CHDO Local, Homeless National, Homeless Local, HOPWA National, or CDBG National, (b) the amount of funds requested; and (c) for Local TA, a table showing the jurisdiction(s) proposed in the application and the amount of funds requested for each jurisdiction.

• Narrative addressing Factors 1-4 and a one-page summary highlighting the specific types of eligible TA activities the applicant has the capacity to undertake, and the funding amount requested for each CD-TA program by national or local jurisdiction for which the applicant is applying. (See Section V. Application Review Information.)

• HUD-424-CB, Grant Application Detailed Budget Form (see General Section).

• HUD-424-CBW, Detailed Budget Worksheet for Non-Construction Projects (see General Section).

• If applying for CHDO (HOME) TA, statement as to whether the organization proposes to pass through funds to new CHDOs.

• If applying for the CHDO (HOME) TA, a certification as to whether the organization qualifies as a primarily single-state provider under section 233(e) of the Cranston-Gonzales Affordable Housing Act.

• SF-LLL, Disclosure of Lobbying Activities (see General Section).

• HUD-2880, Applicant/Recipient Disclosure/Update Report (“HUD Applicant Recipient Disclosure Report” on Grants.gov) (see General Section).

• SF-424, Supplement, Survey on Equal Opportunity for Applicants (“Faith Based EEO Survey (SF-424 SUPP)” on Grants.gov) (to be completed by private nonprofit organizations only).

• Form HUD-2994-A (You Are Our Client! Grant Applicant Survey, Optional).

• Form HUD-96011, Third Party Documentation Facsimile Transmittal (“Facsimile Transmittal Form” on Grants.gov) (Used as the cover page to transmit third party documents and other information designed for each specific application for tracking purposes. HUD will not be able to match faxes to an application if the application does not contain the HUD-96011 fax cover page, and each fax submitted does not use the HUD-96011 as the cover page to the facsimile transmission.

C. Submission Dates and Times. Your completed application must be received and validated electronically by Grants.gov no later than 11:59:59 p.m. Eastern time on the deadline date. The validation process can take 24-48 hours following receipt of the application by Grants.gov. Applicants are advised to submit the application 72 hours prior to the deadline date so that if the application is rejected by Grants.gov, the applicant has enough time to correct the noted problem and resubmit the application in time to meet the deadline requirements. (See General Section for further information on the Grants.gov validation process.)

HUD has found that the most common error made by grantees which causes their application to fail validation is that the applicant ID and password does not match the DUNS number under which they are applying, or the applicant is not authorized by the organization to submit the application on behalf of the organization. Please make sure when submitting your application that you are using the correct DUNS number, User ID and password, that you have registered at Grants.gov under that DUNS number and USER ID and password, and that you have been authorized by the organization to submit the application on behalf of the applicant. To check your registration status, follow the directions provided in the General Section.

D. Intergovernmental Review. Intergovernmental review is not applicable to CD-TA applications.

E. Other Submission Requirements. The General Section describes application submission procedures and how applicants may obtain proof of timely submission.

1. Waiver of Electronic Submission Requirements. Applicants interested in applying for funding under this NOFA must submit their applications electronically via Grants.gov or request a waiver from the Community Development Technical Assistance program. Applicants should submit their waiver requests in writing by e-mail. Waiver requests must be submitted no later than 15 days prior to the application deadline date and should be submitted to Mark.A.Horwath@hud.gov. HUD only provides waivers for cause under the waiver provisions of 24 CFR 5.110. Instructions regarding the number of copies to submit and the address where they must be submitted will be contained in any approval of the waiver request. Paper submissions must be received at the appropriate HUD office(s) no later than the deadline date.

V. Application Review Information

A. Capacity and Funding Summary. All CD-TA applicants are required to submit a one-page capacity and funding summary for each CD-TA application submitted. Although the capacity and funding summary will not be rated based on the factors listed in Section V, Subpart B. below, the summary is a submission requirement for the CD-TA program. HUD will use the summary to determine the national or field office area for which the applicant is applying; the types of TA activities the applicant is willing to undertake based on staff skill and experience; and given the organizational capacity of the applicant, a funding amount the applicant can reasonably expect to expend within the requirements and timeframes of the CD-TA program.

The summary must include:

1. A list of the eligible TA activities the applicant is prepared to undertake, based on the applicant's organizational capacity and staff skills. See Section III C, 2 Eligible TA Activities for a list of eligible national and local TA activities.

2. A funding estimate, by national and/or field office jurisdiction, that the applicant believes it can reasonably expend within the three-year performance period based on organizational capacity and the eligible TA activities the applicant is prepared to undertake.

B. Criteria. The maximum number of points to be awarded for a CD-TA application is 100. The minimum score for an application to be considered for funding is 75 with a minimum of 35 points on Factor 1. The CD-TA program is not subject to bonus points, as described in the General Section.

Points are assigned on four factors. Applicants should review the factors carefully as the criteria have changed significantly from prior years' requirements. When addressing the four factors, applicants should discuss the relevant successful experience of both their organization as a whole, and the individual staff and dedicated contractors who may work under the award if the application is funded. Applicants should also address the overall management of the award including policies and procedures for ensuring that all CD-TA program requirements are met and quality products are developed and delivered. Please note that Factor 2—Need—as identified in the General Section does not apply under the CD-TA program.

Rating Factor 1: Applicant's Capacity and Relevant Experience (50 points) (Minimum for Funding Eligibility is 35 points)

a. (25 points) Recent experience. For new applicants or applicants funded in the past that do not have an open HUD CD-TA award: Provide examples of recent experience (within the past 18 months) managing technical assistance awards similar to the programs covered under the CD-TA NOFA within a client-driven environment. Examples should include a discussion of the tasks undertaken, individuals served, training skills and related CD-TA program knowledge required to complete the tasks, and measurable results achieved. All new applicants must also include at least two references for recent, technical assistance work similar to the programs covered under the CD-TA NOFA and undertaken by the applicant. References should only include a contact name, address, phone number and e-mail address in order for HUD to verify the information.

For current CD-TA providers: Provide examples of recent experience (within the past 18 months) managing existing CD-TA award programs within the demand-response system. Examples should include a discussion of the specific TA tasks undertaken, program beneficiaries served, program topics addressed, and quantifiable outcomes achieved. Current CD-TA providers should also note any outstanding performance issues under open CD-TA awards, and the steps the TA provider is taking to address these issues. HUD will rely on existing CD-TA file documentation when evaluating this factor.

HUD will evaluate this factor based upon the breadth and accuracy of the applicant's program knowledge, ability to provide and deliver technically accurate TA, compliance with cooperative agreement provisions, financial and performance reporting requirements, timeliness of drawdown of funds and close-out of expired grants. Customer feedback from CPD program offices will also be used to judge an applicant's performance and effectiveness.

b. (25 points) Organizational capacity. In narrative form, describe the technical assistance skills and related CD-TA program knowledge of your organization's key staff and, based on the organization's capacity, identify the types of TA activities the applicant is prepared to undertake and how this will further the TA priorities of the programs for which you are seeking funding. To the extent that the applicant addresses the HUD policy priority(s) noted in the General Section for each program in this NOFA, the applicant will receive a minimum of one point of the 25 points available for this subfactor.

Key staff is defined as all in-house staff and hired consultants who will be developing technical assistance products and/or delivering training courses, conferences, or direct TA. Applicants should include specific examples of each key staff member's TA skills and areas of expertise. For all HOME and CHDO (HOME) TA providers, identify the key staff who have passed, with a score of 80 or higher, the HOME Program Certification Regulations course. Applicants should refer to Section III C.2 for a complete list of the eligible TA activities applicants may undertake with national or local CD-TA funds. The applicant's description of staff capacity should clearly support the specific types of TA activities the applicant is willing and able to undertake with CD-TA funds. In rating this subfactor, HUD will evaluate each key staff member's program knowledge, and TA skills. FOR HOME and CHDO (HOME) TA providers, HUD will measure an organization's HOME program knowledge, in part, by the number of key staff identified in the application who have passed the HOME Program Certified Specialist-Regulations exam. Up to 10 points is available under this subfactor for organizations demonstrating a sufficient number of HOME Program Certified staff to carry out a demand-response program of activities. Applicants for local HOME and CHDO (HOME) TA must have at least one staff person who is “HOME certified” to receive any points on this portion of the subfactor; applicants for national HOME and CHDO (HOME) TA must have at least two staff people who are “HOME certified” to receive any points. For local and national HOME and CHDO (HOME) TA only, points for this portion of the subfactor will be awarded as follows:

Local TA applicants number of HOME program certified staff | National TA applicants number of HOME program certified staff | Points
1 | 2 | 4
2 | 3-4 | 6
3 | 5-6 | 8
4 or more | 7 or more | 10

HUD will also compare the specific types of TA activities the applicant is willing to undertake in relation to stated staff capacity. Staff program knowledge and TA skills should clearly support the possible TA activities the applicant may undertake.

Rating Factor 2: Soundness of Approach (35 points)

a. (5 points) Key management staff. The successful administration and management of a technical assistance award is key to: (1) The timeliness of delivery of required technical assistance; (2) the sound financial management of the project; and (3) the appropriate prioritization of multiple technical assistance needs. In evaluating the soundness of approach under this rating factor, HUD will consider the breadth of key management staff experience administering multiple, complex tasks within the demand-response system, or a similar client-driven environment. Applicants should clearly demonstrate recent experience managing and coordinating financial resources, and administrative, training, and consultant staff among complex and varied technical assistance tasks. HUD will also evaluate the roles and responsibilities key management staff would assume under a CD-TA award in light of each individual's recent experience.

Identify the key staff responsible for the overall management and administration of the CD-TA award. Key management staff is defined as any individual who will have decision-making authority related to the financial or task management, performance reporting, or overall coordination of the award. The applicant must identify key management staff, including their individual roles and responsibilities, as well as their recent experience (within the past 18 months), managing people and tasks within the demand-response system or a similar client-driven environment. Please do not include the Social Security Numbers (SSN) of any staff members.

b. (20 points) Procedures. Present detailed, practical policies and procedures for managing multiple, large and/or complex technical assistance awards in multiple jurisdictions. The policies and procedures must discuss how the applicant will manage TA activities within the specific structure of the demand-response system, including processes for fielding TA needs from HUD; assigning appropriate skilled and knowledgeable staff to develop or provide the TA; prioritizing and managing multiple TA needs, to multiple entities, in multiple jurisdictions; providing feedback to HUD on TA progress and outcomes; and addressing and effectively resolving any delays encountered. In rating this factor, HUD will consider the level of detail and efficiency of the applicant's proposed processes for fielding and prioritizing multiple TA needs, allocating limited CD-TA financial resources among multiple TA tasks, and coordinating and assigning skilled in-house and consultant staff to address multiple TA needs, to multiple entities in multiple jurisdictions. HUD will also evaluate the suitability of the applicant's proposed policies and procedures within the specific structure of the demand-response system.

c. (10 points) Quality control. Present a detailed plan for ensuring that all TA products developed or delivered under the CD-TA program are of the highest quality. Applicants should present a detailed plan for ensuring that all TA activities are eligible, accurate program guidance is provided, correct beneficiaries are served, and positive outcomes are achieved. The applicant should also present a detailed plan for addressing and remediating any eligibility or product quality issues that may arise. In rating this factor, HUD will review the applicant's quality control procedures for thoroughness and efficiency, and the likelihood that such procedures will ensure that positive outcomes are achieved. Applicants should clearly describe established policies and procedures for ensuring the eligibility, accuracy, and quality of all aspects of TA development and delivery. The applicant should also present a detailed remediation plan should any eligibility or quality issues arise.

Rating Factor 3: Leveraging Resources (5 points)

Present an effective, practical plan for transferring products developed through the CD-TA program, including manuals, guides, assessment forms, and other work products, to other TA providers and program beneficiaries. The applicant's plan should address the re-use of existing “step-in” packages and how it will share its resources with a wide audience, avoiding the cost and time in creating new products, so that the duplication of TA products does not occur. In rating this factor, HUD will evaluate the extent to which the application demonstrates a practical and effective means of sharing TA resources with a wide audience, including other TA providers and program beneficiaries.

Rating Factor 4: Achieving Results and Program Evaluation (10 points)

For each program priority, the applicant must identify at least two quantifiable outcomes. For a complete list of TA priorities by program area refer to Section III, Subpart C., Eligible Activities and Priorities. For each of the eligible TA activities an applicant may undertake (i.e., development of written and electronic products, training delivery, direct TA), describe the general methods and measures the applicant will use to evaluate the effectiveness of the TA. While the specific TA topics to be addressed by successful applicants will be identified post-award through the demand-response system, HUD has identified the broad eligible activities that encompass technical assistance. The applicant must present a clear plan for evaluating the effectiveness of each of the possible TA activities the applicant may be asked to undertake and deliver. For a complete list of eligible national and field office TA activities under the CD-TA program, refer to Section III C.2., Description of National and Local TA.

Note that although not a submission requirement under this year's CD-TA NOFA, successful applicants will be required to submit a completed Logic Model. Though not part of the rating factors, the logic model submitted after selection and under the guidance of the GTR will be evaluated for completeness and consistency based upon the matrix in the General Section. HUD reserves the right to request modifications to the Logic Model submissions and require the TA providers to update the Logic Model, based on activities carried out under the demand-response system. In rating this factor, HUD will evaluate whether the outcomes identified by the applicant are both measurable and appropriately related to each program priority. HUD will also assess whether the TA evaluation methods described by the applicant will thoroughly and accurately measure the effectiveness of each eligible TA activity identified.

C. Review and Selection Process

1. Review Types. Two types of reviews will be conducted. First, HUD will review each application to determine whether it meets threshold eligibility requirements.

Second, HUD will review and assign scores to applications using the Factors for Award noted in Section V.A.

2. Ranked Order.

a. Once rating scores are assigned, rated applications submitted for each National TA program and for each Local TA program will be listed in ranked order. Applications within the fundable range (score of 75+ points with 35+ points for Factor 1) may then be funded in ranked order under the CD-TA program and service area for which they applied.

b. For purposes of coordinating activities on a national basis, HUD reserves the right to select a single national provider to carry out activities, as follows:

(1) One for HOPWA technical assistance activities, including national products and local support;

(2) One for HMIS technical assistance activities;

(3) One for HOME and one for CHDO (HOME) technical assistance activities;

(4) One for CDBG technical assistance activities.

3. Threshold Eligibility Requirements. All applicants requesting CD-TA must be in compliance with the applicable threshold requirements found in the General Section and the eligibility requirements listed in Section III of this NOFA in order to be reviewed, scored, and ranked. Applications that do not meet these requirements and applications that were received after the deadline (see Section IV.C of the General Section) will be considered ineligible for funding.

4. Funding Decisions. In determining the amount awarded to each successful applicant, HUD will take into consideration the funds available for the CD-TA program and local or national area the applicant wishes to serve; the number of successful CD-TA applicants for that area and program; the applicant's current organizational capacity as presented in the application, including the number of qualified, experienced TA staff and consultants; the final score assigned to the application by HUD reviewers; and for current or past CD-TA providers, the applicant's performance under existing or past CD-TA awards.

HUD has established a $200,000 minimum funding amount for successful national CD-TA applicants. For successful field office applicants, HUD has established a $50,000 award minimum under both the HOME and CHDO (HOME) TA programs, and a $15,000 award minimum for successful Homeless TA program applicants. All HOME and CHDO (HOME) awards are subject to the funding restrictions identified in Section V.B.5 which in some cases may result in a funding award below the established minimum.

Additionally, HUD may reduce the amount of funds allocated for field office jurisdictions to fund National CD-TA providers and other CD-TA providers for activities that cannot be fully budgeted for or estimated by HUD Headquarters or field offices at the time this NOFA was published. HUD may also require selected applicants, as a condition of funding, to provide coverage on a geographically broader basis than proposed in order to supplement or strengthen the CD-TA network in terms of the size of the area covered and types and scope of TA proposed.

If funds remain after all selections have been made, the remaining funds may be distributed among field offices for Local TA and/or used for National TA, or made available for other CD-TA program competitions.

5. Funding Restrictions. An organization may not provide assistance to itself. An organization may not provide assistance to another organization with which it contracts or sub-awards funds to carry out activities under the TA award.

Funding from HOME and from CHDO (HOME) TA to any single eligible organization (excluding funds for organizational support and housing education “passed through” to CHDOs), whether as an applicant or sub-recipient is limited to not more than 20 percent of the operating budget of the recipient organization for any one-year period of each cooperative agreement. In addition, funding under either HOME or CHDO (HOME) TA to any single organization is limited to 20 percent of the $12.5 million appropriated for HOME and CHDO (HOME) TA in FY2008. This limitation as applied in this competition is subject to change by pending legislative action.

Not less than 40 percent of the approximately $8.5 million for CHDO (HOME) shall be made available for eligible TA providers that have worked primarily in one state. HUD will consider an applicant as a primarily single state TA provider if it can document that more than 50 percent of its past activities in working with CHDOs or similar nonprofit and other organizations (on the production of affordable housing, revitalization of deteriorating neighborhoods, and/or the delivery of technical assistance to these groups) was confined to the geographic limits of a single state.

No fee or profit may be paid to any recipient or sub-recipient of an award under this CD-TA NOFA.

Salary rates for consultants/contractors may not exceed the base rate of pay of Senior Executive Staff (see the General Section).

VI. Award Administration Information

A. Award Notices. HUD will send written notifications to both successful and unsuccessful applicants. A notification sent to a successful applicant is not an authorization to begin performance.

After selection, HUD requires that all selected applicants participate in negotiations to determine the specific terms of the cooperative agreement, including the budget. Costs may be denied or modified if HUD determines that they are not allowable, allocable, and/or reasonable. In cases where HUD cannot successfully conclude negotiations with a selected applicant or a selected applicant fails to provide HUD with requested information, an award will not be made to that applicant. In this instance, HUD may offer an award, and proceed with negotiations with the next highest-ranking applicant.

After selection for funding but prior to executing the cooperative agreement, the selected applicant must develop in consultation with the GTR, a Technical Assistance Delivery Plan (TADP) for each National TA award. The TADP must be approved by the GTR and delineate the tasks for each CD-TA program the applicant will undertake during the performance period. For Local TA awards and generally for National TA awards, prior to undertaking individual tasks, the selected applicant must develop in consultation with the GTR a Work Plan for specific activities. The TADP and the Work Plans must specify the location of the proposed CD-TA activities, the amount of CD-TA funding and proposed activities by location, the improved program performance or other results expected from the CD-TA activities, and the methodology to be used for measuring the success of the CD-TA. A detailed time schedule for delivery of the activities, budget summary, budget-by-task, staffing plan, and completed Logic Model must be included in the TADP and Work Plans.

After selection, but prior to award, applicants selected for funding will be required to provide HUD with their written Code of Conduct if they have not previously done so and it is not recorded on the HUD Web site at http://www.hud.gov/offices/adm/grants/codeofconduct/cconduct.cfm.

B. Administrative and National Policy Requirements. After selection for funding but prior to award, applicants must submit financial and administrative information to comply with applicable requirements. These requirements are found in 24 CFR part 84 for all organizations except states and local governments whose requirements are found in 24 CFR part 85. Cost principles requirements are found at OMB Circular A-122 for nonprofit organizations, OMB Circular A-21 for institutions of higher education, OMB Circular A-87 for states and local governments, and at 48 CFR 31.2 for commercial organizations. Applicants must submit a certification from an Independent Public Accountant or the cognizant government auditor, stating that the applicant's financial management system meets prescribed standards for fund control and accountability.

See the General Section for requirements for Procurement of Recovered Materials.

C. Reporting. CD-TA awardees will be required to report to the GTR on, at a minimum, a quarterly basis unless otherwise specified in the cooperative agreement. As part of the required report to HUD, grant recipients must include a completed Logic Model (HUD 96010), which identifies actual outputs and outcomes achieved and a narrative explanation of deviations from projected results to actual results achieved. Deviations can be both positive and negative deviations.

VII. Agency Contacts

A. For Assistance. Applicants may contact HUD Headquarters at 202-708-3176, or they may contact the HUD field office serving their area shown in Section VII.B. Persons with hearing and speech challenges may access the above numbers via TTY (text telephone) by calling the Federal Relay Service at 800-877-8339 (this is a toll-free number). Information may also be obtained through the HUD Web site on the Internet at http://www.hud.gov.

B. List of Field Office Addresses. Applicants that receive a waiver of the electronic application submission requirements and need to submit copies of their application to HUD field offices should consult the following Web site for a listing of the HUD field office addresses to send Local TA applications: http://www.hud.gov/offices/cpd/about/staff/fodirectors/index.cfm. At the site, the map allows the user to click on an area to obtain the field office address and other contact information.

VIII. Other Information

A. Paperwork Reduction Act. The information collection requirements contained in this document have been approved by the Office of Management and Budget (OMB) under the Paperwork Reduction Act of 1995 (44 U.S.C. 3501-3520) and assigned OMB control numbers 2506-0166 and 2506-0133. In accordance with the Paperwork Reduction Act, HUD may not conduct or sponsor, and a person is not required to respond to, a collection of information unless the collection displays a currently valid OMB control number. Public reporting burden for the collection of information is estimated to average 60 hours for the application and grant administration. This includes the time for collecting, reviewing, and reporting the data. The information will be used for grantee selection and monitoring the administration of funds. Response to this request for information is required in order to receive the benefits to be derived.

B. HUD Reform Act. The provisions of the HUD Reform Act of 1989 that apply to the CD-TA program are explained in the General Section.

Community Development Block Grant Program For Indian Tribes And Alaska Native Villages

Overview Information

A. Federal Agency Name: Department of Housing and Urban Development, Office of the Assistant Secretary for Public and Indian Housing, Office of Native American Programs (ONAP).

B. Funding Opportunity Title: Community Development Block Grant (ICDBG) Program for Indian Tribes and Alaska Native Villages.

C. Announcement Type: Initial Announcement.

D. Funding Opportunity Number: The Federal Register number is FR-5200-N-12. The OMB Approval Number is 2577-0191.

E. Catalog of Federal Domestic Assistance (CFDA) Number(s): The Catalog of Federal Assistance (CFDA) Number for the ICDBG program is 14.862.

F. Dates: Application Deadline: Applications must be received and validated no later than the deadline date of July 11, 2008. Please see Section IV of this NOFA for application submission and timely receipt requirements. Applicants should also read the General Section, published March 19, 2008 (73 FR 14882), for additional information regarding the electronic application submission and receipt requirements.

G. Additional Information:

1. Applicants for funding should carefully review the requirements described in this NOFA and the General Section. Unless otherwise stated in this NOFA, the requirements of the General Section apply.

2. The total approximate amount of funding available for the ICDBG program for fiscal year 2008 is $62 million less $3.96 million retained to fund Imminent Threat Grants, for a total of $58.04 million. Funds that are carried over from previous fiscal years or are recaptured may also be used for grant awards under this NOFA.

3. Eligible applicants are Indian tribes or tribal organizations on behalf of Indian tribes. Specific information on eligibility is located in Section III.A. of this NOFA.

4. Only one ICDBG application may be submitted for each area within the jurisdiction of an entity eligible under 24 CFR part 1003. An application may include more than one project, but it cannot exceed the grant ceilings listed in Section II.

Full Text Of Announcement

I. Funding Opportunity Description

A. General. Title I of the Housing and Community Development Act of 1974, which authorizes Community Development Block Grants, requires that grants for Indian tribes be awarded on a competitive basis. All grant funds awarded in accordance with this NOFA are subject to the requirements of 24 CFR part 1003. Applicants within an Area ONAP's geographic jurisdiction compete only against each other for that Area ONAP's allocation of funds.

B. Authority. The authority for this program is Title I of the Housing and Community Development Act of 1974 (42 U.S.C. 5301 et seq.) and the program regulations in 24 CFR part 1003.

C. Program Description. The purpose of the ICDBG program is the development of viable Indian and Alaska Native communities, including the creation of decent housing, suitable living environments, and economic opportunities primarily for persons with low- and moderate-incomes as defined in 24 CFR 1003.4. The ONAP in HUD's Office of Public and Indian Housing administers the program.

1. Single Purpose Grants. Projects funded by the ICDBG program must meet the primary objective, defined at 24 CFR 1003.2, to principally benefit low- and moderate-income persons. Consistent with this objective, not less than 70 percent of the expenditures of each single-purpose grant shall be for activities that meet the regulatory criteria at 24 CFR 1003.208 for:

a. Area Benefit Activities

b. Limited Clientele Activities

c. Housing Activities

d. Job Creation or Retention Activities

ICDBG funds may be used to improve housing stock, provide community facilities, improve infrastructure, and expand job opportunities by supporting the economic development of the communities, especially by nonprofit tribal organizations or local development corporations.

ICDBG single-purpose grants are distributed as annual competitive grants, in response to this NOFA.

2. Imminent Threat Grants. ICDBG imminent threat grants are intended to alleviate or remove threats to health or safety that require an immediate solution as described at 24 CFR part 1003, subpart E. The problem to be addressed must be such that an emergency situation exists or would exist if the problem were not addressed. The grants provide a solution to problems of an urgent nature that were not evident at the time of the ICDBG single-purpose funding grant cycle or require immediate action.

You do not have to submit a request for imminent threat funds by the deadline established in this NOFA. The deadline applies only to applications submitted for assistance under 24 CFR part 1003, subpart D, single-purpose grants. Imminent threat requests may be submitted at any time after NOFA publication, and if the following criteria are met, the request may be funded until the amount set aside for this purpose is expended:

a. Independent verification from a third party (i.e., Indian Health Service, Bureau of Indian Affairs) of the existence, immediacy, and urgency of the threat must be provided;

b. The threat must not be recurring in nature, i.e., it must represent a unique and unusual circumstance that has been clearly identified by the tribe or village;

c. The threat must affect or impact an entire service area and not solely an individual family or household; and

d. It must be established that funds are not available from other tribal or federal sources to address the problem. The tribe or village must verify that federal or local agencies that would normally provide assistance for such improvements have no funds available by providing a written statement to that effect. The tribe or village must also verify in the form of a tribal council resolution (or equivalent) that it has no available funds, including unobligated Indian Housing Block Grant funds, for this purpose.

If, in response to a request for assistance, an Area ONAP issues you a letter to proceed under the authority of 24 CFR 1003.401(a), then your application must be submitted to and approved by the Area ONAP before a grant agreement may be executed. Contact your Area ONAP office for more information on imminent threat grants.

D. Definitions Used in this NOFA

1. Adopt. To approve by formal tribal resolution.

2. Document. To supply supporting written information and/or data in the application that satisfies the NOFA requirement. Documentation should clearly and concisely support your response to the rating factor.

3. Entity Other Than Tribe. Entities other than the tribe must have the following characteristics:

(a) Must be legally distinct from the tribal government; (b) their assets and liabilities cannot be considered to be assets and liabilities of the tribal government; (c) claims against such entities cannot be made against the tribal government; and (d) must have governing boards, boards of directors, or groups or individuals similar in function and responsibility to such boards which are separate from the tribe's general council, tribal council, or business council, as applicable.

4. Firm Commitment. A letter of commitment from a partner by which an applicant's partner agrees to perform an activity specified in the application, demonstrates the financial capacity to deliver the resources necessary to carry out the activity, and commits the resources to the activity, either in cash or through in-kind contributions.

5. Homeownership Assistance Programs. Tribes may apply for assistance to provide direct homeownership assistance to low- and moderate-income households to: (a) Subsidize interest rates and mortgage principal amounts for low- and moderate-income homebuyers; (b) finance the acquisition by low- and moderate-income homebuyers of housing that is occupied by the homebuyers; (c) acquire guarantees for mortgage financing obtained by low- and moderate-income homebuyers from private lenders (except that ICDBG funds may not be used to guarantee such mortgage financing directly, and grantees may not provide such guarantees directly); (d) provide up to 50 percent of any down payment required from a low- and moderate-income homebuyer; or (e) pay reasonable closing costs (normally associated with the purchase of a home) incurred by a low- or moderate-income homebuyer.

6. Leveraged Resources. Leveraged resources are resources that you will use in conjunction with ICDBG funds to achieve the objectives of the project. Leveraged resources include, but are not limited to: Tribal trust funds, loans from individuals or organizations, business investments, private foundations, state or federal loans or guarantees, other grants, and non-cash contributions and donated services. (See Rating Factor 4 for documentation requirements for leveraged resources.)

7. Microenterprise Programs. Tribes may apply for assistance to operate programs to fund the development, expansion, and stabilization of microenterprises. Microenterprises are defined as commercial entities with five or fewer employees, including the owner. Microenterprise program activities may entail the following assistance to eligible businesses: (a) Providing credit, including, but not limited to, grants, loans, loan guarantees, and other forms of financial support for the establishment, stabilization, and expansion of microenterprises; (b) providing technical assistance, advice, and business support services to owners of microenterprises and persons developing microenterprises; and (c) providing general support, including, but not limited to, peer support programs, counseling, child care, transportation, and other similar services to owners of microenterprises and persons developing microenterprises.

8. New Applicant. An applicant that has either never applied for an ICDBG or an applicant whose prior grants have either been closed or closed subject to audit for more than two years prior to the application deadline date.

9. Operations and Maintenance (O&M) for Public Facilities and Improvements. There are items of expense related to the operation of the physical plant that must be addressed in an O&M plan if the tribe assumes responsibility or if an entity other than the tribe will assume these responsibilities. Although the tribe or other entity does not have to submit the O&M plan with the application, it must provide a written statement that the tribe has adopted (or the entity has developed) an O&M plan and that the plan addresses several items. These items include daily or other periodic maintenance activities, repairs such as replacing broken windows, capital improvements or replacement reserves for repairs such as replacing the roof, fire and liability insurance (may not be applicable to most types of infrastructure projects such as water and sewer lines), and security (may not be applicable to many types of infrastructure projects such as roads). (Please note that while it is possible that the service provider may, in its agreement with a tribe, commit itself to cover certain or all facility O&M costs, these costs do not include the program service provision costs related to the delivery of services (social, health, recreational, educational, or other) that may be provided in a facility).

10. Outcomes. The ultimate impact you hope to achieve with the proposed project. Outcomes should be quantifiable measures or indicators and identified in terms of the change in the community, people's lives, economic status, etc. Common outcomes could include increases in percent of housing units in standard condition, homeownership rates, or employment rates.

11. Outputs. Outputs are the direct products of a program's activities. They are usually measured in terms of the volume of work accomplished, such as the number of low-income households served, number of units constructed or rehabilitated, linear feet of curbs and gutters installed, or number of jobs created or retained. Outputs should be clear enough to allow HUD to monitor and assess your proposed project's progress if funded.

12. Project Cost. The total cost to implement the project. Project costs may be covered by both ICDBG and non-ICDBG funds and resources.

13. Standard Housing/Standard Condition. Housing that meets the housing quality standards (HQS) adopted by the applicant. The HQS adopted by the applicant must be at least as stringent as the Section 8 HQS contained in 24 CFR 982.401 (Section 8 Tenant-Based Assistance: Housing Choice Voucher program) unless the ONAPs approve less stringent standards based on a determination that local conditions make the use of Section 8 HQS infeasible. Before the application deadline, you may submit a request for the approval of standards less stringent than Section 8 HQS. If you submit the request with your application, you should not assume automatic approval by ONAP. The adopted standards must provide for: (a) A safe house, in physically sound condition with all systems performing their intended design functions; (b) a livable home environment and an energy efficient building and systems that incorporate energy conservation measures; and (c) adequate space and privacy for all intended household members.

14. Statement. When a “written statement” is requested for any threshold, program requirement, or rating factor, the applicant must address in writing the specific item cited.

15. Tribe. The word “tribe” means an Indian tribe, band, group or nation, including Alaska Indians, Aleuts, Eskimos, Alaska Native Villages, Alaska Native Claims Settlement Act (ANCSA) Village Corporations, and ANCSA Regional Corporations.

II. Award Information

A. Available Funds. The fiscal year 2008 appropriation for the ICDBG program is $62 million, less $3.96 million retained to fund Imminent Threat Grants, for a total of $58.04 million. Funds that are carried over from previous fiscal years or are recaptured may also be used for grant awards under this NOFA. In accordance with the provisions of 24 CFR part 1003, subpart E, HUD has retained $3.96 million of the FY2008 appropriation to meet the funding needs of imminent threat requests submitted to any of the Area ONAPs. The grant ceiling for imminent threat requests for FY2008 is $450,000 ($900,000 for Presidentially-declared disasters). This ceiling has been established pursuant to the provisions of 24 CFR 1003.400(c).

B. Allocations to Area ONAPs. The requirements for allocating funds to Area ONAPs responsible for program administration are found at 24 CFR 1003.101. Following these requirements, based on an appropriation of $62 million less $3.96 million for imminent threat grants, the allocations for FY 2008 are approximately as follows:

Eastern/Woodlands: $6,605,812

Southern Plains: $12,436,112

Northern Plains: $8,281,588

Southwest: $21,552,470

Northwest: $2,990,960

Alaska: $6,173,058

Imminent Threats $3,960,000

Total $62,000,000

C. Grant Ceilings. The authority to establish grant ceilings is found at 24 CFR 1003.100(b)(1). Grant ceilings are established for FY 2008 funding at the following levels:

Area ONAP | Population | Ceiling
Eastern Woodlands | ALL | $600,000
Southern Plains | ALL | 800,000
Northern Plains | 6,001+ | 1,100,000
| 0-6,000 | 900,000
Southwest | 50,001+ | 5,500,000
| 10,501-50,000 | 2,750,000
| 7,501-10,500 | 2,200,000
| 6,001-7,500 | 1,100,000
| 1,501-6,000 | 825,000
| 0-1,500 | 605,000
Northwest | ALL | 500,000
Alaska | ALL | 600,000

For the Southwest Area and Northern Plains ONAP jurisdictions, the population used to determine ceiling amounts is the Native American population that resides on a reservation or rancheria.

Applicants from the Southwest or the Northern Plains ONAP jurisdictions should contact those offices before submitting an application if they are unsure of the population level to use to determine the ceiling amount. The Southwest or Northern Plains Area ONAP, as appropriate, must approve any corrections or revisions to Native American population data before you submit your application.

D. Housing Rehabilitation Cost Limits. Grant funds spent on rehabilitation must fall within the following per-unit limits for each Area ONAP jurisdiction:

Eastern/Woodlands: $35,000

Southern Plains: $35,000

Northern Plains: $50,000

Southwest: $50,000

Northwest: $40,000

Alaska: $75,000

E. Compliance With Regulations, Guidelines, and Requirements

1. Applicants awarded a grant under this NOFA are required to comply with the regulations, guidelines, and requirements with respect to the acceptance and use of federal funds for this federally assisted program.

2. By accepting a grant, the chief executive officer or other official of the applicant approved by HUD:

a. Consents to assume the status of a responsible federal official under the National Environmental Policy Act of 1969 insofar as the provisions of the Act apply to the applicant's proposed program pursuant to 24 CFR 1003.605.

b. Is authorized and consents on behalf of the applicant and him/herself to accept the jurisdiction of the federal courts for the purpose of enforcement of his/her responsibilities as such an official.

Note: Applicants for whom HUD has approved a claim of incapacity to accept the responsibilities of the federal government for purposes of complying with the environmental review requirements of 24 CFR part 58, pursuant to 24 CFR 1003.605, are not subject to the provision of paragraph 2.

F. Period of Performance. The period of performance for any grant awarded under this NOFA must be included in the Implementation Schedule, form HUD-4125, approved by HUD.

III. Eligibility Information

A. Eligible Applicants

Eligible applicants are Indian tribes or tribal organizations on behalf of Indian tribes. To apply for funding, you must be eligible as an Indian tribe (or as a tribal organization), as required by 24 CFR 1003.5, by the application deadline date.

Tribal organizations are permitted to submit applications under 24 CFR 1003.5(b) on behalf of eligible tribes when one or more eligible tribe(s) authorize the organization to do so under concurring resolutions. The tribal organization must itself be eligible under Title I of the Indian Self-Determination and Education Assistance Act. The Bureau of Indian Affairs (BIA) or the Indian Health Service (IHS), as appropriate, must make a determination of such eligibility. This determination must be provided to the Area ONAP by the application deadline.

If a tribe or tribal organization claims that it is a successor to an eligible entity, the Area ONAP must review the documentation to determine whether it is in fact the successor entity.

Applicants from within Alaska: Due to the unique structure of tribal entities eligible to submit ICDBG applications in Alaska, and as only one ICDBG application may be submitted for each area within the jurisdiction of an entity eligible under 24 CFR 1003.5, a tribal organization that submits an application for activities in the jurisdiction of one or more eligible tribes or villages must include a concurring resolution from each such tribe or village authorizing the submission of the application. An application submitted by a tribal organization on behalf of a specific tribe will not be accepted if the tribe itself submits an application for the same funding round. The hierarchy for funding priority continues to be the IRA Council, the Traditional Village Council, the ANCSA Village Corporation, and the ANCSA Regional Corporation.

On April 4, 2008, the BIA published a Federal Register notice entitled, “Indian Entities Recognized and Eligible to Receive Services From the United States Bureau of Indian Affairs” (73 FR 18553). This notice provides a listing of Indian Tribal Entities in Alaska found to be Indian tribes as the term is defined and used in 25 CFR part 83. Additionally, pursuant to Title I of the Indian Self-Determination and Education Assistance Act, ANCSA Village Corporations and Regional Corporations are also considered tribes and therefore eligible applicants for the ICDBG program.

Any questions regarding eligibility determinations and related documentation requirements for entities in Alaska should be referred to the Alaska Area ONAP prior to the application deadline. (See 24 CFR 1003.5 for a complete description of eligible applicants.)

B. Cost Sharing or Matching. Cost sharing or matching is not required under this grant; however, applicants who leverage this grant with other funds receive points. See Section V. A Rating Factor 4.

C. Other

1. HUD Requirements. Applicants for single-purpose grants must comply with the HUD Threshold Requirements listed in the General Section, Section III, C. in order to receive an award of funds.

2. Program-Related Threshold Requirements.

a. Outstanding ICDBG Obligation. According to 24 CFR 1003.301(a), an applicant who has an outstanding ICDBG obligation to HUD that is in arrears, or one that has not agreed to a repayment schedule, will be disqualified from the competition.

b. Compliance with Fair Housing and Civil Rights Laws. Applicants and subrecipients that are not federally recognized Indian tribes or their instrumentalities are subject to the Civil Rights threshold requirements found in the General Section. Federally recognized Indian tribes and their instrumentalities are subject to the requirements of: Title II of the Civil Rights Act of 1964, known as the Indian Civil Rights Act; Section 109 prohibitions against discrimination based on age, sex, religion and disability; the Age Discrimination Act of 1975; and Section 504 of the Rehabilitation Act of 1973. To be eligible to apply, there must be no outstanding violations of these civil rights provisions at the time of application.

3. Project-Specific Threshold Requirements. Applicants must meet all parts of the project-specific threshold applicable to the proposed project. The thresholds are:

a. Housing Rehabilitation Project Thresholds. In accordance with 24 CFR 1003.302(a), for housing rehabilitation projects, you must adopt rehabilitation standards and rehabilitation policies before you submit an application. In addition, you must state that you have in place rehabilitation policies and standards that have been adopted in accordance with tribal law or practice. Do not submit your policies or standards with the application. You must also provide a written statement that project funds will be used to rehabilitate HUD-assisted houses only when the homebuyer's payments are current or the homebuyer is current in a repayment agreement except because of an emergency situation. For purposes of meeting this threshold, HUD-assisted houses are houses that are owned and/or managed by the tribe or tribally designated housing entity (TDHE). The ONAP Administrator, on a case-by-case basis, may approve exceptions to this requirement if the applicant provides adequate justification for the exception with its application.

b. New Housing Construction Project Thresholds.

1. In accordance with 24 CFR 1003.302(b), new housing construction can only be implemented when necessary through a Community Based Development Organization (CBDO). Eligible CBDOs are described in 24 CFR 1003.204(c). You must provide documentation establishing that the entity implementing your new housing construction project qualifies as a CBDO.

2. In accordance with 24 CFR 1003.302(b), you must have a current, in effect, tribal resolution adopting and identifying construction standards.

3. In accordance with 24 CFR 1003.302(b), you must also include in your application documentation affirming the following:

(a) No other housing is available in the immediate reservation area that is suitable for the households to be assisted;

(b) No other sources, including Indian Housing Block Grants (IHBG), can meet the needs of the household(s) to be served; and

(c) Rehabilitation of the unit occupied by the household(s) to be assisted is not economically feasible;

(d) The household(s) to be housed is currently in an overcrowded house (more than one household per house); or

(e) The household to be assisted has no current residence.

c. Economic Development Project Thresholds. In accordance with 24 CFR 1003.302(c), for economic development assistance projects, you must provide a financial analysis. The financial analysis must demonstrate that the project is financially feasible and the project has a reasonable chance of success. The analysis must also demonstrate the public benefit resulting from the ICDBG assistance. The more funds you request, the greater the public benefit you must demonstrate. The analysis must also establish that to the extent practicable, reasonable financial support will be committed from non-federal sources prior to disbursement of federal funds; any grant amount provided will not substantially reduce the amount of non-federal financial support for the activity; not more than a reasonable rate of return on investment is provided to the owner; and that grant funds used for the project will be disbursed on a pro-rata basis with amounts from other sources.

d. Land Acquisition to Support New Housing, Homeownership Assistance, Public Facilities and Improvements, and Microenterprise Projects. There are no project specific thresholds for these activities.

4. Public Services. Because there is a regulatory 15 percent cap on the amount of grant funds that may be used for public service activities, you may not receive a single-purpose grant solely to fund public service activities. Your application, however, may contain a public service component for up to 15 percent of the total grant, and this component may be unrelated to the other project(s) in your application. If your application does not receive full funding, HUD will reduce the public service allocation proportionately so that it comprises no more than 15 percent of the total grant award. In making such reductions, the feasibility of the proposed project will be taken into consideration. If a proportionate reduction of the public service allocation renders such a project infeasible, the project will not be funded. A complete description of public service projects is located at 24 CFR part 1003.201(e).

5. Eligible Activities. A complete description of activities that are eligible for ICDBG funding is identified at 24 CFR part 1003, subpart C. Rating Factors 2 and 3 included under Section V specify many of the activities listed as eligible under part 1003, subpart C. Those listed include new housing construction (in certain circumstances, as described in Rating Factors 2 and 3), housing rehabilitation, land acquisition to support new housing, homeownership assistance, public facilities and improvements, economic development, and microenterprise programs. However, the following eligible activities not clearly identified by the rating factors may be proposed and rated as described below.

a. Acquisition of property. This activity can be proposed as acquisition of land or other real property to support New Housing Construction, Housing Rehabilitation, Public Facilities and Improvements, or Economic Development, depending on the purpose of the acquisition.

b. Assistance to Institutions of Higher Learning. If such entities have the capacity, they can help the ICDBG grantees implement eligible projects.

c. Assistance to Community Based Development Organizations (CBDOs). Grantees may provide assistance to these organizations to undertake activities related to neighborhood revitalization, community economic development, or energy conservation.

d. Clearance and Demolition. These activities can be proposed as part of Housing Rehabilitation, New Housing Construction, Public Facilities and Improvements, Economic Development, or Land to Support New Housing. Section 1003.201 (d) states, “Demolition of HUD-assisted housing units may be undertaken only with the prior approval of HUD.”

e. Code Enforcement. This activity can be proposed as Housing Rehabilitation. The activity must comply with the requirements at 24 CFR 1003.202.

f. Comprehensive Planning. This activity is eligible, and can be proposed as part of any otherwise-eligible project to the extent allowed by the 20 percent cap on the grant for planning/administration.

g. Energy Efficiency. Associated activities can be proposed under Housing Rehabilitation or Public Facilities and Improvements, depending upon the type of energy efficiency activity.

h. Lead-Based Paint Evaluation and Abatement. These activities can be proposed under Housing Rehabilitation.

i. Non-Federal Share. ICDBG funds can be used as a match for any non-ICDBG funding to the extent allowed by such funding and the activity is eligible under 24 CFR part 1003, subpart C.

j. Privately and Publicly Owned Commercial or Industrial Buildings (Real Property Improvements). These activities can be proposed under Economic Development. Privately owned commercial rehabilitation is subject to the requirements at 24 CFR 1003.202.

k. Privately Owned Utilities. Assistance to privately owned utilities can be proposed under Public Facilities and Improvements.

l. Removal of Architectural Barriers. This includes removing barriers that restrict mobility and access for elderly and persons with disabilities. In addition, facilities funded by ICDBG or used in the administration of ICDBG funded projects or activities must be accessible to persons with disabilities in accordance with Section 504 of the Rehabilitation Act and HUD's regulations at 24 CFR Part 8. Applicants should be aware of the accessibility needs of the persons they intend to serve in ICDBG funded projects and activities, and address these needs in appropriate accessible design features or program modifications to ensure that otherwise qualified persons with disabilities may benefit from them. This activity can be proposed under Housing Rehabilitation or Public Facilities and Improvements, depending upon the type of structure where the barrier will be removed.

m. Mold. During the past few years, many tribes have experienced high incidences of mold growth in tribal homes and buildings. Renovation of affected buildings is eligible under housing rehabilitation or public facility improvement projects.

n. Public Services. Public services are those which are directed toward improving the community's public services and facilities, including but not limited to those concerned with employment, crime prevention, child care, health, drug abuse, education, fair housing counseling, energy conservation, welfare, homebuyer downpayment assistance or recreational needs. Also see Section III.C.4. above and 24 CFR 1003.201(e).

6. Ineligible Activities. In general, any activity that is not authorized under the provisions of 24 CFR 1003.201 through 1003.206 is ineligible to be assisted with ICDBG funds. The regulations at 24 CFR 1003.207 govern ineligible activities and should be referred to for details. The following guidance is provided for determining the eligibility of other activities frequently associated with ICDBG projects.

a. Government Office Space. Buildings, or portions thereof, used predominantly for the general conduct of government cannot be assisted with ICDBG funds. Those buildings include, but are not limited to, local government office buildings, courthouses, and other headquarters of government where the governing body meets regularly. Buildings that contain both governmental and non-governmental services can be assisted so long as the ICDBG funds are used only for the non-governmental sections. An example of an ineligible building is a building to house the community development division or a tribal administration building. Your Area ONAP office should be consulted for projects of this nature.

b. General Government Expenses. Except as authorized in the regulations or under OMB Circular A-87, expenses required to carry out the regular responsibilities of the unit of general local government are not eligible for assistance with ICDBG funds.

c. Maintenance and Operation Expenses. In general, any expenses associated with repairing, operating, or maintaining public facilities and services are not eligible for assistance. Specific exceptions to this general rule are operating and maintenance expenses associated with public service activities [24 CFR 1003.201(e)], office space for program staff employed in carrying out the ICDBG program [24 CFR 1003.206(a)(4)], and interim assistance [24 CFR 1003.201(f)]. For example, where a public service is being assisted with CDBG funds, the cost of operating and maintaining that portion of the facility in which the service is located is eligible as part of the public service. Examples of ineligible operating and maintenance expenses are routine and non-routine maintenance and repair of streets, parks, playgrounds, water and sewer facilities, neighborhood facilities, senior centers, centers for persons with disabilities, parking facilities, and similar public facilities, as well as staff salaries, utility costs, and similar expenses necessary for the operation of public works and facilities.

d. New Housing Construction. The construction of new permanent residential structures and any program to subsidize or finance such new construction is ineligible, unless carried out by a Community-Based Development Organization (CBDO) pursuant to 24 CFR 1003.204(a).

e. Furnishings and Personal Property. In general, the purchase of equipment, fixtures, motor vehicles, furnishings, or other personal property not an integral structural fixture is ineligible. Exceptions include when such purchases are necessary for use in grant administration (24 CFR 1003.206); necessary and appropriate for use in a project carried out by a CBDO (24 CFR 1003.204); used in providing a public service (24 CFR 1003.201(e)); or used as firefighting equipment (24 CFR 1003.201(c)(1)(ii)). However, ICDBG funds may be used to pay depreciation or use allowances (in accordance with OMB Circular A-87 or A-122, as applicable).

f. Construction Tools and Equipment. The purchase of construction tools and equipment is generally ineligible. However, compensation for the use of such tools and equipment through leasing, depreciation, or use allowances pursuant to OMB Circulars A-87 and A-122, as applicable, for an otherwise eligible activity, is eligible. Exceptions include construction tools and equipment purchased for use as part of a solid waste facility (24 CFR 1003.201(c)(1)(ii)) and construction tools only (not equipment) purchased for use in a housing rehabilitation project being administered by the recipient using the force account construction method (24 CFR 1003.202(b)(8)).

g. Income Payments. In general, assistance shall not be used for income payments for housing or any other purpose. Income payments mean a series of subsistence-type grant payments made to an individual/family for items such as food, clothing, housing (rent/mortgage), or utilities, but excludes emergency payments made over a period of up to three months to the provider of such items or services on behalf of an individual/family. Examples of ineligible income payments include the payments for income maintenance and housing allowances.

h. Job Pirating. ICDBG funds may not be used to assist directly in the relocation of any industrial or commercial plant, facility, or operation, from one area to another, if the relocation is likely to result in a significant loss of employment in the labor market area from which the relocation occurs.

IV. Application and Submission Information

A. Addresses to Request Application Package. Copies of this published NOFA and all application forms for this NOFA may be downloaded from the grants.gov Web site at http://www.grants.gov/applicants/apply_for_grants.jsp. If you have difficulty accessing the information, you may receive customer support from grants.gov by calling its Support Desk at (800) 518-GRANTS, or by sending an e-mail to support@grants.gov. You may request general information from the NOFA Information Center (800-HUD-8929) or 800-HUD-8339 (TTY) between the hours of 10 a.m. and 6:30 p.m. (Eastern Time) Monday through Friday, except on federal holidays. When requesting information, please refer to the name of the program you are interested in. The NOFA Information Center opens for business simultaneously with the publication of the SuperNOFA. You can also obtain information on this NOFA from HUD's Web site at http://www.hud.gov/offices/adm/grants/fundsavail.cfm.

B. Content and Form of Application Submission

1. Application Information. All information required to complete a valid application is included in the General Section and in this ICDBG NOFA. Before preparing an application, applicants should carefully review the program description, ineligible activities, program and threshold requirements, and the General Section. Applicants should also review each rating factor listed in Section V of this NOFA, before writing a narrative response. Indicate on the first page of each project submission the type of project(s) you are proposing: Economic Development, Homeownership Assistance, Housing Rehabilitation, Land Acquisition to Support New Housing, Microenterprise Programs, New Housing Construction, or Public Facilities and Improvements. This will help to ensure that the appropriate project-specific thresholds and rating subfactors will be applied. Narrative statements submitted to support your application should be individually labeled to reflect the item the narrative is responding to, e.g., Factor 1, Factor 2, etc. It is recommended that you limit your narrative explanations to 15 pages for all factors and provide the necessary data such as a market analysis, a pro forma, housing survey data, etc., that support the response. Applicants should not submit third-party documents, such as audits, resolutions, policies, unless specifically asked to do so. Additional information regarding electronic submissions can be found in the General Section.

If you received a waiver to the electronic application submission requirements (see section IV.F. below) and are submitting a paper application, please use separate tabs for each rating factor and rating subfactor. In order to be rated, make sure the response is beneath the appropriate heading. Keep the responses in the same order as the NOFA. Include all material relevant to a response under the same tab. Only include documentation that will clearly and concisely support your response to the rating criteria.

HUD suggests that you do a preliminary rating for your project, providing a score according to the point system in Section V of this NOFA. This will show you how reviewers might score your project and identify its strengths and weaknesses. This will help you determine where you can make improvements prior to its submission. An application checklist for you to use to ensure that you have submitted all required components is found in this section under number 2 below.

2. Content of Application, Forms, and Required Elements. The applicant must submit all of the forms required in this section, along with other data listed below.

a. Narrative to all five of the rating factors listed in Section V.A. of this NOFA;

b. Application for Federal Assistance (SF-424);

c. SF-424 SUPP, Supplement Survey on Ensuring Equal Opportunity for Applicants (“Faith Based EEO Survey (SF-424 SUPP)” on Grants.gov);

d. HUD-2880, Applicant/Recipient Disclosure/Update Report (“HUD Applicant Recipient Disclosure Report” on Grants.gov);

e. Acknowledgement of Application Receipt (HUD-2993). (This is relevant only to applicants granted a waiver of the electronic submission requirements and who are submitting a paper application.)

f. If the application is being submitted by a tribal organization as defined in 24 CFR 1003.5(b), on behalf of an Indian tribe, you must submit concurring resolutions from the Indian tribe stating that the tribal organization is applying on the tribe's behalf. You must submit the resolution by attaching it as a file to your electronic application submission, or sending it via facsimile transmittal.

g. A schedule for implementing the project (form HUD-4125, Implementation Schedule);

h. Cost information for each separate project, including specific activity costs, administration, planning, technical assistance and total HUD share (Form HUD-4123, Cost Summary). Planning and administrative costs cannot exceed 20 percent of the grant. The following criteria apply to planning and administrative costs:

(1) Planning and administrative activities may be funded only in conjunction with a physical development activity.

(2) If you are submitting an application for more than one project, costs must be broken down by project. Submit one form HUD-4123 for each proposed project in addition to a consolidated form HUD-4123 that includes costs for all proposed projects.

(3) Do not include project costs (i.e., architectural/engineering, environmental, technical assistance, staff/overhead costs) directly related to the project.

(4) Indirect costs may be charged to the ICDBG program under a cost sharing plan prepared in accordance with OMB Circular A-21, A-87, or A-122 as applicable;

i. Evidence in the form of a Tribal resolution that the applicant has met the citizen participation requirements of 24 CFR 1003.604(a) and considered any comments and made any necessary modifications to the application;

j. A map showing project location, if appropriate;

k. Low- and Moderate-Income Benefit. Your application must contain information that indicates at least 70 percent of the grant funds will be used for activities that benefit low- and moderate-income persons, in accordance with the requirements of 24 CFR 1003.208.

l. Demographic Data. If applicable, demographic information that complies with the requirements in Section V.A. Rating Factor 2 of this NOFA. The data accompanying the statement must identify the total number of persons benefiting from the project and the total number of low- and moderate-income persons benefiting from the project. To be considered, supporting documentation must include all of the following: A sample copy of a survey form, an explanation of the methods used to collect the data, and a listing of incomes by household including household size;

m. Project-Specific Thresholds. Applicants must respond to project-specific thresholds outlined in Section III.C.3, as applicable.

n. Commitment to Housing for Land Acquisition to Support New Housing Projects. For land acquisition to support new housing projects, your application must include evidence of financial commitment and an ability to construct at least 25 percent of the housing units on the land proposed for acquisition. This evidence must consist of one (or more) of the following: A firm or conditional commitment to construct (or to finance the construction of) the units; documentation that an approvable application for the construction of these units has been submitted to a funding source or entity; or documentation that these units are specifically identified in the Indian Housing Plan (IHP), (One-Year Financial Resources Narrative; Table 2, Financial Resources, Part I, Line 1E; and Table 2, Financial Resources, Part II) submitted by or on behalf of the applicant as an affordable housing resource with a commensurate commitment of Indian Housing Block Grant (IHBG) (also known as NAHBG) resources. If the IHP for the IHBG (also known as NAHBG) program year that coincides with the implementation of the ICDBG proposed project has not been submitted, you must provide an assurance that the IHP will specifically reference the proposed project. The IHP submission must occur within three years from the date the land is acquired and ready for development;

o. Health Care Facilities. If you propose a facility that would provide health care services funded by the Indian Health Service (IHS), you must provide a statement that the facility will meet all applicable IHS facility requirements. HUD recognizes that tribes that are contracting services from the IHS may establish other facility standards. These tribes must assure that these standards at least compare to nationally accepted minimum standards;

p. Correctional Facilities/Juvenile Detention Centers. If you propose a correctional facility or juvenile detention center that would provide correctional services to be funded by the U.S. Department of Justice (DOJ) and/or Bureau of Indian Affairs (BIA), you must provide a statement that the facility meets all applicable BIA standards regarding correctional operations, programs and designs;

q. Optional submissions are:

(1) You Are Our Client! Grant Applicant Survey (HUD 2994-A) (Optional); and

(2) Program Outcome Logic Model, HUD-96010. See Rating Factor V for additional information.

C. Submission Dates and Times

1. Application Submission Deadline. The application deadline date is July 11, 2008. Applications submitted through http://www.grants.gov/applicants/apply_for_grants.jsp must be received and validated by Grants.gov no later than 11:59:59 P.M. eastern time on the application deadline date. Upon submission, Grants.gov will provide the applicant a confirmation of receipt and then validate the application. Within 24 to 48 hours of receipt, the application will be validated by Grants.gov. If the application does not pass validation, the submitter will receive a rejection notice indicating why the application was rejected, thus giving the applicant (if time permits) an opportunity to make the correction in the application package and resubmit. The General Section provides details of a validation check. HUD advises applicants to submit at least 72 hours prior to the deadline date so that if an application is rejected during the validation process, applicants can correct the errors and resubmit the application prior to the deadline date and time. HUD will not accept any applications sent by e-mail or on a diskette, compact disc, or by facsimile unless HUD specifically requests an applicant to do so.

2. Mailing and Receipt Procedures. Applicants granted a waiver of the electronic submission requirement will receive specific mailing instructions, including the number of copies to be submitted, with approval of the waiver. A list identifying each Area ONAP jurisdiction is provided at http://www.hud.gov/offices/pih/ih/onap/area_onap.cfm under the ICDBG program. See 24 CFR part 5.

3. Please carefully follow the instructions in Sections IV.B and F. of the General Section for detailed information regarding application submission, delivery, and timely receipt requirements.

D. Intergovernmental Review

Indian tribes are not subject to the Intergovernmental Review process.

E. Funding Restrictions

See Section III.C.6.

F. Other Submission Requirements

Applicants are required to submit an electronic application, unless they receive a waiver of the requirement. See the General Section for information on electronic application submission and timely submission and receipt requirements. Waiver requests must be submitted to the Headquarters ONAP, Office of Grants Management, in writing, using mail, e-mail or fax. Waiver requests must be submitted no later than 15 days prior to the application deadline date and should be sent to Deborah M. Lalancette, HUD, ONAP, 1670 Broadway, 23rd Floor, Denver, CO 80202; by e-mail to Deborah.M.Lalancette@hud.gov or by fax to 303-675-1660. Applicants granted a waiver of the electronic submission requirement will receive specific mailing instructions, including the number of copies to be submitted, with approval of the waiver. A list identifying each Area ONAP jurisdiction is provided at http://www.hud.gov/offices/pih/ih/onap/area_onap.cfm under the ICDBG program. See 24 CFR part 5.

V. Application Review Information

A. Criteria

1. RC/EZ/EC-II: Bonus points described in the General Section for projects located in RC/EZ/EC-IIs will not be awarded under this NOFA.

2. Rating Factors to Evaluate and Rate Applications: The factors for rating and ranking applications and the points for each factor are provided below. A maximum of 100 points may be awarded under Rating Factors 1 through 5. To be considered for funding, your application must receive a minimum of 15 points under rating factor 1 and an application score of at least 70 points. The following summarizes the points assigned to each rating factor and each rating subfactor and lists which rating subfactors apply to which project types. Please use this table to ensure you are addressing the appropriate rating subfactor for your project.

Rating factor | Title | Points | Project type
1 | CAPACITY OF THE APPLICANT | 30 | Minimum of 15 Points Required.
1 | Managerial, Technical and Administrative Capacity | 15 or 30*
1.a. | Managerial and Technical Staff | 8 | All Project Types.
1.b. | Project Implementation Plan | 3 or 8* | All Project Types.
1.c. | Financial Management | 2 or 7* | All Project Types.
1.d. | Procurement and Contract Management | 2 or 7* | All Project Types.
2. | Past Performance | 15 or 0*
2.a | Implementation Schedule | 3 or 0* | All Project Types.
2.b. | Reports | 3 or 0* | All Project Types.
2.c. | Close-outs | 3 or 0* | All Project Types.
2.d. | Audits | 3 or 0* | All Project Types.
2.e. | Findings | 3 or 0* | All Project Types.
2 | NEED/EXTENT OF THE PROBLEM | 16
1 | Need and Viability | 4 | All Project Types.
2 | Project Benefit | 12 | All Project Types.
2.a. | Public Facilities and Improvement Projects | 12 | Public Facilities and Improvement Projects
2.b. | Economic Development Projects | 12 | Economic Development Projects.
2.c. | New Housing Construction, Housing Rehabilitation, | 12 | New Housing Construction, Housing Rehabilitation, Land Acquisition to Support.
2.d. | Microenterprise Programs | 12 | Microenterprise Programs.
3 | SOUNDNESS OF APPROACH | 36
1 | Description of and Rationale for Proposed | 13 | All Project Types.
2 | Budget and Cost Estimates | 8 | All Project Types.
3 | HUD Policy Priorities | 1 | All Project Types.
4 | Intent to Meet Section 3 Requirements | 2 | All Project Types.
5 | Commitment to Sustain Activities | 12
5.a. | Public Facilities and Improvement Projects | 12 | Public Facilities and Improvements.
5.b. | New Housing Construction, Housing Rehabilitation, and | 12 | New Housing Construction, Housing Rehabilitation, and Homeownership Assistance.
5.c. | Economic Development Projects | 12 | Economic Development Projects.
5.d. | Microenterprise Programs | 12 | Microenterprise Programs.
5.e. | Land Acquisition Projects to Support New Housing | 12 | Land Acquisition to Support New Housing.
4 | LEVERAGING RESOURCES | 8 | All Project Types.
5 | COMPREHENSIVENESS AND COORDINATION | 10 | All Project Types.
1 | Coordination | 2 | All Project Types.
2 | Outputs, Outcomes and/or Goals | 8 | All Project Types.
TOTAL |  | 100 | Minimum of 70 Points Required.
*The first number listed indicates the maximum number of points available to current ICDBG grantees under this subfactor. The second number indicates the maximum number of points available to new applicants.

Rating Factor 1: Capacity of the Applicant (30 points)

This factor addresses the extent to which you have the organizational resources necessary to successfully implement the proposed activities in accordance with your implementation schedule. If applicable, past performance in administering previous ICDBG grants will be taken into consideration. You must address the existence or availability of these resources for the specific type of activity for which you are applying. To be eligible for funding you must receive a minimum of 15 points under this factor for your proposed activity. HUD will not rate any projects further that do not receive a minimum of 15 points under this factor. If you are funded, your progress will be measured against your Implementation Schedule and/or the Logic Model, form HUD-96010.

1. Managerial, Technical, and Administrative Capability. (15 points for current ICDBG grantees and 30 points for new applicants). Your application must include a description demonstrating that you possess or can obtain managerial, technical, and/or administrative capability necessary to carry out the proposed project. Your application must address who will administer the project and how you plan to handle the technical aspects of executing the project in accordance with your implementation schedule. Typical documents that may be submitted include, but are not limited to, written summaries of qualifications and past experience of proposed staff, descriptions of staff responsibilities, and references or letters of endorsement from others who have worked with the proposed staff. Do not submit job descriptions or resumes.

a. Managerial and Technical Staff (8 Points)

The extent to which your application describes the roles/responsibilities and the knowledge/experience of your overall proposed project director and staff, including the day-to-day program manager, consultants, and contractors in planning, managing, and implementing projects in accordance with the implementation schedule for which funding is being requested. Experience will be judged in terms of recent, relevant, and successful experience of your staff to undertake eligible program activities. In rating this factor, HUD will consider experience within the last 5 years to be recent; experience pertaining to the specific activities being proposed or the specific roles and responsibilities described in the application to be relevant; and experience producing specific accomplishments to be successful. The more recent and relevant the experience of your staff members who will work on the project, the greater the number of points you will receive for this rating factor. Please do not include the Social Security Numbers (SSN) of any staff members.

(8 points) The applicant adequately describes the roles/responsibilities and the knowledge/experience of its overall project director and staff, including the day-to-day program manager, consultants, and contractors in planning, managing, and implementing projects for which funding is being requested. Staff experience as described in the application is recent (within 5 years), relevant (pertains to the specific activities being proposed or the specific roles and responsibilities described in the application) and successful (has produced specific accomplishments).

(4 points) The applicant adequately describes the roles/responsibilities and the knowledge/experience of its overall project director and staff, including the day-to-day program manager, consultants, and contractors in planning, managing, and implementing projects for which funding is being requested. However, one of the following applies: Staff experience as described in the application is not recent (within 5 years), is not relevant (pertains to the specific activities being proposed or the specific roles and responsibilities described in the application), or is not successful (produced specific accomplishments).

(0 points) The applicant failed to adequately describe the roles/responsibilities and the knowledge/experience of its overall project director and staff, including the day-to-day program manager, consultants, and contractors in planning, managing, and implementing projects for which funding is being requested or more than one of the following applies: Staff experience as described in the application is not recent (not within 5 years), is not relevant (does not pertain to the specific activity being proposed or the specific roles and responsibilities described in the application), or is not successful (did not produce specific accomplishments).

b. Project Implementation Plan (3 Points for Current ICDBG Grantees and 8 Points for new Applicants)

The extent to which your project implementation plan identifies the specific tasks and timelines that you and your partner contractors and/or sub-grantees will undertake to complete your proposed project on time and within budget. The Project Implementation Schedule, form HUD-4125, may serve as this required schedule, provided that it is sufficiently detailed to demonstrate that you have clearly thought out your project implementation.

(3 points for current ICDBG grantees and 8 points for new applicants). The applicant submitted a project implementation plan that clearly specifies tasks and timelines.

(2 points for current ICDBG grantees and 5 points for new applicants). The applicant submitted a project implementation plan that did not specify both tasks and timelines.

(0 points for current ICDBG grantees or new applicants). The applicant did not submit a project implementation schedule that addressed all tasks and timelines.

c. Financial Management (2 Points for Current ICDBG Grantees and 7 Points for New Applicants)

This subfactor evaluates the extent to which your application describes how your financial management systems meet the requirements of 24 CFR part 85 and 24 CFR part 1003. The application will also be rated on the seriousness/significance of the findings related to your financial management system identified in your current audit. If you are required to have an audit but do not have a current audit, you must submit a letter from your IPA that is dated within the past 12 months stating that your financial management system complies with all applicable regulatory requirements. If you are not required to have an audit, you will automatically receive points for this portion of the subfactor if you provide the other information required by this subfactor. For purposes of this subfactor, a current audit is one which was due to be submitted to the Federal Audit Clearinghouse (FAC) within the 12-month period prior to the application deadline date. To be considered, the audit must be submitted to the FAC prior to the ICDBG application deadline date. Do not submit financial management and/or internal control policies and procedures or your audit with the application.

(2 points for current ICDBG grantees and 7 points for new applicants). The applicant clearly described how its financial management systems meet the requirements of 24 CFR part 85 and 24 CFR part 1003. The applicant's current audit does not contain any serious or significant findings related to its financial management system, or if there is no current audit, the applicant submitted a letter from its IPA stating that its financial management system complies with all applicable regulatory requirements.

(1 points for current ICDBG grantees and 4 points for new applicants). The applicant's current audit does not contain any serious or significant findings related to its financial management system, or if there is no current audit, the applicant submitted a letter from its IPA stating that its financial management system complies with all applicable regulatory requirements. The applicant did not describe how its financial management system meets the requirements of 24 CFR part 85 and 24 CFR part 1003.

(0 points for current ICDBG grantees or new applicants). The applicant's current audit included serious or significant findings related to its financial management systems or, if there is no current audit, the applicant did not submit a letter from its IPA stating its financial management systems comply with all regulatory requirements. The applicant did not describe how its financial management system meets the requirements of 24 CFR part 85 and 24 CFR part 1003.

d. Procurement and Contract Management (2 points for current ICDBG grantees and 7 points for new applicants). This subfactor evaluates the extent to which your application describes how your procurement and contract management policies and procedures will meet the requirements of 24 CFR part 85 and 24 CFR part 1003. The application will also be rated on the seriousness of the findings related to procurement and contract management identified in your current financial audit. If you are required to have an audit but do not have a current audit, you must submit a letter from your IPA stating that your procurement and contract management system complies with all applicable regulatory requirements. If you are not required to have an audit, you will automatically receive points for this portion of the subfactor if you provide the other information required by this subfactor. Do not submit procurement and contract management policies and procedures or your audit with the application.

(2 points for current ICDBG grantees and 7 points for new applicants). The applicant clearly described how its procurement and contract management policies and procedures will meet the requirements of 24 CFR part 85 and 24 CFR part 1003. The applicant's current audit does not contain any serious or significant findings related to its procurement and contract management system, or if there is no current audit, the applicant submitted a letter from its IPA stating that its procurement and contract management system complies with all applicable regulatory requirements.

(1 point for current ICDBG grantees and 4 points for new applicants). The applicant's current audit does not contain any serious or significant findings related to its procurement or contract management system, or if there is no current audit, the applicant submitted a letter from its IPA stating that its procurement and contract management system complies with all applicable regulatory requirements. The applicant did not describe how its procurement and contract management policies and procedures meet the requirements of 24 CFR part 85 and 24 CFR part 1003.

(0 points for current ICDBG grantees or new applicants). The applicant's current audit included serious or significant findings related to its procurement and contract management systems or if there is no current audit, the applicant did not submit a letter from its IPA stating its procurement and contract management systems comply with all regulatory requirements. The applicant did not describe how its procurement and contract management policies and procedures will meet the requirements of 24 CFR part 85 and 24 CFR part 1003.

2. Past Performance (15 points for current ICDBG grantees and 0 points for new applicants). HUD will evaluate your experience in producing products and reports in accordance with regulatory timelines for any previous grant programs undertaken with HUD funds for the following performance measures. Applicants are not required to respond to the subfactors related to past performance. HUD will rely on information on file.

a. Implementation Schedule (3 points for current ICDBG grantees and 0 points for new applicants). The applicant is not more than 90 days behind schedule in meeting the time frames established in the HUD-approved Implementation Schedule for the ICDBG program.

(1) (3 points) The applicant is not more than 90 days behind schedule in meeting the timeframes established in the HUD-approved implementation schedule.

(2) (2 points) The applicant is not more than 120 days behind schedule in meeting the timeframes established in the HUD-approved implementation schedule.

(3) (0 points) The applicant is more than 120 days behind schedule in meeting timeframes established in the HUD-approved implementation schedule.

b. Reports (3 points for current ICDBG grantees and 0 points for new applicants). Annual Status and Evaluation Reports (ASER) and Federal Cash Transaction Reports are submitted by the report submission deadlines. The ASER is due 45 days after the end of the federal fiscal year on November 15. Federal Cash Transaction Reports are due quarterly on April 21, July 21, October 20, and January 22.

(1) (3 points) The applicant has submitted both the ASER and Federal Cash Transaction Reports for ICDBG programs within 15 days of the report submission deadlines.

(2) (2 points) The applicant has submitted either the Federal Cash Transaction Reports or the ASERs for ICDBG programs within 15 days of the report submission deadline.

(3) (0 points) The applicant has submitted neither of the required reports within 15 days of the report submission deadline.

c. Close-outs. (3 points for current ICDBG grantees and 0 points for new applicants). The applicant has submitted close-out documents to HUD by the required deadline. Close-out documents are required for the ICDBG program within 90 days of the date it is determined that the criteria for close-out at 24 CFR 1003.508 have been met.

(1) (3 points) The applicant submitted close-out documents to HUD in accordance with the timeframe and criteria at § 1003.508.

(2) (0 points) The applicant has not submitted close-out documents to HUD as required by § 1003.508.

d. Audits. (3 points for current ICDBG grantees and 0 points for new applicants). The applicant has submitted annual audits in accordance with OMB Circular A-133 and its compliance supplements, or if you have received an extension of the audit submission date, your audit was submitted by the extended date. If an extension was received, submit a copy of the extension approval. Do not submit your audit with the application. Applicants who are not required to submit an annual audit in accordance with OMB Circular A-133 must state this in their application in order to receive points for this subfactor.

(1) (3 points) The applicant has submitted annual audits in accordance with OMB Circular A-133 and its compliance supplements, or if you have received an extension of the audit submission date, your audit was submitted by the extended date. If an extension was received, you submitted a copy of the extension approval. If the applicant has not been required to submit an audit, it will receive 3 points.

(2) (0 points) The applicant has not submitted annual audits in accordance with OMB Circular A-133 and its compliance supplements or if you have received an extension of the audit submission date, your audit was not submitted by the extended date.

e. Findings (3 points for current ICDBG grantees and 0 points for new applicants). The applicant has resolved ICDBG monitoring findings and controlled audit findings by the established target date, or there are no findings in current reports. Do not submit responses to open monitoring or audit findings with the application.

(1) (3 points) The applicant resolved open ICDBG monitoring findings and controlled audit findings by the established target date. If there were no open audit or ICDBG monitoring findings (current grantees only), the applicant will receive 3 points.

(2) (0 points) The applicant has not resolved open ICDBG monitoring findings and controlled audit findings by the established target date.

Rating Factor 2: Need/Extent of the Problem (16 points)

This factor addresses the extent to which there is a need for the proposed project to address a documented problem among the intended beneficiaries.

1. Need and Viability (up to 4 points) Your application includes quantitative information demonstrating that the proposed project meets an essential community development need and is critical to the viability of the community.

2. Project Benefit (12 points) Your project benefits the neediest segment of the population, in accordance with the ICDBG program's primary objective defined at 24 CFR 1003.2. The criteria for this sub-factor vary according to the type of project for which you are applying.

a. Public Facilities and Improvement Projects (12 Points)

The proposed activities benefit the neediest segment of the population, as identified below. In order to meet the requirements of this section, you must submit the most recently available Decennial Census information or you may submit data that are unpublished, not generally available, and not older than the latest Census data. If you are submitting demographic data other than the Census, your application must contain a statement that the following criteria have been met:

—Generally available published data are substantially inaccurate or incomplete;

—Data that you submit have been collected systematically and are statistically reliable;

—Data are, to the greatest extent feasible, independently verifiable; and

—Data differentiate between reservation and BIA service area populations, when applicable.

The data accompanying the statement must identify the total number of persons benefiting from the project and the total number of low- and moderate-income persons benefiting from the project. To be considered, supporting documentation must include all of the following: A sample copy of a survey form, an explanation of the methods used to collect the data, and a listing of incomes by household including household size;

(1) (12 points) At least 85 percent of the beneficiaries are low- or moderate-income.

(2) (8 points) At least 75 percent but less than 85 percent of the beneficiaries are low- or moderate-income.

(3) (4 points) At least 55 percent but less than 75 percent of the beneficiaries are low- or moderate-income.

(4) (0 points) Less than 55 percent of the beneficiaries are low-or moderate-income.

b. Economic Development Projects (12 Points)

The proposed activities benefit the neediest segment of the population, as identified below. For economic development projects, you may consider beneficiaries of the project as persons served by the project and/or persons employed by the project, and jobs created or retained by the project. For persons served by the project, you must submit the most recently available Decennial Census information or you may submit data that are unpublished, not generally available, and not older than the latest Census data as described in 2.a. above. For documenting persons employed by the project, you do not need to submit a demographic data statement and corresponding documentation. However, you do need to submit information that describes the nature and number of the jobs created or retained for low/moderate income people. Such information includes, but is not limited to, brief descriptions of proposed job responsibilities, job titles, salaries, and the number of full-time equivalent positions. If you believe jobs will be retained as a result of the ICDBG project, include information that shows clearly and objectively that jobs will be lost without the ICDBG project. Jobs that are retained only for the period of the grant will not count under this rating factor.

(1) (12 points) At least 85 percent of the beneficiaries are low- or moderate-income.

(2) (8 points) At least 75 percent but less than 85 percent of the beneficiaries are low- or moderate-income.

(3) (4 points) At least 55 percent but less than 75 percent of the beneficiaries are low- or moderate-income.

(4) (0 points) Less than 55 percent of the beneficiaries are low- or moderate-income.

c. New Housing Construction, Housing Rehabilitation, Land Acquisition to Support New Housing, and Homeownership Assistance Projects (12 Points)

The need for the proposed project is determined by utilizing data from the tribe's 2007 IHBG formula information. The ratio is based on the dollars allocated to a tribe under the IHBG program for need divided by the sum of the number of American Indian and Alaskan Native (AIAN) households in the following categories:

—Annual income less than 30 percent of median income;

—Annual income between 30 percent and 50 percent of median income;

—Annual income between 50 percent and 80 percent of median income;

—Overcrowded or without kitchen or plumbing;

—Housing cost burden greater than 50 percent of annual income;

—Housing shortage (Number of low-income AIAN households less total number of NAHASDA and Formula Current Assisted Stock).

This ratio is computed for each tribe and posted in the “Factor 2 Needs Table” that is available at http://www.hud.gov/offices/adm/grants/fundsavail.cfm under the ICDBG program.

(1) (12 points) The dollar amount for the Indian tribe is $311-$750 or the tribe's total FY 2007 IHBG amount was $100,000 or less and the Needs Table indicates that the Indian tribe has no AIAN households experiencing income or housing problems.

(2) (8 points) The dollar amount for the Indian tribe is $751-$1,250.

(3) (4 points) The dollar amount for the Indian tribe is $1,251-$1,999.

(4) (0 points) The dollar amount for the Indian tribe is $2,000 or higher, or the Needs Table indicates that the Indian tribe has no AIAN households experiencing income or housing problems.

d. Microenterprise Programs (12 Points)

A microenterprise is a business that has five or fewer employees, one or more of whom owns the enterprise. The owner(s) of the microenterprise must be low- or moderate-income and the majority of the jobs created or retained will be for low- or moderate-income persons. To evaluate need, the nature of the jobs created or retained will be evaluated. For documenting persons employed by the project, you do not need to submit a demographic data statement and corresponding documentation. However, you do need to submit information that describes the nature and number of the jobs created or retained for low/moderate income people. Such information includes, but is not limited to, brief descriptions of proposed job responsibilities, job titles, salaries, and the number of full-time equivalent positions. If you believe jobs will be retained as a result of the ICDBG project, include information that shows clearly and objectively that jobs will be lost without the ICDBG project. Jobs that are retained only for the period of the grant will not count under this rating factor.

The owners of the microenterprises are low- and moderate-income and:

(1) (12 points) All employees are low-or moderate-income.

(2) (8 points) At least 75 percent but less than 100 percent of the employees are low- or moderate-income.

(3) (4 points) At least 50 percent but less than 75 percent of the employees are low- or moderate-income.

(4) (0 points) Less than 50 percent of the employees are low- and moderate-income.

Rating Factor 3: Soundness of Approach (36 Points)

This factor addresses the quality and anticipated effectiveness of your proposed project to enhance community viability and meet the needs you have identified in Rating Factor 2 and the commitment to sustain your proposed project. The populations that were described in demographics that documented need should be the same populations that will receive the primary benefit of the proposed project.

1. Description of and Rationale for Proposed Project (13 Points)

a. (13 points) The proposed project is a viable and cost-effective approach to address the needs outlined under Rating Factor 2 of your application. The proposed project is described in detail and you indicate why you believe it will be most effective in addressing the identified need. In order for an application to receive full credit under this factor, the application must demonstrate how the community's viability will be enhanced, as presented in Rating Factor 5. The application includes a description of the size, type, and location of the project and a rationale for project design. If your application is for construction of housing or a public facility building or rehabilitation project, it must also include anticipated cost savings related to project development due to program design or construction methods. For land acquisition to support new housing projects, you must establish that there is a reasonable ratio between the number of net usable acres to be acquired and the number of low- and moderate-income households to benefit from the project.

b. (10 points) The proposed project is a viable and cost-effective approach to address the needs outlined under Rating Factor 2 of the application. The project is described in detail and indicates why you believe the project will be most effective in addressing the identified need. The application includes a description of the size, type, and location of the project, as well as a rationale for project design. For land acquisition to support new housing projects, the applicant has established that there is a reasonable ratio between the number of net usable acres to be acquired and the number of low- and moderate-income households to benefit from this project. The application (for construction of housing or a public facility building or rehabilitation projects) does not include anticipated cost savings due to program design and/or construction methods.

c. (6 points) The proposed project is a viable and cost-effective approach to address the needs outlined under Rating Factor 2 of the application. The project is described and you indicate why you believe the project will be most effective in addressing the identified need. The application includes a description of the size, type, and location of the project. For land acquisition to support new housing projects, the applicant has established that there is a reasonable ratio between the number of net usable acres to be acquired and the number of low- and moderate-income households to benefit from the project. The application (for construction of housing or a public facility building or rehabilitation activities) does not include anticipated cost savings due to program design and/or construction methods.

d. (0 points) The proposed project is not a viable and cost-effective approach to address the needs outlined under Rating Factor 2 of the application. The proposed project is not described in detail with an indication of why the applicant believes the project will be most effective in addressing the identified need. For land acquisition to support new housing projects, the applicant has not established that there is a reasonable ratio between the number of net usable acres to be acquired and the number of low- and moderate-income households to benefit from the project. The application (for construction of housing or a public facility building and rehabilitation activities) does not include anticipated cost savings due to program design and/or construction methods.

2. Budget and Cost Estimates (8 Points)

The budget is thorough and reasonable and all costs are documented. Cost estimates must be broken down by line item for each proposed activity, including planning and administration costs, and documented. You must provide a description of the qualifications of the person who prepared the cost estimate.

3. HUD Policy Priorities (1 Point)

Your application addresses the goals for “Improving Our Nation's Communities,” or “Encouraging Accessible Design Features” two of HUD's 2008 policy priorities, as described in Section V. B. of the General Section. You must describe which one of these two policy priorities you select and describe how your activity will meet the applicable goals.

4. Intent To Meet Section 3 Requirements (2 Points)

Your application demonstrates how you will apply the Section 3 requirements of the Housing and Urban Development Act of 1968 and the regulations in 24 CFR part 135 (Economic Opportunities for Low- and Very-Low-Income Persons) to the proposed project. You must demonstrate how you will incorporate Section 3 principles, with goals for expanding opportunities for Section 3 residents and business concerns, to your proposed project. The purpose of Section 3 is to ensure that employment and other economic opportunities generated by federal financial assistance for housing and community development programs shall, to the extent feasible, be directed toward low- and very-low-income persons (but not in derogation of compliance with the Indian Preference provisions in Section 7(b) of the Indian Self-Determination and Education Assistance Act (25 U.S.C. 450e(b)).

5. Commitment to Sustain Activities (12 Points)

Your application demonstrates your commitment to your community's viability by sustaining your proposed activities. The information provided is sufficient to determine that the project will proceed effectively.

The criteria for this sub-factor vary according to the type of project for which you are applying.

a. Public Facilities and Improvement Projects (12 Points)

(1) (12 points) If a tribe assumes operation and maintenance responsibilities for the public facilities and improvements, provide a written statement that the tribe has adopted the operation and maintenance plan and commits the necessary funds to provide for these responsibilities. In addition, describe how the operation and maintenance plan addresses maintenance, repairs, insurance, security, and replacement reserves and include a cost breakdown for annual expenses. If an entity other than the tribe commits to pay for operation and maintenance for the public facilities, a written statement from the entity is included in the application that the entity has developed the operation and maintenance plan and commits the necessary funds to provide for these responsibilities. In addition, describe how the operation and maintenance plan addresses maintenance, repairs, insurance, security, and replacement reserves and include a cost breakdown for annual expenses. For public facility buildings only, a commitment is included in the application that identifies the source of and commits the necessary operating funds for any recreation, social, or other services to be provided. In addition, letters of commitment from service providers are included that address both operating expenses and space needs.

(2) (8 points) If a tribe assumes operation and maintenance responsibilities for the public facilities and improvements, provide a written statement that the tribe has adopted the operation and maintenance plan and commits the necessary funds to provide for these responsibilities. In addition, a description was included that shows that the operation and maintenance plan addresses only four of the following items (maintenance, repairs, insurance, security, and replacement reserves) but a satisfactory cost breakdown for annual expenses was not included. If an entity other than the tribe commits to pay for operation and maintenance for the public facilities and maintenance, a written statement from the entity is included in the application that the entity has developed the operations and maintenance plan and commits the necessary funds to provide for these responsibilities. In addition, a description was included that shows that the operation and maintenance plan addresses only four of the following items (maintenance, repairs, insurance, security, and replacement reserves) but a satisfactory cost breakdown for annual expenses was not included. For community buildings only, a commitment is included in the application that identifies the source of and commits the necessary operating funds for any recreation, social, or other services to be provided. In addition, letters of commitment from service providers are included that address both operating expenses and space needs. Information provided is sufficient to determine that the project will proceed effectively.

(3) (4 points) If a tribe assumes operation and maintenance responsibilities for the public facilities and improvements, the application includes a written statement that the tribe has adopted the operation and maintenance plan and commits the necessary funds to provide for these responsibilities, or a description of the operation and maintenance plan is included that shows that the plan addresses only three of the following items (maintenance, repairs, insurance, security, and replacement reserves). If an entity other than the tribe commits to pay for operation and maintenance for the public facilities and maintenance, the application includes a written statement that the entity has developed the operation and maintenance plan and commits the necessary funds to provide for these responsibilities, or a description of the operation and maintenance plan is included that shows that the plan addresses only three of the following items (maintenance, repairs, insurance, security, and replacement reserves). Letters of commitment to provide services are included but they do not address operating expenses and space needs. Information provided is sufficient to determine that the project will proceed effectively.

(4) (0 points) None of the above criteria is met.

b. New Housing Construction, Housing Rehabilitation, and Homeownership Assistance Projects (12 Points)

(1) (12 points) The ongoing maintenance responsibilities are clearly identified for the tribe and/or the participants, as applicable. If the tribe or another entity is assuming maintenance responsibilities, then the applicant must describe the maintenance responsibilities and provide a commitment to that effect.

(2) (8 points) Maintenance responsibilities for the tribe and/or participants are identified and described, but lacking in detail, and the commitment regarding maintenance responsibilities is submitted.

(3) (4 points) Tribal maintenance responsibilities are identified but participant responsibilities are either not addressed or do not exist, or there is no commitment regarding maintenance responsibilities.

(4) (0 points) None of the above criteria is met.

c. Economic Development Projects (12 Points)

You must include information or documentation that addresses or provides all of the following in the application: A description of the organizational system and capacity of the entity that will operate the business; documents that show that formal provisions exist for separation of government functions from business operating decisions, an operating plan for the project, and the feasibility and market analysis of the proposed business activity and the financial viability of the project.

(1) Appropriate documents to include in the application to address these items include:

(a) Articles of incorporation, bylaws, resumes of key management positions, and board members for the entity who will operate the business.

(b) Business operating plan.

(c) A market study no more than two years old and which has been conducted by an independent entity.

(d) Financial analysis and feasibility study no more than two years old which indicates how the proposed business will capture a fair share of the market, and which has been conducted by an independent entity.

(e) Detailed cost summary for the development of the project.

(f) For the expansion of an existing business, copies of financial statements for the most recent three years (or the life of the business, if less than three years).

(2) The submitted documentation will be evaluated to determine the project's financial chance for success. The following questions must be addressed to meet this requirement:

(a) Does the business plan seem thorough and does the organization structure have quality control and responsibilities built in?

(b) Does the business plan or market analysis indicate that a substantial market share is likely within five years?

(c) Do the costs appear to be reasonable given projected income and information about inputs?

(d) Does the business plan or cash flow analysis indicate that cash flow will be positive within the first year?

(e) Is the financial statement clean with no indications of concern by the auditor?

(12 points) All above documents applicable to the proposed project are included in your application and provide evidence that the project's chance for financial success is excellent.

(6 points) Most of the above documents applicable to the proposed project are included and provide evidence that the project's chance for financial success is reasonable.

(0 points) Neither of the above criteria is met.

d. Microenterprise Programs (12 Points)

(1) You must include the following information or documentation in the application that addresses or provides a description of how your microenterprise program will operate. Appropriate information to include in the application to address program operations includes:

(a) Program description. A description of your microenterprise program including the types of assistance offered to microenterprise applicants and the types of entities eligible to apply for such assistance.

(b) Processes for selecting applicants. A description of your processes for analyzing microenterprise applicants' business plans, market studies, and financial feasibility. For credit programs, you must describe your process for determining the loan terms (i.e., interest rate, maximum loan amount, duration, loan servicing provisions) to be offered to individual microenterprise applicants.

(2) (12 points) All of the above information or documentation applicable to the proposed project are thoroughly addressed in the application and the chances for success are excellent.

(3) (6 points) Most of the above information or documentation applicable to the proposed project are addressed in the application and the chances for success are reasonable.

(4) (0 points) Neither of the above criteria is met.

e. Land Acquisition Projects to Support New Housing (12 Points)

Submissions must include the results of a preliminary investigation conducted by a qualified independent entity demonstrating that the proposed site has suitable soil conditions for housing and related infrastructure, potable drinking water is accessible for a reasonable cost, access to utilities, vehicular access, drainage, nearby social and community services, and no known environmental problems.

(1) (12 points) The submissions include all of the above-mentioned items and all necessary infrastructure is in place.

(2) (6 points) The submissions demonstrate that the proposed site(s) is/are suitable for housing but that not all necessary infrastructure is in place. A detailed description of resources to be used and a detailed implementation schedule for development of all necessary infrastructure demonstrates that such infrastructure, as needed for proposed housing development, will be developed in time for such development, but no later than two years after site purchase.

(3) (0 points) Neither of the above criteria is met.

Rating Factor 4: Leveraging Resources (8 points)

HUD believes that ICDBG funds can be used more effectively to benefit a larger number of Native American and Alaska Native persons and communities if projects are developed that use tribal resources and resources from other entities in conjunction with ICDBG funds. To encourage this, HUD will award points based on the percentage of non-ICDBG resources provided relative to project costs as follows:

Non-ICDBG resources to project costs | Points
Less than 4 percent | 0
At least 4 percent but less than 11 percent | 2
At least 11 percent but less than 18 percent | 4
At least 18 percent but less than 25 percent | 6
25 percent or more | 8

Contributions that could be considered as leveraged resources for point award include, but are not limited to: Tribal trust funds, loans from individuals or organizations, private foundations, businesses, state or federal loans or guarantees, other grants including IHBG (also known as NAHBG) funds, donated goods and services needed for the project, land needed for the project, and direct administrative costs. With the exception of land acquisition, funds that have been expended on the project prior to the application deadline date will not be counted as leverage. Applicants are reminded that environmental review requirements under 24 CFR part 58 apply to the commitment or use of both ICDBG and non-ICDBG funds in a leveraged project. See Section VI.B. of this NOFA for information related to this requirement.

Contributions that will not be considered include, but are not limited to: Indirect administrative costs as identified in OMB Circular A-87, attachment A, section F; contributions of resources to pay for anticipated operations and maintenance costs of the proposed project; and, in the cases of expansions to existing facilities, the value of the existing facility.

To obtain points for this rating factor, letters of firm or projected commitments, memoranda of understanding, or agreements to participate from any entity, including the tribe that will be providing a contribution to the project, must accompany the application. The documentation must be received by HUD in the paper application package (if you have received a waiver of the electronic submission requirement) or for electronically submitted applications, the documentation must be scanned and submitted as part of the application documents or sent by facsimile transmittal (see the General Section). To receive funding consideration, all documents must be received by the application deadline dates and meet the timely receipt requirements.

To demonstrate the commitment of tribal resources, the application must contain a written statement that identifies and commits the tribal resources to the project, subject to approval of the ICDBG assistance. In the case of IHBG funds, whether the tribe or a TDHE administers them, an approved Indian Housing Plan (IHP) must identify and commit the IHBG resources to the project. Do not submit the IHP with your application. ONAP will rely on the most recently approved IHP on file. If the tribe/TDHE intends to include the leveraged commitment in a future IHP, the application must contain a written statement that identifies and commits the IHBG resources to the project subject to the same requirements as above.

To demonstrate the commitment of a public agency, foundation, or other private party resources, a letter of commitment, memorandum of understanding, and/or agreement to participate, including any conditions to which the contribution may be subject, must be submitted with the application. All letters of commitment must include the donor organization's name, the specific resource proposed, the dollar amount of the financial or in-kind resource and method for valuation, and the purpose of that resource within the proposed project. An official of the organization legally authorized to make commitments on behalf of the organization must sign the commitment.

HUD recognizes that in some cases, firm commitments of non-tribal resources may not be obtainable by your tribe by the application deadline. For such projected resources, your application must include a statement from the contributing entity that describes why the firm commitment cannot be made at the current time and affirms that your tribe and the proposed project meets eligibility criteria for receiving the resource. In addition, a date by which the funding decisions will be made must be included. This date cannot be more than six months from the anticipated date of grant approval by HUD. Should HUD not receive notification of the firm commitment within 6 months of the date of grant approval, HUD will recapture the grant funds approved and will use them in accordance with the requirements of 24 CFR 1003.102.

In addition to the above requirements, for all contributions of goods, services and land, you must demonstrate that the donated items are necessary to the actual development of the project and include comparable costs that support the donation. Land valuation must be established using one of the following methods and the documentation must be contained in the application: a site-specific appraisal no more than two years old; an appraisal of a nearby comparable site also no more than two years old; a reasonable extrapolation of land value based on current area realtor value guides; or a reasonable extrapolation of land value based on recent sales of similar properties in the same area.

Rating Factor 5: Comprehensiveness and Coordination (10 Points)

This factor addresses the extent to which your project planning and proposed implementation reflect a coordinated, community-based process of identifying and addressing needs, including assisting beneficiaries and the program to achieve self-sufficiency/sustainability. The applicant should describe the project's specific benchmarks, outputs, outcomes, and goals for enhancing community viability. The applicant should also indicate how you will measure and evaluate how the goals are being met.

Applicants are strongly encouraged to use the Logic Model, HUD form 96010, to provide information on the measurable outputs, outcomes and program evaluation requirements. Alternatively this information can be submitted in a narrative format.

1. Coordination (up to 2 points). The application addresses the extent to which you have coordinated your proposed ICDBG activities with other organizations and/or tribal departments that are not providing direct financial support to your proposed work activities, but with which you share common goals and objectives and are working toward meeting these objectives in a holistic and comprehensive manner. For example, your project is consistent with and, to the extent possible, identified in the IHP (One-Year Financial Resources Narrative; Table 2, Financial Resources, Part I., Line 1E; and, Table 2, Financial Resources, Part II.) submitted by you or on your behalf for the IHBG (also known as NAHBG) program. If the IHP for the IHBG (also known as NAHBG) program year that coincides with the implementation of the ICDBG proposed project has not been submitted, you must provide a written statement that when submitted, the IHP will specifically reference the proposed project.

2. Outputs, Outcomes, and/or Goals (up to 8 points). The extent to which your proposed project identifies, measures and evaluates the specific benchmarks, outputs, outcomes and/or goals of your project that enhance community viability.

Outputs must include, where applicable:

• Number of houses rehabilitated;

• Number of jobs created;

• Square feet for any public facility;

• Number of education or job training opportunities provided;

• Number of homeownership units constructed or financed;

• Number of businesses assisted (including number of minority/Native American);

• Number of families proposed to be assisted through a drug-elimination program, or through a program to reduce or eliminate health-related hazards.

Outcomes must include, where appropriate:

• Reduction in the number of families living in substandard housing;

• Increased income resulting from employment generated by project;

• Increased quality of life due to services provided by the public facility;

• Increased economic self-sufficiency of program beneficiaries;

• Increase in homeownership rates;

• Reduction of drug-related crime or health-related hazards.

HUD is providing a Master Logic Model as a Microsoft Excel™ file with dropdown listings from which applicants may select the items in each column that reflect their activity outputs and outcomes. The Master Logic Model listing also identifies the unit of measure that HUD is interested in collecting for the output and outcome selected. Applicants can also select the appropriate estimated number of units of measure to be accomplished and identified for each output and outcome. The space next to the output and outcome is intended to capture the anticipated units of measure. Multiple outputs and outcomes may be selected per project. The Master Logic Model is incorporated into the form available as part of the ICDBG Instructions download from Grants.gov. Training on use of the dropdown form will be provided via Webcast. The schedule for Webcast training can be found at http://www.hud.gov/offices/adm/grants/fundsavail.cfm.

B. Review and Selection Process

1. Application Selection Process. You must meet all the applicable threshold requirements listed in Section III.C. Your application must meet all screening for acceptance requirements and all identified applicant and project-specific thresholds. HUD will review each application and assign points in accordance with the selection factors described in this section.

2. Application Screening. The Area ONAP will screen applications for single-purpose grants. The Area ONAP will reject an application that fails this screening and will return the application unrated. The Area ONAP will accept your application if it meets all the criteria listed below as items (a) through (e).

a. Your application is received or submitted in accordance with the requirements set forth under Application and Submission Procedures in Section IV of this NOFA;

b. You are eligible;

c. The proposed project is eligible;

d. Your application contains substantially all the components specified in Section IV. B. of this NOFA;

e. Your application shows that at least 70 percent of the grant funds are to be used for activities that benefit low- and moderate-income persons, in accordance with the requirements of 24 CFR 1003.208. For screening purposes only, HUD will use the 2000 census data if the data you submitted does not meet this screening requirement.

3. Threshold Compliance. The Area ONAP will review each application that passes the screening process to ensure that each applicant and each proposed project meets the applicant threshold requirements set forth in 24 CFR 1003.301(a) and the project-specific threshold requirements set forth in 24 CFR 1003.302 and III.C. of this NOFA.

4. Past Performance. An applicant's past performance is evaluated under Rating Factor 1. Applicants are encouraged to address all performance-related criteria prior to the application deadline date. An applicant must score a minimum of 15 points under Rating Factor 1 in order to meet the minimum point requirements outlined below in this NOFA.

5. Rating. The Area ONAP will review and rate each project that meets the acceptance criteria and threshold requirements.

After the applications are rated, a summary review of all applications will be conducted to ensure consistency in the application rating. The summary review will be performed by either the Grants Management Director (or designee) or by a panel composed of up to three staff members.

The total number of points for rating factors 1 through 5 is 100.

6. Minimum Points. To be considered for funding, your application must receive a minimum of 15 points under Rating Factor 1 and an application score of 70 points.

7. Ranking. All projects will be ranked against each other according to the point totals they receive, regardless of the type of project or component under which the points were awarded. Projects will be selected for funding based on the final ranking to the extent that funds are available. The Area ONAP will determine individual grant amounts in a manner consistent with the considerations set forth in 24 CFR 1003.100(b)(2). Specifically, the Area ONAP may approve a grant amount less than the amount requested. In doing so, the Area ONAP may take into account the size of the applicant, the level of demand, the scale of the activity proposed relative to need and operational capacity, the number of persons to be served, the amount of funds required to achieve project objectives, and the reasonableness of the project costs. If the Area ONAP determines that there are not enough funds available to fund a project as proposed by the applicant, it may decline to fund that project and may fund the next highest-ranking project or projects for which adequate funds are available. The Area ONAP shall select, in rank order, additional projects for funding if one of the higher-ranking projects is not funded or if additional funds become available.

8. Tiebreakers. When rating results in a tie among projects and insufficient resources remain to fund all tied projects, the Area ONAP will approve projects that can be fully funded over those that cannot be fully funded. When that does not resolve the tie, the Area ONAP will use the following factors in the order listed to resolve the tie:

(a) The applicant that has not received an ICDBG over the longest period of time.

(b) The applicant with the fewest active ICDBGs.

(c) The project that would benefit the highest percentage of low- and moderate-income persons.

9. Technical Deficiencies and Pre-Award Requirements

a. Technical Deficiencies. If there are technical deficiencies in successful applications, you must satisfactorily address these deficiencies before HUD can make a grant award. See the General Section at V.B.4. for information on curing deficiencies.

b. Pre-Award Requirements. Successful applicants may be required to provide supporting documentation concerning the management, maintenance, operation, or financing of proposed projects before a grant agreement can be executed. Such documentation may include additional specifications on the scope, magnitude, timing or method of implementing the project; or information to verify the commitment of other resources required to complete, operate, or maintain the proposed project. HUD will notify applicants by facsimile or via the U.S. Postal Service, return receipt requested. Applicants will be provided thirty (30) calendar days from the date of receipt of the HUD notification to respond to these requirements. No extensions will be provided. If the deadline date falls on a Saturday, Sunday, or federal holiday, your response must be received by HUD on the next day that is not a Saturday, Sunday, or federal holiday. If you do not respond within the prescribed time period or you make an insufficient response, the Area ONAP will determine that you have not met the requirements and will withdraw the grant offer. You may not substitute new projects for those originally proposed in your application and any new information will not affect your project's rating and ranking. The Area ONAP will award, in accordance with the provisions of this NOFA, grant amounts that had been allocated for applicants unable to meet pre-award requirements.

c. The time period for calculating the response deadline for technical deficiencies and pre-award requirements begins on the day after receipt of the pre-award letter from the Area ONAP.

10. Error and Appeals. Judgments made within the provisions of this NOFA and the program regulations (24 CFR part 1003) are not subject to claims of error. You may bring arithmetic errors in the rating and ranking of applications to the attention of the Area ONAPs within 30 days of being informed of your score. Please see Section VI.A. of the General Section for further information regarding errors.

11. Performance and Compliance Actions of Funding Recipients. HUD will measure and address the performance of and order compliance actions by funding recipients in accordance with the applicable standards and sanctions of their respective programs.

VI. Award Administration Information

A. Award Notices. HUD expects to announce awards by November 26, 2008. As soon as rating and ranking are completed, the applicant has complied with any pre-award requirements, and Congressional release has been obtained, a grant award letter, a grant agreement, and other forms and certifications will be mailed to the recipient for signature and return to the Area ONAP. The grant agreement, which is signed by HUD and the recipient, establishes the conditions by which both the Area ONAP and the recipient must abide during the life of the grant. All grants are conditioned on the completion of all environmental obligations and approval of release of funds by the Area ONAP in accordance with the requirements of 24 CFR part 58. HUD may impose other grant conditions, if additional actions or approvals are required, before the use of funds.

B. Administrative and National Policy Requirements

1. Statutory and Regulatory Requirements.

a. Environmental Requirements. As required by 24 CFR 1003.605, ICDBG grantees must perform environmental reviews of ICDBG activities in accordance with 24 CFR part 58 (as amended 9/29/03). Grantees and other participants in the development process may not commit or expend any ICDBG or nonfederal funds on project activities (other than those listed in 24 CFR 58.22(f), 58.34 or 58.35(b)) until HUD has approved a Request for Release of Funds and environmental certification submitted by the grantee. The expenditure or commitment of ICDBG or nonfederal funds for such activities prior to HUD approval may result in the denial of assistance for the project or activities under consideration.

D. b. Indian Preference. HUD has determined that the ICDBG program is subject to Section 7(b) of the Indian Self-Determination and Education Assistance Act (25 U.S.C. 450e(b)). The provisions and requirements for implementing this section are in 24 CFR 1003.510.

c. Anti-discrimination Provisions. Under the authority of Section 107(e)(2) of the CDBG statute, HUD waived the requirement that recipients comply with the anti-discrimination provisions in Section 109 of the CDBG statute with respect to race, color, and national origin. You must comply with the other prohibitions against discrimination in Section 109 (HUD's regulations for Section 109 are in 24 CFR part 6) and with the Indian Civil Rights Act.

d. Conflict of Interest. In addition to the conflict of interest requirements with respect to procurement transactions found in 24 CFR 85.36 and 84.42, as applicable, the provisions of 24 CFR 1003.606 apply to such activities as the provision of assistance by the recipient or sub-recipients to businesses, individuals, and other private entities under eligible activities that authorize such assistance.

e. Economic Opportunities for Low- and Very Low-Income Persons (Section 3). Section 3 requirements apply to the ICDBG program, but as stated in 24 CFR 135.3(c), the procedures and requirements of 24 CFR part 135 apply to the maximum extent consistent with, but not in derogation of, compliance with Indian Preference.

2. OMB Circulars and Government-wide Regulations Applicable to Financial Assistance Programs. The policies, guidance and requirements of OMB Circular A-87, Cost Principles Applicable to Grants, Contracts and Other Agreements with State and Local Governments; and OMB Circular A-122, Cost Principles for Nonprofit Organizations; and OMB Circular A-133, Audits of State and Local Governments, and Nonprofit Organizations; and the regulations at 24 CFR part 85, Administrative Requirements for Grants and Cooperative Agreements to State, Local and Federally Recognized Indian Tribal Governments apply to the award, acceptance, and use of assistance under the ICDBG program and to the remedies for noncompliance, except when inconsistent with the provisions of the Consolidated Appropriations Act, 2006 (Pub. L. 109-115; approved November 30, 2005) or the ICDBG program regulations at 24 CFR part 1003. Copies of the OMB Circulars may be obtained from EOP publications. Room 22000, New Executive Office Building, Washington, DC 20503, telephone (202) 395-3080 (this is not a toll-free number) or (800) 877-8339 (TTY Federal Information Relay Service). Information may also be obtained from the OMB Web site at http://www.whitehouse.gov/omb/circulars/index.html.

C. Reporting

1. Post-Award Reporting Requirements

a. Quarterly Financial Reports. Grant recipients must submit to the Area ONAP a quarterly SF-272, Federal Cash Transaction Report. The report accounts for funds received and disbursed by the recipient.

b. Annual Status and Evaluation Report. Recipients are required to submit this report in narrative form annually. The report is due 45 days after the end of the federal fiscal year and at the time of grant close-out. The report must include:

(1) The narrative report must address the progress made in completing approved activities and include a list of work remaining, along with a revised implementation schedule, if necessary. This report should include progress on any outputs or outcomes specified in Rating Factor 5 and incorporated into the final award document (applicants can use the Logic Model (HUD-96010) to address all or some of the narrative requirements). Further information regarding the Return on Investment(s) will be issued in a subsequent notice by HUD;

(2) A breakdown of funds spent on each major project activity or category; and

(3) If the project has been completed, an evaluation of the effectiveness of the project in meeting the community development needs of the grantee, as well as the final outputs and outcomes.

c. Minority Business Enterprise Report. Recipients must submit this report on contract and subcontract activity during the first half of the fiscal year by April 10 and by October 10 for the second half of the fiscal year.

d. A close-out report must be submitted by the recipient within 90 days of completion of grant activities. The report consists of the final Financial Status Report (forms SF 269 or 269A), the final Status and Evaluation Report including outputs and outcomes agreed upon in the final award document relating to Rating Factor 5 and the Close-Out Agreement. More information regarding these requirements may be found at 24 CFR 1003.506 and 1003.508.

VII. Agency Contact(s)

A. General Questions. You should direct general program questions to the Area ONAP serving your area. A list identifying each Area ONAP is provided at http://www.hud.gov/offices/pih/ih/onap/area_onap.cfm. Persons with speech or hearing impairments may call HUD's TTY number 202-708-0770, or 1-800-877-8339 (the Federal Information Relay Service TTY). Other than the “800” numbers, these numbers are not toll-free. You should direct questions concerning downloading the electronic application, registering with Grants.gov, or other questions regarding the electronic application to the Grants.gov support desk at 800-518-GRANTS. You may also send an e-mail to Support@Grants.gov.

B. Technical Assistance. Before the application deadline date, HUD staff will be available to provide you with general guidance and technical assistance about the requirements in the General Section and this NOFA. However, HUD staff is not permitted to assist in preparing your application. Following selection of applicants, but before awards are made, HUD staff is available to assist in clarifying or confirming information that is a prerequisite to the offer of an award.

VIII. Other Information

A. NOFA Training. Training for potential applicants on the requirements of the General Section, this NOFA, the Logic Model, and Grants.gov registration, will be provided by HUD via broadcast and Webcast. Information on the training can be found in the General Section. The training schedule can be found on HUD's Web site at http://www.hud.gov/offices/adm/grants/fundsavail.cfm.

B. Paperwork Reduction Act Statement. The information collection requirements in this NOFA have been approved by the Office of Management and Budget (OMB) under the Paperwork Reduction Act of 1995 (44 U.S.C. 3501-3520) and assigned OMB control number 2577-0191. In accordance with the Paperwork Reduction Act, HUD may not conduct or sponsor, and a person is not required to respond to, a collection of information unless the collection displays a valid OMB control number. Public reporting burden for the collection of information is estimated to average 43 hours per annum for the application and grant administration. This includes the time for collecting, reviewing, and reporting the data. The information will be used for grantee selection and monitoring the administration of funds. Response to this request for information is required in order to receive the benefits to be derived.

Historically Black Colleges and Universities (HBCU) Program

Overview Information

A. Federal Agency Name: Department of Housing and Urban Development, Office of Policy Development and Research, Office of University Partnerships.

B. Funding Opportunity Title: Historically Black Colleges and Universities (HBCU) Program.

C. Announcement Type: Initial announcement.

D. Funding Opportunity Numbers: FR-5200-N-20; OMB Approval Number is 2528-0235.

E. Catalog of Federal Domestic Assistance (CFDA) Number: The CFDA Number for this program is 14.520.

F. Dates: The application deadline date is July 2, 2008. Application must be received and validated by Grants.gov by 11:59:59 p.m. eastern time on the deadline date. Please be sure to read the General Section, published March 19, 2008 (73 FR 14882), for electronic application submission and receipt requirements.

G. Additional Overview Content Information

1. Purpose of the Program: To assist Historically Black Colleges and Universities (HBCU) to expand their role and effectiveness in addressing community development needs in their localities, including neighborhood revitalization, housing, and economic development, principally for persons of low- and moderate-income consistent with the purposes of Title I of the Housing and Community Development Act of 1974 (42 U.S.C. et seq.) as amended.

2. Award Information: In Fiscal Year (FY) 2008, approximately $9 million has been made available for this program by the Consolidated Appropriations Act, 2008 (Pub. L. 110-161). An applicant can request up to $700,000 for a three-year (36 months) grant performance period. In order to ensure that institutions that have never received a HUD HBCU Program grant (First Time HBCU applicants) receive awards in this competition, approximately $1 million will be made available to fund First Time HBCU applicants. In addition, approximately $8 million will be made available to fund Previously Funded HBCU applicants. If funding designated for First Time HBCU applicants remains after all eligible First Time HBCU applicants are awarded, the remaining funds will be made available to fund eligible Previously Funded HBCU applicants.

3. Eligible Applicants: Colleges and Universities that meet the definition of Historically Black Colleges and Universities as determined by the Department of Education in 34 CFR 608.2 in accordance with that Department's responsibilities under Executive Order 13256, dated February 12, 2002. Applicants must be institutions of higher education accredited by a national or regional accrediting agency recognized by the U.S. Department of Education.

Full Text of Announcement

I. Funding Opportunity Description

The purpose of the Historically Black Colleges and Universities (HBCU) Program is to assist HBCUs expand their role and effectiveness in addressing community development needs in their localities, including neighborhood revitalization, housing, and economic development, principally for persons of low- and moderate-income, consistent with the purpose of Title I of Housing and Community Development Act of 1974 (42 U.S.C. et seq.) as amended.

For the purposes of this program NOFA, the term “locality” includes any city, county, township, parish, village, or other general political subdivision of a state, or the U.S. Virgin Islands where the institution is located.

A “target area” is the area within the locality in which the institution will implement its proposed HBCU grant. If an institution wants to provide services/activities in a location other than the target area of that institution an applicant must provide justification in their application for why they want to do so.

A. Authority

HUD's authority for making funding available under this NOFA is the Consolidated Appropriations Act, 2008 (Pub. L. 110-161). This program is being implemented through this NOFA and the policies governing its operation are contained herein.

B. Modifications

Listed below are major modifications from the FY2007 program funding announcement:

1. Applicants can now request up to $700,000 for a three-year (36 months) grant performance period.

2. Abstract and budget narrative responses must be submitted electronically and formatted to fit an 8½-by-11-inch page. Responses must be double-spaced, with one inch margins (for the top, bottom, left and right sides of the document), using the standard Times New Roman 12-point font.

3. Project budgets will be evaluated and scored under Factor 3, Soundness of Approach. HUD will assess the applicant's budget in relation to its quality, thoroughness, reasonableness, and rationality to the proposed project.

4. There is a maximum allowance for administrative cost. Applicants can utilize up to 20 percent of their grant for payments of reasonable grant administrative costs related to planning and executing the project (e.g., preparation/submission of HUD reports, etc.). Detailed explanations of these costs are provided in the OMB circular A-21, Cost Principles for Educational Institutions that can be accessed at the White House Web site at: http://www.whitehouse.gov/omb/circulars/index.html.

5. Applicants must ensure that 51 percent or more of all funds awarded will be utilized for the community and/or general public. These funds are not for the direct benefit of the institution.

6. For the purpose of responding to Rating Factor 1, Capacity of the Applicant and Relevant Experience subfactor (a) Knowledge and Experience, HUD now defines Previously Funded Applicants as any applicants that received funding in FY 1999 through FY 2007. If an applicant has received a grant prior to these years then they should respond to this factor as a First-Time Applicant. This definition is relevant to this rating factor and the abstract only.

7. Applicants that propose ineligible activities will not be disqualified, but will not receive points under Factor 3, Soundness of Approach for the ineligible activities. HUD reserves the right to deduct points under this factor for those activities and/or not fund an application if the majority of the activities are ineligible.

8. Applicants that have no external leveraging resources (the institution is not considered an external resource) under Factor 4 Leveraging Resources/Developing Partnerships will receive no points under this factor. In addition, HUD will now score Factor 4 as follows:

a. Ten (10) points to an applicant that provides leveraging resources as listed in their application that are 15 percent or more of the amount requested under this program;

b. Nine (9) points to an applicant that provides leveraging resources as listed in their application that represents 13 to 14 percent of the amount requested under this program;

c. Eight (8) points to an applicant that provides leveraging resources as listed in their application that represents 11 to 12 percent of the amount requested under this program;

d. Seven (7) points to an applicant that provides leveraging resources as listed in their application that represents 8 to 10 percent of the amount requested under this program;

e. Six (6) points to an applicant that provides leveraging resources as listed in their application that represents 6 to 7 percent of the amount requested under this program;

f. Five (5) points to an applicant that provides leveraging resources as listed in their application that represents 5 percent of the amount requested under this program; and

g. Zero (0) points to an applicant that provides leveraging resources as listed in their application that is less than 5 percent of the amount requested under this program and/or have no external leveraging resources (remember, the institution/applicant is not considered an external resource).

II. Award Information

In FY2008, approximately $9 million is made available for this program. An applicant can request up to $700,000 for a three-year (36 months) grant performance period.

In order to ensure that institutions that have never received a HUD HBCU program grant (First-Time HBCU applicants) receive awards in this competition, approximately $1 million will be made available to fund First-Time HBCU applicants. In addition, approximately $8 million will be made available to fund Previously Funded HBCU applicants. If funding designated for First-Time HBCU applicants remains after all eligible First-Time HBCU applicants are awarded, the remaining funds will be made available to fund eligible Previously Funded HBCU applicants.

III. Eligibility Information

A. Eligible Applicants

Historically Black Colleges and Universities as determined by the U.S. Department of Education in 34 CFR 608.2 in accordance with that Department's responsibilities under Executive Order 13256, dated February 12, 2002. All applicants must be institutions of higher education accredited by a national or regional accrediting agency recognized by the U.S. Department of Education.

B. Cost Sharing or Matching

None Required.

C. Other

1. Eligible Activities. Eligible activities are listed in 24 CFR part 570, subpart C, particularly § 570.201 through § 570.206. Information regarding these activities can be found online at: http://www.access.gpo.gov/nara/cfr/waisidx_06/24cfr570_06.html. The 15-percent cap on the total grant amount that can be used on public service activities that benefit low- and moderate-income persons can be waived. Institutions seeking to devote more than 15-percent of the grant funds to public service activities must include a written request in their application addressed to Darlene F. Williams, Assistant Secretary for Policy Development and Research. The written request must include the following information: (1) The basis for the request; (2) a description of the proposed public service activities; (3) the dollar amount dedicated to the proposed public service activities; and (4) a statement describing how the proposed activities meet the Community Development Block Grant eligibility requirements and at least one national objective.

Note: This letter must be included in the application. If an applicant devotes more than 15 percent of their grant funds to public service activities and the letter is not included and/or does not include the information requested above, the public service activities over the 15-percent cap will not be considered fundable and this exclusion will result in a lower score.

a. Examples of eligible activities include, but are not limited to:

(1) Acquisition of real property;

(2) Clearance and demolition;

(3) Rehabilitation of residential structures, including lead-based paint hazard evaluation and reduction and making accessibility modifications in accordance with the requirements of Section 504 of the Rehabilitation Act of 1973 (29 U.S.C. 794) and visitability modifications in accordance with the policy priorities described in the General Section;

(4) Acquisition, construction, reconstruction, rehabilitation, or installation of public facilities and improvements, such as water and sewer facilities and streets compliance with accessibility requirements such as those under Section 504 of the Rehabilitation Act of 1973 (29 U.S.C. 794) and the Americans with Disabilities Act of 1990 (42 U.S.C. 12101);

(5) Special economic development activities described at 24 CFR 570.203 and assistance to facilitate economic development by providing technical or financial assistance for the establishment, stabilization, and expansion of microenterprises, including minority enterprises;

(6) Assistance to community-based development organizations (CBDO) to carry out neighborhood revitalization, community economic development, or energy conservation projects, in accordance with 24 CFR 570.204. This could include activities in support of a HUD-approved local entitlement grantee, CDBG Neighborhood Revitalization Strategy (NRS) or HUD-approved State CDBG Community Revitalization Strategy (CRS);

(7) Public service activities such as those general support activities that can help to stabilize a neighborhood and contribute to sustainable redevelopment of the area, including but not limited to such activities as those concerned with employment, crime prevention, child care, health care services, drug abuse, education, fair housing counseling, energy conservation, homebuyer down payment assistance, establishment of Neighborhood Networks centers in federally assisted or insured housing, job training and placement, and recreational needs;

(8) Direct homeownership assistance to low- and moderate-income persons, as provided in section 105(a)(25) of the Housing and Community Development Act of 1974 (42 U.S.C. 5305(a)(25));

(9) There is a maximum allowance for administrative cost. Up to 20 percent of the grant may be used for payments of reasonable grant administrative costs related to planning and executing the project (e.g., preparation/submission of HUD reports). Detailed explanations of these costs are provided in OMB circular A-21, Cost Principles for Educational Institutions that can be accessed at the White House Web site at: http://www.whitehouse.gov/omb/circulars/index.html;

(10) These funds are not for the direct benefit of the institution; 51 percent or more of all funds must be utilized for the community and/or general public; and

(11) Fair housing services designed to further the civil rights objectives of the Fair Housing Act (42 U.S.C. 3601-20) by making all persons, without regard to race, color, religion, sex, national origin, familial status, and/or disability aware of the range of housing opportunities available to them.

b. Each activity proposed for funding must meet the Community Development Block Grant (CDBG) program eligibility requirements and at least one of the three CDBG national objectives. The three national objectives of the CDBG program are listed in Rating Factor 3 in Section V.A.3 of this NOFA.

Criteria for determining whether an activity addresses one or more national objectives are provided at 24 CFR 570.208.

c. The CDBG publication entitled “Community Development Block Grant Program Guide to National Objectives and Eligible Activities for Entitlement Communities” describes the CDBG regulations, and a copy can be obtained online at: http://www.hud.gov/offices/cpd/communitydevelopment/library/deskguid.cfm.

2. Threshold Requirements Applicable to all Applicants. All applicants must comply with the threshold requirements as defined in the General Section and the requirements listed below. Applications that do not meet these requirements will be considered ineligible for funding and will be disqualified:

a. The applicant must meet the eligibility requirements as defined in Section III.A.

b. The maximum amount an applicant can request is $700,000 for a three-year (36 months) grant performance period.

c. An applicant must have a DUNS number to receive HUD grant funds. (See the General Section). Only one application can be submitted per institution. If multiple applications are submitted all will be disqualified. However, different campuses of the same university system are eligible to apply as long as they have a separate DUNS number and an administrative and budgeting structure independent of the other campuses in the system.

d. Applicants must receive a minimum score of 75 points to be considered for funding.

e. Electronic applications must be received and validated by Grants.gov no later than 11:59:59 p.m. eastern time on the application deadline date.

3. Program Requirements. Applicants must meet the following program requirements:

a. All funds awarded are for a three-year (36 months) grant performance period;

b. Applicants must ensure that not less than 51 percent of the aggregated expenditures of a grant award are used to benefit low- and moderate-income persons under the criteria specified in 24 CFR 570.208(a) (ii)or 570.208(d)(5) or (6);

c. Applicants must ensure that 51 percent or more of all funds awarded will be utilized for community and/or general public use. These funds are not for the direct benefit of the institution;

d. Applicants that propose to construct new housing or rehabilitate existing housing must ensure that their project and/or facilities are operated in accordance with applicable design and construction requirements, including either the Fair Housing Act and/or Section 504 of the Rehabilitation Act of 1973 and corresponding HUD implementing regulations. Please note that in situations where both the Fair Housing Act design and construction accessibility requirements and Section 504 design and construction accessibility requirements apply, applicants must apply both standards to obtain maximum accessibility; and

e. Applicants that propose non-housing programs and facilities must ensure that their projects are operated in compliance with the requirements of Section 504 of the Rehabilitation Act of 1973, the American with Disabilities Act (ADA), the Architectural Barriers Act (ABA), and corresponding HUD implementing regulations. Note that the accessibility standard for non-housing projects is the Uniform Federal Accessibility Standards (UFAS).

4. Site Control. Where grant funds will be used for acquisition, rehabilitation, or new construction, an applicant must demonstrate site control. Funds may be recaptured or deobligated from recipients that cannot demonstrate control of a suitable site within one year after the initial notification of award.

5. Environmental Requirements. Selection for award does not constitute approval of any proposed sites. Following selection for award, HUD will perform an environmental review of properties proposed for assistance in accordance with 24 CFR Part 50. The results of the environmental review may require that proposed activities be modified or proposed sites be rejected. Applicants are particularly cautioned not to undertake or commit funds for acquisition or development of proposed properties prior to HUD approval of specific properties or areas. An application constitutes an assurance that the institution will assist HUD to comply with part 50; will supply HUD with all available and relevant information to perform an environmental review for each proposed property; will carry out mitigating measures required by HUD or select alternate property; and will not acquire, rehabilitate, convert, demolish, lease, repair, or construct property, and not commit or expend HUD or local funds for these program activities with respect to any eligible property until HUD's written approval of the property is received. Applicants should use the protocol at http://www.hud.gov/utilities/intercept.cfm?/offices/cpd/environment/review/protocol.pdf to supply HUD with the information needed for HUD to start and complete the environmental review. Further information and assistance on HUD's environmental requirements is available at http://www.hud.gov/offices/cpd/environment/index.cfm.

6. Lead-Based Paint Requirements. Institutions and their sub-grantees, contractors, and subcontractors must comply with the Lead-Based Paint Poisoning Prevention Act (42 U.S.C. 4821-4846), the Residential Lead-Based Paint Hazard Reduction Act of 1992 (42 U.S.C. 4851-4856), and relevant subparts of the implementing regulations at 24 CFR Part 35, such as subparts A, B, J, K and R, which apply to activities under this grant program.

7. Labor Standards. Institutions and their sub-grantees, contractors and subcontractors must comply with the labor standards (Davis-Bacon) requirements referenced in 24 CFR 570.603.

8. Economic Opportunities for Low- and Very Low-Income Persons (Section 3). The provisions of Section 3 of the Housing and Urban Development Act of 1968 (12 U.S.C. 1701u) apply to this NOFA. One of the purposes of the assistance is to give to the greatest extent feasible and consistent with existing federal, state, and local laws and regulations, job training, employment, contracting, and other economic opportunities to Section 3 residents and Section 3 business concerns. See the Section 3 Regulations located at 24 CFR Part 135.36.

9. Affirmatively Furthering Fair Housing Requirements. Under Section 808(e)(5) of the Fair Housing Act, HUD has a statutory duty to affirmatively further fair housing. HUD requires the same of its funding recipients. If you are a successful applicant proposing housing-related activities, you will have a duty to affirmatively further fair housing opportunities for classes protected under the Fair Housing Act. Protected classes include race, color, national origin, religion, sex, disability, and familial status. For example: (1) Working with other entities in the community to overcome impediments to fair housing, such as discrimination in the sale or rental of housing or in advertising, provision of brokerage services, or lending; (2) Promoting fair housing choice through the expansion of homeownership opportunities and improved quality of services for minorities, families with children, and persons with disabilities; or (3) Providing housing mobility counseling services.

IV. Application Instructions and Submission Information

A. Instructions To Download Application Package

Applicants may download the instructions to the application found on the Grants.gov Web site at http://www.grants.gov/applicants/apply_for_grants.jsp. If you have difficulty accessing the information you may call the Grants.gov Support Desk toll-free at (800) 518-GRANTS or e-mail your questions to Support@Grants.gov. Hearing- and speech-challenged individuals may access this number through TTY by calling the toll-free Federal Information Relay Service at (800) 877-8339. See the General Section for information regarding the registration process or ask for registration information from the Grants.gov Support Desk.

B. Application Content and Forms for Submission

1. Application Content. Applications must consist of the following elements: Abstract, narrative for the rating factors, budget, budget narrative, and forms. Applicants that received a wavier of the electronic application submission requirement must submit their application in the order below. Copies of the instructions and all forms are available online at http://www.grants.gov/applicants/apply_for_grants.jsp.

a. SF-424, Application for Federal Assistance. Please remember the following:

(1) The full grant amount requested from HUD (entire three-years) should be entered, not the amount for just one year;

(2) Include the name, title, address, telephone number, facsimile number, and e-mail address of the designated contact. This person will receive all correspondence regarding the content of the application from HUD; therefore, please ensure the accuracy of the information;

(3) The Employer Identification/Tax ID number;

(4) The DUNS Number;

(5) The Catalog of Federal Domestic Assistance Number for this program is 14.520;

(6) The project's proposed start date and completion date. For the purpose of this application, the program start date should be October 1, 2008; and

(7) The signature of the Authorized Organization Representative (AOR) who by virtue of submitting an application via Grants.gov has been authenticated by the credential provider to submit applications on behalf of the institution and approved by the eBusiness Point of Contact to submit an application via Grants.gov. The AOR must be able to make a legally binding agreement with HUD.

b. Abstract. Applicants must include no more than a two-page, doubled-spaced summary of the proposed project. Please include the following:

(1) A clear description of each proposed project activity, where it will take place (be located), the target population that will be served, and the impact this project is expected to have on the community;

(2) A statement that the institution is an eligible applicant because it is a fully accredited institution, the name of the accrediting agency, and an assurance that the accrediting agency is recognized by the U.S. Department of Education;

(3) The designated contact person, including phone number, facsimile number, and e-mail address (this is the person who will receive all correspondence regarding the content of this application from HUD; therefore, please ensure the accuracy of the information);

(4) The project director, if different from the designated contact person, for the project, including phone number, facsimile number, and e-mail address; and

(5) If a previously funded applicant, include the name and date the past project(s) were funded. Remember HUD now defines Previously Funded Applicants as any applicants that received funding in FY 1999 through FY 2007.

c. Narrative statement addressing the rating factors. HUD will use the narrative response to the “Rating Factors” to evaluate, rate, and rank applications. This NOFA has five rating factors that need to be addressed. The narrative statement is the main source of information. Applicants are advised to review each factor carefully for program-specific requirements. All applicants submitting electronic applications must attach their narrative responses to Rating Factors 1-4 as one attachment. Remember, Factor 5 is addressed by using the HUD-96010, Program Outcome Logic Model form. Please do not repeat material in response to factors 1-3, instead, focus on how well the proposal responds to each of the factors. The response to each factor should be concise and contain only information relevant to the factor, yet detailed enough to address each factor fully. Where there are subfactors, each subfactor must be addressed and presented separately, with the short title/name of the subfactor presented. Make sure to address each subfactor and provide sufficient information about every element of the subfactor. Do not include any individual's Social Security Numbers in your application. The narrative section of an application must be submitted electronically. It must not exceed 50 pages in length (excluding forms, budget narrative, assurances, and abstract) and must be formatted to fit an 8½-by-11-inch page. Responses must be double-spaced (information submitted in chart format does not have to be doubled-spaced) with one inch margins (for the top, bottom, left, and right sides of the document), using the standard Times New Roman 12-point font. Each page of the application must include the applicant's name and be numbered. Note that although submitting pages in excess of the page limit will not disqualify an applicant, HUD will not consider the information on any excess pages. This exclusion may result in a lower score or failure to meet a threshold requirement. Please do not attach your response to each factor separately. Please follow the instructions on use of zip files, file extension, and file names in the General Section. File names should not contain spaces or special characters.

d. Budget. The budget submission must include the following:

(1) HUD-424-CB, “Grant Application Detailed Budget.” This form shows the total budget by year and by line item for the program activities to be carried out with the proposed HUD grant. Each year of the program should be presented separately. Applicants must also budget for travel costs (airfare, lodging, and per diem) for two individuals to attend at least one HUD-sponsored HBCU conference/workshop every year of the three-year grant performance period. To calculate travel expenses, applicants located in eastern and central time zones or the U.S. Virgin Islands should use San Francisco, CA, as the site of all conferences/meetings. Applicants located in mountain and pacific time zones should use Washington, DC, as the site of all conferences/workshops.

Applicants must also submit form HUD-424-CB to reflect the total cost (summary) for the entire grant performance period (Grand Total).

(2) HUD-40076-HBCU, “Response Sheet, Budget-By-Activity.” The form should include a listing of each activity and task necessary to be performed to implement the program, the overall costs for each activity, and the cost from each funding source. The budget-by-activity should clearly indicate the HUD grant amount and identify the source and dollar amount of the leveraged resources, if any.

Make sure that the amounts shown on the SF-424, HUD-424-CB, HUD-40076-HBCU, and budget narrative are consistent and the budget totals are correct. Remember to check addition in totaling the categories on all forms so that all items are included in the total. If there is an inconsistency between any of the required budget forms and/or budget narrative, the amount listed on the HUD-424-CB will be the amount HUD will use to calculate the amount the applicant is requesting for funding. All budget forms must be completed fully. If an application is selected for award, the applicant may be required to provide greater specificity to the budget during grant agreement negotiations.

(3) Budget Narrative. A narrative must be submitted that explains how the applicant arrived at the cost estimates for each line item. This information must be electronically submitted and formatted to fit an 8½-by-11-inch page. Responses must be doubled-spaced, with one inch margins (for the top, bottom, left, and right sides of the document), using the standard Times New Roman 12-point font. Project budgets will be evaluated and scored under Factor 3, Soundness of Approach. HUD will assess the soundness of an applicant's approach by evaluating the quality, thoroughness, reasonableness and rationality of the proposed project budget. In addition, please provide the name, if known, hourly or daily rate, and the estimated time that will be devoted to the project for each consultant. For example, an applicant proposes to construct a building using HUD funding totaling $200,000. The following cost estimates reflects this total: Foundation cost $75,000, electrical work $40,000, plumbing work $40,000, finishing work $35,000, and landscaping $10,000. The proposed cost estimates should be reasonable for the work to be performed and consistent with rates established for the level of expertise required to perform the work proposed in the geographical area. When necessary, quotes from various vendors or historical data should be used (please make sure they are kept on file and are available for review by HUD at any time). When an applicant proposes to use a consultant, the applicant must indicate whether there is a formal written agreement. Applicants must use a cost estimate based on data from the institution, and/or from a qualified firm (e.g., architectural or engineering firm), vendor, and/or qualified individual (e.g., independent architect or contractor) other than the institution for a project that involves rehabilitation of residential, commercial, and/or industrial structures, and/or acquisition, construction, or installation of public facilities, and improvements. Such an entity must be involved in the business of housing rehabilitation, construction, and/or management. Equipment and contracts cannot be presented as a total estimated cost. For equipment, applicants must provide a list by type and cost for each item. Applicants using contracts must provide an individual description and cost estimate for each contract. Construction costs must be broken down to indicate how funds will be utilized (e.g., demolition, foundation, exterior walls, roofing, electrical work, plumbing, finishing work, etc.).

(4) Indirect costs. Indirect costs, if applicable, are allowable based on an established approved indirect cost rate. Applicants must have on file and submit to HUD, if selected for funding, a copy of their approved indirect cost rate agreement. Applicants who are selected for funding that do not have an approved indirect cost rate agreement, established by the cognizant federal agency, will be required to establish a rate. In such cases, HUD will issue an award with a provisional rate and assist applicants the applicant with the process of establishing a final rate.

e. Appendix. The appendix section of the application must not exceed 15 pages in length (excluding forms, budget narrative, and assurances). Each page must include the applicant's name and be numbered. An applicant should not submit resumes, letters of support, commitment letters, memoranda of understanding, and/or agreements, or other back-up materials to supplement the application's narrative. If this information is included, it will not be considered during the review process. HUD will not consider the information on any excess pages. The additional items will also slow the transmission of your application.

2. Forms. The following forms are required for submission. All required forms are contained in the electronic application package. Applicants receiving a waiver of the electronic submission requirements and submitting a paper copy of the application must place all required forms in the appendix section of the application.

a. SF-424 Supplement, Survey on Ensuring Equal Opportunities for Applicants (“Faith Based EEO Survey (SF-424 SUPP)” on Grants.gov);

b. SF-LLL, Disclosure of Lobbying Activities, if applicable;

c. HUD-27300, Questionnaire for HUD's Removal of Regulatory Barriers (“HUD Communities Initiative Form” on Grants.gov), if applicable;

d. HUD-2880, Applicant/Recipient Disclosure/Update Report (“HUD Applicant Recipient Disclosure Report” on Grants.gov), if applicable;

e. HUD-2990, Certification of Consistency with RC/EZ/EC-II Strategic Plan, if applicable;

f. HUD-2991, Certification of Consistency with the Consolidated Plan, if applicable;

g. HUD-2993, Acknowledgement of Applicant Receipt. Complete this form only if you have received a waiver to the electronic application submission requirement. Applicants submitting electronically are not required to include this form;

h. HUD-2994-A, You Are Our Client! Grant Applicant Survey. Applicants are not required to complete this form;

i. HUD-40076, Response Sheet Performance Narrative, Previously Funded HBCU Applicant Only;

j. HUD-96010, Program Outcome Logic Model; and

k. HUD-96011, Third Party Documentation Facsimile Transmittal (“Facsimile Transmittal Form” on Grants.gov). This form must be used as the cover page to transmit third party documents and other information. Applicants are advised to download the application package and complete the SF-424, which will pre-populate the Transmittal Cover page. The Transmittal Cover page will contain a unique identifier embedded in the page that will help HUD associate your faxed materials to your application. Please do not use your own fax sheet. HUD will not read any faxes that are sent without the HUD-96011 fax transmittal cover page.

3. Certifications and Assurances. Please read the General Section for detailed information on all Certifications and Assurances. All applications submitted through Grants.gov constitute an acknowledgement and agreement to all required certifications and assurances.

C. Submission Dates and Times

A complete application package must be received and validated electronically by the Grants.gov portal no later than 11:59:59 p.m. eastern time on July 2, 2008, the application deadline date. In an effort to address any issues with transmission of your application, applicants are strongly encouraged to submit their applications at least 48 to 72 hours prior to the application deadline. This will allow an applicant enough time to make the necessary adjustments to meet the submission deadline in the event Grants.gov rejects the application. Please see the General Section for further instructions. Electronic faxes using the Facsimile Transmittal Cover Sheet (Form HUD-96011) contained in the electronic application must be received no later than 11:59:59 p.m. eastern time on the application deadline date.

D. Intergovernmental Review

This program is excluded from the Intergovernmental Review process.

E. Funding Restrictions

Ineligible CDBG activities are listed at 24 CFR 570.207. Ineligible activities include but are not limited to the following:

1. Curriculum development and/or expansion of an institution's existing curriculum;

2. General government expenses;

3. Political activities;

4. Planning and administrative activities that would result in a grantee exceeding the 20 percent cost limitations (e.g., preparation/submission of HUD reports); and

5. Activities and/or buildings constructed for only campus use and/or less than 51 percent community/public use.

F. Other Submission Requirements

1. Application Submission and Receipt Procedure. Please read the General Section carefully and completely for the submission and receipt procedures for all applications because failure to comply may disqualify your application.

2. Waiver of Electronic Submission Requirements. Applicants should submit their waiver requests in writing using e-mail or fax. Waiver requests must be submitted no later than 15 days prior to the application deadline date and should be submitted to: Susan Brunson, Office of University Partnerships, E-mail: Susan.S.Brunson@hud.gov, FAX: (202) 708-0309.

Paper applications will not be accepted from applicants that have not been granted a waiver. If an applicant is granted a waiver, the Office of University Partnerships (OUP) will provide instructions for submission. All applicants submitting applications in paper format must have received a waiver to the electronic application submission requirement and the application must be received by HUD on or before the application deadline date. All paper applications must be submitted on 8½-by-11-inch paper, double-spaced, on one side of the paper, with one inch margins (for the top, bottom, left, and right sides of the document), and printed in standard Times New Roman 12-point font.

V. Application Review Information

A. Criteria

1. Rating Factor 1: Capacity of the Applicant and Relevant Experience (25 Points)

This factor addresses the extent to which the institution has the resources, experience, and capacity necessary to successfully complete the proposed project by the end of the grant performance period.

a. Knowledge and Experience for First Time Applicants (25 Points) for Previously Funded Applicants (10 Points). For the purpose of responding to this subfactor only, Previously Funded Applicants are any applicants that received funding in FY 1999 through FY 2007. If an applicant has received a grant prior to these years they should respond to this factor as a First Time Applicant. This definition is relevant to this rating factor ONLY.

In rating this subfactor, HUD will consider the extent to which the applicant clearly addresses the following:

(1) Identifies key project team members/staff and partners, their title and name (e.g., project manager/coordinator-Sally Susan Smith, etc.), respective roles, and time each individual will allot to this project;

If key personnel have not been hired, identify the position title, description of duties and responsibilities, and qualifications to be considered in the selection of personnel, including subcontractors and consultants;

(2) Describes the knowledge and relevant experience of the proposed project team members/staff and partners (as outlined above) that will conduct the day-to-day project activities, consultants (including technical assistance providers), and contractors in planning and managing the type of project for which funding is being requested; and

(3) Explains the institution's experience and capacity to administer and monitor the type of project for which funding is being requested.

Applicant's staff and partners' (as outlined above) experience and the institution's capacity to do the work will be judged in terms of recent and relevant knowledge and skills to undertake the proposed eligible program activities. HUD will consider experience within the last five (5) years to be recent and experience pertaining to similar activities to be relevant.

b. Past Performance (15 Points) for Previously Funded Grant Applicants Only. This subfactor will evaluate how well an applicant has performed successfully under completed and/or open HUD HBCU grants. Applicants must demonstrate this by addressing the following information on the HUD-40076-HBCU, “Response Sheet” (Performance Narrative) for all previously completed and open HUD HBCU grants:

(1) A list of all HUD HBCU grants received between FY 1999 through FY 2007, including the dollar amount awarded and the amount expended and obligated as of the date the application is submitted. The HUD-40076-HBCU, “Response Sheet” (Performance Narrative) form is located at the following Web site: http://www.grants.gov/applicants/apply_for_grants.jsp. The form should be filled out completely;

(2) A list detailing the date the project(s) was completed; was it completed during the original grant performance period; if not completed, why (including when it was or will be completed); if the project is still in progress, provide details on the project's current status;

(3) A description of the results (outcomes) achieved consistent with the approved project management plan. If not completed as proposed explain why;

(4) A list comparing the amount of proposed leveraged funds and/or resources (outlined in the original application) to the amount that was actually leveraged as of the date the application is submitted; and

(5) A detailed description of compliance with all reporting requirements, including timeliness of submission, whether reports were complete and addressed all information (both narrative and financial) as required by the grant agreement.

HUD will also review an applicant's past performance in managing funds, including but not limited to the ability to account for funding appropriately; timely use of funds received from HUD; meeting performance targets for completion of activities; timely submission of required progress reports; compliance with the program's terms and condition; and receipt of promised leveraged resources. In evaluating past performance, HUD reserves the right to deduct up to ten (10) points from this rating score as a result of the information obtained from HUD's records (i.e., progress and financial reports, monitoring reports, Program Outcome Logic Model submissions, and amendments).

2. Rating Factor 2: Need/Extent of the Problem (12 Points)

a. Rating Factor addresses the extent to which there is a need for funding the proposed project and an indication of the importance of meeting the need(s). The need(s) described must be relevant to the activities for which funds are being requested. In addressing this factor, applicants should provide, at a minimum, the following and cite statistics and/or analyses contained in at least one or more current, sound, and reliable data sources:

(1) Describe the need(s); and

(2) Describe the importance of meeting the proposed needs.

b. In rating this factor, HUD will consider only current data that is specific to the area where the proposed project activities will be carried out. Sources for localized data can be found online at: http://www.ffiec.gov.

c. HUD will also consider data collected within the last five (5) years to be current. However, applicants must utilize the most current version of the data source(s) that exists. To the extent that the targeted community's Five Year Consolidated Plan and Analysis of Impediments to Fair Housing Choice (AI) identify the level of the problem and the urgency in meeting the need, applicants should include references to these documents in response to this factor.

Other reliable data sources include, but are not limited to, Census reports, law enforcement agency crime reports, Public Housing Agencies' Comprehensive Plans, community needs analyses such as provided by the United Way, the applicant's institution, and other sound, reliable, and appropriate sources. Needs in terms of fulfilling court orders or consent decrees, settlements, conciliation agreements, and voluntary compliance agreements may also be addressed.

3. Rating Factor 3: Soundness of Approach (41 Points)

This factor addresses the soundness, quality, and effectiveness of the proposed work plan and the commitment of the applicant to sustain the proposed project activity(s). Points are awarded under this factor for the quality of the activities proposed in relation to the need/problem identified in Factor 2, not for the number of activities proposed. In addition, if the activities proposed are not eligible, HUD reserves the right to deduct points under this factor for those activities and/or not fund an application if the majority of the activities are ineligible.

a. (25 Points) Quality of the Work Plan. This subfactor will be evaluated on the extent to which an applicant provides a clear detailed description of the proposed project activities, and the anticipated results (outcomes) they will have on the target population at the end of the grant performance period.

(1) (20 Points) Specific Activities. The work plan must describe all proposed project activities and major tasks (steps to complete the proposed activities) required to successfully implement the proposed project. The work plan must also identify the anticipated measurable outcomes these activities will have on the targeted population. In addressing this subfactor, HUD will consider the following:

(a) Identify the method/planning strategy(s) used during the development of this application. Describe in detail how the proposed project/activities to be undertaken were identified and if and how they connect and /or complement the City's Consolidated Plan. List all individuals/organizations that were involved in the planning process for this project and their roles;

(b) Describe each proposed project activity in measurable terms (e.g., the number of persons to be trained; houses to be built or rehabilitated; or minorities trained to start businesses, etc.);

(c) Identify the major tasks (steps to complete the proposed activities) required in sequential order to successfully implement and complete each proposed project activity. Include target completion dates for each task (in 6-month intervals, up to 36 months, e.g. to develop a training program the following steps may occur: Hiring staffing, purchasing supplies, developing curricula/training modules, conducting training etc.);

(d) Identify the key team members/staff and partners, as identified in Factor 1, who will be responsible and accountable for completing each task;

(e) List and describe how each activity meets one of the following Community Development Block Grant (CDBG) program national objectives:

• Benefit low- and moderate-income persons;

• Aid in the prevention or elimination of slums or blight; or

• Meet other community development needs having a particular urgency because existing conditions pose a serious and immediate threat to the health and welfare of the community, and other financial resources are not available to meet such needs.

Criteria for determining whether an activity addresses one or more objectives are provided at 24 CFR 570.208; and

(f) Describe the measurable impact (outcome) that implementing each activity will have or is expected to have on the target population by the end of the grant performance period (e.g. number of individuals employed as a result of training; number of new homeowners as a result of the number of houses that were built or rehabilitated; or number of minority-owned businesses started, etc.);

(2) (5 Points) Describe clearly how each proposed activity will:

(a) Expand the role of the institution in the target community;

(b) Address the needs identified in Factor 2; and

(c) Relate to and not duplicate other activities in the target area. Duplicative efforts will be acceptable only if an applicant can demonstrate through documentation that there is a population in need that is not being served.

b. (3 Points) Involvement of the Faculty and Students. The applicant must describe in detail how it proposes to integrate the institution's students (this excludes students that are project recipients/participants) and faculty into proposed project activities.

c. (4 Points) Involvement of the Community. The applicant must describe in detail how the community (e.g. businesses, residents, and others) will be involved in the proposed project. The applicant must identify the specific roles that individuals will and have played in the proposed project. The community must play an active role in all stages of the project. Community involvement must be diverse and representative of the target population/community.

d. (2 Points) HUD Policy Priorities. As described in the General Section, to earn points under this subfactor, HUD requires applicants to undertake specific activities that will assist the Department in implementing its policy priorities that help the Department achieve its goals and objectives in FY 2009. In addressing this subfactor, HUD will evaluate the extent to which a project will further and support HUD's priorities. The quality of the responses provided to one or more of HUD's priorities will determine the score an applicant can receive. Applicants must describe how each policy priority selected will be addressed. Applicants that just list a priority will receive no points. Please refer to the General Section for additional information about HUD's policy priorities.

The total number of points an applicant can receive under this subfactor is two (2). Each policy priority addressed has a point value of one (1) point with the exception of the policy priority to remove regulatory barriers to affordable housing, which has a point value of up to two (2) points. To receive these two (2) points, an applicant must: (1) Submit either Part A or Part B (not both) of the completed questionnaire HUD-27300, “HUD's Initiative on Removal of Regulatory Barriers,” found in the General Section, (2) include appropriate documentation, (3) identify a point of contact, and (4) indicate how this priority will be addressed. It is up to the applicant to determine which of the policy priorities they will address in order to receive the available two (2) points.

e. (2 Points) Economic Opportunities for Low- and Very Low-Income Persons (Provision of Section 3). This subfactor will be evaluated on the extent to which an applicant describes how it proposes to:

(1) Provide opportunities to train and employ Section 3 residents; and/or

(2) Award contracts to Section 3 contractors (See the regulations at 24 CFR part 135). Regulations regarding the provision of Section 3 of the Housing and Urban Development Act of 1968 (12 U.S.C. 1701u) are located at 24 CFR 135.36.

f. (5 Points) Budget and Cost Estimates. HUD will assess the soundness of your approach by evaluating the quality, thoroughness, and rationality of the proposed project budget and budget narrative. The budget narrative must be broken down by line item. Administrative costs must be reflected under the appropriate line items (e.g., salaries, fringe, supplies, costs related to planning and executing the project, preparation/submission of HUD reports, etc.).

4. Rating Factor 4: Leveraging Resources/Developing Partnerships (10 Points)

This factor addresses the ability of the applicant to develop partnerships and secure resources that can be combined with HUD's grant funds to achieve the project's purpose.

a. HUD will consider the extent to which the applicant has established partnerships with other entities (other than their own institution) to secure additional resources to increase the effectiveness of the proposed project activities. Resources may include funding or in-kind contributions, such as services or equipment, allocated for the purpose(s) of the proposed project activities. Applicants may also establish partnerships with other program funding recipients to coordinate the use of resources in the target area. Overhead and other institutional costs that the institution has waived may be counted. Applicants that have no external leveraging resources (the institution/applicant is not considered an external resource) will receive no points under this factor.

Examples of potential sources for outside assistance include:

—Federal, state, and local governments;

—Local or national nonprofit organizations;

—Financial institutions and/or private businesses;

—Foundations; and/or

—Faith-based and other community-based organizations.

b. To address this factor, an applicant must provide an outline in their application that includes the information listed below of all proposed leveraged resources (including any commitment of resources from the applicant's own institution). Applicants must have on file at the time of application submission the original written commitment letters, memoranda of understanding, and/or agreements. Commitment letters, memoranda of understanding, and/or agreements must be dated prior to the application deadline date; if they are dated after the application deadline date they will not be scored.

Each letter, memorandum of understanding, or agreement must include the information below:

(1) The name of the organization and the executive officer authorizing the funds/goods and/or services (only applicable to the narrative section);

(2) The cash amount contributed or dollar value of the in-kind goods and/or services committed (If a dollar amount and its use are not shown, the value of the contribution will not be scored);

(3) A specific description of how each contribution is to be used toward specific proposed activities (including the actual role the partner will have in the proposed project activities for which their contribution will be utilized);

(4) The date the contribution will be made available and a statement that describes the duration of the contribution; and

(5) The signature of the appropriate executive officer authorized to commit the funds and/or goods and/or services. This is only applicable to the original written documentation.

c. Resources will also not be counted for which there is no commitment letter, memorandum of understanding, agreement, or quantified level of commitment, and/or when the letter, memorandum of understanding, or agreement does not address ALL of the requirements outlined above. Commitment letters, memoranda of understanding, and/or agreements are not required at the time of application submission but must be on file at the time of application submission. If commitment letters, memoranda of understanding, and/or agreements are included with the application at time of submission they will not be considered during the review process. However, applicants submitting paper applications must include all letters, memoranda of understanding, and/or agreements in the Appendix of the application. Applicants chosen to proceed to the next step in the selection process will be required to submit the signed and dated commitment letters, memoranda of understanding, and/or agreements outlined in the application within five (5) calendar days after initial contact from OUP. Letters, memoranda of understanding, or agreements must be submitted on the provider's letterhead and should be addressed to Sherone Ivey, Associate Deputy Assistant Secretary for University Partnerships. The date of the letter, memorandum of understanding, or agreement from the CEO of the provider organization must be dated no earlier than nine months prior to this published NOFA and no later than the application deadline date. In addition, no points will be awarded for general support letters endorsing the project from organizations, including elected officials on the local, state, or national levels; therefore, please do not include them. OUP will provide specific instructions on how these documents must be submitted when contact is made with the applicant. HUD will only request and consider documents from the resources/organizations that are listed in the outline in the application. If OUP does not receive those documents with the required information within the allotted timeframe, an applicant will not receive points under this factor.

Note: Submission of a grant award notification from another entity/agency in place of a commitment letter, memorandum of understanding, and/or agreement does not meet the requirement of this factor and will not be accepted.

In scoring this factor, HUD will award:

(1) Ten (10) points to an applicant that provides leveraging resources as listed in their application that are 15 percent or more of the amount requested under this program;

(2) Nine (9) points to an applicant that provides leveraging resources as listed in their application that represents 13 to 14 percent of the amount requested under this program;

(3) Eight (8) points to an applicant that provides leveraging resources as listed in their application that represents 11 to 12 percent of the amount requested under this program;

(4) Seven (7) points to an applicant that provides leveraging resources as listed in their application that represents 8 to 10 percent of the amount requested under this program;

(5) Six (6) points to an applicant that provides leveraging resources as listed in their application that represents 6 to 7 percent of the amount requested under this program; and

(6) Five (5) points to an applicant that provides leveraging resources as listed in their application that represents 5 percent of the amount requested under this program.

(7) Zero (0) points to an applicant that provides leveraging resources as listed in their application that is less than 5 percent of the amount requested under this program and/or have no external leveraging resources (remember, the institution/applicant is not considered an external resource).

5. Rating Factor 5: Achieving Results and Program Evaluation (12 Points)

This factor reflects HUD's goal to embrace high standards of management and accountability. It measures the applicant's commitment to assess their performance to achieve the project's proposed objectives and goals. Applicants are required to develop an effective, quantifiable, outcome-oriented evaluation plan for measuring performance and determining that objectives and goals have been achieved by using the HUD-96010, “HUD Program Outcome Logic Model.” The Program Outcome Logic Model is a summary of the narrative statements presented in Factors 1 through 3. Therefore, it should be consistent with the information contained in the narrative statements.

In evaluating this factor, HUD will assess the extent to which the applicant demonstrates how results of the project will be measured as outlined in the proposed work plan. To meet this factor requirement, applicants must submit a completed HUD-96010, “HUD Program Outcome Logic Model.” Applicants must select from the list of activities and outcomes to determine their specific methods and measures that will be used to assess progress and evaluate program effectiveness. If an item is not found on the list of activities or outcomes, applicants can select “other” and then insert the activity and/or outcome and unit of measurement. Applicants can use the “other” option for up to three activities and three outcomes. See the instructions tab in the Logic Model for further details. HUD will not accept activities or outcomes selected as “other” that do not contain an identified statement of the activities/outcomes or units of measurement. Utilizing this form will help grantees to ensure that performance measures are being met and they are establishing achievable realistic goals.

a. Program Outcome Logic Model instructions (using a Microsoft Excel™ form) are provided in the forms appended to the Instruction Download from http://www.grants.gov/applicants/apply_for_grants.jsp. Applicants that do not have access to Microsoft Excel™ should contact the NOFA Information Center at (800) HUD-8929. Individuals with hearing or speech impairments may access this number via the toll-free Federal Information Relay Service at (800) 877-8339 and/or The Center for Applied Management Practices at (717) 730-3705 (this is not a toll-free number).

A narrative response is not required for this factor as all applicants must use the logic model form to respond to this factor. However, if a narrative is included, these pages will be included in the page count. HUD has developed a new approach to completing this form. Applicants should also review the Program Outcome Logic Model training, which can be found online at: http://www.hud.gov/Webcasts/index.cfm.

b. HUD will review the outputs and outcomes in relation to the needs identified. “Outcomes” are benefits accruing to the community during or after participation in the HBCU program. Applicants must clearly identify the outcomes to be measured and achieved. Examples of outcomes include increased employment opportunities in the target community by a certain percentage, increased incomes/wages or other assets for persons trained, and/or provision of stable living environments through the creation of affordable housing opportunities (e.g., increased assets to families and communities through the development of affordable housing).

Applicants must also establish outputs that lead to the ultimate achievement of outcomes. “Outputs” are the direct products of the program's activities. Examples of outputs are the number of new affordable housing units, the number of homes that have been renovated, and the number of facilities that have been constructed or rehabilitated. Outputs should produce outcomes for the program. At a minimum, an applicant must address the following activities in the evaluation plan:

(1) Measurable outputs to be accomplished (e.g., the number of persons to be trained and employed; houses to be built pursuant to 24 CFR 570.207 or rehabilitated; minority-owned businesses to be started); and

(2) Measurable outcomes the grant will have on the community in general and the target area or population.

Applicants must also reference policy priorities, as stated in response to Factor 3, and relate them to the project's goals, as appropriate. HUD will evaluate the Program Outcome Logic Model in accordance with the matrix provided in Attachment 1 of the General Section.

B. Review and Selection Process

1. Application Selection Process

Two types of reviews will be conducted:

a. A threshold review to determine an applicant's basic eligibility; and

b. A technical review for all applications that pass the threshold review to rate and rank the application based on the “Rating Factors” listed in Section V. A.

Only those applications that pass the threshold review will receive a technical review and be rated and ranked.

2. Rating Panels. To review and rate applications HUD may establish panels that may include experts or consultants not currently employed by HUD to obtain certain expertise.

3. Ranking. HUD will fund applications in rank order, until all available program funds are awarded. In order to be considered for funding, an applicant must receive a minimum score of 75 points out of a possible 100 points for Factors 1 through 5; plus up to two bonus points that may be awarded for activities conducted in the RC/EZ/EC-II communities, as described in the General Section. If two or more applications have the same number of points, the application with the most points for Factor 3 shall be selected. If there is still a tie, the application with the most points for Factor 4 shall be selected. If there is still a tie, the application with the most points for Factor 1, 2, and then 5 shall be selected in that order until the tie is broken. HUD reserves the right to make selections out of rank order to provide for geographic distribution of grantees.

HUD also reserves the right to reduce the amount of funding requested in order to fund as many highly ranked applications as possible. Additionally, if funds remain after funding the highest ranked applications, HUD may fund part of the next highest-ranking application. If an applicant turns down an award offer, HUD will make an award to the next highest-ranking application. If funds remain after all selections have been made, the remaining funds will be carried over to the next funding cycle's competition.

HUD will not fund any portion of an application that is not eligible for funding under regulatory requirements; does not meet the requirements of the NOFA; or may be duplicative of other funded programs or activities/tasks from prior year awards. Only the eligible portions of an application will be funded. When the majority of the activities are ineligible, HUD will not fund the application.

4. Correction to Deficient Applications. See the General Section.

C. Anticipated Announcement and Award Dates. Announcements of awards are anticipated on or before September 30, 2008.

VI. Award Administration Information

A. Award Notice

After all selections have been made, HUD will notify all winning applicants in writing. HUD may require winning applicants to participate in additional negotiations before receiving an official award. For further discussion on this matter, please refer to the General Section.

B. Administrative and National Policy Requirements

1. Debriefing. The General Section provides the procedures for requesting a debriefing. All requests for debriefings must be made in writing to: Ophelia Wilson, Office of University Partnerships, Department of Housing and Urban Development, 451 Seventh Street, SW., Room 8106, Washington, DC 20410-6000. Applicants may also write to Ms. Wilson via e-mail at Ophelia.Wilson@hud.gov.

2. Administrative. Grants awarded under this NOFA will be governed by the provisions of 24 CFR part 84 (Grants and Agreements With Institutions of Higher Education, Hospitals, and Other Non-Profit Organizations), OMB Circular A-21 (Cost Principles for Educational Institutions) and OMB Circular A-133 (Audits of States, Local Governments, and Non-Profit Organizations). Applicants can access the OMB circulars at the White House Web site at http://www.whitehouse.gov/omb/circulars/index.html.

3. OMB Circulars and Governmentwide Regulations Applicable to Financial Assistance Programs. See the General Section for further discussion.

4. Executive Order 13202, Preservation of Open Competition and Government Neutrality Towards Government Contractors' Labor Relations on Federal and Federally Funded Construction Projects. See the General Section for further discussion.

5. Procurement of Recovered Materials. See the General Section for further discussion.

6. Code of Conduct. See the General Section for further discussion.

7. Executive Order 13166, Improving Access to Services For Persons With Limited English Proficiency (LEP). Successful applicants may not exclude participants or beneficiaries on the basis of race, color, or national origin under Title VI of the Civil Rights Act. To ensure that program information is accessible to persons with limited English proficiency on the basis of national origin, successful applicants may follow HUD's Final Guidance to Federal Financial Assistance Recipients Regarding Title VI Prohibition Against National Origin Discrimination Affecting Limited English Proficient Persons, 72 FR 2732 (Jan. 22, 2007).

C. Reporting

1. All grant recipients under this NOFA are required to submit quarterly progress reports. The progress reports shall consist of three components: a narrative that must reflect the activities undertaken during the reporting period; a financial report that reflects costs incurred by budget line item, as well as a cumulative summary of costs incurred during the reporting period; and a HUD-96010, Program Outcome Logic Model form, which identifies output and outcome achievements.

2. Applicants selected for funding should also be aware that they will be required to report sub-award information within 30 days of making a sub-award in an amount of $25,000 or greater as required by the Federal Funding Accountability and Transparency Act of 2006 (Public Law 109-282). The Federal Funding Accountability and Transparency Act of 2006 calls for the establishment of a central Web site that makes available to the public full disclosure of all entities receiving federal funds. Applicants should be aware that the law requires the information provided on the federal Web site to include the following elements related to all sub-award transactions of $25,000 or greater.

(a) The name of the entity receiving the award;

(b) The amount of the award;

(c) Information on the award, including the transaction type, funding agency, the North American Industry Classification System code or Catalog of Federal Domestic Assistance number (where applicable), program source, and an award title descriptive of the purpose of each funding action;

(d) The location of the entity receiving the award and primary location of performance under the award, including the city, state, congressional district, and country;

(e) A unique identifier (DUNS number) of the entity receiving award and of the parent entity of the recipient (DUNS number of the parent entity) should the entity be owned by another entity;

(f) Federal parent award number and sub-award grant number;

(g) The tier level the sub-award was made at; and

(h) Any other relevant information specified by OMB.

There are exceptions for sub-awards less than $25,000 made to individuals or to an entity whose annual expenditures are less than $300,000.

Applicants should also be aware that the sub-award provision carries to all tiers (e.g., a direct award is made by HUD to an organization that in turn makes an award to another organization that then makes another award and so on). Collection of the tier level at which the award is made as well as federal parent award number can help in tracing the sub-award data as it tiers down several levels. Sub-award reporting requirements to meet the Federal Funding Accountability Transparency Act of 2006 requirements will be finalized through a future Federal Register notice.

VII. Agency Contacts

Applicants may contact Ophelia Wilson at (202) 402-4390 or Susan Brunson at (202) 402-3852. Persons with speech or hearing impairments may call the Federal Information Relay Service (TTY) at (800) 877-8339. Except for the “800” number, these numbers are not toll-free. mailto: Applicants may also reach Ms. Wilson via e-mail at Ophelia.Wilson@hud.gov, and/or Ms. Brunson at Susan.S.Brunson@hud.gov.

VIII. Other Information

Paperwork Reduction Act

The information collection requirements contained in this document have been approved by the Office of Management and Budget (OMB) under the Paperwork Reduction Act of 1995 (44 U.S.C. 3501-3520) and assigned OMB control number 2528-0235. In accordance with the Paperwork Reduction Act, HUD may not conduct or sponsor, and a person is not required to respond to, a collection of information unless the collection displays a currently valid OMB control number. Public reporting burden for the collection of information is estimated to average 356 hours per annum per respondent for the application and grant administration. This includes the time for collecting, reviewing, and reporting the data for the application, quarterly, semi-annual and final reports. The information will be used for grantee selection and monitoring the administration of funds. Response to this request for information is required in order to receive the benefits to be derived.

Hispanic-Serving Institutions Assisting Communities (HSIAC) Program

Overview Information

A. Federal Agency Name: Department of Housing and Urban Development, Office of Policy Development and Research, Office of University Partnerships.

B. Funding Opportunity Title: Hispanic-Serving Institutions Assisting Communities (HSIAC) Program.

C. Announcement Type: Initial announcement.

D. Funding Opportunity Numbers: FR-5200-N-05; OMB Approval Number is 2528-0198.

E. Catalog of Federal Domestic Assistance (CFDA) Number: The CFDA Number for this program is 14.514.

F. Dates: The application deadline date is July 2, 2008. Applications must be received and validated by Grants.gov by 11:59:59 p.m. eastern time on the deadline date. Please be sure to read the General Section, published March 19, 2008 (73 FR 14882), for electronic application submission and receipt requirements.

G. Additional Overview Content Information

1. Purpose of the Program: To assist Hispanic-Serving Institutions (HSI) expand their role and effectiveness in addressing community development needs in their localities, including neighborhood revitalization, housing, and economic development, principally for persons of low- and moderate-income, consistent with the purposes of Title I of the Housing and Community Development Act of 1974, as amended.

2. Award Information: In Fiscal Year (FY) 2008, approximately $6 million has been made available for this program by the Consolidated Appropriations Act, 2008 (Pub. L. 110-161), plus an additional $55,724 in carryover funds. An applicant can request up to $600,000 for a three-year (36 months) grant performance period.

3. Eligible Applicants: Nonprofit Hispanic-Serving Institutions that meet the definition of an HSI of higher education established in Title V of the Higher Education Act of 1965 (20 U.S.C. 1101), as amended. In order to meet this definition, at least 25 percent of the full-time undergraduate students enrolled in an institution must be Hispanic. In addition, all applicants must be institutions of higher education granting two- or four-year degrees that are fully accredited by a national or regional accrediting agency recognized by the U.S. Department of Education. Institutions are not required to be on the list of eligible HSIs prepared by the U.S. Department of Education. However, an institution that is not on the list is required to provide a statement in the application that the institution meets the U.S. Department of Education's statutory definition of an HSI as cited above. If an applicant is one of several campuses of the same institution, the applicant may apply separately from the other campuses as long as the campus has a separate DUNS number, administrative structure and budget, and meets the enrollment requirements outlined above.

Full Text of Announcement

I. Funding Opportunity Description

The purpose of the Hispanic-Serving Institutions Assisting Communities (HSIAC) program is to assist Hispanic-Serving Institutions (HSI) of Higher Education expand their role and effectiveness in addressing community development needs in their localities, including neighborhood revitalization, housing and economic development, principally for persons of low- and moderate-income consistent with the purpose of the Title I of the Housing and Community Development Act of 1974, as amended.

For the purpose of this program NOFA, the term “locality” includes any city, county, township, parish, village, or other general political subdivision of a state, Puerto Rico, or the U.S. Virgin Islands where the institution is located.

A “target area” is the area within the locality in which the institution will implement its proposed HSIAC program grant.

A. Authority

HUD's authority for making this funding available under this NOFA is the Consolidated Appropriations Act, 2008 (Pub. L. 110-161). This program is being implemented through this NOFA and the policies governing its operation are contained herein.

B. Modifications

Listed below are major modifications from the Fiscal Year (FY) 2007 program funding announcement:

1. Applicants must ensure that 51 percent or more of all funds awarded will be utilized for the community and/or general public. These funds are not for the direct benefit of the institution.

2. Applicants that propose rehabilitation and/or construction activities of a building located on a campus must commit to sustaining that facility for the purpose of the activity proposed in their application for at least five (5) years after the end of the grant performance period.

3. Abstract and budget narrative must be electronically submitted and formatted to fit an 8½-by-11-inch page. Responses must be double-spaced, with one inch margins (for the top, bottom, left, and right sides of the document), using the standard Times New Roman 12-point font.

4. For the purpose of responding to Rating Factor 1: Capacity of the Applicant and Relevant Experience Subfactor (a) Knowledge and Experience, HUD now defines Previously Funded Applicants as any applicants that received funding in FY 2001 through FY 2007. If an applicant has received a grant prior to these years then they should respond to this factor as a First Time Applicant. This definition is relevant to this rating factor and abstract only.

5. Project budgets will be evaluated and scored under Factor 3 Soundness of Approach. HUD will assess the applicant's budget in relation to its quality, thoroughness, reasonableness and rationality to the proposed project.

6. Applicants that propose ineligible activities will not be disqualified, but will not receive points under Factor 3 Soundness of Approach for the ineligible activities. HUD reserves the right to deduct points under this factor for those activities and/or not fund an application if the majority of the activities are ineligible.

7. Applicants that have no external leveraging resources (the institution is not considered an external resource) under Factor 4 Leveraging Resources/Developing Partnerships will receive no points under this factor.

II. Award Information

In FY2008, approximately $6 million is made available for this program and an additional $55,724 in carryover funds. An applicant can request up to $600,000 for a three-year (36 months) grant performance period.

III. Eligibility Information

A. Eligible Applicants

Nonprofit Hispanic-Serving Institutions that meet the definition of an HSI of Higher Education established in Title V of the Higher Education Act of 1965 (20 U.S.C. 1101), as amended. In order to meet this definition, at least 25 percent of the full-time undergraduate students enrolled in an institution must be Hispanic. In addition, all applicants must be institutions of higher education granting two- or four-year degrees that are fully accredited by a national or regional accrediting agency recognized by the U.S. Department of Education. Institutions are not required to be on the list of eligible HSIs prepared by the U.S. Department of Education. However, an institution that is not on the list is required to provide a statement in the application that the institution meets the U.S. Department of Education's statutory definition of an HSI as cited above. If an applicant is one of several campuses of the same institution, the applicant may apply separately from the other campuses as long as the campus has a separate DUNS number, administrative structure and budget, and meets the enrollment requirements outlined above.

B. Cost Sharing or Matching

None Required.

C. Other

1. Eligible Activities. Eligible activities are listed in 24 CFR part 570, subpart C, particularly § 570.201 through § 570.206. Information regarding these activities can be found at: http://www.access.gpo.gov/nara/cfr/waisidx_06/24cfr570_06.html.

a. Examples of eligible activities include, but are not limited to:

(1) Acquisition of real property;

(2) Clearance and demolition;

(3) Rehabilitation of residential structures, including lead-based paint hazard evaluation and reduction and making accessibility modifications in accordance with the requirements of the Section 504 of the Rehabilitation Act of 1973 (29 U.S.C. 794) and visitability modifications in accordance with the policy priorities described in the General Section. Applicants that propose rehabilitation and/or construction of a building on campus must sustain that facility for the purpose of the activities proposed in this grant for at least five (5) years after the end of the grant performance period.

(4) Acquisition, construction, reconstruction, rehabilitation, or installation of public facilities and improvements, such as water and sewer facilities and streets, and compliance with accessibility requirements, such as those under Section 504 of the Rehabilitation Act of 1973 (29 U.S.C. 794) and the Americans with Disabilities Act of 1990 (42 U.S.C. 12101);

(5) Relocation payments and other assistance for permanently and temporarily relocated individuals, families, businesses, nonprofit organizations, and farm operations where the assistance is:

(a) Required under the provisions of 24 CFR 570.606(b) or (c); or

(b) Determined by the grantee to be appropriate under the provisions of 24 CFR 570.606(d);

(6) Direct homeownership assistance to low- and moderate-income persons, as provided in section 105(a) (25) of the Housing and Community Development Act of 1974 (42 U.S.C. 5305(a)(25));

(7) Special economic development activities described at 24 CFR 570.203 and assistance to facilitate economic development by providing technical or financial assistance for the establishment, stabilization, and expansion of microenterprises, including minority enterprises;

(8) Assistance to community-based development organizations (CBDO) to carry out neighborhood revitalization, community economic development, or energy conservation projects, in accordance with 24 CFR 570.204. This could include activities in support of a HUD-approved local entitlement grantee, CDBG Neighborhood Revitalization Strategy (NRS) or HUD-approved State CDBG Community Revitalization Strategy (CRS);

(9) Public service activities such as general support activities that can help to stabilize a neighborhood and contribute to sustainable redevelopment of the area, including but not limited to such activities as those concerned with employment, crime prevention, child care, health care services, drug abuse, education, housing counseling, energy conservation, homebuyer down payment assistance, establishing and maintaining Neighborhood Networks centers in federally assisted or insured housing, job training and placement, and recreational needs;

(10) Up to 20 percent of the grant may be used for payments of reasonable grant administrative costs related to planning and executing of the project (e.g., preparation/submission of HUD reports). Detailed explanations of these costs are provided in OMB circular A-21, Cost Principles for Educational Institutions that can be accessed at the White House Web site at: http://www.whitehouse.gov/omb/circulars/index.html;

(11) These funds are not for the direct benefit of the institution; 51 percent or more of all funds must be utilized for the community and/or general public; and

(12) Fair housing services designed to further civil rights objectives of the Fair Housing Act (42 U.S.C. 3601-20) by making all persons, without regard to race, color, religion, sex, national origin, familial status, and/or disability aware of the range of housing opportunities available to them.

b. Each activity proposed for funding must meet the Community Development Block Grant (CDBG) program eligibility requirements and at least one of the three CDBG national objectives. The three national objectives of the CDBG program are listed in Rating Factor 3 in Section V.A.3 of this NOFA.

Criteria for determining whether an activity addresses one or more national objectives are provided at 24 CFR 570.208.

c. The CDBG publication entitled “Community Development Block Grant Program Guide to National Objectives and Eligible Activities for Entitlement Communities” describes the CDBG regulations, and a copy can be obtained online at: http://www.hud.gov/offices/cpd/communitydevelopment/library/deskguid.cfm.

2. Threshold Requirements Applicable to All Applicants. All applicants must comply with the threshold requirements as defined in the General Section and the requirements listed below. Applications that do not meet these requirements will be considered ineligible for funding and will be disqualified.

a. The applicant must meet the eligibility requirements as defined in Section III.A.

b. The maximum amount an applicant can request is $600,000 for a three-year (36 months) grant performance period.

c. An applicant must have a DUNS number to receive HUD grant funds (See the General Section). Only one application can be submitted per campus. If multiple applications are submitted, all will be disqualified. However, different campuses of the same university system are eligible to apply as long as they have a separate DUNS number and an administrative and budgeting structure independent of the other campuses in the system and meet the enrollment requirements as defined in Section III.A.

d. Institutions that received an HSIAC grant in FY 2007 are not eligible to submit an application under this NOFA. If an institution received an HSIAC grant in FY 2004, FY 2005, or FY 2006, the institution may apply under this NOFA as long as it proposes a different activity (activities) that has not been previously undertaken in their current project location, or proposes replicating their current project in a new location.

e. Applicants must receive a minimum score of 75 points to be considered for funding.

f. Electronic applications must be received and validated by Grants.gov no later than 11:59:59 p.m. eastern time on July 2, 2008, the application deadline date.

3. Program Requirements. Applicants must meet the following program requirements:

a. All funds awarded are for a three-year (36 months) grant performance period;

b. Applicants must ensure that not less than 51 percent of the aggregated expenditures of a grant award are used to benefit low- and moderate-income persons under the criteria specified in 24 CFR 570.208(a)(ii) or 570.208(d)(5) or (6);

c. Applicants must ensure that 51 percent or more of all funds awarded will be utilized for the community and/or general public. These funds are not for the direct benefit of the institution.

d. Applicants that propose to construct new housing or rehabilitate existing housing must ensure that their project and/or facilities are operated in accordance with applicable design and construction requirements, including either the Fair Housing Act and/or Section 504 of the Rehabilitation Act of 1973 and corresponding HUD implementing regulations. Please note that in situations where both the Fair Housing Act design and construction accessibility requirements and Section 504 design and construction accessibility requirements apply, applicants must apply both standards to obtain maximum accessibility; and

e. Applicants that propose non-housing programs and facilities must ensure that their projects are operated in compliance with the requirements of Section 504 of the Rehabilitation Act of 1973, the American with Disabilities Act (ADA), the Architectural Barriers Act (ABA), and corresponding HUD implementing regulations. Note that the accessibility standard for non-housing projects is the Uniform Federal Accessibility Standards (UFAS).

4. Site Control. Where grant funds will be used for acquisition, rehabilitation, or new construction, an applicant must demonstrate site control. Funds may be recaptured or deobligated from recipients that cannot demonstrate control of a suitable site within one year after the initial notification of award.

5. Environmental Requirements. Selection for award does not constitute approval of any proposed sites. Following selection for award, HUD will perform an environmental review of properties proposed for assistance in accordance with 24 CFR part 50. The results of the environmental review may require that proposed activities be modified or proposed sites be rejected. Applicants are particularly cautioned not to undertake or commit funds for acquisition or development of proposed properties prior to HUD approval of specific properties or areas. An application constitutes an assurance that the institution will assist HUD to comply with 24 CFR part 50; will supply HUD with all available and relevant information to perform an environmental review for each proposed property; will carry out mitigating measures required by HUD or select alternate property; and will not acquire, rehabilitate, convert, demolish, lease, repair, or construct property, and not commit or expend HUD or local funds for these program activities with respect to any eligible property until HUD's written approval of the property is received. Applicants should use the protocol at http://www.hud.gov/utilities/intercept.cfm?/offices/cpd/environment/review/protocol.pdf to supply HUD with the information needed for HUD to start and complete the environmental review. Further information and assistance on HUD's environmental requirements is available at http://www.hud.gov/offices/cpd/environment/index.cfm.

6. Lead-Based Paint Requirements. Institutions and their sub-grantees, contractors, and subcontractors must comply with the Lead-Based Paint Poisoning Prevention Act (42 U.S.C. 4821-4846), the Residential Lead-Based Paint Hazard Reduction Act of 1992 (42 U.S.C. 4851-4856), and relevant subparts of the implementing regulations at 24 CFR part 35, such as subparts A, B, J, K and R, which apply to activities under this grant program.

7. Labor Standards. Institutions and their sub-grantees, contractors, and subcontractors must comply with the labor standards (Davis-Bacon) requirements referenced in 24 CFR 570.603.

8. Economic Opportunities for Low- and Very Low-Income Persons (Section 3). The provisions of Section 3 of the Housing and Urban Development Act of 1968 (12 U.S.C. 1701u) apply to this NOFA. One of the purposes of the assistance is to give to the greatest extent feasible and consistent with existing federal, state, and local laws and regulations, job training, employment, contracting, and other economic opportunities to Section 3 residents and Section 3 business concerns. See the Section 3 Regulations located at 24 CFR Part 135.36.

9. Affirmatively Furthering Fair Housing Requirements. Under Section 808(e)(5) of the Fair Housing Act, HUD has a statutory duty to affirmatively further fair housing. HUD requires the same of its funding recipients. If you are a successful applicant proposing housing-related activities, you will have a duty to affirmatively further fair housing opportunities for classes protected under the Fair Housing Act. Protected classes include race, color, national origin, religion, sex, disability, and familial status. For example: (1) Working with other entities in the community to overcome impediments to fair housing, such as discrimination in the sale or rental of housing or in advertising, provision of brokerage services, or lending; (2) Promoting fair housing choice through the expansion of homeownership opportunities and improved quality of services for minorities, families with children, and persons with disabilities; or (3) Providing housing mobility counseling services.

IV. Application Instructions and Submission Information

A. Instructions to Download Application Package

Applicants may download the instructions to the application found on the Grants.gov Web site at http://www.grants.gov./applicants/apply_for_grants.jsp. If you have difficulty accessing the information you may call the Grants.gov Support Desk toll-free at (800) 518-GRANTS or e-mail your questions to Support@Grants.gov. Hearing- and speech-challenged individuals may access this number through TTY by calling the toll-free Federal Information Relay Service at (800) 877-8339. See the General Section for information regarding the registration process or ask for registration information from the Grants.gov Support Desk.

B. Application Content and Forms for Submission

1. Application Content. Applications must consist of the following elements: Abstract, narrative, budget, budget narrative, and forms. Applicants that received a wavier of the electronic application submission requirement must submit their application in the order below. Copies of the instructions and all forms are available online at http://www.grants.gov/applicants/apply_for_grants.jsp.

a. SF-424, Application for Federal Assistance. Please remember the following:

(1) The full grant amount requested from HUD (entire three-years) should be entered, not the amount for just one year;

(2) Include the name, title, address, telephone number, facsimile number, and e-mail address of the designated contact. This is the person who will receive all correspondence regarding the content of the application from HUD; therefore, please ensure the accuracy of the information;

(3) The Employer Identification/Tax ID;

(4) The DUNS Number;

(5) The Catalog of Federal Domestic Assistance Number for this program is 14.514;

(6) The project's proposed start date and completion date. For the purpose of this application, the program start date should be October 1, 2008; and

(7) The signature of the Authorized Organization Representative (AOR) who, by virtue of submitting an application via Grants.gov, has been authenticated by the credential provider to submit applications on behalf of the institution and approved by the eBusiness Point of Contact to submit an application via Grants.gov. The AOR must be able to make a binding legal agreement with HUD.

b. Abstract. Applicants must include no more than a two-page, doubled-spaced summary of the proposed project. Please include the following:

(1) A clear description of each proposed project activity, where it will take place (be located), the target population that will be served, and the impact this project is expected to have on the community;

(2) A statement that the institution is an eligible applicant because it is a two-or four-year fully accredited institution, the name of the accrediting agency, and an assurance that the accrediting agency is recognized by the U.S. Department of Education;

(3) A statement that the institution meets the definition of an HSI: at least 25 percent of the full-time undergraduate students enrolled in an institution are Hispanic;

(4) The designated contact person, including phone number, facsimile number, and e-mail address (this is the person who will receive all correspondence regarding the content of this application from HUD; therefore, please ensure the accuracy of the information);

(5) The project director, if different from the designated contact person, for the project, including phone number, facsimile number, and e-mail address; and

(6) If a previously funded applicant, include the name and date the past project(s) were funded. Remember HUD now defines Previously Funded Applicants as any applicants that received funding in FY 2001 through FY 2007.

c. Narrative statement addressing the rating factors. HUD will use the narrative response to the “Rating Factors” to evaluate, rate, and rank applications. This NOFA has five rating factors that need to be addressed. The narrative statement is the main source of information. Applicants are advised to review each factor carefully for program-specific requirements. All applicants submitting electronic applications must attach their narrative responses to Rating Factors 1-4 as one attachment. Remember, Factor 5 is addressed by using the HUD-96010, Program Outcome Logic Model form. Please do not repeat material in response to factors 1-3; instead, focus on how well the proposal responds to each of the factors. The response to each factor should be concise and contain only information relevant to the factor, yet detailed enough to address each factor fully. Where there are subfactors, each subfactor must be addressed and presented separately, with the short title/name of the subfactor presented. Make sure to address each subfactor and provide sufficient information about every element of the subfactor. Do not include any individual's Social Security Numbers in your application. The narrative section of an application must be submitted electronically. It must not exceed 50 pages in length (excluding forms, budget narrative, assurances, and abstract) and must be formatted to fit an 8½-by-11-inch page. Responses must be double-spaced (information submitted in chart format does not have to be doubled-spaced) with one-inch margins (for the top, bottom, left, and right sides of the document), using the standard Times New Roman 12-point font. Each page of the application must include the applicant's name and be numbered. Note that although submitting pages in excess of the page limit will not disqualify an applicant, HUD will not consider the information on any excess pages. This exclusion may result in a lower score or failure to meet a threshold requirement. Please do not attach your response to each factor separately. Please follow the instructions on use of zip files, file extension, and file names in the General Section. File names should not contain spaces or special characters.

d. Budget. The budget submission must include the following:

(1) HUD-424-CB, Grant Application Detailed Budget.” This form shows the total budget by year and by line item for the program activities to be carried out with the proposed HUD grant. Each year of the program should be presented separately. Applicants must also budget for travel costs (airfare, lodging, and per diem) for two individuals to attend at least one HUD-sponsored HSIAC conference/workshop every year of the three-year grant performance period. To calculate travel expenses, applicants located in eastern and central time zones or the U.S. Virgin Islands and Puerto Rico should use San Francisco, CA, as the site of all conferences/workshops. Applicants located in mountain and pacific time zones or Puerto Rico should use Washington, DC, as the site of all conferences/workshops. Partners described in Factor 4 Leveraging Resources/Developing Partnerships cannot receive funding from this grant; if they are included, points will be deducted under Factor 3, subfactor f. Budget and Cost Estimates.

Applicants must also submit form HUD-424-CB to reflect the total cost (summary) for the entire grant performance period (Grand Total).

Make sure that the amounts shown on the SF-424, the HUD-424-CB, and budget narrative are consistent and the budget totals are correct. Remember to check addition in totaling the categories on all forms so that all items are included in the total. If there is an inconsistency between any of the required budget forms and/or budget narrative, the amount listed on the HUD-424-CB will be the amount HUD will use to calculate the amount the applicant is requesting for funding. All budget forms must be fully completed. If an application is selected for award, the applicant may be required to provide greater specificity to the budget during grant agreement negotiations.

(2) Budget Narrative. A narrative must be submitted that explains how the applicant arrived at the cost estimates for each line item. This information must be electronically submitted and formatted to fit an 8½-by-11-inch page. Responses must be double-spaced, with one-inch margins (for the top, bottom, left, and right sides of the document), using the standard Times New Roman 12-point font. Project budgets will be evaluated and scored under Factor 3, Soundness of Approach. HUD will assess the soundness of an applicant's approach by evaluating the quality, thoroughness, reasonableness, and rationality of the proposed project budget. In addition, please provide the name, if known, hourly or daily rate, and the estimated time that will be devoted on the project for each consultant. For example, an applicant proposes to construct a building using HUD funding totaling $200,000. The following cost estimates reflects this total: foundation cost $75,000, electrical work $40,000, plumbing work $40,000, finishing work $35,000, and landscaping $10,000. The proposed cost estimates should be reasonable for the work to be performed and consistent with rates established for the level of expertise required to perform the work proposed in the geographical area. When necessary, quotes from various vendors or historical data should be used (please make sure they are kept on file and are available for review by HUD at any time). All direct labor or salaries must be supported with mandated institution and/or city/state pay scales, the Davis-Bacon rate, (if applicable) or other documentation. When an applicant proposes to use a consultant, the applicant must indicate whether there is a formal written agreement. Applicants must use cost estimates based on data from the institution and/or from a qualified firm (e.g., architectural or engineering firms), vendor, and/or qualified individual (e.g., independent architect or contractor) other than the institution for a project that involves rehabilitation of residential, commercial, and/or industrial structures, and/or acquisition, construction, or installation of public facilities, and improvements. Such an entity must be involved in the business of housing rehabilitation, construction, and/or management. Equipment and contracts cannot be presented as a total estimated cost. For equipment, applicants must provide a list by type and cost for each item. Applicants using contracts must provide an individual description and cost estimate for each contract. Construction costs must be broken down to indicate how funds will be utilized (e.g., demolition, foundation, exterior walls, roofing, electrical work, plumbing, finishing work, etc.).

(3) Indirect costs. Indirect costs, if applicable, are allowable based on an established approved indirect cost rate. Applicants must have on file, and submit to HUD if selected for award, a copy of their approved indirect cost rate agreement. Applicants who are selected for funding that do not have an approved indirect cost rate agreement, established by the cognizant federal agency, will be required to establish a rate. In such cases, HUD will issue an award with a provisional rate and assist applicants with the process of establishing a final rate.

e. Appendix. The appendix section of the application must not exceed 15 pages in length (excluding forms, budget narrative, and assurances). Each page must include the applicant's name and be numbered. An applicant should not submit resumes, letters of support, commitment letters, memoranda of understanding, and/or agreements, or other back-up materials to supplement the application's narrative. If this information is included, it will not be considered during the review process. HUD will not consider the information on any excess pages. The additional items will also slow the transmission of your application.

2. Forms. The following forms are required for submission. All required forms are contained in the electronic application package. Applicants receiving a waiver of the electronic submission requirements and submitting a paper copy of the application must place all required forms in the appendix section of the application.

a. SF-424 Supplement Survey on Ensuring Equal Opportunities for Applicants (“Faith Based EEO Survey (SF-424 SUPP)” on Grants.gov);

b. SF-LLL, Disclosure of Lobbying Activities, if applicable;

c. HUD-27300, Questionnaire for HUD's Removal of Regulatory Barriers (“HUD Communities Initiative Form” on Grants.gov), if applicable;

d. HUD-2880, Applicant/Recipient Disclosure/Update Report (“HUD Applicant Recipient Disclosure Report” on Grants.gov), if applicable;

e. HUD-2990, Certification of Consistency with RC/EZ/EC-II Strategic Plan, if applicable;

f. HUD-2991, Certification of Consistency with the Consolidated Plan, if applicable;

g. HUD-2993, Acknowledgement of Applicant Receipt. Complete this form only if you have received a waiver to the electronic application submission requirement. Applicants submitting electronically are not required to include this form;

h. HUD-2994-A, You Are Our Client! Grant Applicant Survey. Applicants are not required to complete this form;

i. HUD-96010, Program Outcome Logic Model; and

j. HUD-96011, Third Party Documentation Facsimile Transmittal (“Facsimile Transmittal Form” on Grants.gov). This form must be used as the cover page to transmit third party documents and other information. Applicants are advised to download the application package and complete the SF-424, which will pre-populate the Transmittal Cover page. The Transmittal Cover page will contain a unique identifier embedded in the page that will help HUD associate your faxed materials to your application. Please do not use your own fax sheet. HUD will not read any faxes that are sent without the HUD-96011 fax transmittal cover page.

3. Certifications, Assurances. Please read the General Section for detailed information on all Certifications and Assurances. All applications submitted through Grants.gov constitute an acknowledgement and agreement to all required certifications and assurances.

C. Submission Dates and Times

A complete application package must be received and validated electronically by the Grants.gov portal no later than 11:59:59 p.m. eastern time on July 2, 2008, the application deadline date. In an effort to address any issues with transmission of your application, applicants are strongly encouraged to submit their applications at least 48 to 72 hours prior to the application deadline. This will allow an applicant enough time to make the necessary adjustments to meet the submission deadline in the event Grants.gov rejects the application. Please see the General Section for further instructions. Electronic faxes using the Facsimile Transmittal Cover Sheet (Form HUD-96011) contained in the electronic application must be received no later than 11:59:59 p.m. eastern time on the application deadline date.

D. Intergovernmental Review

This program is excluded from the Intergovernmental Review process.

E. Funding Restrictions

Ineligible CDBG activities are listed at 24 CFR 570.207. Ineligible activities include but are not limited to the following:

1. Curriculum development and/or expansion of an institution's existing curriculum;

2. General government expenses;

3. Political activities;

4. Planning and administrative activities that would result in a grantee exceeding the 20 percent cost limitations (e.g., preparation/submission of HUD reports); and

5. Activities and/or buildings constructed for only campus use and/or less than 51 percent community/public use.

F. Other Submission Requirements

1. Application Submission and Receipt Procedure. Please read the General Section carefully and completely for the submission and receipt procedures for all applications because failure to comply may disqualify your application.

2. Waiver of Electronic Submission Requirements. Applicants should submit their waiver requests in writing using e-mail or fax. Waiver requests must be submitted no later than 15 days prior to the application deadline date and should be submitted to: Susan Brunson, Office of University Partnerships, E-mail: Susan.S.Brunson@hud.gov, fax: (202) 708-0309.

Paper applications will not be accepted from applicants that have not been granted a waiver. If an applicant is granted a waiver, the Office of University Partnerships (OUP) will provide instructions for submission. All applicants submitting applications in paper format must have received a waiver to the electronic application submission requirement and the application must be received by HUD on or before the application deadline date. All paper applications must be submitted on 8½-by-11-inch paper, double-spaced, on one side of the paper, with one-inch margins (for the top, bottom, left, and right sides of the document), and printed in standard Times New Roman 12-point font.

V. Application Review Information

A. Criteria

1. Rating Factor 1: Capacity of the Applicant and Relevant Experience (25 Points). This factor addresses the extent to which the applicant has the resources, experience, and capacity necessary to successfully complete the proposed project by the end of the grant performance period.

a. Knowledge and Experience for First Time Applicants (25 Points); For Previously Funded Applicants (10 Points). For the purpose of responding to this subfactor only, Previously Funded Applicants are any applicants that received funding in FY 2001 through FY 2007. If an applicant received a grant prior to these years they should respond to this factor as a First Time Applicant. This definition is relevant to this rating factor ONLY.

In rating this subfactor, HUD will consider how well an applicant clearly addresses the following:

(1) Identifies key project team members/staff and partners, their titles and names (e.g., project manager/coordinator—Sally Susan Smith, etc.), respective roles, and time each individual will allot to this project.

If key personnel have not been hired, identify the position title, description of duties and responsibilities, and qualifications to be considered in the selection of personnel, including subcontractors and consultants;

(2) Describes the knowledge and relevant experience of the proposed project team member/staff and partners (as outlined above) that will conduct the day-to-day project activities, consultants (including technical assistance providers), and contractors in planning and managing the type of project for which funding is being requested; and

(3) Explains the institution's experience and capacity to administer and monitor the type of project for which funding is being requested.

Applicant's staff and partners' (as outlined above) experience and the institution's capacity to do the work will be evaluated in terms of recent and relevant knowledge and skills to undertake the proposed eligible program activities. HUD will consider experience within the last five (5) years to be recent and experience pertaining to similar activities to be relevant.

b. Past Performance (15 Points) for Previously Funded Grant Applicants Only. This subfactor will evaluate how well an applicant has performed successfully under completed and/or open HUD HSIAC grants. Applicants must demonstrate this by addressing the following information for all previously completed and open HUD/HSIAC grants:

(1) A list of all HUD/HSIAC grants received between FY 2001 through FY 2007, including the dollar amount awarded and the amount expended and obligated as of the date the application is submitted;

(2) A list detailing the date the project(s) was completed; was it completed during the original three-year grant performance period; if not completed, why (including when it was or will be completed); if the project is still in progress, provide details on the project's current status;

(3) A description of the achieved results (outcomes) consistent with the approved project management plan. If not completed as proposed, explain why;

(4) A list comparing the amount of proposed leveraged funds and/or resources (outlined in the original application) to the amount that was actually leveraged as of the date the application is submitted; and

(5) A detailed description of compliance with all reporting requirements, including timeliness of submission, whether reports were complete and addressed all information (both narrative and financial) as required by the grant agreement.

HUD will also review an applicant's past performance in managing funds, including but not limited to the ability to account for funding appropriately; timely use of funds received from HUD; meeting performance targets for completion of activities; timely submission of required progress reports; compliance with the program's terms and conditions; and receipt of promised leveraged resources. In evaluating past performance, HUD reserves the right to deduct up to ten (10) points from this rating score as a result of the information obtained from HUD's records (i.e., progress and financial reports, monitoring reports, Program Outcome Logic Model submissions, and amendments).

2. Rating Factor 2: Need/Extent of the Problem (8 Points).

a. Rating Factor 2 addresses the extent to which there is a need for funding the proposed project and an indication of the importance of meeting the need(s) in the target area. The need(s) described must be relevant to the activities for which funds are being requested. In addressing this factor, applicants should provide, at a minimum, the following and cite statistics and/or analyses contained in at least one or more current, sound, and reliable data sources:

(1) Describe the need(s); and

(2) Describe the importance of meeting the proposed needs.

b. In rating this factor, HUD will consider only current data that is specific to the area where the proposed project activities will be carried out. Sources for localized data can be found online at: http://www.ffiec.gov.

c. HUD will consider data collected within the last five (5) years to be current. However, applicants must utilize the most current version of the data source(s) that exists. To the extent that the targeted community's Five Year Consolidated Plan and Analysis of Impediments to Fair Housing Choice (AI) identify the level of the problem and the urgency in meeting the need, applicants should include references to these documents in the response to this factor.

Other reliable data sources include, but are not limited to, Census reports, law enforcement agency crime reports, Public Housing Agencies' Comprehensive Plans, community needs analyses such as those provided by the United Way, the applicant's institution, and other sound, reliable, and appropriate sources. Needs in terms of fulfilling court orders or consent decrees, settlements, conciliation agreements, and voluntary compliance agreements may also be addressed.

3. Rating Factor 3: Soundness of Approach (45 Points). This factor addresses the soundness, quality, and effectiveness of the proposed work plan and the commitment of the applicant to sustain the proposed activity(s). Points are awarded under this factor for the quality of the activities proposed in relation to the need/problem identified in Factor 2, not for the number of activities proposed. In addition, if the activities proposed are not eligible, HUD reserves the right to deduct points under this factor for those activities and/or not fund an application if the majority of the activities are ineligible.

a. (30 Points) Quality of the Work Plan. This subfactor will be evaluated on the extent to which an applicant provides a clear detailed description of the proposed project activities, the anticipated results (outcomes), and the impact they will have on the target population at the end of the grant performance period.

(1) (24 Points) Specific Activities. The work plan must describe all proposed activities and major tasks (steps to complete the proposed activities) required to successfully implement the proposed project. The work plan must also identify the anticipated measurable outcomes these activities will have on the targeted population. In addressing this subfactor, HUD will consider the following:

(a) Identify the method/planning strategy(s) used during the development of this application. Describe in detail how the proposed project/activities to be undertaken were identified. List all individuals/organizations that were involved in the planning process for this project and their roles;

(b) Describe each proposed project activity in measurable terms (e.g., the number of persons to be trained; houses to be built or rehabilitated; or minorities trained to start businesses, etc.);

(c) Identify the major tasks (steps to complete the proposed activities) required in sequential order to successfully implement and complete each proposed project activity. Include target completion dates for these tasks (in 6-month intervals, up to 36 months, e.g., to develop a training program the following steps may occur: hiring staffing, purchasing supplies, developing curricula/training modules, conducting training, etc);

(d) Identify the key team members/staff and partners, as identified in Factor 1, who will be responsible and accountable for completing each task;

(e) List and describe how each activity meets one of the following Community Development Block Grant (CDBG) program national objectives:

• Benefit low- and moderate-income persons;

• Aid in the prevention or elimination of slums or blight; or

• Meet other community development needs having a particular urgency because existing conditions pose a serious and immediate threat to the health and welfare of the community, and other financial resources are not available to meet such needs.

Criteria for determining whether an activity addresses one or more objective are provided at 24 CFR 570.208; and

(f) Describe the measurable impact (outcomes) that implementing each activity will have or is expected to have on the target population by the end of the grant performance period (e.g., number of individuals employed as a result of training; number of new homeowners as a result of the number of houses that were built or rehabilitated; or number of minority-owned businesses started, etc).

(2) (6 Points) Describe clearly how each proposed activity will:

(a) Expand the role of the institution in the target community;

(b) Address the needs identified in Factor 2; and

(c) Relate to and not duplicate other activities in the target area. Duplicative efforts will be acceptable only if an applicant can demonstrate through documentation that there is a population in need that is not being served.

b. (3 Points) Involvement of the Faculty and Students. The applicant must describe in detail how it proposes to integrate the institution's students (this excludes students that are project recipients/participants) and faculty into proposed project activities.

c. (4 Points) Involvement of the Community. The applicant must describe in detail how the community (e.g., businesses, residents, and others) will be involved in the proposed project (e.g., development of an advisory committee that includes representatives of the target community). The applicant must identify the specific roles that individuals will and have played in the proposed project. The community must play an active role in all stages of the project. Community involvement must be diverse and representative of the target population/community.

d. (2 Points) HUD Policy Priorities. As described in the General Section, to earn points under this subfactor, HUD requires applicants to undertake specific activities that will assist the Department in implementing its policy priorities and that will help the Department achieve its goals and objectives in FY 2009. In rating this subfactor, HUD will evaluate the extent to which a project will further and support HUD's priorities. The quality of the responses provided to one or more of HUD's priorities will determine the score an applicant can receive. Applicants must describe how each policy priority selected will be addressed. Applicants that just list a priority will receive no points. Please refer to the General Section for additional information about HUD's policy priorities.

The total number of points an applicant can receive under this subfactor is two (2). Each policy priority addressed has a point value of one (1) point with the exception of the policy priority to remove regulatory barriers to affordable housing, which has a point value of up to two (2) points. To receive these two (2) points, an applicant must: (1) Submit either Part A or Part B (not both) of the complete questionnaire HUD-27300, “HUD Initiative on Removal of Regulatory Barriers,” found in the General Section, (2) include appropriate documentation, (3) identify a point of contact, and (4) indicate how this priority will be addressed. It is up to the applicant to determine which of the policy priorities they will address in order to receive the available two (2) points.

e. (2 Points) Economic Opportunities for Low- and Very Low-Income Persons (Provision of Section 3). This subfactor will be evaluated on the extent to which an applicant describes how it proposes to:

(1) Provide opportunities to train and employ Section 3 residents; and/or

(2) Award contracts to Section 3 contractors (See the regulations at 24 CFR part 135).

Regulations regarding the provision of Section 3 of the Housing and Urban Development Act of 1968 (12 U.S.C. 1701u) are located at 24 CFR 135.36.

f. (4 Points) Budget and Cost Estimates. HUD will assess the soundness of your approach by evaluating the quality, thoroughness, and rationality of the proposed project budget and budget narrative. The budget narrative must be broken down by line item. Administrative costs must be reflected under the appropriate line items (e.g., salaries, supplies, costs related to planning and executing the project, preparation/submission of HUD reports, etc.).

4. Rating Factor 4: Leveraging Resources/Developing Partnerships (10 Points)

This factor addresses the ability of the applicant to develop partnerships and secure resources that can be combined with HUD's grant funds to achieve the project's purpose.

a. HUD will consider how well an applicant has established partnerships with other entities (other than their own institution) to secure additional resources to increase the effectiveness of the proposed project activities. Resources may include funding or in-kind contributions, such as services or equipment, allocated for the purpose(s) of the proposed project activities. Applicants may also establish partnerships with other program funding recipients to coordinate the use of resources in the target area. Overhead and other institutional costs that the institution has waived may be counted. Applicants that have no external leveraging resources (the institution/applicant is not considered an external resource) will receive no points under this factor.

Examples of potential sources for outside assistance include:

—Federal, state, and local governments;

—Local or national nonprofit organizations;

—Financial institutions and/or private businesses;

—Foundations; and

—Faith-based and other community-based organizations.

b. To address this factor, an applicant must provide an outline in their application that includes the information listed below of all proposed leveraged resources (including any commitment of resources from the applicant's own institution). Applicants must have on file at the time of application submission the original written commitment letters, memoranda of understanding, and/or agreements. Commitment letters, memoranda of understanding, and/or agreements must be dated prior to the application deadline date; if they are dated after the application deadline date they will not be scored.

Each letter, memorandum of understanding, or agreement must include the information below:

(1) The name of the organization and the executive officer authorizing the funds/goods and/or services (only applicable to the narrative section);

(2) The cash amount contributed or dollar value of the in-kind goods and/or services committed (If a dollar amount and its use are not shown, the value of the contribution will not be scored);

(3) A specific description of how each contribution is to be used toward specific proposed activities (including the actual role the partner will have in the proposed project activities for which their contribution will be utilized);

(4) The date the contribution will be made available and a statement that describes the duration of the contribution; and

(5) The signature of the appropriate executive officer authorized to commit the funds and/or goods and/or services. This is only applicable to the original written documentation.

c. Resources will not be counted for which there is no commitment letter, memorandum of understanding, agreement, or quantified level of commitment, and/or when the letter, memorandum of understanding, or agreement does not address all of the requirements outlined above. Commitment letters, memoranda of understanding, and/or agreements are not required at the time of application submission but must be on file at the time of application submission. If commitment letters, memoranda of understanding, and/or agreements are included with the application at the time of submission they will not be considered during the review process. However, applicants submitting paper applications must include all letters, memoranda of understanding, and/or agreements in the Appendix of the application. Applicants chosen to proceed to the next step in the selection process will be required to submit the signed and dated commitment letters, memoranda of understanding, and/or agreements outlined in the application within five (5) calendar days after initial contact from the OUP. Letters, memoranda of understanding, or agreements must be submitted on the provider's letterhead and should be addressed to Sherone Ivey, Associate Deputy Assistant Secretary for University Partnerships. The date of the letter, memorandum of understanding, or agreement from the CEO of the provider organization must be dated no earlier than nine months prior to this published NOFA and no later than the application deadline date. In addition, no points will be awarded for general support letters endorsing the project from organizations, including elected officials on the local, state, or national levels; therefore, please do not include them. OUP will provide specific instructions on how these documents must be submitted when contact is made with the applicant. HUD will only request and consider documents from the resources/organizations that are listed in the outline in the application. If OUP does not receive those documents with the required information within the allotted timeframe, an applicant will not receive points under this factor.

Note: Submission of a grant award notification from another entity/agency in place of a commitment letter, memorandum of understanding, and/or agreement does not meet the requirement for this factor and will not be accepted.

In scoring this factor, HUD will award

(1) Ten (10) points to an applicant that provides leveraging resources as listed in their application that are 15 percent or more of the amount requested under this program;

(2) Nine (9) points to an applicant that provides leveraging resources as listed in their application that represents 13 to 14 percent of the amount requested under this program;

(3) Eight (8) points to an applicant that provides leveraging resources as listed in their application that represents 11 to 12 percent of the amount requested under this program;

(4) Seven (7) points to an applicant that provides leveraging resources as listed in their application that represents 8 to 10 percent of the amount requested under this program;

(5) Six (6) points to an applicant that provides leveraging resources as listed in their application that represents 6 to 7 percent of the amount requested under this program;

(6) Five (5) points to an applicant that provides leveraging resources as listed in their application that represents 5 percent of the amount requested under this program; and

(7) Zero (0) points to an applicant that provides leveraging resources as listed in their application that is less than 5 percent of the amount requested under this program and/or have no external leveraging resources (remember, the institution/applicant is not considered an external resource).

5. Rating Factor 5: Achieving Results and Program Evaluation (12 Points)

This factor reflects HUD's goal to embrace high standards of management and accountability. It measures the applicant's commitment to assess their performance to achieve the project's proposed objectives and goals. Applicants are required to develop an effective, quantifiable, outcome-oriented evaluation plan for measuring performance and determining that objectives and goals have been achieved by using the HUD-96010, “Program Outcome Logic Model.” The Program Outcome Logic Model is a summary of the narrative statements presented in Factors 1-3. Therefore, the information submitted on the Logic Model should be consistent with the information contained in the narrative statements.

In evaluating this factor, HUD will assess the extent to which the applicant demonstrates how results of the project will be measured as outlined in the proposed work plan. To meet this factor requirement, applicants must submit a completed HUD-96010, “Program Outcome Logic Model.” Applicants must select from the list of activities and outcomes to determine their specific methods and measures that will be used to assess progress and evaluate program effectiveness. If an item is not found on the list of activities or outcomes, applicants can select “other” and then insert the activity and/or outcome and unit of measurement. Applicants can use the “other” option for up to three activities and three outcomes. See the instructions tab in the Logic Model for further details. HUD will not accept activities or outcomes selected as “other” that do not contain an identified statement of the activities/outcomes or units of measurement. Utilizing this form will help grantees to ensure that performance measures are being met and they are establishing achievable realistic goals.

a. Program Outcome Logic Model instructions (using a Microsoft Excel™ form) are provided in the forms appended to the Instruction Download from http://www.grants.gov/applicants/apply_for_grants.jsp. Applicants that do not have access to Microsoft Excel™ should contact the NOFA Information Center at (800) HUD-8929. Individuals with hearing or speech impairments may access this number via the toll-free Federal Information Relay Service at (800) 877-8339 and/or The Center for Applied Management Practices at (717) 730-3705 (this is not a toll-free number).

A narrative response is not required for this factor as all applicants must use the logic model form to respond to this factor. However, if a narrative is included, these pages will be included in the page count. HUD has developed a new approach to completing this form. Applicants should also review the Program Outcome Logic Model training, which can be found online at: http://www.hud.gov/Webcasts/index.cfm.

b. HUD will review the outputs and outcomes in relation to the needs identified. “Outcomes” are benefits accruing to the community during or after participation in the HSIAC program. Applicants must clearly identify the outcomes to be measured and achieved. Examples of outcomes include increased employment opportunities in the target community by a certain percentage, and/or provision of stable living environments through the creation of affordable housing opportunities (e.g., increased assets to families and communities through the development of affordable housing).

Applicants must also establish outputs that lead to the ultimate achievement of outcomes. “Outputs” are the direct products of the program's activities. Examples of outputs are the number of new affordable housing units, the number of homes that have been renovated, and the number of community facilities that have been constructed or rehabilitated. Outputs should produce outcomes for the program. At a minimum an applicant must address the following activities in the evaluation plan:

(1) Measurable outputs to be accomplished (e.g., the number of persons to be trained and employed; houses to be built pursuant to 24 CFR 570.207 or rehabilitated; minority-owned businesses to be started); and

(2) Measurable outcomes the grant will have on the community in general and the target area or population.

Applicants must also reference policy priorities, as stated in response to Factor 3, and relate them to the project's goals, as appropriate.

HUD will evaluate the Program Outcome Logic Model in accordance with the matrix provided in Attachment 1 of the General Section.

B. Review and Selection Process

1. Application Selection Process. Two types of reviews will be conducted:

a. A threshold review to determine an applicant's basic eligibility; and

b. A technical review for all applications that pass the threshold review to rate and rank the application based on the “Rating Factors” listed in Section V. A.

Only those applications that pass the threshold review will receive a technical review and be rated and ranked.

2. Rating Panels. To review and rate applications, HUD may establish panels that may include experts or consultants not currently employed by HUD to obtain certain expertise.

3. Ranking. HUD will fund applications in rank order, until all available program funds are awarded. In order to be considered for funding, an applicant must receive a minimum score of 75 points out of a possible 100 points for Factors 1-5; plus up to two bonus points that may be awarded for activities conducted in the RC/EZ/EC-II communities, as described in the General Section. If two or more applications have the same number of points, the application with the most points for Factor 3 shall be selected. If there is still a tie, the application with the most points for Factor 4 shall be selected. If there is still a tie, the application with the most points for Factors 1, 2 and then 5 shall be selected, in that order, until the tie is broken. HUD reserves the right to make selections out of rank order to provide for geographic distribution of grantees.

HUD also reserves the right to reduce the amount of funding requested in order to fund as many highly ranked applications as possible. Additionally, if funds remain after funding the highest ranked applications, HUD may fund part of the next highest-ranking application. If an applicant turns down an award offer, HUD will make an award to the next highest-ranking application. If funds remain after all selections have been made, the remaining funds will be carried over to the next funding cycle's competition.

HUD will not fund any portion of an application that is not eligible for funding under regulatory requirements; does not meet the requirements of the NOFA; or may be duplicative of other funded programs or activities/tasks from prior year awards. Only the eligible portions of an application will be funded. When the majority of the activities are ineligible, HUD will not fund the application.

4. Correction to Deficient Applications

See the General Section.

C. Anticipated Announcement and Award Dates

Announcements of awards are anticipated on or before September 30, 2008.

VI. Award Administration Information

A. Award Notice

After all selections have been made, HUD will notify all winning applicants in writing. HUD may require winning applicants to participate in additional negotiations before receiving an official award. For further discussion on this matter, please refer to the General Section.

B. Administrative and National Policy Requirements

1. Debriefing. The General Section provides the procedures for requesting a debriefing. All requests for debriefings must be made in writing to: Madlyn Wohlman-Rodriguez, Office of University Partnerships, Department of Housing and Urban Development, 451 Seventh Street, SW., Room 8106, Washington, DC 20410-6000. Applicants may also write to Ms. Wohlman-Rodriguez via e-mail at Madlyn.Wohlmanrodriguez@hud.gov.

2. Administrative. Grants awarded under this NOFA will be governed by the provisions of 24 CFR part 84 (Grants and Agreements with Institutions of Higher Education, Hospitals, and Other Non-Profit Organizations), OMB Circular A-21 (Cost Principles for Educational Institutions) and OMB Circular A-133 (Audits of States, Local Governments, and Non-Profit Organizations). Applicants can access the OMB circulars at the White House Web site at http://www.whitehouse.gov/omb/circulars/index.html.

3. OMB Circulars and Governmentwide Regulations Applicable to Financial Assistance Programs. See the General Section for further discussion.

4. Executive Order 13202, Preservation of Open Competition and Government Neutrality Towards Government Contractors' Labor Relations on Federal and Federally Funded Construction Projects. See the General Section for further discussion.

5. Procurement of Recovered Materials. See the General Section for further discussion.

6. Executive Order 13166, Improving Access to Services For Persons With Limited English Proficiency (LEP). Successful applicants may not exclude participants or beneficiaries on the basis of race, color, or national origin under Title VI of the Civil Rights Act. To ensure that program information is accessible to persons with limited English proficiency on the basis of national origin, successful applicants may follow HUD's Final Guidance to Federal Financial Assistance Recipients Regarding Title VI Prohibition Against National Origin Discrimination Affecting Limited English Proficient Persons, 72 FR 2732 (Jan. 22, 2007).

7. Code of Conduct. See the General Section for further discussion.

C. Reporting

1. All grant recipients under this NOFA are required to submit semi-annual progress reports. The progress reports shall consist of three components: a narrative that must reflect the activities undertaken during the reporting period; a financial report that reflects costs incurred by budget line items, as well as a cumulative summary of costs incurred during the reporting period; and a HUD-96010, Program Outcome Logic Model which identifies output and outcome achievements.

2. Applicants selected for funding should also be aware that they will be required to report sub-award information within 30 days of making a sub-award in an amount of $25,000 or greater as required by the Federal Funding Accountability and Transparency Act of 2006 (Public Law 109-282). The Federal Funding Accountability and Transparency Act of 2006 calls for the establishment of a central Web site that makes available to the public full disclosure of all entities receiving federal funds. Applicants should be aware that the law requires the information provided on the federal Web site to include the following elements related to all sub-award transactions $25,000 or greater.

(a) The name of the entity receiving the award;

(b) The amount of the award;

(c) Information on the award, including the transaction type, funding agency, the North American Industry Classification System code or Catalog of Federal Domestic Assistance number (where applicable), program source, and an award title descriptive of the purpose of each funding action;

(d) The location of the entity receiving the award and primary location of performance under the award, including the city, state, congressional district, and country;

(e) A unique identifier (DUNS number) of the entity receiving award and of the parent entity of the recipient (DUNS number of the parent entity) should the entity be owned by another entity;

(f) Federal parent award number and sub-award grant number,

(g) The tier level the sub-award was made at; and

(h) Any other relevant information specified by OMB.

There are exceptions for sub-awards less than $25,000 made to individuals or to an entity whose annual expenditures are less than $300,000.

Applicants should also be aware that the sub-award provision carries to all tiers (e.g., a direct award is made by HUD to an organization that in turn makes an award to another organization that then makes another award and so on). Collection of the tier level at which the award is made as well as federal parent award number can help in tracing the sub-award data as it tiers down several levels. Sub-award reporting requirements to meet the Federal Funding Accountability Transparency Act of 2006 requirements will be finalized through a future Federal Register notice.

VII. Agency Contacts

Applicants may contact Madlyn Wohlman-Rodriguez at (202) 402-5939 or Susan Brunson, at (202) 402-3852. Persons with speech or hearing impairments may call the Federal Information Relay Service (TTY) at (800) 877-8339. Except for the “800” number, these numbers are not toll-free. Mail to: Applicants may also reach Ms. Rodriguez via e-mail at Madlyn.Wohlmanrodriguez@hud.gov and/or Ms. Brunson at Susan.S.Brunson@hud.gov.

VIII. Other Information

Paperwork Reduction Act

The information collection requirements contained in this document have been approved by the Office of Management and Budget (OMB) under the Paperwork Reduction Act of 1995 (44 U.S.C. 3501-3520) and assigned OMB control number 2528-0198. In accordance with the Paperwork Reduction Act, HUD may not conduct or sponsor, and a person is not required to respond to, a collection of information unless the collection displays a currently valid OMB control number. Public reporting burden for the collection of information is estimated to average 59 hours per annum per respondent for the application and grant administration. This includes the time for collecting, reviewing, and reporting the data for the application semi-annual and final reports. The information will be used for grantee selection and monitoring the administration of funds. Response to this request for information is required in order to receive the benefits to be derived.

Alaska Native/Native Hawaiian Institutions Assisting Communities (AN/NHIAC) Program

Overview Information

A. Federal Agency Name: Department of Housing and Urban Development, Office of Policy Development and Research, Office of University Partnerships.

B. Funding Opportunity Title: Alaska Native/Native Hawaiian Institutions Assisting Communities (AN/NHIAC) Program.

C. Announcement Type: Initial announcement.

D. Funding Opportunity Numbers: FR-5200-N-13; OMB Approval Number is 2528-0206.

E. Catalog of Federal Domestic Assistance (CFDA) Number: The CFDA Number for this program is 14.515.

F. Dates: The application deadline date is July 2, 2008. Applications must be received and validated by Grants.gov by 11:59:59 p.m. eastern time on the deadline date. Please be sure to read the General Section, published March 19, 2008 (73 FR 14882), for electronic application submission and receipt requirements.

G. Additional Overview Content Information

1. Purpose of the Program. To assist Alaska Native/Native Hawaiian Institutions (AN/NHI) of Higher Education expand their role and effectiveness in addressing community development needs in their localities, including neighborhood revitalization, housing, and economic development, principally for persons of low- and moderate-income, consistent with the purposes of Title I of the Housing and Community Development Act of 1974 (42 U.S.C. et seq.) as amended.

2. Award Information. In Fiscal Year (FY) 2008, approximately $3 million has been made available for this program by the Consolidated Appropriations Act, 2008 (Pub. L. 110-161). An applicant can request up to $800,000 for a three-year (36 months) grant performance period.

3. Eligible Applicants. Nonprofit Alaska Native and Native Hawaiian Institutions of Higher Education that meet the definitions of Alaska Native and Native Hawaiian Institutions of Higher Education established in Title III, Part A, Section 317 of the Higher Education Act of 1965, as amended by the Higher Education Amendments of 1998 (Pub. L. 105-244; enacted October 7, 1998). Institutions are not required to be on the list of eligible AN/NHIs prepared by the U.S. Department of Education. However, an institution that is not on the list is required to provide a statement in the application that the institution meets the U.S. Department of Education's statutory definition of an AN/NHI. In order to meet the definition of an Alaska Native Institution, at least 20 percent of the undergraduate headcount enrollment must be Alaska Native students. If an applicant is a Native Hawaiian Institution, at least 10 percent of the undergraduate headcount enrollment must be Native Hawaiian students in order to meet this definition. In addition, all applicants must be a two- or four-year institution, fully accredited by a national or regional accrediting agency recognized by the U.S. Department of Education. If an applicant is one of several campuses of the same institution, the applicant may apply separately from the other campuses as long as the campus has a separate DUNS number, administrative structure and budget, and meets the enrollment requirements outlined above.

Full Text of Announcement

I. Funding Opportunity Description

The purpose of the Alaska Native/Native Hawaiian Institutions Assisting Communities (AN/NHIAC) program is to assist Alaska Native/Native Hawaiian Institutions (AN/NHI) of Higher Education expand their role and effectiveness in addressing community development needs in their localities, including neighborhood revitalization, housing, and economic development, principally for persons of low- and moderate-income, consistent with the purposes of Title I of the Housing and Community Development Act of 1974 (42 U.S.C. et seq.) as amended.

A. Authority

HUD's authority for making funding available under this NOFA is the Consolidated Appropriations Act, 2008 (Pub. L. 110-161). This program is being implemented through this NOFA and the policies governing its operation are contained herein.

B. Modifications

Listed below are major modifications from the Fiscal Year (FY) 2007 program funding announcement:

1. Abstract and budget narrative must be electronically submitted and formatted to fit an 8½-by-11-inch page. Responses must be double-spaced, with one inch margins (for the top, bottom, left, and right sides of the document), using the standard Times New Roman 12-point font.

2. Project budgets will be evaluated and scored under Factor 3, Soundness of Approach. HUD will assess the applicant's budget in relation to its quality, thoroughness, reasonableness, and rationality to the proposed project.

3. Applicants that propose ineligible activities will not be disqualified, but will not receive points under Factor 3 Soundness of Approach for the ineligible activities. HUD reserves the right to deduct points under this factor for those activities and/or not fund an application if the majority of the activities are ineligible.

4. Applicants that have no external leveraging resources (the institution is not considered an external resource) under Factor 4 Leveraging Resources/Developing Partnerships will receive no points under this factor.

5. Applicants must ensure that 51 percent or more of all funds awarded will be utilized for the community and/or general public. These funds are not for the direct benefit of the institution.

II. Award Information

In FY2008, approximately $3 million is made available for this program. HUD will award grants under this program to Alaska Native Institutions (ANI) and Native Hawaiian Institutions (NHI). An applicant can request up to $800,000 for a three-year (36 months) grant performance period.

III. Eligibility Information

A. Eligible Applicants

Nonprofit Alaska Native and Native Hawaiian Institutions of Higher Education that meet the definitions of Alaska Native and Native Hawaiian Institutions of Higher Education established in Title III, Part A, Section 317 of the Higher Education Act of 1965, as amended by the Higher Education Amendments of 1998 (Pub. L. 105-244; enacted October 7, 1998). Institutions are not required to be on the list of eligible AN/NHIs prepared by the U.S. Department of Education. However, an institution that is not on the list is required to provide a statement in the application that the institution meets the U.S. Department of Education's statutory definition of an AN/NHI. In order to meet the definition of an Alaska Native Institution, at least 20 percent of the undergraduate headcount enrollment must be Alaska Native students. If an applicant is a Native Hawaiian Institution, at least 10 percent of the undergraduate headcount enrollment must be Native Hawaiian students in order to meet this definition. In addition, all applicants must be a two- or four-year institution, fully accredited by a national or regional accrediting agency recognized by the U.S. Department of Education. If an applicant is one of several campuses of the same institution, the applicant may apply separately from the other campuses as long as the campus has a separate DUNS number, administrative structure and budget, and meets the enrollment requirements outlined above.

B. Cost Sharing or Matching. None required.

C. Other

1. Eligible Activities: Eligible activities are listed in 24 CFR part 570, subpart C, particularly § 570.201 through § 570.206. Information regarding these activities can be found online at: http://www.access.gpo.gov/nara/cfr/waisidx_06/24cfr570_06.html.

a. Eligible activities include, but are not limited to:

(1) Acquisition of real property;

(2) Clearance and demolition;

(3) Rehabilitation of residential structures, including lead-based paint hazard evaluation and reduction and making accessibility and modifications in accordance with the requirements of Section 504 of the Rehabilitation Act of 1973 (29 U.S.C. 794) and visitability modifications in accordance with the policy priorities described in the General Section;

(4) Acquisition, construction, reconstruction, rehabilitation, or installation of public facilities and improvements, such as water and sewer facilities and streets, and compliance with accessibility requirements, such as those under Section 504 of the Rehabilitation Act of 1973 (29 U.S.C. 794) and the Americans with Disabilities Act of 1990 (42 U.S.C. 12101);

(5) Direct homeownership assistance to low- and moderate-income persons, as provided in section 105(a)(25) of the Housing and Community Development Act of 1974 (42 U.S.C. 5305(a)(25));

(6) Special economic development activities described at 24 CFR 570.203 and assistance to facilitate economic development by providing technical or financial assistance for the establishment, stabilization, and expansion of microenterprises, including minority enterprises;

(7) Assistance to community-based development organizations (CBDO) to carry out neighborhood revitalization, community economic development, or energy conservation projects, in accordance with 24 CFR 570.204. This could include activities in support of a HUD-approved local entitlement grantee, CDBG Neighborhood Revitalization Strategy (NRS) or HUD-approved State CDBG Community Revitalization Strategy (CRS);

(8) Public service activities such as general support activities that can help to stabilize a neighborhood and contribute to sustainable redevelopment of the area, including but not limited to such activities as those concerned with employment, crime prevention, child care, health care services, drug abuse, education, housing counseling, energy conservation, homebuyer down payment assistance, establishing and maintaining Neighborhood Network centers in federally assisted or insured housing, job training and placement, and recreational needs;

(9) Fair housing services designed to further the civil rights objectives of the Fair Housing Act (42 U.S.C. 3601-20) by making all persons, without regard to race, color, religion, sex, national origin, familial status, and/or disability aware of the range of housing opportunities available to them; and

(10) Up to 20 percent of the grant may be used for payments of reasonable grant administrative costs related to planning and executing the project (e.g., preparation/submission of HUD reports, etc.). Detailed explanations of these costs are provided in the OMB circular A-21, Cost Principles for Educational Institutions that can be accessed at the White House Web site at: http://www.whitehouse.gov/omb/circulars/index.html.

b. Each activity proposed for funding must meet the Community Development Block Grant (CDBG) program eligibility requirements and at least one of the three CDBG national objectives. The three national objectives of the CDBG program are listed in Rating Factor 3 in Section V.A.3 of this NOFA.

Criteria for determining whether an activity addresses one or more of these objectives are provided at 24 CFR 570.208.

c. The CDBG publication entitled “Community Development Block Grant Program Guide to National Objectives and Eligible Activities for Entitlement Communities” describes the CDBG regulations, and a copy can be obtained online at: http://www.hud.gov/offices/cpd/communitydevelopment/library/deskguid.cfm.

2. Threshold Requirements Applicable to all Applicants. All applicants must comply with the threshold requirements as defined in the General Section and the requirements listed below. Applications that do not meet these requirements will be considered ineligible for funding and will be disqualified.

a. The applicant must meet the eligibility requirements as defined in Section III.A.

b. The maximum amount an applicant can request is $800,000 for a three-year (36 months) grant performance period.

c. An applicant must have a separate DUNS number to receive HUD grant funds (See the General Section). Only one application can be submitted per campus. If multiple applications are submitted, all will be disqualified. However, different campuses of the same university system are eligible to apply as long as they have a separate DUNS number and an administrative and budgeting structure independent of the other campuses in the system and meet the enrollment requirements as defined in Section III.A.

d. Institutions that received grants in FY 2007 are not eligible to submit an application under this NOFA.

e. Applicants must receive a minimum score of 75 points to be considered for funding.

f. Electronic applications must be received and validated by Grants.gov no later than 11:59:59 p.m. eastern time on the application deadline date.

3. Program Requirements. Applicants must meet the following program requirements:

a. All funds awarded are for a three-year (36 months) grant performance period;

b. Applicants must ensure that not less than 51 percent of the aggregated expenditures of a grant award are used to benefit low- and moderate-income persons under the criteria specified in 24 CFR 570.208(a)(ii) or 570.208(d)(5) or (6);

c. Applicants must ensure that 51 percent or more of all funds must be utilized for community/ general public use. These funds are not for the direct benefit of the institution;

d. Applicants that propose to construct new housing or rehabilitate existing housing must ensure that their project and/or facilities are operated in accordance with applicable design and construction requirements, including either the Fair Housing Act and/or Section 504 of the Rehabilitation Act of 1973 and corresponding HUD implementing regulations. Please note that in situations where both the Fair Housing Act design and construction accessibility requirements and Section 504 design and construction accessibility requirements apply, applicants must apply both standards to obtain maximum accessibility; and

e. Applicants that propose non-housing programs and facilities must ensure that their projects are operated in compliance with the requirements of Section 504 of the Rehabilitation Act of 1973, the American with Disabilities Act (ADA), the Architectural Barriers Act (ABA), and corresponding HUD implementing regulations. Note that the accessibility standard for non-housing projects is the Uniform Federal Accessibility Standards (UFAS).

4. Site Control. Where grant funds will be used for acquisition, rehabilitation, or new construction, an applicant must demonstrate site control. Funds may be recaptured or deobligated from recipients that cannot demonstrate control of a suitable site within one year after the initial notification of award.

5. Environmental Requirements. Selection for award does not constitute approval of any proposed sites. Following selection for award, HUD will perform an environmental review of properties proposed for assistance in accordance with 24 CFR part 50. The results of the environmental review may require that proposed activities be modified or proposed sites be rejected. Applicants are particularly cautioned not to undertake or commit funds for acquisition or development of proposed properties prior to HUD approval of specific properties or areas. An application constitutes an assurance that the institution will assist HUD to comply with 24 CFR part 50; will supply HUD with all available and relevant information to perform an environmental review for each proposed property; will carry out mitigating measures required by HUD or select alternate property; and will not acquire, rehabilitate, convert, demolish, lease, repair, or construct property, and not commit or expend HUD or local funds for these program activities with respect to any eligible property until HUD's written approval of the property is received. Applicants should use the protocol at: http://www.hud.gov/utilities/intercept.cfm?/offices/cpd/environment/review/protocol.pdf to supply HUD with the information needed for HUD to start and complete the environmental review. Further information and assistance on HUD's environmental requirements is available at http://www.hud.gov/offices/cpd/environment/index.cfm.

6. Lead-Based Paint Requirements. Institutions and their sub-grantees, contractors, and subcontractors must comply with the Lead-Based Paint Poisoning Prevention Act (42 U.S.C. 4821-4846), the Residential Lead-Based Paint Hazard Reduction Act of 1992 (42 U.S.C. 4851-4856), and relevant subparts of the implementing regulations at 24 CFR part 35, such as subparts A, B, J, K and R, which apply to activities under this grant program.

7. Labor Standards. Institutions and their sub-grantees, contractors, and subcontractors must comply with the labor standards (Davis-Bacon) requirements referenced in 24 CFR 570.603.

8. Economic Opportunities for Low- and Very-Low-Income-Persons (Section 3). The provisions of Section 3 of the Housing and Urban Development Act of 1968 (12 U.S.C. 1701u) apply to this NOFA. One of the purposes of the assistance is to give to the greatest extent feasible and consistent with existing federal, state, and local laws and regulations, job training, employment, contracting and other economic opportunities to Section 3 residents and Section 3 business concerns. See the Section 3 Regulations located at 24 CFR 135.36.

9. Affirmatively Furthering Fair Housing Requirements. Under Section 808(e)(5) of the Fair Housing Act, HUD has a statutory duty to affirmatively further fair housing. HUD requires the same of its funding recipients. If you are a successful applicant proposing housing-related activities, you will have a duty to affirmatively further fair housing opportunities for classes protected under the Fair Housing Act. Protected classes include race, color, national origin, religion, sex, disability, and familial status. For example: (1) Working with other entities in the community to overcome impediments to fair housing, such as discrimination in the sale or rental of housing or in advertising, provision of brokerage services, or lending; (2) Promoting fair housing choice through the expansion of homeownership opportunities and improved quality of services for minorities, families with children, and persons with disabilities; or (3) Providing housing mobility counseling services.

IV. Application Instruction and Submission Information

A. Instructions to Download Application Package

Applicants may download the instructions to the application found on the Grants.gov Web site at http://www.grants.gov./applicants/apply_for_grants.jsp. If you have difficulty accessing the information you may call the Grants.gov Support Desk toll-free (800) 518-GRANTS or e-mail your questions to Support@Grants.gov. See the General Section for information regarding the registration process or ask for registration information from the Grants.gov Support Desk.

B. Application Content and Forms for Submission

1. Application Content. Applications must consist of the following elements: abstract, narrative, budget, budget narrative, and forms. Applicants that received a wavier of the electronic application submission requirement must submit their application in the order below. Copies of the instructions and all forms are available online at http://www.grants.gov/applicants/apply_for_grants.jsp.

a. SF-424, Application for Federal Assistance. Please remember the following:

(1) The full grant amount requested from HUD (entire three years) should be entered, not the amount for just one year;

(2) Include the name, title, address, telephone number, facsimile number, and e-mail address of the designated contact. This is the person who will receive all correspondence regarding the content of the application from HUD; therefore, please ensure the accuracy of the information;

(3) The Employer Identification/Tax ID;

(4) The DUNS Number;

(5) The Catalog of Federal Domestic Assistance Number for this program is 14.515;

(6) The project's proposed start date and completion date. For the purpose of this application, the program start date should be October 1, 2008; and

(7) The signature of the Authorized Organization Representative (AOR) who, by virtue of submitting an application via Grants.gov, has been authenticated by the credential provider to submit applications on behalf of the institution and approved by the eBusiness Point of Contact to submit an application via Grants.gov. The AOR must be able to make a binding legal agreement with HUD.

b. Abstract. Applicants must include no more than a two-page, doubled-spaced summary of the proposed project. Please include the following:

(1) A clear description of each proposed project activity, where it will take place (be located), the target population that will be served, and the impact this project is expected to have on the community;

(2) A statement that the institution is an eligible applicant because it is a two- or four-year fully accredited institution, the name of the accrediting agency and an assurance that the accrediting agency is recognized by the U.S. Department of Education;

(3) A statement that the institution meets the definition of an Alaska Native Institution, or a Native Hawaiian Institution, as appropriate;

(4) The designated contact person, including phone number, facsimile number, and e-mail address (this is the person who will receive all correspondence regarding the content of this application from HUD; therefore, please ensure the accuracy of the information); and

(5) The project director, if different from the designated contact person, for the project, including phone number, facsimile number, and e-mail address.

c. Narrative statement addressing the rating factors. HUD will use the narrative response to the “Rating Factors” to evaluate, rate, and rank applications. This NOFA has five rating factors that need to be addressed. The narrative statement is the main source of information. Applicants are advised to review each factor carefully for program-specific requirements. All applicants submitting electronic applications must attach their narrative responses to Rating Factors 1-4 as one attachment. Remember, Factor 5 is addressed by using the HUD-96010, Program Outcome Logic Model form. Please do not repeat material in response to factors 1-3; instead, focus on how well the proposal responds to each of the factors. The response to each factor should be concise and contain only information relevant to the factor, yet detailed enough to address each factor fully. Where there are subfactors, each subfactor must be addressed and presented separately, with the short title/name of the subfactor presented. Make sure to address each subfactor and provide sufficient information about every element of the subfactor. Do not include any individual's Social Security Numbers in your application. The narrative section of an application must be submitted electronically. It must not exceed 50 pages in length (excluding forms, budget narrative, assurances, and abstract) and must be formatted to fit an 8½-by-11-inch page. Responses must be double-spaced (information submitted in chart format does not have to be doubled-spaced) with one inch margins (for the top, bottom, left and right sides of the document), using the standard Times New Roman 12-point font. Each page of the application must include the applicant's name and be numbered. Note that although submitting pages in excess of the page limit will not disqualify an applicant, HUD will not consider the information on any excess pages. This exclusion may result in a lower score or failure to meet a threshold requirement. Please do not attach your response to each factor separately. Please follow the instructions on use of zip files, file extension, and file names in the General Section. File names should not contain spaces or special characters.

d. Budget. The budget submission must include the following:

(1) HUD-424-CB, “Grant Application Detailed Budget.” This form shows the total budget by year and by line item for the program activities to be carried out with the proposed HUD grant. Each year of the program should be presented separately. Applicants must also budget for travel cost (airfare, lodging, and per diem) for two individuals to attend at least one HUD-sponsored AN/NHIAC conference/workshop every year of the three-year grant performance period. To calculate travel expenses, applicants should use Washington, DC as the site of all conferences/workshops.

Applicants must also submit form HUD-424-CB to reflect the total cost (summary) for the entire grant performance period (Grand Total).

Make sure that the amounts shown on the SF-424, HUD-424-CB, and budget narrative are consistent and the budget totals are correct. Remember to check addition in totaling the categories on all forms so that all items are included in the total. If there is any inconsistency between any of the required budget forms and/or budget narrative, the amounted listed on the HUD-424-CB will be the amount HUD will use to calculate the amount the applicant is requesting for funding. All budget forms must be fully completed. If an application is selected for award, the applicant may be required to provide greater specificity to the budget during grant agreement negotiations.

(2) Budget Narrative. A narrative must be submitted that explains how the applicant arrived at the cost estimates for all line items. This information must be electronically submitted and formatted to fit an 8½-by-11-inch page. Responses must be doubled-spaced, with one inch margins (for the top, bottom, left and right sides of the document), using the standard Times New Roman 12-point font. Project budgets will be evaluated and scored under Factor 3, Soundness of Approach. HUD will assess the soundness of an applicant's approach by evaluating the quality, thoroughness, reasonableness, and rationality of the proposed project budget. In addition, please provide the name, if known, hourly or daily rate, and the estimated time that will be devoted on the project for each consultant. For example, an applicant proposes to construct a building using HUD funding totaling $200,000. The following cost estimates reflect this total: Foundation cost $75,000, electrical work $40,000, plumbing work $40,000, finishing work $35,000, and landscaping $10,000. The proposed cost estimates should be reasonable for the work to be performed and consistent with rates established for the level of expertise required to perform the work proposed in the geographical area. When necessary, quotes from various vendors or historical data should be used (please make sure they are kept on file and are available for review by HUD at any time). When an applicant proposes to use a consultant, the applicant must indicate whether there is a formal written agreement. Applicants must use cost estimates based on historical data from the institution and/or from a qualified firm (e.g., architectural or engineering firm), vendor, and/or qualified individual (e.g., independent architect or contractor) other than the institution for a project that involves rehabilitation of residential, commercial and/or industrial structures, and/or acquisition, construction, or installation of public facilities, and improvements. Such an entity must be involved in the business of housing rehabilitation, construction, and/or management. Equipment and contracts cannot be presented as a total estimated cost. For equipment, applicants must provide a list by type and cost for each item. Applicants using contracts must provide an individual description and cost estimate for each contract. Construction costs must be broken down to indicate how funds will be utilized (e.g., demolition, foundation, exterior walls, roofing, electrical work, plumbing, finishing work, etc.).

(3) Indirect costs. Indirect costs, if applicable, are allowable based on an established approved indirect cost rate. Applicants must have on file, and submit to HUD if selected for award, a copy of their approved indirect cost rate agreement. Applicants who are selected for funding that do not have an approved indirect cost rate agreement, established by the cognizant federal agency, will be required to establish a rate. In such cases, HUD will issue an award with a provisional rate and assist applicants with the process of establishing a final rate.

e. Appendix. The appendix section of the application must not exceed 15 pages in length (excluding forms, budget narrative, and assurances). Each page must include the applicant's name and be numbered. An applicant should not submit resumes, letters of support, commitment letters, memoranda of understanding and/or agreements, or other back-up materials to supplement the application's narrative. If this information is included, it will not be considered during the review process. HUD will not consider the information on any excess pages. The additional items will also slow the transmission of your application.

2. Forms. The following forms are required for submission. All required forms are contained in the electronic application package. Applicants receiving a waiver of the electronic submission requirements and submitting a paper copy of the application must place all required forms in the appendix section of the application.

a. SF-424 Supplement, Survey on Ensuring Equal Opportunities for Applicants (“Faith Based EEO Survey'' (SF-424 SUPP) on Grants.gov);

b. SF-LLL, Disclosure of Lobbying Activities, if applicable;

c. HUD-27300, Questionnaire for HUD's Removal of Regulatory Barriers (“HUD Communities Initiative Form” on Grants.gov), if applicable;

d. HUD-2880, Applicant/Recipient Disclosure/Update Report (“HUD Applicant Recipient Disclosure Report” on Grants.gov), if applicable;

e. HUD-2990, Certification of Consistency with RC/EZ/EC-II Strategic Plan, if applicable;

f. HUD-2991, Certification of Consistency with the Consolidated Plan, if applicable;

g. HUD-2993, Acknowledgement of Applicant Receipt. Complete this form only if you have received a waiver to the electronic application submission requirement. Applicants submitting electronically are not required to include this form;

h. HUD-2994-A, You Are Our Client! Grant Applicant Survey. Applicants are not required to complete this form;

i. HUD-96010, Program Outcome Logic Model; and

j. HUD-96011, Third Party Documentation Facsimile Transmittal (“Facsimile Transmittal Form” on Grants.gov). This form must be used as the cover page to transmit third party documents and other information. Applicants are advised to download the application package and complete the SF-424, which will pre-populate the Transmittal Cover page. The Transmittal Cover page will contain a unique identifier embedded in the page that will help HUD associate your faxed materials to your application. Please do not use your own fax sheet. HUD will not read any faxes that are sent without the HUD-96011 fax transmittal cover page.

3. Certifications and Assurances. Please read the General Section for detailed information on all Certifications and Assurances. All applications submitted through Grants.gov constitute an acknowledgement and agreement to all required certifications and assurances.

C. Submission Dates and Times

A complete application package must be received and validated electronically by the Grants.gov portal no later than 11:59:59 p.m. eastern time on July 2, 2008, the application deadline date. In an effort to address any issues with transmission of your applications, applicants are strongly encouraged to submit their applications at least 48 to 72 hours prior to the application deadline. This will allow an applicant enough time to make the necessary adjustments to meet the submission deadline in the event Grants.gov rejects the application. Please see the General Section for further instructions. Electronic faxes using the Facsimile Transmittal Cover Sheet (Form HUD-96011) contained in the electronic application must be received no later than 11:59:59 p.m. eastern time on the application deadline date.

D. Intergovernmental Review

This program is excluded from the Intergovernmental Review process.

E. Funding Restrictions

Ineligible CDBG activities are listed at 24 CFR 570.207. Ineligible activities include but are not limited to the following:

1. New construction of public housing;

2. General government expenses;

3. Political activities;

4. Planning and administrative activities that would result in a grantee exceeding the 20 percent cost limitations (e.g., preparation/submission of HUD reports);

5. Development and/or expansion of an institution's existing curriculum when it is primarily to enhance the institution rather than to achieve the specific goals/objectives of the proposed project; and

6. Construction, renovation, expansion of an institution's own facilities.

F. Other Submission Requirements

1. Application Submission and Receipt Procedure. Please read the General Section carefully and completely for the submission and receipt procedures for all applications because failure to comply may disqualify your application.

2. Waiver of Electronic Submission Requirements. Applicants should submit their waiver requests in writing using e-mail or fax. Waiver requests must be submitted no later than 15 days prior to the application deadline date and should be submitted to: Susan Brunson, Office of University Partnerships, E-mail: Susan.S.Brunson@hud.gov, FAX: (202) 708-0309.

Paper applications will not be accepted from applicants that have not been granted a waiver. If an applicant is granted a waiver, the Office of University Partnerships (OUP) will provide instructions for submission. All applicants submitting applications in paper format must have received a waiver to the electronic application submission requirement and the application must be received by HUD on or before the application deadline date. All paper applications must be submitted on 8½-by-11-inch paper, double-spaced, on one side of the paper, with one inch margins (for the top, bottom, left, and right sides of the document), and printed in standard Times New Roman 12-point font.

V. Application Review Information

A. Criteria

1. Rating Factor 1: Capacity of the Applicant and Relevant Experience (25 Points). This factor addresses the extent to which the applicant has the resources, experience, and capacity necessary to successfully complete the proposed project by the end of the grant performance period.

a. Knowledge and Experience. For First Time Applicants (25 Points); For Previously Funded Applicants (13 Points). In rating this subfactor, HUD will consider the extent to which the applicant clearly addresses the following:

(1) Identifies key project team members/staff and partners, their title and name (e.g., project manager/coordinator—Sally Susan Smith, etc.), respective roles, and time each will allot to this project.

If key personnel have not been hired, identify the position title, description of duties and responsibilities, and qualifications to be considered in the selection of personnel, including subcontractors and consultants;

(2) Describes the knowledge and relevant experience of the proposed project team members/staff and partners (as outlined above) that will conduct the day-to-day project activities, consultants (including technical assistance providers), and contractors in planning and managing the type of project for which funding is being requested; and

(3) Explains the institution's experience and capacity to administer and monitor the type of project for which funding is being requested.

Applicant's staff and partners' experience and capacity to do the work will be judged in terms of recent and relevant knowledge and skills to undertake eligible program activities. HUD will consider experience within the last five (5) years to be recent and experience pertaining to similar activities to be relevant.

b. Past Performance (12 Points); For Previously Funded Applicants Only. This subfactor will evaluate how well an applicant has performed successfully under completed and/or open HUD AN/NHIAC grants. Applicants must demonstrate this by addressing the following information for all previously completed and open HUD AN/NHIAC grants:

(1) A list of all HUD AN/NHIAC grants received, including the dollar amount awarded and the amount expended and obligated as of the date the application is submitted;

(2) A list detailing the date the project(s) was completed; was it completed during the original three-year grant performance period; if not completed, why (including when it was or will be completed); if the project is still in progress, provide details on the project's current status;

(3) A description of the achieved results (outcomes) consistent with the approved project management plan. If not completed as proposed, explain why;

(4) A list comparing the amount of proposed leveraged funds and/or resources (outlined in the original application) to the amount that was actually leveraged as of the date the application is submitted; and

(5) A detailed description of compliance with all reporting requirements, including timeliness of submission, whether reports were complete and addressed all information (both narrative and financial) as required by the grant agreement.

HUD will also review an applicant's past performance in managing funds, including but not limited to the ability to account for funding appropriately; timely use of funds received from HUD; meeting performance targets for completion of activities; timely submission of required reports; compliance with the program's terms and conditions; and receipt of promised leveraged resources. In evaluating past performance, HUD reserves the right to deduct up to ten (10) points from this rating score as a result of the information obtained from HUD's records (i.e., progress and financial reports, monitoring reports, Program Outcome Logic Model submissions, and amendments).

2. Rating Factor 2: Need/Extent of the Problem (8 Points).

a. This factor addresses the extent to which there is a need for funding the proposed project and an indication of the importance of meeting the need(s) in the target area. The need(s) described must be relevant to the activities for which funds are being requested. In addressing this factor, applicants should provide, at a minimum, the following and cite statistics and/or analyses contained in at least one or more current, sound, and reliable data sources:

(1) Describe the need(s); and

(2) Describe the importance of meeting the proposed needs.

b. In rating this factor, HUD will consider only current data that is specific to the area where the proposed project activities will be carried out. Sources for localized data can be found online at: http://www.ffiec.gov.

c. HUD will consider data collected within the last five (5) years to be current. However, applicants must utilize the most current version of the data source(s) that exists. To the extent that the targeted community's Five (5) Year Consolidated Plan and Analysis of Impediments to Fair Housing Choice (AI) identify the level of the problem and the urgency in meeting the need, applicants should include references to these documents in the response to this factor.

Other reliable data sources include, but are not limited to, Census reports, law enforcement agency crime reports, Public Housing Agencies' Comprehensive Plans, community needs analyses such as provided by the United Way, the applicant's institution, and other sound, reliable, and appropriate sources. Needs in terms of fulfilling court orders or consent decrees, settlements, conciliation agreements, and voluntary compliance agreements may also be addressed.

3. Rating Factor 3: Soundness of Approach (45 Points). This factor addresses the soundness, quality, and effectiveness of the proposed work plan and the commitment of the applicant to sustain the proposed project activity(s). Points are awarded under this factor for the quality of the activities proposed in relation to the need/problem identified in Factor 2, not for the number of activities proposed. In addition, if the activities proposed are not eligible, HUD reserves the right to deduct points under this factor for those activities and/or not fund an application if the majority of the activities are ineligible.

a. (30 Points) Quality of the Work Plan. This subfactor will be evaluated on the extent to which an applicant provides a clear detailed description of the proposed project activities, the anticipated results (outcomes), and the impact they will have on the target population at the end of the grants performance period.

(1) (25 Points) Specific Activities. The work plan must describe all proposed project activities and major tasks (steps to complete the proposed activities) required to successfully implement the proposed project. The work plan must also identify the anticipated measurable outcomes these activities will have on the target population. In addressing this subfactor, HUD will consider the following:

(a) Identify the method/planning strategy(ies) used during the development of this application. Describe in detail how the proposed project/activities to be undertaken were identified. List all individuals/organizations that were involved in the planning process for this project and their roles;

(b) Describe each proposed project activity in measurable terms (e.g., the number of homes that will be renovated, the number of jobs created, etc.);

(c) Identify the major tasks (steps to complete the proposed activities) required in sequential order to successfully implement and complete each proposed project activity. Include target completion dates for these tasks (in 6-month intervals, up to 36 months, e.g., to develop a training program the following steps may occur: hiring staffing, purchasing supplies, developing curricula/training modules, conducting training, etc.);

(d) Identify the key team members/staff and partners, as identified in Factor 1, who will be responsible and accountable for completing each task;

(e) List and describe how each activity meets one of the following Community Development Block Grant (CDBG) program national objectives:

• Benefit low- and moderate-income persons;

• Aid in the prevention or elimination of slums or blight; or

• Meet other community development needs having a particular urgency because existing conditions pose a serious and immediate threat to the health and welfare of the community, and other financial resources are not available to meet such needs.

Criteria for determining whether an activity addresses one or more objectives are provided at 24 CFR 570.208; and

(f) Describe the measurable impact (outcomes) that implementing each activity will have or is expected to have on the target population by the end of the grant performance period (e.g., number of individuals employed as of training; number of new homeowners as a result of the number of houses that were built or rehabilitated, etc.).

(2) (5 Points) Describe clearly how each proposed activity will:

(a) Expand the role of the institution in the target community;

(b) Address the needs identified in Factor 2; and

(c) Relate to and not duplicate other activities in the target area. Duplicative efforts will be acceptable only if an applicant can demonstrate through documentation that there is a population in need that is not being served.

b. (3 Points) Involvement of the Faculty and Students. The applicant must describe in detail how it proposes to integrate the institution's students (this excludes students that are project recipients/participants) and faculty into the proposed project activities.

c. (4 Points) Involvement of the Community. The applicant must describe in detail how the community was involved in the planning of the proposed project and how they will be involved in its implementation (e.g., development of an advisory committee that includes representatives of the target community). The applicant must identify the specific roles individuals will play in all stages of the project. Community involvement must be representative of the target population/community.

d. (2 Points) HUD Policy Priorities. As described in the General Section, to earn points under this subfactor, HUD requires applicants to undertake specific activities that will assist the Department in implementing its policy priorities and that help the Department achieve its goals and objectives in FY 2009. In rating this subfactor, HUD will evaluate the extent to which a project will further and support HUD's priorities. The quality of the responses provided to one or more of HUD's priorities will determine the score an applicant can receive. Applicants must describe how each policy priority selected will be addressed. Applicants that just list a priority will receive no points. Please refer to the General Section for additional information about HUD's policy priorities.

The total number of points an applicant can receive under this subfactor is two (2). Each policy priority addressed has a point value of one (1) point with the exception of the policy priority to remove regulatory barriers to affordable housing, which has a point value of up to two (2) points. To receive these two (2) points, an applicant must: (1) Submit either Part A or Part B (not both) of the completed questionnaire HUD-27300 “HUD's Initiative on Removal of Regulatory Barriers,” found in the General Section, (2) include appropriate documentation, (3) identify a point of contact, and (4) indicate how this priority will be addressed. It is up to the applicant to determine which of the policy priorities they will address in order to receive the available two (2) points.

e. (2 Points) Economic Opportunities for Low- and Very-Low-Income-Persons (Provision of Section 3). This subfactor will be evaluated on the extent to which an applicant describes how it proposes to:

(1) Provide opportunities to train and employ Section 3 residents; and/or

(2) Award contracts to Section 3 contractors (See the regulations at 24 CFR part 135).

Regulations regarding the provision of Section 3 of the Housing and Urban Development Act of 1968 (12 U.S.C. 1701u) are located at 24 CFR 135.36.

f. (4 Points) Budget and Budget Narrative. HUD will assess the soundness of your approach by evaluating the quality, thoroughness, and rationality of the proposed project budget and narrative. The budget narrative must be broken down by line item. Administrative costs must be reflected under the appropriate line items (e.g., salaries, fringe, supplies, costs related to planning and executing the project, preparation/submission of HUD reports, etc.).

4. Rating Factor 4: Leveraging Resources/Developing Partnerships (10 Points). This factor addresses the ability of the applicant to develop partnerships and secure resources that can be combined with HUD's grant funds to achieve the project's purpose.

a. HUD will consider the extent to which the applicant has established partnerships with other entities (other than their institution) to secure additional resources to increase the effectiveness of the proposed project activities. Resources may include funding or in-kind contributions, such as services or equipment, allocated for the purpose(s) of the proposed project activities. Applicants may also establish partnerships with other program funding recipients to coordinate the use of resources in the target area. Overhead and other institutional costs that the institution has waived may be counted. Applicants that have no external leveraging resources (the institution/applicant is not considered an external resource) will receive no points under this factor.

Examples of potential sources for outside assistance include:

—Federal, state, and local governments;

—Local or national nonprofit organizations;

—Financial institutions and/or private businesses;

—Foundations; and/or

—Faith-based and other community-based organizations.

b. To address this factor, an applicant must provide an outline in their application that includes the information listed below of all proposed leveraged resources (including any commitment of resources from the applicant's own institution). Applicants must have on file at the time of application submission the original commitment letters, memoranda of understanding, and/or agreements. Commitment letters, memoranda of understanding, and/or agreements must be dated prior to the application deadline date; if they are dated after the application deadline date they will not be scored.

Each letter, memorandum of understanding, or agreement must include the information below:

(1) The name of the organization and the executive officer authorizing the funds/goods and/or services (only applicable to the narrative section);

(2) The cash amount contributed or dollar value of the in-kind goods and/or services committed (If a dollar amount and its use are not shown, the value of the contribution will not be scored);

(3) A specific description of how each contribution is to be used toward specific proposed activities (including the actual role the partner will have in the proposed project activities for which their contribution will be utilized);

(4) The date the contribution will be made available and a statement that describes the duration of the contribution; and

(5) The signature of the appropriate executive officer authorized to commit the funds and/or goods and/or services. This is only applicable to the original written documentation.

c. Resources will not be counted for which there is no commitment letter, memorandum of understanding, agreement, or quantified level of commitment, and/or when the letter, memorandum of understanding, or agreement does not address ALL of the requirements outlined above. Commitment letters, memoranda of understanding, and/or agreements are not required at the time of application submission but must be on file at the time of application submission. If commitment letters, memoranda of understanding, and/or agreements are included, with the application at time of submission they will not be considered during the review process. However, applicants submitting paper applications must include all letters, memoranda of understanding, and/or agreements in the Appendix of the application. Applicants chosen to proceed to the next step in the selection process for award will be required to submit the signed and dated commitment letters, memoranda of understanding, and/or agreements outlined in the application within five (5) calendar days after initial contact from the OUP. Letters, memoranda of understanding, and/or agreements must be submitted on the provider's letterhead and should be addressed to Sherone Ivey, Associate Deputy Assistant Secretary for University Partnerships. The date of the letter, memorandum of understanding, or agreement from the CEO of the provider organization must be dated no earlier than nine months prior to this published NOFA and no later than the application deadline date. In addition, no points will be awarded for general support letters endorsing the project from organizations, including elected officials on the local, state, or national levels; therefore, please do not include them. OUP will provide specific instructions on how these documents must be submitted when contact is made with the applicant. HUD will only request and consider documents from the resources/organizations that are listed in the outline in the application. If OUP does not receive those documents with the required information within the allotted timeframe, an applicant will not receive points under this factor.

Note: Submission of a grant award notification from another entity/agency in place of a commitment letter, memorandum of understanding, and/or agreement does not meet the requirement of this factor and will not be accepted.

In scoring this factor, HUD will award:

(1) Ten (10) points to an applicant that provides leveraging resources as listed in their application that are 15 percent or more of the amount requested under this program;

(2) Nine (9) points to an applicant that provides leveraging resources as listed in their application that represents 13 to 14 percent of the amount requested under this program;

(3) Eight (8) points to an applicant that provides leveraging resources as listed in their application that represents 11 to 12 percent of the amount requested under this program;

(4) Seven (7) points to an applicant that provides leveraging resources as listed in their application that represents 8 to 10 percent of the amount requested under this program;

(5) Six (6) points to an applicant that provides leveraging resources as listed in their application that represents 6 to 7 percent of the amount requested under this program;

(6) Five (5) points to an applicant that provides leveraging resources as listed in their application that represents 5 percent of the amount requested under this program; and

(7) Zero (0) points to an applicant that provides leveraging resources as listed in their application that is less than 5 percent of the amount requested under this program and/or have no external leveraging recourses (remember, the institution/applicant is not considered an external resource).

5. Rating Factor 5: Achieving Results and Program Evaluation (12 Points). This factor reflects HUD's goal to embrace high standards of management and accountability. It measures the applicant's commitment to assess their performance to achieve the project's proposed objectives and goals. Applicants are required to develop an effective, quantifiable, outcome-oriented evaluation plan for measuring performance and determining that objectives and goals have been achieved by using the HUD-96010, “HUD Program Outcome Logic Model.” The Program Outcome Logic Model is a summary of the narrative statements presented in Factors 1 through 3. Therefore, the information submitted on the Logic Model should be consistent with the information contained in the narrative statements.

In evaluating this factor, HUD will assess the extent to which the applicant demonstrates how results of the project will be measured as outlined in the proposed work plan. To meet this factor requirement, applicants must submit a completed HUD-96010, “Program Outcome Logic Model.” Applicants must select from the list of activities and outcomes to determine their specific methods and measures that will be used to assess progress and evaluate program effectiveness. If an item is not found on the list of activities or outcomes, applicants can select “other” and then insert the activity and/or outcome and unit of measurement. Applicants can use the “other” option for up to three activities and three outcomes. See the instructions tab in the Logic Model for further details. HUD will not accept activities or outcomes selected as “other” that do not contain an identified statement of the activities/outcomes or units of measurement. Utilizing this form will help grantees to ensure that performance measures are being met and they are establishing achievable realistic goals.

a. Program Outcome Logic Model instructions (using a Microsoft Excel™ form) are provided in the forms appended to the Instruction Download from http://www.grants.gov/applicants/apply_for_grants.jsp. Applicants that do not have access to Microsoft Excel™ should contact the NOFA Information Center at (800) HUD-8929. Individuals with hearing or speech impairments may access this number via the toll-free Federal Information Relay Service at (800) 877-8339 and/or The Center for Applied Management Practices at (717) 730-3705 (this is not a toll-free number).

A narrative response is not required for this factor as all applicants must use the logic model form to respond to this factor. However, if a narrative is included, these pages will be included in the page count. HUD has developed a new approach to completing this form. Applicants should also review the Program Outcome Logic Model training, which can be found online at: http://www.hud.gov/webcasts/index.cfm.

b. HUD will review the outputs and outcomes in relation to the needs identified. “Outcomes” are benefits accruing to the community during or after participation in the AN/NHIAC program. Applicants must clearly identify the outcomes to be measured and achieved. Examples of outcomes include increased community development in the target community by a certain percentage, increased employment opportunities in the target community by a certain percentage, increased incomes/wages or other assets for persons trained, and/or provision of stable living environments through the creation of affordable housing opportunities.

Applicants must also establish outputs that lead to the ultimate achievement of outcomes. “Outputs” are the direct products of the program's activities. Examples of outputs are the number of new affordable housing units, the number of homes that have been renovated, and the number of facilities that have been constructed or rehabilitated. Outputs should produce outcomes for the program. At a minimum, an applicant must address the following activities in the evaluation plan:

(1) Measurable outputs to be accomplished (e.g., the number of persons to be trained and employed; houses to be built pursuant to 24 CFR 570.207 or rehabilitated; minority-owned businesses to be started); and

(2) Measurable outcomes the grant will have on the community in general and the target area or population.

Applicants must also reference policy priorities, as stated in response to Factor 3, and relate them to the project's goals, as appropriate.

HUD will evaluate the Program Outcome Logic Model in accordance with the matrix provided in Attachment 1 of the General Section.

B. Review and Selection Process

1. Application Selection Process

Two types of reviews will be conducted:

a. A threshold review to determine an applicant's basic eligibility; and

b. A technical review for all applications that pass the threshold review to rate and rank the application based on the “Rating Factors” listed in Section V. A. Only those applications that pass the threshold review will receive a technical review and be rated and ranked.

2. Rating Panels. To review and rate applications, HUD may establish panels that may include experts or consultants not currently employed by HUD to obtain certain expertise.

3. Ranking. HUD will fund applications in rank order, until all available program funds are awarded. In order to be considered for funding, an applicant must receive a minimum score of 75 points out of a possible 100 points for Factors 1 through 5; plus up to two bonus points that may be awarded for activities conducted in the RC/EZ/EC-II communities, as described in the General Section. If two or more applications have the same number of points, the application with the most points for Factor 3 shall be selected. If there is still a tie, the application with the most points for Factor 4 shall be selected. If there is still a tie, the application with the most points for Factors 1, 2 and then 5 shall be selected, in that order, until the tie is broken. HUD reserves the right to make selections out of rank order to provide for geographic distribution of grantees.

HUD also reserves the right to reduce the amount of funding requested in order to fund as many highly ranked applications as possible. Additionally, if funds remain after funding the highest ranked applications, HUD may fund part of the next highest-ranking application. If an applicant turns down an award offer, HUD will make an award to the next highest-ranking application. If funds remain after all selections have been made, the remaining funds will be carried over to the next funding cycle's competition.

HUD will not fund any portion of an application that is not eligible for funding under regulatory requirements; does not meet the requirements of the NOFA; or may be duplicative of other funded programs or activities/tasks from prior year awards. Only the eligible portions of an application will be funded. When the majority of the activities are ineligible, HUD will not fund the application.

4. Correction to Deficient Applications. See the General Section.

C. Anticipated Announcement and Award Dates

Announcements of awards are anticipated on or before September 30, 2008.

VI. Award Administration Information

A. Award Notices

After all selections have been made, HUD will notify all winning applicants in writing. HUD may require winning applicants to participate in additional negotiations before receiving an official award. For further discussion on this matter, please refer to the General Section.

B. Administrative and National Policy Requirements

1. Debriefing. The General Section provides the procedures for requesting a debriefing. All requests for debriefings must be made in writing to: Sherone Ivey, Office of University Partnerships, Department of Housing and Urban Development, 451 Seventh Street, SW., Room 8106,Washington DC 20410-6000. Applicants may also write to Ms. Ivey via e-mail at Sherone.Ivey@hud.gov.

2. Administrative. Grants awarded under this NOFA will be governed by the provisions of 24 CFR part 84 (Grants and Agreements with Institutions of Higher Education, Hospitals, and Other Non-Profit Organizations), OMB Circular A-21 (Cost Principles for Educational Institutions) and OMB Circular A-133 (Audits of States, Local Governments, and Non-Profit Organizations). Applicants can access the OMB circulars at the White House Web site at: http://www.whitehouse.gov/omb/circulars/index.html.

3. OMB Circulars and Government-wide Regulations Applicable to Financial Assistance Programs. See the General Section for further discussion.

4. Executive Order 13202, Preservation of Open Competition and Government Neutrality Towards Government Contractors' Labor Relations on Federal and Federally Funded Construction Projects. See the General Section for further discussion.

5. Procurement of Recovered Materials. See the General Section for further discussion.

6. Executive Order 13166, Improving Access to Services For Persons With Limited English Proficiency (LEP). Successful applicants may not exclude participants or beneficiaries on the basis of race, color, or national origin under Title VI of the Civil Rights Act. To ensure that program information is accessible to persons with limited English proficiency on the basis of national origin, successful applicants may follow HUD's Final Guidance to Federal Financial Assistance Recipients Regarding Title VI Prohibition Against National Origin Discrimination Affecting Limited English Proficient Persons, 72 Fed. Reg. 2732 (Jan. 22, 2007).

7. Code of Conduct. See the General Section for further discussion.

C. Reporting

1. All grant recipients under this NOFA are required to submit quarterly progress reports. The progress reports shall consist of three components: a narrative that must reflect the activities undertaken during the reporting period; a financial report that reflects costs incurred by budget line item as well as a cumulative summary of cost incurred during the reporting period; and a HUD-96010, Program Outcome Logic Model form, which identifies output and outcome achievements.

2. Applicants selected for funding should also be aware that they will be required to report sub-award information within 30 days of making a sub-award in an amount of $25,000 or greater as required by the Federal Funding Accountability and Transparency Act of 2006 (Public Law 109-282). The Federal Funding Accountability and Transparency Act of 2006 calls for the establishment of a central Web site that makes available to the public full disclosure of all entities receiving federal funds. Applicants should be aware that the law requires the information provided on the federal Web site to include the following elements related to all sub-award transactions $25,000 or greater.

(a) The name of the entity receiving the award;

(b) The amount of the award;

(c) Information on the award, including the transaction type, funding agency, the North American Industry Classification System code or Catalog of Federal Domestic Assistance number (where applicable), program source, and an award title descriptive of the purpose of each funding action;

(d) The location of the entity receiving the award and primary location of performance under the award, including the city, state, congressional district, and country;

(e) A unique identifier (DUNS number) of the entity receiving award and of the parent entity of the recipient (DUNS number of the parent entity) should the entity be owned by another entity;

(f) Federal parent award number and sub-award grant number,

(g) The tier level the sub-award was made at; and

(h) Any other relevant information specified by OMB.

There are exceptions for sub-awards less than $25,000 made to individuals or to an entity whose annual expenditures are less than $300,000.

Applicants should also be aware that the sub-award provision carries to all tiers (e.g., a direct award is made by HUD to an organization that in turn makes an award to another organization that then makes another award and so on). Collection of the tier level at which the award is made as well as federal parent award number can help in tracing the sub-award data as it tiers down several levels. Sub-award reporting requirements to meet the Federal Funding Accountability Transparency Act of 2006 requirements will be finalized through a future Federal Register notice.

VII. Agency Contacts

Applicants may contact Sherone Ivey at (202) 402-4200 or Susan Brunson at (202) 402-3852. Persons with speech or hearing impairments may call the Federal Information Relay Service TTY at (800) 877-8339. Except for the “800” number, these numbers are not toll-free. Applicants may also reach Ms. Ivey via e-mail at Sherone.Ivey@hud.gov. and/or Ms. Brunson at Susan.S.Brunson@hud.gov.

VIII. Other Information: Paperwork Reduction Act

The information collection requirements contained in this document have been approved by the Office of Management and Budget (OMB) under the Paperwork Reduction Act of 1995 (44 U.S.C. 3501-3520) and assigned OMB control number 2528-0206. In accordance with the Paperwork Reduction Act, HUD may not conduct or sponsor, and a person is not required to respond to, a collection of information unless the collection displays a currently valid OMB control number. Public reporting burden for the collection of information is estimated to average 59 hours per annum per respondent for the application and grant administration. This includes the time for collecting, reviewing, and reporting the data for the application, quarterly, and final reports. The information will be used for grantee selection and monitoring the administration of funds. Response to this request for information is required in order to receive the benefits to be derived.

Tribal Colleges and Universities Program

Overview Information

A. Federal Agency Name: Department of Housing and Urban Development, Office of Policy Development and Research, Office of University Partnerships.

B. Funding Opportunity Title: Tribal Colleges and Universities Program (TCUP).

C. Announcement Type: Initial announcement.

D. Funding Opportunity Numbers: FR-5200-N-16; OMB Approval Number: 2528-0215.

E. Catalog of Federal Domestic Assistance (CFDA) Number: The CFDA Number for this program is 14.519.

F. Dates: The application deadline date is July 2, 2008. Applications must be received and validated by Grants.gov by 11:59:59 p.m. eastern time on the deadline date. Please be sure to read the General Section, published March 19, 2008 (73 FR 14882), for electronic application submission and receipt requirements.

G. Additional Overview Content Information

1. Purpose of the Program: To assist Tribal Colleges and Universities (TCU) to build, expand, renovate, and equip their own facilities, and to expand the role of the TCUs into the community through the provision of needed services such as health programs, job training, and economic development activities.

2. Award Information: In Fiscal Year (FY) 2008, approximately $5 million has been made available for this program by Consolidated Appropriations Act, 2008 (Pub. L. 110-161). An applicant can request up to $750,000 for a three-year (36 months) grant performance period.

3. Eligible Applicants: Tribal Colleges and Universities that meet the definition of a TCU established in Title III of the 1998 Amendments to the Higher Education Act of 1965 (Pub. L. 105-244, approved October 7, 1998). Applicants must be a two- or four-year, fully accredited institution or provide a statement in the abstract of the application that states the institution is a candidate for accreditation by a regional institutional accrediting association recognized by the U.S. Department of Education. Institutions that have received three or more grants under this program in the past are not eligible under this NOFA. If an applicant is one of several campuses of the same institution, the applicant may apply separately from the other campuses as long as the campus has a separate DUNS number, administrative structure and budget, and meets the definition of a TCU outlined above.

Full Text of Announcement

I. Funding Opportunity Description

The purpose of this program is to assist Tribal Colleges and Universities (TCU) to build, expand, renovate, and equip their own facilities, and to expand the role of the TCUs into the community through the provision of needed services such as health programs, job training, and economic development activities.

A. Authority

HUD's authority for making funding available under this NOFA is the Consolidated Appropriations Act, 2008 (Pub. L. 110-161). This program is being implemented through this NOFA and the policies governing its operation are contained herein.

B. Modifications

Listed below are major modifications from the Fiscal Year (FY) 2007 program funding announcement.

1. Institutions that have received three or more grants under this program in the past are not eligible to submit an application for funding under this NOFA.

2. Applicants can now request up to $750,000 for a three-year (36 months) grant performance period.

3. Abstract and budget narrative must be electronically submitted and formatted to fit an 8½-by-11-inch page. Responses must be double-spaced, with one-inch margins (for the top, bottom, left and right sides of the document), using the standard Times New Roman 12-point font.

4. Project budgets will be evaluated and scored under Factor 3, Soundness of Approach. HUD will assess the applicant's budget in relation to its quality, thoroughness, reasonableness, and rationality to the proposed project.

5. Applicants that propose ineligible activities will not be disqualified, but will not receive points under Factor 3 Soundness of Approach for the ineligible activities. HUD reserves the right to deduct points under this factor for those activities and/or not fund an application if the majority of the activities are ineligible.

II. Award Information

In FY2008, approximately $5 million is made available by the Consolidated Appropriations Act, 2008 (Pub. L. 110-161). An applicant can request up to $750,000 for a three-year (36 months) grant performance period.

III. Eligibility Information

A. Eligible Applicants

Tribal Colleges and Universities that meet the definition of a TCU established in Title III of the 1998 Amendments to the Higher Education Act of 1965 (Pub. L. 105-244, enacted October 7, 1998). Applicants must be a two- or four-year, fully accredited institution or provide a statement in the abstract of the application that states the institution is a candidate for accreditation by a regional institutional accrediting association recognized by the U.S. Department of Education. Institutions that have received three or more grants under this program in the past are not eligible to submit an application for funding under this NOFA. If an applicant is one of several campuses of the same institution, the applicant may apply separately from the other campuses as long as the campus has a separate DUNS number, administrative structure and budget, and meets the definition of a TCU outlined above.

B. Cost Sharing or Matching. None Required.

C. Other

1. Eligible Activities. Eligible activities include building, expanding, renovating, and equipping facilities owned by the institution (a long-term lease for five years or more in duration is considered an acceptable form of ownership under this program). Buildings for which TCUP funding is used that also serve the community are eligible; however, the facilities must be predominantly (at least 51 percent of the time) for the use of the institution (e.g., students, faculty, and staff). In addition, public services and program delivery activities for the community such as health programs, job training and economic development are eligible activities.

a. Examples of eligible activities include, but are not limited to:

(1) Building a new facility (e.g., classrooms, administrative offices, health and cultural centers, gymnasium, technology centers, etc.);

(2) Renovating an existing or acquired facility;

(3) Expanding an existing or acquired facility;

(4) Equipping university facilities (e.g., lab equipment, library books, furniture, etc.);

(5) Property acquisition;

(6) Health screening;

(7) Homeownership counseling/training;

(8) Technical assistance to establish, expand or stabilize micro-enterprises;

(9) Crime, alcohol and/or drug-abuse prevention activities;

(10) Youth leadership development programs/activities;

(11) Tutoring/mentoring programs;

(12) Child care/development programs;

(13) Cultural activities/programs; and

(14) Up to 20 percent of the grant may be used for payments of reasonable grant administrative costs related to planning and executing the project (e.g., preparation/submission of HUD reports, etc.). Detailed explanations of these costs is provided in OMB circular A-21, Cost Principles for Educational Institutions that can be accessed at the White House Web site at: http://www.whitehouse.gov/omb/circulars/index.html.

b. Each activity proposed for funding must meet at least one of the three Community Development Block Grant (CDBG) program national objectives. The three national objectives of the CDBG program are listed in Rating Factor 3 in Section V.A.3 of this NOFA.

Criteria for determining whether an activity addresses one or more of these national objectives are provided at 24 CFR 570.208.

c. The CDBG publication entitled “Community Development Block Grant Program Guide to National Objectives and Eligible Activities for Entitlement Communities” describes the CDBG regulations, and a copy can be obtained online at: http://www.hud.gov/offices/cpd/communitydevelopment/library/deskguid.cfm.

2. Threshold Requirements Applicable to All Applicants. All applicants must comply with the threshold requirements as defined in the General Section and the requirements listed below. Applications that do not meet these requirements will be considered ineligible for funding and will be disqualified.

a. The applicant must meet the eligibility requirements as defined in Section III.A.

b. The maximum amount an applicant can request is $750,000 for a three-year (36 months) grant performance period.

c. An applicant must have a separate DUNS number to receive HUD grant funds (See General Section). Only one application can be submitted per campus. If multiple applications are submitted, all will be disqualified. However, different campuses of the same university system are eligible to apply as long as they have a separate DUNS number and an administrative and budgeting structure independent of the other campuses in the system.

d. Institutions that have received three or more grants under this program in the past are not eligible to submit an application under this NOFA.

e. Applicants must receive a minimum score of 75 points to be considered for funding.

f. Electronic applications must be received and validated by Grants.gov no later than 11:59:59 p.m. eastern time on the application deadline date.

3. Program Requirements. Applicants must meet the following program requirements:

a. All funds awarded are for a three-year (36 months) grant performance period.

b. Although community-wide use of a facility (that is purchased, equipped, leased, renovated or built) is permissible under this program, the facility must be predominantly for the use of the institution (i.e., it must be used by the staff, faculty, and/or students at least 51 percent of the time).

c. If a TCU is a part or instrumentality of a federally recognized tribe, the applicant must comply with the Indian Civil Rights Act (25 U.S.C. 1301 et seq.) and all other applicable civil rights statutes and authorities as set forth in 24 CFR 1000.12. If the TCU is not a part or instrumentality of a federally recognized tribe, the applicant must comply with the Fair Housing Act (42 U.S.C. 3601-19) and implementing regulations at 24 CFR part 100 et seq., Title VI of the Civil Rights Act of 1964 (42 U.S.C. 2000d-2000d-4) (Nondiscrimination in Federally Assisted Programs) and implementing regulations at 24 CFR part 1, Section 504 of the Rehabilitation Act of 1973, as amended (29 U.S.C. 794) and implementing regulation at 24 CFR part 8, and Section 109 of Title One of the Housing and Community Development Act of 1974 (HCDA), as amended, with respect to nondiscrimination on the basis of age, sex, religion, or disability and implementing regulations at 24 CFR part 6.

4. Labor Standards. Institutions and their sub-grantees, contractors, and subcontractors must comply with the labor standards (Davis-Bacon) requirements referenced in 24 CFR 570.603. However, in accordance with HCDA section 107(e)(2), the Secretary waives the provisions of HCDA section 110 with respect to TCUP for grants to a TCU that is part of a tribe, i.e., a TCU that is legally a department or other part of a tribal government, but not a TCU that is established under tribal law as an entity separate from the tribal government. If a TCU is not part of a tribe, the labor standards of HCDA section 110, as referenced in 24 CFR 570.603, apply to activities under the grant to the TCU.

5. Environmental Requirements. Selection for award does not constitute approval of any proposed sites. Following selection for award, HUD will perform an environmental review of activities proposed for assistance in accordance with 24 CFR part 50. The results of the environmental review may require that proposed activities be modified or proposed sites be rejected. Applicants are particularly cautioned not to undertake or commit funds for acquisition or development of proposed properties prior to HUD approval of specific properties or areas. An application constitutes an assurance that the institution will assist HUD to comply with Part 50; will supply HUD with all available and relevant information to perform an environmental review for each proposed property; will carry out mitigating measures required by HUD or select alternate property; and will not acquire, rehabilitate, convert, demolish, lease, repair, or construct property and not commit or expend HUD or local funds for these program activities with respect to any eligible property until HUD's written approval of the property is received. Applicants should use the protocol at: http://www.hud.gov/utilities/intercept.cfm?/offices/cpd/environment/review/protocol.pdf to supply HUD with the information needed for HUD to start and complete the environmental review. Further information and assistance on HUD's environmental requirements is available at http://www.hud.gov/offices/cpd/environment/index.cfm.

6. Lead-Based Paint Requirements. Institutions and their sub-grantees, contractors, and subcontractors must comply with the Lead-Based Paint Poisoning Prevention Act (42 U.S.C. 4821-4846), the Residential Lead-Based Paint Hazard Reduction Act of 1992 (42 U.S.C. 4851-4856), and relevant subparts of the implementing regulations at 24 CFR part 35, such as subparts A, B, J, K and R, which apply to activities under this grant program.

7. Site Control. Where grant funds will be used for acquisition, rehabilitation, or new construction, an applicant must demonstrate site control. Funds may be recaptured or deobligated from recipients that cannot demonstrate control of a suitable site within one year after the initial notification of award.

8. Economic Opportunities for Low- and Very Low Income-Persons (Section 3). The provisions of Section 3 of the Housing and Urban Development Act of 1968 (12 U.S.C. 1701u) apply to this NOFA. One of the purposes of the assistance is to give to the greatest extent feasible and consistent with existing federal, state, and local laws and regulations, job training, employment, contracting, and other economic opportunities to Section 3 residents and Section 3 business concerns. See the Section 3 Regulations located at 24 CFR 135.36.

9. Affirmatively Furthering Fair Housing Requirements. Under Section 808(e)(5) of the Fair Housing Act, HUD has a statutory duty to affirmatively further fair housing. HUD requires the same of its funding recipients. If you are a successful applicant proposing housing-related activities, you will have a duty to affirmatively further fair housing opportunities for classes protected under the Fair Housing Act. Protected classes include race, color, national origin, religion, sex, disability, and familial status. For example: (1) Working with other entities in the community to overcome impediments to fair housing, such as discrimination in the sale or rental of housing or in advertising, provision of brokerage services, or lending; (2) Promoting fair housing choice through the expansion of homeownership opportunities and improved quality of services for minorities, families with children, and persons with disabilities; or (3) Providing housing mobility counseling services.

IV. Application Instruction and Submission Information.

A. Instructions to Download Application Package

Applicants may download the instructions to the application found on the Grants.gov Web site at http://www.grants.gov./applicants/apply_for_grants.jsp. If you have difficulty accessing the information you may call the Grants.gov Support Desk toll-free (800) 518-GRANTS or e-mail your questions to Support@Grants.gov. See the General Section for information regarding the registration process or ask for registration information from the Grants.gov Support Desk.

B. Application Content and Forms for Submission

1. Application Content. Applications must consist of the following elements: abstract, narrative, budget, budget narrative, and forms. Applicants that received a wavier of the electronic application submission requirement must submit their application in the order below. Copies of the instructions and all forms are available online at: http://www.grants.gov/applicants/apply_for_grants.jsp.

a. SF-424, Application for Federal Assistance. Please remember the following:

(1) The full grant amount requested from HUD (entire three-years) should be entered, not the amount for just one year;

(2) Include the name, title, address, telephone number, facsimile number, and e-mail address of the designated contact. This is the person who will receive all correspondence regarding the contents of the application from HUD; therefore, please ensure the accuracy of the information;

(3) The Employer Identification/Tax ID number;

(4) The DUNS Number;

(5) The Catalog of Federal Domestic Assistance Number for this program is 14.519;

(6) The project's proposed start and completion dates. For the purpose of this application the program start date should be October 1, 2008; and

(7) The signature of the Authorized Organization Representative (AOR) who, by virtue of submitting an application via Grants.gov, has been authenticated by the credential provider to submit applications on behalf of the institution and approved by the eBusiness Point of Contact to submit an application via Grants.gov. The AOR must be able to make a binding legal agreement with HUD.

b. Abstract. Applicants must include no more than a two-page, doubled-spaced summary of the proposed project. Please include the following:

(1) A clear description of each proposed project activity, where it will take place (be located), the target population that will be served, and the impact this project is expected to have on the institution;

(2) A statement that the institution is an eligible applicant because it is a two-or four-year, fully accredited institution, the name of the accrediting agency and an assurance that the accrediting agency is recognized by the U.S. Department of Education; or the applicant is a candidate for accreditation by a regional instructional accrediting association recognized by the U.S. Department of Education, including the name of the accrediting agency;

(3) The designated contact person, including phone number, facsimile number, and e-mail address (this is the person who will receive all correspondence regarding the contents of this application; therefore, please ensure the accuracy of the information); and

(4) The project director, if different from the designated contact person for the project, including phone number, facsimile number, and e-mail address.

c. Narrative statement addressing the rating factors. HUD will use the narrative response to the “Rating Factors” to evaluate, rate, and rank applications. This NOFA has five rating factors that need to be addressed. The narrative statement is the main source of information. Applicants are advised to review each factor carefully for program-specific requirements. All applicants submitting electronic applications must attach their narrative responses to Rating Factors 1-4 as one attachment. Remember, Factor 5 is addressed by using the HUD-96010, Program Outcome Logic Model form. Please do not repeat material in response to factors 1-3; instead, focus on how well the proposal responds to each of the factors. The response to each factor should be concise and contain only information relevant to the factor, yet detailed enough to address each factor fully. Where there are subfactors, each subfactor must be addressed and presented separately, with the short title/name of the subfactor presented. Make sure to address each subfactor and provide sufficient information about every element of the subfactor. Do not include any individual's Social Security Numbers in your application. The narrative section of an application must be submitted electronically. It must not exceed 50 pages in length (excluding forms, budget narrative, assurances, and abstract) and must be formatted to fit an 8½-by-11-inch page. Responses must be double-spaced (information submitted in chart format does not have to be doubled-spaced) with one inch margins (for the top, bottom, left, and right sides of the document), using the standard Times New Roman 12-point font. Each page of the application must include the applicant's name and be numbered. Note that although submitting pages in excess of the page limit will not disqualify an applicant, HUD will not consider the information on any excess pages. This exclusion may result in a lower score or failure to meet a threshold requirement. Please do not attach your response to each factor separately. Please follow the instructions on use of zip files, file extension, and file names in the General Section. File names should not contain spaces or special characters.

d. Budget. The budget submission must include the following:

(1) HUD-424-CB, “Grant Application Detailed Budget.” This form shows the total budget by year and by line item for the program activities to be carried out with the proposed HUD grant. Each year of the program should be presented separately. Applicants must also budget for travel cost (airfare, lodging, and per diem) for two individuals to attend at least one HUD-sponsored TCUP conference/workshop every year of the three-year grant performance period. To calculate travel expenses, applicants should use Washington, DC as the site of all conferences/workshops.

Applicants must also submit form HUD-424-CB to reflect the total cost (summary) for the entire grant performance period (Grand Total).

Make sure that the amounts shown on the SF-424, HUD-424-CB, and budget narrative are consistent and the budget totals are correct. Remember to check the addition in totaling the categories on all forms so that all items are included in the total. If there is any inconsistency between any of the required budget forms and/or budget narrative, the amount listed on the HUD-424-CB will be the amount HUD will use to calculate the amount the applicant is requesting for funding. All budget forms must be fully completed. If an application is selected for award, the applicant may be required to provide greater specificity to the budget during grant agreement negotiations.

(2) Budget Narrative. A narrative must be submitted that explains how the applicant arrived at the cost estimates for all line items. This information must be electronically submitted and formatted to fit an 8½-by-11-inch page. Responses must be doubled-spaced, with one inch margins (for the top, bottom, left, and right sides of the document), using the standard Times New Roman 12-point font. Project budgets will be evaluated and scored under Factor 3, Soundness of Approach. HUD will assess the soundness of an applicant's approach by evaluating the quality, thoroughness, reasonableness, and rationality of the proposed project budget. In addition, please provide the name, if known, hourly or daily rate, and the estimated time that will be devoted to the project for each consultant. For example, an applicant proposes to construct an addition to an existing building using HUD funding that will cost approximately $200,000. The following cost estimates reflects this total: foundation cost $75,000, electrical work $40,000, plumbing work $40,000, interior finishing work $35,000, and landscaping $10,000. The proposed cost estimates should be reasonable for the work to be performed and consistent with rates established for the level of expertise required to perform the work proposed in the geographical area. When necessary, quotes from various vendors or historical data should be used (please make sure they are kept on file and are available for review by HUD at any time). All direct labor or salaries must be supported with mandated institution and/or city/state pay scales, Davis-Bacon wage rates/tribally designated wage rate (as appropriate), or other documentation. When an applicant proposes to use a consultant, the applicant must indicate whether there is a formal written agreement. Applicants must use cost estimates based on historical data from the institution and/or from a qualified firm (e.g., architectural or engineering firm), vendor and/or qualified individual (e.g., independent architect or contractor) other than the institution for a project that involves rehabilitation of residential, commercial, and/or industrial structures, and/or acquisition, construction, or installation of public facilities, and improvements. Such an entity must be involved in the business of rehabilitation, construction, and/or management. Equipment and contracts cannot be presented as a total estimated figure. For equipment, applicants must provide a list by type and cost for each item. Applicants using contracts must provide an individual description and cost estimate for each contract. Construction costs must be broken down to indicate how funds will be utilized (e.g., demolition, foundation, exterior walls, roofing, electrical work, plumbing, finishing work, etc.).

(3) Indirect costs. Indirect costs, if applicable, are allowable based on an established approved indirect cost rate. Applicants must have on file, and submit to HUD if selected for award, a copy of their approved indirect cost rate agreement. Applicants who are selected for funding that do not have an approved indirect cost rate agreement, established by the cognizant federal agency, will be required to establish a rate. In such cases, HUD will issue an award with a provisional rate and assist applicants with the process of establishing a final rate.

e. Appendix. The appendix section of an application must not exceed 15 pages in length (excluding forms, budget narrative, and assurances). Each page must include the applicant's name and be numbered. An applicant should not submit resumes, letters of support, commitment letters, memoranda of understanding and/or agreements, or other back-up materials to supplement the application's narrative. If this information is included, it will not be considered during the review process. HUD will not consider the information on any excess pages. The additional items will also slow the transmission of your application.

2. Forms. The following forms are required for submission. All required forms are contained in the electronic application package. Applicants receiving a waiver of the electronic submission requirements and submitting a paper copy of the application must place all required forms in the appendix section of the application.

a. SF-424 Supplement, Survey on Ensuring Equal Opportunities for Applicants (“Faith Based EEO Survey (SF-424 SUPP)” on Grants.gov);

b. SF-LLL, Disclosure of Lobbying Activities, if applicable;

c. HUD-27300, Questionnaire for HUD's Removal of Regulatory Barriers (“HUD Communities Initiative Form” on Grants.gov), if applicable;

d. HUD-2880, Applicant/Recipient Disclosure/Update Report (“HUD Applicant Recipient Disclosure Report” on Grants.gov), if applicable;

e. HUD-2990, Certification of Consistency with RC/EZ/EC-II Strategic Plan, if applicable;

f. HUD-2993, Acknowledgement of Applicant Receipt. Complete this form only if you have received a waiver to the electronic application submission requirement. Applicants submitting electronically are not required to include this form;

g. HUD-2994-A, You Are Our Client! Grant Applicant Survey. Applicants are not required to complete this form;

h. HUD-96010, Program Outcome Logic Model; and

i. HUD-96011, Third Party Documentation Facsimile Transmittal (“Facsimile Transmittal Form” on Grants.gov). This form must be used as the cover page to transmit third party documents and other information. Applicants are advised to download the application package and complete the SF-424, which will pre-populate the Transmittal Cover page. The Transmittal Cover page will contain a unique identifier embedded in the page that will help HUD associate your faxed materials to your application. Please do not use your own fax cover sheet. HUD will not read any faxes that are sent without the HUD-96011 fax transmittal cover page.

3. Certifications and Assurances. Please read the General Section for detailed information on all the Certifications and Assurances. All applications submitted through Grants.gov constitute an acknowledgement and agreement to all required certifications and assurances.

C. Submission Dates and Times

A complete application package must be received and validated electronically by the Grants.gov portal no later than 11:59:59 p.m. eastern time on July 2, 2008, the application deadline date. In an effort to address any issues with transmission of your application, applicants are strongly encouraged to submit their applications at least 48 to 72 hours prior to the application deadline. This will allow an applicant enough time to make the necessary adjustments to meet the submission deadline in the event Grants.gov rejects the application. Please see the General Section for further instructions. Electronic faxes using the Facsimile Transmittal Cover Sheet (Form HUD-96011) contained in the electronic application must be received no later than 11:59:59 p.m. eastern time on the application deadline date.

D. Intergovernmental Review

This program is excluded from the Intergovernmental Review process.

E. Funding Restrictions

Ineligible activities for funding under this program include, but are not limited to the following:

1. Renovation and/or building of a facility in which the facility is not used at least 51 percent of the time by the institution;

2. Rental space to another entity that operates a small business assistance center;

3. Building of a new facility where the activities are run primarily by an outside entity;

4. Planning and administrative activities that would result in an applicant exceeding the 20-percent cost limitations (e.g., preparation/submission of HUD reports); and

6. Curriculum development and/or expansion on an institution's existing curriculum.

F. Other Submission Requirements

1. Application Submission and Receipt Procedure. Please read the General Section carefully and completely for the electronic submission and receipt procedures for all applications because failure to comply may disqualify your application.

2. Waiver of Electronic Submission Requirements. Applicants should submit their waiver requests in writing using e-mail or fax. Waiver requests must be submitted no later than 15 days prior to the application deadline date and should be submitted to: Susan Brunson, Office of University Partnerships, E-mail: Susan.S.Brunson@hud.gov, FAX: (202) 708-0309.

Paper applications will not be accepted from applicants that have not been granted a waiver. If an applicant is granted a waiver, the Office of University Partnerships (OUP) will provide instructions for submission. All applicants submitting applications in paper format must have received a waiver to the electronic application submission requirement and the application must be received by HUD on or before the application deadline date. All paper applications must be submitted on 8½-by-11-inch paper, double-spaced, on one side of the paper, with one inch margins (for the top, bottom, left, and right sides of the document), and printed in standard Times New Roman 12-point font.

V. Application Review Information

A. Criteria

1. Rating Factor 1: Capacity of the Applicant and Relevant Experience (25 points). This factor addresses the extent to which the applicant has the resources, experience, and capacity necessary to successfully implement the proposed project by the end of the grant performance period.

a. Knowledge and Experience. For First Time Applicants (25 points), For Previously Funded Applicants (15 points). In rating this subfactor, HUD will consider the extent to which the applicant clearly addresses the following:

(1) Identifies key project team members/staff, their title and name (e.g., project manager/coordinator-Sally Sue Smith, etc.), respective roles, and time each will allot to this project;

If key personnel have not been hired, identify the position title, description of duties and responsibilities, and qualifications to be considered in the selection of personnel, including subcontractors and consultants;

(2) Describes the knowledge and relevant experience of the proposed project team members/staff (as outlined above) that will conduct the day-to-day project activities, consultants (including technical assistance providers), and contractors in planning and managing the type of project for which funding is being requested; and

(3) Explains the institution's experience and capacity to administer and monitor the type of project for which funding is being requested.

Applicant's staff experience and the institution's capacity to do the work will be judged in terms of recent and relevant knowledge and skills to undertake eligible program activities. HUD will consider experience within the last five (5) years to be recent and experience pertaining to similar activities to be relevant.

b. Past Performance (10 points) For Previously Funded Grant Applicants Only. This subfactor will evaluate how well an applicant has performed successfully under completed and/or open HUD TCUP grants. Applicants must demonstrate this by addressing the following information for all previously completed and open HUD TCUP grants:

(1) A list of all HUD TCUP grants received, including the dollar amount awarded and the amount expended and obligated as of the date the application is submitted;

(2) A list detailing the date the project(s) was completed; was it completed during the original three-year grant performance period; and if not completed, why (including when it was or will be completed); if the project is still in progress, provide details on the project's current status;

(3) A description of the achieved results (outcomes) consistent with the approved project management plan. If not completed as proposed explain why;

(4) A list comparing the amount of proposed leveraged funds and/or resources (outlined in the original application) to the amount that was actually leveraged as of the date the application is submitted; and

(5) A detailed description of compliance with all reporting requirements, including timeliness of submission, whether reports were complete and addressed all information (both narrative and financial) as required by the grant agreement.

HUD will also review an applicant's past performance in managing funds, including but not limited to the ability to account for funding appropriately; timely use of funds received from HUD; meeting performance targets for completion of activities; timely submission of required reports; and compliance with the program's required terms and conditions. In evaluating past performance, HUD reserves the right to deduct up to ten (10) points from this rating score as a result of the information obtained from HUD's records (i.e., progress and financial reports, monitoring reports, Program Outcome Logic Model submission, and amendments).

2. Rating Factor 2: Need/Extent of the Problem (8 points).

a. This factor addresses the extent to which there is a need for funding the proposed project and an indication of the importance of meeting the need(s). The need(s) described must be relevant to activities for which funds are being requested. In addressing this factor, applicants should provide, at a minimum, the following and cite statistics and/or analyses contained in at least one or more current, sound, and reliable data sources:

(1) Describe the need(s); and

(2) Describe the importance of meeting the proposed needs.

b. In rating this factor, HUD will consider only current data that is specific to the area where the proposed project activities will be carried out. Reliable sources of data may include information that describes the need, such as a need to have a building renovated because it is 50 years old and is deteriorating; a new computer lab has been built, but the computers are obsolete; a library has been expanded, but the books are outdated, local/tribal crime statistics, Indian Housing Plans, etc. Applicants must include the source and date of the information presented.

3. Rating Factor 3: Soundness of Approach (49 points). This factor addresses the soundness, quality, and effectiveness of the proposed work plan and the commitment of the applicant to sustain the proposed project activity(s). Points are awarded under this factor for the quality of the activities proposed in relation to the need/problem identified in Factor 2, not for the number of activities proposed. In addition, if the activities proposed are not eligible, HUD reserves the right to deduct points under this factor for those activities and/or not fund an application if the majority of the activities are ineligible.

a. (40 Points) Quality of Work Plan. This subfactor will be evaluated on the extent to which an applicant provides a clear detailed description of the proposed project activities, the anticipated results (outcomes), and the impact they will have on the target population at the end of the grant performance period.

(1) (35 points) Specific Activities. The work plan must describe all proposed project activities and major tasks (steps to complete the proposed activities) required to successfully implement the proposed project. The work plan must also identify the anticipated measurable outcomes these activities will have on the targeted population. In addressing this subfactor, HUD will consider the following:

(a) Identify the method/planning strategy(s) used during the development of this application. Describe in detail how the proposed project/activities to be undertaken were identified.

(b) Describe each proposed project activity in measurable terms (e.g., 50 or more students will be receiving computer literacy training, the number of new classes that will be taught as a result of building a new structure);

(c) Identify the major tasks (steps to complete the proposed activities) required in sequential order to successfully implement and complete each proposed project activity. Include the target completion dates for the tasks (6-month intervals, up to 36 months);

(d) Identify the key team members/staff, as identified in Factor 1, who will be responsible and accountable for completing each task;

(e) List and describe how each activity meets one of the following Community Development Block Grant (CDBG) program national objectives:

• Benefit low- and moderate-income persons;

• Aid in the prevention or elimination of slums or blight; or

• Meet other community development needs having a particular urgency because existing conditions pose a serious and immediate threat to the health and welfare of the community, and other financial resources are not available to meet such needs.

Criteria for determining whether an activity addresses one or more objective are provided at 24 CFR 570.208; and

(f) Describe the measurable impact (outcomes) that implementing each activity will have or is expected to have on the target population by the end of the grant performance period (e.g., number of facilities built, number of classrooms equipped etc.).

(2) (5 points) Describe clearly how each proposed project activity will:

(a) Address the needs identified in Factor 2; and

(b) Relate to and not duplicate other activities in the target area.

b. (2 points) Involvement of the Faculty and Students. The applicant must describe in detail how it proposes to integrate the institution's students (this excludes students that are project recipients/participants) and faculty into the proposed project activities.

c. (2 points) HUD Policy Priorities. As described in the General Section, to earn points under this subfactor, HUD requires applicants to undertake specific activities that will assist the Department in implementing its policy priorities and that help the Department achieve its goals and objectives in FY 2009. In rating this subfactor, HUD will evaluate the extent to which a project will further and support HUD's priorities. The quality of the responses provided to one or more of HUD's priorities will determine the score an applicant can receive. Applicants must describe how each policy priority will be addressed. Applicants that just list a priority will receive no points. Please refer to the General Section for additional information about HUD's policy priorities.

The total number of points an applicant can receive under this subfactor is two (2). Each policy priority addressed has a point value of one (1) point with the exception of the policy priority related to removal of regulatory barriers to affordable housing, which has a value of up to two (2) points. To receive these two (2) points, an applicant must: (1) Submit either Part A or Part B (not both) of the completed questionnaire HUD-27300 “HUD's Initiative on Removal of Regulatory Barriers,” found in the General Section, (2) include appropriate documentation, (3) identify a point of contact, and (4) indicate how this priority will be addressed. It is up to the applicant to determine which of the policy priorities they will address in order to receive the available two (2) points.

d. (5 Points) Budget and Budget Narrative. HUD will assess the soundness of your approach by evaluating the quality, thoroughness, and rationality of the proposed project budget and narrative. The budget narrative must be broken down by line item. Administrative costs must be reflected under the appropriate line items (e.g., salaries, fringe, costs related to planning and executing the project, preparation/submission of HUD reports, etc.).

4. Rating Factor 4: Leveraging Resources (6 points). This factor addresses the ability of the applicant to secure resources that can be combined with HUD's grant funds to achieve the project's purpose.

a. HUD will consider the extent to which the applicant secures additional resources to increase the effectiveness of the proposed program activities. Overhead and other institutional costs that the institution has waived can be counted.

Examples of potential sources for outside assistance include:

—Tribal, federal, state, and local governments;

—Federal, state, and local governments;

—Local or national nonprofit organizations;

—Financial institutions and/or private businesses;

—Foundations; and/or

—Faith-based and other community-based organizations.

b. To address this factor, an applicant must provide an outline in their application that includes the information listed below of all proposed leveraged resources (including any commitment of resources from the applicant's own institution). Applicants must have on file at the time of application submission the original commitment letters, memoranda of understanding, and/or agreements. Commitment letters, memoranda of understanding, and/or agreements must be dated prior to the application deadline date; if they are dated after the application deadline date they will not be scored.

Each letter, memorandum of understanding, or agreement must include the following information below:

(1) The name of the organization and the executive officer authorizing the funds/goods and/or services (only applicable to the narrative section);

(2) The cash amount contributed or dollar value of the in-kind goods and/or services committed (if a dollar amount and its use are not shown, the value of the contribution will not be scored);

(3) A specific description of how each contribution is to be used toward specific proposed activities;

(4) The date the contribution will be made available and a statement that describes the duration of the contribution; and

(5) The signature of the appropriate executive officer authorized to commit the funds and/or goods and/or services. This is only applicable to the original written documentation.

c. Resources will also not be counted for which there is no commitment letter, memorandum of understanding, agreement, or quantified level of commitment, and/or when the letter, memorandum of understanding, or agreement does not address ALL of the requirements outlined above. Commitment letters, memoranda of understanding and/or agreements are not required at the time of application submission but must be on file at the time of application submission. If commitment letters, memoranda of understanding, and/or agreements are included with the application at time of submission they will not be considered during the review process. However, applicants submitting paper applications must include all letters, memoranda of understanding, and/or agreements in the Appendix of the application. Applicants chosen to proceed to the next step in the selection process will be required to submit the signed and dated commitment letters, memoranda of understanding, and/or agreements outlined in the application within five (5) calendar days after initial contact from OUP. Letters, memoranda of understanding, and/or agreements must be submitted on the provider's letterhead and should be addressed to Sherone Ivey, Associate Deputy Assistant Secretary for University Partnerships. The date of the letter, memorandum of understanding, or agreement from the CEO of the provider organization must be dated no earlier than nine months prior to this published NOFA and no later than the application deadline date. In addition, no points will be awarded for general support letters endorsing the project from organizations, including elected officials on the local, state, or national levels; therefore, please do not include them. OUP will provide specific instructions on how these documents must be submitted when contact is made with the applicant. HUD will only request and consider documents from the resources/organizations that are listed in the outline in the application. If OUP does not receive those documents with the required information within the allotted timeframe, an applicant will not receive points under this factor.

Note: Submission of a grant award notification from another entity/agency in place of a commitment letter, memorandum of understanding, and/or agreement does not meet the requirement of this factor and will not be accepted.

In scoring this factor, HUD will award:

(1) Six (6) points to an applicant that provides leveraging resources as listed in their application that represent 10 percent or more of the amount requested under this program;

(2) Five (5) points to an applicant that provides leveraging resources as listed in their application that represent 9 percent of the amount requested under this program;

(3) Four (4) points to an applicant that provides leveraging resources as listed in their application that represent 8 percent of the amount requested under this program;

(4) Three (3) points to an applicant that provides leveraging resources as listed in their application that represent 7 percent of the amount requested under this program;

(5) Two (2) points to an applicant that provides leveraging resources as listed in their application that represent 6 percent of the amount requested under this program; and

(6) One (1) point to an applicant that provides leveraging resources as listed in their application that represent 5 present of the amount requested under this program.

(7) Zero (0) points to an applicant that provides leveraging resources as listed in their application that is less than 4 percent of the amount requested under this program.

5. Rating Factor 5: Achieving Results and Program Evaluation (12 points). This factor reflects HUD's goal to embrace high standards of management and accountability. It measures the applicant's commitment to assess their performance to achieve the project's proposed objectives and goals. Applicants are required to develop an effective, quantifiable, outcome-oriented evaluation plan for measuring performance and determining that objectives and goals have been achieved by using the HUD-96010, “Program Outcome Logic Model.” The Program Outcome Logic Model is a summary of the narrative statements presented in Factors 1 through 3. Therefore, the information submitted on the Logic Model should be consistent with the information contained in the narrative statements.

In evaluating this factor, HUD will assess the extent to which the applicant demonstrates how results of the project will be measured as outlined in the proposed work plan. To meet this factor requirement, applicants must submit a completed HUD-96010, “Program Outcome Logic Model.” Applicants must select from the list of activities and outcomes to determine their specific methods and measures that will be used to assess progress and evaluate program effectiveness. If an item is not found on the list of activities or outcomes, applicants can select “other” and then insert the activity and/or outcome and unit of measurement. Applicants can use the “other” option for up to three activities and three outcomes. See the instructions tab in the Logic Model for further details. HUD will not accept activities or outcomes selected as “other” that do not contain an identified statement of the activities/outcomes or units of measurement. Utilizing this form will help grantees to ensure that performance measures are being met and they are establishing achievable realistic goals.

a. Program Outcome Logic Model instructions (using a Microsoft Excel™ form) are provided in the forms appended to the Instruction Download from http://www.grants.gov/applicants/apply_for_grants.jsp. Applicants that do not have access to Microsoft Excel™ should contact the NOFA Information Center at (800) HUD-8929. Individuals with hearing or speech impairments may access this number via the toll-free Federal Information Relay Service at (800) 877-8339 and/or The Center for Applied Management Practices at (717) 730-3705 (this is not a toll-free number).

A narrative response is not required for this factor as all applicants must use the logic model form to respond to this factor. However, if a narrative is included, these pages will be included in the page count. HUD has developed a new approach to completing this form. Applicants should also review the Program Outcome Logic Model training, which can be found online at: http://www.hud.gov/webcasts/index.cfm.

b. HUD will review the outputs and outcomes in relation to the needs identified. “Outcomes” are benefits accruing to TCUs during or after participation in the TCUP. Applicants must clearly identify the outcomes to be measured and achieved. Examples of outcomes include increased number of classroom spaces available, increased student enrollment and graduation rates, etc.

Applicants must also establish outputs that lead to the ultimate achievement of outcomes. “Outputs” are the direct products of the project's activities. Examples of outputs are the number of new facilities renovated or the number of new dormitories built. Outputs should produce outcomes for the project. At a minimum, an applicant must address the following activities in the evaluation plan:

(1) Short- and long-term objectives to be achieved; and

(2) Measurable outcomes the grant will have on the university or the target population.

Applicants must also reference policy priorities, as stated in response to Factor 3, and relate them to the project's goals, as appropriate.

HUD will evaluate the Program Outcome Logic Model in accordance with the matrix provided in Attachment 1 of the General Section.

B. Review and Selection Process

1. Application Selection Process

Two types of reviews will be conducted:

a. A threshold review to determine an applicant's basic eligibility; and

b. A technical review for all applications that pass the threshold review to rate and rank the application based on the “Rating Factors” listed in Section V A.

Only those applications that pass the threshold review will receive a technical review and be rated and ranked.

2. Rating Panels. To review and rate applications, HUD may establish panels that may include experts or consultants not currently employed by HUD to obtain certain expertise.

3. Ranking. HUD will fund applications in rank order, until all available program funds are awarded. In order to be considered for funding, an applicant must receive a minimum score of 75 points out of a possible 100 points for Factors 1-5; plus up to two bonus points that may be awarded for activities conducted in the RC/EZ/EC-II communities, as described in the General Section. If two or more applications have the same number of points, the application with the most points for Factor 3 shall be selected. If there is still a tie, the application with the most points for Factor 4 shall be selected. If there is still a tie, the application with the most points for Factors 1, 2, and then 5 shall be selected in that order, until the tie is broken. HUD reserves the right to select out of rank order to provide for geographic distribution of grantees. HUD also reserves the right to reduce the amount of funding requested in order to fund as many highly ranked applications as possible. Additionally, if funds remain after funding the highest ranked applications, HUD may fund part of the next highest-ranking application. If an applicant turns down the award offer, HUD will make an award to the next highest-ranking application. If funds remain after all selections have been made, the remaining funds will be carried over to the next funding cycle's competition.

HUD will not fund any portion of an application that is not eligible for funding under regulatory requirements; does not meet the requirements of the NOFA; or may be duplicative of other funded programs or activities/tasks from prior year awards. Only the eligible portions of an application will be funded. When the majority of the activities are ineligible, HUD will not fund the application.

4. Corrections to Deficient Applications. See the General Section.

C. Anticipated Announcement and Award Dates. Announcements of awards are anticipated on or before September 30, 2008.

VI. Award Administration Information

A. Award Notice

After all selections have been made, HUD will notify all winning applicants in writing. HUD may require winning applicants to participate in additional negotiations before receiving an official award. For further discussion on this matter, please refer to the General Section.

B. Administrative and National Policy Requirements

1. Debriefing. The General Section provides the procedures for requesting a debriefing. All requests for debriefings must be made in writing to: Sherone Ivey, Office of University Partnerships, Department of Housing and Urban Development, 451 Seventh Street, SW., Room 8106; Washington, DC 20410-6000. Applicants may also write to Ms. Ivey via e-mail at Sherone.Ivey@hud.gov.

2. Administrative. Grants awarded under this NOFA will be governed by the provisions of 24 CFR part 84 (Grants and Agreements with Institutions of Higher Education, Hospitals, and Other Non-Profit Organizations), OMB Circular A-21 (Cost Principles for Educational Institutions) and OMB Circular A-133 (Audits of States, Local Governments, and Non-Profit Organizations). Applicants can access the OMB circulars at the White House Web site at http://www.whitehouse.gov/omb/circulars/index.html.

3. OMB Circulars and Governmentwide Regulations Applicable to Financial Assistance Programs. See the General Section for further discussion.

4. Code of Conduct. See the General Section for further discussion.

5. Procurement of Recovered Materials. See the General Section for further discussion.

6. Executive Order 13202, Preservation of Open Competition and Government Neutrality Toward Government Contractors' Labor Relations on Federal and Federally Funded Construction Projects. See the General Section for further discussion.

7. Executive Order 13166, Improving Access to Services For Persons With Limited English Proficiency (LEP). Successful applicants may not exclude participants or beneficiaries on the basis of race, color, or national origin under Title VI of the Civil Rights Act. To ensure that program information is accessible to persons with limited English proficiency on the basis of national origin, successful applicants may follow HUD's Final Guidance to Federal Financial Assistance Recipients Regarding Title VI Prohibition Against National Origin Discrimination Affecting Limited English Proficient Persons, 72 FR 2732 (Jan. 22, 2007).

8. Code of Conduct. See the General Section for further discussion.

C. Reporting

1. All grant recipients under this NOFA are required to submit quarterly progress reports. The progress reports shall consist of three components: A narrative that must reflect the activities undertaken during the reporting period; a financial report that reflects costs incurred by budget line item, as well as a cumulative summary report during the reporting period; and a HUD-96010, Program Outcome Logic Model form, which identifies output and outcomes achieved.

2. Applicants selected for funding should also be aware that they will be required to report sub-award information within 30 days of making a sub-award in an amount of $25,000 or greater as required by the Federal Funding Accountability and Transparency Act of 2006 (Pub. L. 109-282). The Federal Funding Accountability and Transparency Act of 2006 calls for the establishment of a central Web site that makes available to the public full disclosure of all entities receiving federal funds. Applicants should be aware that the law requires the information provided on the federal Web site to include the following elements related to all sub-award transactions $25,000 or greater.

(a) The name of the entity receiving the award;

(b) The amount of the award;

(c) Information on the award, including the transaction type, funding agency, the North American Industry Classification System code or Catalog of Federal Domestic Assistance number (where applicable), program source, and an award title descriptive of the purpose of each funding action;

(d) The location of the entity receiving the award and primary location of performance under the award, including the city, state, congressional district, and country;

(e) A unique identifier (DUNS number) of the entity receiving award and of the parent entity of the recipient (DUNS number of the parent entity) should the entity be owned by another entity;

(f) Federal parent award number and sub-award grant number;

(g) The tier level the sub-award was made at; and

(h) Any other relevant information specified by OMB.

There are exceptions for sub-awards less than $25,000 made to individuals or to an entity whose annual expenditures are less than $300,000.

Applicants should also be aware that the sub-award provision carries to all tiers (e.g., a direct award is made by HUD to an organization that in turn makes an award to another organization that then makes another award and so on). Collection of the tier level at which the award is made as well as federal parent award number can help in tracing the sub-award data as it tiers down several levels. Sub-award reporting requirements to meet the Federal Funding Accountability Transparency Act of 2006 requirements will be finalized through a future Federal Register notice.

VII. Agency Contacts

Applicants may contact Sherone Ivey at (202) 402-4200, or Susan Brunson at (202) 402-3852. Persons with speech or hearing impairments may call the Federal Information Relay Service TTY at (800) 877-8339. Except for the “800” number, these numbers are not toll-free. Applicants may also reach Ms. Ivey via e-mail at Sherone.Ivey@hud.gov, and/or Ms. Brunson at Susan.S.Brunson@hud.gov.

VIII. Other Information: Paperwork Reduction Act

The information collection requirements contained in this document have been approved by the Office of Management and Budget (OMB) under the Paperwork Reduction Act of 1995 (44 U.S.C. 3501-3520) and assigned OMB control number 2528-0215. In accordance with the Paperwork Reduction Act, HUD may not conduct or sponsor, and a person is not required to respond to, a collection of information unless the collection displays a currently valid OMB control number. Public reporting burden for the collection of information is estimated to average 68 hours per annum per respondent for the application and grant administration. This includes the time for collecting, reviewing, and reporting the data for the application, quarterly and final report. The information will be used for grantee selection and monitoring the administration of funds. Response to this request for information is required in order to receive the benefits to be derived.

The Early Doctoral Student Research Grant Program and Doctoral Dissertation Research Grant Program

Overview Information

A. Federal Agency Name: Department of Housing and Urban Development, Office of Policy Development and Research, Office of University Partnerships.

B. Funding Opportunity Title: The Early Doctoral Student Research Grant (EDSRG) Program and the Doctoral Dissertation Research Grant (DDRG) Program.

C. Announcement Type: Initial announcement.

D. Funding Opportunity Number: FR-5200-N-22; OMB Approval Numbers are:

1. Early Doctoral Student Research Grant Program is 2528-0216.

2. Doctoral Dissertation Research Grant Program is 2528-0213.

E. Catalog of Federal Domestic Assistance (CFDA) Number(s): The CFDA Numbers for the programs in this NOFA are as follows:

1. Early Doctoral Student Research Grant Program is 14.517

2. Doctoral Dissertation Research Grant Program is 14.516

F. Dates: The application deadline date is June 12, 2008. Applications must be received and validated by Grants.gov by the deadline date. Please be sure to read the General Section, published March 19, 2008 (73 FR 14882), for electronic submission and receipt requirements.

G. Additional Overview Content Information

1. Purpose of the University Partnership Dissertation Programs:

a. Early Doctoral Student Research Grant (EDSRG) Program. To enable pre-candidacy doctoral students enrolled at institutions of higher education accredited by a national or regional accrediting agency recognized by the U.S. Department of Education to cultivate their research skills through the preparation of research manuscripts that focus on policy-relevant housing and urban development issues.

b. Doctoral Dissertation Research Grant (DDRG) Program. To enable doctoral candidates enrolled at institutions of higher education accredited by a national or regional accrediting agency recognized by the U.S. Department of Education to complete their research and dissertations on policy-relevant housing and urban development issues.

2. Award Information. In Fiscal Year (FY) 2008, approximately $400,000 has been made available for the following Office of University Partnerships (OUP) dissertation programs.

a. Early Doctoral Student Research Grant Program. Approximately $100,000 is available for funding. The maximum grant performance period is 12 months. The maximum amount that can be requested to sponsor a doctoral student is $15,000.

b. Doctoral Dissertation Research Grant Program. Approximately $300,000 is available for funding. The maximum grant performance period is 24 months. The maximum amount that can be requested to sponsor a doctoral student is $25,000.

If funding allotted for the EDSRG program remains after all eligible EDSRG doctoral students have been selected for award, those remaining funds will be made available to fund eligible DDRG doctoral students. If funding remains after all eligible DDRG doctoral students have been selected for award, the remaining funds will be made available to fund eligible EDSRG doctoral students.

3. Eligible Applicants. Institutions of higher education accredited by a national or regional accrediting agency recognized by the U.S. Department of Education that sponsor a doctoral student is the official applicant. However, the sponsored doctoral student is responsible for the completion of the application (with the assistance of the institution) and must meet the following program requirements:

a. Early Doctoral Student Research Grant Program. Pre-candidacy doctoral students sponsored for funding under this program must meet the following requirements:

(1) Be a U.S. citizen or lawful permanent resident (recipient of an Alien Registration Recipient Card-Form I-551, commonly referred to as a Green Card) currently enrolled as a full-time student in an accredited doctoral program;

(2) Have a major or concentration within a field related to housing and urban development;

(3) Have not taken the preliminary/comprehensive examinations;

(4) Completed at least two semesters or three terms of a doctoral studies program (depending on the course structure of the institution); and

(5) Have an assigned faculty advisor to supervise the research manuscript.

b. Doctoral Dissertation Research Grant Program. Doctoral students sponsored for funding under this program must meet the following requirements:

(1) Be a U.S. citizen or lawful permanent resident (recipient of an Alien Registration Recipient Card-Form I-551, commonly referred to as a Green Card) currently enrolled in an accredited doctoral program;

(2) By the application deadline date, the student's dissertation proposal/prospectus will be accepted by the full dissertation committee;

(3) The student will have an assigned dissertation advisor; and

(4) By September 1, 2008, the student will have satisfactorily completed all other written and oral doctoral degree requirements, including all examinations, except the dissertation.

Full Text of Announcement

I. Funding Opportunity Description

A. Early Doctoral Student Research Grant (EDSRG) Program

The purpose of the EDSRG program is to enable pre-candidacy doctoral students enrolled at an institution of higher education accredited by a national or regional accrediting agency recognized by the U.S. Department of Education to cultivate their research skills through the preparation of research manuscripts that focus on policy-relevant housing and urban development issues. The FY2008 EDSRG program seeks to fund research studies that may impact federal problem solving and policymaking and that are relevant to HUD's policy priorities and annual goals and objectives. See the General Section for discussion of these priorities and annual goals and objectives.

B. Doctoral Dissertation Research Grant (DDRG) Program

The purpose of the DDRG program is to enable doctoral candidates enrolled at institutions of higher education accredited by a national or regional accrediting agency recognized by the U.S. Department of Education to complete their research and dissertations on policy-relevant housing and urban development issues. The FY2008 DDRG program seeks to fund research studies that may impact federal problem solving and policymaking and that are relevant to HUD's policy priorities and annual goals and objectives. See the General Section for discussion of these priorities and annual goals and objectives.

C. Topics

All research topics must focus on domestic issues that may impact federal problem solving and policymaking and that are relevant to HUD's policy priorities and annual goals and objectives. Examples of topics addressing these issues (applicable to both the EDSRG and DDRG programs) include but are not limited to:

1. Increase Homeownership Opportunities.

a. Increase Minority Homeownership.

b. Simplify the Home Buying Process (RESPA reform) and Reduce Settlement Costs.

c. Set Appropriate Housing Goals for the GSEs.

d. Counter Predatory Lending.

e. Help Low-Income Homeowners Avoid Default and Foreclosure.

f. Evaluate Housing Counseling.

2. Promote Decent Affordable Housing.

a. Reduce Regulatory Barriers to the Development of Affordable Housing, and all forms of Multifamily Housing.

b. Develop Creative Strategies for Expanding the Availability of Affordable Housing.

c. Strengthen the Delivery of HUD-Funded Rental Assistance and Assistance Provided Through the Low-Income Housing Tax Credit.

d. Promote Self-Sufficiency Among Residents of Public and Assisted Housing.

e. Meet the Housing-Related Needs of the Elderly.

f. Meet the Housing-Related Needs of Persons with Disabilities.

g. Improve Housing Quality and Affordability through Technology and Design.

3. Strengthen Communities.

a. End Chronic Homelessness.

b. Prevent Homelessness.

c. Strengthen Cities.

d. Meet the Housing and Community and Economic Development Needs of Residents of High-Needs Areas, including Appalachia, the Mississippi Delta, and Indian Country.

4. Ensure Equal Opportunity in Housing.

a. Reduce Housing Discrimination.

b. Improve Housing Accessibility for Persons with Disabilities.

5. Embrace High Standards of Ethics, Management, and Accountability.

a. Reduce Fraud, Waste, and Abuse in HUD-Funded Programs.

b. Improve the Effectiveness of HUD Programs Through Program Evaluations and Performance Measurement.

6. Promote Participation of Faith-Based and Community Organizations.

a. Strengthen the Capacity of Faith-Based and Community Organizations.

D. Authority

HUD's authority for making funding available under this NOFA is the Consolidated Appropriations Act, 2008 (Pub. L. 110-161). These programs are undertaken under HUD's research authority under Title V of the Housing and Urban Development Act of 1970. They are being implemented through this NOFA which, among other things, establishes the policies governing their operation.

E. Modifications

Listed below are major modifications from the Fiscal Year (FY) 2007 program-funding announcement:

1. A support letter from the doctoral student's institution will now be scored under Factor 3, Institutional Support. Applicants are now required to submit the letter with the application. This letter must provide details on what type of assistance the institution will give to the student to support the student's research.

2. Indirect cost rates cannot be charged against this grant.

II. Award Information

In FY 2008, approximately $400,000 has been made available for the Office of University Partnerships (OUP) dissertation programs as follows:

A. Early Doctoral Student Research Grant Program. Approximately $100,000 will be made available for funding under this program. The maximum grant performance period is 12 months. The maximum amount that can be requested to sponsor a doctoral student is $15,000.

B. Doctoral Dissertation Research Grant Program. Approximately $300,000 will be made available for funding under this program. The maximum grant performance period is 24 months. The maximum amount that can be requested to sponsor a doctoral student is $25,000.

HUD intends to fund the highest scoring EDSRG and DDRG doctoral applications until all available funds are awarded under each program. Once all eligible applicants are selected for award under the EDSRG, if funding is left from the original funding allotted for the EDSRG program due to an insufficient number of eligible EDSRG applicants, the remaining funds will be made available to fund eligible DDRG doctoral students that could not be funded because all funds allotted under the DDRG program have been utilized. Similarly, once all eligible DDRG applicants are selected for award, if any funding allotted for the DDRG program remains due to an insufficient number of eligible DDRG applicants, the remaining funds will be made available to fund eligible EDSRG doctoral students that could not be funded because all EDSRG funds will be utilized.

III. Eligibility Information

A. Eligible Applicants. Institutions of higher education accredited by a national or regional accrediting agency recognized by the U.S. Department of Education that sponsor doctoral students are eligible to apply. An institution can sponsor more than one doctoral student. Each student is responsible for the completion of his or her own application (with the assistance of the institution) and must meet the following program requirements:

1. Early Doctoral Student Research Grant Program. Pre-candidacy doctoral students applying for funding under this program must meet the following requirements:

a. Be a U.S. citizen or lawful permanent resident (recipient of an Alien Registration Recipient Card-Form I-551, commonly referred to as a Green Card) currently enrolled as a full-time student in an accredited doctoral program;

b. Have not taken the preliminary/comprehensive examinations;

c. Have completed at least two semesters or three terms of a doctoral studies program (depending on the course structure of the institution);

d. Have an assigned faculty advisor to supervise the research manuscript.

2. Doctoral Dissertation Research Grant Program. Doctoral students applying for funding under this program must meet the following requirements:

a. Be a U.S. citizen or lawful permanent resident (recipient of an Alien Registration Recipient Card-Form I-551, commonly referred to as a Green Card) currently enrolled in an accredited doctoral program;

b. By the application deadline date, the student's dissertation proposal/prospectus has been accepted by the full dissertation committee

c. The student will have an assigned dissertation advisor; and

d. By September 1, 2008, the student will have satisfactorily completed all other written and oral doctoral degree requirements, including all examinations, except the dissertation.

B. Cost Sharing or Matching. None Required.

C. Other

1. Eligible Activities. Grant funds awarded under this NOFA must be used to support direct costs incurred in the timely completion of the research product. Eligible costs include stipends, computer software, and purchase of data, travel expenses to collect data, transcription services, and compensation for interviews.

2. Threshold Requirements Applicable to All Applicants. All applicants and doctoral students must comply with the threshold requirements as defined in the General Section and the requirements listed below. Applications that do not meet these requirements will be considered ineligible for funding and will be disqualified.

a. The doctoral student must meet the eligibility requirement for the program for which they are requesting funding as defined in Section III.A;

b. University sponsorship. The university shall enter into a Grant Agreement with HUD that provides for payment of the grant by HUD to the university and from the university to the approved doctoral student, and that further provides all required certifications and assurances; The University shall agree to provide, as the Principal Investigator under the Grant Agreement, a faculty advisor or chairperson of the doctoral student's dissertation committee who shall supervise the student's work under the Grant Agreement;

c. The student's institution must provide a letter agreeing to support the student;

d. The applicant may not request more funding than the grant maximum allocated for the program for which they are requesting funding as outlined in Section II;

e. Only one application package can be submitted per doctoral student. Students who have received funding in the past are not eligible to receive funding under the same program;

f. Applications must receive a minimum score of 75 points to be considered for funding;

g. The University (the official applicant on behalf of the student) must have a DUNS number to receive HUD grant funds (See the General Section); and

h. Electronic applications must be received and validated by Grants.gov no later than 11:59:59 p.m. eastern time on the application dateline date.

IV. Application Instructions and Submission Information

A. Instructions to Download Application Package

Applicants may download the instructions to the application found on the Grants.gov Web site at http://www.grants.gov/applicants/apply_for_grants.jsp. If you have difficulty accessing the information you may call the Grants.gov Support Desk toll-free (800) 518-GRANTS or e-mail your questions to Support@Grants.gov. Applicants must be registered to submit an application via Grants.gov. See the General Section for information regarding the registration process or ask for registration information from the Grants.gov Support Desk.

B. Application Content and Forms for Submission

1. Application Content. Applications must consist of the following elements: table of contents, executive summary, narrative for the rating factors, budget, budget narrative, and forms. Applicants that received a wavier of the electronic application submission requirement must submit their application in the order below. Copies of the instructions and all forms are available online at http://www.grants.gov/applicants/apply_for_grants.jsp.

a. SF-424, Application for Federal Assistance. Please remember the following:

(1) The name of the applicant for these programs is the University. Please make sure that the University's address is listed on this form (not the student's information);

(2) Include the name, title, address, telephone number, facsimile number, and e-mail address of the designated contact person. This is the University contact that will receive all pertinent information from HUD regarding this grant; therefore please ensure the accuracy of the information;

(3) The total grant amount requested for the total performance period of the grant;

(4) The University's Employer Identification/Tax ID;

(5) The DUNS Number;

(6) The Catalog of Federal Domestic Assistance Number for the program from which you are requesting funding; and

(a) Early Doctoral Student Research Grant Program is 14.517.

(b) Doctoral Dissertation Research Grant Program is 14.516.

(7) The signature of the Authorized Organization Representative (AOR) who by virtue of submitting an application via Grants.gov has been authenticated by the credential provider to submit applications on behalf of the institution and approved by the eBusiness Point of Contact to submit an application via Grants.gov. The AOR must be able to make a legally binding agreement with HUD. See the General Section for further information.

b. Table of Contents.

c. Executive Summary (700 words or less). The Executive Summary should, at a minimum, include a summary of the proposed research project that addresses the following information:

(1) Specific purpose of the manuscript/dissertation;

(2) Methodology being used; and

(3) How the student meets the eligibility criteria for the program from which she/he is requesting funding.

In addition, include the following information:

(1) Student's address, telephone number, facsimile number, and e-mail address; and

(2) The faculty advisor's name, title, department, address, telephone number, facsimile number, and e-mail address. This person will serve as the Principal Investigator for this grant.

d. Narrative statement addressing the rating factors. HUD will use the narrative response to the “Rating Factors” to evaluate, rate, and rank applications. This NOFA has four rating factors that need to be addressed. The narrative statement is the main source of information. Therefore, it is very important that the student becomes fully familiar with the rating factors for the program from which he/she is requesting funding. The narrative should be numbered in accordance with each factor and subfactor. Please do not repeat material in response to the four factors; instead, focus on how well the proposal responds to each of the factors. Make sure to address each factor and subfactor and provide sufficient information about every element. Do not include any individual's Social Security Numbers in this application. The application narrative, bibliographies, and any supporting references must not exceed 15 pages in length (excluding forms, assurances, budget narrative, Table of Contents, Executive Summary, and letter of support) and must be submitted electronically and formatted to fit an 8½-by-11-inch paper, double-spaced, with one inch margins (for the top, bottom, left, and right sides of the document) and in standard Times New Roman 12-point font. Each page must be numbered and the name of the student and university must be on each page. The double-spacing requirement applies to the narrative section of the application (excluding references and bibliographies). Note that although submitting pages in excess of the page limit will not disqualify the application, HUD will not consider the information on any excess page. This exclusion may result in a lower score or failure to meet a threshold requirement. All applicants submitting electronic applications must attach their narrative response to Rating Factors 1-3 as one attachment. Please do not attach your response to each factor separately. Please follow the instructions on use of zip files, file extension, and file names in the General Section. File names should not contain spaces or special characters.

e. Budget. The budget submission must include the following:

(1) HUD-424-CB, “Grant Application Detailed Budget.” This budget form shows the total budget by year and by line item for the program activities to be carried out with the proposed HUD grant. Each year of the program should be presented separately.

Make sure that the amount shown on the SF-424, HUD-424-CB, and budget narrative are consistent and the budget totals are correct. Remember to check addition in totaling the categories on the HUD-424-CB form so that all items are included in the total. The budget form must be fully completed. If there is any inconsistency between any required forms and/or budget narrative, the HUD-424-CB will be used. If this correction puts an application over the grant maximum, the doctoral student will not be able to correct the amount requested and the application will be disqualified. If an application is selected for award, the applicant may be required to provide greater specificity to the budget during grant agreement negotiations.

(2) Budget Narrative. A narrative must be submitted that explains how the doctoral student arrived at the cost estimate for each line item. The proposed cost should be reasonable for the work to be performed and consistent with rates established for the level of expertise required to perform the work proposed.

(3) Indirect cost. Indirect cost rates cannot be charged under these programs.

f. Appendix. The appendix section of an application must not exceed five (5) pages in length (excluding forms, budget narrative, and assurances). Each page must include the applicant's name and be numbered. An applicant SHOULD NOT submit resumes/curriculum vitas, or other back-up materials to supplement the application's narrative. If this information is included, it will not be considered during the review process. The additional items will also slow the transmission of your application.

2. Forms. The following forms are required for submission. All required forms are contained in the electronic application package. However, doctoral students receiving a waiver of the electronic submission requirements that are submitting a paper copy of the application must place all required forms in this section.

a. SF-424 Supplement, Survey on Ensuring Equal Opportunities for Applicants (“Faith Based EEO Survey (SF-424 SUPP)” on Grants.gov);

b. SF-LLL, Disclosure of Lobbying Activities, if applicable;

c. HUD-27300, Questionnaire for HUD's Removal of Regulatory Barriers (“HUD Communities Initiative Form” on Grants.gov), if applicable;

d. HUD-2880, Applicant/Recipient Disclosure/Update Report (“HUD Applicant Recipient Disclosure Report” on Grants.gov), if applicable;

e. HUD-2993, Acknowledgement of Applicant Receipt. Complete this form only if you have received a waiver to the electronic application submission requirement. Applicants are not required to include this form;

f. HUD-2994-A, You Are Our Client! Grant Applicant Survey. Applicants are not required to complete this form;

g. HUD-96010, Program Outcome Logic Model; and

h. HUD-96011, Third Party Documentation Facsimile Transmittal (“Facsimile Transmittal Form” on Grants.gov). This form must be used as the cover page to transmit third party documents and other information. Applicants are advised to download the application package and complete the SF-424, which will pre-populate the Transmittal Cover page. The Transmittal Cover page will contain a unique identifier embedded in the page that will help HUD associate your faxed materials to your application. Please download the cover page and then make multiple copies to provide to any of the entities responsible for submitting faxed materials to HUD on your behalf. Please do not use your own fax cover sheet. HUD will not read any faxes that are sent without the HUD-96011 fax transmittal cover page.

3. Certifications and Assurances. Please read the General Section for detailed information on all Certifications and Assurances. All applications submitted through Grants.gov constitute an acknowledgement and agreement to all required certifications and assurances.

C. Submission Dates and Times

A complete application package must be received and validated electronically by the Grants.gov portal no later than 11:59:59 p.m. eastern time on June 12, 2008, the application deadline date. In an effort to address any issues with transmission of your application, applicants are strongly encouraged to submit their applications at least 48 to 72 hours prior to the application deadline. This will allow an applicant enough time to make the necessary adjustments to meet the deadline in the event Grants.gov rejects the application. Please see the General Section for further instructions. Electronic faxes using the Facsimile Transmittal Cover Sheet (Form HUD-96011) contained in the electronic application must be received no later than 11:59:59 p.m. eastern time on the application deadline date.

D. Intergovernmental Review

These programs are excluded from the Intergovernmental Review process.

E. Funding Restrictions

1. Funding will only be provided to doctoral students who meet the standards for eligible applicants outlined in Section III. A. under the program for which they are requesting funding.

2. Grant funds awarded for programs under this NOFA may not be used to pay for tuition, computer hardware, or meals.

3. Indirect cost rates and honorariums cannot be charged against grants under this program.

4. Institutions that have had previously awarded grants under these programs terminated for non-performance and have outstanding funds owed to HUD resulting from the termination, will be excluded from competition until the outstanding funds are repaid. (Applicants must comply with the Delinquent Federal Debt Requirement as defined in the General Section).

5. Early Doctoral Student Research Grant (EDSRG) Program. Three thousand dollars of the grant funds will be held until the doctoral student's research manuscript has been completed and accepted for presentation at a conference or publication in a refereed journal by the end of the grant period, or a committee of three faculty members (including the faculty sponsor, as the principal investigator of the grant) has determined and certified to HUD that the manuscript is of high quality and worthy of submission to academic conferences or journals, and two copies of the research product and a CD-ROM are submitted to HUD in its final version.

6. Doctoral Dissertation Research Grant (DDRG) Program. Six thousand dollars of the grant funds will be held until the doctoral student's dissertation has been completed, approved by the committee, and two final copies and a CD-Rom are submitted to HUD in its final version.

F. Other Submission Requirements

1. Application Submission and Receipt Procedure. Please read the General Section carefully and completely for the electronic submission and receipt procedures for all applications because failure to comply may disqualify a doctoral student's application.

2. Waiver of Electronic Submission Requirements. Applicants should submit their waiver requests in writing using e-mail or fax. Waiver requests must be submitted no later than 15 days prior to the application deadline date and should be submitted to: Susan Brunson, Office of University Partnerships, E-mail: Susan.S.Brunson@hud.gov, Fax: (202) 708-0309.

Paper applications will not be accepted from applicants that have not been granted a waiver. If an applicant is granted a waiver, the Office of University Partnerships (OUP) will provide instructions for submission. All applicants submitting applications in paper format must have received a waiver to the electronic application submission requirement and the application must be received by HUD on or before the application deadline date. All paper applications must be submitted on 8½-by-11-inch paper, double-spaced on one side of the paper, with one inch margins (for the top, bottom, left, and right sides of the document) and printed in standard Times New Roman 12-point font.

V. Application Review Information

A. Criteria

1. Rating Factor 1: Capacity to do the Research (25 Points). In reviewing this factor, HUD will determine the extent to which the doctoral student clearly addresses the following:

a. Describe the skills and expertise you possess to conduct research. Research skills and expertise will be judged in terms of how recent they are. Research skills and expertise developed within the last two (2) years will be considered recent.

b. Describe the knowledge and experience you possess to undertake the proposed research hypotheses. Knowledge and experience will be judged in terms of how relevant it is to the research proposed (e.g., course work, teaching, research projects, and presentations). Knowledge and experience developed within the last five (5) years in the area of the proposed research will be considered relevant.

c. Provide a detailed list that outlines the preliminary steps that were taken (e.g., literature review, research hypotheses, questions to be answered) to identify the proposed manuscript/dissertation topic/hypotheses.

2. Rating Factor 2: Need for the Research (15 Points). This factor addresses the extent to which there is a need and a demand for funding the proposed research. HUD encourages doctoral students to undertake research that will assist the Department in implementing its policy priorities and which help the Department achieve its goals and objectives in FY2008. In reviewing this factor, HUD will determine the extent to which the doctoral student clearly addresses the following:

a. Describe the need for funding the proposed research manuscript/dissertation (i.e., based on questions derived from identified gaps in the literature, and/or knowledge from professional practice).

b. Discuss the results or findings the proposed research manuscript/dissertation is expected to produce and explain why the information will be generally accepted by researchers and practitioners in your field and other related disciplines.

c. Explain the direct relationship between the proposed manuscript/dissertation and at least one of HUD's annual goals and objectives (i.e., the research that will be produced could have an effect on HUD's strategic goals and programs and policies to achieve these goals). For a full list and explanation of the annual goals and objectives, please refer to the General Section.

3. Rating Factor 3: Soundness of Approach (50 Points). This factor addresses the relationship between the need proposed in Factor 2, the quality and effectiveness of the proposed research and methodology and the actions regarding HUD's policy priorities. This factor will be evaluated based on the extent to which the proposed work plan will demonstrate the following:

a. (22 Points) Quality of Research.

(1) State the proposed research question/hypotheses and how it relates to the need you described in Factor 2;

(2) Describe in detail the proposed research design as it relates to the question/hypotheses stated above;

(3) Explain how the proposed methodology will be used to complete the proposed manuscript/dissertation;

(4) Discuss why you think the research design and methodology proposed is most appropriate and will produce data and information that will successfully answer the research hypothesis;

(5) Identify potential obstacles in completing the research and discuss how they will be handled. If your research is dependent on any data sources that are not readily obtainable and require obtaining permission to access them, please outline the alternatives that will be utilized to complete the research should access to the data sources not be obtained; and

(6) Describe the quality assurance mechanisms that will be integrated into the proposed research design to ensure the validity and quality of the results.

b. (20 Points) Specific Activities. The work plan must identify all the major tasks/benchmarks involved in completing the proposed research. The tasks/benchmarks must be presented in a logical sequence of steps and phases, with individual tasks described for each, as well as plans for data management and analysis.

(1) Indicate the sequence in which these tasks/benchmarks will be performed;

(2) The sequence and duration of this effort should be presented in quarterly (3 month) intervals for the entire life of the grant (use of a milestone chart to present this information is recommended);

(3) Describe the plan that will be used to manage and analyze the data; and

(4) Identify any key individuals assisting in the proposed activities. Efforts on the part of the doctoral student who proposes extremely complex and time-consuming data collection efforts (e.g., major longitudinal studies or a very large number of site visits within the grant period) will be determined less feasible for completion within the allotted grant performance period. For example, if the proposed methodology is based on information that may not be publicly available until after the end of the grant period (e.g., Census information), or a data collection plan that will take longer than the allotted grant performance period, zero points will be awarded for this factor.

The major tasks and benchmarks/deliverables identified must be consistent with those present on the HUD-96010, Program Outcome Logic Model.

c. (2 Points) HUD Policy Priorities. As described in the General Section, to earn points under this subfactor, HUD requires applicants to undertake specific activities that will assist the Department in implementing its policy priorities and that help the Department achieve its goals and objectives in FY 2009. In addressing this subfactor, HUD will evaluate the extent to which a program will further and support HUD priorities. The quality of the responses provided to one or more of HUD's priorities will determine the score an applicant can receive. Applicants must describe how each policy priority is addressed. Applicants that just list a priority will receive no points.

The total number of points an applicant can receive under this subfactor is two (2). Each policy priority addressed has a point value of one (1) point, with the exception of the policy priority related to removal of regulatory barriers to affordable housing, which has a value of up to two (2) points. To receive these two (2) points, an applicant must: (1) Submit either Part A or Part B (not both) of completed questionnaire, HUD-27300, “HUD's Initiative on Removal of Regulatory Barriers,” found in the General Section; (2) include appropriate documentation; (3) identify a point of contact; and (4) indicate how this priority will be addressed. It is up to the applicant to determine which of the policy priorities they will address in order to receive the available two (2) points.

d. (3 Points) Dissemination Strategies. In reviewing this subfactor, HUD will assess the doctoral student's ability to disseminate results of the research. Describe your plan to disseminate the research. Common dissemination strategies include proposing to present the research at academic and professional conferences, publishing research in peer-reviewed academic journals or research briefs and editorials in trade publications, issuing press releases, targeted mailings, use of Web sites, e-mail, list-serves, and other efforts intended to target findings to a relevant audience of researchers, policy makers and practitioners.

e. (3 Points) Institutional Support. This subfactor addresses the student's ability to secure support from their institution. The student must provide a support letter from the institution that details and outlines the specific types of support/resources the institution will provide to support the student's research (i.e., labor cost to transcribe interviews, assistance with cost associated with data collection, student workspace, etc.). This support must be in addition to what is provided to all PhD. students. The letter must also describe the dollar value of the in-kind goods and/or service committed. This letter must be included with the application at the time of submission and be signed by the appropriate executive officer/official authorized at the University.

4. Rating Factor 4. Achieving Results and Program Evaluation (10 Points). This factor reflects HUD's goal to embrace high standards of management and accountability. It measures the student's commitment to assess their performance to complete their proposed research within the grant performance period. Students are required to develop an effective, quantifiable, outcome oriented evaluation plan for measuring performance and determining the outputs to achieve their proposed outcome(s). The Program Outcome Logic Model is a summary of the narrative statements presented in Factors 1 through 3. Therefore, it should be consistent with the information contained in the narrative statements.

In evaluating this factor, HUD will assess the extent to which the applicant demonstrates how results of the project will be measured as outlined in the proposed work plan. To meet this factor requirement, applicants must submit a completed HUD-96010, “HUD Program Outcome Logic Model.” Applicants must select from the list of activities and outcomes to determine their specific methods and measures that will be used to assess progress and evaluate program effectiveness. If an item is not found on the list of activities or outcomes, applicants can select “other” and then insert the activity and/or outcome and unit of measurement. Applicants can use the “other” option for up to three activities and three outcomes. See the instructions tab in the Logic Model for further details. HUD will not accept activities or outcomes selected as “other” that do not contain an identified statement of the activities/outcomes or units of measurement. Utilizing this form will help grantees to ensure that performance measures are being met and they are establishing achievable realistic goals.

a. Program Outcome Logic Model instructions (using a Microsoft Excel™ form) are provided in the forms appended to the Instruction Download from http://www.grants.gov/applicants/apply_for_grants.jsp. Applicants that do not have access to Microsoft Excel™ should contact the NOFA Information Center at (800) HUD-8929. Individuals with hearing or speech impairments may access this number via the toll-free Federal Information Relay Service at (800) 877-8339 and/or The Center for Applied Management Practices at (717) 730-3705 (this is not a toll-free number).

Note: A narrative response is not required for this factor as all applicants must use the logic model form to respond to this factor. However, if a narrative is included, these pages will be included in the page count. HUD has developed a new approach to completing this form. Applicants should also review the Program Outcome Logic Model training, which can be found online at: http://www.hud.gov/Webcasts/index.cfm.

b. HUD will review the outputs and outcomes in relation to the needs identified. “Outcomes” are ultimate goals. A student must clearly identify the outcomes to be measured and achieved. Examples of outcomes are the completion of the research manU.S.C.ript/dissertation, the cultivation of research skills to the student, the plan to disseminate the research, and the benefits of the research study to HUD's policy priorities and annual goals and objectives.

In addition, a student must establish outputs that lead to the ultimate achievement of the outcomes. “Outputs” are the direct benchmarks and indicators that will allow a student to measure their performance. Performance indicators should be objectively quantifiable and measure actual achievements. At a minimum, an applicant must address the following activities in the evaluation plan:

(1) Identify benchmarks that will be used to track the progress of your study; and

(2) Indicate the sequence in which tasks will be performed.

Students must also reference policy priorities, as stated in your response to Factor 3, and relate them to the project's goals, as appropriate.

HUD will evaluate the Program Outcome Logic Model in accordance with the matrix provided in Attachment 1 of the General Section.

B. Review and Selection Process

1. Application Selection Process.

Two types of reviews will be conducted:

a. A threshold review to determine an applicant's basic eligibility; and

b. A technical review for all applications that pass the threshold review to rate and rank the application based on the “Rating Factors” listed in Section V.A.

Only those applications that pass the threshold review will receive a technical review and be rated and ranked.

2. Rating Panels. To review and rate applications, HUD may establish panels that may include experts or consultants not currently employed by HUD. These individuals may be included to obtain certain expertise.

3. Ranking. In order to be funded, an application must receive a minimum score of 75 points out of a possible 100 for Factors 1 through 4. The RC/EZ/EC-II communities' two bonus points described in the General Section do not apply to this NOFA. HUD will fund applications under each program in rank order, until all available program funds are awarded. If two or more applications have the same number of points, the application with the higher points for Factor 3, shall be selected. If there is still a tie, the application with the higher points for Factor 2, shall be selected. HUD reserves the right to reduce the amount of funding requested in order to fund as many highly ranked applications as possible. Additionally, if funds remain after funding the highest ranked applications, HUD may fund part of the next highest-ranking application. If an applicant turns down the award offer, HUD will make an offer to the next highest-ranking application.

4. Correction to Deficient Applications. See the General Section.

C. Anticipated Announcement and Award Dates

Announcements of awards are anticipated on or before September 30, 2008.

VI. Award Administration Information

A. Award Notices

After all selections have been made, HUD will notify all winning applicants (not students) in writing. HUD may require winning applicants to participate in additional negotiations before receiving an official award. For further discussion on this matter, please refer to the General Section.

B. Administrative and National Policy Requirements. Refer to the General Section

1. Debriefing. The General Section provides the procedures for requesting a debriefing. All requests for debriefings must be made in writing and submitted within 30 days of receipt of comments to Susan Brunson, Office of University Partnerships, Department of Housing and Urban Development, 451 Seventh Street, SW., Room 8106, Washington, DC 20410-6000. Applicants may also write to Ms. Brunson via e-mail at Susan.S.Brunson@hud.gov.

2. Environmental Requirements. The provision of assistance under these programs is categorically excluded from environmental review under the National Environmental Policy Act of 1969 (42 U.S.C. 4321) and not subject to compliance actions for related environmental authorities under 24 CFR 50.19(b)(1) and (b)(9).

3. Administrative. Grants awarded under this NOFA will be governed by the provisions of 24 CFR part 84 (Grants and Agreements with Institutions of Higher Education, Hospitals, and Other Non-Profit Organizations), OMB Circular A-21 (Cost Principles for Educational Institutions) and OMB Circular A-133 (Audits of States, Local Governments, and Non-Profit Organizations). Applicants can access the OMB circulars at the White House Web site at: http://www.whitehouse.gov/omb/circulars/index.html.

C. Reporting Requirements

All doctoral students that receive grant funds under this program NOFA are required to submit a report and Program Outcome Logic Model halfway through the grant period, on the progress to date that has been made toward completion of the research product and the likelihood that it will be completed on time.

At the end of the grant performance period doctoral students must submit to HUD two copies and a CD-Rom of the approved manuscript/dissertation in its final version and a final complete Program Outcome Logic Model. Titles of the manuscript/dissertation must not be changed from the title awarded unless prior approval has been received from HUD.

VII. Agency Contacts

Doctoral students may contact Susan Brunson, Office of University Partnerships at (202) 402-3852 or Sherone Ivey at (202) 402-4200. Persons with speech or hearing impairments may call the Federal Information Relay Service TTY at 800-877-8339. Except for the “800” number, these telephone numbers are not toll-free. Students may also reach Ms. Brunson via e-mail at Susan.S.Brunson@hud.gov and/or Sherone Ivey at Sherone.Ivey@hud.gov.

VIII. Other Information: Paperwork Reduction Act

The information collection requirements contained in this document have been approved by the Office of Management and Budget (OMB) under the Paperwork Reduction Act of 1995 (44 U.S.C. 3501-3520) and assigned OMB control number 2528-0216 (for the Early Doctoral Student Research Grant Program) and 2528-0213 (for the Doctoral Dissertation Research Grant Program). In accordance with the Paperwork Reduction Act, HUD may not conduct or sponsor, and a person is not required to respond to, a collection of information unless the collection displays a currently valid OMB control number. Public reporting burden for the collection of information is estimated to average 44 hours per annum per respondent for the application and grant administration. This includes the time for collecting, reviewing, and reporting the data for the application, semi-annual reports, and final report. The information will be used for grantee selection and monitoring the administration of funds. Response to this request for information is required in order to receive the benefits to be derived.

Fair Housing Initiatives Program

Overview Information

A. Federal Agency Name: Department of Housing and Urban Development, Office of Fair Housing and Equal Opportunity.

B. Funding Opportunity Title: Fair Housing Initiatives Program (FHIP).

C. Announcement Type: Initial Announcement.

D. Funding Opportunity Number: The OMB Approval Number is 2529-0033. The Federal Register number for this NOFA is FR-5200-N-11.

E. Catalog of Federal Domestic Assistance (CFDA) Number(s): Private Enforcement Initiative (PEI); Education and Outreach Initiative (EOI) 14.408.

F. Dates: The application deadline date shall be on or before July 9, 2008. Applications must be received and validated by Grants.gov no later than 11:59:59 pm on the application deadline date. Please see the General Section of the SuperNOFA (the General Section) published March 19, 2008 (73 FR 14882), for information on electronic deadline and timeliness requirements.

G. Optional, Additional Overview Content Information

1. Funding Breakdown. This year there are three initiatives: Private Enforcement, Education and Outreach, and the Fair Housing Organization Initiatives. The following is a breakdown of each Initiative (please see the chart located in Section III.A. of this NOFA for more information on each of these components):

a. Private Enforcement Initiative (PEI)

(1) General Component, and

(2) Performance Based Funding Component

b. Education and Outreach Initiative (EOI)

(1) Regional/Local/Community-Based

(a) General Component

(b) Clinical Law School Component. This Component provides legal practitioners with training in the area of fair housing. Eligible applicants are law schools accredited by the American Bar Association. The component is for the development and implementation of a legal curriculum that relates to fair housing.

(2) National-Based Program: National Media Campaign Component. There are two components under PEI (General and Performance Based Funding Components). Three under EOI (General, Clinical Law School, and National Med Campaign Components).

c. Fair Housing Organizations Initiative (FHOI). This initiative is to develop or expand the ability of existing eligible organizations to provide fair housing enforcement and to establish new fair housing enforcement organizations.

Continued Development Component. This component provides funding to QFHOs, FHOS, and Nonprofit groups organizing to build their capacity to provide fair housing enforcement. Only applicants who were sponsored under previous FHOI Establishing New Organizations component grants may apply under the Continued Development Component.

2. Electronic Applications. For FY2008, FHIP electronic applications will be available on http://www.Grants.gov//Fand_grant_opportunities.jsp and http://www.grants.gov//Apply_for_grants.jsp. For further instructions on electronic application submission requirements using Grants.gov, please read the General Section.

3. Fair Housing Initiatives Program (FHIP) Funding. FHIP funds are used to increase compliance with the Fair Housing Act (the Act) and with substantially equivalent State and local fair housing laws. Approximately $22,800,000 in FY2008 funds and any potential recapture is allocated to three (3) initiatives as follows:

a. Private Enforcement Initiative (PEI) $19,000,000;

b. Education and Outreach Initiative (EOI) $2,800,000;

c. Fair Housing Organizations Initiative (FHOI) $1,000,000.

4. Award Agreements. HUD expects to award a cost reimbursable cooperative agreement or grant agreement to each applicant selected for award. Upon completion of negotiations, HUD reserves the right to use the funding instrument it determines is most appropriate.

5. Eligible Applicants. Eligible applicants are Qualified Fair Housing Enforcement Organizations (QFHOs) and Fair Housing Enforcement Organizations (FHOs), see 24 CFR 125.103; public or private, for-profit or not-for-profit organizations or institutions and other public or private entities that are formulating or carrying out programs to prevent or eliminate discriminatory housing practices (including entities that will be established as a result of receiving an award under this FHIP NOFA); agencies of State or local governments; and agencies that participate in the Fair Housing Assistance Program (FHAP). For the EOI National Program, eligible applicants are QFHOs, other fair housing enforcement organizations, and other non-profit organizations representing groups of persons protected under title VIII of the Civil Rights Act of 1968.

6. Private Enforcement Initiative—Performance-Based Funding Component.

(a) Applicants awarded PBFC funding in FY 2006 and 2007 are not eligible to submit applications for additional PEI funding for a three-year period based upon the fiscal year in which the grant was awarded.

(b) Applicants awarded funding in FY 2008 under this component will be eligible to apply for additional PEI funding three fiscal years from the date the grant is awarded, subject to appropriations.

(c) If a grantee's performance is assessed by the HUD Government Technical Representative (GTR) as anything less than “Excellent”, then the grantee is both:

(i) Prohibited from drawing down funds on their current grant, and

(ii) Prohibited from receiving PBFC funding in the second or third grant year if applicable. Applicants selected for funding under the PBFC will be required to submit a Statement of Work (SOW) and a separate budget for each actual year of the agency's activities, for a period of three fiscal years commensurate with the level of funding and based upon appropriations.

7. Start Date. For planning purposes, assume a start date no later than October 19, 2008.

Full Text Of Announcement

I. Funding Opportunity Description

Authority. Section 561 of the Housing and Community Development Act of 1987, as amended, (42 U.S.C. 3616) established FHIP. The implementing regulations are found at 24 CFR Part 125. If you are interested in applying for funding under the FHIP, please review carefully the General Section of the SuperNOFA (hereafter, the General Section), the FHIP Authorizing Statute (Sec. 561 of the Housing and Community Development Act of 1987, as amended), and the FHIP Regulations (24 CFR 125.103-501).

A. FHIP Initiatives and Components

The FHIP assists fair housing activities that increase compliance with the Fair Housing Act and with substantially equivalent fair housing laws administered by State and local government agencies under the Fair Housing Assistance Program (FHAP). Recipients of FHIP funding are obliged to affirmatively further fair housing. Under the General Section, applicants for FHIP funds must address their obligation to affirmatively further fair housing in the application. Applicants must address housing discrimination covered by the Act. Consistent with the Department's FHIP rule at 24 CFR 125.105, applicants must describe practices in the proposed service area that adversely affect the achievement of the goal of fair housing; specify activities to address these adverse practices, to be conducted with FHIP funds including the final product(s) and/or any reports to be produced; and describe the expected long-term results. Applicants will provide this information in their responses to the Rating Factors or by a separate affirmatively furthering fair housing statement.

1. Private Enforcement Initiative (PEI). This Initiative assists private, tax-exempt fair housing enforcement organizations in the investigation and enforcement of alleged violations of the Act and substantially equivalent State and local fair housing laws. There are two components under this Initiative: the General Component and the Performance-Based Funding Component.

2. Education and Outreach Initiative (EOI). This Initiative assists organizations that inform the general public about their rights and obligations under the Act and substantially equivalent State and local fair housing laws. Under this Initiative, there are two programs with a total of three components. They are the EOI—Regional/Local/Community-Based Program (R/L/C-B), General Component and Clinical Law School Component, and the EOI—National-Based Program; National-Media Campaign Component.

EOI applicants are required to describe a referral process that will result in referral of fair housing complaints to HUD or Fair Housing Assistance Program (FHAP) substantially equivalent agencies. If funded, the grantee will be required to develop and implement the complaint referral process referenced in the application.

3. Fair Housing Organization Initiative (FHOI) This component provides funding to QFHOs, FHOs, and nonprofit groups organizing to build their capacity to provide fair housing enforcement. Only applicants who were sponsored under previous FHOI Establishing New Organizations Component grants may apply under the Continued Development Component.

B. Other

1. Program Definitions. The definitions that apply to this FHIP section of the NOFA are:

a. Broad-based proposals are those that address more than one type of housing transaction covered under the Act. Examples of covered housing transactions include the rental, sales, or financing of housing. (See also Full Service Projects below.)

b. Complainant means any person, including the Assistant Secretary for Fair Housing and Equal Opportunity at HUD, who files a complaint under Section 810 of the Fair Housing Act.

c. Disability Advocacy Groups means organizations that traditionally have advocated for the civil rights of persons with disabilities. This would include organizations such as Independent Living Centers and cross-disability legal services groups. Such organizations must be experienced in providing services to persons with a broad range of disabilities, including physical, cognitive, and psychiatric/mental disabilities. Such organizations must demonstrate actual involvement of persons with disabilities throughout their activities, including on staff and board levels.

d. Enforcement proposals are potential complaints under the Act that are timely, jurisdictional, and well-developed, and that could reasonably be expected to become enforcement actions if an impartial investigation found evidence supporting the allegations and the case proceeded to a resolution with HUD or FHAP agency involvement.

e. Fair Housing Act means Title VIII of the Civil Rights Act of 1968 as amended by the Fair Housing Amendments Act of 1988 (42 U.S.C. 3600-3620).

f. Fair Housing Assistance Program (FHAP) agencies as described in 24 CFR part 115 mean State and local fair housing enforcement government agencies that receive FHAP funds to administer laws deemed substantially equivalent to the Act.

g. Fair Housing Enforcement Organization (FHO) means an organization engaged in fair housing activities as defined in 24 CFR 125.103.

h. Full-service projects must include the following enforcement-related activities in the project application: Interviewing potential victims of discrimination; taking complaints; testing; evaluating testing results; conducting preliminary investigations; conducting mediation; enforcing meritorious claims through litigation or referral to administrative enforcement agencies; and disseminating information about fair housing laws.

i. Grassroots organizations see, General Section of the SuperNOFA.

j. Jurisdiction under the Act is established when the complaint is timely filed; the complainant has standing; the respondent and the dwelling involved (where the complaint involves a provision or denial of a dwelling) is covered by the Act; and the subject matter and the basis of the alleged discrimination constitute illegal practices as defined by the Act.

k. Meritorious claims means enforcement activities by an organization that resulted in lawsuits, consent decrees, legal settlements, HUD or substantially equivalent agency (under 25 CFR 115.6) conciliations and organization initiated settlements with the outcome of monetary awards for compensatory and/or punitive damages to plaintiffs or complaining parties, or other affirmative relief, including the provision of housing (24 CFR 125.103).

l. Mortgages with unacceptable terms or conditions or resulting from unacceptable practices means a mortgage or a group or category of mortgages with one or more terms or conditions as specified under 24 CFR 81.2.

m. Operating budget means an organization's total planned budget expenditures from all sources, including the value of in-kind and monetary contributions, in the period for which funding is requested.

n. Qualified Fair Housing Enforcement Organization (QFHO) means an organization engaged in fair housing activities as defined in 24 CFR 125.103.

o. Regional/Local/Community-Based Activities are defined at 24 CFR 125.301(a) and (d).

p. Rural Areas means any of the following:

(1) A non-urban place having fewer than 2,500 inhabitants (within or outside of the metropolitan areas).

(2) A county or parish with an urban population of 20,000 or fewer inhabitants or less.

(3) Territory, including its persons and housing units, in rural portions of “extended cities.” The Census Bureau identifies the rural portions of extended cities.

(4) Open country that is not part of or associated with an urban area. The USDA describes “open country” as a site separated by open space from any adjacent densely populated urban area. Open space includes undeveloped land, agricultural land, or sparsely settled areas, but does not include physical barriers (such as rivers and canals), public parks, commercial and industrial developments, small areas reserved for recreational purposes, or open space set aside for future development.

(5) Any place with a population not in excess of 20,000 and not located in a Metropolitan Statistical Area.

q. Statement of Work (SOW) means a document that accurately reflects all the tasks necessary to do the work, all the steps needed for good management control and specificity regarding work to be done and deliverables, and that provides a basis for mutual understanding of the requirements and tasks.

r. Technical Evaluation Panel (TEP) means a panel whose mission is to accomplish sound, impartial and comprehensive evaluation of proposals consistent with the guidelines of the Notice of Funding Availability.

s. Traditional Civil Rights Organizations mean non-profit organizations or institutions and/or private entities with a history and primary mission of securing Federal civil rights protection for groups and individuals protected under the Act or substantially equivalent State or local laws and that are engaged in programs to reduce discriminatory housing practices.

t. Underserved Areas mean jurisdictions where there are no Fair Housing Initiatives Program or Fair Housing Assistance Program agencies and where either no public or private fair housing enforcement organizations exist or the jurisdiction is not sufficiently served by one or more public or private enforcement fair housing organizations and there is a need for service.

u. Underserved Populations mean groups of individuals who fall within one or more of the categories protected under the Act and who are:

(1) Of an immigrant population (especially racial and ethnic minorities who are no English-speaking or limited English proficient);

(2) In rural populations,

(3) The homeless,

(4) Persons with disabilities (e.g., physical or mental) who can be historically documented to have been subject to discriminatory practices not having been the focus of Federal, State or local fair housing enforcement efforts, or

(5) Persons in areas that are heavily impacted with minorities and there is inadequate protection and ability to provide service from the State or local government or private fair housing organizations.

II. Award Information

For Fiscal Year 2008, $24,000,000 is appropriated for the Fair Housing Initiatives Program (FHIP). This appropriated amount may be supplemented by recaptured FHIP funds awarded in previous years. Of this amount, approximately $22,800,000 is being made available on a competitive basis to eligible organizations responding to this FHIP NOFA. See the chart in Section III.A. for a program breakdown by Initiative/Component, eligible applicant, funding, and project period.

A. Award Instrument. The type of funding instrument HUD may offer a successful applicant which sets forth the relationship between HUD and the awardee will be a grant or cooperative agreement, where the principal purpose is the transfer of funds, property, services, or anything of value to the awardee to accomplish an eligible public purpose. The agreement will identify the eligible activities to be undertaken, financial controls, and special conditions, including sanctions for violations of the agreement. HUD will determine the type of instrument under which the award will be made and monitor progress to ensure that the grantee has achieved the objectives set out in the agreement. Failure to meet such objectives may be the basis for HUD determining the awardee to be in default of the grant or cooperative agreement and exercising available sanctions, including suspension, termination, and/or the recapture of funds. Also, HUD may refer violations or suspected violations to enforcement offices within HUD, the Department of Justice, or other enforcement authorities.

If funds are awarded as a Cooperative Agreement, HUD will also exercise the right to have substantial involvement by conducting quarterly reviews and approval of all proposed deliverables documented in the applicant's Work Plan or Statement of Work (SOW), and determining whether the agency meets all certification and assurance requirements. HUD will conduct this performance assessment, in part, by using the Logic Model (HUD-96010) submitted by the applicant and approved by HUD in the award agreement (Rating Factor 5). If upon completion of this assessment by the Government Technical Representative (GTR) a determination is made that the quarterly requirements have not been met, the grantee will be obligated to provide additional information or make modifications to its work plan and activities, as necessary, in a timeframe to be established by the GTR.

B. Project Starting Period. For planning purposes, assume a start date no later than October 19, 2008.

III. Eligibility Information

A. Eligible Applicants and Activities

The following chart details each FHIP Initiative/Component and the approximate Funding Available along with Eligible Applicants and Activities:

Initiative/Component | Allocation amount available | Applicant eligibility | Project period | Award caps | Applicant eligible activities
Private Enforcement Initiative (PEI)—General Component: Assists private, tax-exempt fair housing enforcement organizations in the investigation and enforcement of alleged violations of the Fair Housing Act and substantially equivalent State and local fair housing laws | $4,000,000 | Fair Housing Enforcement Organizations (FHOs) with at least one year of experience in complaint intake, complaint investigation, testing for fair housing violations, and meritorious claims in the two years prior to the filing of the application (24 CFR 125.401(b)(2) and Qualified Fair Housing Enforcement Organizations (QFHOs) with at least two years of enforcement related experience as noted above, and meritorious claims in the three years prior to filing this application (24 CFR 125.103) | 12-18 months | $275,000 | Eligible activities include: (1) Complaint intake of allegations of housing discrimination, testing, evaluating testing results, or providing other investigative and complaint support for administrative and judicial enforcement of fair housing laws; (2) Investigation of individual complaints and systemic housing discrimination for further enforcement processing by HUD through testing and other investigative methods; (3) Mediation or other voluntary resolution of allegations of fair housing discrimination after a complaint has been filed; and (4) litigating fair housing cases including procuring expert witnesses.
Private Enforcement Initiative (PEI)—Performance Based Funding Component (PBFC): Assists private, tax-exempt fair housing enforcement organizations in the investigation and enforcement of alleged violations of the Fair Housing Act and substantially equivalent State and local fair housing laws | $15,000,000 | QFHOs (with at least two years of enforcement related experience) who have (1) received excellent performance reviews for FHIP PEI awards made in two FYs (FY pertains to the year for which the funding was appropriated) beginning with FY 2002 through FY 2006; and (2) have received a minimum score of 95 on the most recent of the two of these performance reviews by the FHEO Government Technical Representative | 36 months | $275,000 per year for a three-year duration, based upon appropriations. Eligible PBFC applicants must receive a minimum score of 95 from the FY '08 Technical Evaluation Panel (TEP) to be considered for funding | For a list of eligible activities see PEI activities above.
Education and Outreach Initiative (EOI)—General Component: Open to applicants for fair housing education and outreach activities. Applicants may also address the fair housing needs of persons with disabilities, the education of consumers about fair housing, financial literacy, credit management, and how to avoid high cost loans and abusive lending practices that violate the Fair Housing Act | $1,300,000 | QFHOs, FHOs, public or private for profit or not for profit organizations or institutions, or other public or private entities that carry out programs to prevent or eliminate discriminatory practices. This includes agencies of State or local governments and agencies that participate in the Fair housing Assistance Program (FHAP). See FHIP NOFA—Eligibility information | 12-18 months | $100,000 | Eligible activities may include, but are not limited to conducting educational symposia or other training; developing innovative fair housing activities or materials into languages applicable to your community throughout your project area; providing outreach and information on fair housing through printed and electronic media; developing and distributing FH brochures, PSAs for radio, television, and newspaper advertisements.
Education and Outreach Initiative (EOI) Clinical Law School Component: Applications are solicited for this component to organize and operate a fair housing legal-clinical education program that will benefit the public by producing well-trained clinicians and lawyers who are capable of educating and informing the public on fair housing rights and obligations | $500,000 | Applicants who are accredited by the American Bar Association | 12 months | $500,000 | In addition to the above, activities must include the following: developing curricula and conducting training, seminars, conferences and /or, symposia for students, clinicians and lawyers on fair housing rights and obligations.
Education and Outreach Initiative (EOI)—National-Based Program—National Media Campaign Component: Applicants must provide a centralized coordination effort for the development, implementation, and distribution of a fair housing media campaign with emphasis on a fair housing public service announcement | $1,000,000 | QFHOs, other fair housing enforcement organizations, and other non-profit organizations representing groups of persons protected by under title VIII of the Civil Rights Act of 1968 | 12 months | $1,000,000 | Eligible activities may include seminars, conferences, symposia, developing and distributing brochures, PSAs, and radio, television and newspaper advertisements (in various languages). The above activities must be conducted on a national level.
Fair Housing Organizations Initiative (FHOI)—Continued Development Component | $1,000,000 | QFHOs, FHOs and Nonprofit groups organizing to build capacity to provide fair housing enforcement. Only applicants who were sponsored under previous FHOI Establishing New Organizations Component grants may apply under the Continued Development Component | 12 months | $100,000 to $150,000 based on Need, Extent of the Problem, and Budget Requirements | See PEI above.

Eligibility of Successor Organizations for PEI. HUD recognizes that QFHOs and FHOs may merge either with each other or other organizations. The merger of a QFHO or an FHO with a new organization that has a separate Employer Identification Number (EIN) does not confer QFHO or FHO status upon the successor organization. To determine whether the successor organization meets eligibility requirements for this Initiative, HUD will look at the enforcement-related experience of the successor organization (based upon the successor organization's EIN). The successor organization must establish in its application that it is a private, tax-exempt organization with the requisite two years of enforcement-related experience for a QFHO or one year experience for an FHO to be eligible to apply under the PEI Initiative.

B. Cost Sharing or Matching. No matching funds are required for the Education and Outreach, Private Enforcement, or Fair Housing Organizations Initiatives.

C. Other

1. Threshold Requirements

Program Requirements for All Initiatives. In addition to the civil rights and other threshold requirements found in Section III of the General Section, FHIP program applications must also meet the following requirements:

a. Protected Classes. All FHIP-funded projects must address housing discrimination based upon race, color, religion, sex, disability, familial status, and/or national origin. All services and activities must be available to the protected class members.

b. Tax Exempt Status. Applicants for the PEI Initiative must be a 501(c)(3) tax-exempt organization as determined by the Internal Revenue Service (IRS) prior to the application deadline date to be eligible for funding. Please provide an IRS report showing 501(c)(3) status.

c. Name Check Review. See the General Section.

d. Poor Performance. Applicants are ineligible for funding if they are previous FHIP grantees that have received a “Poor” performance rating for their most recent performance rating by the Government Technical Representative (GTR). HUD will assess performance ratings for applicants who have received FHIP funding in grant years 2004 through 2006. If the applicant has received a “Poor” performance rating for its most recent performance rating by the GTR, the application is then ineligible for the FY2008 competition. An applicant that disagrees with its determination of ineligibility for the FY2008 competition because of a “Poor” performance rating must adequately address the factors resulting in the “Poor” performance rating to HUD's satisfaction before the FHIP application deadline date. If the “Poor” performance rating is not resolved to the Department's satisfaction before the application deadline date, the applicant is ineligible to apply for the FY2008 FHIP NOFA competition. HUD is interested in improving the performance of all grantees; therefore, applicants who are deemed ineligible because of a “Poor” performance rating have the right and are encouraged to seek HUD technical assistance to improve their performance to be eligible for future NOFA competitions. Applicants who received a “Poor” performance rating prior to FY2004 must provide written documentation that they have implemented remedies to address those identified issues and concerns that contributed to this “Poor” performance rating. This written documentation should be an addendum to the Abstract.

e. Suits Against the United States. An application is ineligible for funding if, as a current or past recipient of FHIP funds, the organization used any funds provided by HUD for the payment of expenses in connection with litigation against the United States (24 CFR 125.104(f)).

f. Other Litigation. An application is ineligible for funding if the organization used funds provided by HUD under this program to settle a claim, satisfy a judgment, or fulfill a court order in any defensive litigation (42 U.S.C. 3616 note Sec. 561(i)).

g. Maximum Award. Applicants are ineligible for funding if they have requested funding in excess of the maximum amount allowed under the Initiative or Component for which they applied. In addition, inconsistencies in the requested amount and/or miscalculations that result in amounts over the maximum award amounts will be considered excessive; therefore the application will be considered ineligible.

h. Dun and Bradstreet Numbering System (DUNS) Numbering Requirement. Refer to the General Section for information regarding the DUNS requirement. You will need a DUNS number to complete your electronic application because it is a mandatory field on the electronic application. The Grants.gov registration also requires use of the DUNS number.

i. Majority of Eligible Activities. Greater than 80 percent of the activities and costs within the Statement of Work (SOW) and budget must be fair housing related activities.

j. Fair Housing Assistance Program (FHAP). FHAP agencies under a suspension based on agency performance, as designated under 24 CFR 115.211(b) at time of application are ineligible for funding.

k. Minimum Technical Evaluation Panel (TEP) Score. HUD convenes a Technical Evaluation Panel (TEP) to review applications against the Rating Factors in this NOFA to determine a score. Applicants must receive a minimum TEP score of 75 to be considered for funding except for the PEI Performance Based Funding Component where a minimum score of 95 is necessary to be considered for funding.

l. Application Preference. Applicants may submit multiple applications to the FHIP NOFA. For those who submit multiple applications you may receive only one award. Grantees who received previous PEI-PBFC awards that are current are not eligible to receive other FHIP funds.

m. Independence of Awards. The application submitted must be independent and capable of being implemented without reliance on the selection of other applications. Applicants applying under the Education and Outreach Initiative may not use the performance (e.g., performance review rating or successfully completed activities) of another EOI organization to meet the requirements of Rating Factor 1.

n. Training Funds. The proposed budget must set aside funds in the amount of $7,000 for EOI, PEI and FHOI components and $7,000 annually for a 36-month duration for PBFC to participate in HUD mandatory sponsored or approved training.

Do not specify amounts over $7,000 for training set-aside in this category. If an applicant has not included this funds allocation in the budget and the applicant is selected for an award, HUD will modify the applicant's budget, reallocating the appropriate amount for training.

o. Accessibility Requirements. All activities, facilities, and materials funded by this program must be accessible to and visitable by persons with disabilities (24 CFR 8.2, 8.4, 8.6, and 8.54). See General Section for definition of “visitable” or HUD's Web site at http://www.concretechange.org.

p. Fair Housing Act. Applicants are expected to address housing discrimination covered under the Act. HUD is determined to ensure equal opportunity and access to housing in communities across the nation.

q. Research Activities. Applicants are ineligible for funding if between 90-100 percent of their project is aimed at research.

r. Limited English Proficiency (LEP). Successful applicants must ensure that their programs do not exclude persons on the basis of race, color, and national origin under Title VI of the Civil Rights Act. This may mean providing language assistance services for persons with limited English proficiency on the basis of their nationality. The Department published Final Guidance to Federal Financial Assistance Recipients Regarding Title VI Prohibition Against National Origin Discrimination Affecting Limited English Proficient Persons (72 FR 2732), published in the January 22, 2007 Federal Register, to assist recipients in identifying language assistance needs and developing language assistance strategies.

s. OMB Circular. For-profit awardees are not allowed to earn a profit and must adhere to OMB Circular A-133.

t. Single Audit Requirement. All applicants who have expended $500,000 or more in Federal financial assistance within a single year (this can be a program or fiscal year) must be audited in accordance with the OMBA-133 requirements as established in 24 CFR part 84 and 24 CFR part 85.

u. Reimbursement Requirement. PEI and FHOI grantees are required to reimburse the Federal government the amount of the grant from all settlements, conciliations, and agreements reached as a result of their use of FHIP funds. The grantees however may choose to use the funds as program income to further fair housing activities rather than returning these funds to HUD. Using these funds for this purpose must be pre-approved in writing by the Government Technical Representative assigned to the grant.

v. Clinical Law School Component. To be eligible under this Component, an institution must be:

(1) Recognized by the American Bar Association as having an accredited law school;

(2) Legally authorized by the State where it is located to provide a bachelor's degree program and a law degree program;

w. National Based Program—National Media Campaign Component. Applicants as their primary purpose must provide advertising and media services, and must have at least five years of experience as an advertisement/media or public relations organization. In addition, an applicant must include as part of its application proposal a subcontract with an established qualified fair housing enforcement organization or be a qualified fair housing enforcement organization. Applicants will be ineligible if they fail to meet these requirements. Applicants should also address Limited English Proficiency within their applications.

x. Fair Housing Organizations Initiative—Continued Development Component. This component provides funding to QFHOs, FHOs, and Nonprofit groups organizing to build their capacity to provide fair housing enforcement. Only applicants who were sponsored under previous FHOI-Establishing New Organizations Components (ENOC) grants, prior to FY2005, may apply under the Continued Development Component.

y. Fair Housing Organizations Initiative—ENOC grantees are required to complete three years of grant experience, starting from the date the grant agreement is executed, before receiving any other FHIP funding.

2. Other Program Requirements by Initiative. Under the PBFC in FY2008, applicants must receive a minimum TEP score of 95 to be considered for funding.

3. Performance Measures and Products. For All Initiatives and Components. Applicants must submit in their application a Logic Model (Form HUD 96010), which provides outputs and outcomes. Applicants are also to identify the tools they will use to identify program progress against their proposed outputs and outcomes. See reporting requirements for using the Logic Model and the frequency of the reporting. The form is located in the Instruction Download at http://www.grants.gov/applicants/apply_for_grants.jsp for the FHIP. An example of a completed Logic Model is included in this NOFA. The eLogic Model form is a Microsoft Excel™ form, which provides a drop-down list from which the applicant selects the responses that best fits their proposed program of activities/outputs and outcomes. The form, in HTML fillable format and a text Logic Model Master file, is available on the Web site at http://www.grants.gov/applicants/apply_for_grants.jsp for applicants that do not have access to Microsoft Excel™. Training will be provided by satellite broadcast and Webcast. The training materials and schedule will be available at the above HUD Web site. Applicants should check the Web site for dates and times for HUD training on the Logic Model.

4. Testing Requirements for PEI and FHOI Applicants. All applicants that propose testing must review the FHIP Regulation at 24 CFR 125.10 and address these requirements in their application.

a. Review and Approval of Testing Methodology. If your application proposes testing, other than rental housing testing, HUD may require you to submit copies of the following documents to HUD for review and approval prior to your carrying out the testing activities.

(1) The testing methodology to be used;

(2) The training materials to be provided for testing; and

(3) Other forms, protocols, cover letters, etc., used in the conduct of testing and reporting of results.

If HUD approved your testing methodology for FY2006 and FY2007, you do not need to resubmit your testing methodology, unless your methodology approved by HUD is being revised. If changes are being considered or you have not had your testing methodology previously approved by HUD, you must submit a request for approval in your application.

b. Retainer Fees. FHIP recipients are under specific restrictions regarding establishment of retainer agreements and recovery of legal fees from HUD funded cases. Data on fees, settlements, and verdicts are matters of public record. Awardees must provide this information to HUD on an annual basis. Neither the grantee nor the individual(s) on whose behalf any action is filed can request to HUD to waive these provisions.

IV. Application and Submission Information

A. Obtaining an Application. This section describes how you may obtain application forms and additional information about the FHIP. Copies of the published General Section, FHIP NOFA and application forms may be downloaded from the Grants.gov Web site at http://www.grants.gov or if you have difficulty accessing the information you may receive customer support from Grants.gov by calling their help line at (800) 518-GRANTS or sending an e-mail to support@grants.gov. If you do not have internet access and you need to obtain a copy of the NOFA you may contact HUD's NOFA Information Center toll-free at (800) HUD-8929. Persons with hearing or speech impairments may access the Information Center by calling the Federal Information Relay Service at (800) 877-8339.

B. Content and Form of Application Submission

All applicants must read and adhere to Initiative-specific submission requirements. Applicants are encouraged to review the chart entitled “Summary of Initiatives/Components.” To submit documents using the facsimile method, see the General Section for specific procedures governing facsimile submission.

1. For All Applicants. The maximum length of the narrative response is ten (10) pages per factor. The narrative pages must be double-spaced. This includes all text, titles and headings. (However, you may single space footnotes, quotations, references, captions, charts, forms, tables, figures and graphs.) You are required to use 12-point font. You must respond fully to each rating factor to obtain maximum points. Failure to provide narrative responses to all factors other than factor five or omitting requested information will result in less than the maximum points available for the given rating factor or sub-factor. Failure to provide double-spaced, 12-point font narrative responses will result in five points being deducted from your overall score.

2. The chart below gives a brief description of all items to be included in the application:

Complete application package contains | Required form and content
Application for Federal Assistance | Form SF-424; (per required form).
Survey for Ensuring Equal Opportunity for Applicants | SF-424 Supplement (“Faith Based EEO Survey (SF-424 SUPP)” on Grants.gov); (per required form).
Budget information | Forms SF-424CB and SF-424-CBW) (“HUD Detailed Budget Form and Worksheet” on Grants.gov); (per required form).
Disclosure of Lobbying Activities | SF-LLL, if applicable; (per required form).
Applicant-Recipient Disclosure Update Report | HUD-2880 (“HUD Applicant Recipient Disclosure Report” on Grants.gov); (per required form).
Certification of Consistency with RC/EZ/EC-IIs Strategic Plan | HUD-2990; (per required form).
Acknowledgement of Applicant receipt (Required only if you are granted waiver to the electronic application requirement) | HUD-2993; (per required form).
You are our client grant application survey (optional) | HUD-2994-A; (per required form).
Program Outcome Logic Model | HUD-96010; (per required form).
Third Party Documentation Facsimile Transmittal | HUD-96010 (“Facsimile Transmittal Form” on Grants.gov); (per required form).
Facsimile Transmittal Form | HUD-96011; (per required form).
Race and Ethnic Data Reporting Form | HUD-27061; (per required form).
America's Affordable Communities Initiative | HUD-27300 (“HUD Communities Initiative Form” on Grants.gov); (per required form).
Narrative for Rating Factors 1-4 | Format described in Section IV.B of this announcement; Described in Section IV.B of this announcement.
Statement of Work | Format described in Section V A.3.b of this announcement.
Narrative Budget Work Plan | Format described in Section V.A.3.c of this announcement.
Commitment letters from third parties contributing funds or in-kind resources | No specific form or format, but content is specified under Rating Factor 4; Third parties' affirmations of amounts of their commitments.
Affirmatively Furthering Fair Housing Statement | Short summary of how the applicant will address their obligation to affirmatively further fair housing. No specific form or format.
Addendum to Abstract—Correction of Poor Performance (as appropriate) | Written documentation that performance issues and concerns have been cured. No specific form or format.
Project Abstract | Short summary of project activities, areas of concentration and persons to be served. Amount requested and preference for funding, as applicable. No specific form or format.

C. Submission Dates and Times. Applications must be received and validated by http://www.grants.gov/applicants/apply_for_grants.jsp no later than 11:59.59 PM Eastern Time on the application deadline date of July 9, 2008 to be considered timely filed. Validation may take up to 72 hours; therefore, confirmation of receipt of your application by Grants.gov is not a validation that your application was complete and acceptable to HUD. Grants.gov will also reject applications that do not meet the submission deadline requirement. See the General Section for further details.

D. Intergovernmental Review. Intergovernmental Review is not applicable to this program.

E. Funding Restrictions

1. PEI and FHOI Limitations for Education & Outreach—There is a 10 percent limit on the dollar amount allowed for education and outreach related activities that can be funded in an enforcement award. If you exceed the limit, points will be deducted in the rating process and if awarded, funds will be adjusted to maintain the required limitation.

2. Administrative Costs. Eligible administrative costs include leases for office space, under the following conditions:

(1) The lease must be for facilities not requiring rehabilitation or construction;

(2) No repairs or renovations of the property may be undertaken with Federal funds; and

(3) Properties in the Coastal Barrier Resource System designated under the Coastal Barrier Resources Act (16 U.S.C. 3501) cannot be leased with Federal funds.

F. Other Submission Requirements. Electronic delivery via http://www.grants.gov/applicants/apply_for_grants.jsp is HUD's required method for application submission. Applicants interested in applying for FHIP funding must submit their applications electronically or request a waiver from the Assistant Secretary of FHEO. The request must state the basis for the waiver. HUD's regulation on waivers, found in 24 CFR part 5, states that waivers can be granted for cause. Applicants must submit their waiver requests, in writing at least 15 days prior to the application deadline, to Ms. Kim Kendrick, Assistant Secretary for Fair Housing and Equal Opportunity, 451 7th Street, SW., Room 5100,Washington, DC, 20410. A copy of all waiver requests must simultaneously be submitted to Myron P. Newry, Director, FHEO-FHIP Support Division, (same address as above), Room 5226, or by e-mail to Myron.P.Newry@hud.gov. If granted a waiver, the notification will provide instructions on where to submit the application and how many copies are required. HUD will not accept a paper application without a waiver being granted. If you receive a waiver of the electronic application submission requirement, your application must be received by HUD no later than 11:59:59 PM on July 9, 2008, the application submission deadline date.

V. Application Review Information

A. Criteria for PEI, EOI, and FHOI applications (other than the National Based Program) and FHOI applications. The criteria for rating and ranking applications, as well as the maximum points for each Rating Factor, are provided below. The maximum number of points awarded any application is 100. An additional two Bonus Points may apply (See General Section).

1. Rating Factor 1: Capacity of Applicant and Relevant Organizational Experience (25 Points)

You must describe staff expertise and your organization's ability to complete the proposed activities within the grant period. If you are a current FHIP grantee and you received a “Fair” performance rating on your current FHIP grant, you will receive “0” points under this factor for subfactors (b) and (c).

In General. You must describe your staffing plan and the extent to which you plan to add staff (employees) or contractors. If your application proposes using contractors and these subcontractor activities amount to more than 10 percent of your total activities, you must submit a separate budget for each subcontractor. Failure to include a separate budget will result in your application receiving lower points.

a. Number and expertise of staff (this includes contractors and consultants). (5) Points for current FHIP grantees, (10) Points for New Applicants. You must provide a complete summary of staff expertise that will show sufficient, qualified staff that will be available to complete the proposed activities. This summary should include: Names of staff person(s), amount of time each will spend on project, number of years of fair housing/civil rights experience for each person, titles of staff persons, and a brief paragraph on each staff member which outlines his or her experience. Do not include resumes or other lengthy or detailed documents. Applicants who submit resumes or other lengthy documents relating to staff experience will have points deducted from their application when the ten-page per rating factor submission requirement limit is exceeded.

For PEI and FHOI Only: To receive maximum points for PEI and FHOI, your day-to-day program manager must devote a minimum of 75 percent of his/her time to this project. This individual must be located in the metropolitan area where the project will be carried out. This information must be included in the response to this Factor. PEI and FHOI applicants whose day-to-day managers do not have at least 75 percent of their time dedicated to the project, will be awarded no points under this sub-factor. You may not designate more than one person to meet this 75 percent criterion. Your application must also clearly identify those persons that are staff at the time this submission, and those persons who will be assigned at a later date. Indicate whether the staff person is assigned to work full-time or part-time (if part-time, indicate the percentage of time each person will devote to the project). EOI applicants must devote at least 50% of their time to the project.

If you are applying for the EOI-Clinical Law School Component, you must:

(1) Show that you will have sufficient, qualified staff or faculty who will be available to initiate and develop a clinical law curriculum. Applicants may show experience by including information on the development and implementation of other curriculum and/or training in areas such as fair housing. Please provide a copy of a curriculum implementation plan, if available, and/or information on developing a curriculum.

(2) Have experience in recruitment of law students (submit a projection of the number of students expected to participate in and complete the program), marketing (submit a plan to promote the fair housing curriculum and clinical law program), and fair housing;

(3) Implement the curriculum design with an ABA-accredited law school; and

(4) Partnering under the Clinical Law School Component. Please provide a brief description of the activities that each partner will undertake and how this partnership will enhance the project. (Please refer to Participation of Minority-Serving Institutions in HUD Programs in the General Section.)

(a) You must identify all administrators of the clinical program and describe each of their functions, qualifications, and experience;

(b) Identify persons who will constitute the faculty for the program and describe their functions, qualifications, and experience; and

(c) Identify and describe the functions and qualifications of any other program staff.

(5) Describe the knowledge and experience of the proposed day-to-day program manager (whose duties and responsibilities include managing all program and administrative activities as outlined in the SOW and ensuring that all timelines are met), in planning and managing a fair housing legal-clinical program. Indicate the percentage of time that key personnel will devote to your project.

b. Organizational experience. (15) Points for current FHIP grantees; (15) Points for new applicants. In responding to this sub-factor, you, the applicant, must show that your organization has:

(1) Conducted past project(s) similar in scope and complexity (whether FHIP-funded or not) to the project proposed in your application, or

(2) Engaged in activities that, although not similar, are readily transferable to the proposed project. You must provide a listing of all affiliate and/or subsidiary organizations, and identify which of these organizations will assist you in the development and/or implementation of any portion of your proposed FY2008 FHIP funded project. If you do not have any affiliates or subsidiaries, you should state this in your application.

(a) If you are applying for funding under PEI and FHOI, you must provide the following information when responding to this sub-factor:

(i) If you propose to conduct testing (other than rental or accessibility testing), provide a brief narrative that documents you have conducted successful testing in those areas.

(ii) Describe the actions you have taken to comply with the requirement that you reimburse the Federal government for compensation received or likely to be received from FHIP-funded enforcement activities or that the compensation received be used as program income to further fair housing activities. If you are a current grantee and you have not addressed this requirement to reimburse the Federal government or use the funds as program income to further fair housing activities, please explain. Two (2) points will be deducted from this sub-factor if you have not complied with this program requirement.

(b) EOI applicants must show that they have engaged in projects that are Regional/Local/Community-based. Your experience will be judged in terms of recent, relevant and successful experience of your staff to undertake eligible activities. In rating this factor, HUD will consider experience within the last three years to be recent, experience pertaining to the specific activities to be relevant, and experience producing measurable accomplishments to be successful. The more recent the experience and the more experience that your own staff members who work on the project have in successfully conducting and completing similar activities, the greater the number of points you will receive for this rating factor.

(c) If you are submitting an application under the EOI—Clinical Law School Component, you must develop a comprehensive design concept Action Plan for the Clinical Law School. The Action Plan must include a design concept and academic structure approach that HUD will use in assessing your capacity to develop and operate a Fair Housing Legal-Clinical Program. The Action Plan should clearly distinguish classroom and practicum elements.

To assess your capacity to design and implement a fair housing curriculum, please provide documented information that your organization has conducted clinical project(s) similar in scope and complexity to the one being proposed. You must describe the knowledge and experience of all of the proposed faculty and staff dedicated to this FHIP funded activity indicating whether they have prior knowledge and experience in establishing and implementing a similar clinical law project.

For FHOI—CDC applicants, you must describe your FHOI-ENOC history, e.g. identify the funded entity and their support, and how FHOI-ENOC funds were used to build your capacity or establish your organization. Also describe how you benefited from FHOI-ENOC funds and give a description of your fair housing investigative and enforcement activities undertaken as a result of the FHOI-ENOC.

c. Performance on past project(s). (5) Points for current FHIP grantees; (0) Points for new applicants. HUD will assess your organization's past performance in conducting activities relevant to your application. The past performance assessment of current FHIP grantees will be based on your most recent performance assessment by the HUD Government Technical Representative (GTR) for the past three (3) completed fiscal years (FY2004 through FY2006).

HUD staff will provide this information to the Technical Evaluation Panel (TEP) that will evaluate your application. Based on your past performance, the following points will be added to your score under this rating sub-factor:

(1) 5 points if you received a “Excellent” performance assessment; and

(2) 0 points if you received a “Good” performance assessment.

Transfer of Performance. Applicants submitting applications under PEI and EOI may not use another organization's performance review for assessment under this sub-factor. If you do, you will receive 0 points under this sub-factor and sub-factor b, above.

2. Rating Factor 2: Need/Distress/Extent of the Problem (20 Points)

This factor addresses the extent to which there is a need for funding the proposed activities to address documented fair housing problems in target area(s). You will be evaluated on the information that you submit that describes the fair housing need in the geographic area you propose to serve, its urgency and how your project is responsive to that need, and your affirmatively furthering fair housing plan.

Applicants should document and use any relevant information from HUD's Housing Discrimination Study 2000 (HDS2000) to respond to this factor. Other sources of information can be used to support this rating factor. You must use sound data sources to identify the level of need in the geographic area and the urgency, and provide Web site addresses for each data source (e.g., Analysis of Impediments to Fair Housing Choice (AI), fair housing studies, etc.). Do not include copies of the original reports or other materials in your application. Applicants that provide copies of detailed studies, including Consolidated Plans (including Analysis of Impediments) for their referenced project area will have points deducted from this factor based upon the 10 page submission requirement limit. Instead, reference these reports, statistics, or other data sources you used that are sound and reliable. This includes but is not limited to, HUD or other Federal, State or local government reports analyses, relevant economic and/or demographic data. This should be inclusive of those that show segregation, foundation reports and studies, news articles, and other information that relate to the identified need. Provide the Web site where these reports may be found for reference, if applicable. Chapter V of the Fair Housing Planning Guide, Vol. 1 has other suggestions for supporting documentation. You may access the Guide from the HUD Web site at http://www.hud.gov./offices/adm/grants/fundsavail.cfm.

To the greatest extent possible, the data used should be specific to the area where the proposed activity will be conducted. You should document needs as they apply to that specific area(s) where your proposed activities will be targeted and your proximity to the target area, not the entire locality or State. If the data presented does not specifically address the target area, you should describe why the target area was proposed and the relationship of this data to that target area.

To receive maximum points for this factor there must be a direct relationship between the purpose of the program funding, your proposed activities, the outcomes to be accomplished, and the community(ies) fair housing needs, describing your knowledge of and your proximity to the targeted area, and the issue's urgency. Applicants will not receive full 20 points under this rating factor unless the applicant addresses the target area's impediments to fair housing choice. Further, applicants should address the need for language services other than English by describing the target population's language needs.

a. Documentation of Need. To justify the need for your project, you must describe:

(1) The urgency of the identified need. For example:

(a) The potential consequences to persons if your application is not selected for funding;

(b) The extent to which other organizations provide the services identified in your application;

(2) The link between the need and your proposed activities:

(a) How the proposed activities fill gaps left by, augment, or improve upon on-going fair housing efforts by public and private agencies, grass-roots faith-based and other community-based organizations and other organizations and institutions in the target area, and/or

(b) Why, in light of other on-going fair housing efforts, the additional funding you are requesting is necessary.

(c) The presence of housing discrimination, high segregation indices or other evidence of discrimination prohibited by the Act within the project area.

3. Rating Factor 3: Soundness of Approach (35 Points)

You must describe your project in detail and how it will support the goals and policy priorities outlined in the General Section. For each goal and policy priority that your project addresses, you must propose performance measures/outcomes in support of these goals, and establish numerical baselines and targets for those measures. Provide a SOW and budget.

a. Support of Policy Priorities (8 Points). Per Section V.B.1. of the General Section, HUD encourages applicants to undertake specific activities that will assist the Department in implementing its policy priorities and achieving its goals for FY2008 and beyond, when the majority of funding recipients will be reporting programmatic results and achievements. Applicants that just list a priority will receive no points. It is up to the applicant to determine which of the policy priorities to address to receive the available points. For the full list of each policy priority, please refer to the General Section.

For each policy priority addressed specified, the applicant must discuss the geographic area to be served in relation to the project's purpose, the persons to be served, and the methodology for carrying out these activities. Each policy priority the application addresses may receive has a point value of up to one point, with the exception that of the policy priority to remove regulatory barriers to affordable housing which has a point value of up to 2 points. To secure the possible 2 points for efforts to remove regulatory barriers to affordable housing, an applicant must submit the completed questionnaire (HUD 27300), and provide the required documentation and contact information. Please see the General Section for further information on Removal of Regulatory Barriers to Affordable Housing.

For the Clinical Law School Component, applicants may receive up to 5 points for partnering with a Minority Serving Institution. Please see the General Section for a listing of Minority Serving. For applicants submitting applications under the Clinical Law School Component that are Minority Serving Institutions, you may receive up to 5 points for partnering with a non-Minority Serving Institution.

For EOI applicants only, the policy priority to promote participation by grassroots faith-based and other community-based organizations, or partnering with an organization to promote participation in grassroots faith-based and other community-based organizations has a point value of up to four points, depending on your response.

b. Proposed Statement of Work (SOW) and Information Requirements (17 Points). The SOW and budget are attachments to the application that will not count toward the ten (10)-page limit on the narrative response to this rating factor. However, points will be given based on the relevance of proposed activities and expenditures (cost categories and dollar levels) to the needs stated in Rating Factor 2. The TEP will pay particular attention to implementation steps, the consistency of proposed activities with organizational expertise and capacity, and the accuracy of the SOW and budget.

SOW—Submit a proposed SOW that comprehensively outlines in chronological order the administrative and program activities and tasks to be performed during the grant period.

Your outline should identify all activities and tasks to be performed and by whom (e.g., your organization, a subcontractor, or a partner), and the products, and when they will be provided to HUD. To receive maximum points, you must include a schedule of your activities and products (with interim implementation steps), staff allocation over the term of the project; staff acquisition and training; and activities of partners and/or subcontractors. Applicants must provide an estimate of the numbers of clients to be served.

For the EOI General Component, HUD anticipates that products may be available in various languages, in addition to English: The languages will include French, Korean, Laotian, Vietnamese, Chinese (any Chinese language), Arabic, and Spanish. If other languages are necessary, please provide a justification in Rating Factor 2. Deliverables may be brochures, Public Service Announcements (PSAs) for radio in both majority and minority markets and posters and other graphic materials. Graphic materials may include but are not limited to enlarged reproductions of existing HUD printed PSAs and HUD materials. Provide information on media markets coverage with specific protected class focus, as well as those with Limited English Proficiency and a method for distribution of the finished product.

c. The Budget Form and Narrative Budget Work Plan (10 Points). HUD will also assess the soundness of your approach by evaluating the quality, thoroughness, and reasonableness of the budget and financial controls of your organization, including your proposed program cost categories. As part of your response, you must prepare a budget that is:

(1) Reasonable in achieving the goals identified in your proposed SOW;

(2) Related to the activities and tasks in the SOW—in terms of cost categories and dollar levels;

(3) Cost-effective;

(4) Quantifiable based on the need(s) identified in Rating Factor 2; and

(5) Justifiable for all cost categories in accordance with those indicated in the HUD-CB. If you are awarded FHIP funds, HUD staff will request that you provide your federally approved indirect cost rate during budget negotiations. If you do not have a federally approved indirect cost rate and HUD is the cognizant agency, HUD will submit a request within 30 days after award to establish a rate. For information on indirect cost rates, you can review HUD's training on http://www.hud.gov./offices/adm/grants/fundsavail.cfm.

(6) Financial Management Capacity. Describe your organization's financial management system and your Board's role in financial management or oversight. In addition, discuss your organization's capabilities in handling financial resources, disseminating payments to third parties, e.g. contractors, and maintaining adequate accounting and internal control procedures.

(7) Grant Application Detailed Budget Worksheet (HUD-424-CBW). The HUD-424-CBW must show the total cost of the project and indicate other sources of funds that will be used for the project. While the costs are based only on estimates, the budget narrative work plan may include information obtained from various vendors, or the applicant may rely on historical data. Applicants must round all budget items to the nearest dollar amount.

A written narrative budget work plan must accompany the proposed budget explaining each budget category listed and must explain each cost category. Failure to provide a written narrative budget work plan will result in 2 points being deducted from your rating factor. The narrative must explain each cost category you list. Where there are travel costs for contractors/consultants, you must show that the combined travel costs (per diem rates) are consistent with Federal Travel Regulations (41 CFR 301.11) and travel costs for the applicant's contractors and/or consultants do not exceed the rates and fees charged by local contractors and consultants. The narrative (which does not count toward the ten page limit) must address the Grant Application Detailed Budget. The budget narrative should include a brief discussion of how your proposed program is cost effective in achieving the anticipated results of the proposed activities in the targeted area. Applicants seeking funding to conduct activities in an area other than the applicant's State or locality must discuss the cost effectiveness of where the activities will be conducted in relation to the location of the organization. HUD will look at the cost effectiveness of your travel to and from your location to the targeted area(s); expenses for out-stationed personnel, contracts and sub-grantees; and other direct costs, which may include relocation expenses, and telecommunications expenses; HUD will then make a final determination of cost effectiveness based on these listed items.

4. Rating Factor 4: Leveraging Resources (5 Points)

This factor addresses your ability to secure additional resources to support your project. Points will be awarded on the basis of the percentage of non-FHIP resources you have received at application submission in the form of firm commitments or documented collaborative efforts you have with Fair Housing Assistance Program (FHAP) agencies.

a. Firm Commitment of Leveraging or Collaboration. HUD requires you to secure resources from sources other than what is requested under this FHIP NOFA. Leveraging of community resources may include funding or in-kind contributions, such as workspace or services or equipment, allocated to the purpose(s) of your proposal. Contributions from the applicant, affiliates, subsidiaries, divisions, or employees of the applicant do not qualify as in-kind contributions. Cash or funds from an applicant's previously established investment account(s) may qualify as in-kind resources; however, documentation must be provided. Resources may be provided by governmental entities (including other HUD programs if such costs are allowed by statute), public or private non-profit organizations, faith-based organizations, for-profit or civic private organizations, or other entities' planned contributions. In order to obtain points for leveraging third party resources you must provide letters of firm commitment or signed agreements from the organizations and/or individuals who will provide financial or in-kind support for your project. “Collaboration” refers exclusively to activities you are conducting or plan to conduct with Fair Housing Assistance Program agencies. You must provide a letter of firm commitment from a FHAP or a document signed by authorized representatives of the FHAP agency and your organization, such as a memorandum of understanding, or on their letterhead, stating their intent to work with you on your project. The FHAP agency must serve the area where the current or proposed activities are to be conducted. In instances where FHAPs are applicants and submitting letters on their own behalf, the FHAPs must state that FHAP funds are not being used for FHIP collaboration without prior approval by the FHAP GTR.

For all applicants, each letter of firm commitment must:

(1) State definitively a commitment to provide funding or in-kind resources (although the commitment may be on the condition that your organization receives a FHIP award);

(2) Identify the organization and/or individual committing resources to the project and state the timeline for use of these funds in relation to the project. Further, the letter must identify any affiliation with the applicant;

(3) Identify the sources and amounts of the leveraged resources (the total FHIP and non-FHIP amounts must match those in your proposed budget submitted under Rating Factor 3); and

(4) Describe how these resources will be used under your SOW; and

(5) Dated and signed by the individual or organization official legally able to make commitments for the organization.

If the resources are in-kind or donated goods, the firm commitment letter must indicate the fair market value of those resources and describe how this fair market value was determined. (Do not include indirect costs within your in-kind resources.) In-kind matching and leveraging contributions, as well as Program Income must comply with 24 CFR 84.23 and 84.24 requirements. FHIP funds cannot be used for in-kind or donated services (for example, services of a current staff person on a FHIP-funded project).

There will be no points awarded for general letters of support endorsing the project from organizations, including elected officials on the local, State, or national levels, and/or individuals in your community. See General Section for instructions on how third party documents are to be submitted to HUD via the electronic submission process. If your project will not be supported by non-FHIP resources, then you will not receive any points under this factor. Points will be assigned for each Initiative based on the following scale:

For PEI-PBFC applicants only, each letter must state the total dollar amount of funding or in-kind resources to be donated to the fair housing project, and specify the amount to be used during each of the three years of this project.

Points awarded | Percent of total project costs from non-FHIP resources
One | Less than five.
Two | Five or ten.
Three | 11 to 20.
Four | 21 to 20.
Five | At least 31

Five points will be awarded if your application contains a letter or agreement from a Fair Housing Assistance Program agency stating their firm commitment to work with you on your project. Should the commitment letter lack any of the required information listed in (1) through (3) above, 0 points will be awarded under this factor.

5. Rating Factor 5: Achieving Results and Program Evaluation (15 Points)

a. In evaluating this Rating Factor, HUD will assess the extent to which you demonstrate how you will measure the results of the work of your organization as set out in your budget and SOW. Applicants must select from the list of activities and outcomes detailed in the Logic Model for the Initiative applied for and should determine from these selections, their specific methods and measures to assess progress, evaluate program effectiveness, and identify program changes necessary to improve performance. Applicants should mirror your logic model to your SOW and Budget. This will ensure that performance measures are met and that grantees are establishing achievable realistic goals. Applicants who have identified outputs and outcome measurements and methods for assessing those against commitments made in the application, will receive higher points than those that do not. To meet this Rating Factor requirement, you must submit HUD's Logic Model (HUD-96010).

Instructions and a Microsoft Excel™ form are provided in the forms appended to the Instruction Download on http://www.grants.gov/applicants/apply_for_grants.jsp. Applicants that do not have access to Microsoft Excel™ may obtain a copy of the form in HTML fillable format along with a text format of the Master Logic Model listing, from HUD's Web site at http://www.hud.gov/offices/adm/grants/fundsavail.cfm.

A narrative response is not required for this Rating Factor as all applicants must use the Logic Model Form. Applicants that submit narrative responses rather than use the Logic Model Form will receive no points under this Rating Factor. Applicants should also review the Logic Model training which can be found at http://www.hud.gov/offices/adm/grants/training/training.cfm.

b. In evaluating this Rating Factor:

(1) Needs. HUD will review the activities/outputs and outcomes as units of measurement you selected and in relation to the needs of your intended audience or target populations;

(2) Output. The direct products of the applicant's activities that lead to the ultimate achievement of outcomes. Some examples of activities and outputs for PEI and EOI applicants can be found at http://www.hud.gov/offices/adm/grants/fundsavail.cfm. Applicants must select one or more activities from the listing of “Fair Housing Services Provided” that will be undertaken by their organization. You must select from the list “Fair Housing Services Provided” and do not add additional services to that list to receive points under this Rating Factor.

(3) Outcome. The Logic Model has a prepared list of activities, outcomes and indicators associated with Fair Housing. Applicants must choose from this list of “Year 1, Year 2, or Year 3” outcomes that are provided as part of the FHIP NOFA, as appropriate, or applicants may choose other activities. If other activities are identified, applicants must provide a brief statement to describe these activities or outcomes. Applicants who do not either select from the list “Outcomes and Indicators” or select “Other”, providing a brief description of each, will not receive points under this Rating Factor. You should assess progress and track performance in meeting the goals and objectives outlined in the work plan.

Accountability can be achieved using specific measurement tools to assess the impact of your activities. Examples include:

• Pre/Post Tests;

• Customer/Client Satisfaction Survey;

• Follow-up Survey;

• Observational Survey; or

• Functioning scale.

Applicants must also reference policy priorities, as stated in their response to Factor 3, and relate them to your project's goals, as appropriate.

B. Criteria for National-Based Program Applications

Factors for Award Used To Evaluate and Rate Applications for the EOI National-Based Program. The criteria for rating and ranking applications and the maximum points for each Rating Factor are provided below. The maximum number of points awarded any application is 100. Bonus points are not available for this category of funding.

1. Rating Factor 1: Capacity of Applicant and Relevant Organizational Experience (25 Points)

This factor addresses the extent to which the applicant has the organizational resources necessary to successfully implement the proposed activities in a timely manner, and the applicant's ability to develop and implement large media information campaign projects as appropriate on a national level. The rating of the “applicant” or the “applicant's organization and staff” for technical merit or threshold compliance, unless otherwise specified, will include any sub-contractors, consultants, and sub-recipients that are firmly committed to the project.

In General. You must describe staff expertise and your organization's ability to complete the proposed activities within the grant period. HUD recognizes that, in carrying out the proposed activities, you may have persons already on staff, plan to hire additional staff, or will rely on contractors or consultants to perform specific tasks. You must describe your staffing plan and the extent to which you plan to add staff (employees) or contractors. If your application proposes using contractors and these contractor activities amount to more than 10 percent of your total activities, you must submit a separate budget for each contractor. Failure to include a separate budget will result in lower points being assessed to your application. If you received a “Fair” performance rating, you will receive “0” points under this factor for sub-factors (b) and (c).

(5) Points for current FHIP grantees.

(10) Points for new applicants.

a. Number and expertise of staff (this includes contractors and consultants). You must show that you will have sufficient, qualified staff that will be available to complete the proposed activities. The following information must be provided for all staff not just key personnel (those persons identified in SOW in Rating Factor 3: Soundness of Approach) assigned to or hired for this project.

Identify all persons that will be assigned to the project by name and/or title and hours. You must describe the knowledge and experience of the proposed overall project director or day-to-day program manager (whose duties and responsibilities are to manage all program and administrative activities as outlined in the SOW and ensure that all timelines are met), in planning and managing national projects similar in scope and complex interdisciplinary programs. You may demonstrate capacity by thoroughly describing your prior experience in conducting national and/or regional/local media campaigns. You should indicate how this prior experience will be used in carrying out your proposed activities. Your application must clearly identify those persons that are on staff at the time of this application, and those persons who will be assigned at a later date; describe each person's duties and responsibilities and their expertise (including years of experience) to perform project tasks; indicate whether the staff person is assigned to work full-time or part-time (if part-time, indicate the percentage of time each person is assigned to the project).

Whether the applicant has experienced staff or proposes to use a contractor sub-grantee, the extent to which the applicant provides rationale for how it will utilize its staff or a contractor sub-grantee to implement its proposed activities, methods, and how these media techniques will most effectively deal with the national need described by the applicant in response to the need described in Rating Factor 2. To the extent possible, applicants should demonstrate effectiveness in terms of scope and cost.

(15) Points for current FHIP grantees.

(15) Points for new applicants.

b. Organizational experience. In responding to this sub-factor, you must show that your organization has the ability to effectively develop, implement, and manage a media campaign on a national scale. (Applicants must be an established media /advertisement organization and include as part of their proposal a subcontract with an established fair housing organization.) Applicants for FHIP program funding must specifically describe their experience in developing or carrying out programs to prevent or eliminate discriminatory housing practices. Applicants must discuss their ability to implement a coordinated national marketing awareness campaign, especially in the areas of fair housing, discrimination, public health, and housing. In responding to this sub-factor, the applicant must describe the extent to which its past activities have resulted in successful national media campaigns, as appropriate, especially with respect to developing and implementing innovative strategies resulting in positive public response. Experience will be judged in terms of recent, relevant and successful experience of your staff to undertake eligible activities.

In rating this factor, HUD will consider experience within the last 3 years to be recent, experience pertaining to the specific activities to be relevant, and experience producing measurable accomplishments to be successful. The more recent the experience and the more experience your own staff members who work on the project have in successfully conducting and completing similar activities, the greater the number of points you will receive for this rating factor.

(5) Points for current FHIP grantees.

(0) Points for new applicants.

c. Performance on past project(s). HUD will assess your organization's past performance in conducting activities relevant to your current application. For current FHIPs, past performance will be assessed based on your most recent performance assessment received from your HUD Government Technical Representative (GTR) for the past 2 completed fiscal years.

HUD staff will provide this information to the Technical Evaluation Panel (TEP) that will evaluate your application. Based on past performance, the following points will be added to your score under this rating sub-factor:

(1) 5 points if you received an “Excellent” performance assessment; and

(2) 0 points if you received a “Good” performance assessment.

2. Rating Factor 2: Need/Approach Extent of the Problem (10 Points)

This factor addresses the extent to which the applicant documents and defines the national need that its proposed activities and methods are intended to address, and how its proposal offers the most effective approach for meeting that national need. The applicant's submission will be evaluated on the extent to which it defines, describes, and documents the national need the application intends to address, which demonstrates a grasp of the elements of the need, its pervasiveness at the national level, and an understanding of the necessary mass media vehicles to disseminate information to address the need. The applicant's description of the national need will be used to evaluate the depth of the applicant's understanding of the problem as an indication of ability to address the problem.

3. Rating Factor 3: Soundness of Approach (45 Points)

This rating factor addresses the quality and cost-effectiveness of the applicant's proposed Statement of Work (SOW). You must describe your project in detail, and how it will support the goals and policy priorities outlined in the General Section. For each goal and policy priority that your project addresses, you must propose performance measures/outcomes in support of these goals, and establish numerical baselines and targets for those measures. The SOW must address the strategy, quality and time frames needed to carry out the project and all activities as proposed.

a. Support of HUD Goals (8 Points). HUD encourages applicants to undertake specific activities that will assist the Department in implementing its policy priorities and which will help the Department achieve its goals and objectives in FY2008. Describe how your proposed project will further and support HUD's policy priorities for FY2008. The quality of the responses provided and the extent to which a program will further and support one or more of HUD's priorities will determine the score an applicant can receive. Applicants must describe how each policy priority selected will be addressed.

Applicants that just list a priority will receive no points. Each policy priority addressed if applicable, must discuss the national need in relation to the project's purpose, the persons to be served and the methodology for carrying out these activities. Each policy priority has a point value of one point, with the exception of the policy priority to remove regulatory barriers to affordable housing which has a point value of up to 2 points; and, promoting participation by grassroots faith-based and other community-based organizations, or partnering with an organization promoting participation in grassroots faith-based and other community-based organizations, which has a point value of up to 4 points, depending on your response. It is up to the applicant to determine which of the policy priorities to address to receive the available 8 points. To secure the possible 2 points for efforts to Remove Regulatory Barriers to Affordable Housing, an applicant must submit the completed questionnaire (HUD 27300), and provide the required documentation and contact information. Please see the General Section for further information on Removal of Regulatory Barriers to Affordable Housing. The questionnaire is part of the electronic application package. For the full list of each policy priority, please refer to the General Section.

b. Statement of Work (SOW) (22 Points).

Submit a proposed SOW that comprehensively outlines in chronological order the administrative and program activities and tasks to be performed during the grant period. Your outline should also include a schedule of proposed activities and products (with interim implementation steps), staff allocation over the term of the project, staff acquisitions and training, and activities of partners and contractors. Points will be assigned based on the relevance of proposed activities to national needs stated in Rating Factor 2, the attention given to implementation steps, the consistency of proposed activities with organizational expertise and capacity, and the accuracy of the SOW and budget.

For this National Media Campaign Component, HUD anticipates that products should be available in at least 3 languages, including English. Deliverables may include Public Service Announcements (PSAs) for radio and television in both majority and minority markets, and posters and other graphic materials. Graphic materials may include, but are not limited to, enlarged reproductions of several print PSAs, separately produced and printed posters for national public dissemination, and the development of ad slicks to market in newspapers and magazines nationwide. The applicant should plan on using a clipping service or Internet based services or other appropriate means to collect information on frequency and scope of the placement of ads.

To obtain maximum points under this sub-factor, the applicant's SOW must:

(1) Clearly describe the specific activities and tasks to be performed, the sequence in which tasks are to be performed and noting when activities must be performed simultaneously, estimated completion dates, and the work and program deliverables to be completed within the grant period. This information must include specific numbers of quantifiable end products and program improvements to be delivered by the end of the award agreement period as a result of the work performed;

(2) Provide national media market coverage and specific protected class focus; and

(3) Describe the methods to be used to distribute finished materials and gauge the effectiveness of their national marketing strategies.

c. Budget Form and Narrative Budget Work Plan (15 Points). A written narrative budget work plan must accompany the proposed budget. HUD will assess the soundness of your approach by evaluating the quality, thoroughness, and reasonableness of the budget and financial controls of your organization, including information on your proposed program cost categories. As part of your response, you must prepare a budget that is:

(1) Reasonable in achieving the goals identified in your proposed SOW;

(2) Relate tasks in the SOW to the proposed budget costs and to the Logic Model;

(3) Cost-effective (as demonstrated by a brief discussion of the extent to which your proposed program is cost effective in achieving the anticipated results of the proposed activities in the targeted area);

(4) Reflective of an effort to provide information in a manner (e.g., languages, accessibility to persons with visual or hearing impairments, formats, locations, distribution, use of majority and minority media) that will reach and benefit all members of the public, especially members of target groups identified in Factor 2;

(5) Effective for yielding long-term results and innovative strategies or “best practices” that can be readily disseminated to other organizations and State and local governments; and

(6) Effective with respect to the proposed National Media Campaign Component and its activities, training and meeting sites, and information services and materials, accessible to all persons including persons with disabilities.

Indicate in the narrative budget work plan how the proposed project's achievements are quantifiable and relevant to the needs identified in Rating Factor 2. Also indicate whether your proposed project is justifiable for all cost categories in accordance with the cost categories indicated in the HUD-424 CB. If you are awarded a grant or cooperative agreement under FHIP, staff will request that you include your approved indirect cost rate as part of your negotiations with HUD. If you do not have a federally approved indirect cost rate and HUD is the cognizant agency, HUD will submit a request within 30 days after award to establish a rate. For information on indirect cost rates, you can review HUD's training on http://www.hud.gov/offices/adm/grants/fundsavail.cfm.

4. Rating Factor 4: Leveraging Resources (5 Points)

This factor addresses your ability to secure additional resources to support your project. Points will be awarded on the basis of the percentage of non-FHIP resources you have received at application submission, in the form of firm commitments, or planned collaborative efforts you have with Fair Housing Assistance Program agencies.

a. Firm Commitment of Leveraging or Collaboration. HUD requires you to secure resources from sources other than that which is requested under this FHIP NOFA. Leveraging of community resources may include funding or in-kind contributions, such as workspace or services or equipment, allocated to the purpose(s) of your proposal. Contributions from the applicant, affiliates, subsidiaries, divisions, or employees of the applicant do not qualify as in-kind contributions. Funds from an applicant's previously established investment account(s) may qualify as in-kind resources; however, documentation must be provided. Resources may be provided by governmental entities (including other HUD programs if such costs are allowed by statute), public or private non-profit organizations, faith-based organizations, for-profit or civic private organizations, or other entities' planned contributions. In order to obtain points for leveraging third party resources you must provide letters of firm commitment or signed agreements from the organizations and/or individuals who will provide financial or in-kind support for your project. “Collaboration” refers exclusively to activities you are conducting or plan to conduct with Fair Housing Assistance Program agencies. Firm letters of Commitment must:

(1) Identify the agency, organization and/or individual committing resources project, the timeframes and timelines for use of the funds, state that the funds will be used for fair housing to support the applicant should they be awarded, and identify any affiliation with the applicant,

(2) Identify the sources and amounts of the leveraged resources (the total FHIP and non-FHIP amounts must match those in your proposed budget submitted under Factor 3), and

(3) Describe how these resources will be used under your SOW. The letter must be dated and signed by the agency, individual and/or organization official legally able to make commitments for the organization. It must also be provided on the letterhead of the agency, organization and/or individual. If the resources are in-kind or donated goods, the commitment letter must indicate the fair market value of those resources and describe how this fair market value was determined. (Do not include indirect costs within your in-kind resources). In-kind matching and leveraging contributions, as well as Program Income, must comply with 24 CFR 84.23 and 24 CFR 84.24 requirements.

FHIP funds cannot be used for in-kind or donated services (for example, a current staff person on a FHIP-funded project). No points will be awarded for general letters of support endorsing the project from the agency or organizations, including elected officials on the local, State, or national levels, and/or individuals in your community. See General Section for instructions on how third party documents are to be submitted to HUD via the electronic submission process. If your project will not be supported by non-FHIP resources, then you will not receive any points under this factor. Points under the factor will be assigned based on the following scale:

Points awarded | Percent of total project costs from non-FHIP resources
One | Less than five.
Two | Five to ten.
Three | 11 to 20.
Four | 21 to 30.
Five | At least 31.

Five points will be awarded if your application contains a letter of firm commitment from a Fair Housing Assistance Program agency stating their firm commitment to work with you on your project. Should the letter lack any of the required information listed in (1) through (3) above, no points will be awarded under this factor.

5. Rating Factor 5: Achieving Results and Program Evaluation (15 Points)

a. In evaluating this Rating Factor, HUD will assess the extent to which you demonstrate how you will measure the results of the work of your organization as set out in your budget and Statement of Work. Applicants must select from the list of activities and outcomes detailed in the Logic Model and should determine from these selections, their specific methods and measures to assess progress, evaluate program effectiveness, and identify program changes necessary to improve performance. This will ensure that performance measures are met and that grantees are establishing achievable realistic goals. Applicants who have identified outputs and outcome measurements and methods for assessing those measurements against commitments made in the application will receive higher points than those that do not. To meet this Factor requirement, you must submit a completed HUD's Logic Model (HUD-96010).

Instructions and a Microsoft Excel™ form are provided in the forms appended to the Instruction Download on http://www.Grants.gov/APPLY. Applicants that do not have access to Microsoft Excel™ may obtain a copy of the form in HTML fillable format along with a text format of the Master Logic Model listing, from HUD's Web site at http://www.hud.gov/offices/adm/grants/fundsavail.cfm.

A narrative response is not required for this Rating Factor; all applicants must use the Logic Model Form. Applicants that submit narrative responses rather than use the Logic Model Form will receive no points under this Rating Factor. Applicants should also review the Logic Model training which can be found at http://www.hud.gov/offices/adm/grants/training/training.cfm.

b. In evaluating this Rating Factor:

(1) HUD will review the activities/outputs and outcomes as units of measurement you selected in relation to the needs of your intended audience or target populations;

(2) Output. The direct products of the applicant's activities that lead to the ultimate achievement of outcomes. Some examples of activities and outputs for EOI applicants can be found at http://www.hud.gov/offices/adm/grants/fundsavail.cfm. Applicants must select one or more activities from the listing of “Fair Housing Services Provided” that will be undertaken by their organization. Applicants who do not select from the list “Fair Housing Services Provided” and/or do not add additional services to that list, will not receive any points under this Rating Factor.

(3) Outcome. The Logic Model has a prepared list of activities, outcomes and indicators associated with Fair Housing. Applicants must choose from this list of “Year 1, Year 2, or Year 3” outcomes that are provided as part of the FHIP NOFA or applicants may choose other activities and if so, must provide a brief statement to describe these activities or outcomes. Applicants who do not either select from the list “Outcomes and Indicators” or select “Other” providing a brief description of each will not receive points under this Rating Factor. You should assess progress and track performance in meeting the goals and objectives outlined in the work plan.

Accountability can be achieved using specific measurement tools to assess the impact of your activities. Examples include:

• Pre/Post Tests;

• Customer/Client Satisfaction Survey;

• Follow-up Survey;

• Observational Survey; or

• Functioning scale.

Applicants must also reference policy priorities, as stated in their response to Rating Factor 3, and relate them to your project's goals, as appropriate.

C. Reviews and Selection Process

1. Rating and Ranking. Although all rating factors are organized the same way for all FHIP initiatives, there are differences in application requirements and rating criteria, which are indicated throughout the Rating Factor instructions. Your application for funding will be evaluated competitively against all other applications submitted under one of the following Initiatives or Components:

a. Private Enforcement Initiative (PEI)—

(1) General Component (PEI-GC);

(2) Performance-Based Funding Component (PBFC);

b. Education and Outreach Initiative (EOI)—

(1) Regional/Local/Community-Based Program (EOI-R/L/C-B)

(a) General Component (EOI-GC);

(b) Clinical Law School Component (EOI-CLS);

(2) National-Based Program (EOI-NBP); National Media Campaign Component (EOI-NMCC).

c. Fair Housing Organization Initiative (FHOI)

Continued Development Component.

For all initiatives, all eligible applications will be reviewed and points awarded based upon:

(1) Narrative responses to the Factors for Award and the accompanying materials specified, and

(2) RC/EC/EZ-IIs bonus points, as applicable. Ineligible applications will not be ranked. The maximum number of points to be awarded for the Rating Factors is 100. See the General Section for information on Bonus Points.

Only applications with a score of seventy-five (75) points or more will be considered of sufficient quality for funding, except for PBFC applications. Generally, applications of sufficient quality for funding will be selected in rank order under each Initiative or Component.

PBFC applicants will be evaluated competitively against other PBFC applicants who apply and have received two years of “Excellent” performance reviews for FHIP PEI awards made in any two years from FY 2002 through FY 2006, as well as a score of 95 on the most current of these two performance reviews. These applicants will then be rated by the Technical Evaluation Panel (TEP) and ranked according to score. Only those applicants who receive a minimum final score of 95 or above from the TEP will be considered for funding under this Component.

2. Tie Breaking. When two or more applications have the same total overall score, the application with the higher score under Rating Factor 3 will be ranked higher. If applications still have the same score, the tie will be broken by the Rating Factor 1 score. If a tie still remains, then the tie will be broken by the Rating Factor 2 score. And if a tie remains, the application seeking a smaller amount of FHIP funding will be selected.

3. Achieving Geographic Diversity of Awards.

a. PEI and EOI: HUD reserves the discretion to distribute awards to as many States as possible (geographic diversity criterion) for each Initiative or Component. If the Selecting Official exercises this discretion, he or she will consider score (rank order) first, then geographic diversity—in the following manner: First, only qualified applicants will be considered—i.e., applicants achieving a score of 75 points or higher. Second, qualified applicants will be rank ordered by score with the highest scoring applicant at the top of the list. Third, when the highest ranking applicant is selected, the Selecting Official will look on the list for qualified applicants from the same State. Those applicants will be moved to the end of the list. Then selection will continue with the next applicant at the top of the list. If funds remain after the Selecting Official goes through the list the first time, he or she will rank order the qualified applicants at the end of the list and repeat the selection process for rank order and geographic diversity. For the PEI-PBFC, the geographic diversity provision will be applied as follows: When there are two or more applications of sufficient quality from the same city, the application(s) with the lower score(s) may not be funded.

For the Clinical Law School Component, the National Media Campaign Component, and the FHOI—Continued Development Component, the geographic diversity provision does not apply.

4. Adjustments to Funding. As provided in the General Section, HUD may approve an application for an amount lower than the amount requested, fund only portions of the application, withhold funds after approval, reallocate funds among activities and/or require that special conditions be added to the grant agreement, in accordance with 24 CFR 84.14, the requirements of the General Section, or where:

a. HUD determines the amount requested for one or more eligible activities is unreasonable or unnecessary;

b. An ineligible activity is proposed in an otherwise eligible project;

c. Insufficient funding amounts remain to award the full amount requested in the application, and HUD determines that partial funding is a viable option;

d. The past record of key personnel warrants special conditions; or,

e. Training funds are not reserved for FHIP training.

5. Reallocation of Funds. After all applications within funding range have been selected or obligations are completed in an Initiative if funds are still available, the Selecting Official or designee will have the discretion to reallocate those remaining funds in rank order among Initiatives as follows:

a. PEI, any remaining funds from any component will be reallocated first within that Initiative, if after reallocating funds within the Initiative and funds still remain, they shall be reallocated to EOI.

b. EOI, any remaining funds from any component will be reallocated first within that Initiative; if after reallocating funds within the Initiative left over funds remain, they shall be reallocated to PEI;

c. FHOI, any remaining funds will be allocated to PEI.

D. Anticipated Announcement and Award Dates. For planning purposes, anticipate an announcement date of September 23, 2008, and an award date of September 29, 2008.

VI. Award Administration Information

A. Award Notices

1. Applicant Notification and Award Procedures.

a. Notification. Information about the review and award process will not be available during the HUD evaluation period, which begins on the application deadline date for this NOFA and lasts for approximately 90 days thereafter. However, you will be advised, in writing or by telephone, if HUD determines that your application is ineligible or has technical deficiencies which may be corrected as described in the General Section. HUD will only communicate with persons specifically identified in the SF-424 in the application. HUD will not provide information about the application to any third party such as contractors.

b. Negotiations. If you are selected, HUD will require you to participate in negotiations to determine the specific terms of your cooperative or grant agreement. HUD will follow the negotiation procedures described in the General Section. The selection is conditional and does not become final until the negotiations between the applicant and the Department are successfully concluded and the grant or cooperative agreement is signed and executed based upon the negotiations. HUD will negotiate only with the person identified in the application as the Director of the organization or if specifically identified in the application as the Project Director. HUD will not negotiate with any third party (i.e., a contractor, etc.). The Grant Officer and Government Technical Representative will determine on a case-by-case basis if technical assistance or special conditions are required.

c. Applicant Debriefing. After awards are announced, applicants may receive a debriefing on their application as described in the General Section. Materials provided during the debriefing will be both the applicant's final scores and final evaluator comments for each rating factor. Applicants requesting a debriefing must send a written or e-mail request to Annette Corley, Grant Officer, U.S. Department of Housing and Urban Development, FHIP/Support Division, 451 Seventh Street, SW., Room 5224, Washington, DC 20410. HUD will not release the names of applicants or their scores to any third party.

B. Administrative and National Policy Requirements.

1. Accessibility Requirements. All activities, facilities, and materials funded by this Program must be accessible to persons with disabilities (24 CFR 8.2, 8.4, 8.6, and 8.54).

2. Protected Classes. All FHIP-funded projects must address housing discrimination based upon race, color, religion, sex, disability, familial status, or national origin.

3. Environmental Requirements. In accordance with 24 CFR 50.19(b)(3), (4), (9), (12), and (13) of HUD regulations, activities assisted under this program are categorically excluded from the requirements of the National Environmental Policy Act and are not subject to environmental review under related laws and authorities.

4. Procurement of Recovered Materials. State agencies (FHAP agencies) and agencies of a political subdivision of a State that are using assistance under a HUD program NOFA for procurement, and any person contracting with such an agency with respect to work performed under an assisted contract, must comply with the requirements of Section 6002 of the Solid Waste Disposal Act, as amended by the Resource Conservation and Recovery Act. See General Section for details.

5. Product Information. Press releases and any other product intended to be disseminated to the public must be submitted to the Government Technical Representative (GTR) two weeks before release for approval and acceptance.

6. Ensuring the Participation of Small Businesses, Small Disadvantaged Businesses, and Women Owned Businesses. (See General Section).

7. Payment Contingent on Completion. Payment of FHIP funds is made on a reimbursement basis. Payments are contingent on the satisfactory and timely completion of your project activities and products as reflected in your grant or cooperative agreement. Requests for funds must be accompanied by financial and progress reports.

8. Copyright Materials. You may copyright any work that is eligible for copyright protection subject to HUD's right to reproduce, publish, or otherwise use your work for Federal purposes, and to authorize others to do so as required in 24 CFR 84.36.

9. Complaints Against Awardees. Each FHIP award is overseen by a HUD Grant Officer (See http://www.hud.gov for list of FHEO Regional Directors per region). Complaints from the public against FHIP grantees should be forwarded to the Grant Officer. The Grant Officer's name and contact information is provided in the grant agreement. If, after notice and consideration of relevant information, the Grant Officer concludes that there has been inappropriate conduct, such as a violation of FHIP requirements, terms or conditions of the grant, or any other applicable statute, regulation or other requirement, HUD will take appropriate action in accordance with 24 CFR 84.62. Such action may include: Written reprimand; consideration of past performance in awarding future FHIP applications; repayment to HUD of funds received under the grant; or temporary or permanent denial of participation in the FHIP in accordance with 24 CFR part 24.

10. Double Payments. If you are awarded funds under this NOFA, you (and any contractor or consultant) may not charge or claim credit for the activities performed under this project under any other Federally assisted project.

11. Performance Sanctions. A grantee or contractor failing to comply with the requirements set forth in its grant or cooperative agreement will be liable for such sanctions as may be authorized by law, including repayment of improperly used funds, termination of further participation in the FHIP, and denial of further participation in programs of HUD or any federal agency.

C. Reporting

1. HUD requires that funded recipients collect racial and ethnic beneficiary data. The Department has adopted the Office of Management and Budget's Standards for the Collection of Racial and Ethnic Data. In view of these requirements, you should use Form HUD-27061, Racial and Ethnic Data Reporting Form (and instructions for its use), found on http://www.HUDclips.org. Also, quarterly and as your project ends, you must report meaningful data derived from client feedback on how they benefited from your project's activities.

2. Listed below is a sample-reporting document of activities and tasks to be performed by a FHIP Grantee.

Administrative Activities
Activities | Tasks | Submitted by | Submitted to
1. Complete HUD-22081 Race and Ethnic Data Reporting Form |  | 45 Days | GTR/GTM
2. Complete HUD-28807 Disclosure Statements | Submit Disclosure Statement. If no changes occur, submit statement of no change with final report | When changes occur | GTR/GTM
3. Complete SF-269A Financial Status Report and Written Quarterly Status Reports on All Activities | Submit SF-269A and Copy of Written Report | Quarterly | GTR/GTM
4. Voucher for Payment | Submit payment request to LOCCS | Per Payment Schedule | GTR/GTM
5. Complete Listing of Current or Pending Grants/Contracts/Other Financial Agreements | Submit listing for recipient and any contractors | 45 Days from start of grant period and at end of Grant | GTR/GTM
6. Prepare and Submit Draft of Final Report, including HUD 96010 | Submit Draft of Report. Submit your eLogic Model reporting your short- and intermediate term outputs and outcomes as contained in the eLogic Model submitted and approved in your grant agreement. Your report and eLogic Model should identify results and benefits to date of the work accomplished under the FHIP award. In addition, the eLogic Model should include an attachment that addresses the management questions applicable to your work. Complaint and testing activities should provide data on complaints received and tests conducted by basis, issues, and outcomes. This should include number of credible, legitimate complaints filed with HUD, a State or local Fair Housing Agency, Department of Justice or private litigator; and types of relief/results | One month before end of grant term | GTR/GTM
7. Complete Final Report and Provide Copies of All Final Products Not Previously Submitted | Submit a copy of the Final Report, including a final eLogic Model with all outputs and outcomes identified, and management questions responded to. Submit all Final Products not previously submitted to GTR and GTM | Within 90 days after end of grant term | GTR/GTM
8. Submit 2 copies of Final Report and all final program products produced under the Grant (by diskette, where feasible) to HUD | Submit detailed description of items submitted to GTR and GTM | Within 90 days after end of grant term | GTR/GTM

VII. Agency Contacts

You may contact Myron P. Newry or Denise L. Brooks, of the Office of Fair Housing and Equal Opportunity's FHIP Support Division, at 202-402-7095 or 202-402-7050, respectively (these are not toll-free numbers). Persons with hearing or speech impairments may contact the Division by calling 1-800-290-1617 (this is a toll-free number).

VIII. Other Information

Paperwork Reduction Act. The information collection requirements contained in this document have been approved by the Office of Management and Budget (OMB) under the Paperwork Reduction Act of 1995 (44 U.S.C. 3501-3520) and assigned OMB control approval number 2529-0033. In accordance with the Paperwork Reduction Act, HUD may not conduct or sponsor, and a person is not required to respond to a collection of information unless the collection displays a currently valid OMB control number. Public reporting burdens for the collection of information are estimated to approximate 105 hours per annum per respondent for the application and grant administration. This includes the time for collecting, reviewing, and reporting the data for the application, semi-annual reports and final report. The information will be used for grantee selection and monitoring the administration of funds. Response to this request for information is required in order to receive the benefits to be derived.

Housing Counseling Program

Overview Information

A. Federal Agency Name: Department of Housing and Urban Development, Office of Single Family Housing.

B. Funding Opportunity Title: Housing Counseling Program.

C. Announcement Type: Initial Announcement.

D. Funding Opportunity Number: FR-5200-N-18; OMB Approval number is: 2502-0261.

E. Catalog of Federal Domestic Assistance (CFDA) Number: 14.169 Housing Counseling Assistance Program.

F. Dates: The application deadline date is July 9, 2008. Applications submitted through http://www.grants.gov must be received and validated by Grants.gov no later than 11:59:59 pm eastern time on the application deadline date. See Section IV of the General Section, published March 19, 2008 (73 FR 14882) regarding application submission procedures and timely filing requirements.

G. Available Funds: Approximately $47 million is available for eligible applicants under this program NOFA.

Full Text of Announcement

I. Funding Opportunity Description

A. Program Description. This program supports the delivery of a wide variety of housing counseling services to homebuyers, homeowners, low- to moderate-income renters, and the homeless. The primary objectives of the program are to expand homeownership opportunities, improve access to affordable housing and preserve homeownership. Counselors provide guidance and advice to help families and individuals improve their housing conditions and meet the responsibilities of tenancy and homeownership. Counselors also help borrowers avoid inflated appraisals, unreasonably high interest rates, unaffordable repayment terms, and other conditions that can result in a loss of equity, increased debt, default, and eventually foreclosure.

Additionally, counselors may provide counseling services to homeowners to prevent or resolve mortgage delinquency, default, and foreclosure, with the primary objective to preserve homeownership. Counselors provide guidance and advice to help families and individuals meet the responsibilities of homeownership and modify or refinance their loans to avoid unreasonably high interest rates, unaffordable repayment terms, and other conditions that can result in a loss of equity, increased debt, default, and eventually foreclosure. Applicants funded through this program may also provide Reverse Mortgage Counseling to elderly homeowners who seek to convert equity in their homes into income that can be used to pay for home improvements, medical costs, living expenses, or other expenses.

B. Grant Applicant Categories. HUD will award a single comprehensive grant to qualified applicants through one of four categories:

(1) Local Housing Counseling Agencies (LHCAs);

(2) National and Regional Intermediaries (Intermediaries);

(3) State Housing Finance Agencies (SHFAs); and

(4) Multi-State Organizations (MSOs).

Also, supplemental funding is available to LHCA's and Intermediaries for Reverse Mortgage Counseling.

C. Authority. HUD's Housing Counseling Program is authorized by section 106 of the Housing and Urban Development Act of 1968 (12 U.S.C. 1701x). On September 28, 2007, a Final Rule was published in the Federal Register at 72 FR 55638 and codified at 24 CFR part 214 establishing new regulations for the Department of Housing and Urban Development's Housing Counseling Program.

The Home Equity Conversion Mortgage (HECM) Program is authorized by section 255 of the National Housing Act (12 U.S.C. 1715z-20).

D. Definitions.

1. Affiliate. A nonprofit organization participating in the HUD-related housing counseling program of a regional or national intermediary, or state housing finance agency. An affiliate is incorporated separately from the regional or national intermediary or state housing finance agency. An affiliate is also:

a. Duly organized and existing as a tax-exempt nonprofit organization;

b. In good standing under the laws of the state of the organization; and

c. Authorized to do business in the states where it proposes to provide housing counseling services.

2. Applicant. A HUD-approved housing counseling agency or SHFA applying for a Housing Counseling grant from HUD through this NOFA. The term “Applicant” includes the agency's branch or branch offices identified in its application.

3. Branch. An organizational and subordinate unit of a local housing counseling agency, multi-state organization, regional or national intermediary, or state housing finance agency not separately incorporated or organized, that participates in HUD's Housing Counseling program. A branch or branch office must be in good standing under the laws of the state where it proposes to provide housing counseling services. A branch or branch office cannot be a sub-grantee or affiliate.

4. Delinquency/Default Counseling. Counseling provided to a current homeowner to prevent or resolve mortgage delinquency, mortgage default, or foreclosure.

5. Grantee. A HUD-approved housing counseling agency or SHFA that receives housing counseling funds from HUD through this NOFA. The term “Grantee” includes the agency's branch or branch offices identified in its application.

6. HUD HECM Network Counselor. A housing counselor that has passed the Reverse Mortgage Counseling exam administered by HUD and/or its agent, and is approved by HUD to provide Reverse Mortgage Counseling nationally by telephone.

7. Intermediary. A HUD-approved organization that provides housing counseling services indirectly through its branches or affiliates for whom it exercises control over the quality and type of housing counseling services rendered. The Housing Counseling program recognizes two types of intermediaries, which include:

a. National intermediary. A national intermediary is an organization which operates in multiple regions of the United States, which provides:

(1) Housing counseling services through its branches or affiliates or both; and

(2) Administrative and supportive services to its network of affiliates or branches, including, but not limited to, pass-through funding, training, and technical assistance.

b. Regional intermediary. A regional intermediary is an organization which operates in a generally recognized region within the United States, such as the Southwest, Mid-Atlantic, New England, which provides:

(1) Housing counseling services through its branches or affiliates or both; and

(2) Administrative and supportive services to its network of affiliates, or branches, including, but not limited to, pass-through funding, training, and technical assistance.

8. Local Housing Counseling Agency (LHCA). A housing counseling agency that directly provides housing counseling services. An LHCA may have a main office, and one or more branch offices, in no more than two contiguous states.

9. Multi-State Organization (MSO). A multi-state organization provides housing counseling services through a main office and branches in two or more states.

10. State Housing Finance Agency (SHFA). Any public body, agency, or instrumentality created by a specific act of a state legislature empowered to finance activities designed to provide housing and related facilities and services, through land acquisition, construction or rehabilitation, throughout an entire state. SHFAs may provide direct counseling services or sub-grant housing counseling funds to affiliated housing counseling agencies within the SHFA's state, or both. The term state includes the fifty states, Puerto Rico, the District of Columbia, Guam, the Commonwealth of the Northern Mariana Islands, American Samoa, and the U.S. Virgin Islands.

11. Sub-grantee. An affiliate of a HUD-approved intermediary or SHFA that receives a sub-grant of housing counseling funds provided under a HUD housing counseling grant. All sub-grantees must be identified in the grantee's application. Under certain conditions, including approval by HUD, grantees may amend their sub-grantee list after awards are made. See General Section.

II. Award Information

A. Amount Allocated. Of the approximately $50 million appropriated for housing counseling in FY2008, approximately $47 million is available for eligible applicants under this NOFA. Approximately $43 million is available for comprehensive counseling. Approximately $4 million is available for Reverse Mortgage Counseling. Available funding may also include carryover and recaptured funds, in addition to the appropriations.

B. Specific Allocations. Housing counseling funding is distributed over four applicant categories, as shown below.

Applicant categories | Who is eligible | Total amount available
Category 1—LHCAs | HUD-approved Local Housing Counseling Agencies | $15,840,000
Category 2—Intermediaries | HUD-approved National and Regional Intermediaries | 26,000,000
Category 3—SHFAs | State Housing Finance Agencies | 2,580,000
Category 4—MSOs | Multi-State Organizations | 2,580,000

1. Category 1—Local Housing Counseling Agencies (LHCAs). For the grant period October 1, 2008 through September 30, 2009, approximately $15,840,000 is available from HUD to directly fund HUD-approved LHCAs, including approximately $14,840,000 for comprehensive counseling and approximately $1 million for reverse mortgage counseling. An LHCA can only request funding for its main office and branches located in the same state as the main office and/or located in one other contiguous state.

2. Category 2—Intermediaries. For the grant period October 1, 2008 through September 30, 2009, approximately $26 million is available from HUD to directly fund HUD-approved Intermediaries, including approximately $23 million comprehensive counseling and approximately $3 million for reverse mortgage counseling.

3. Category 3—State Housing Finance Agencies (SHFAs). For the grant period October 1, 2008 through September 30, 2009, approximately $2,580,000 is available to fund SHFAs that provide housing counseling services directly or serve as intermediaries to Affiliates who offer housing counseling services.

4. Category 4—Multi-State Organizations (MSOs). For the grant period October 1, 2008 through September 30, 2009, approximately $2,580,000 is available to fund MSOs to provide housing counseling services directly through its branch offices throughout its HUD-approved multi-state service area.

C. Maximum Awards. Funds awarded shall be available for a period of 12 calendar months.

1. Category 1. No individual LHCA may be awarded more than $180,000 which may include supplemental funding for reverse mortgage counseling. The maximum amount for the reverse mortgage counseling is $30,000. The maximum amount for comprehensive counseling is $150,000. HUD anticipates that the average total award for LHCAs will be approximately $42,000.

2. Category 2. Awards for individual HUD-approved intermediaries may not exceed $5.5 million, which includes any Reverse Mortgage supplemental funding. The limit for Comprehensive Counseling is $2.5 million and the limit for Reverse Mortgage counseling is $3 million. HUD anticipates that the average total award for Intermediaries will be $1.2 million.

3. Category 3. No individual SHFA may be awarded more than $475,000. HUD anticipates that the average total award for SHFAs will be approximately $130,000.

4. Category 4. No individual MSO may be awarded more than $575,000. HUD anticipates that the average total award for MSOs will be approximately $250,000.

D. Award Instrument. HUD will use a Grant Agreement. All Housing Counseling Program awards will be made on a cost reimbursement basis.

III. Eligibility Information

A. Eligible Applicants. Eligible applicants include: HUD-approved Local Housing Counseling Agencies (LHCAs); HUD-approved national and regional intermediaries (Intermediaries); State Housing Finance Agencies (SHFAs); and HUD-approved Multi-State Organizations (MSOs).

B. Cost Sharing or Matching. No specific matching funds are required. However, in order to receive points under Rating Factor 4, applicants are required to demonstrate the commitment of other private and public sources of funding to supplement HUD funding for the applicant's counseling program. HUD does not intend for its Housing Counseling grant to cover all costs incurred by an applicant. The Final Rule published in the Federal Register on September 28, 2007, at 72 FR 55638 and codified at 24 CFR part 214 expands the conditions under which agencies participating in HUD's Housing Counseling Program are permitted to charge fees to counseling recipients. While agencies are strongly encouraged to aggressively leverage funds from other private and public sources, fee income can be used to help satisfy this requirement.

C. Other

1. Eligible Activities for Comprehensive Counseling Awards under all Applicant Categories. Grantees and sub-grantees will only be reimbursed for the applicable activities outlined in this Section.

a. Individual counseling or group education/classes regarding the following topics:

(1) Pre-Purchase/Homebuying. This includes: evaluating mortgagor readiness; search assistance; fair housing and fair lending, including whether or not the beneficiary belongs to a protected class, and how to recognize discrimination; budgeting for mortgage payments; money management (does not include administration of debt management plans whereby an organization pays bills on behalf of a client); selecting a real estate agent; home inspection; alternative sources of mortgage credit; how to apply for special programs available to potential homebuyers; how to identify and avoid predatory lending practices; locating housing that provides universal design and visitability; locating sources and methods to help pay for accessibility modifications; how to purchase a home using the Section 8 Homeownership Voucher Program, and referrals to community services and regulatory agencies. Applicants that provide homebuyer education must also offer individual counseling that complements the group sessions.

(2) Resolving or Preventing Mortgage Delinquency or Default. This includes: restructuring debt, obtaining re-certification for mortgage subsidy, establishing reinstatement plans, seeking loan forbearance, and managing household finances. This can also include helping clients affected by predatory lending, homeownership preservation and foreclosure prevention strategies, explaining the foreclosure process, providing referrals to other sources, and assisting clients with locating alternative housing, or pursuing loss mitigation strategies.

(3) Non-Delinquency Post-Purchase. This includes information and advice on finding favorable mortgage loan terms, personal money management, and relations with lenders. It also includes: home improvement and rehabilitation; property maintenance; loan and grant options; the loan or grant application processes; what housing codes and housing enforcement procedures apply for the intended activity; accessibility codes and how to design features to provide accessibility for persons with disabilities; non-discriminatory lending and funding for persons who modify their dwellings to accommodate disabilities; and visitability and universal design. Agencies that provide post-purchase education classes must also offer individual counseling to complement group sessions.

(4) Locating, Securing, or Maintaining Residence in Rental Housing. This refers to renter-related topics, including: helping clients obtain and utilize rent subsidies; pre-rental search assistance/mobility counseling; budgeting for rent payments; educating clients on landlords' and renters' rights; explaining the eviction process; ensuring clients understand their rights when faced with displacement; explaining the responsibility of the entity causing displacement; and providing assistance with locating alternate housing.

(5) Shelter or Services for the Homeless. Includes referrals to social, community, and homeless services such as emergency shelter or transitional housing.

(6) Reverse Mortgage Counseling. This counseling and education assists elderly homeowners who seek to convert equity in their homes into income that can be used to pay for home improvements, medical costs, living expenses, or other expenses. This includes providing the statutorily-required counseling to individuals/families that may be eligible for, or are interested in obtaining, an FHA-insured HECM.

b. Marketing and Outreach Initiatives. This includes providing general information and materials about housing opportunities and issues, conducting informational campaigns, advocating with lenders for non-traditional lending standards, and raising awareness about critical housing topics, such as predatory lending or fair housing and fair lending issues. (Note: Affirmative fair housing outreach should be directed at those populations least likely to seek counseling services, including those of racial, religious or national groups not normally served by the sponsoring agency. To do so, it may be necessary to broaden the target areas or provide translation and interpretive services in languages other than English in order to reach a greater variety of racial and ethnic minorities. It may also require providing outreach and services in alternative formats for persons with disabilities.)

c. Training. Training to increase the capacity of housing counselors and program managers.

d. Computer equipment/systems. Computer equipment/systems with the objective of improving the quality of counseling and education services available.

e. Administrative Costs. For intermediaries and SHFAs, this includes administrative costs associated with managing a network of housing counseling agencies and providing technical assistance.

2. Threshold Requirements. Applications that do not meet all of the following Threshold Requirements are not eligible to receive an award from HUD.

a. Applicants and sub-grantees must meet the Threshold Requirements in the General Section.

b. Minimum grant request for Comprehensive Funds. LHCA applicants must request a minimum of $20,000. SHFAs and MSOs must request a minimum of $50,000 and Intermediaries must request a minimum of $300,000. For applicants requesting only comprehensive counseling funding, HUD will consider the amount of the comprehensive counseling grant being requested to be the value entered into box 18a on form SF-424.

c. Minimum grant request for Reverse Mortgage Counseling Supplemental Funds. Intermediaries must request a minimum of $500,000 for reverse mortgage counseling supplemental funding. LHCAs must request a minimum of $5,000 for reverse mortgage counseling supplemental funding. For intermediaries and LHCAs requesting reverse mortgage supplemental funding, box 18a of Form SF-424 should reflect the total of the comprehensive and the reverse mortgage supplemental request. For those LHCAs and Intermediaries requesting supplemental funding, the narrative response to Factor 3 must make clear the exact comprehensive and supplemental amounts being requested.

d. Only HUD-approved Housing Counseling Agencies and SHFAs may apply. Applicants must be currently approved by HUD as an LHCA, a housing counseling intermediary or a multi-state organization, and have secured HUD approval as a housing counseling agency by the publication date of this Housing Counseling Program NOFA. SHFAs are not required to be HUD-approved, but must meet the eligibility requirements listed in this NOFA and the Final Rule published in the Federal Register on September 28, 2007, at 72 FR 55638 and codified at 24 CFR part 214.

e. Client Management System. The applicant, and all affiliates and branches, if applicable, must utilize a client management system that interfaces, or is working to interface, with HUD's databases. Information on client management systems and interfacing with HUD's database is found on HUD's Web site: http://www.hud.gov/offices/hsg/sfh/hcc/hccprof21.cfm.

f. Applicants Requesting Supplemental Reverse Mortgage Counseling Funding. Only LHCAs and Intermediaries are eligible to apply for reverse mortgage counseling supplemental funding. A separate application is not needed to apply for supplemental funding. However, applicants requesting supplemental Reverse Mortgage counseling funding must meet the following requirements:

(1) LHCAs must have at least one HUD HECM Network counselor; Intermediaries must have at least 20 HUD HECM Network counselors within their network of affiliates or branches.

(2) Request the supplemental funding by identifying in box 18a of Form SF-424 total of the comprehensive request and the Reverse Mortgage supplemental request, and making clear in the narrative response to Factor 3 the exact comprehensive and reverse mortgage counseling supplemental amounts, if applicable, being requested;

(3) Identify reverse mortgage counseling related needs in the target community in its response to Rating Factor 2;

(4) Respond to all reverse mortgage counseling related requests for information throughout the NOFA;

(5) Respond to the Rating Factors describing activities related to the proposed counseling and the reverse mortgage counseling supplemental funding;

(6) Indicate in the Rating Factors how many individuals will be served specifically with the requested supplemental funding for Reverse Mortgage counseling in addition to those served under the comprehensive counseling award. Be sure to clearly identify the total number projected to be served, the activities to be provided, and the output and outcome goals to be achieved with the supplemental funding.

(7) Identify reverse mortgage counseling related training and certifications received by counselors and program mangers; and

(8) Identify all HUD HECM Network counselors in the proposed application.

3. Other Program Requirements.

a. To receive a grant or sub-grantee under this Housing Counseling NOFA, all applicants and sub-grantees must be:

(1) In good standing under the laws of the state of their organization; and

(2) Authorized to do business in the states where they propose to provide housing counseling services.

(3) All grantees and sub-grantees must use counseling facilities and services that are accessible to persons with disabilities or provide other means of accommodation for persons with disabilities, in accordance with Section 504 of the Rehabilitation Act of 1973 and its implementing regulations at 24 CFR parts 8 & 9, and Title III of the Americans with Disabilities Act. In addition, counseling services must comply with effective communication requirements under these laws. All grantees and sub-grantees must help persons with disabilities locate suitable housing in locations throughout the applicant's community, target area, or metropolitan area, as defined by the applicant.

b. Limits on Applications.

(1) HUD-approved LHCAs. HUD-approved LHCAs may either:

(a) apply directly to HUD for grant funding, including comprehensive and supplemental funding for Reverse Mortgage counseling, under Applicant Category 1; or

(b) be included in the respective application of, and receive one sub-grant from, an intermediary, MSO or SHFA under Applicant Category 2, 3, or 4.

(2) The only exceptions to this rule are:

(a) HUD-approved LHCAs with one or more HUD HECM Network Counselors that are awarded comprehensive funds, but do not receive Reverse Mortgage supplemental funding, may receive a sub-grant or be reimbursed exclusively for Reverse Mortgage counseling activities from a HUD-approved intermediary administering the Reverse Mortgage supplemental funds made available through this NOFA or by another entity designated by HUD; and

(b) HUD-approved LHCAs that are awarded comprehensive funds may also be reimbursed for default counseling by an intermediary that receives a category 2 award that provides default counseling exclusively.

Funded LHCAs may not make sub-grants to other HUD-approved LHCAs or non-HUD-approved entities.

2. HUD-approved Intermediaries. HUD approved intermediaries may only apply for a grant under Applicant Category 2. HUD-approved intermediaries are also eligible for supplemental funding for Reverse Mortgage counseling.

3. SHFAs. SHFAs may only apply for grants under Applicant Category 3 for comprehensive counseling funds.

4. MSOs. HUD-approved MSOs may either:

a. Apply directly to HUD for a grant under Applicant Category 4 for comprehensive counseling funds, or;

b. Be included in the respective application of, and receive one sub-grant from, intermediary or SHFA under Applicant Categories 2 or 3.

The only exceptions to this rule are:

(1) HUD-approved MSOs with one or more HUD HECM Network Counselors that are awarded comprehensive funds, may receive a sub-grant or be reimbursed exclusively for Reverse Mortgage counseling activities from a HUD-approved intermediary administering the Reverse Mortgage supplemental funds made available through this NOFA or by another entity designated by HUD; and

(2) HUD-approved MSOs that are awarded comprehensive funds under category 4 may also be reimbursed for default counseling by an intermediary that receives a category 2 award that provides default counseling exclusively.

c. Sub-grantees of Intermediaries and SHFAs.

(1) Sub-grantees or branches of intermediaries, MSOs and SHFAs are not required to be HUD-approved, although HUD-approved LHCAs may apply to an intermediary or SHFA as a sub-grantee.

(2) Intermediaries, MSOs and SHFAs that award sub-grants to counseling agencies that are not HUD-approved must assure that the sub-grantee organizations meet or exceed HUD's approval standards.

(3) Sub-grantees must also be in compliance with all civil rights threshold requirements. For a listing of civil rights threshold requirements, refer to the General Section. Intermediaries that do not ensure their sub-grantee's compliance with HUD standards may be prohibited from participating in the Housing Counseling Program. HUD will monitor sub-grantees.

(4) To be eligible for funding under Categories 2, 3 or 4, proposed sub-grantees branches must not have directly applied for or received a grant under Category 1 of this NOFA, or applied for or received a sub-grant or funding from another intermediary, MSO or SHFA under Category 2, 3 or 4 of this NOFA. Sub-grantees or branches may apply for and receive funding from only one intermediary, MSO or SHFA under Category 2, 3 or 4. The only exceptions to this rule are: (a) sub-grantees or branches that have one or more HUD HECM Network Counselors that receive a sub-grant or funding for comprehensive counseling from an intermediary, MSO or SHFA under Category 2, 3, or 4 may also receive a sub-grant, or be reimbursed exclusively for reverse mortgage counseling activities, from a HUD-approved intermediary administering the reverse mortgage supplemental funds made available through this NOFA or by another entity designated by HUD; and (b) sub-grantees and branches that receive a sub-grant or funding for comprehensive counseling from an intermediary, MSO or SHFA under Category 2, 3, or 4, may also be reimbursed for default counseling by an intermediary that receives a category 2 award that provides default counseling exclusively.

(5) Intermediaries and SHFAs that make sub-grants must execute sub-grant agreements with sub-grantees that clearly delineate the mutual responsibilities for program management, including appropriate time frames for reporting results to HUD. Intermediaries, MSOs and SHFAs have wide discretion to decide how to allocate their HUD Housing Counseling funding among branches and sub-grantees, with the understanding that a written record must be kept documenting and justifying funding decisions. This record, which must meet the data requirements of the Transparency Act (see General Section), must be made available to sub-grantees, branches and to HUD, within 30 days of making the sub-award or allocation to branches.

d. List of HUD-approved and Participating Housing Counseling Agencies. Pursuant to section 106(c)(5)(D) of the Housing and Urban Development Act of 1968, HUD maintains a list of all HUD-approved and HUD-funded counseling agencies, including contact information that interested persons can access. All HUD-approved LHCAs and their branches, and all sub-grantees and branches that receive funding under Applicant Categories 2, 3 and 4 of this NOFA may be placed on this list and must accept subsequent referrals, or when they do not provide the services sought, make a reasonable effort to refer the person to another organization in the area that can provide the services.

e. Non-Discrimination Requirement.

(1) Grant recipients and sub-grantees are prohibited from discriminating on behalf of or against any segment of the population in the provision of services or in outreach.

(2) Organizations funded under this program may not engage in inherently religious activities, such as worship, religious instruction, or proselytization, as part of the programs or services funded under this program. If an organization conducts such activities, these activities must be offered separately, in time or location, from the programs or services funded under this part, and participation must be voluntary and not a condition of the HUD programs or services.

f. Indirect Cost Rate. Grantees that plan to use grant funds to cover direct costs only are not required to provide an indirect cost rate. However, Grantees that plan to use grant funds to cover any indirect costs must submit their approved indirect cost rate established by the cognizant federal agency. If the grantee does not have an established indirect cost rate, it will be required to develop and submit an indirect cost proposal to HUD, or the cognizant federal agency as applicable, for determination of an indirect cost rate that will govern the award. Applicants that do not have a previously established indirect cost rate with a federal agency shall submit an initial indirect cost rate proposal immediately after the applicant is advised that it will be offered a grant and, in no event, later than three months after the start date of the grant. OMB Circular A-122 can be located at 2 CFR part 230. Applicants can review Indirect Cost Training on http://www.hud.gov at: http://www.hud.gov/offices/adm/grants/training/training.cfm.

g. Ensuring the Participation of Small Businesses, Small Disadvantaged Businesses, and Woman-Owned Businesses. See the General Section for information on this topic.

h. Subcontracting. Grantees and sub-grantees must deliver all of the counseling activities set forth in the applicant's work plan provided in Factor 3 of this NOFA. Subcontracting with other entities is permitted only in geographical areas where no HUD-approved housing counseling agency exists; however, the subcontractor must meet or exceed the standards for a HUD approved agency.

i. Conflicts of Interest. See the General Section and Section 214.303(f) of the Final Rule published in the Federal Register on September 28, 2007, at 72 FR 55638 and codified at 24 CFR part 214.

j. Accessible Technology. See the General Section.

k. Participation in HUD Sponsored Program Evaluation. See the General Section.

IV. Application and Submission Information

A. Receiving an Application Package. Applicants may download the instructions to the application found on the Grants.gov Web site at http://www.Grants.gov. The instructions contain the General Section and Program Section of the published NOFA as well as forms that you must complete and attach as a zip file to your application submission. If you have difficulty accessing the information you may call the Grants.gov Support desk toll free 800-518-GRANTS or e-mail your questions to Support@Grants.gov.

B. Content and Form of Application Submission. Please be sure to read the General Section for application deadline and timely receipt requirements as HUD is using electronic application submission via http://www.Grants.gov. In addition to the instructions in the General Section follow the instructions below:

1. Size Limitations and Format for Narrative Statements. Applicants must be as specific and direct as possible. For LHCAs, the narrative portion (responses to all factors) must be limited to 50 double-spaced, 12-point font, single-sided pages. Intermediaries, MSOs and SHFAs are limited to a total of 100 double-spaced, 12-point font, single-sided pages for the narrative portion. Pages in excess of the size limit will not be read. Number the pages of the narrative statements and include a header that includes the applicant's name and the Rating Factor number and title. Within each narrative, clearly identify each sub-factor immediately above the response for that sub-factor.

2. Application Checklist. The Application Checklist indicates forms, information, certifications and assurances that apply to this NOFA.

Housing Counseling NOFA Application Checklist

a. SF-424, Application for Federal Assistance

b. SF-424 Supplement—Survey on Ensuring Equal Opportunity for Applicants (“Faith Based EEO Survey (SF-424 SUPP)” on Grants.gov) (optional)

c. HUD-424 CB, Grant Application Detailed Budget On the form HUD 424 CB, clearly specify the proposed HUD housing counseling grant amount and itemize proposed expenses and Reverse Mortgage supplemental funds. Note: This amount should be consistent with the figure shown in Rating factors 3, 4 & 5, Form SF-424, Form HUD-424 CB and HUD-2880. Also, if all budget line items could not be itemized using the Form HUD-424 CB, submit a more detailed, comprehensive budget itemizing all proposed expenses under the grant. At a minimum, if applicable, the budget must include salaries, fringe and other benefits, training, travel, rent, phone, postage, supplies, technology/equipment, and indirect costs. Intermediaries, MSOs and SHFAs that reimburse branches and sub-agencies at a fixed cost per counseling/education activity, and type, or per office, are not exempt from this requirement.

Intermediaries, MSOs and SHFAs that pass through funds to sub-agencies must also itemize how administrative funds are spent.

d. SF-LLL, Disclosure of Lobbying Activities (if applicable).

e. HUD-27300, Questionnaire for HUD's Initiative on Removal of Regulatory Barriers (“HUD Communities Initiative” on Grants.gov) (optional regarding eligibility, but mandatory to receive credit in Factor 2 for the Regulatory Barriers policy priority).

f. HUD-2880, Applicant/Recipient Disclosure/Update Report (“HUD Applicant Recipient Disclosure Report” on Grants.gov).

g. HUD-2990, Certification of Consistency with the RC/EZ/EC-II Strategic Plan (LHCAs only, if applicable) (Must be signed by the official authorized to certify the RC/EZ/EC-II).

h. HUD-2991, Certification of Consistency with the Consolidated Plan (optional).

i. HUD-2994, You Are Our Client Grant Applicant Survey (optional).

j. HUD-96010, Program Outcome Logic Model.

k. HUD-96011, Third Party Documentation Facsimile Transmittal (“Facsimile Transmittal Form” on Grants.gov) (to be used to transmit third party documents as part of your electronic application). Faxed information must be sent to the following fax number: (800) HUD-1010. If you cannot access the toll-free 800 number, or experience problems, you may use (215) 825-8798 (this is not a toll-free number).

l. HUD-9902, Housing Counseling Agency Fiscal Year Activity Report, for the Period October 1, 2006 through September 30, 2007 (only required for Applicants who did not electronically submit to HUD a form HUD-9902 for the period October 1, 2006 through September 30, 2007, for example, applicants that received approval as a HUD housing counseling agency after September 30, 2007.) HUD will utilize the HUD-9902 data in HUD's Housing Counseling System. However, HUD will consider a revised 9902 submitted with this application if it is accompanied by an acceptable explanation regarding why the data was revised.

m. SHFA Statutory Authority. SHFAs must submit evidence of their statutory authority to operate as a SHFA, as defined in this NOFA, and must submit evidence of their authority to apply for funds and subsequently use any funds awarded. Applicants should verify that their agency profile information is accurately represented in HUD's Housing Counseling System (HCS) and validate the information prior to submitting the grant application.

n. Organization Description. Applicants must provide a brief description, no more than 225 words, of their organizational history and proposed grant activities, as they would like them to appear in the press release issued by HUD in the event that the applicant is funded through this NOFA.

o. Narrative statements as required in this NOFA.

C. Submission Dates and Times. A complete application package must be received and validated electronically by the Grants.gov portal no later than 11:59:59 p.m. eastern time on or before the applications deadline date. Applicants are advised to submit their applications at least 48 to 72 hours in advance of the deadline date and when the Grants.gov help desk is open so that any issues can be addressed prior to the deadline date and time. Please note that validation may take up to 72 hours. Please be sure to read the General Section for timely submission and receipt. Failure to follow the submission requirements and procedures may affect your ability to receive an award.

D. Intergovernmental Review. The Housing Counseling Program is not subject to Intergovernmental Review.

E. Funding Restrictions. Funding is limited to the eligible activities described in Section III.C.1 of this NOFA.

F. Other Submission Requirements. Applications must be submitted via the Grants.gov Web site at http://www.grants.gov/applicants/apply_for_grants.jsp by no later than the established deadline date and time. See the General Section for further information. Applicants interested in applying for funding under this NOFA must submit their applications electronically or request a waiver from the electronic submission requirement. Applicants must submit their waiver requests in writing using e-mail. Waiver requests must be submitted no later than 15 days prior to the application deadline date and should be submitted to Betsy.M.Cromwell@hud.gov. If granted a waiver the notification will provide instructions on where to submit the application and how many copies are required. Paper copy applications must be received by the deadline date. HUD will not accept a paper application without a waiver being granted. See the General Section for detailed submission and timely receipt instructions.

V. Application Review Information.

A. Criteria. The Factors for Award, and maximum points for each factor, are outlined below. These factors will be used to evaluate all applications. The maximum number of points for each applicant is 102 for LHCAs and 100 for all other applicants.

1. Bonus Points—“RC/EZ/EC-II.” Only LHCAs are eligible for 2 bonus points. See the General Section for information regarding “RC/EZ/EC-II” bonus points. Form HUD-2990 must be signed by the organization head of the RC/EZ/EC-II not the representative of the jurisdiction in which the RC/EZ/EC-II exists.

2. Additional Information. HUD may rely on information from performance reports, financial status information, monitoring reports, audit reports, and other information available to HUD to make score determinations to any relevant Rating Factor.

3. Responses to Factors for Award. Responses to the following rating factors should provide HUD with detailed quantitative and qualitative information and relevant examples regarding the housing counseling work of the organization. The Rating Factors contain requests for additional information from applicants interested in supplemental Reverse Mortgage counseling funding.

In responses to the various factors and sub-factors, intermediaries, MSOs and SHFAs should not submit a separate response for each proposed sub-grantee and branch, but should provide a brief profile of each and summary response for their entire network, highlighting individual activities, partnerships, needs and/or results when appropriate.

a. Rating Factor 1: Capacity of the Applicant and Relevant Organizational Staff (30 Points)

HUD uses responses to this Rating Factor to evaluate the readiness and ability of an applicant and proposed sub-grantee and branch staff, to immediately begin, and successfully implement, the proposed work plan detailed in Rating Factor 3. HUD will also evaluate how effectively the applicant managed work plan adjustments that may have been required if performance targets were not met within established timeframes and how often work plan adjustments were required.

(1) Applicants must provide the following information to support evaluation of this Rating Factor. Information must be provided in a chart or table.

(a) Number of full-time (35 hours + per week) housing counselors working for the applicant and, if applicable, proposed sub-grantees or branches;

(b) Number of part-time housing counselors (less than 35 hours per week) for the applicant and, if applicable, proposed sub-grantees or branches;

(c) Number of bilingual housing counselors working for the applicant and, if applicable, proposed sub-grantees or branches;

(d) Average years of housing counseling experience for housing counselors working for the applicant and, if applicable, proposed sub-grantees or branches;

(e) Average years of housing counseling program management experience for the project director(s) for the applicant and, if applicable, proposed sub-grantees or branches;

(f) Average years of related experience, such as experience in mortgage lending, for counselors and project managers;

(g) Proposed average hourly labor-rate for housing counselors and project managers, including benefits.

(2) Knowledge and Experience (11 points).

Using the information provided above, demonstrate that the applicant, including proposed sub-grantees and branches, has sufficient personnel with the relevant knowledge and experience to implement the proposed activities in a timely and effective manner, and bilingual language skills, if appropriate.

Specifically, for LHCAs, scoring will be based on the number of years of experience of Housing Counseling Program project directors and housing counselors.

For intermediaries, MSOs and SHFAs, scoring will be based on:

• The number of years of experience of housing counseling program management experience of project directors of proposed sub-grantees and branches;

• The number of years of housing counseling experience of counselors in proposed sub-grantees and branches;

• The number of years, for key intermediary, MSO or SHFA personnel, of experience administering a housing counseling program consisting of a network of multiple housing counseling agencies. HUD will award higher scores to applicants with more experienced staff and management;

For all applicants, related experience, such as experience in mortgage lending, will also be considered, but will not be weighted as heavily in the scoring as direct housing counseling or housing counseling program management experience;

HUD will also factor in other information that demonstrates the capacity of the applicant, such as relevant staff trainings and certifications. Indicate if the applicant, and proposed sub-grantees and branches, if applicable, meet the National Industry Standards for Homeownership Education and Counseling (http://www.homeownershipstandards.com/).

In scoring this section, HUD will evaluate whether the applicant has experience providing the proposed services. HUD will award higher scores to applicants with staff and management that have the greatest combination of experience, training and demonstrated competency.

(a) LHCAs may provide individual descriptions of staff limited to one page for all counselors and program managers included in the proposed work plan. These descriptions do not count toward narrative page limitations. Intermediaries, MSOs and SHFAs acting as intermediaries should summarize a single chart, for each applicable employee, subcontractor, and consultant of proposed sub-grantees or branches, the number of years of direct counseling or counseling program management experience, and the number of years of relevant experience. Total each column. Do not submit individual resumes for sub-grantee staff. HUD staff will verify experience information submitted during monitoring reviews. The following must be included in each person's description:

• The names and titles of employees, including subcontractors and consultants who will perform the activities proposed in the applicant's work plan in Rating Factor 3. Clerical staff should not be listed.

• Individual current housing counseling duties and responsibilities, Multi-service applicants should differentiate between time spent on housing counseling versus time spent on other issues;

• Experience in providing one-on-one and group counseling (describe each separately);

• Relevant professional background and experience, and;

• Bilingual language skills, if applicable.

• Experience is relevant if it corresponds directly to projects of a similar scale and purpose, for example, real estate or housing finance.

Provide the number of years of experience for each position listed and indicate:

• Where and when each position was held;

• Whether the position was full-time or part-time;

• In the case of part-time positions, the number of hours per week.

Applicants for Reverse Mortgage counseling supplemental funding must specify the Reverse Mortgage counseling experience of project directors, HUD HECM Network Counselors and the organization. Identify the HUD HECM Network Counselors that are in the applicant's network at the time of application, and that the applicant proposes to fund with the requested award;

(b) Also indicate in the chart for all housing counselors and project directors the specialized trainings received within the last two years relevant to the proposed housing counseling activities, including specific trainings regarding FHA programs. Include dates for when the training was received and who provided it. Do not include on-the-job training. Applicants that seek supplemental funds for Reverse Mortgage counseling must indicate what relevant training counselors received to prepare them as Reverse Mortgage counselors. Any training that is not related to the proposed activities will not be considered.

(c) Indicate which housing counselors are certified housing or financial counselors. Describe what type of certification is held, who provided it, when certification was received, and if applicable, the date certification expires.

(d) Identify the Client Management System (CMS) utilized by the applicant, and each affiliate, and branch, if applicable, during the grant period October 1, 2006, to September 30, 2007, and describe any automated financial/credit tools or calculators and loan product/feature comparison tools the CMS(s) makes available to counselors, and explain how these tools and the CMS in general improves the quality of counseling.

For the coming grant period, October 1, 2008 through September 30, 2009, indicate which system will be used by the applicant, and each affiliate, and branch, if applicable, and how its use will be implemented, for example employee training.

(3) Grant and Program Requirement Compliance (14 points).

In scoring this Section, HUD will evaluate how well the applicant met the Program requirements, including reporting and grant document execution, if applicable, for the period October 1, 2006, to September 30, 2007, and its ability to spend all grant funds allotted.

If the applicant did not receive an FY2006 HUD grant, it must provide a response, with sufficient detail for HUD to evaluate compliance, based on activities and requirements under other sources of funding, such as other federal, state, or local grant awards. Identify the source(s) and amount(s) of funds used for housing counseling. Provide relevant contact information for the agencies or organizations administering these programs so HUD can verify that the information you report is accurate.

(a) Grantee Requirements. (3 points) HUD will evaluate the applicant's performance with regard to the timeliness and completeness with which the applicant satisfied grant requirements, including grant document execution, grant reporting requirements including quarterly (if applicable), mid-term and final reports.

(b) Form HUD-9902. (2 points) HUD will deduct points if the applicant was required to submit a form HUD-9902 for the period October 1, 2006 through September 30, 2007, but failed to do so in a timely manner.

(c) Expending Grant Funds. (2 points) If grant awards were not fully expended during the grant period October 1, 2006, to September 30, 2007, provide an explanation as to the reason why and the steps the applicant has taken to ensure that future funding will be expended according to the terms of the grant agreement.

(d) Performance Reviews. (5 points) Significant findings on performance reviews conducted by HUD staff will be taken into consideration when scoring this section. Significant findings may be findings that suggest an applicant has operated its agency in a manner inconsistent with the Housing Counseling program. HUD will develop and apply a scoring scale based on the number of significant findings documented during a review(s), and incidence of repeat findings.

(e) Housing Counseling System (HCS). (2 points) HUD will evaluate applicant's timeliness and effectiveness in validating and updating agency information in HCS. Intermediaries, MSOs and SHFAs must describe procedures and quality control measures used to verify sub-grantee, and if applicable branch or affiliate, information is validated in HCS on a regular basis.

(4) Management—Goals and Results (5 points). In scoring this section, HUD will compare applicant output and outcome goals and actual results for the period October 1, 2006 through September 30, 2007, and evaluate subsequent changes in approach resulting from any differences, if applicable. HUD's primary concern is outputs, specifically accomplishments relative to the projected total number of households to be served, both for one-on-one counseling and education. The outcome regarding the number of individuals avoiding foreclosure, if applicable, is also a priority for HUD. HUD will also evaluate how the applicant managed change, when needed, within the organization as well as a clear and reasonable explanation as to why goals were not met, or why they were exceeded, and what steps were taken organizationally to accommodate either scenario.

For applicants that received a FY 2006 housing counseling grant covering the period October 1, 2006 to September 30, 2007, HUD will compare the HUD-grant specific projections made in the Program Outcome and Output Logic Model, Form HUD-96010 submitted with the FY2006 Housing Counseling NOFA, including any adjustments based on actual award amounts, to the corresponding actual HUD-grant specific results for that period reported by the applicant.

Applicants who did not receive a FY2006 Housing Counseling Grant and therefore did not finalize outcome and output projections, or who are recently approved, or who were a sub-grantee of an intermediary or SHFA for the period of October 1, 2006 through September 30, 2007, and are now applying for funding must indicate the detailed, quantifiable goals the organization set for itself for the period covering October 1, 2006 to September 30, 2007, or for the 12 month period ending December 31, 2007 if more appropriate to the applicant's or other grant-requiring reporting schedule. Also provide the actual results corresponding to these goals and explain any differences in goals versus actual results and indicate what measurement reporting tools were used as well as describe the evaluation process. The Logic Model Instructions, which is tab 1 of Form HUD-96010, provides information regarding measurement reporting tools and the evaluation process. Provide relevant contact information for the agencies or organizations administering those programs so HUD can verify that the goals and corresponding achievements you report are accurate.

b. Rating Factor 2: Need/Extent of the Problem (10 Points)

This factor addresses the extent to which there is a need for funding the proposed activities described in the applicant's work plan, and the degree to which the applicant's work plan substantively addresses departmental policy priorities.

(1) Needs Data (4 points). Provide current or recent economic and demographic data, and any other evidence that demonstrates housing counseling need relevant to the target area. All proposed activities in Factor 3 must have corresponding need-related data. Sources for all data provided must be clearly cited. Do not submit copies of reports or tables.

To the extent that the community that the applicant serves has documented need in its Consolidated Plan, Analysis of Impediments to Fair Housing Choice (AI), or other planning documents, provides these in the response. Economic and demographic data must include persons with disabilities located in the target area. The U.S. Census Bureau, for example, maintains disability data by state, county, and metropolitan statistical area (MSA) at the following Web site: http://www.census.gov/hhes/www/disability/disability.html. Additionally, the HUD USER Research Information Service and Clearinghouse, available at http://www.huduser.org/, allows users to search over 800 HUD publications by subjects and keywords.

In scoring this Section, HUD will evaluate the degree to which the applicant provides current or recent economic and demographic data, and any other evidence that demonstrates housing counseling need relevant to the target area and the activities proposed in projected work plan activities detailed in Rating Factor 3. Applicants that fail to identify current or recent objective data, including adequate source citation, will not receive full points for this factor.

(2) Departmental Policy Priorities (6 points). The Departmental policy priorities are described in detail in the General Section. Of those listed, the following five apply to the Housing Counseling Program for the purpose of this NOFA. Indicate if and describe how the applicant's work plan substantively addresses each of these departmental policy priorities. Applicants are advised to review policy priorities in the General Section, to assure they fully understand the meaning of each, prior to responding to this sub-factor. In scoring this section, the applicant will receive one point for each of the departmental policy priorities (a)-(d) that the projected work plan in Factor 3 substantively addresses. Up to 2 points are available for priority (e). The General Section identifies how policy priority points will be awarded. To receive full credit for each category intermediaries, MSOs and SHFAs must demonstrate that at least half of the proposed sub-grantees or branches have met the specified criteria. Copies of HUD's notices published on this issue can be found on HUD's Web site at http://www.hud.gov/grants/index.cfm.

(a) Providing Increased Homeownership and Rental Opportunities for Low- and Moderate-Income Persons, Persons with Disabilities, the Elderly, Minorities, and Families with Limited English Proficiency.

(b) Providing Full and Equal Access to Grassroots, Faith-Based and Other Community-Based Organizations in HUD Program Implementation. Identify and describe outreach activities and partnerships with grassroots, faith-based and other community-based organizations.

(c) Participation in Energy Star. Applicants must provide information on how they promote or plan to promote Energy Star materials and practices and buildings constructed to Energy Star standards to homebuyers, renters and other applicable counseling clients. Describe any outreach activities previously conducted and/or planned to promote Energy Star products.

(d) Utilization and Promotion of FHA-Insured Mortgages, Products and Programs. Applicants must describe counselors' knowledge of FHA products and programs, how that knowledge was obtained, and its plans to present these loan products and programs as viable alternatives to clients. Applicants must describe any tools used to inform clients about FHA products and programs such as a loan comparison chart or tool on its CMS comparing insured loans with alternatives.

(e) Removal of Regulatory Barriers to Affordable Housing. Under this policy, higher rating points are available to (1) governmental applicants that are able to demonstrate successful efforts in removing regulatory barriers to housing and (2) nongovernmental applicants that are associated with jurisdictions that have undertaken successful efforts in removing barriers. To obtain the policy priority points for efforts to successfully remove regulatory barriers, applicants must complete form HUD-27300, “Questionnaire for HUD's Initiative on Removal of Regulatory Barriers.” A number of questions on form HUD-27300 expressly request the applicant to provide brief documentation or contact information with its affirmative response. Applicants that do not provide this documentation will not receive the policy priority points. When addressing this policy priority, Intermediaries, MSOs and SHFAs should submit a form HUD-27300 for a single jurisdiction in which the preponderance of services will be performed if an award is made.

c. Rating Factor 3: Soundness of Approach/Scope of Housing Counseling Services (38 Points).

This factor addresses the quality and effectiveness of the applicant's historical and proposed housing counseling activities.

(1) Historical Performance—Quality and Complexity of Services (8 Points)

In scoring this section, HUD will evaluate the quality of, the variety of, and the level of effort and time associated with all the housing counseling services provided by the applicant from all funding sources during the period October 1, 2006 through September 30, 2007. Responses should contain “Historical Performance” as part of the heading for the response. Applicants must provide the following information:

(a) Average Hours. Provide the average amount of time spent, per household, for the following services types. Include only direct housing counseling and education service provision, not follow-up, preparation, etc., Intermediaries, SHFAs and MSOs must provide an average for the entire network of affiliates and branches, if applicable, included in their application. Do not provide a range of hours.

(i) Pre-purchase Counseling

(ii) Homebuyer Education

(iii) Delinquency/Default Counseling

(iv) Non-Delinquency Post-Purchase Counseling

(v) Reverse Mortgage Counseling

(vi) Non-Delinquency Post-Purchase Education

(vii) Rental Counseling

(viii) Homeless/Displacement Counseling

(ix) Fair Housing Education

Scoring will be based on the degree to which the applicant demonstrates, as compared to other applicants, that sufficient time and resources were devoted to ensure that clients received quality counseling.

(b) Types of Counseling and Services Offered: HUD will retrieve this information, the Form HUD-9902, “All Counseling Activities” column, through the Counseling System (HCS). Verify that the information from this is accurate. Scoring of the variety of housing counseling services is weighted to incentivize Reverse Mortgage and Delinquency/Default.

(c) Group Education and One-On-One Counseling. For the period October 1, 2006, through September 30, 2007, HUD will retrieve from Section 6 of form HUD-9902, “All Counseling Activities” column, the number of clients that participated in Homebuyer Education Workshops or other types of classes as group sessions and will retrieve from Section 7a-e, the number of clients that participated in one-on-one counseling. Applicants should explain figures provided in Form HUD-9902, “All Counseling Activities” column, regarding group session participation and one-on-one counseling. Describe how clients come to participate in one or the other, the relationship between the two, and the role that each plays in the applicant's overall service. Indicate the percentage of clients participating in both group sessions and one-on-one counseling. Scorers will evaluate the extent to which an agency encouraged and provided one-on-one counseling, HUD considers the most effective form of housing counseling, to complement homebuyer education workshops and other forms of group.

(d) Marketing and Outreach. Describe outreach and marketing efforts, with particular emphasis on diverse emerging markets, for example, to first time. Indicate the amount from all sources of funding, spent on marketing and outreach.

(2) Historical Performance—Impact/Outcomes (8 points)

To score this Section, HUD will evaluate the applicant's performance for the period October 1, 2006, to September 30, 2007 as reported on the HUD 9902, “All Counseling Activities” column. The quantity of clients the applicant served will be compared to similar applicants providing similar services. Clients served will also be analyzed in the context of the applicant's total housing budget for the same period, FY2006. HUD will also consider the extent to which the services provided were time and resource intensive. Additionally, for MSOs and SHFAs, HUD will evaluate the geographic coverage and scope of the applicant's activities for the period October 1, 2006, through September 30, 2007, and the overall size of the housing counseling network during that period.

(a) Cost per client. Clients served figures will be obtained from the Form HUD-9902, “All Counseling Activities” column, for the period October 1, 2006 through September 30, 2007, submitted to HUD by the applicant, which reflects activities funded both with HUD housing counseling grant funds, if applicable, and with other leveraged resources. Applicants that were not required to submit Form HUD-9902 for the period October 1, 2006 through 30, 2007, must complete one as part of this application. In addition, the applicant must provide the following information.

(i) Total housing counseling budget for the period October 1, 2006-September 30, 2007, including HUD housing counseling grant(s) or sub-grants, if applicable, as well as other resources leveraged specifically for housing counseling. Do not include funds for down payment or closing cost assistance, Individual Development Accounts, emergency services, or other resources not used for the direct provision of housing counseling.

(ii) Indicate how factors, such as, location, type of counseling, client type, and expenses, may have affected client volume. Justify expenses and explain why they were reasonable, strategic, and appropriate.

(b) Training Expenditures: Indicate the amount spent, from all sources of funding, on formal staff training during the grant period October 1, 2006, to September 30, 2007. Do not include on-the-job training.

(c) Percentage of Grant Funding Passed Through: Intermediaries, MSOs and SHFAs that received one or more FY2006 HUD housing counseling grants, the grant period October 1, 2006, to September 30, 2007, must also indicate what percentage of their grant(s) was passed through directly to sub-grantees or branches for the provision of housing counseling services and explain how funds not passed through were spent.

LHCAs applying under Applicant Category 1 that received one or more FY2006 HUD housing counseling grants for the grant period October 1, 2006, to September 30, 2007, must indicate what percentage of their grant(s) was spent on the salaries and benefits of housing counselors and project directors. Explain how other funds were spent.

Applicants that did not receive a FY2006 HUD housing counseling grant must characterize their performance through other housing counseling funding sources, for example other federal, state or local government grants, providing as much detail, similar to that requested above, as possible.

(d) Geographic Coverage: Intermediaries, MSOs and SHFAs must identify the sub-grantees, affiliates and branches, and corresponding states, to which the applicant provided housing counseling funding, for the period October 1, 2006, through September 30, 2007, through:

(i) FY2006 HUD housing counseling grant funds, if applicable

(ii) All housing counseling resources

(iii) SHFAs must describe methods and results of efforts to integrate existing agencies/systems in the state. SHFAs must also describe the process used to identify and rectify service delivery deficiencies within the state.

(3) Projected Performance/Work Plan—Quality and Complexity of Services (8 points)

This section involves information on the housing counseling services and other activities to be conducted during the period October 1, 2008, through September 30, 2009. In scoring this Section, HUD will consider the types and variety of housing counseling and education services being offered, and other activities occurring in support of the applicant's housing counseling program.

HUD will also evaluate the quality of the applicant's proposed housing counseling services, and level of effort and time associated with providing the proposed counseling services to the number of clients it estimates it will serve. Scoring will be based on the degree to which the applicant demonstrates, as compared to other applicants that, for each type of counseling service delivered, average, greater than average or less than average time and resources, will be devoted to ensure that clients receive quality counseling.

Applicants must provide the following information, which will be used in conjunction with responses in Rating Factor 5, as a basis to support the scoring of the sub-factors below. There should be consistency between Rating Factor 3 and the projected outputs and outcomes in Rating Factor 5. Responses must contain “Projected Performance” as part of the heading for the response.

(a) Counseling and Education Services. Describe the various types of housing counseling and education services, and if applicable, intermediary activities, applicant proposes to undertake. The proposed work plan must be consistent with the most current work plan on file with the appropriate HUD, i.e., an applicant cannot propose to provide services which are not currently approved by HUD. Also, describe planned follow-up activities, if applicable. Proposed services and activities must relate to the needs identified in Rating Factor 2. Scoring of the variety of housing counseling services offered is weighted to provide the most points for Reverse Mortgage and Delinquency/Default counseling.

(b) Average Hours. For each of the service types listed in part (a), indicate the average hours of direct housing counseling and education service provision, by the applicant, and affiliates and branches if applicable, per client, for the period October 1, 2008, through September 30, 2009. Do not provide a range of hours. If the projected average times are the same as those listed for the period covering October 1, 2006—September 30, 2007, the applicant may simply state so in lieu of listing them again here.

(c) Sufficient Staff. LHCAs must indicate the names and titles of employees allocated to each proposed activity, as well as the corresponding staff hours for each task, and demonstrate that the applicant has the human resources to accomplish the proposed activities and serve the number of individuals the applicant proposes to serve. The staff information should include who from Factor 1 will be involved, and any new staff, subcontractors or consultants that will be hired for the October 1, 2008—September 30, 2009 grant period.

(d) Training. Indicate proposed amount to be spent, from all funding sources, on formal staff training during the grant period October 1, 2008, to September 30, 2009. Indicate amount spent with HUD Housing Counseling grant funding, if applicable, and amount spent from other sources of funding. HUD will reward agencies that utilize other sources of funding, besides HUD housing counseling grant funding for training. Do not include on-the-job training. Intermediaries, MSOs and SHFAs should describe in detail their plans to train proposed sub-grantees and branches if applicable, provide technical assistance, and evaluate compliance with program requirements, for example through site visits.

(e) Persons with Disabilities/LEP. Describe plans to effectively serve and/or communicate with persons with limited English proficiency (LEP), pursuant to Title VI of the Civil Rights Act of 1964. Applicants may refer to the Department's January 22, 2007 Final Guidance to Federal Financial Assistance Recipients Regarding Title VI Prohibition Against National Origin Discrimination Affecting Limited English Proficient Persons (72 FR 2732). Applicants that identified multi-lingual counselors in Factor 1, must demonstrate the applicability of their capacity to provide services in multiple languages to the language needs of the community they serve.

Also describe plans to effectively serve and/or communicate with persons with disabilities, in accordance with Section 504 of the Rehabilitation Act of 1973 and its implementing regulations at 24 CFR parts 8 & 9, and Title III of the Americans with Disabilities Act.

(f) Sub-grantees/Branches. Intermediaries, MSOs and SHFAs must also:

(i) Describe the housing counseling and education activities to be provided by proposed sub-grantees and branches, explicitly stating the types of services to be offered, preferably in a chart.

(ii) Describe the applicant's legal relationship with sub-grantees (i.e. membership organization, field, or branch office, subsidiary organization, etc.)

(iii) Explain the process that will be used to determine sub-grantee funding levels distribute funds. If applicable, indicate how sub-grantee funding levels adjusted on an on-going basis based on performance.

(4) Projected Performance/Work Plan—Impact (8 points)

In scoring this Section, HUD will evaluate the proposed outputs from the logic model, specifically the number of clients that the applicant estimates will be served under the proposed HUD grant, by the applicant and sub-grantees, if applicable, for the grant period October 1, 2008, to September 30, 2009. Scoring will be based on the cost per client, compared to historical averages similar services and similar applicants. Proposed clients served numbers will also be analyzed in the context of budget, costs, spending decisions, the types of services provided, level of effort expended, etc.

(a) Cost Per Client. Provide a context for, or qualify the number of clients the applicant projects to serve with the proposed HUD grant. Indicate how location, counseling and client types, and expenses may affect client volume, whether the impact will be short-term or long-term. Justify proposed expenses and explain why they are reasonable, strategic, and appropriate for counseling activities identified above.

(b) Projected Performance—Group Education and One-On-One Counseling. HUD will utilize logic model output projections to evaluate what percentage of total clients the applicant estimates will participate in group education, what percentage will participate in one-on-one counseling, and what percentage will participate in both group sessions and one-on-one counseling. Applicants must complete each of these output projections. Describe how clients are selected for one or the other, the relationship between the two, and the role that each will play in the overall service provision. Scorers will evaluate the extent to which an agency plans to encourage and provide one-on-one counseling, which HUD considers the most effective form of housing counseling, instead of over-relying on homebuyer education workshops and other forms of group sessions.

(c) Marketing and Outreach. Describe marketing and outreach strategies planned, including strategies to reach out to diverse emerging markets and households at risk of default and foreclosure. These strategies should be designed to reach clients in need of the counseling services described in the work plan. Provide the amount of the proposed HUD grant budgeted, and the amount of total budget, all sources of funding, earmarked for marketing and outreach for the period covering October 1, 2008-September 30, 2009.

(5) Projected Performance/Work Plan—Coordination (4 points). HUD will the extent to which, as compared to similar applicants, the applicant can demonstrate it will coordinate proposed activities with other organizations, if applicable, with other services and products offered by the applicant's organization in a manner that benefits their clients. Scoring will also be based on the degree to which the applicant takes steps to avoid conflicts of interest, and discloses to clients that they have a choice in matters such as the loan they choose and the house that they purchase.

(a) Partnerships. Identify and describe partnerships and efforts to coordinate proposed activities with other organizations, including, but not limited to, emergency and social services providers, lending organizations, homeowner insurance providers, down payment and closing cost assistance programs, nonprofit housing providers, and local or state government. No points will be given for simply a list of other organizations. Applicants should also internal products and functions, if applicable, such as loan products available to clients, down payment and closing cost assistance programs, as well as internal affordable housing programs that can be a resource for clients.

SHFAs should describe plans to integrate existing counseling agencies/systems within their states. Applicants requesting Reverse Mortgage supplemental funding should highlight the partnerships or internal products that are relevant to Reverse Mortgage activities.

(b) Conflict of Interest. Describe plans to avoid conflicts of interest, such as methods for disclosing to participants that they are free to choose lenders, loan products, and homes, regardless of the recommendations made by counselors. To receive full credit in this Section, the applicant must submit the disclosure forms and materials used by the applicant to communicate to clients that, while affordable homes, lending products and other forms of assistance might be through the applicant, and partnerships in which the applicant has entered, the client is under no obligation to utilize these services. These plans and disclosures will also be reviewed by HUD staff as a part of the biennial reviews and on-site monitoring visits.

(6) Projected Performance/Work Plan—Coverage/Efficient Use of Resources (2 points). In scoring this Section, HUD will evaluate the geographic coverage of the applicant's proposed activities, and spending decisions.

(a) Percentage of Grant Funding To Be Passed Through: Intermediaries, MSOs and SHFAs must indicate what percentage of their proposed award will be passed through directly to sub-grantees and branches, and explain how funds passed through will be spent. LHCAs that apply under Applicant Category 1 must indicate what percentage of their proposed award will be spent on the salaries and benefits of housing counselors and project directors. Explain in detail how other proposed funds will be spent.

(b) Geographic Coverage: Intermediaries, MSOs and SHFAs must identify the sub-grantees and branches, and corresponding states, the applicant proposes will receive funding through this grant award. SHFAs should describe plans to identify and rectify service delivery deficiencies within their states. Applicants unable to precisely identify proposed sub-grantees and branches to receive funding through the proposed grant must identify the most likely sub- and branches, based on past experience, and explain what process will be used to select actual sub-grantees and branches. Pursuant to the applicable regulations at 24 CFR 84.82(d)(3)(iii) and 85.30(d)(4), grantees receive HUD's prior written approval for sub-grants.

d. Rating Factor 4: Leveraging Resources (10 Points)

HUD housing counseling grants are not intended to fully fund an applicant's housing counseling program, or that of its sub-grantees. All organizations that use housing counseling grant funds are expected to seek other private and public sources of funding for housing counseling to supplement HUD funding. Any agency that does not have other resources available will receive no points for this factor.

Applicants will be evaluated based on their ability to show that they have obtained additional nonfederal resources for their housing counseling activities, for the period October 1, 2008-September 30, 2009, including: direct financial assistance; in-kind contributions, such as services, equipment, office space, labor; etc. Resources may be provided by nonfederal governmental entities, public or private nonprofit organizations, for-profit private organizations, or other entities committed to providing assistance. Grantees will be required to maintain evidence that leveraged funds were actually provided to the agency. These files will be reviewed by HUD staff as a part of the biennial reviews and on-site monitoring visits.

(1) All applicants must provide a comprehensive list of all leveraged funds and in-kind contributions being claimed. Include the total amount and the source of funds. Applicants are required to list the names of the organizations providing the nonfederal funds, the sources of those funds, and amounts of the funds to be devoted to the proposed program. Applicants that fail to provide this information shall not receive any points for this factor. Intermediaries and SHFAs must itemize the list of leveraged resources by each proposed sub- and/or funded branch office. All leveraged resources claimed by an applicant, including cash and third party in-kind, must meet all of the criteria set forth in 24 CFR 84.23 and must be accounted for in the budget form 424CB. Responses should be consistent with the leveraged funds amount shown on the SF Form 424, HUD Form 424 CB and the documentation for this rating factor.

(2) Additionally, for Category 1—Local Housing Counseling Agencies (LHCAs), in order to obtain points under this factor, the applicant must demonstrate leveraging by providing letters and, if applicable, copies of relevant grant agreements, from entities or individuals, or both, committing resources to the project, that include:

(a) The identity of the entity or individual committing resources to the project.

(b) Dollar value of the resources to be committed. For in-kind resources with no clear total dollar value indicated, Applicants should estimate their value and describe in detail how the estimate was determined. Values for recipient contributions of services and property shall be established in accordance with the applicable cost principles.

(c) The type of resources to be committed.

(d) An indication that the resources will be available during the grant period pertaining to this NOFA, October 1, 2008-September 30, 2009.

(e) An indication that the award, or a specific portion of it, is intended for housing counseling.

(f) The signature of an official of the entity legally able to make commitments on behalf of the entity.

(g) No conditions that would nullify the commitment. (It is, however, acceptable for the commitment to be conditional on HUD funding.)

(h) If a LHCA has a history of funding over the past two years from a particular source and cannot get a commitment letter for the coming grant year, the applicant can provide a verification of the receipt of the grant in the past and make a statement that they have applied for and expect to receive the grant during the period October 1, 2008-September 30, 2009.

(3) Additionally, resources provided by the applicant may count as leveraged resources. These amounts must include only funds that will directly result in the provision of housing counseling services, but not resources for activities as down payment and closing cost assistance, IDA programs, and emergency services.

(4) The Final Rule published in the Federal Register on September 28, 2007, at 72 FR 55638 and codified at 24 CFR part 214 expands the conditions under which agency's participating in HUD's Housing Counseling Program are permitted to charge fees to counseling recipients. While agencies are strongly encouraged to aggressively leverage funds from other private and public sources, fee income can be counted as leveraged resources. Fee income would be identified as program income on required budget forms.

(5) Intermediaries, MSOs and SHFAs should include information on leveraged resources for only anticipated sub-grantees and branches that will be funded by this application.

(6) Points for this factor will be awarded based on the amount of leveraging that meets the criteria in this section and the percentage of the applicant's total housing counseling budget that the requested HUD housing counseling funds would represent. The amount of grant funds requested will impact the ratio to score this factor, as this factor evaluates the proposed HUD grant as a percentage of the total counseling budget. For example, a LHCA requesting the maximum comprehensive grant amount of $150,000 with leveraged funds equaling that grant will only receive 7 points. If that same LHCA requests only $100,000 with the same leveraged funds of $150,000, the score will be 9. Depending on organization type, the following scales will be used to determine scores for this factor.

LHCAs, MSOs and SHFAs

1-25%—10 points

26-40%—9 points

41-48%—8 points

49-55%—7 points

56-65%—6 points

66-75%—5 points

76-85%—4 points

86-91%—3 points

92-95%—2 points

96-99%—1 point

Intermediaries

1-20%—10 points

21-26%—9 points

27-32%—8 points

33-41%—7 points

42-47%—6 points

48-53%—5 points

54-59%—4 points

60-65%—3 points

66-71%—2 point

72-99% —1 point

e. Rating Factor 5: Achieving Results and Program Evaluation (12 points)

This factor emphasizes HUD's determination to ensure that applicants meet commitments made in their applications and grant agreements and assess their performance in achieving agreed upon performance goals. This reflects HUD's Strategic goal to embrace high standards of ethics, management and accountability.

The purpose of this factor is for the applicant to identify projected outputs and outcomes corresponding to the proposed work plan in Factor 3. The developed logic model submitted with the application will serve as a reporting tool for applicants selected to receive an award, allowing HUD to compare proposed program outputs and outcomes with actual results. In scoring this Factor, HUD will consider the appropriateness of the goals given the award the applicant is applying for and evaluate the proposed outputs and outcomes for their effectiveness and efficiency in delivering housing counseling services to the population to be serviced. Additionally, scorers will evaluate the extent to which an applicant's proposal includes one-on-one counseling or encourages affiliates to undertake one-on-one counseling. HUD considers one-on-one counseling the most effective form of housing counseling, as compared to homebuyer education workshops and other forms of group sessions. The outputs and outcomes projected in the logic model must be consistent with the projected number of clients proposed in Rating Factor 3. In addition, the narrative submitted with this factor should be consistent with the completed logic model. Applicants should clearly distinguish between one-on-one counseling and education participants.

The Logic Model submission is valued at up to 10 points. The point structure for review of the Logic Model is contained in the General Section. The evaluation plan and methods for reviewing and improving program effectiveness is valued at 2 points.

(1) Program Outcome Logic Model (10 points). Applicants must select appropriate outputs and outcomes from a series of “pick lists” for the Housing Counseling Program. The pick list can be found in the form HUD-96010 in the Grants.gov Housing Counseling Program Instructions Download. Using pick list, for each column of the logic model, applicants can select and insert their outputs and outcomes in the appropriate columns of the logic model. Applicants should make sure their entries reflect all proposed counseling and education activity under the grant.

The pick lists also provide for an associate unit of measure for each output and outcome, and applicants must utilize the measure provided that is associated to the activity. Applicants must identify projected output and outcome values that correspond to the unit of measure. For example, insert whole numbers, not percentages, when the unit of measure is `Households'.

These amounts should represent results to be achieved entirely as a result of the HUD housing counseling funding. If, in reality, various funding sources will contribute to the services provided each individual, the applicant must prorate their response to reflect a figure representing services provided with only funding from the proposed grant.

Applicants should use the same methodology to complete the logic model as they do form HUD-9902. For example, the logic model is not designed to record the exact number of clients projected or served, but rather the number of unique counseling or education services provided. So an individual or household that receives multiple, distinct types of counseling or education in a reporting period is recorded on the logic model multiple times. For example, if an individual comes in for one type of counseling (e.g. pre-purchase), they are recorded. If, later in the reporting period, the same individual comes in for another type of counseling, for example default counseling, record this new activity. By contrast, if multiple topics are covered in one counseling session, it is only recorded as one activity. Moreover, the form is designed to capture participation in each complete course on a unique education topic. For example: whether or not the course is completed in one 8 hr session, or four 2-hour classes, it is counted as one course.

In addition, HUD has provided a series of management questions, which awardees will be expected to respond to in reporting back to HUD. The management questions place a framework around the data you will be reporting to HUD. The management questions are included in the logic model and applicants should use them as a guide to understanding what HUD is interested in learning about the major element of your program.

Applicants must complete and submit Form HUD-96010 reflecting projected outputs and outcomes under the proposed HUD Housing Counseling grant.

The Form HUD 96010 must identify the following:

(a) Outputs. Outputs are the direct products of the applicant's activities that lead to the ultimate achievement of outcomes. Based on the proposed work plan in Factor 3 and the amount being requested through this NOFA, applicants should select the appropriate outputs and their associated units of measure from the choices provided in the pick list, and provide the corresponding number to be achieved for each proposed output.

If requesting Reverse Mortgage supplemental funding, indicate the specific number of households the applicant projects it, or if applicable, sub-grantees and branches, will serve under the comprehensive counseling portion of the requested award and with requested Reverse Mortgage supplemental funding.

(b) Outcomes. Outcomes are benefits accruing to the households as a result of participation in the program. Outcomes are performance indicators the applicant expects to achieve or goals it hopes to meet over the term of the proposed grant. Using the pick lists provided, applicants should select each appropriate outcome and associated unit of measure related to the proposed work plan, and provide the corresponding number to be achieved for each proposed outcome. Projected outcomes should reflect the number you expect to report in the HUD Housing Counseling Grant Activities column on the Form HUD-9902.

The proposed outcomes the applicant provides will be compared to actual results in the measurement of grant performance and future grant application evaluations.

(2) Evaluation Plan (2 points). Applicants must also submit an evaluation plan for how they are going to track actual accomplishments against anticipated achievements and ensure that the program can provide the services projected to be delivered and outcomes projected to be achieved.

(a) Information Collection. Describe the applicant's procedures for measuring outputs and outcomes. Describe follow-up activities with clients to collect outcome information.

(b) Data Analysis and Work Plan Adjustments. Indicate how the information will be evaluated, and the steps the applicant has in place to make adjustments to the work plan if performance targets are not met within established timeframes. Intermediaries, MSOs and SHFAs should indicate if and how the performance of sub-grantees and branch offices affects current and future-grants and allocations.

B. Review and Selection Process. Two types of reviews will be conducted.

1. Technical Review. First, each application will be reviewed for technical sufficiency, in other words, whether the application meets the threshold requirements set out in this NOFA and the General Section and whether all required forms have been submitted. The General Section provides the procedures for corrections to deficient applications.

2. General Review. The second review considers the responses to the rating factors outlined above and other relevant information. Applications will be evaluated competitively, and ranked against all other applicants that applied in the same funding category.

3. Rating Panels. Detailed information on the rating review panels appears in the General Section.

4. Minimum Score for Fundable Applications. The minimum score for fundable applications is 75 points.

5. Funding Methodology.

a. Comprehensive Counseling. Only applicants who receive a score of 75 points or above will be considered eligible for funding. All eligible applicants will then be funded in proportion to the score they receive. Regarding the comprehensive counseling portion of an award, all grantees will receive the lower of either the comprehensive award amount determined with the formula, or the amount actually requested by the applicant. HUD will consider the amount of the comprehensive counseling grant being requested to be the value entered into box 18a on form SF-424. The minimum comprehensive award is $20,000 for LHCAs; $50,000 for SHFAs; $300,000 for intermediaries; and $50,000 for MSOs.

b. Supplemental Funding. The same methodology described above in section a will be used to distribute the available Reverse Mortgage counseling supplemental funds. Regarding supplemental funding, all grantees will receive the lower of either the supplemental award amount determined with the formula, or the specific amount of supplemental funding actually requested by the applicant.

For intermediaries and LHCAs requesting reverse mortgage counseling supplemental funding, box 18a of Form SF-424 should reflect the total of the comprehensive request and the Reverse Mortgage counseling supplemental request. The narrative response to Factor 3 must make clear the exact comprehensive and supplemental amounts being requested.

Each applicant will only submit one application and receive a score based on the application for the comprehensive counseling grant. Comprehensive counseling funds will be allocated based on this score. Subsequently, for reverse mortgage counseling supplemental funding, responses to each rating factor will be evaluated on a yes/no, adequate/inadequate basis. An adequate response will result in a score for the supplemental funding identical to the comprehensive score on each respective rating factor. An inadequate supplemental response will result in a 1-point deduction from the comprehensive score.

After all five rating factors have been evaluated the adjusted ratings will result in a distinct score for the reverse mortgage counseling supplemental funds. This method will result in scores for supplemental funding that may be equal to the comprehensive score, or up to five points less than the comprehensive score. In no case can an applicant receive a higher score on an application for supplemental funding than it received on its comprehensive application. An applicant will receive a separate score for its application for comprehensive counseling, reverse mortgage counseling supplemental funding.

The base award for the reverse mortgage counseling supplemental funding will be $40,000 for intermediaries. The base award for LHCAs will be $5000.

Only applicants scoring 75 points or above are eligible for either supplemental funding. HUD may award one or more reverse mortgage counseling supplemental grants to intermediaries or LHCAs. Reverse mortgage counseling supplemental grant funds are awarded based upon scores beginning with the highest until the funds are expended. Applications that receive 75 points or more will not necessarily receive supplemental funding.

6. Reallocation of Unspent Funds. If funds designated for a specific grant Category, HOC, or for supplemental funding remain unspent after the formulas have been run and award recommendations are determined, HUD may, at its discretion, reallocate those funds to any other funding Category or supplemental funding area under this NOFA. Additionally, HUD may reallocate unspent funds to any HOC jurisdiction or to HUD Headquarters for awards under this NOFA. HUD may also reallocate unspent funds for housing counseling support activities. Any reallocation will be based on demand and unmet need.

VI. Award Administration Information

A. Award Notices: Following selection, applicants will receive notification from HUD regarding their application.

1. Publication of Recipients of HUD Funding. HUD's regulations at 24 CFR part 4 provide that HUD will publish a notice in the Federal Register to notify the public of all decisions made by the Department. Please see the General Section for more information on this topic.

2. Debriefing. Applicants may receive a debriefing on their application submission. Please see the General Section for a further discussion of the timeframe in which the debriefing request may be submitted.

B. Administrative and National Policy Requirements

1. Environmental Requirements. In accordance with 24 CFR 50.19(b)(9) and (12) of the HUD regulations, activities assisted under this program are categorically excluded from the requirements of the National Environmental Policy Act and are not subject to environmental review under the related laws and authorities.

2. Audit Requirements. Grantees that expend $500,000 or more in federal financial assistance in a single year (this can be program year or fiscal year) must be audited in accordance with the OMB requirements as established in 24 CFR part 84. Additional information regarding this requirement can be accessed at the following Web site: http://harvester.census.gov/sac.

3. Other Matters.

a. Relocation. See the General Section.

b. OMB Circulars and Government-wide Regulations Applicable to Financial Assistance Programs. See the General Section.

c. Prohibition Against Lobbying Activities. See the General Section.

d. Procurement of Recovered Materials. See the General Section.

f. Executive Order 13279 Equal Protection of the Laws for Faith-Based and Community Organizations. See the General Section.

g. Salary Limitation for Consultants. See the General Section.

h. Executive Order 13132, Federalism. See the General Section.

C. Reporting.

1. Fiscal Year Activity Report. Grantees are required to submit Form HUD-9902, Housing Counseling Activity Report, quarterly via HUD's Web-based Housing Counseling System (HCS). The information compiled from this report provides HUD with its primary means of measuring program performance.

2. Program Outcome Logic Model. If the actual award amount differs from the proposed award, Grantees are required to submit an updated Form HUD-96010, Program Outcome Logic Model, and a corresponding budget, before the grant agreement will be executed. Additionally, Grantees will be required to submit an updated Form HUD-96010, Program Outcome Logic Model, reflecting actual achievements, with each quarterly, midterm and final report, in accordance with the reporting requirements of the grant agreement. The information in this form provides the primary means through which HUD will monitor the ongoing performance of the grantee.

VII. Agency Contact(s)

A. Technical Assistance. For technical assistance in downloading or submitting an application package using http://www.Grants.gov, contact the Grants.gov support desk at 800-518-Grants or by sending an e-mail to support@grants.gov.

B. Programmatic Information. For program related information, LHCAs, MSOs and SHFAs should contact the HOC serving their area, as indicated below. Intermediaries should contact HUD Headquarters, Program Support Division at (202) 708-0317 (this is not a toll-free number). Hearing and speech challenged persons may access the telephone numbers listed below by calling the Federal Information Relay Service at 800-877-8339.

Homeownership center | States
PHILADELPHIA HOMEOWNERSHIP CENTER, Ms. Brenda Bellisario, Director, Program Support Division, Wannamaker Building, 100 Penn Square East, 12th Fl, Philadelphia, PA 19107-3389. For programmatic information contact: Robert Wright Robert_Wright@hud.gov, (215) 861-7268 | Connecticut, Delaware, District of Columbia, Maine, Maryland, Massachusetts, Michigan, New Hampshire, New Jersey, New York, Ohio, Pennsylvania, Rhode Island, Vermont, Virginia, West Virginia.
ATLANTA HOMEOWNERSHIP CENTER, Ms. Gayle Knowlson, Director, Program Support Division, 40 Marietta Street, 9th Floor, Atlanta, GA 30303-2806. For programmatic information contact: Cheryl Appline Cheryl.w.appline@hud.gov, (404) 331-5001, x2696 | Alabama, Puerto Rico, Florida, Georgia, Illinois, Indiana, Kentucky, Mississippi, North Carolina, South Carolina, Tennessee.
DENVER HOMEOWNERSHIP CENTER, Ms. Irma Devich, Director, Program Support Division, 1670 Broadway, Denver, CO 80202-4801. For programmatic information contact: Vic Karels, (303) 675-1640 Victor_E._Karels@hud.gov | Arkansas, Colorado, Iowa, Kansas, Louisiana, Minnesota, Missouri, Montana, Nebraska, New Mexico, North Dakota, Oklahoma, South Dakota, Texas, Utah, Wisconsin, Wyoming.
SANTA ANA HOMEOWNERSHIP CENTER, Mr. Jerrold Mayer, Director, Program Support Division, Santa Ana Federal Building, 34 Civic Center Plaza, Room 7015, Santa Ana, CA 92701-4003. For programmatic information contact: Rhonda J. Rivera, rhondaj.rivera@hud.gov (714) 796-1200 x3210 | Alaska, Arizona, California, Hawaii, Oregon, Idaho, Nevada, Washington.

VIII. Other Information

A. Satellite Broadcast. HUD will hold an informational broadcast via satellite for potential applicants to learn more about the program, the FY 2008 Logic Model requirements, and the application. For more information about the date and time of the broadcast, consult the HUD Web site at: http://www.hud.gov/offices/adm/grants/fundsavail.cfm.

B. Paperwork Reduction Act. The information collection requirements contained in this document have been approved by the Office of Management and Budget (OMB) under the Paperwork Reduction Act of 1995 (44 U.S.C. 3501-3520) and assigned OMB control number 2502-0261. In accordance with the Paperwork Reduction Act, HUD may not conduct or sponsor, and a person is not required to respond to, a collection of information unless the collection displays a currently valid OMB control number. Public reporting burden for the collection of information is estimated to average 68 hours per annum per respondent for the application and grant administration. This includes the time for collecting, reviewing, and reporting the data for the application, semi-annual reports and final report. The information will be used for grantee selection and monitoring the administration of funds. Response to this request for information is required in order to receive the benefits to be derived.

Housing Counseling Training

Overview Information

A. Federal Agency Name: Department of Housing and Urban Development, Office of the Assistant Secretary for Housing—Federal Housing Commissioner.

B. Funding Opportunity Title: Housing Counseling Training.

C. Announcement Type: Initial Announcement.

D. Funding Opportunity Number: FR-5200-N-02

E. Catalog of Federal Domestic Assistance (CFDA) Number: Housing Counseling Training Program 14.316.

F. Dates: The application deadline date is July 9, 2008. Applications submitted through http://www.grants.gov must be received and validated by Grants.gov no later than 11:59:59 pm eastern time on the application deadline date. See Section IV of the General Section, published March 19, 2008 (73 FR 14882) regarding application submission procedures and timely filing requirements.

Full Text of Announcement

I. Funding Opportunity Description

A. Program Purpose. Funds are available to provide, under cooperative agreements with HUD, training activities designed to improve and standardize the quality of counseling provided by housing counselors employed by “participating agencies.” Participating agencies are all housing counseling and intermediary organizations participating in HUD's Housing Counseling Program, including HUD-approved agencies, and affiliates and branches of HUD-approved intermediaries, HUD-approved Multi-state organizations, and state housing finance agencies.

B. Authority. HUD's Housing Counseling Program, and the training of this NOFA are authorized by Section 106 of the Housing and Urban Development Act of 1968 (12 U.S.C. 1701x), and the Housing Counseling program regulations at 24 CFR part 214. Additional guidance not incorporated in 24 CFR part 214 is provided in HUD Handbook 7610.1, REV-4, CHG-2, dated October 27, 2004.

II. Award Information

A. Available Funds. This NOFA announces the availability of approximately $3 million.

B. Anticipated Award. HUD's goal is to fund an organization to deliver the full spectrum of activities eligible for funding under this NOFA. Should this not be possible, HUD reserves the right to make multiple awards under this NOFA.

C. Award Instrument. HUD expects to use a cooperative agreement, but reserves the right to use the award instrument it determines to be most appropriate. All awards will be made on a cost reimbursement basis in accordance with, and subject to, the requirements in OMB Circular A-87, Cost Principles for State, Local, and Indian Tribal Governments; or OMB Circular A-122, Cost Principles for Non-Profit Organizations, as applicable to your organization. These awards are also subject to the administrative requirements established in OMB Circular A-102, implemented at 24 CFR part 85 (Administrative Requirements for Grants and Cooperative Agreements to State, Local, and Federally Recognized Indian Tribal Governments); OMB Circular A-110, implemented at 24 CFR part 84 (Grants and Agreements with Institutions of Higher Education, Hospitals and Other Non-Profit Organizations); and OMB Circular A-133 (Audits of States, Local Governments, and Non-Profit Organizations), implemented at 24 CFR parts 84 and 85. If an applicant receives an award, it must comply with and must ensure that sub-recipients also comply with the above requirements. OMB circulars can be found at http://www.whitehouse.gov/omb/circulars/index.html.

Awards made as cooperative agreements will entail significant HUD involvement including but not limited to the following items:

• Review and approval of proposed courses, including course materials;

• Review and approval of evaluation instruments and methodology for determining value of courses and impacts;

• Review and Approval of training locations. HUD reserves the right to review and approve training locations as well as the type of training and courses offered;

• Targeting based on special needs.

1. Award Adjustments. HUD reserves the right to adjust funding levels for each applicant. Once applicants are selected for award, HUD will determine the total amount to be awarded to any grantee, based upon the scope and geographic coverage of services to be provided and funds available.

2. Award Period. Cooperative agreements will be for a period of up to twelve (12) months.

III. Eligibility Information

A. Eligible Applicants

1. Eligible Applicants. Applicants must be public or private nonprofit organizations and must have “tax exempt” status under section 501(a) pursuant to section 501(c)(3) of the Internal Revenue Code (26 U.S.C. 501(a) and (c)(3). Applicants must have at least two years of experience providing the majority of types of housing counseling training services nationwide that are both listed under Section III.C.2 of this NOFA and proposed in their application. The only exception to this requirement is public or nonprofit organizations with at least 2 years experience providing Reverse Mortgage counseling training nationwide.

A consortium of organizations may apply for funding under this NOFA, but one organization must be designated as the primary applicant. Members of the consortium must be public or private nonprofit organizations and must have “tax exempt” status under section 501(a) pursuant to section 501(c)(3) of the Internal Revenue Code (26 U.S.C. 501(a) and (c)(3). Furthermore, applicants may utilize in-house staff, sub-grant recipients or consultants, and networks of local organizations with requisite experience and capacity.

B. Cost Sharing or Matching. Cost sharing or matching is not required.

C. Other

1. Geographic Coverage. Applicants must propose to provide the housing counseling trainings Nationwide.

2. Eligible Activities. Applicants must propose to develop and implement a comprehensive and ongoing training program for housing counselors working for agencies participating in HUD's Housing Counseling Program. The training program must contain both basic and advanced courses. The majority of the training services should be conducted as place-based activities. Some training services may be provided through satellite broadcast, or through computer training software.

An applicant must be capable of providing training on all the training topics listed below. The only exception to this requirement is an applicant proposing to provide Reverse Mortgage Counseling training exclusively.

a. General Housing Counseling. Teach counselors the principles and applications of housing counseling from the industry's and the counselor's point of view. Review the skills and tools needed to be an effective housing counselor. Provide overviews of the industry from a national perspective, as well as information about pre- and post-purchase counseling for homeowners, delinquency, and default counseling.

b. Credit Counseling for Prospective Homeowners. Train counselors in conducting results-oriented individual counseling sessions for prospective homebuyers, including triaging customers, developing corrective action plans and timelines for success, and facilitating progress as customers overcome obstacles and move toward mortgage-readiness. Train counselors regarding state-of-the-art software designed specifically for credit rebuilding, debt reduction, automated budgeting, and downpayment savings accumulation. Use sample customer cases to identify obstacles and simulate counseling sessions.

c. Matching Clients with Loan Products. Train counselors in industry practices, analysis of financials, risk elements, and general concepts affecting conventional and government-insured mortgage loan decisions. Provide counselors with effective procedures and techniques that will translate into appropriate loans and satisfied housing counseling clients. Review case studies to illustrate the functional areas of the underwriting process, from the application to the loan sale.

d. Homebuyer Education Programs. Teach counselors how to deliver a comprehensive homebuyer education program to turn prospective homebuyers into satisfied homeowners. Teach counselors to use the best materials and methods to train homebuyers how to shop for a home, get a mortgage loan, improve their budget and credit profiles, and maintain their home and finances after purchase.

e. Section 8 Homeownership. Train counselors in how to effectively approach and partner with Public Housing Authorities (PHAs) in the implementation of a Section 8 Homeownership Program. Review the unique characteristics of the program and the voucher holders as they relate to the counseling component. Share effective and proven implementation strategies.

f. Helping Homeowners Avoid Delinquency and Predatory Lending. Teach counselors to conduct educational seminars and advise clients regarding how to avoid predatory lenders and common lending pitfalls. Give counselors the knowledge and tools to help unwary borrowers avoid inflated appraisals, unreasonably high interest rates, unaffordable repayment terms, and other conditions that can result in a loss of equity, increased debt, default, and foreclosure. Train counselors to help clients manage debt, avoid predatory lenders, and avoid mortgage default. Teach counselors how to read the warning signs of debt problems and how to recognize predatory lenders, as well as identify available resources to help keep homeowners out of financial trouble. Review state and federal regulations, including the Real Estate Settlement Procedures Act of 1974 (12 U.S.C. 2601 et seq.) (RESPA) and the Truth in Lending Act (15 U.S.C. 1501 et seq.).

g. Foreclosure Prevention. Train counselors on the protocol for counseling homeowners in financial distress. Address all aspects of default and delinquency, including reasons for default, ways to maximize income and reduce expenses, calculating delinquencies, understanding the players in the mortgage marketplace, loss-mitigation options for FHA-insured and other loans, information about foreclosure laws and timelines, tips on effectively intervening with lenders and servicers, managing multiple mortgages or liens, and the pros and cons of refinancing.

h. Reverse Mortgages. Train counselors about reverse mortgages for elderly homeowners. Teach them to understand products and programs, analyze plans and compare their costs and benefits, and identify alternatives. Also, review relevant counseling skills and ethics.

i. Home Maintenance and Financial Management for New Homeowners. Train counselors in how to advise individuals and conduct workshops aimed at ensuring the long-term success of new homebuyers, including home maintenance and repair, financial management, insurance, and record keeping.

j. Counseling Individuals and Families that are Homeless or at Risk of Becoming Homeless. Train counselors about the various social services available to which they should be referring homeless and potentially homeless families and individuals. Provide information on federal, state, and local homeless programs and how clients can access these programs. Share strategies on how to partner with local public service providers to ensure that clients receive attention and assistance quickly and efficiently. Review the unique characteristics of the homeless population to help counselors understand the types of financial, physical, and social problems facing the families and individuals who seek their assistance.

k. Disaster Victims Counseling. Train counselors about the unique circumstances faced by disaster victims including: counseling homeowners in financial distress, mortgage related counseling, default and delinquency, loss-mitigation options for FHA-insured and other loans, information about foreclosure laws and timelines, alternative housing, Federal Emergency Management Agency (FEMA) services and emergency housing (HUD homes).

l. HUD's Housing Counseling Program Requirements. Train counselors about the basic requirements of HUD's Housing Counseling Program, including the delivery of homeownership counseling and education for local, national, regional and state housing counseling agencies, how to fill out form HUD-9902, Housing Counseling System (HCS), biennial reviews, and record keeping.

m. Rental Housing. Securing and maintaining residence in rental housing, tenant/landlord responsibilities, and state and local laws, budgeting.

n. Federal Housing Administration. Train housing counselors about FHA-insured financing, including minimum requirements of FHA loans, loan limits, advantages of financing through FHA, HUD foreclosed properties, FHA appraisal requirements, 203k, 203b, 203h, and Home Equity Conversion Mortgage (HECM).

2. Threshold Requirements. Applicants and proposed grantees must meet the following Threshold Requirements:

a. Compliance with Fair Housing and Civil Rights Laws. See the General Section.

b. Debarment and Suspension. See General Section.

c. Delinquent Federal Debt. See General Section.

d. False Statements. See General Section.

e. Additional requirements: Agencies selected as grantees or sub-grantees must also comply with the following requirements:

(1) Salary Limitation for Consultants. See General Section.

(2) Accessibility. All grant recipients and subrecipients must use training facilities and services that are accessible to persons with disabilities or provide other means of accommodation for persons with disabilities, in accordance with Section 504 of the Rehabilitation Act (42 U.S.C 3601) and its implementing regulations at 24 CFR parts 8 & 9, and Title lll of the Americans with Disabilities Act.) See the Accessible Technology Requirements in the General Section.

(3) Reports. All grant recipients will be required to report to HUD on a quarterly basis, unless otherwise specified in the cooperative agreement.

(4) Code of Conduct. Applicants that are subject to 24 CFR parts 84 and 85 (including most nonprofit organizations and state, local, and tribal governments or government agencies or instrumentalities that receive federal awards of financial assistance) are required to develop and maintain a written code of conduct (See 24 CFR 84.42 and 85.36(b)(3)). The code of conduct must prohibit real and apparent conflicts of interest that may arise among employees, officers, or agents; prohibit the solicitation and acceptance of gifts or gratuities by an organization's officers, employees and agents for their personal benefit in excess of minimal value; and outline administrative and disciplinary actions available to remedy violations of such standards. Self-recusal will not eliminate a potential or apparent conflict of interest. Prior to entering into an agreement with HUD, the applicant will be required to submit a copy of its code of conduct and describe the methods it will use to ensure that all officers, employees, and agents of the organization are aware of the code of conduct.

(5) Financial Management Systems. Applicants selected for funding must provide documentation demonstrating that the applicant's financial management systems satisfy the requirements in the applicable regulations at 24 CFR 84.21(b) and 85.20. Consistent with the requirements of the Single Audit Act Amendments of 1996 (31 U.S.C. 7501-07), if the applicant expended $500,000 or more in federal awards in its most recent fiscal year, such documentation must include a certification from or most recent audit by the applicant's independent public accountant that the applicant maintains internal controls over federal awards, complies with applicable laws, regulations, and contract or grant provisions, and prepares appropriate financial statements. The applicant will have at least 30 calendar days to respond to this requirement. If an applicant does not respond within the prescribed time or responds with insufficient documentation, then HUD may determine that the applicant has not met this requirement and may withdraw the grant offer.

If an applicant selected for funding expended less than $500,000 in federal funds in the last fiscal year and therefore does not fall under the requirements of the Single Audit Act, HUD will conduct a review of the applicant's financial management system to ensure that the accounting system meets federal requirements. HUD reserves the right not to fund an applicant that has an accounting system that does not meet federal requirements or require an applicant to attain the services of an organization acceptable to HUD that can manage the financial records of the applicant.

(6) Indirect Cost Rate. Applicants must also submit documentation establishing the organization's indirect cost rate. Such documentation may consist of a certification from the most recent audit or indirect cost rate agreement by the cognizant federal agency or an independent public accountant. If the organization does not have an established indirect cost rate, the organization will be required to develop and submit an indirect cost proposal to HUD or the cognizant federal agency as applicable, for determination of an indirect cost rate that will govern an award. Applicants that do not have a previously established indirect cost rate with a federal agency shall submit an initial indirect cost rate proposal immediately after the applicant is advised that it will be offered a grant. If an applicant does not have an established indirect cost rate, and there is no other cognizant federal agency, or HUD is the cognizant federal agency, HUD will set the rate based upon the submission of an acceptable indirect cost rate proposal. If a proposal is not submitted within three months of award, HUD may suspend work or terminate for noncompliance with requirements. OMB Circular A-122 sets forth the requirements to determine allowable direct and indirect costs and the preparation of indirect cost proposals. The circular can be found at http://www.whitehouse.gov/omb.

(7) Name Check Review. See the General Section.

(8) Participation in HUD-Sponsored Program Evaluation. See the General Section.

(9) Ensuring the Participation of Small Businesses, Small Disadvantaged Businesses, and Women-Owned Businesses. See the General Section.

(10) Executive Order 13166, Improving Access to Persons With Limited English Proficiency (LEP). See the General Section.

(11) Executive Order 13279, Equal Protection of the Laws for Faith-Based and Community Organizations. HUD is committed to full implementation of Executive Order 13279 in the operation of its programs. See the General Section.

(12) The Americans with Disabilities Act of 1990 (42 U.S.C. 1201 et seq.), the Age Discrimination Act of 1974 (42 U.S.C. 6101 et seq.), and Title IX of the Education Amendments Act of 1972 (20 U.S.C. 1681 et seq.).

(13) Affirmatively Furthering Fair Housing. See the General Section.

IV. Application and Submission Information

A. Addresses to Request Application Package

All applications submitted in response to this NOFA must be submitted electronically. The information required to submit an application is contained in the General Section. Applications can be downloaded from the following Web site: http://www.grants.gov/applicants/apply_for_grants.jsp. If you have difficulty accessing the information you may call the Grants.gov helpline toll-free at (800) 518-GRANTS (4726) from Monday to Friday from 7 a.m. to 9 p.m. eastern time, or send an e-mail to Support@grants.gov.

If you do not have Internet access and need to obtain a hard copy of this NOFA or the General Section, you can contact HUD's NOFA Information Center toll-free at (800) HUD-8929. Persons with hearing or speech impairments may access any of these numbers via TTY by calling the toll-free Federal Information Relay Service at (800) 877-8339.

B. Content and Form of Application Submission

1. Application Checklist. Use the checklist below to organize the application. Unless indicated below, all applicants must submit the following:

a. Forms. The standard forms, certifications, and assurances are listed below. (The forms referred to as the “standard forms”). All of the standard forms required for this NOFA are available on the Grants.gov Web site. (Please note that forms may vary slightly in appearance on the Grants.gov Web site.)

(1) SF-424, Application for Federal Assistance.

(2) SF-424 Supplement, Survey on Ensuring Equal Opportunity for Applicants (optional) (“Faith Based EEO Survey (SF-424 SUPP)” on Grants.gov).

(3) SF-LLL, Disclosure of Lobbying Activities (if applicable).

(4) HUD-96010, Program Outcome Logic Model.

(5) HUD-2880, Applicant Recipient Disclosure/Update Report (“HUD Applicant Recipient Disclosure Report” on Grants.gov).

(6) SF-424 CB, Grant Application Detailed Budget (“HUD Detailed Budget Form” on Grants.gov).

(7) HUD-2994, You Are Our Client! Grant Applicant Survey (optional).

(8) HUD-96011, Third Party Documentation Facsimile Transmittal. (For use with electronic applications as the cover page to provide third party documentation.) (“Facsimile Transmittal Form” on Grants.gov).

b. Nonprofit Status. Each applicant is required to submit, for itself and for any organization with which it is partnering for the purpose of this NOFA, a legible copy of the document that supports the applicant's claim to be a tax exempt nonprofit organization (for example, a 501(c)(3) determination letter issued by the IRS). The documentation must contain the official name, address, and telephone number of the legal authority that granted the tax exemption. These documents must be scanned, attached to the attachment form, which is part of the Grants.gov package, and submitted electronically to Grants.gov, or faxed using the fax cover sheet in the Grants.gov application package. Please read the General Section for information about submitting documents as attachments or using the facsimile solution, and acceptable file formats.

c. Narrative Statements. Provide narrative statements addressing the Rating Factors in section V below. Responses to the rating factors should provide HUD with detailed quantitative and qualitative information and relevant examples regarding the housing counseling training and other work of the organization that is related to the proposed activities. These narrative statements will be the basis for evaluating the application. Applicants should clearly label each narrative with the Factor Title and number related to the response. When creating file names, please follow the directions in the General Section.

d. Prohibition Against Lobbying Activities. See the General Section.

C. Submission Dates and Time. Your completed application must be received and validated by Grants.gov no later than 11:59:59 p.m. eastern time on the application deadline date. Please note that validation may take up to 72 hours. Applicants should carefully read the section titled “Application and Submission Information” in the General Section.

D. Intergovernmental Review

This NOFA is excluded from the requirement of an Intergovernmental Review.

E. Funding Restrictions: Not Applicable.

F. Other Submission Requirements

Electronic delivery via Grants.gov is HUD's required method for application submission. Applicants interested in applying for funding under this NOFA must submit their applications electronically or request a waiver from the electronic submission requirement. Applicants must submit their waiver requests in writing using e-mail. Waiver requests must be submitted no later than 15 days prior to the application deadline date and should be submitted to Miriam.Torres@hud.gov. If granted a waiver the notification will provide instructions on where to submit the application and how many copies are required. Paper copy applications must be received by the deadline date. HUD will not accept a paper application without a waiver being granted. See the General Section for detailed submission and timely receipt instructions.

V. Application Review Information

A. Criteria

Applications will be evaluated competitively according to the Factors for Award described below, and ranked against all other applicants. All applications will be scored and ranked in HUD Headquarters.

1. Factors For Award Used to Rate and Rank Applications

a. The factors for award, and maximum points for each factor, are outlined below. These factors will be used to evaluate applications. The maximum score is 100 for all applicants.

b. HUD may rely on other information, such as performance reports, financial status information, monitoring reports, audit reports and other information available to HUD in making score determinations under any Rating Factor.

2. Rating Factor 1: Capacity of the Applicant and Relevant Organizational Staff (32 Points)

HUD uses responses to this rating factor to evaluate the readiness and ability of an applicant to begin the proposed work program immediately, as well as the potential for an applicant to cost-effectively and successfully implement the proposed activities indicated under Rating Factor 3.

a. Relevant Staff (10). In rating this section, HUD will consider the degree to which the applicant and, if applicable, partnering organizations, have sufficient personnel with the relevant knowledge and experience to implement the proposed activities in a timely and effective fashion. Specifically, scoring will be based on the number of years of relevant and recent housing counseling training, housing counseling material production, and other related experience of program managers and staff.

Submit the names and titles of employees, including subcontractors and consultants, who would perform the activities proposed in Rating Factor 3. Clerical staff should not be listed. Describe each employee's, subcontractor's, or consultant's relevant professional background and experience. Experience is relevant if it corresponds directly to projects of a similar scale and purpose. Provide the number of years of experience for each position listed, and indicate when each position was held. Indicate trainers capable of providing training to counselors with limited English proficiency, and the languages or the format in which they are capable of providing training. Individual descriptions should be limited to one page. List recent and relevant training received. Please do not include the Social Security Numbers (SSN) of any staff members.

b. Experience (17). Applicants should carefully document recent experience, and the experience of organizations with which it is partnering, in providing the eligible activities listed in Section III.C. of this NOFA that it is proposing to offer through this NOFA. Indicate the types and complexity of the services provided and the outcomes for counselors as a result of the training and other services. Describe the level of effort and time required to provide the services and to meet the needs of the counselors.

Indicate the total number of housing counselors that have participated in your training program since its inception or otherwise benefited from the relevant services you provided. If you are part of a partnership, also provide the total number of counselors that have benefited from the services provided by that partnership.

c. Performance/Grant Requirements (5 points). In scoring this section, HUD will evaluate how well the applicant has satisfied the requirements, including reporting, on HUD grants received. If an applicant has not received a HUD grant, the applicant should base its response on activities and requirements under other sources of funding, such as other federal, state, local, or other awards.

An applicant should characterize performance with regard to the timeliness and completeness with which the applicant satisfied reporting requirements such as Form HUD-9902, quarterly and final reports.

Also, indicate whether or not an applicant fully expended grant awards during the specified award periods. If not fully expended, provide an explanation as to why the funds were not fully expended and the steps taken to ensure that future funding will be expended in a timely manner.

3. Rating Factor 2: Need/Extent of the Problem (5 Points)

This factor addresses the extent to which there is a need to fund proposed activities described in response to Rating Factor 3.

Describe and document the national need, such as the number of housing counselors and areas of housing counseling training, the application intends to address with the services proposed in Rating Factor 3 and the degree to which the applicant's work plan substantively addresses Departmental policy priorities. Responses will be evaluated based on how well they demonstrate a grasp of the elements of the problems this NOFA is intended to address. Include applicable statistics and analyses, if available, contained in data sources that are sound and reliable. Sources for all data provided must be clearly cited.

(2) Departmental Policy Priorities (2 points). The Departmental policy priorities are described in detail in the General Section. Of those listed, the following two apply to the Housing Counseling Training Program for the purpose of this NOFA. Indicate if, and describe how, the applicant's work plan substantively addresses each of these departmental policy priorities. Applicants are advised to review the policy priorities in the General Section, to assure they fully understand the meaning of each, prior to responding to this sub-factor.

In scoring this section, the applicant will receive one point for each departmental policy that the projected work plan substantively addresses.

(a) Participation in Energy Star. Applicants must provide information on how relevant trainings and training materials promote, or will promote, Energy Star materials and practices.

(b) Utilization and Promotion of FHA-Insured Mortgages, Products and Programs. Applicants must describe how relevant trainings and training materials promote utilization of FHA-insured mortgages, products and programs. Describe trainers' knowledge of FHA products and programs, how that knowledge was obtained, and plans to present these loan products and programs to counselors with the goal that they will be able to present them as viable alternatives to counseling clients. Applicants must describe training or training materials that address any tools counselors can use to inform clients about FHA products and programs, such as a loan comparison chart or tool on a Client Management System comparing FHA-insured loans with alternatives.

4. Rating Factor 3: Soundness of Approach/Scope of Housing Counseling Services (38 Points)

This factor addresses the quality and effectiveness of the proposed work plan. In rating this factor, HUD will evaluate the extent to which the applicant presents a detailed and sound approach for providing the proposed services. HUD will also evaluate the extent to which the applicant demonstrates the cost-effectiveness of its activities, and convincingly explains how the proposed activities will yield long-term results.

a. Work Plan (25 points)

Applicants should provide a work plan that lists the major objectives and activities it intends to undertake, and how it plans to provide those services. Include administrative and project tasks.

The Work Plan must indicate that the applicant is capable of providing all the housing counseling training topics listed in section III.C. The only exception to this requirement is organizations proposing to provide Reverse Mortgage counseling exclusively. Indicate if any of the listed trainings will be provided by organizations with which an applicant has partnered. The proposed program must be national in scope. Indicate the number and location of proposed place-based trainings to be held.

While face-to-face training is preferred, the ideal application will propose a mix of face-to-face and remote training options. Describe plans or ability, if any, to provide training or other resources to counselors with limited English proficiency, should HUD request such training.

The proposals must include a scholarship element to be awarded to housing counselors, detailing the full or partial costs to be covered, including travel, hotel, and tuition expenses. Applicants should indicate the number of full scholarships awarded to housing counselors, as well as the number of partial scholarships that will be offered, and provide information about what components partial scholarships will include (i.e., tuition, travel and/or lodging). Indicate the number of scholarships to be funded through this NOFA, as well as through leveraged nonfederal resources, provided to counselors working for agencies participating in HUD's Housing Counseling Program. Applicants must also describe plans for determining how the various types of scholarship assistance will be equitably distributed.

b. Proposed Budget (13 points)

For the work plan proposed above, indicate the requested Grant amount in line 18a of form SF-424 and submit both the HUD-424-CB and a more detailed, comprehensive budget listing expenses under the grant. At a minimum, the budget must include salaries, fringe and other benefits, consultant expenses, travel, rent, phone, postage, supplies, technology/equipment, and indirect costs.

Applicants must indicate the amount of the proposed award and the total dollar value of all scholarships to be awarded to counselors working for housing counseling agencies participating in HUD's Housing Counseling Program, including the in-kind value of tuition scholarships.

If applicable, the budget should highlight portions being proposed as sub-grants to partnering organizations. Make a case for why the proposed budget is cost effective in achieving proposed results. Responses will be evaluated based on the quality, thoroughness, and reasonableness of the cost estimates provided.

5. Rating Factor 4: Leveraging Resources (10 Points)

Although HUD funding through this NOFA may fully fund an organization's proposed program, applicants are encouraged to secure the use of other resources to supplement the HUD grant.

In scoring this factor, applicants will be evaluated based on their ability to obtain or and devote additional nonfederal resources for their proposed training and other related eligible activities, including direct financial assistance and in-kind contributions, which may include services, equipment, office space, labor, etc. Resources may be provided by nonfederal governmental entities, public or private nonprofit organizations, for-profit private organizations, or other entities committed to providing the applicant assistance. Applicants are required to list with specificity the sources and amounts of all nonfederal leveraged resources to be devoted to the proposed training program. Applicants that fail to list the source of all nonfederal sources of leveraged funds shall not receive any points for this factor. Resources provided by the applicant, recorded as ‘applicant match’ and ‘program income’ on form SF-424, will count as leveraged resources.

Points for this factor will be awarded based on the ratio of requested HUD funds to total budget for the proposed activities.

Percentage | Points
0-35 | 10 points
36-41 | 9 points
42-47 | 8 points
48-53 | 7 points
54-60 | 6 points
61-66 | 5 Points
67-75 | 4 Points
76-82 | 3 Points
83-89 | 2 Points
90-100 | 1 Point

6. Rating Factor 5: Achieving Results and Program Evaluation (15 points).

This factor emphasizes HUD's determination to ensure that applicants meet commitments made in their applications and grant agreements and assess their performance in achieving agreed upon performance goals. This reflects HUD's Strategic goal to embrace high standards of ethics, management and accountability.

The purpose of this factor is for the applicant to identify projected outputs and outcomes corresponding to the proposed work plan in Factor 3. The developed logic model submitted with the application will serve as a reporting tool for applicants selected to receive an award, allowing HUD to compare proposed program outputs and outcomes with actual results. In scoring this Factor, HUD will consider the appropriateness of the goals given the award the applicant is applying for and evaluate the proposed outputs and outcomes for their effectiveness and efficiency in delivering housing counseling training services to housing counselors. The outputs and outcomes projected in the Logic Model must be consistent with the projected number of housing counselors to be trained as proposed in Rating Factor 3. In addition, the narrative submitted with this factor must be consistent with the completed logic model. Applicants should be clear when reporting the number of proposed Housing Counseling trainings to be completed during the grant period.

a. Program Outcome Logic Model (10 points). Applicants must select appropriate outputs and outcomes from a series of “pick lists” for the Housing Counseling Training Program. The pick list can be found in the form HUD-96010 in the Grants.gov Housing Counseling Training Program Instructions Download. Using the pick list, for each column of the logic model, applicants can select and insert their outputs and outcomes in the appropriate columns of the Logic Model. Applicants should make sure their entries reflect all proposed activity under the grant.

The pick lists also provide for an associate unit of measure for each output and outcome, and applicants must utilize the measure provided that is associated to the activity. Applicants must identify projected output and outcome values that correspond to the unit of measure. These amounts should represent results to be achieved entirely as a result of the HUD housing counseling training funding. If, in reality, various funding sources will contribute to the services provided to each housing counselor, the applicant must prorate their response to reflect a figure representing trainings provided with only funding from the proposed grant.

Outputs. Outputs are the direct products of the applicant's activities that lead to the ultimate achievement of outcomes. Based on the proposed work plan in Factor 3 and the amount being requested through this NOFA, applicants should select the appropriate outputs and their associated units of measure from the choices provided in the pick list, and provide the corresponding number to be achieved for each proposed output.

Outcomes. Outcomes are benefits accruing to the households as a result of participation in the program. Outcomes are performance indicators the applicant expects to achieve or goals it hopes to meet over the term of the proposed grant. Using the pick lists provided, applicants should select each appropriate outcome and associated unit of measure related to the proposed work plan, and provide the corresponding number to be achieved for each.

Outputs and outcomes must be objectively quantifiable. The purpose of this factor is for the applicant to identify program outputs and outcomes that will allow an applicant and HUD to measure actual achievements against anticipated achievements. For this NOFA, HUD will give particular weight to an applicant's ability to demonstrate change in housing counselors' knowledge and skills as a result of the training offered. Applicants should therefore emphasize a rigorous and objective testing protocol as part of their performance evaluation strategy.

(1) Impact. In scoring this Section, HUD will evaluate the proposed outputs and outcomes from the logic model, for example, the number of housing counselors that the applicant estimates will be served under the proposed HUD grant, by the applicant and sub-grantees, if applicable, for the grant period October 1, 2008, to September 30, 2009. Scoring will be based on the cost per housing counselor trained, compared to historical averages for similar services and similar applicants.

(2) Justification. Proposed housing counselors trained numbers will also be analyzed in the context of budget, costs, spending decisions, the types of training services provided, level of effort expended, etc. Provide a context for, or qualify the number of housing counselors the applicant projects to train with the proposed HUD grant. Indicate how location, counseling and client types, and expenses may affect client volume, and whether the impact will be short-term or long-term. Justify proposed expenses and explain why they are reasonable, strategic, and appropriate for the housing counseling activities identified above. The Logic Model submission is valued at up to 10 points and the point structure for review of the Logic Model is contained in General Section. The Evaluation plan and methods for reviewing and improving program effectiveness is valued at 10 points.

b. Evaluation Plan (5 points). Applicants must also submit an evaluation plan that explains how they are going to track actual accomplishments against anticipated achievements and ensure that the program can provide the services projected to be delivered and outcomes projected to be achieved. The evaluation plan should identify what an applicant is going to measure, how an applicant is going to measure it, and the steps in place to make adjustments to its work plan if performance targets are not met within established timeframes. Specifically, the plan must identify:

(1) Information Collection. Describe the applicant's procedures for measuring outputs and outcomes, and evaluating the impact of the training program.

(2) Data Analysis and Work Plan Adjustments. Indicate how the information will be evaluated, and the steps the applicant has in place to make adjustments to the work plan if performance targets are not met within established timeframes.

B. Review and Selection Process

1. General. HUD will review each application to determine whether it meets the threshold and the eligibility requirements found in Section III of this NOFA. Only applicants that meet all of the eligibility and threshold requirements will be rated and ranked.

2. Corrections to Deficient Applications. See the General Section.

3. Rating and Ranking.

a. Applications that earn a score of 75 points or more will be considered eligible for funding.

b. HUD intends to award the entire amount available under this NOFA to the highest scoring application. However, in order to provide the highest quality, comprehensive, and nationwide training program, HUD reserves the right to make multiple awards.

c. If an applicant turns down an award offer, HUD may make an offer to the next highest-ranking application.

d. In the event HUD commits an error that, when corrected, would result in selection of an otherwise eligible applicant during the funding round of this NOFA, HUD may select that applicant when sufficient funds become available.

4. Award Size. All grantees will receive the lower of either the award amount determined by HUD or the amount actually requested by the applicant.

5. Award Adjustments. HUD reserves the right to adjust funding levels for each applicant as indicated in Section II C. of this NOFA. HUD reserves the right to fund less than the full amount requested in an application.

6. Ineligible Activities. HUD will not fund any portion of an application that: Is not eligible for funding under this program's statutory or regulatory requirements; does not meet the requirements of this NOFA; or may be duplicative of other funded programs or activities from prior year awards or other selected applicants. Only the eligible portions of an application (including non-duplicative portions) may be funded. Funds from this program may not be used for real property acquisition, disposition, leasing, rehabilitation, alteration, demolition, or new construction.

VI. Award Administration Information

A. Award Notices After all eligible applications have been rated and ranked and selections have been made, HUD will notify applicants regarding the disposition of their application.

B. Administrative and National Policy Requirements

1. Environmental Requirements. Activities funded through this program are categorically excluded under 24 CFR 50.19(b)(9) from the requirements of the National Environmental Policy Act of 1969 (42 U.S.C. 4321) and are not subject to review under the related laws and authorities.

2. Procurement of Recovered Materials. Please see the General Section for this requirement.

C. Reporting. Grant recipients will be required to submit quarterly progress reports, comparing actual accomplishments with the goals and objectives established for the period, explaining why established goals were not met, and highlighting any problems, delays, or adverse conditions that materially impaired the ability to meet the objectives of the awards. Each recipient is also required to submit a completed Logic Model showing accomplishments against proposed outputs and outcomes as part of their quarterly reporting requirement to HUD. Recipients shall use quantifiable data to measure performance against goals and objectives outlined in their Logic Model. For FY2008, HUD is considering a new concept for the Logic Model. The new concept is a Return on Investment (ROI) statement. HUD will be publishing a separate notice on the ROI concept.

D. Debriefing. HUD will provide a debriefing to a requesting applicant related to its application. See the General Section for more information.

VII. Agency Contact

For further information about this NOFA or application requirements, applicants should contact Miriam Torres, HUD Headquarters, Single Family Housing, Program Support Division, at (202) 708-0317 x 2618 (this is not a toll-free number). Persons with hearing or speech impairments may access any of these numbers via (TTY) by calling the toll-free Federal Information Relay Service at (800) 877-8339. For technical help with the electronic submission procedure, applicants may e-mail support@grants.gov or call (800) 518-4726 or (800) 518-GRANTS). The Grants.gov Customer Support Center is open from 7 a.m. to 9 p.m. Eastern Time.

VIII. Other Information

Paperwork Reduction Act. The information collection requirements contained in this document have been approved by OMB under the Paperwork Reduction Act of 1995 (44 U.S.C. 3501-3520) and assigned OMB control number 2502-0261. In accordance with the Paperwork Reduction Act, HUD may not conduct or sponsor, and a person is not required to respond to, a collection of information unless the collection displays a currently valid OMB control number. Public reporting burden for the collection of information is estimated to average 68 hours per annum per respondent for the application and grant administration. This includes the time collecting, reviewing, and reporting the data for the application, semi-annual reports, and final report. The information will be used for grantee selection and monitoring the administration of funds. Response to this request for information is required in order to receive the benefits to be derived.

Lead-Based Paint Hazard Control Grant Program, Lead Hazard Reduction Demonstration Grant Program, and Operation Lead Elimination Action Program

Overview Information

A. Federal Agency Name: Department of Housing and Urban Development, Office of Healthy Homes and Lead Hazard Control.

B. Funding Opportunity Title: Lead-Based Paint Hazard Control Grant Program, Lead Hazard Reduction Demonstration Grant Program, and Operation Lead Elimination Action Program.

C. Announcement Type: Initial announcement.

D. Funding Opportunity Number: FR-5200-N-06; OMB Approval Number 2539-0015.

E. Catalog of Federal Domestic Assistance (CFDA) Number(s): 14.900 Lead-Based Paint Hazard Control in Privately Owned Housing, 14.905 Lead Hazard Reduction Demonstration Grant Program, and 14.903 Operation Lead Elimination Action Program.

F. Dates: Applications must be received and validated by Grants.gov no later than 11:59:59 p.m. eastern time on the application deadline dates as follows: The application deadline date for the Lead-Based Paint Hazard Control Grant Program and the Operation Lead Elimination Action Program is July 10, 2008. The application deadline date for the Lead Hazard Reduction Demonstration Grant Program is July 17, 2008. (All applications must be received and validated by http://www.grants.gov/applicants/apply_for_grants.jsp no later than 11:59:59 p.m. eastern time on the application deadline date.) See the General Section, published on March 19, 2008 (73 FR 14882), for specific instructions regarding application submission, and timely submission of applications.

G. Additional Overview Content Information

1. Purpose of the Program.

a. The purpose of the Lead-Based Paint Hazard Control Grant Program is to assist states, Native American Tribes, cities, counties/parishes, or other units of local government in undertaking comprehensive programs to identify and control lead-based paint hazards in eligible privately owned rental or owner-occupied housing.

b. The purpose of the Lead Hazard Reduction Demonstration Grant Program is the same as the Lead-Based Paint Hazard Control, but with the exception that the Lead Hazard Reduction Demonstration Grant Program is targeted for urban jurisdictions with the greatest lead-based paint hazard control needs.

c. The purpose of the Operation Lead Elimination Action Program (LEAP) is to leverage private sector resources to eliminate lead poisoning as a major public health threat to children under age six living in eligible privately owned housing units.

2. Available Funds. Approximately $132 million (Lead-Based Paint Hazard Control Grant Program, Lead Hazard Reduction Demonstration Grant Program and Operation Lead Elimination Action Program) is available from current and previous years' funding.

3. Match. Matching funds are required for the Lead-Based Paint Hazard Control Grant Program and Lead Hazard Reduction Demonstration Grant Program. For the Lead Hazard Reduction Demonstration Grant Program, HUD may grant a waiver of the 25 percent match requirement, if the applicant submits a request that meets HUD's criteria. See NOFA Criteria by Grant Program Chart in unit III, Eligibility Information.

4. Information on application. The applications for this NOFA can be found at http://www.grants.gov. The General Section contains information about Grants.gov registration, submission requirements, and submission procedures.

Full Text of Announcement

I. Funding Opportunity Description

A. Program Description. The Lead-Based Paint Hazard Control Grant Program (LBPHC), the Lead Hazard Reduction Demonstration Grant Program (LHRD) and the Operation Lead Elimination Action Program (LEAP) are authorized by Section 1011 of the Residential Lead-Based Paint Hazard Reduction Act of 1992 (Title X of the Housing and Community Development Act of 1992, Public Law 102-550). HUD's authority for making funding available under this NOFA for each of these grant programs is the Continuing Appropriations Act, 2008 (Pub. L. 110-161, approved December 26, 2007). The Lead-Based Paint Hazard Control Grant Program assists states, Native American Tribes, cities, counties/parishes, or other units of local government in undertaking comprehensive programs to identify and control lead-based paint hazards in eligible privately owned rental or owner-occupied housing. The Lead Hazard Reduction Demonstration Grant Program assists urban jurisdictions with the greatest lead-based paint hazard control needs, in undertaking programs for the identification and control of lead-based paint hazards in eligible privately owned rental and owner-occupied housing units. The purpose of the Operation Lead Elimination Action Program (LEAP) is to leverage private sector resources to eliminate lead poisoning as a major public health threat to children under age six living in eligible privately owned housing units.

Funds will be awarded to applicants that will accomplish the following objectives:

1. Maximize both the number of children less than six years of age protected from lead poisoning and the number of housing units where lead-hazards are controlled;

2. Target lead hazard control efforts in housing in which children are at greatest risk of lead poisoning in order to reduce elevated blood lead levels in children less than six years of age;

3. Promote cost-effective lead hazard control methods and approaches that can be replicated;

4. Build local capacity to safely and effectively address lead hazards during lead-hazard control and renovation, remodelling, and maintenance activities by integrating lead safe work practices;

5. Promote integration of this grant program with housing rehabilitation, maintenance, weatherization, and other energy conservation activities;

6. Affirmatively further fair housing and environmental justice (please refer to the General Section for additional guidance);

7. Develop a comprehensive community based approach to address lead hazards in housing by mobilizing public and private sector resources including grassroots community-based non-profit and faith-based organizations;

8. Promote collaboration, data sharing, and targeting between health and housing departments;

9. Establish a system or process that will facilitate lead-safe units to be affirmatively marketed to families with young children; and,

10. To the greatest extent feasible, promote job training, employment, and other economic opportunities for low-income and minority residents and businesses that are owned by and/or employ minorities and low-income persons as defined in 24 CFR 135.5 (see 59 FR 33881, published June 30, 1994).

B. Changes in the FY 2008 NOFA

1. The points allocated for match and leveraged resources in Rating Factor 4 have changed.

2. Operation Lead Elimination Action Program (LEAP) grants will be awarded from $500,000 to a maximum of $2,000,000 per grant.

3. Applicants to the programs in this NOFA are not eligible to receive funding for the same program awarded under the FY2007 NOFA competition: Applicants awarded an LHRD grant under the FY2007 NOFA competition are eligible to apply for the LBPHC grant program under this NOFA; similarly, applicants awarded an LBPHC grant under the FY2007 NOFA competition are eligible to apply for the LHRD grant program under this NOFA. Applicants awarded both an LHRD and an LBPHC grant under the FY2007 NOFA competition are not eligible to apply under this NOFA.

4. Applicants to the LHRD grant program may request a waiver of the 25 percent match requirement, if the applicant submits a request that meets HUD's criteria. See unit III.B.2, Eligibility Information, below. The request for the waiver of the match, with supporting narrative and documentation, must be submitted in accordance with unit IV.F.2, below, to be received no later than June 2, 2008.

II. Award Information

A. Funding Available. From current and previous years' funding, approximately $70.4 million will be available for the Lead-Based Paint Hazard Control Grant Program, approximately $44.1 million will be available for the Lead Hazard Reduction Demonstration Grant Program, and approximately $17.5 million will be available for the Operation Lead Elimination Action Program.

1. Grant award amounts for the entire period of performance for Lead-Based Paint Hazard Control Grant Program grants shall be up to a maximum of $3 million per grant; for the Lead Hazard Reduction Demonstration Grant Program grants, up to a maximum of $4 million per grant; and for Operation Lead Elimination Action Program (LEAP) grants from $500,000 to a maximum of $2,000,000 per grant. Applications for amounts larger than the applicable maximum amount for a program will be deemed ineligible and will not be reviewed.

2. The start date for grants is expected to be no later than November 1, 2008. The period of performance shall not exceed 36 months. Period of performance extensions will be considered by HUD in accordance with 24 CFR 84.25(e)(2) or 85.30(d)(2), as applicable, and published policy guidance and the OHHLHC Grantee Program Guide. Such extensions, when granted, are one time only, and for no more than a period of one year from the original period of performance end date.

B. Collaboration With Other Partners

All applicants are encouraged to enter into formal arrangements with grassroots community-based non-profit organizations, including faith-based or other community-based organizations. (This does not apply to Native American Tribes.) These formal arrangements could be a contract, a Memorandum of Understanding (MOU), a Memorandum of Agreement (MOA), or a letter of commitment. Such relationships should be established prior to the actual execution of an award or within 120 days of award.

III. Eligibility Information

A. Eligible Applicants. See the General Section for additional eligibility requirements applicable to HUD Programs.

1. To be eligible to apply for funding under the Lead-Based Paint Hazard Control (LBPHC) Grant Program, the applicant must be a state, Native American Tribe, city, county/parish, or other unit of local government. Multiple units of a local government (or multiple local governments) may apply as a consortium; however, a lead applicant must be identified that will be responsible for ensuring compliance with all requirements specified in this NOFA. State government and Native American tribal applicants must have an Environmental Protection Agency (EPA) authorized lead-based paint training and certification program.

2. To be eligible to apply for the Lead Hazard Reduction Demonstration (LHRD) Grant Program, the applicant must be a city, county/parish, Native American Tribe, or other unit of local government. The applicant must have at least 3,500 pre-1940 occupied rental housing units (either alone or through a consortium), as listed at the 2000 Census Web site identified in Form HUD 96013, Need/Extent of the Problem. In addition, a State may apply on behalf of one or more of the eligible local jurisdictions if it has an EPA-authorized lead-based paint training and certification program. Multiple units of a local government (or multiple local governments) may apply as a consortium for a metropolitan area if the total number of pre-1940 occupied rental housing units for the combined jurisdiction is at least 3,500; however, the application must identify the jurisdiction that will be administratively responsible for ensuring compliance with all requirements specified in this NOFA. If a jurisdiction will be covered as part of a State, county/parish, or consortium application, it is not eligible to apply as an individual applicant under this NOFA. Further, consortium applicants must ensure that where there is jurisdictional overlap, there is no double-counting of units to meet the unit threshold. A list of metropolitan areas having at least one place or county/parish with 3,500 or more occupied rental housing units built before 1940 is provided in Appendix A, which can be downloaded from: http://www.grants.gov/Applicants/Apply_for_grants.jsp.

3. To be eligible to apply for funding under the Operation Lead Elimination Action Program (LEAP), the applicant must be a non-profit or for-profit entity or firm. For-profit entities are not allowed to earn a fee. Colleges and universities are also eligible to apply. National and local groups are encouraged to apply. Multiple eligible entities may apply as a consortium; however, a lead applicant must be identified that will be administratively responsible for ensuring compliance with all requirements specified in this NOFA. States, cities, counties/parishes and units of local government and their departments are not eligible.

4. Applicants to the programs in this NOFA are not eligible to receive funding for the same program awarded under the FY2007 NOFA competition: Applicants awarded an LHRD grant under the FY2007 NOFA competition are eligible to apply for the LBPHC grant program under this NOFA; similarly, applicants awarded an LBPHC grant under the FY2007 NOFA competition are eligible to apply for the LHRD grant program under this NOFA. Also, applicants awarded both an LHRD and LBPHC grant under the FY2007 NOFA competition are not eligible to apply under this NOFA.

B. Cost Sharing or Matching

The chart below describes the match percentage requirement, minimum percentage of federal funds for lead hazard control activities, and maximum administrative cost.

1. Match Requirements and Costs by Grant Programs

Grant program | Minimum match | Lead hazard control costs | Administrative costs
Lead-Based Paint Hazard Control (LBPHC) | 10 percent | Minimum 65 percent | Maximum 10 percent.
Lead Hazard Reduction Demonstration (LHRD) | 25 percent* | Minimum 80 percent | Maximum 10 percent.
Operation Lead Elimination Action Program (LEAP) | N/A | Minimum 65 percent | Maximum 10 percent.
* Applicants with approved LHRD match waivers must provide a minimum 10 percent match (see unit III.B.2.b(3)).

2. Match Requirements and Leveraged Resources

For the LBPHC and LHRD programs that have a match requirement, HUD will award points based on the total amount of resources committed. For LEAP applicants, which have no matching requirement, HUD will award points based upon the amount of leveraged resources that are secured by the applicant. For the LBPHC and LHRD programs, all resources generated above the match requirement should be reported as leveraged resources. In general, the larger the amount of funds or in-kind services that are committed by the applicant, the higher the number of points that will be awarded under Rating Factor 4.

a. LBPHC Match Requirement. Applicants to the LBPHC grant program must provide a matching contribution of at least 10 percent of the requested grant amount. Applications to the LBPHC grant program will not be reviewed and funded if they do not meet this requirement. As noted in the General Section, applicants to the LBPHC program should refer to applicable OMB circulars, particularly those with respect to the funds used or proposed to be used to satisfy this requirement. Applicants should also note 24 CFR 85.24 which provides, among other things, that except as provided by Federal statute, a cost sharing or matching requirement may not be met by costs born by another federal grant. Applicants to the LBPHC grant program should identify the specific resources that will be used to satisfy the matching requirement. Matching contributions must be shown to be used specifically for allowable program costs. The signature of the authorized official on the Form SF-424 commits matching resources of the applicant organization and from other sources. Applicants should document the amount of the match from each funding source using Form HUD-96015.

b. LHRD Match Requirement.

(1) Applicants to the LHRD grant program must provide a matching contribution of at least 25 percent of the requested grant amount, except as described in paragraph (3) below.

(2) Applications to the LHRD grant program will not be reviewed and funded if they do not meet this requirement. Applicants to the LHRD program should refer to 24 CFR 85.24 for additional information on match. As noted in the General Section, applicants to the LBPHC program should refer to applicable OMB circulars, particularly those with respect to the funds used or proposed to be used to satisfy this requirement. Applicants should also note 24 CFR 85.24 which provides, among other things, that except as provided by Federal statute, a cost sharing or matching requirement may not be met by costs born by another federal grant.. Applicants to the LHRD grant program should identify the specific resources that will be used to satisfy the matching requirement. Matching contributions must be shown to be used specifically for allowable program costs. The signature of the authorized official on the Form SF-424 commits matching resources of the applicant organization and from other sources. Applicants should document the amount of the match from each funding source using Form HUD-96015.

(3) Request for Waiver of LHRD Matching Requirement. Under the Consolidated Appropriations Act, 2008, HUD is allowed to waive the 25 percent matching requirement for LHRD applicants on a case by case basis if a waiver is necessary to advance the purposes of the LHRD program. Applicants to the LHRD grant program whose waiver request has been approved must provide a matching contribution of at least 10 percent of the requested grant amount to be eligible to apply for funding. The request for a waiver of the 25 percent match requirement must address your financial condition. In particular, you must document that: [1] Your financial condition is such that providing a 25 percent match presents a financial hardship, and [2] that the financial hardship is highly likely to continue throughout the period of the grant. You should recognize, when considering whether to request a waiver, that your application must show sufficient capacity to administer the grant, as related to your narrative on qualifications and experience (Rating Factor 1) and soundness of approach (Rating Factor 3). The request for the LHRD match waiver, with supporting narrative and documentation, must be submitted in accordance with unit IV.F.2, below. Note that the LHRD match waiver request deadline is significantly earlier than the application deadline.

c. Leveraged Resources.

(1) All applicants are encouraged to provide leveraged resources. Leveraged resources may include funds from other allowable federally funded programs, and/or state, local, charity, non-profit or for-profit entities. Leveraged resources must be shown to be specifically dedicated to and integrated into supporting the programs. Local resources from the applicant (i.e., staff in-kind, cash, etc.) should be given a monetary value on the Form SF-424 but does not require a separate letter from the authorized official.

(2) Housing Rehabilitation in Conjunction with Lead Hazard Control. HUD strongly encourages integration of our grant programs with housing rehabilitation. Applicants may include housing rehabilitation expenditures as leveraged resources for housing rehabilitation activities conducted in conjunction with the housing units or common areas being made lead-safe.

d. Examples of activities that can be counted as match or leveraged resources include:

(1) Contributions from property owners. For the share of the cost of lead hazard control contributed by a homeowner or landlord, documentation of the firm commitment by the homeowner or landlord, including the scope and amount of commitment must be included with the application. Applicants should also include sample contracts between the applicant and a prospective homeowner to show evidence of the share of the cost of lead hazard control. After award, detailed documentation of the cost incurred by the homeowner or landlord is necessary. Homeowner contributions are limited to that which can be supported and verified by a third party, such as materials paid for and provided by the owner or labor that the owner paid and can substantiate via receipts/records. Labor by the owner shall be verified by a third party. The labor contributed shall be valued at market rates. If letters of leveraged resources are not provided by property owners, the applicant will receive credit for this resource only if the applicant provides a statement in its budget narrative and in its response to Rating Factor 4 indicating that the applicant will be obligated for providing the total leveraged dollars of proposed contributions from property owners if these funds are not received by the end of grant.

(2) Donations. The value of items such as paint and other materials or equipment that are used for lead-based paint hazard control should be established at market rates.

(3) Discounts. For services or products provided at a discounted rate, the discounted part of the fee or price is the eligible match/leverage. For example: If a financial institution provides a discount on the interest rate for loans (e.g., mortgages, home equity loans, lines of credit, etc.) used to fund the homeowner or landlord contribution to the hazard evaluation and/or control work, the net present value of the interest discount is eligible match/leverage; neither the total interest nor the loan principal is eligible match/leverage. The same net present value calculation would be done for a firm commitment to forgive all or a portion of the principal. If a loan is used for more than the hazard evaluation and control work covered by the grant, only the same fraction of the discount as the fraction of the loan used for hazard evaluation and control may be accounted as match/leverage.

(4) Third Party In-Kind Contributions. See 24 CFR 85.24 (LBPHC, LHRD) or 24 CFR 84.23 (LEAP), as applicable, for additional information on third party in-kind contributions. e. For LEAP applicants, only leveraged resources from the private sector are considered eligible. All leveraged resources shall be used for the same purposes as permitted for by the federal funds. For cash and in-kind sources of leveraged resources, the applicant must submit letter(s) of commitment, signed by an official of the organization legally authorized to make commitments on behalf of the organization. The letter must indicate the amount and source of the contribution.

C. Other

1. Threshold Requirements. Please see the General Section as well as threshold requirements listed in this subsection. Applications will not be reviewed and funded if they do not meet the threshold requirements. Only eligible applicants as defined in unit III, Eligibility Information, above, will be reviewed for compliance with threshold requirements.

a. Applicants to the Lead-Based Paint Hazard Control Grant Program are required to match 10 percent of the funds requested with other non-federal funds or resources. Applications to the Lead-Based Paint Hazard Control Grant Program will not be reviewed and funded if they do not meet this requirement. Applicants to the Lead Hazard Reduction Demonstration Grant Program are required to match 25 percent of the funds requested with other non-federal funds or resources, unless a waiver of match is requested and approved per unit III.B.2.b(3) above. Applicants to the LHRD grant program whose waiver request has been approved must provide a matching contribution of at least 10 percent of the requested grant amount to be eligible to apply for funding.

b. Consolidated Plans. (This requirement does not apply to Native American Tribes.) In addition to a Form HUD-2991 form for each jurisdiction in which your project or part of your project will be carried out, you must submit, as an appendix, the current lead-based paint element from the approved Consolidated Plan of the jurisdiction(s) where the lead-based paint hazard control will be conducted. In lieu of submitting a hard copy of the lead-based paint element from the current consolidated plan(s), you may substitute a Web site address. The Web site must contain the lead-based paint element of the current Consolidated Plan(s). If the jurisdiction does not have a currently approved Consolidated Plan, but is otherwise eligible for LBPHC and LHRD grant programs, you must include the jurisdiction's abbreviated Consolidated Plan, which includes a lead-based paint hazard control strategy developed in accordance with 24 CFR 91.235. You should include the discussion of any lead-based paint issues in your jurisdiction's Analysis of Impediments, particularly as it addresses your target areas.

c. Applicants shall ensure that the requested grant amount is consistent on all forms and materials submitted, and that rounding errors do not result in a request that exceeds the maximum grant award. Applications for amounts larger than the applicable maximum amount for a program will be deemed ineligible and will not be reviewed.

2. Allowable Costs and Activities. This section applies to all three grant programs unless otherwise specified. For each kind of organization, there is a set of Federal principles for determining allowable costs. Allowable costs shall be in accordance with the cost principles applicable to the organization incurring the costs, specifically OMB Circulars A-21—Cost Principles for Educational Institutions, A-87—Cost Principles for State, Local, and Indian Tribal Governments, or A-122—Cost Principles for Nonprofit Organizations, which can be accessed at the White House Web site, http://www.whitehouse.gov/omb/circulars/index.html.

a. Lead Hazard Control Direct Costs. Lead hazard control direct costs are defined as specifically related to the performance of lead hazard control activities, as defined below. LBPHC and LEAP applicants, while preparing the budget, shall earmark at least 65 percent of the requested grant amount and LHRD applicants shall earmark 80 percent of the requested grant amount for lead hazard control activities. Lead hazard control activities are defined as:

(1) Performing lead dust, soil and paint-chip testing, lead-based paint inspections, risk assessments, clearance examination, and engineering and architectural activities that are required for, and in direct support of, interim control and lead hazard abatement work, of eligible housing units constructed prior to 1978 to determine the presence of lead-based paint and/or lead hazards from paint, dust, or soil through the use of acceptable testing procedures.

(2) All laboratory analysis in support of required testing and evaluation under this NOFA must be conducted by a laboratory recognized for the analysis by the EPA National Lead Laboratory Accreditation Program (NLLAP).

(3) All lead-based paint testing results, summaries of lead-based paint hazard control treatments, and clearances must be provided to the owner of the unit, together with a notice describing the owner's legal duty to disclose the results to tenants and buyers. Grantee files must contain verifiable evidence of providing lead hazard control reports, such as a signed and dated receipt. Refer to 24 CFR 35.125 of the Lead Safe Housing Rule.

(4) All lead-based paint hazards identified in housing units and in common areas of multifamily housing enrolled in this grant program must be controlled or eliminated by either of the following strategies or a combination of the two, including;

(a) Interim Controls. According to the HUD Guidelines for the Evaluation and Control of Lead-Based Paint Hazards in Housing (“HUD Guidelines”), interim controls of lead-based paint hazards including lead-contaminated dust and soil in housing must include specialized cleaning techniques to address lead dust.

(b) Lead-Based Paint Abatement. Abatement of all lead-based paint is generally authorized only in states or localities that require complete abatement by law. HUD does not consider abatement of all lead-based paint to be cost effective in most circumstances; therefore, a grantee must make a special request, in writing, prior to conducting complete abatement of lead-based paint. Abatement of lead-contaminated soil should be limited to areas with bare soil in the immediate vicinity of the structure (i.e., the drip line or foundation of the unit being treated, and children's play areas).

(5) Undertaking minimal housing rehabilitation activities that are specifically required to carry out effective hazard control, and without which the hazard control could not be completed and maintained. These grant funds may be used for lead hazard control work done in conjunction with other housing rehabilitation programs, to the extent practicable. HUD encourages integration of this grant program with housing rehabilitation, maintenance, weatherization, and other energy conservation activities.

(6) Carrying out temporary relocation of families and individuals while the remediation is conducted and until the time the affected unit receives clearance for re-occupancy. b. Other Allowable costs. Costs for the activities below should not be counted as lead hazard control direct costs:

(1) Purchasing or leasing equipment having a per-unit cost under $5,000. The purchase or lease of up to two X-ray florescence analyzers (which typically cost significantly more than $5,000) to be used exclusively by the grant program is permitted and is not subject to the $5,000 per-unit cost restriction.

(2) Performing blood lead testing and air sampling to protect the health of the hazard control workers, supervisors, and contractors.

(3) Conducting pre-hazard control blood lead testing of children under six years of age residing in or frequently visiting units undergoing lead hazard control work.

(4) Conducting targeted outreach, affirmative marketing, education or outreach programs on lead hazard control and lead poisoning prevention designed to increase the ability of the program to deliver lead hazard control services including educating owners of rental properties, tenants, and others on the Residential Lead-Based Paint Hazard Reduction Act, Lead Safe Housing Rule, and applicable provisions of the Fair Housing Act especially as it pertains to familial status (e.g., families with children) and disability discrimination, offering educational materials in languages that are common in the community other than English, consistent with the Department's January 22, 2007, “Final Guidance to Federal Financial Assistance Recipients Regarding Title VI Prohibition Against National Origin Discrimination Affecting Limited English Proficient Persons” (72 FR 2732), and providing training on lead-safe maintenance and renovation practices and management. Upon request, this also would include making all materials available in alternative formats to persons with disabilities (e.g., Braille, audio, and large type).

(5) Supporting data collection, analysis, and evaluation of grant program activities. This includes compiling and delivering such data as may be required by HUD.

(6) Providing resources to build capacity for lead safe housing and lead hazard control, including free delivery of HUD-approved lead-safe work practices training courses for housing rehabilitation contractors, rehabilitation workers, homeowners, renters, painters, remodelers, maintenance staff, and others conducting renovation, rehabilitation, maintenance or other work in private housing; free delivery of lead sampling technician training, lead-based paint worker or contractor certification training; and subsidies for licensing or certification fees to low-income persons seeking credentials as lead-based paint workers or contractors or lead sampling technicians.

(7) Conducting planning, coordination, and training activities to comply with HUD's Lead-Safe Housing Rule (24 CFR part 35, subparts B-R). These activities should support the expansion of a workforce properly trained in lead-safe work practices that is available to conduct interim controls on HUD-assisted housing covered by these regulations.

(8) Conducting outreach and related activities that will result in increased lead hazard control activities in low-income privately owned or owner-occupied housing with lead-based paint hazards. For LEAP grants, outreach and/or related activities, must be tied to a leveraging strategy.

(9) Participating in applied research, studies, or developing information systems to enhance the delivery, analysis, or conduct of lead hazard control activities, or to facilitate targeting and consolidating resources to further childhood lead poisoning prevention efforts.

c. Other costs.

(1) Administrative Costs. Administrative costs may not exceed 10 percent of the grant award. For more information, please review OMB Circulars (A-21—Cost Principles for Educational Institutions, A-87—Cost Principles for State, Local, and Indian Tribal Governments, or A-122—Cost Principles for Nonprofit Organizations) that can be accessed at the White House Web site, http://www.whitehouse.gov/omb/circulars/index.html.

3. Limitation on use of funds. Applicants may not use grant funds for any of the following activities:

a. Purchase of real property.

b. Purchase or lease of equipment having a per-unit cost in excess of $5,000, except for the purchase or lease of up to two X-ray fluorescence analyzers used by the grant program.

c. Chelation or other medical treatment costs related to children with Elevated Blood Lead levels (EBLs). Non-federal funds used to cover these costs may be counted as part of the matching contribution.

d. Lead hazard evaluation or control activities in publicly-owned housing, or project-based Section 8 housing (this housing stock is not eligible under Section 1011 of the Lead-Based Paint Hazard Reduction Act).

e. Lead hazard evaluation or control activities in rental housing covered by pending or final HUD, EPA, and/or DOJ settlement agreement, consent decree, court order or other similar action regarding the Lead Disclosure Rule (24 CFR part 35, Subpart A, or the equivalent 40 CFR part 745, subpart F), or by HUD regarding its Lead Safe Housing Rule (24 CFR part 35, subparts B-R).

f. Activities that do not comply with the Coastal Barrier Resources Act (16 U.S.C. 3501).

g. Lead-hazard control or rehabilitation of a building or manufactured home that is located in an area identified by the Federal Emergency Management Agency (FEMA) under the Flood Disaster Protection Act of 1973 (42 U.S.C. 4001-4128) as having special flood hazards unless:

(1) The community in which the area is situated is participating in the National Flood Insurance Program in accordance with the applicable regulations (44 CFR parts 59-79), or less than a year has passed since FEMA notification regarding these hazards; and

(2) Where the community is participating in the National Flood Insurance Program, flood insurance on the property is obtained in accordance with section 102(a) of the Flood Disaster Protection Act (42 U.S.C. 4012a(a)). Applicants are responsible for assuring that flood insurance is obtained and maintained for the appropriate amount and term.

4. Additional Program Requirements.

a. All laboratory analysis in support of required testing and evaluation under this NOFA must be conducted by a laboratory recognized for the analysis by the EPA National Lead Laboratory Accreditation Program (NLLAP; http://www.epa.gov/lead/pubs/nllap.htm).

b. All lead-based paint hazards identified in housing units and in common areas of multifamily housing enrolled in this grant program must be controlled or eliminated by either of the following strategies or a combination of the two:

(1) Interim controls. According to the HUD Guidelines, interim controls of lead-based paint hazards including lead-contaminated dust and soil in housing must include specialized cleaning techniques to address lead dust.

(2) Lead-based paint hazard abatement. However, see the restrictions on using abatement in unit III.C.2.a(4)(b), Lead-Based Paint Abatement, above.

c. For temporary relocation of families and individuals while the remediation is conducted and until the time the affected unit receives clearance for re-occupancy.

d. Eligibility of HUD-Assisted Housing. The Appendix, “Eligibility of HUD-Assisted Housing,” lists the housing units that may participate under each of the three competitive programs detailed in this NOFA and can be downloaded with the application from: http://www.grants.gov/applicants/apply_for_grants.jsp.

e. Lead-Based Paint Hazard Reduction Act of 1992 (Title X of the Housing and Community Development Act of 1992), Section 1011. Section 217 of Public Law 104-134 (the Omnibus Consolidated Rescissions and Appropriations Act of 1996), 110 Stat. 1321, approved April 26, 1996) amended Section 1011(a) of the Residential Lead-Based Paint Hazard Reduction Act of 1992 (Title X) to read as follows: Section 1011. Grants for Lead-Based Paint Hazard Reduction in Target Housing.

(a) General Authority. The Secretary is authorized to provide grants to eligible applicants to evaluate and reduce lead-based paint hazards in housing that is not federally assisted housing, federally owned housing, or public housing, in accordance with the provisions of this section. Grants shall only be made under this section to provide assistance for housing that meets the following criteria—(1) For grants made to assist rental housing, at least 50 percent of the units must be occupied by or made available to families with incomes at or below 50 percent of the area median income level and the remaining units shall be occupied or made available to families with incomes at or below 80 percent of the area median income level, and in all cases the landlord shall give priority in renting units assisted under this section, for not less than 3 years following the completion of lead abatement activities, to families with a child under the age of six years, except that buildings with five or more units may have 20 percent of the units occupied by families with incomes above 80 percent of area median income level;

(2) For grants made to assist housing owned by owner-occupants, all units assisted with grants under this section shall be the principal residence of families with income at or below 80 percent of the area median income level, and not less than 90 percent of the units assisted with grants under this section shall be occupied by a child under the age of six years or shall be units where a child under the age of six years spends a significant amount of time visiting.”

f. Prohibited Practices. Applicants must not engage in the following prohibited practices while conducting lead hazard control activities:

(1) Open flame burning or torching;

(2) Machine sanding or grinding without a high-efficiency particulate air (HEPA) exhaust control;

(3) Uncontained hydroblasting or high-pressure washing;

(4) Abrasive blasting or sandblasting without HEPA exhaust control;

(5) Heat guns operating above 1,100 degrees Fahrenheit;

(6) Chemical paint strippers containing methylene chloride or other volatile hazardous chemicals in a poorly ventilated space; and

(7) Dry scraping or dry sanding, except scraping in conjunction with heat guns or around electrical outlets or when treating no more than two square feet in any one interior room or space, or totalling no more than 20 square feet on exterior surfaces.

g. Written Policies and Procedures. Applicants should describe in their work plan policies and procedures for procurements (contracting), unit eligibility, unit selection and prioritization, all phases of lead hazard evaluation and control, including risk assessments, inspections, development of specifications for contractor bids, pre-hazard control blood lead testing, financing, temporary relocation and clearance examinations. Grantees, subcontractors, sub-grantees, sub-recipients, and their contractors must adhere to these policies and procedures.

h. Continued Availability of Lead Safe Housing to Low-Income Families. Units in which lead hazards have been controlled under this program shall be occupied by or continue to be available to low-income residents as required by Title X (Section 1011). Applicants should describe previous efforts, if applicable, to maintain a registry (listing) of low-income units in which lead hazards have been controlled (often called “lead-safe units”) as a result of previous activities, their plans in conjunction with this grant for continuing an existing registry or establishing a new registry, and their procedures for ensuring that these units are affirmatively marketed to agencies and families as suitable housing for low-income families with children less than six years of age.

i. Environmental Requirements.

(1) Recipients of Lead-Based Paint Hazard Control grants and Lead Hazard Reduction Demonstration grants must comply with 24 CFR part 58, Environmental Review Procedures for Entities Assuming HUD Environmental Responsibilities, and must carry out environmental review responsibilities as a responsible entity under part 58.

(2) Recipients of Lead-Based Paint Hazard Control grants and Lead Hazard Reduction Demonstration grants may conduct lead inspections and risk assessments prior to receiving Environmental Review Clearance under the exemption allowed in 24 CFR 58.34(a)(5), which states that “inspections and testing of properties for hazards or defects” are exempt activities.

(3) Work on properties assisted with LEAP funds under this NOFA is covered by the provisions of Section 305(c) of the Multifamily Housing Property Disposition Reform Act of 1994, which are implemented by HUD regulations at 24 CFR part 58. Under part 58, a responsible entity, usually a unit of local government, must assume the environmental review responsibilities for activities funded under LEAP. Under 24 CFR 58.11, if a responsible entity or the recipient objects to the responsible entity performing the environmental review for LEAP activities, HUD may designate another responsible entity to perform the review or may perform the environmental review itself under the provisions of 24 CFR part 50.

j. Trained and Certified Professionals. Funded activities must be conducted by persons qualified for the activities according to 24 CFR part 35, subparts B-R (possessing certification as abatement contractors, risk assessors, inspectors, abatement workers, or sampling technicians; or others having been trained in a HUD-approved course in lead-safe work practices).

k. Lead hazard control work must be conducted in compliance with HUD's Lead Safe Housing Rule, 24 CFR part 35, the HUD Guidelines, and applicable federal, state and local regulations and guidance.

l. Testing. All testing and sampling shall comply with the Lead Safe Housing Rule and conform to the current HUD Guidelines, the EPA lead hazard standards at 40 CFR part 745, and federal, state, or tribal regulations developed as part of the appropriate contractor certification program, whichever is most stringent.

(1) Lead-Based Paint and Lead-Based Paint Hazard Identification. A lead-based paint inspection and risk assessment is required. Presumption of the presence of lead-based paint or lead-based paint hazards is not allowed.

(2) Clearance Testing. If rehabilitation is conducted in conjunction with lead hazard control, clearance may be conducted either after the lead hazard control work is completed, and again after any subsequent rehabilitation work is completed, or after all of the lead hazard control and rehabilitation work is completed. Clearance shall be successfully completed before re-occupancy.

m. Blood lead testing. Each child under six years of age should be tested for lead poisoning within the six months preceding the lead hazard control work. Any child with an elevated blood-lead level must be referred for appropriate medical follow-up. The standards for such testing are described in the Centers for Disease Control and Prevention (CDC) publications Preventing Lead Poisoning in Young Children (1991), and Screening Young Children for Lead Poisoning: Guidance for State and Local Public Health Officials (1997).

n. Cooperation With Related Research and Evaluation. Applicants shall cooperate fully with any research or evaluation sponsored by HUD, CDC, EPA or another government agency associated with this grant program, including preservation of project data and records and compiling requested information in formats provided by the researchers, evaluators or HUD. This also may include the compiling of certain relevant local demographic, dwelling unit, and participant data not contemplated in the original proposal. Participant data shall be subject to the Privacy Rule of the Health Insurance Portability and Accountability Act of 1996 (HIPAA). HIPAA and the Privacy Rule can be found at http://www.hhs.gov/ocr/hipaa/.

o. Data Collection. Applicants shall collect, maintain, and provide to HUD the data necessary to document and evaluate grant program outputs and outcomes.

p. Section 3 Employment Opportunities. The requirements of Section 3 of the Housing and Urban Development Act of 1968 (12 U.S.C. 1701u) are applicable to this program. Please refer to 24 CFR part 135 and the General Section for additional information. This sub-factor will be evaluated on the extent to which an applicant describes how it proposes to:

(1) Provide opportunities to train and employ Section 3 residents; and

(2) Award contracts to Section 3 contractors; as each of those terms is defined in the regulations, 24 CFR part 135.

q. Replacing Existing Resources. Funds received under the grant programs covered under this NOFA shall not be used to replace existing community resources dedicated to any ongoing project.

r. Code of Conduct. Prior to entering into a grant agreement with HUD, applicants will be required to submit a copy of their organization's Code of Conduct and describe the methods they will use to ensure that all officers, employees, and agents of their organization are aware of their Code of Conduct. An applicant who submitted an application during FY2006 or FY2007 and included a copy of its Code of Conduct will not be required, if that Code of Conduct is current, to submit another copy if the applicant is listed on HUD's Web site: http://www.hud.gov/offices/adm/grants/codeofconduct/cconduct.cfm.

s. Coordination among Critical Agencies. HUD encourages grantees to participate in state-wide or jurisdiction-wide strategic plans to eliminate childhood lead poisoning as a major public health problem by 2010, or to assist in the development of a plan in states or localities that do not have such a plan. The CDC strategic elimination plans for state and local childhood lead poisoning prevention programs can be downloaded from http://www.cdc.gov/nceh/lead/StrategicElimPlans/strategicplans.htm. Additionally, HUD encourages grantees to enter into collaborative arrangements with childhood lead poisoning prevention programs, health agencies, housing agencies, community development agencies, and code enforcement agencies (or equivalent) for their target area(s), local jurisdiction(s), and, for state or tribal applicants, with their state or tribal health agencies, housing agencies, development agencies, and code enforcement agencies (or equivalent).

t. Institutional Review Board (IRB). Applicants should indicate whether their program includes conducting research involving human subjects in a manner which requires IRB approval and periodic monitoring under 24 CFR part 60, which incorporates the Department of Health and Human Services' regulations, at 45 CFR part 46. For additional information on what constitutes human subjects research or how to obtain an institutional assurance, see the Department of Health and Human Services, Office of Human Research Protection (OHRP) Web site at: http://www.hhs.gov/ohrp/.

u. Waste Disposal. Applicants must handle waste disposal according to the requirements of the appropriate local, state, and federal regulatory agencies. Applicants must handle disposal of wastes from hazard control activities that contain lead-based paint, but are not classified as hazardous in accordance with state or local law or the HUD Guidelines. The Guidelines are available from the HUD Web site at: http://www.hud.gov/offices/lead/lbp/hudguidelines/index.cfm.

v. Worker Protection Procedures. Applicants must observe the procedures for worker protection established in the HUD Guidelines, as well as the requirements of the Occupational Health and Safety Administration (OSHA) (29 CFR 1926.62, Lead Exposure in Construction), or the state or local occupational safety and health regulations, whichever are most protective. If other applicable requirements contain more stringent requirements than the HUD Guidelines, the more rigorous standards shall be followed.

w. Relocation. The relocation requirements of the Uniform Relocation Assistance and Real Property Acquisition Policies Act of 1970 (URA), as amended, and the implementing government-wide regulation at 49 CFR part 24, that cover any person (including individuals, businesses, and farms) displaced as a direct result of the acquisition, rehabilitation, or demolition of real property, apply to this grant program. If such persons are required to temporarily relocate for a project, the requirements of the URA regulations at 49 CFR 24.2(a)(9) must be met. HUD recommends that applicants review these regulations when preparing the proposal. (They can be downloaded from the Government Printing Office Web site at http://www.gpoaccess.gov/cfr/index.html by entering the regulatory citation in quotes without any spaces (e.g., “49CFR24.2”) in the Quick Search box.). See the General Section for additional information about relocation.

x. Notification Requirements. Applicants should also describe how they will provide owners with lead hazard evaluation and control information generated by activities under this grant, so that the owner can comply with the Lead Disclosure Rule (24 CFR part 35, subpart A, or the equivalent 40 CFR part 745, subpart F) and the Lead Safe Housing Rule (24 CFR part 35, subparts B-R).

IV. Application and Submission Procedures

A. Address To Request Application Package

See the General Section for specific procedures concerning the electronic application submission requirements. The application and instructions are available at http://www.grants.gov/applicants/apply_for_grants.jsp. If applicants have difficulty accessing the information, applicants may call the help desk help line at (800) 518-GRANTS or e-mailing support@grants.gov.

Guidebook and Further Information: HUD provides a Desktop User Guide to Find, Register and Apply for Grant Opportunities using Grants.gov. The Desktop User Guide is available on HUD's Web site at: http://www.hud.gov/utilities/intercept.cfm?/offices/adm/grants/deskuserguide.pdf. If applicants have difficulty accessing the information, applicants may call HUD's NOFA Information Center at (800) HUD-8929. If applicants are a hearing-or speech-impaired person, applicants may request the information by telephone TTY by calling the toll-free Federal Information Relay Service at 800-877-8339.

B. Content and Form of Application Submission:

Applicants may submit up to one application for each of the competitive programs covered by this NOFA for which they are eligible.

Applicants eligible to apply under this NOFA must follow the submission requirements described below:

1. Applicant Information.

a. Application Format.

(1) The application narrative response to the Rating Factors is limited to a maximum of 20 pages (excluding appendices and worksheets) of size 8½″ x 11″ using a 12-point (minimum) font with not less than 1″ margins on all sides. The 20-page rating factor response does not include attachments, tables, appendices, and other required forms. Applicants should be aware that any narrative information submitted in response to the Rating Factors that exceeds the page limit will not be reviewed.

(2) Materials provided in the appendices should directly refer to the specific rating factor narrative. Applicants are strongly urged to not submit information that is not required and/or requested in the NOFA or relevant to a specific narrative response. The narrative response to the Rating Factors should be submitted as a single Microsoft Word document file. All attachments must identify the related Rating Factor in the footer by providing the Rating Factor and the page number (e.g., Factor 1 Attachment, pg. 1), and should be submitted as a single zip file attachment to the electronic application. Applicants are encouraged to submit as few files as possible to ensure that all materials are received.

b. Information contained in the abstract will not be considered in the evaluation and scoring of the application.

c. Application Checklist. The applicant's application must contain all of the required information requested in this NOFA and the General Section. These items include the standard forms, and the certifications and assurances listed in the General Section that are applicable to this NOFA. The forms required for application submission and instructions can be found in the application at http://www.grants.gov/applicants/apply_for_grants.jsp. The checklist below includes a list of the required items needed for submitting a complete application and receiving consideration for funding (except as noted below).

(1) Applicant Abstract (limited to a maximum of 2 pages).

(2) Rating Factors Response (limited to a maximum of 20 narrative pages plus the following forms).

(a) Capacity of the Applicant and Relevant Organizational Experience and Form HUD-96012.

(b) Needs/Extent of the Problem and Form HUD-96013.

(c) Soundness of Approach and Form HUD-96014.

(d) Leveraging and Matching Resources and Form HUD-96015.

(e) Program Outcome Logic Model, Form HUD-96010.

(3) Other Materials in support of rating factors.

(a) Form SF-424—Application for Federal Assistance.

(b) SF-424 Supplement Survey on Equal Opportunity for Applicants (“Faith Based EEO Survey (SF-424 SUPP)” on Grants.gov) (optional submission).

(c) HUD-424 CBW, HUD Detailed Budget Worksheet, (Include Total Budget (Federal Share and Matching) and Budget Justification Narrative.

(d) Form HUD 2880—Applicant/Recipient Disclosure/Update Report (“HUD Applicant Recipient Disclosure Report” on Grants.gov).

(e) Form HUD 2990—Certification of Consistency with the RC/EZ/EC-II Strategic Plan.

(f) Form HUD 2991—Certification of Consistency with the Consolidated Plan.

(g) Form SF-LLL—Disclosure of Lobbying Activities (if applicable).

(h) Form HUD 96008—Development Worksheet with Minimum Benchmark.

(i) Form HUD 96011—Third Party Documentation Facsimile Transmittal (“Facsimile Transmittal Form” on Grants.gov) (Used as the cover page to transmit third party documents and other information designed for each specific application for tracking purposes. HUD will not read faxes that do not use the HUD-96011 as the cover page to the fax.).

(j) Form HUD 27300—Questionnaire for HUD's Removal of Regulatory Barriers (required only if applicant is seeking points regarding removal of regulatory barriers).

(k) Form HUD 2994-A, You Are Our Client Survey (optional).

(l) Lead Hazard Reduction Demonstration Grant Program match waiver request (optional).

C. Submission Dates and Times. The application deadline date for the Lead-Based Paint Hazard Control Grant Program and the Operation Lead Elimination Action Program is July 10, 2008. The application deadline date for the Lead Hazard Reduction Demonstration Grant Program is July 17, 2008. (All applications must be received and validated by http://www.grants.gov/applicants/apply_for_grants.jsp no later than 11:59:59 p.m. eastern time on the application deadline date.) Refer to the General Section for timely submission requirements.

D. Intergovernmental Review. Not required.

E. Funding Restrictions

1. Administrative Costs. Administrative costs may not exceed 10 percent of the grant award.

2. Ineligible Activities. See unit III.C.3, Ineligible Costs and Activities.

F. Other Submission Requirements

1. Electronic submission waiver. Applicants are required to submit applications electronically via the Web site: http://www.grants.gov/applicants/apply_for_grants.jsp. See the General Section for additional information on the electronic process and how to request a waiver from the electronic submission requirement, if necessary. Applicants should submit their electronic submission waiver requests in writing by e-mail. Electronic submission waiver requests must be submitted no later than 15 days prior to the application deadline date and should be submitted to Jonnette Hawkins, Director, Programs Division, Office of Healthy Homes and Lead Hazard Control, Jonnette.G.Hawkins@hud.gov. If an electronic submission waiver is granted, the application must be received by HUD no later than 11:59:59 PM on the application deadline date. The electronic submission waiver approval notification will provide further information on where to send the application and the number of copies to be provided.

2. Lead Hazard Reduction Demonstration Grant Program match waiver. Lead Hazard Reduction Demonstration Grant Program applicants requesting a waiver from the 25 percent match requirement are required to submit a request by e-mail. LHRD match waiver requests must be submitted no later than 11:59:59 PM on June 2, 2008 and should be submitted to Jonnette Hawkins, Director, Programs Division, Office of Healthy Homes and Lead Hazard Control, at Jonnette.G.Hawkins@hud.gov. HUD will respond to the LHRD match waiver requests by e-mail no later than June 26, 2008 and, if a mailing address is provided in a request, by letter within 5 working days thereafter.

V. Application Review Information

A. Criteria: The following section applies to all applicants unless otherwise specified. The application must receive a total score of at least 75 points to be considered for funding.

1. Rating Factor 1: Capacity of the Applicant and Relevant Organizational Experience (20 Points Maximum for All Applicants)

This factor applies to all applicants.

a. Capacity of the Applicant (10 Points)

The applicant must demonstrate that it has sufficient qualified personnel or will actively retain qualified experts or professionals, and is prepared to perform lead-based paint hazard evaluation, lead-based paint hazard control intervention work, and other proposed activities within 120 days of the grant award to successfully implement and complete the project. Applicants must complete form HUD-96012 to receive up to the full points for this rating factor. Key personnel should include, at a minimum, a Project Director (PD) and a Program Manager (PM). The applicant must provide resumes of key personnel and job descriptions for planned key personnel. The applicant must describe the roles and responsibilities of each key personnel for the project. Please do not include the Social Security Numbers (SSN) of any staff members.

The day-to-day Program Manager must be experienced in housing rehabilitation, lead hazard control or related work. The Program Manager should have demonstrated project management experience and must dedicate at least 75 percent of his/her time for the proposed project. Applicants must: (1) List and describe sub-grantees, sub-contractor organizations, sub-recipients and consultants that will provide services and carry out critical activities for the proposed grant program, (2) detail the sub-entity's experience in initiating and implementing related environmental, health, or housing projects, and (3) list key personnel from each sub-grantee or sub-contractor organization and their respective roles and responsibilities, and (4) provide the percent of time commitment to the proposed program.

b. Relevant Organization Experience (10 Points)

(1) New Applicants. Describe prior experience in initiating and implementing lead hazard control or related environmental, health or housing programs. Include a table that lists the relevant and most recent experience (last three years) in initiating and implementing lead hazard control or related environmental, health or housing projects. Provide examples of relevant programs that applicants currently manage or have previously managed within the past three years (e.g., Lead Hazard Control, CDBG Housing Rehabilitation, Childhood Lead Poisoning Prevention Program, Healthy Homes Demonstration, Weatherization, LEAP, etc).

(2) Current or previous grantees: HUD will evaluate the applicant's quarterly performance reports for the most recent four (4) quarters, and award points based on the performance ratings.

(3) Current Grantees: For applicants with active grants that will not expire prior to March 31, 2008, the applicant must provide assurances that all funded applications will be managed and implemented concurrently.

2. Rating Factor 2: Need/Extent of the Problem (15 Points Maximum for LBPHC and LHRD Programs; 10 Points Maximum for LEAP)

An applicant will be scored in this rating factor based on its documented need as evidenced by the submission of thorough, credible, and appropriate data and information. There must be a direct and substantial relationship between the proposed lead hazard control activities, the Consolidated Plan's lead element and documented community needs. The data submitted in response to this rating factor will be verified using data available from the Census, HUDuser, other data available to HUD and/or in cooperation with the Centers for Disease Control and Prevention.

Multiple tables (one per target area) are permissible. The data submitted to HUD will be verified using data available from the Census http://factfinder.census.gov, HUDuser http://www.huduser.org/datasets/fmr.html, and other sources available to HUD. Points will be awarded in this rating factor based on the information documenting the number and percentage of children with an elevated blood lead level, the number and percentage of pre-1978 housing units (pre-1940 for the LHRD grant program), and the number and percentage of families with incomes at or below 80 percent of the Area Median Income as determined by HUD within the jurisdiction and/or target areas. (No overlapping data will be accepted.)

a. Documented Blood Lead Level (BLL). (5 Points maximum for all programs). Applicants must complete form HUD-96013 to receive points for this rating factor. Part A of this form should be used to document the blood lead levels in children residing within the applicant's jurisdiction and target area for the most recent complete calendar year and identify the source of the data. Data prior to calendar year 2004 will not be accepted. For the purposes of this application, the “documented number of children” is based on a blood lead level test performed by a medical health care provider. Consortia of local governments must report the number in the cities or counties/parishes making up the consortium and the target areas to be served. A separate narrative does not need to be provided regarding this data; completion of the table is sufficient.

b. Housing Age and Tenure and Very Low and Low-income Population. (10 points maximum for LBPHC and LHRD grant programs; 5 points maximum for LEAP). Applicants must complete form HUD-96013 to receive points for this rating factor. Part B of this form should be used to document where the applicant intends to conduct lead hazard control work. HUD will use data from the Census on the housing age and tenure and individuals living below poverty level in the jurisdictions where the applicant intends to conduct lead hazard control work as the basis for review. A separate narrative does not need to be provided regarding this data; completion of the tables is sufficient.

3. Rating Factor 3: Soundness of Approach (40 Points Maximum for All Applicants)

The activities supported by the grant programs of HUD's Office of Healthy Homes and Lead Hazard Control (OHHLHC) represent some of the most important elements of the national effort to achieve the 2010 goal of eliminating childhood lead poisoning, and to respond to other important health hazards linked to housing. The degree of success achieved by grantees will significantly shape the success of the national effort.

This factor addresses the quality and cost-effectiveness of the applicant's proposed work plan. In general, there are four key stages in the life of a grant; application, start-up, implementation, and close-out. Applicants need to describe their work plan to address start-up and implementation phases of their grant that includes specific, measurable and time-phased objectives for each major program activity. The applicant's response to this factor must include the elements described below in the program description. In addition, applicants must complete the Rating Factor 3 Table Soundness of Approach to receive up to the full points for this rating factor.

The work plan should include specific, measurable, and time-phased objectives for each major program activity and should reflect benchmark performance standards for unit evaluation, unit production, match and leveraged resources, community outreach and education, skills training, and other activities. Examples of benchmarks include number of units to be made lead-safe, number of children living in units to be made lead-safe, number of persons to be trained to perform lead hazard control activities, number of educational programs to be presented and/or the number of persons to be served by such programs. LEAP applicants should describe their time-phased goals for generating leveraged resources and how they will track and use these funds during the 36-month period of performance. The benchmark form (Form HUD-96008) and policy guidance on developing work plans are available at the HUD Web site http://www.hud.gov/offices/lead/. Information contained in the benchmark form does not need to be repeated or explained in detail in the rating factor narrative. Applicants may refer to the form within the narrative where relevant.

a. Lead Hazard Control Work Plan Strategy (15 Points all Applicants). Describe the overall work plan goals and time-phased strategy to complete work within the 36-month period of performance (Form HUD-96008). Describe the methods, including schedule and milestones that will be used to identify and control lead-based paint hazards and how the desired project benchmarks will be achieved. Include information about the estimated numbers of families to be contacted, units enrolled, units to receive risk assessments and inspections, units to receive lead hazard control work, and individuals/groups to be reached through education and/or outreach activities and trained.

As part of the applicant's work plan description, address the following:

(1) Program Administration and Financial Management. Describe how the program will be administered, including addressing oversight and financial management.

(a) Include details about staff and project oversight/monitoring, contract administration (routine monitoring of all sub-grantees and contractors to ensure conformity to the terms, conditions and specifications of contracts or other formal agreements), and how funding will flow from the grantee to those who will perform work under the proposed program.

(b) Discuss the lead hazard control financing strategy, including verification of income eligibility requirements, terms, conditions, dollar limits, amounts available for lead hazard control work in the various categories of housing (e.g., single-family, multi-family, vacant, owner or tenant-occupied), and who is responsible for establishing, administering and overseeing this aspect of the program. Describe how recapture of grant or loan funds to owners of assisted units will occur when recipients fail to comply with any terms and conditions of the financing arrangement (e.g., failure to comply with affordability, affirmatively marketing and providing priority to renting units to families with children under six years of age, sale of property, etc.). Explain the type of assistance (e.g., grants, deferred/forgivable loans and the basis and schedule for forgiveness), and the role of other resources such as private sector financing and matching, if any, from rental property owners.

(c) Describe the applicant's involvement in coordination among critical agencies, including participation in the CDC state-wide or jurisdiction-wide strategic plan to eliminate childhood lead poisoning as a major health problem by 2010.

(d) If you are seeking points regarding the Departmental policy priority for removal of regulatory barriers, submit a completed FORM HUD 27300—Questionnaire for HUD's Removal of Regulatory Barriers (2 points).

(2) Program Start-Up. Describe program start-up activities during the first 120 days of the grant (hiring/training staff, establishing qualified contractor pool, outreach/education and unit enrollment activities). Provide information about internal and external capacity-building steps necessary to ensure a smooth and timely start-up phase. Provide detailed information about other organizations that provide the knowledge and skills required to address lead hazard control, including establishment of a qualified contractor pool, and other lead poisoning prevention actions that are essential for successfully implementing the program (e.g., education, testing, housing interventions).

(a) Describe the proposed involvement of grassroots community-based nonprofit organizations, including faith-based organizations, in the program activities. These activities may include outreach, community education, marketing, inspection, and housing evaluations and interventions.

(b) Briefly address how the applicant will implement the environmental review and Request for Release of Funds process, and who is responsible to obtain the required HUD approval for intended lead hazard control work on eligible, enrolled units. Include a description of the steps to be taken, and who will be responsible, to comply with applicable environmental reviews for individual projects.

(3) Outreach, Recruitment and Unit Enrollment. Describe the methods and strategies, including the individuals and/or sub-grantees, sub-recipients or contractors responsible for marketing and outreach to intended target area(s) and/or residents, including recruitment and enrollment activities to supply the program with sufficient numbers of eligible units within an established timeframe.

(a) Describe how the applicant will identify, select, prioritize and enroll eligible housing units in which the applicant will undertake lead hazard control interventions, especially those known to house EBL children. Include the estimated number of eligible privately owned housing units, including the number of owner-occupied, rental, vacant, single and/or multi-family units to be enrolled.

(b) Describe the applicant's planned approach to control lead hazards in vacant and/or occupied units before children are poisoned.

(c) Describe measures the applicant will take to sustain recruitment. Identify the staff responsible for both monitoring recruitment status and implementing the measures identified to sustain recruitment.

(d) If the applicant is a housing agency, explain how the applicant will obtain data from state and/or local health departments, Childhood Lead Poisoning Prevention Programs (CLPPP) and other health care agencies (if applicable) on the addresses of housing units in which children have been identified as having an elevated blood-lead level, for purposes of recruiting and enrolling housing units.

(e) Discuss coordination with State and local housing agencies, and how referrals from the Section 8, Housing Choice Voucher program and other agencies that provide housing assistance to low-income households with children, (including CDBG, HOME Investment Partnerships Program-funded housing programs, weatherization or other sources), will be received and processed.

b. Technical Approach/Lead Hazard Control Intervention (15 points for all applicants). In this section, the applicant should describe its technical approach and associated costs for testing enrolled units, blood-lead testing of children in enrolled units, and performing lead hazard control methods and strategies, occupant protection, and temporary relocation. This description should also indicate how the applicant will ensure cost-effectiveness for the program.

Describe the lead hazard control methods, and strategies, including the hazard control methods the applicant will undertake, and the number of single and multi-family units that will be treated using each method selected (e.g., interim controls and/or hazard abatement) if this will vary. Explain the applicant's strategy to ensure that the units are maintained lead safe after treatment.

In selecting lead hazard control methods, applicants should consider several factors: The relative costs and durability of the treatments, the characteristics of the unit, and the condition and projected durability of the component(s) treated. Applicants should choose appropriate control methods using their best judgement in each case. However, applicants should be aware that complete abatement of all lead-based painted surfaces in units is not generally a cost effective strategy and is discouraged in these programs. In cases where only a few surfaces have identified lead-based paint hazards and if abatement is cost-effective, the applicant must provide a detailed rationale for selecting complete abatement as a strategy. Applicants are encouraged to review the National Evaluation of lead hazard control methods provided at http://www.hud.gov/offices/lead/library/misc/NatEval.pdf.

(1) Management. Indicate the individual or entity responsible for, and describe the process for developing the work specifications and the lead hazard control contractor bid and selection process (i.e., the contracting) on properties selected for lead hazard control work.

(2) Coordination.

(a) Explain the coordination of relevant activities among lead hazard control, rehabilitation, weatherization, and other contractors performing work other than lead hazard control. In particular, describe the coordination of lead hazard reduction with weatherization activities funded by state and local governments. Applicants may receive up to 1 point for addressing this departmental policy priority to Improve our Nation's Communities. See the General Section for more information on this departmental policy priority.

(b) Describe the applicant's testing methods, schedule, and costs for lead-based paint inspections and risk assessments and clearance examinations. If the applicant proposes to use a more restrictive standard than the HUD/EPA thresholds, provide the standard(s) that will be used. All testing shall be performed in accordance with applicable regulations.

(c) Describe how the applicant will ensure that contractors, property owners and maintenance personnel performing interim controls and lead hazard abatement work are properly trained and/or certified, and how work will be monitored and supervised to ensure that contractors perform work of reasonable quality in compliance with work specifications and applicable federal/state/local regulations.

(d) Using Form HUD-96008, provide a realistic schedule for completing key program activities and outputs, by quarter, so that all activities and outputs can be completed before or within the grant period of performance. Key production activities include unit enrollment, lead-based paint inspection and risk assessments, hazard control and clearance of units. In addition, describe the estimated timeframe for treating a typical unit from referral and intake to hazard control and clearance. Explain how the program will accommodate emergency referrals (e.g., units occupied by a child under six years of age with an EBL).

(e) Describe the production process from intake to unit completion/clearance and follow-up testing (if applicable), and identify the agency/person responsible for each step and how monitoring will be performed to both prevent and resolve production impediments.

(f) Describe the applicant's plan for the relocation of occupants of units selected for remediation, if temporary relocation is necessary. If temporary relocation is necessary, the applicant should describe the relocation process (i.e., the uses of safe houses and other housing arrangements, storage of household goods, stipends, incentives, etc.), and the source of funding for relocation. Describe your plan for ensuring the right of return and/or first referral of occupants who have had to relocate temporarily for the lead hazard control work to be performed. If temporary relocation is not necessary, please describe measures to protect the occupants.

(g) Describe the methods, measures and cost for performing blood lead testing in children less than six years of age.

(i) Describe efforts to perform blood lead testing of children within the target area(s) and other screening efforts.

(ii) Explain how the applicant will ensure that all children less than six years of age who occupy units to be assisted with lead hazard control work receive blood lead testing within six months of commencement of work on the unit.

(iii) Identify the individual responsible to ensure that children identified with an elevated blood-lead level are referred to appropriate medical care and how patient confidentiality will be maintained and the security of medical information is protected in accordance with the Health Insurance Portability and Accountability Act (HIPAA) of 1996.

(h) Describe the methods for implementing Energy Star building techniques and utilizing Energy Star applicants whenever activities of the grant afford the opportunity (1 point).

c. Economic Opportunity (2 points for all applicants). Explain how the applicant will provide appropriate economic opportunities to Section 3 residents and Section 3 businesses of the target area, in compliance with Section 3 of the Housing and Urban Development Act of 1968 (12 U.S.C. 1701u) and HUD's implementing rules at 24 CFR part 135. Describe how the applicant will accomplish Section 3 requirements by identifying the number of individuals to receive such training per discipline, the schedule for delivering said training for low and very low-income persons living within the applicant's jurisdiction, and how trained individuals will be linked to employment opportunities with Section 3 businesses owned by and/or employ low and very low-income persons living within the applicant's jurisdiction.

d. Lead Hazard Control Outreach (6 points for all applicants).

(1) Describe the applicant's involvement in collaborative agreements or arrangements with state or local health, housing, and code enforcement agencies, and community and/or faith based organizations for the target area(s) for performing outreach activities. If this information is detailed in letters of commitments, MOAs, or MOUs, it can be briefly summarized in this section. If these collaborative agreements or arrangements are not yet made, address plans to develop these agreements if applicable.

(2) Discuss the applicant's proposed outreach activities and expected outcomes, as it relates to unit enrollment or reducing childhood lead poisoning in the target area.

(3) Explain how the intended education program(s) will be culturally sensitive, targeted, and linguistically appropriate. Identify the means available to supply the educational materials in other languages (identify all that apply) common to the community.

(a) Include the estimated number of individuals to receive the intended education and the estimated number of events to be delivered.

(4) Affirmatively Furthering Fair Housing.

(a) Describe strategies and methodologies that affirmatively further fair housing and increase access to lead-safe housing for all segments of the population: Homeowners, owners of rental properties, and tenants.

(b) Identify who will ensure and how the applicant will ensure that the program will continue to affirmatively market and match treated units with low-income families with children less than six years of age in the future.

e. Data Collection and other Program Support Activities (2 Points for all Applicants).

(1) Identify and discuss the methods the applicant will use (in addition to HUD reporting requirements) to document activities, progress, and program effectiveness. Explain how the applicant will make necessary changes to improve program performance.

(2) Describe how databases, including Web sites, computer, paper or other formats, will ensure the privacy of participants.

f. Budget Proposal.

(1) The applicant's budget proposal should thoroughly estimate all applicable costs (direct, indirect, and administrative), and be presented in a clear and coherent format in accordance with the requirements listed in the General Section. HUD is not required to approve or fund all proposed activities. The applicant must thoroughly document and justify all budget categories and costs (Form HUD-424-CBW) and all major tasks, for the applicant, sub-recipients, major subcontractors, joint venture participants, or others contributing resources to the project. A separate budget must be provided for partners who are proposed to receive more than 10 percent of the federal budget request. The applicant's application will be evaluated on the extent to which resources are appropriate for the scope of the proposed project.

(2) The applicant's budget narrative justification associated with these budgeted costs should be submitted as part of the Total Budget (Federal Share, Matching and Leveraging), but is not included in the 20-page limit for this submission. Separate narrative justifications should be submitted for partners that are submitting separate budgets. The applicant's proposed budget should clearly identify the funding or cash equivalent amounts being provided as match and leveraged resources. These funds should reflect the numbers and contributions provided in response to Rating Factor 4, Leveraging Resources.

4. Rating Factor 4: Leveraging Resources (10 Points Maximum for LBPHC and LHRD Grant Programs; 15 Points Maximum for LEAP)

This rating factor applies to all programs unless otherwise specified. This factor addresses the applicant's ability to obtain additional community and private sector resources that can be combined with HUD's program resources to increase the effectiveness of the proposed program activities. Applicants will be given points based on the amount of net match and leveraged resources equalling, for the LBPHC and LEAP programs, 10 percent or greater, and for the LHRD program, 25 percent or greater, or 10 percent or greater if HUD has granted a match waiver. Match and leveraged resources must be shown to be specifically dedicated to and integrated into supporting program activities. See unit III.B.2, Eligibility, for additional information on match and leveraged resources.

a. Match and Leveraged Resources

Applicants will be given points based on the amount of total match and leveraged resources in accordance with the chart below (10 points). In awarding points, fractional percentages will be rounded down to whole number percentages, and will not be rounded up (e.g., 14.99% match and leveraged resources for LBPHC receives 5 points).

Match and Leveraged Resources Point Table
Match and leveraged resources as percent of requested federal amount | Points awarded
LBPHC and LEAP
10-14 | 5
15-19 | 6
20-24 | 7
25-29 | 8
30-34 | 9
35 or greater | 10
LHRD without match waiver
25-26 | 5
27-28 | 6
29-30 | 7
31-32 | 8
33-34 | 9
35 or greater | 10
LHRD with match waiver
10-12 | 5
13-15 | 6
16-17 | 7
18-20 | 8
21-23 | 9
24 | 10

The applicant must support each source of contributions, cash or in-kind, by a letter of commitment from the contributing entity, whether a public or private source. Each letter of commitment, memorandum of understanding, or agreement to participate should include the organization's name, the proposed level of commitment and the responsibilities as they relate to the proposed program. Staff in-kind contributions should be given a monetary value based on the local market value of the staff skills. The signature of the authorized official on the Form SF-424 commits match and leveraged resources of the applicant organization and from other sources. Contributions required of rental property owners may be included as part of the applicant's match and leveraged resources. The applicant should document and estimate the amount of the match and leveraged resources from each partnership.

Excluding local resources, applicants should submit evidence of a firm commitment for each match and leveraged resource. Such evidence must be provided in the form of letters of firm commitment, memoranda of understanding, or other signed agreements to participate from those entities identified as partners in the application. The commitment must be signed by an official of the organization legally able to make commitments on behalf of the organization.

b. Strategy and Approach (for LEAP Applicants Only—5 Points)

(1) Experience and/or ability in leveraging resources will enhance the application. Describe this experience and the applicant's proposed strategy for leveraging resources including:

(a) Types of leveraging and/or fundraising to be employed;

(b) Proposed use and distribution of funds/resources contributed;

(c) Overall project management and coordination;

(d) Proposed schedule of activities within the 36-month period of performance;

(e) Describe what the organization has done in the recent past (e.g., within the past five years) that gives evidence of its ability and experience to generate substantial private sector resources; and,

(f) Describe time-phased goals for generating leveraged resources and how they will track and use these funds over the 36-month period of performance.

5. Rating Factor 5: Achieving Results and Program Evaluation. (15 Points maximum for all applicants)

This rating factor reflects HUD's goal to embrace high standards of ethics, management, and accountability.

a. Description of program activities, outputs and short-term, intermediate-term and long-term outcomes. (5 points)

(1) State clearly the project goals (“benchmarks”) and activities to achieve these goals.

(2) Describe how the applicant will measure the results.

(3) Explain how the applicant will document and track its goals, program activities, and schedules.

(4) Identify the procedures the applicant will follow to make adjustments to the work plan to improve performance if benchmarks are not met within established timeframes.

b. Logic Model (10 points).

(1) Submit Form HUD-96010.

HUD is using an electronic Logic Model with dropdown menus from which the applicant can select needs, activities, and outcomes appropriate to the program. See the General Section for detailed information on the use of the Logic Model. HUD is requiring grantees to use program-specific questions to self-evaluate the management and performance of their program. Training on HUD's logic model and the reporting requirements for addressing the Management questions will be provided via satellite broadcast.

In evaluating Rating Factor 5, HUD will consider how the applicant has described the benefits and outcome measures of the program. HUD will also consider the evaluation plan, to ensure the project is on schedule and within budget.

(2) Performance indicators should be objectively quantifiable and should measure actual achievements against anticipated achievements: Step 1. The planning component of the logic model should identify the problem or need and develop a plan. Step 2. The intervention component of the logic model should identify the kinds of services, activities, and outputs projected. Step 3. The impact component of the logic model should identify the projected outcomes. Step 4. The accountability (phase one) component of the logic model should include data sources, measurement, and reporting tools. Step 5. The accountability (phase two) component of the logic model should include the evaluation methodology or the evaluation process. As a planning tool, the logic model can provide the statement of need and also provide the rationale for the proposed service or activity. For goals or benchmarks, the logic model can provide a set of quantifiable goals including timeframes. These goals allow the applicant and HUD to monitor and assess the progress in achieving the program work plan. The process for the achievement of outcome goals should include identifying the expected outcome and the estimated number needed to achieve the goal or the expected outcome in terms of the community impact or changes in economic and social status. Some examples of measurement-reporting tools are survey instruments; attendance logs; case report; pre-post tests; or waiting lists. Describe where/how data are maintained, for example, central databases; individual case records; specialized access databases, tax assessor databases; and local precinct. Also, identify the location where the database is maintained, updated, etc., for example, on-site, subcontractor, or specify (e.g., identify what the other is). In FY 2008, HUD will use the Matrix in Appendix 1 of the General Section to rate the quality of the Logic Model. The matrix provides for a sliding scale of up 10 points based upon the quality of the submission.

6. Bonus Points. (2 Points for all programs)

Applicants are eligible for two bonus points to each application that includes a valid form HUD-2990 certifying that the proposed activities/projects in the application are consistent with the strategic plan for an empowerment zone (EZ) designated by HUD or the U.S. Department of Agriculture (USDA), the tax incentive utilization plan for an urban or rural renewal community designated by HUD (RC), or the strategic plan for an enterprise community designated in round II by USDA (EZ-II), and that the proposed activities/projects will be located within the RC/EZ/EC-II identified above and are intended to serve the residents.

B. Reviews and Selection Process

1. Rating and Ranking. Please refer to the General Section.

a. Applicants that meet all of the threshold requirements will be eligible to be scored and ranked, based on the total number of points allocated for each of the rating factors described in Section V.A of this NOFA.

b. Remaining Funds. Refer to the General Section for HUD's procedures if funds remain after all selections have been made within a category.

c. The scoring criteria to be used to award the maximum points for this NOFA are based on how fully and thoroughly the applicant answers each item listed in each Rating Factor.

2. Factors for Award Used To Rate and Rank Applications.

a. Implementing HUD's Strategic Framework and Demonstrating Results. HUD is committed to ensuring that programs result in the achievement of HUD's strategic mission. To support this effort, grant applications submitted for HUD programs will be rated on how well they tie proposed outcomes to HUD's policy priorities and Annual Goals and Objectives, and the quality of proposed Evaluation and Monitoring Plans.

b. The maximum number of points to be awarded is 102. This maximum includes two bonus points as described in the General Section and above.

c. The factors for rating and ranking eligible applicants under all categories, and the maximum points for each factor are stated below:

Rating factors | Maximum points: LBPHC & LHRD | Maximum points: LEAP
1. Capacity of the Applicant and Relevant Organizational Experience | 20 | 20
2. Need/Extent of the Problem | 15 | 10
3. Soundness of Approach | 40 | 40
4. Matching and Leveraging Resources | 10 | 15
5. Achieving Results and Program Evaluation | 15 | 15
Empowerment Zone, Renewal Zones and Enterprise Community (II) Bonus Points | 2 | 2
Total | 102 | 102

VI. Award Administration Information

A. Award Notices

1. Applicants Selected for Award.

a. Successful applicants will receive a letter from the Office of Healthy Homes and Lead Hazard Control Grant Officer providing details regarding the effective start date of the grant agreement and any additional data and information to be submitted to execute the grant. This letter is not an authorization to begin work or incur costs under the grant.

b. HUD may require that a selected applicant participate in negotiations to determine the specific terms of the grant agreement, budget, and Logic Model. Should HUD not be able to successfully conclude negotiations with a selected applicant, an award will not be made. Applicants should note that, if they are selected for multiple awards, they must ensure that they have sufficient resources to provide the promised match and leveraged resources for the multiple awards. During negotiations, such applicants would be required to provide alternative match and leveraged resources, if necessary, before the grant can be awarded in order to avoid committing duplicate match and leveraged resources to more than one OHHLHC grant. If the applicant accepts the terms and conditions of the grant agreement, a signed grant agreement must be returned by the date specified. Instructions on how to have the grant agreement account entered into HUD's Line of Credit Control System (LOCCS) payment system will be provided. Other forms and program requirements will be provided. In accordance with OMB Circular A-133 (Audits of States, Local Governments and Nonprofit Organizations), if an awardee expends $500,000 in federal funds in a single year, they follow the requirements of the Single Audit Act and must submit their completed audit-reporting package along with the Data Collection Form (SF-SAC) to the Single Audit Clearinghouse. The address can be obtained from their Web site. The SF-SAC can be downloaded at: http://harvester.census.gov/sac/.

2. Debriefing. The General Section provides the procedures for applicants to request a debriefing.

3. Negotiation. Refer to the General Section for additional details.

4. Adjustments to Funding. Refer to the General Section for additional details.

B. Administrative and National Policy Requirements: Refer to the General Section for additional details regarding the Administrative and National Policy Requirements applicable to HUD Programs.

1. National Historic Preservation Act. The National Historic Preservation Act of 1966 (16 U.S.C. 470) and the regulations at 36 CFR part 800 apply to the lead-hazard control or rehabilitation activities that are undertaken pursuant to this NOFA.

2. Davis-Bacon wage rates. The Davis-Bacon wage rates are not applicable to these programs. However, if the applicant uses grant funds in conjunction with other federal programs, Davis-Bacon requirements will apply to the extent required under the other federal programs.

3. Procurement of Recovered Materials. See the General Section for information concerning this requirement.

4. Executive Order 13202. “Preservation of Open Competition and Government Neutrality Towards Government Contractors' Labor Relations on Federal and Federally-Funded Construction Projects.” See General Section for information concerning this requirement.

C. Reporting: Reports shall comply with the General Section. The following items are a part of OHHLHC reporting requirements.

1. Successful applicants will be required to submit quarterly, annual, and final program and financial reports according to the requirements of the Office of Healthy Homes and Lead Hazard Control. Specific guidance and additional details will be provided to successful applicants. For each reporting period, as part of the required report to HUD, a grant recipient must include a completed Logic Model (form HUD 96010), which identifies output and outcome achievements. Project benchmarks and milestones will be tracked using a benchmark spreadsheet that uses the benchmarks and milestones identified in the Logic Model Form (HUD-96010) approved and incorporated into the award agreement.

2. All grant recipients must comply with reporting requirements of subpart E (Section 3 of the Housing and Urban Development Act of 1968, 12 U.S.C. 1701u (Economic Opportunities for Low- and Very Low-Income Persons in Connection with Assisted Projects) and the HUD regulations at 24 CFR part 135).

VII. Agency Contact(s)

For questions related to the application process, the applicant may contact the Grants.gov help line at 800-518-GRANTS. For programmatic questions, the applicant may contact: Ms. Jonnette G. Hawkins, Director, Programs Division, Office of Healthy Homes and Lead Hazard Control: Department of Housing and Urban Development; 451 Seventh Street, SW., Room 8236, Washington, DC 20410-3000; telephone (202) 402-7593 (this is not a toll-free number); facsimile (202) 755-1000; e-mail: Jonnette.G.Hawkins@hud.gov. For administrative questions, the applicant may contact Curtissa L. Coleman, Director, Grants Services Division, at the address above or by telephone at: (202) 402-7580 (this is not a toll-free number); e-mail at: Curtissa.L.Coleman@hud.gov. If the applicant is a hearing- or speech-impaired person, the applicant may reach the above telephone numbers via TTY by calling the toll-free Federal Information Relay Service at 1-800-877-8339.

VIII. Other Information

A. General. For additional general, technical, and grant program information pertaining to the Office of Healthy Homes and Lead Hazard Control, visit: http://www.hud.gov/offices/lead.

B. Paperwork Reduction Act. The information collection requirements contained in this document have been approved by the Office of Management and Budget (OMB) under the Paperwork Reduction Act of 1995 (44 U.S.C. 3501-3520) and assigned OMB control number 2539-0015. In accordance with the Paperwork Reduction Act, HUD may not conduct or sponsor, and a person is not required to respond to, a collection of information unless the collection displays a currently valid OMB control number. Public reporting burden for the collection of information is estimated to average 80 hours to prepare the application, 16 hours to finalize the grant agreement, and 32 hours per annum for grant administration (progress reporting) per respondent. This includes the time for collecting, reviewing, and reporting the data for the application, quarterly reports, and final report. The information will be used for awardee selection and monitoring the administration of funds. Response to this request for information is required in order to receive the benefits to be derived.

Lead Technical Studies and Healthy Homes Technical Studies Programs

Overview Information

A. Federal Agency Name: Department of Housing and Urban Development, Office of Healthy Homes and Lead Hazard Control.

B. Funding Opportunity Title: Lead Technical Studies and Healthy Homes Technical Studies.

C. Announcement Type: Initial announcement.

D. Funding Opportunity Number: FR-5200-N-07, OMB Paperwork Approval number is 2539-0015.

E. Catalog of Federal Domestic Assistance (CFDA) Numbers: 14.902, Lead Technical Studies Grant Program, and 14.906, Healthy Homes Technical Studies Grant Program.

F. Dates: The application deadline date is July 3, 2008. Applications must be received and validated by Grants.gov no later than 11:59:59 p.m. eastern time on the application deadline date. See Section IV of the General Section, published on March 19, 2008 (73 FR 14882), regarding application submission procedures and timely filing requirements.

G. Additional Information

1. Purpose: To fund technical studies to improve existing methods for detecting and controlling lead-based paint and other housing-related health and safety hazards, to develop new methods to detect and control these hazards, and to improve our knowledge of lead-based paint and other housing-related health and safety hazards.

2. Available funding: HUD anticipates that approximately $4.3 million will be available. Of this, approximately $2.2 million is for Lead Technical Studies and approximately $2.1 million is for Healthy Homes Technical Studies.

3. Anticipated awards: Approximately 3 to 5 awards will be made for the Lead Technical Studies Program, ranging from approximately $350,000 to a maximum of $1 million each for the entire period of performance. Approximately 3 to approximately 5 awards are anticipated under the Healthy Homes Technical Studies Program, ranging from approximately $350,000 to a maximum of $1 million each for the entire period of performance.

4. Type of awards: Cooperative agreements, with substantial involvement of the government, will be awarded (see Paragraph II.C for a description of substantial involvement).

5. Eligible applicants: Academic, not-for-profit and for-profit institutions located in the U.S., state and units of general local government, and federally recognized Native American tribes are eligible to apply. For-profit firms are not allowed to earn a fee (i.e., make a profit from the project).

6. Cost sharing or “matching” is not required; however, applicant “leveraging” contributions are encouraged (see Section V.A.3.d).

7. There is no limit on the number of applications that each applicant may submit.

8. The applications for this NOFA can be found at http://www.grants.gov. The General Section contains information on submission requirements and procedures. Please carefully review the General Section before reading the program section so that you understand the Grants.gov electronic application process.

Full Text of Announcement

I. Funding Opportunity Description

A. Purpose of the Programs

The overall purpose of both the Lead and the Healthy Homes Technical Studies programs is to gain knowledge to improve the efficacy and cost-effectiveness of methods for evaluation and control of lead-based paint and other housing-related health and safety hazards. This also supports HUD's Strategic Goal to Strengthen Communities and the associated policy priority to Improve Our Nation's Communities by improving the environmental health and safety of families living in public and privately owned housing.

B. Program Description

HUD is funding studies to improve HUD's and the public's knowledge of lead-based paint hazards and other housing-related health and safety hazards, and to improve or develop new hazard assessment and control methods, with a focus on key residential health and safety hazards. Key hazards are discussed in Appendix A. A list of references that serve as the basis for the information provided in this NOFA is provided as Appendix B. Appendices A and B of this NOFA can be found on HUD's Web site at http://www.grants.gov/applicants/apply_for_grants.jsp.

1. General Goals

a. Lead Technical Studies

The overall goal of the Lead Technical Studies grant program is to gain knowledge to improve the efficacy and cost-effectiveness of methods for evaluation and control of residential lead-based paint hazards.

Through the Lead Technical Studies Program, HUD is working to fulfill the requirements of sections 1051 and 1052 of the Residential Lead-Based Paint Hazard Reduction Act of 1992 (Title X) (42 U.S.C. 4854 and 4854a) which directs HUD to conduct research on topics which include the development of “improved methods for evaluating [and] reducing lead-based paint hazards in housing,” among others.

Brief descriptions of active and previously funded lead technical studies projects can be found on HUD's Web site at http://www.hud.gov/offices/lead/techstudies/index.cfm. Where appropriate, you are strongly encouraged to build your proposed study upon HUD-sponsored work that has been previously completed, in addition to other relevant research (i.e., that are contained in government reports and in the published literature).

The results of the technical studies will be used in part to update HUD's Guidelines for the Evaluation and Control of Lead-Based Paint Hazards in Housing (Guidelines). For supporting references, including where to find the Guidelines, see Appendix B on HUD's Web site at http://www.hud.gov/offices/adm/grants/fundsavail.cfm.

b. Healthy Homes Technical Studies

The overall goals and objectives of the Healthy Home Initiative (HHI), which includes the Healthy Homes Technical Studies Program and the Healthy Homes Demonstration Grant Program (see the Healthy Homes Demonstration Grant Program NOFA published in this SuperNOFA), are to:

(1) Mobilize public and private resources, involving cooperation among all levels of government, the private sector, grassroots community-based organizations, including faith-based organizations, and other non-profit organizations, to develop the most promising and cost-effective methods for identifying and controlling housing-related hazards; and

(2) Build local capacity to operate sustainable programs that will continue to prevent, minimize, and control housing-related hazards in low- and very low-income residences when HUD funding is exhausted.

The HHI departs from the more traditional approach of attempting to correct one hazard at a time. HUD is interested in promoting approaches that are cost-effective and efficient and result in the reduction of health threats for the maximum number of residents and, in particular, low-income children.

In April 1999, HUD submitted a preliminary plan that described the HHI to Congress. The submission (Summary and Full Report), and a description of the HHI are available on the HUD Web site at http://www.hud.gov/offices/lead/hhi/index.cfm.

In addition to deficiencies in basic housing conditions that may impact health, research has identified other more subtle health hazards in the residential environment (e.g., asthma triggers, mycotoxins, volatile organic compounds, pesticide residues). While such hazards are found disproportionately in housing that is substandard (e.g., structural problems, lack of adequate heating and cooling, moisture infiltration), housing-related environmental hazards may also exist in housing that is otherwise of good quality. Appendix A of this NOFA briefly describes the key housing-associated health and injury hazards HUD considers targets for intervention. HUD has also developed resource papers on a number of topics of importance under the HHI, including mold, environmental aspects of asthma, carbon monoxide, pesticides, and unintentional injuries. These resource papers can be downloaded from http://www.hud.gov/offices/lead/hhi/hhiresources.cfm.

Applications for additional work related to existing HUD-funded technical studies (i.e., for work outside of the scope of the original agreement) are eligible to compete with applications for awards on new subjects. Brief descriptions of current and recently completed Healthy Homes Technical Studies projects and grantee contact information can be found on the HUD Web site at http://www.hud.gov/offices/lead/hhi/hhigranteeinfo.cfm.

2. Community Participation

HUD believes that it is important for researchers to incorporate meaningful community participation in the development and implementation of studies that are conducted in communities and/or involve significant interaction with community residents. Community participation can improve study effectiveness in various ways, including the development of more appropriate research objectives, improving recruitment and retention of study participants, improving participants' involvement in and understanding of a study, improving ongoing communication between researchers and the affected community, and more effectively disseminating study findings. HUD encourages applicants to consider using a “community-based participatory research (CBPR)” approach, where applicable, in study design and implementation. (See, e.g., the report published by the National Institute of Environmental Health Sciences titled “Successful Models of Community-Based Participatory Research” which can be found at: http://www.hud.gov/offices/lead/researchers.cfm. CBPR is characterized by substantial community input in all phases of a study (i.e., design, implementation, data interpretation, conclusions, and communication of results).

C. Authority

The Lead Technical Studies program is authorized under sections 1011(g)(1), 1011(o), and 1051-1053 of the Residential Lead-Based Paint Hazard Reduction Act of 1992 (Title X of the Housing and Community Development Act of 1992, 42 U.S.C. 4851 et seq.). The Healthy Homes Technical Studies program is authorized under sections 501 and 502 of the Housing and Urban Development Act of 1970 (12 U.S.C. 1701z-1 and 1701z-2). Fiscal Year 2008 funds for both programs are authorized under the Consolidated Appropriations Act, 2008 (Pub. L. 110-161).

II. Award Information

A. Funding Available

Approximately $2.2 million in fiscal year 2008 and prior-year funds are available for Lead Technical Studies. Approximately $2.1 million in fiscal year 2008 and prior-year funds are available for Healthy Homes Technical Studies. Cooperative agreements will be awarded on a competitive basis following evaluation of all eligible proposals according to the rating factors described in Section V.A.3 of this NOFA. HUD anticipates that approximately 3 to 5 awards will be made for the Lead Technical Studies Program, and that approximately 3 to 5 awards will be made for the Healthy Homes Technical Studies Program. Awards will range from approximately $350,000 to no more than $1,000,000 per award for each program.

B. Anticipated Start Date and Period of Performance for New Grants

The start date for new awards is expected to be not later than November 1, 2008. The period of performance cannot exceed 36 months from the date of award. The proposed performance period should include adequate time for such project components as the Institutional Review Board process, if required, the recruitment of new staff and/or study participants, and the development of new instrumentation or methods (e.g., analytical methods), all of which have been found to delay projects in the past. Period of performance extensions for delays due to exceptional conditions beyond the grantee's control will be considered for approval by HUD in accordance with 24 CFR 84.25(e)(2) or 85.30(d)(2), as applicable, and the OHHLHC Program Guide. If approved, grantees will be eligible to receive a single extension of up to 12 months in length. Applicants are encouraged to plan studies with shorter performance periods than 36 months; however, when developing your schedule, you should consider the possibility that issues may arise that could cause delays.

C. Type of Award Instrument

Awards will be made as cooperative agreements. Anticipated substantial involvement by HUD staff in cooperative agreements may include, but will not be limited to:

1. Review and suggestion of amendments to the study design, including: study objectives; field sampling plan; data collection methods; sample handling and preparation; and sample and data analysis.

2. Review and provision of technical recommendations in response to quarterly progress reports (e.g., amendments to study design based on preliminary results).

3. Review and provision of technical recommendations on the journal article(s) and final study report.

III. Eligibility Information

A. Eligible Applicants

Academic and non-profit institutions located in the United States, state and units of general local government, and federally recognized Native American tribes are eligible under all existing authorizations. For-profit firms also are eligible; however, they are not allowed to earn a profit from the project. Applications to supplement existing projects are eligible to compete with applications for new awards. Federal agencies are not eligible to submit applications. The General Section identifies threshold requirements that must be met for an organization to receive an award.

B. Cost Sharing or Matching

Cost sharing or matching is not required. In rating your application, however, you will receive a higher score under Rating Factor 4 if you provide evidence of significant resource leveraging.

C. Other

1. Eligible Activities

a. Lead Technical Studies

HUD is particularly interested in the following topics:

(1) Effectiveness of Ongoing Maintenance Activities in Controlling Lead-Based Paint Hazards. HUD has supported research that has shown that interim controls can be effective in significantly reducing dust-lead levels for periods of up to six years following intervention (see e.g., Wilson et al., 2005 in Appendix B). Outside of the intensity of the intervention and baseline conditions, few factors have been identified that are predictive of the effectiveness of lead hazard control interventions in reducing dust-lead levels over the long term. The frequency and thoroughness of ongoing maintenance is one factor that is expected to be of significance with respect to the long term effectiveness of interim controls. HUD is interested in evaluating the effectiveness and feasibility of ongoing lead-based paint maintenance programs, identifying program components for which particular implementation difficulties exist, and evaluating proposed measures for overcoming those difficulties. Such an evaluation of program components could address whether and how technically-acceptable and cost-effective work practices are selected and implemented, how effectively supervisors monitor work activities to ensure that lead-based paint hazards are controlled and that dust and debris are contained and cleaned up during and after work, and how well clearance procedures (including necessary re-cleaning) are integrated into the maintenance program, among other factors.

(2) Effectiveness of HUD-Required Training on Lead Safe Work Practices and Visual Assessment. HUD has sponsored the development and delivery of training in both lead safe work practices and the visual assessment of residences for the purpose of identifying deteriorated lead-based paint. To date, however, there has been no formal research to assess the effectiveness of this training. Such research would be useful for improving curricula and identifying the most effective methods for training delivery. HUD is placing a higher priority on the use of existing training curricula (with or without revision), but will consider proposals that include the development of new materials, if well justified. New training materials should be developed as “step-in” packages so that HUD or other training providers may independently conduct the course on their own. All lead safe work practices training must comply with HUD requirements and guidelines (available on HUD's Web site at: http://www.hud.gov/offices/lead/training/hudapproval_main.cfm). Applicants must address the need for training or education in their target recipients.

(a) Training workers in lead-safe work practices is important for preventing contamination of the work area and reducing occupant and worker lead exposures. New renovators and workers lack experience in lead-safe work practices. Their skill and ability to use lead-safe work practices properly and pass clearance depends, in large part, upon the type and quality of the training and education they receive. Thousands of workers throughout the U.S. have received lead safe work practices training; however, there has been little formal evaluation of the effectiveness of various training methods. HUD is interested in identifying the most effective approach(es) to delivering lead safe work practices training as well as assessing the effectiveness of the various components of HUD-approved training curricula. The results of research on this topic will be used to guide trainers in the most effective training protocols for this material, improve curricula and increase availability of training.

Although there are several HUD-approved curricula including one developed jointly by HUD and the Environmental Protection Agency (EPA) (“Lead Safety for Remodeling, Repair and Painting”), training methods vary widely. For example, many training providers use only classroom lectures, while others include a variety of hands-on activities. Based on adult learning theory, it is expected that using hands-on activities is more effective compared to passive methods of training workers to reduce exposure to lead and pass end-of-job clearance examinations.

In addition, much of the lead-safe work practices training has been delivered in urban areas in order to reach the maximum numbers of persons possible, with less emphasis on training individuals in rural areas. Barriers to training in rural locations include low enrollments, physical distance from the training location, travel costs and other factors. HUD will consider applications that investigate strategies designed to reach affected persons closer to where they live and work through technology-based instructional alternatives or structured on-the-job training solutions. (Structured on-the-job training (SOJT) includes planning, breaking down jobs into their component tasks and providing instructors with lesson plans and materials. It produces consistent training outcomes of predictable quality. Information on SOJT is readily available in the body of training and education literature. Proposed training solutions must be suitable for the delivery of training that can be shown to be effective in giving workers the skills and ability they need to complete projects that pass independent third-party clearance examinations in target housing. HUD will consider funding applications that evaluate current existing technologies and infrastructure possibilities that appear to be suitable for delivery of such training.

(b) Visual assessment for the presence of deteriorated paint is another activity for which an evaluation of training effectiveness is needed. In the past, HUD has supported two types of visual assessment training: instructor-led lecture and self-paced on-line training module. At this time, HUD maintains only the on-line visual assessment module, at: http://www.hud.gov/offices/lead/training/training_curricula.cfm and is aware of no comparable visual assessment training that is currently available. HUD will consider applications that address the effectiveness of various training or educational methods for visual assessment and recommend improvements to HUD's or others' curricula or offer alternative training solutions targeted to increasing the availability of effective visual assessment training. As above, the results of this research will be used to improve the quality and availability of the training.

(3) Analysis of Available Data and Databases. HUD is interested in supporting research using existing data to address key scientific issues related to the identification and control of lead-based paint hazards. Large research efforts often generate comprehensive data sets that are analyzed to address primary research objectives; however, there is often important information to be gained by conducting additional analyses of the collected data. Such analyses can generally be conducted at low cost relative to the cost of the initial research. Applicants submitting proposals in this area should explain how the analyses would address high priority issues and possibly lead to improvements in lead hazard assessment and control methods. HUD is also interested in the creative use of existing databases (e.g., Census data, blood-lead screening data) to improve the efficacy of lead hazard control programs (e.g., by improved targeting of the highest risk homes and neighborhoods), assess the effectiveness of enforcement and lead hazard control activities and regulations, and other uses of these data that further the goal of improving methods for the identification and control of residential lead-based paint hazards.

(4) Other Focus Areas that are Consistent with the Overall Goals of HUD's Lead Technical Studies Program. HUD will consider funding applications for technical studies on other topics that are consistent with the overall goals and objectives of the Lead Technical Studies program, as described above.

In such instances, for an applicant to receive an award, it is necessary that the applicant describe in sufficient detail how the proposed study is consistent with the overall Lead Technical Studies program goals and objectives.

Note: A limited amount of lead hazard control activities, which involve construction rather than research, may be conducted as part of a project (see Section IV.E.9 of this NOFA).

Applicants should consider the efficiencies that might be gained by working cooperatively with one or more recipients of HUD's Lead Hazard Control grants, which are widely distributed throughout the United States. Information on current grantees is available at http://www.hud.gov/offices/lead.

Because HUD has funded several recent applications in the following topic areas, HUD will not consider funding any applications on the following:

i. Phytoremediation of lead-contaminated soil.

ii. Analysis of dust or soil by portable X-ray fluorescent (XRF) analyzers.

iii. Lead emissions from building demolition.

iv. Contribution of soil lead to interior dust lead.

b. Healthy Homes Technical Studies

(1) HUD expects to advance the recognition and control of residential health and safety hazards and more closely examine the link between housing and health. The overall objectives of the Healthy Homes Technical Studies projects to be funded through this NOFA include, but are not limited to:

(a) Development and evaluation of low-cost test methods and protocols for the identification of housing-related hazards;

(b) Development and assessment of cost-effective methods for reducing or eliminating housing-related hazards;

(c) Evaluation of the effectiveness of housing interventions and public education campaigns, and barriers and incentives affecting future use of the most cost-effective strategies;

(d) Investigation of the epidemiology of housing-related hazards and illness and injuries associated with these hazards, with an emphasis on vulnerable populations (e.g., children, senior citizens);

(e) Analysis of existing data or generation of new data to improve knowledge regarding the prevalence and severity of specific hazards in various classes of housing, with a focus on low-income housing. Specific examples include:

(i) The prevalence of carbon monoxide and other indoor air quality hazards;

(ii) The prevalence and patterns of moisture problems and biological contaminants associated with excess moisture (e.g., mold, bacteria, dust mites);

(iii) The prevalence of specific childhood injury hazards in housing; and

(iv) Improved understanding of the relationship between a residential exposure and illness or injury of children or other vulnerable populations. Applicants that propose this type of study should discuss how the knowledge that is gained from the study could be used in a program to reduce these hazards in target communities.

(f) Low-cost analytical techniques and instruments for the rapid, on- and off-site determination of environmental contaminants of concern (e.g., bioaerosols, pesticides, allergens). HUD's primary interest is in the improvement of existing instruments or methods, and not in the development of new technologies or instruments. The OHHLHC has noted that these types of studies pose a high risk of experiencing significant delays. Applicants seeking to develop new technologies/instruments should discuss why, if funded, their proposed project would be unlikely to experience significant delays in its completion.

(2) HUD is particularly interested in the following topics:

(a) Improving or assessing the efficacy of current methods for residential Integrated Pest Management (IPM). IPM focuses on approaches for managing pests which incorporate information on the life cycles of pests and their interaction with the environment, while minimizing hazards to people, property, and the environment. HUD is particularly interested in IPM methods for reducing cockroach and/or rodent populations in multifamily housing, with an emphasis on low-income housing;

(b) Controlling excess moisture by reducing migration through the building envelope and condensation of water vapor on interior surfaces, with an emphasis on low-cost interventions for low-income housing;

(c) Improving indoor air quality, such as through cost-effective approaches to upgrading residential ventilation or improving control/management of combustion appliances. Applicants should discuss how proposed approaches might affect residential energy consumption and/or costs (e.g., increasing air exchange rates resulting in an increase in heating and cooling costs) and how significantly increased energy consumption and/or costs can be avoided or mitigated;

(d) Dust control measures (e.g., preventing track-in of exterior dust and soil, improved methods for interior dust cleaning) have been identified as key areas in the HHI Preliminary Plan;

(e) Improving understanding of the potential effects of residential construction and rehab practices using “green principles” on indoor air quality and resident health;

(f) Evaluating the effectiveness of education and outreach methods designed to provide at-risk families with the knowledge to adopt self-protective behaviors with respect to housing-related health hazards. If you propose a study in this focus area you should cite and discuss the theoretical basis for the education/outreach approach that you are proposing;

(g) Other Focus Areas that are Consistent with the Overall Goals of HUD's Healthy Homes Technical Studies Program. HUD will consider funding applications for technical studies on other topics that are consistent with the overall goals and objectives of the Healthy Homes Technical Studies program, as described above. In such instances, for an applicant to receive an award, it is necessary that the applicant describe in sufficient detail how the proposed study is consistent with the overall program goals and objectives.

(3) General Information. In proposing to conduct a study on a particular topic, applicants should consider:

(a) The “fit” of the proposed hazard assessment and/or control methods within the overall goal of addressing “priority” health and safety hazards in a cost-effective manner;

(b) The likely efficacy of the proposed methods for hazard control and risk reduction (e.g., how long is effective hazard reduction maintained);

(c) Where and how these methods would be applied and tested, and/or perform demonstration activities; and

(d) The degree to which the study will help develop practical, widely applicable methods and protocols or improve our understanding of a residential health hazard.

Applications for a study for which the sole or primary focus is on lead-based paint hazards are ineligible for funding under the Healthy Homes Technical Studies program. Such studies should be submitted for funding under the Lead Technical Studies Program.

Applicants should consider the efficiencies that might be gained by working cooperatively with one or more recipients of HUD's Healthy Homes Demonstration and/or Lead Hazard Control grants, which are widely distributed throughout the United States. Information on current grantees is available at http://www.hud.gov/offices/lead.

You may address one or more than one of the above technical studies topic areas within your proposal, or submit separate applications for different topic areas.

Note: A limited amount of hazard control activities, which involve construction rather than research, may be conducted as part of a Healthy Homes Technical Studies project (see Section IV.E.9 of this NOFA).

2. Threshold Requirements Applicable to All Applicants

To receive an award of funds from HUD, you must meet all the threshold requirements in the General Section.

3. Program Requirements

The following requirements are applicable to both the Healthy Homes Technical Studies and Lead Technical Studies Programs:

a. Program Performance. Grantees shall take all reasonable steps to complete all activities within the approved period of performance. HUD reserves the right to terminate the cooperative agreement prior to the expiration of the period of performance if the grantee fails to make reasonable progress in implementing the approved program of activities or fails to comply with the terms of the cooperative agreement.

b. Regulatory Compliance. Grantees must comply with all relevant federal, state, and local regulations regarding exposure to and proper disposal of hazardous materials.

c. Blood Lead Testing. Any blood lead testing, blood lead level test results, medical referral, or follow-up for children under 6 years of age must be conducted according to the recommendations of the Centers for Disease Control and Prevention (CDC), Preventing Lead Poisoning in Young Children (see Appendix B of this NOFA).

d. Restricted Use of Funds. HUD technical studies grant funds will not replace existing resources dedicated to any ongoing project.

e. Laboratory Analysis for Lead. Laboratory analysis covered by the EPA's National Lead Laboratory Accreditation Program (NLLAP) must be conducted by a laboratory recognized under the program.

f. Laboratory Analysis for Mold. Samples to be analyzed for mold (fungi) must be submitted to a laboratory accredited through the Environmental Microbiological Laboratory Accreditation Program (EMLAP), administered by the American Industrial Hygiene Association (AIHA).

g. Human Research. Human research subjects will be protected from research risks in conformance with Federal Policy for the Protection of Human Subjects, required by HUD at 24 CFR 60.101, which incorporates the Department of Health and Human Services (DHHS) Protection of Human Subjects regulation at 45 CFR part 46.

h. OSHA Compliance. The requirements of the Occupational Safety and Health Administration (OSHA) (e.g., 29 CFR part 1910 and/or 1926, as applicable) or the state or local occupational safety and health regulations, whichever are most stringent, will be met.

i. Civil Rights. The institution administering the grant must meet the civil rights threshold set forth in the General Section.

j. Disclosure. All test results and other information in pre-1978 housing related to lead-based paint or lead-based paint hazards must be provided to the owner of the unit, together with a statement describing the owner's legal duty to disclose the knowledge of lead-based paint and its hazards to tenants (before initial leasing, or before lease renewal with changes) and buyers (before sale) (24 CFR part 35, subpart A). Disclosure of other identified housing-related health or safety hazards to the owner of the unit, for purposes of remediation, is encouraged but not required.

k. Privacy. Submission of any information to databases (whether Web site, computer, paper, or other format) of addresses of housing units identified, treated or cleared under these studies is subject to the protections of the Privacy Act of 1974, and shall not include any personal information that could identify any child affected. You should also check to ensure you meet state and local privacy regulations.

l. Applicants must incorporate meaningful community involvement into any study that requires a significant level of interaction with a community during implementation (e.g., projects being conducted within occupied dwellings or which involve surveys of community residents). The term community refers to a variety of populations comprised of persons who have commonalities that can be identified (e.g., based on geographic location, ethnicity, health condition, common interests). Applicants should identify the community that is most relevant to their particular project. There are many different approaches to involving the community in the conception, design, and implementation of a study and the subsequent dissemination of findings. Examples include but are not limited to: establishing a structured approach to obtain community input and feedback (e.g., through a community advisory board); including one or more community-based organizations as study partners; employing community residents to recruit study participants and collect data; and enlisting the community in the dissemination of findings and translation of results into improved policies and/or practices. A discussion of community involvement in research involving housing-related health hazards can be found in Chapter 5 of the Institute of Medicine publication titled “Ethical Considerations for Research on Housing-Related Health Hazards Involving Children” (see Appendix B for more information on this report).

m. Economic Opportunities for Low- and Very Low-Income Persons (Section 3). This program is subject to the requirements of Section 3 of the Housing and Urban Development Act of 1968 (12 U.S.C. 1701u). Section 3 requires recipients to ensure that, to the greatest extent feasible, training, employment, and other economic opportunities will be directed to low- and very low-income persons, particularly those who are recipients of government assistance for housing, and to businesses which provide economic opportunities to low- and very low-income persons. The regulations are found at 24 CFR part 135.

n. Standardized Dust Sampling Protocol and Quality Control Requirements. Grantees collecting samples of settled dust from participant homes for environmental allergen analyses (e.g., cockroach, dust mite) will be required to use a standard dust sampling protocol, unless there is a strong justification to use an alternate protocol (e.g., the study involves the development of an alternative sampling method). The HUD protocol can be found on the OHHLHC Web site under “Grantee Resources” at http://www.hud.gov/offices/lead/hhi/hhts.cfm. Grantees conducting these analyses will also be required to include quality control dust samples, provided by OHHLHC at no cost to the grantee, with the samples that are submitted for laboratory analyses. For the purpose of budgeting laboratory costs, you should assume that 5 percent of your total allergen dust samples will consist of Quality Control samples.

o. Requirements for peer review of scientific data in accordance with the Office of Management and Budget Information Quality Guidelines. All HUD-sponsored research is subject to the OMB Final Information Quality Bulletin for Peer Review (70 FR 2664-2677, January 14, 2005) prior to its public dissemination. In accordance with paragraph II.2 of the Bulletin, HUD will not need further peer review conducted on information that has already been subjected to adequate peer review.

4. DUNS Requirement

Refer to the General Section for information regarding the DUNS requirement. A DUNS number must be provided for the institution that is submitting an application. Your DUNS number must be included in your electronic application submission. Be sure to use the DUNS number that you use to register as an Authorized Organization Representative (AOR) with Grants.gov. Be sure that your eBusiness Point of Contact has authorized you to submit an application on behalf of the applicant organization (see the General Section for details about the Grants.gov registration process).

IV. Application and Submission Information

If you are interested in applying for funding under this program, please review carefully the General Section and the following additional information.

A. Addresses To Request Application Package

All applications must be submitted electronically. The information required to submit an application is contained in the program section of this NOFA and the General Section. Applications can be downloaded from the Web at: http://www.grants.gov/applicants/apply_for_grants.jsp. If you have difficulty accessing the information you may call the Grants.gov help line toll-free at (800) 518-GRANTS (4726) from Monday to Friday from 7 a.m. to 9 p.m. eastern time, or send an e-mail to Support@grants.gov.

B. Content and Form of Application Submission

1. Applicant Data. Your application must contain the items listed in this section. These items include the standard forms contained in the General Section that are applicable to this funding announcement (collectively referred to as the “standard forms”). Copies of these forms are available on line at http://www.grants.gov/applicants/apply_for_grants.jsp. The required items are:

a. Application Abstract. An abstract with the project title, the names and affiliations of all investigators, and a summary of the objectives, expected results, and study design (two-page maximum) must be included in the proposal. Information contained in the abstract will not be considered in the evaluation and scoring of your application. Any information you wish to be considered should be provided under the appropriate rating factor response.

b. All forms as required by the General Section. However, forms HUD-2991 (Certification of Consistency with the Consolidated Plan) and HUD-27061 (Race and Ethnicity Data) are not required with the application for these programs.

c. Materials Submitted. A project description/narrative statement addressing the rating factors for award under the program (Lead Technical Studies or Healthy Homes Technical Studies) for which you are applying. The narrative statement must be identified in accordance with each factor for award (Rating Factors 1 through 5). Number the pages of your narrative statement. The project description or narrative must be included in the responses to the rating factors. The response to the rating factors should not exceed a total of 25 pages, single-sided, with a minimum 12-point font and a minimum margin width of 1-inch. Any pages in excess of this limit will not be read. The points you receive for each rating factor will be based on the portion of your narrative statement that you submit in response to that particular factor, supplemented by any appendices that are referenced in your narrative response to the rating factor. Supporting materials that are not referenced or discussed in your responses to the individual rating factors will not be considered. Additional materials (e.g., appendices) must be submitted with your application according to the directions in the General Section. The footer on the pages of these materials should identify the rating factor that they are supporting.

d. Supporting Materials. Include the resumes of the principal investigator and other key personnel and other materials that are needed in your response to the rating factors (e.g., organizational chart, letters of commitment, a list of references cited in your responses to the rating factors). Each resume shall not exceed three pages, and is limited to information that is relevant in assessing the qualifications and experience of key personnel to conduct and/or manage the proposed technical studies. This information will not be counted towards the Rating Factors narrative 25-page limit.

e. Additional Information. Submit other optional information provided in support of your application following the directions in the General Section. These additional optional materials must not exceed 20 pages. Any pages in excess of this limit will not be read. Do not include additional narrative information that is an extension of or expands upon any of your rating factor responses. Such narrative will not be considered.

f. Budget. Include a total budget with supporting cost justification up to four pages, which will cover all budget categories of the federal grant request. This information will not be counted towards the Rating Factors narrative 25-page limit. Use the budget format discussed in Rating Factor 3, Section V.A.3.c, below. In completing the budget forms and justification, you should address the following elements:

(1) Direct Labor costs, including all full- and part-time staff required for the planning and implementation phases of the project. These costs should be based on full-time equivalent (FTE) or hours per year (hours/year) (i.e., one FTE equals 2,080 hours/year);

(2) Allowance for one trip to HUD Headquarters in Washington, DC, for each year of your grant, planning each trip for two people. The first trip will occur shortly after grant award for a stay of two or three days, depending on your location, and the remaining trips will have a stay of one or two days, depending on your location;

(3) A separate budget proposal for each subrecipient receiving more than 10 percent of the total federal budget request;

(4) Supporting documentation for salaries and prices of materials and equipment, upon request; and

(5) Indirect Cost Rates. Organizations that have a federally negotiated indirect cost rate should use that rate and the appropriate base. The documentation will be verified during award negotiations. Organizations that do not have a federally negotiated rate schedule must obtain a rate from their cognizant federal agency; otherwise the organization will be required to obtain a negotiated rate through HUD.

g. Checklist for Technical Studies Program Applicants

(1) Applicant Abstract (limited to 2 pages).

(2) Rating Factor Responses (Total narrative response limited to 25 pages.).

(a) Capacity of the Applicant and Relevant Organizational Experience (21 points).

(b) Need/Extent of the Problem (15 points).

(c) Soundness of Approach (48 points).

(d) Leveraging Resources (6 points).

(e) Achieving Results and Program Evaluation (10 points).

(f) Bonus Points (RC/EZ/EC-II) (2 points).

(3) Required materials in response to rating factors (does not count towards 25-page limit).

(a) Resumes of Key Personnel (limited to 3 pages per resume-please do not include Social Security Numbers on Resumes).

(b) Organizational Chart.

(c) Letters of Commitment (if applicable)—Letters of commitment should include language defining the activities to be performed, the contributions to be made, and the monetary value of each. Note: HUD recommends against including letters of support that do not commit services, materials, or funds; they will not add to the consideration of your application.

(4) Optional material in support of the Rating Factors (20 page limit).

(5) Required Forms and Budget Material.

(a) Form SF 424 (Application for Federal Assistance).

(b) Form HUD-424-CBW (Budget Worksheet).

(c) Budget narrative.

(d) Form HUD-96010 (Program Outcome Logic Model Form).

(e) Form SF-424 Supplement (Survey on Ensuring Equal Opportunities for Applicants) (“Faith Based EEO Survey (SF-424 SUPP)” on Grants.gov) (to be completed by private nonprofit organizations only).

(f) Form SF LLL (Disclosure of Lobbying Activities, if applicable).

(g) Form HUD-2880 (Applicant/Recipient Disclosure/Update Report) (“HUD Applicant Recipient Disclosure Report” on Grants.gov).

(h) Form HUD-2990 (Certification of Consistency with the RC/EZ/EC-II Strategic Plan, required only for applicants who are seeking these 2 bonus points).

(i) Form HUD-2994-A (You Are Our Client! Grant Applicant Survey, Optional).

(j) Form HUD-27300 (Questionnaire for HUD's Removal of Regulatory Barriers) (“HUD Communities Initiative Form” on Grants.gov) including the required information (required only if applicant is seeking points regarding removal of regulatory barriers.).

(k) Form HUD-96011 (Third Party Documentation Facsimile Transmittal) (“ Facsimile Transmittal Form” on Grants.gov) (Used as the cover page to transmit third party documents and other information designed for each specific application for tracking purposes. HUD will not read faxes that do not use the HUD-96011 as the cover page to the fax.).

(l) Form HUD-96012 (Capacity of the Applicant and Relevant Organizational Experience).

(m) Form HUD-96015 (Leveraging Resources).

C. Submission Dates and Times

Electronic applications must be received and validated by Grants.gov on or before 11:59:59 PM eastern time on the application deadline date. Refer to the General Section for submission requirements.

D. Intergovernmental Review

This NOFA is excluded from the requirement of an Intergovernmental Review.

E. Funding Restrictions

1. Administrative Costs. There is a 10 percent maximum allowance for administrative costs. Detailed explanations of indirect and administrative costs are provided in applicable OMB Circulars (A-21—Cost Principles for Educational Institutions, A-87—Cost Principles for State, Local, and Indian Tribal Governments, or A-122—Cost Principles for Nonprofit Organizations) that can be accessed at the White House Web site, http://www.whitehouse.gov/omb/circulars/index.html.

2. Indirect Costs. Please see http://www.hud.gov/offices/adm/grants/fundsavail.cfm for reference to the Indirect Cost requirements.

3. Purchase of Real Property. The purchase of real property is not an allowable cost under either program.

4. Purchase or Lease of Equipment. The purchase or lease of equipment having a per unit cost in excess of $5,000 is not an allowable cost, unless prior written approval is obtained from HUD.

5. Medical treatment. Medical treatment costs are not allowable under this program.

6. Profit. For profit institutions are not allowed to earn a profit.

7. You must comply with the Coastal Barrier Resources Act (16 U.S.C. 3501).

8. You may not conduct lead-based paint or healthy home hazard control activities or related work that constitutes construction, reconstruction, repair or improvement (as referenced in Section 3(a)(4) of the Flood Disaster Protection Act of 1973 (42 U.S.C. 4001-4128)) of a building or mobile home which is located in an area identified by the Federal Emergency Management Agency (FEMA) as having special flood hazards unless:

a. The community in which the area is situated is participating in the National Flood Insurance Program in accordance with the applicable regulations (44 CFR parts 59-79), or less than a year has passed since FEMA notification regarding these hazards; and

b. Where the community is participating in the National Flood Insurance Program, flood insurance on the property is obtained in accordance with section 102(a) of the Flood Disaster Protection Act (42 U.S.C. 4012a(a)). You are responsible for assuring that flood insurance is obtained and maintained for the appropriate amount and term.

9. Construction activities. The amount of HUD Lead Technical Studies grant funds used for lead-based paint hazard control activities may not exceed 20% of the total HUD funds awarded. The amount of HUD Healthy Homes Technical Studies grant funds used for construction activities may not exceed 40% of the total HUD funds awarded. Furthermore, the majority of any funds dedicated to Healthy Homes construction activities shall be spent for interventions not intended for lead hazard control.

F. Other Submission Requirements

Applicants are required to submit applications electronically via the Web site http://www.grants.gov/applicants/apply for grants.jsp. See sections IV.B and F of the General Section for additional information on the electronic process and how to request a waiver from the requirement if necessary. Applicants should submit their waiver requests in writing using e-mail. Waiver requests must be submitted no later than 15 days prior to the application deadline date and should be submitted to Ms. Jonnette Hawkins at: Jonnette.G.Hawkins@hud.gov.

Instructions regarding the number of copies to submit and to what address will be contained in the approval to the waiver request. Paper submissions must be received at the appropriate HUD office(s) no later than the deadline date.

V. Application Review Information

A. Criteria

1. Threshold Requirements. Applications that meet all of the threshold requirements will be eligible to be scored and ranked, based on the total number of points allocated for each of the rating factors described in Section V.A.3 of this NOFA. Your application must receive a total score of at least 75 points to be considered for funding.

2. Award Factors. Each of the five factors is weighted as indicated by the number of points that are assigned to it. The maximum score that can be attained is 102 points, including a possible 2 bonus points. Applicants should be certain that each of these factors is adequately addressed in the project description and accompanying materials. To the extent feasible, include all of the needed information within your response to each rating factor. If your response to a particular rating factor cites information provided in your response to another rating factor, clearly indicate where the information is located so that the reviewer can easily locate it.

3. Rating Factors.

a. Rating Factor 1: Capacity of the Applicant and Relevant Organizational Experience (21 Points). This factor addresses the extent to which you have the ability and organizational resources necessary to successfully implement your proposed activities in a timely manner. The rating of your application will include any sub-grantees, consultants, sub-recipients, and members of consortia that are firmly committed to the project (generally, “subordinate organizations”). In rating this factor, HUD will consider the extent to which your application demonstrates:

(1) The capability and qualifications of key and supporting personnel (14 points). HUD will assess the qualifications of key personnel to carry out the proposed study as evidenced by academic and professional background, publications, and recent (within the past 10 years) research experience. Publications and/or research experience are considered relevant if they required the acquisition and use of knowledge and skills that can be applied in the planning and execution of the technical study that is proposed under this NOFA. HUD will also evaluate the qualifications of supporting personnel such as statisticians and research assistants. Partner organizations will also be evaluated with respect to their qualifications and capabilities to successfully implement their proposed project roles. In responding to this rating factor, you should complete and submit Form HUD-96012 (Capacity of the Applicant and Relevant Organizational Experience). Please do not include the Social Security Numbers (SSN) of any staff members.

(2) Past performance of the study team in managing similar projects (7 points). HUD will evaluate your demonstrated ability to successfully manage various aspects (e.g., personnel management, data management, quality control, reporting) of a complex technical study, as well as your overall success in completing projects on time and within budget. If applicable, provide the number and title of any past OHHLHC grants and describe the outcomes of those grants and your organization's performance in their implementation (e.g., whether they were completed on time and within budget). Also, describe the past performance of the organization (applicant and/or partners) on other projects related to residential environmental health and safety research, or other relevant experience. Provide details about the nature of the project, the funding organization, and your performance (e.g., timely completion, achievement of desired outcomes). You should also discuss the degree to which the results from past research have been used to develop new or improved methods or tools for residential hazard assessment or control. If your organization has an active OHHLHC grant or cooperative agreement, provide a description of the progress and outcomes achieved under that award.

If you completed one or more HUD-funded Technical Studies grants, your performance will be evaluated in terms of achievements made under the previous grant(s). If you have completed a previous HUD-funded Technical Studies grant but have not published the study results in a peer-reviewed scientific journal, explain why the results have not been published.

b. Rating Factor 2: Need/Extent of the Problem (15 Points). This factor addresses the extent to which there is a need for your proposed technical study. In responding to this factor, you should document in detail how your project will make a significant contribution towards achieving some or all of HUD's stated goals and objectives for one or more of the topic areas described in Section I.B.1.a (Lead Technical Studies) or I.B.1.b (Healthy Homes Technical Studies), as appropriate for the program to which you are applying. For example, you should demonstrate how your proposed study addresses a need with respect to the development of improved methods for the assessment and control of residential lead-based paint hazards or addresses a need associated with an important housing-related health hazard, with an emphasis on the health of children and other sensitive populations such as seniors. This is especially important for applicants that are proposing to study a lead or healthy homes topic that is not highlighted as a priority area by HUD in section III.C of this NOFA. Specific topics to be addressed for this factor include (five points for each item):

(1) A concise review of the research need that is addressed in your study and why it is high priority with respect to the program. Identify which goals and objectives are addressed by the proposed study. For Healthy Homes Technical Studies applicants that are conducting research with households in targeted communities, include available documented rates of illness or injury associated with the hazard or hazards that you are addressing within that community. Data should be provided for the relevant geographic area(s) (e.g., local, regional, state level), depending upon availability. Similarly, Lead Technical Studies applicants should provide data on the prevalence of lead-based hazards and/or elevated blood-lead levels among households in targeted neighborhoods, if applicable.

(2) A discussion of how your proposed project would significantly advance the current state of knowledge for your focus area. You should make clear how your proposed study would effectively build upon the current body of knowledge, especially the peer-reviewed literature.

(3) A discussion on how you anticipate your study findings will be used to improve current methods for assessing or mitigating the hazards under study. Indicate why the method/protocol that would be improved through your study would likely be widely adopted (e.g., low cost, easily replicated, lack of other options).

c. Rating Factor 3: Soundness of Approach (48 Points). This factor addresses the quality of your proposed technical study plan. Specific components include:

(1) Soundness of the study design (26 points). Clearly and thoroughly describe the design of your proposed study and identify the major objectives. If possible, your study should be designed to address testable hypotheses that are clearly stated. The study should be presented as a logical sequence of steps or phases with individual tasks described for each phase. Include an organizational chart in the material supporting your response to this rating factor. Your narrative should reflect the relevant scientific literature, which should be thoroughly cited in your application. Your proposed study will be judged in part on the soundness of the underlying body of research upon which it is based (e.g., is it based upon well-understood or poorly-understood associations from previous epidemiological studies?) and the clarity and soundness of your interpretation and summarization of this research base. Describe the statistical basis for your study design and demonstrate that you would have adequate statistical power to test your stated hypotheses and achieve your study objectives. You should identify any important “decision points” in your study plan and you should discuss your plans for data management, analysis and archiving. You should demonstrate that it is clearly feasible to complete the study within the proposed period of performance and successfully achieve your objectives. HUD has observed that studies can miss targeted performance timelines because of delays in the IRB approval process or unexpected difficulties with recruiting study participants, and delays in developing new laboratory methods or instruments. If applicable, describe actions that you will take to minimize the possibility that your study would experience delays in these areas (e.g., understanding likely IRB requirements in advance, planning on additional avenues for recruitment of participants, initiating the development of new methods/instruments).

If you are proposing to conduct a study that includes a significant level of community interaction (e.g., studies involving participant recruitment, survey research, environmental sampling on private property), describe your plan for meaningful involvement of the affected community in your proposed study. You should define the community of interest with respect to your proposed study and discuss why and how your proposed approach to community involvement will make a meaningful contribution to your study and to the community.

(2) Policy Priorities (5 points). Indicate if your proposed study will address any of the FY 2008 policy priorities that are applicable to this NOFA (see the General Section for additional details regarding these policy priorities). You will receive one point under Rating Factor 3(2) for each of the applicable FY 2008 policy priorities that are found in the General Section and applicable to the Technical Studies NOFA that are adequately addressed in your application, with the exception of “Removal of Barriers to Affordable Housing,” for which you can receive up to two points (see the General Section). Policy priorities that are applicable to the Technical Studies NOFA are: (1) Improving our Nation's Communities (focus on distressed communities); (2) Providing Full and Equal Access to Grass-Roots Faith-based and other Community-based Organizations in HUD Program Implementation; (3) Participation of Minority-Serving Institutions in HUD Programs, and (4) Removal of Barriers to Affordable Housing.

Removal of Regulatory Barriers to Affordable Housing, which is worth up to 2 points provided the applicant includes a narrative response and submits the required documentation as described in Form HUD-27300 for this policy priority. Instead of submitting the documentation, applicants may provide a Web site address where the documentation can be readily found.

(3) Quality assurance mechanisms (7 points). You must describe the quality assurance mechanisms that will be integrated into your project design to ensure the accuracy, validity and quality of the results. Applicants that receive awards will be required to submit a Quality Assurance Plan to HUD. You should plan for this and include Quality Assurance activities in your study work plan. The Office of Management and Budget paperwork approval for the Quality Assurance Plan template for this program is currently pending.

(a) Discuss the major quality assurance mechanisms that are relevant for your proposed study. Examples of quality assurance mechanisms include, but are not limited to: Procedures for selection of samples/sample sites, sample handling, use of quality control samples, validating the accuracy of instrumentation, measures to ensure accuracy during data management, staff training, and final validation of your dataset. If applicable, documents (e.g., government reports, peer-reviewed academic literature) that provide the basis for your quality assurance mechanisms should be cited. Also, identify members of the study team who will have primary responsibility for drafting and ensuring compliance with the Quality Assurance Plan. Your application will be rated on the thoroughness, clarity, and validity of your proposed quality assurance activities, and their appropriateness for ensuring the validity and quality of the data.

(b) For the collection of data using instruments, such as surveys and visual assessment tools, describe the procedures that you will follow to ensure accurate data capture and transfer (e.g., transfer of data from the field to a database). Also, describe any research done (or planned) to validate the instrument.

(c) Institutional Review Boards. In conformance with the Common Rule (Federal Policy for the Protection of Human Subjects, codified by HUD at 24 CFR 60.101, which incorporates the DHHS regulation at 45 CFR part 46), if your research involves human subjects, your organization must provide proof (e.g., a letter signed by an appropriate official) that the research has been reviewed and approved by an Institutional Review Board (IRB) before you can initiate activities that require IRB approval. Before initiating such activities you must also provide the number for your organization's assurance (i.e., an “institutional assurance”) that has been approved by the DHHS's Office for Human Research Protections (OHRP).

You do not have to provide proof of IRB approval with your application. If you do not have IRB approval yet, you should address how you will obtain such approval. Describe how you will obtain informed consent (e.g., from the subjects, their parents or their guardians, as applicable) and discuss the steps you will take to help ensure participants' understanding of the elements of informed consent, such as the purposes, benefits and risks of the research. Describe how this information will be provided and how the consent will be collected. For example, describe your use of “plain language” forms, flyers and verbal scripts, and how you plan to work with families with limited English proficiency or primary languages other than English, and with families including persons with disabilities. For additional information on what constitutes human subject research or how to obtain an institutional assurance see the OHRP Web site at http://www.hhs.gov/ohrp/.

(4) Project management plan (5 points). The proposal should include a management plan that provides a schedule for the clear and expeditious completion of major tasks, with associated benchmarks and major study milestones, and major deliverables. If your application includes multiple organizations, you should identify the organization/person that has primary responsibility for completion of each of the major study tasks. The major tasks and benchmarks/deliverables identified in the management plan should be consistent with those identified in the Logic Model (see description under Rating Factor 5). You should include plans for preparation of one or more articles for publication in peer-reviewed academic journals and submission of the draft(s) to the journal(s) after HUD acceptance. The final deliverable can be submitted to HUD during the agreed upon period of performance or during the 90-day closeout period following award expiration.

(5) Budget Proposal (5 points).

(a) Your budget proposal should thoroughly estimate all applicable direct and indirect costs, and be presented in a clear and coherent format in accordance with the requirements listed in the General Section. HUD is not required to approve or fund all proposed activities. You must thoroughly document and justify all budget categories and costs (Form HUD-424-CBW) and all major tasks, for yourself, sub-recipients, major subcontractors, joint venture participants, or others contributing resources to the project. A separate budget must be provided for partners who are proposed to receive more than 10 percent of the federal budget request. Your application will be evaluated on the extent to which your resources are appropriate for the scope of your proposed study.

(b) Your narrative justification associated with these budgeted costs should be submitted as part of the Total Budget (Federal Share and Matching), but is not included in the 25-page limit for this submission. Separate narrative justifications should be submitted for partners that are submitting separate budgets.

(c) The application will not be rated on the proposed cost; however, cost will be considered in addition to the rated factors to determine the proposal most advantageous to the Federal Government. Cost will be the deciding factor when proposals ranked under the listed factors are considered acceptable and are substantially equal.

d. Rating Factor 4: Leveraging Resources (6 Points)

This factor addresses your ability to obtain other resources that can be combined with HUD's project funding to increase the effectiveness of the proposed study. Your proposal should demonstrate that the effectiveness of HUD's Technical Studies grant funds is being increased by securing other public and/or private resources or by structuring the project in a cost-effective manner, such as integrating the project into an existing study (either funded by HUD or another source) that will be concurrent with your proposed study. Contributed resources must be shown to be specifically dedicated to and integrated into supporting study activities. Resources may include funding or in-kind contributions (such as direct labor, specialized facilities) allocated to the purpose(s) of your project. Staff and in-kind contributions should be assigned a monetary value. In assigning points for this factor, HUD will consider the significance of the leveraging in the context of the amount of federal funds that you are requesting. Applicants proposing to contribute resources valued at 10% or more of the federal funds requested will receive the most points.

You should provide evidence of leveraging/partnerships by submitting: letters of firm commitment, memoranda of understanding, and/or agreements to participate from those entities identified as partners in the project efforts. Each document must include the organization's name, proposed level of commitment (with monetary value) and responsibilities as they relate to specific activities or tasks of your proposed program. The commitment must also be signed by an official of the organization legally able to make commitments on behalf of the organization. Simple letters that only indicate support of the proposed study are not sufficient. In responding to this rating factor, you should complete and submit Form HUD-96015 (Leveraging Resources).

e. Rating Factor 5: Achieving Results and Program Evaluation (10 Points). This factor emphasizes HUD's commitment to ensuring that applicants keep promises made in their applications and assess their performance to ensure performance goals are met. Achieving results requires that you have clearly identified the expected outcomes of your project and interim performance measures for measuring progress in achieving the desired outcomes. Outcomes are ultimate goals. Benchmarks or outputs are interim activities or products that lead to the ultimate achievement of your goals.

Project evaluation requires that you identify program outcomes, interim products or benchmarks, and indicators that will allow you to measure your performance. Performance indicators should be objectively quantifiable and measure actual achievements against identified goals. You should also identify important study milestones (e.g., the end of specific phases in a multiphase study, recruitment of study participants, developing a new analytical protocol), which should also be clearly indicated in your study timeline. If appropriate, you can refer to the benchmarks and milestones identified in the management plan that you provide as part of your response to Rating Factor 3, providing additional explanation, as necessary. In your response you should also identify potential obstacles in meeting your study objectives and related performance measures and discuss steps you would take to respond to these obstacles.

This rating factor reflects HUD's goal to embrace high standards of ethics, management and accountability. In evaluating this factor, HUD will consider how you have described the procedures you will follow to have reliable outcome measures and performance, so that the project will be recognized as being of high quality that provides benefits to the community.

In your response to this Rating Factor, discuss the performance goals for your project and identify specific outcome measures. Describe how the outcome information will be obtained, documented, and reported. You must complete and return the eLogic Model TM Form HUD-96010 included with the download instructions found as part of the application at http://www.grants.gov/applicants/apply_for_grants.jsp. You must show your proposed project short-term, intermediate-term, long-term and final results. Instructions on the Logic Model are contained in the General Section and in Tab 1 of the electronic form. The form features drop down menus from which to select and construct the Logic Model response relevant to your proposal.

f. Bonus Points (2 points). Applicants are eligible to receive up to two bonus points for projects located within federally designated Renewable Communities (RCs), Empowerment Zones (EZs), or Enterprise Communities (ECs) designated by USDA in round II (EC-IIs) (collectively referred to as RC/EZ/EC-IIs), and which will serve the residents of these communities (see the General Section). In order to be eligible for these bonus points, applicants must meet the requirements of the General Section and submit a completed form HUD-2990, with descriptive language in the budget discussion describing the actual work that is to be done in these communities.

B. Review and Selection Process

1. Corrections To Deficient Applications. The General Section provides the procedures for correcting deficient applications.

2. Rating and Ranking. Awards will be made in rank order for each type of Technical Studies Program applications (Lead or Healthy Homes), within the limits of funding availability for the program.

a. Partial Funding. In the selection process, HUD reserves the right to offer partial funding to any or all applicants. If you are offered a reduced grant amount, you will have a maximum of 14 calendar days to accept such a reduced award. If you fail to respond within the 14-day limit, you shall be considered to have declined the award.

b. Remaining Funds. See the General Section for HUD's procedures if funds remain after all selections have been made within either type of Technical Studies Program.

VI. Award Administration Information

A. Award Notices

1. Notice of Award. Applicants who have been selected for award will be notified by letter from the Office of Healthy Homes and Lead Hazard Control Grant Officer. The letter will state the program for which the application has been selected, the amount the applicant is eligible to receive, and the name of the Government Technical Representative (GTR). This letter is not an authorization to begin work or incur costs under the award. An executed cooperative agreement is the authorizing document.

HUD may require that all the selected applicants participate in negotiations to determine the specific terms of the cooperative agreement, budget, and Logic Model. If you accept the terms and conditions of the cooperative agreement, you must return your signed cooperative agreement by the date specified during negotiation. In cases where HUD cannot successfully conclude negotiations with a selected applicant or a selected applicant fails to provide HUD with requested information, an award will not be made to that applicant. In this instance, HUD may offer an award, and proceed with negotiations with the next highest-ranking applicant. Applicants should note that, if they are selected for multiple OHHLHC awards, they must ensure that they have sufficient resources to provide the promised leveraging for the multiple awards. During negotiations, applicants selected for multiple awards will be required to provide alternative leveraged resources, if necessary, before the grant can be awarded. This is required in order to avoid committing duplicate leveraged resources to more than one OHHLHC grant.

Awardees will receive additional instructions on how to have the grant account entered into HUD's Line of Credit Control System (LOCCS) payment system or its successor will be provided. Other forms and program requirements will also be provided.

In accordance with OMB Circular A-133 (Audits of States, Local Governments and Non-Profit Organizations), grantees expending $500,000 in Federal funds within a program or fiscal year must submit their completed audit-reporting package along with the Data Collection Form (SF-SAC) to the Single Audit Clearinghouse, the address can be obtained from their Web site. The SF-SAC can be downloaded at http://harvester.census.gov/sac/.

2. Debriefing. The General Section provides the procedures applicants should follow for requesting a debriefing.

B. Administrative and National Policy Requirements

1. Environmental Requirements.

a. Eligible Construction and Rehabilitation Activities.

(1) A Technical Studies award does not constitute approval of specific sites where activities that are subject to environmental review may be carried out. Recipients conducting eligible construction and rehabilitation activities must comply with 24 CFR part 58, “Environmental Review Procedures for Entities Assuming HUD Environmental Responsibilities”. Recipients that are States, units of general local government or Indian tribes must carry out environmental review responsibilities as a responsible entity under part 58. Where the recipient is not a State, unit of general local government or Indian tribe, a responsible entity, usually the unit of general local government or Indian tribe, must assume the environmental review responsibilities for construction or rehabilitation activities funded under this NOFA. Under 24 CFR 58.11, where the recipient is not a State, unit of general local government or Indian tribe, if a responsible entity objects to performing the environmental review, or the recipient objects to the responsible entity performing the environmental review, HUD may designate another responsible entity to perform the review or may perform the environmental review itself under the provisions of 24 CFR part 50. In such cases, following grant award execution, HUD will be responsible for ensuring that any necessary environmental reviews are completed. See paragraph (2) below for additional assistance.

(2) For all grants under this NOFA, recipients and other participants in the project are prohibited from undertaking, or committing or expending HUD or non-HUD funds (including HUD leveraged funds) on, a project or activities under this NOFA (other than activities listed in 24 CFR 58.34, 58.35(b) or 58.22(f)) until the responsible entity completes an environmental review and the applicant submits and HUD approves a Request for the Release of Funds and the responsible entity's environmental certification (both on form HUD-7015.15) or, in the case where the recipient is not a State, unit of general local government or Indian tribe and HUD has determined to perform the environmental review under part 50, HUD has completed the review and notified the grantee of its approval. The results of the environmental reviews may require that proposed activities be modified or proposed sites rejected. For Part 58 procedures, see http://www.hud.gov/offices/cpd/environment/index.cfm. For assistance, contact Edward Thomas, the Office of Healthy Homes and Lead Hazard Control Environmental Officer at (215) 861-7670 (this is not a toll free-number) or the HUD Environmental Review Officer in the HUD Field Office serving your area. If you are a hearing-or speech-impaired person, you may reach the telephone number via TTY by calling 1-800-877-8339. Recipients of a grant under these funded programs will be given additional guidance in these environmental responsibilities. b. All other activities not related to construction and rehabilitation activities are categorically excluded under 24 CFR 50.19(b)(1), (3), and (9) from the requirements of the National Environmental Policy Act of 1969 (42 U.S.C. 4321) and are not subject to environmental review under the related laws and authorities.

2. Conducting Business in Accordance with HUD Core Values and Ethical Standards. If awarded assistance under this NOFA, prior to entering into a cooperative agreement with HUD, you will be required to submit a copy of your code of conduct and describe the methods you will use to ensure that all officers, employees, and agents of your organization are aware of your code of conduct. See the General Section for information about conducting business in accordance with HUD's core values and ethical standards.

3. Participation in HUD-Sponsored Program Evaluation. See the General Section.

4. Removal of Barriers to Affordable Housing. See the General Section.

5. HUD Reform Act of 1989. The provisions of the HUD Reform Act of 1989 that apply to this NOFA are explained in the General Section.

6. Executive Order 13202. Compliance with HUD regulations at 24 CFR 5.108 that implement Executive Order 13202, “Preservation of Open Competition and Government Neutrality Towards Government Contractors' Labor Relations on Federal and Federally-Funded Construction Projects”, is a condition of receipt of assistance under this NOFA. Note: This Order only applies to construction work.

7. Procurement of Recovered Materials. See the General Section for information concerning this requirement.

8. Davis-Bacon wage rates. The Davis-Bacon prevailing wage rates do not apply to this program. However, if program funds are used in conjunction with other federal programs in which Davis-Bacon prevailing wage rates apply, then Davis-Bacon provisions would apply to the extent required under the other federal programs.

C. Reporting

1. Post Award Reporting Requirements. Final budget and work plans are due 60 days after the start date.

2. Progress reporting. Progress reporting is required on a quarterly basis. Project benchmarks and milestones will be tracked using a benchmark spreadsheet that uses the benchmarks and milestones identified in the Logic Model form (HUD-96010) approved and incorporated into your award agreement. For specific reporting requirements, see policy guidance at: http://www.hud.gov/offices/lead. For FY 2008, HUD is considering a new concept for the Logic Model. The new concept is a Return on Investment (ROI) statement. HUD will be publishing a separate notice on the ROI concept.

3. Racial and Ethnic Beneficiary Data. HUD does not require grantees to collect racial and ethnic beneficiary data for this program. Grantees conducting studies that do not involve people, such as those confined to the laboratory or certain types of environmental sampling, will not be required to submit Form-27061 to HUD. If, however, racial and ethnic data are collected and reported as part of a study funded under this program NOFA, you must use the Office of Management and Budget's Standards for the Collection of Racial and Ethnic Data as presented on Form HUD-27061, Racial and Ethnic Data Reporting Form (and instructions for its use), found on http://www.hudclips.org/sub_nonhud/html/forms.htm.

4. Final report. The cooperative agreement will specify the requirements for final reporting (e.g., final technical report and final project benchmarks and milestones achieved against the proposed benchmarks and milestones in the Logic Model which was approved and incorporated into your cooperative agreement).

5. Draft scientific manuscript(s). Grantees will be required to complete a minimum of one draft manuscript for publication in a peer-reviewed journal.

VII. Agency Contact(s)

For technical help in downloading an application from Grants.gov or submitting an application via Grants.gov, call the Grants.gov help desk at 800-518-GRANTS (4726). For programmatic questions on the Lead Technical Studies program, you may contact Dr. Robert Weisberg, Office of Healthy Homes and Lead Hazard Control, at (202) 402-7687 (this is not a toll-free number) or via e-mail at Robert.F.Weisberg@hud.gov. For programmatic questions on the Healthy Homes Technical Studies program, you may contact Dr. Peter Ashley, Office of Healthy Homes and Lead Hazard Control, at (202) 402-7595 or via e-mail at Peter.J.Ashley@hud.gov. For grants administrative questions, you may contact Ms. Curtissa L. Coleman, Office of Healthy Homes and Lead Hazard Control, at telephone (202) 402-7580 (this is not a toll-free number) or via e-mail at Curtissa.L.Coleman@hud.gov. If you are a hearing-or speech-impaired person, you may reach the above telephone numbers through TTY by calling the toll-free Federal Information Relay Service at 1-800-877-8339.

VIII. Other Information

A. Other Office of Healthy Homes and Lead Hazard Control Information. For additional general, technical, and grant program information pertaining to the Office of Healthy Homes and Lead Hazard Control, visit http://www.hud.gov/offices/lead.

B. Paperwork Reduction Act. The information collection requirements contained in this document have been approved by the Office of Management and Budget (OMB) under the Paperwork Reduction Act of 1995 (44 U.S.C. 3501-3520) and assigned OMB control number 2539-0015. In accordance with the Paperwork Reduction Act, HUD may not conduct or sponsor, and a person is not required to respond to, a collection of information unless the collection displays a currently valid OMB control number. Public reporting burden for the collection of information is estimated to average 80 hours per respondent for the application and 16 hours to finalize the cooperative agreement. This includes the time for collecting, reviewing, and reporting the data for the application. This information will be used for grantee selection. The reporting burden for completion of the Quality Assurance Plan by applicants who are awarded a grant is estimated at 24 hours per grantee (OMB approval is pending). Response to this request for information is required in order to receive the benefits to be derived.

C. Appendices. Appendices A and B to this NOFA are available for downloading with the application at http://www.grants.gov/applicants/apply_for_grants.jsp.

Lead Outreach Grant Program

Overview Information

A. Federal Agency Name: U.S. Department of Housing and Urban Development, Office of Healthy Homes and Lead Hazard Control (OHHLHC).

B. Funding Opportunity Title: Lead Outreach Grant Program.

C. Announcement Type: Initial announcement.

D. Funding Opportunity Number: The Federal Register number is: FR-5200-N-15. The OMB approval number is 2539-0015.

E. Catalog of Federal Domestic Assistance (CFDA) Number(s): 14.904, Lead Outreach Grant Program.

F. Dates: The application deadline date is July 17, 2008. Applications must be received and validated by Grants.gov no later than 11:59:59 p.m. eastern time on the application deadline date. See Section IV of the General Section, published on March 19, 2008 (73 FR 14882), regarding application submission procedures and timely filing requirements.

G. Additional Overview Information

1. Available Funds. Approximately $1.5 million is available under this program from current and previous years funding.

2. Number and Amount of Awards. Approximately 5 to 8 grants, minimum of $100,000 and maximum of $300,000, will be awarded.

3. Eligible Applicants. Academic and non-profit institutions located in the U.S., state and local governments, and federally recognized Native American tribes are eligible under all existing authorizations. For-profit firms are also eligible; however, they are not allowed to earn a fee (i.e., no profit can be made from the project). Partnerships are encouraged, but a lead applicant must be identified that will be responsible for ensuring compliance with all requirements specified in this NOFA.

4. Matching and Cost Sharing Requirements. There are no matching or cost sharing requirements.

5. Limitations on Applications. Each applicant, partner, sub-contractor and sub-recipient may participate in only one application to the Lead Outreach program.

Full Text of Announcement

I. Funding Opportunity Description

Background information about lead, lead-based paint hazards and other information applicable to this NOFA can be found at: http://www.grants.gov/applicants/apply_for_grants.jsp.

A. Purpose of the Program

The purpose of this Lead Outreach Grant Program is to promote efficient and effective outreach, education, and training for the public concerning the hazards and sources of lead-based paint poisoning, particularly for low-income children, and to reduce or eliminate such hazards.

B. Desired Outcomes

All applicants should direct their proposed activities to achieving the following, especially among at-risk populations.

1. Increase enrollment of low-income units in HUD or other lead hazard treatment programs.

2. Increase number of residents, housing owners, community leaders, maintenance and rehabilitation workers, and other related persons who are aware of and able to identify lead-based paint hazards.

3. Increase number of residents, housing owners, community leaders, maintenance and rehabilitation workers, and other related persons who understand proper lead hazard control methods.

4. Develop easy to use and sustainable systems for reporting and addressing lead hazards.

5. Develop effective partnerships between public and private entities, including grassroots, community-based and faith-based organizations, dedicated to reducing lead hazards.

B. Changes in the FY 2008 Competitive NOFA

Listed below are major changes from the FY 2007 Lead Outreach NOFA:

1. Purpose of program has been expanded.

2. Award amounts have been changed.

3. Type of award instrument has changed from a cooperative agreement to a grant.

4. Current Lead-Based Paint Hazard Control, Lead Hazard Reduction Demonstration, or Operation Lead Elimination Action Program grantees are eligible to apply.

5. Point allocations have been revised.

6. Match requirement has been eliminated.

C. Authority. The authority for this program is Sections 1011(e)(8) and (g)(1) of the Residential Lead-Based Paint Hazard Reduction Act of 1992 (Title X of the Housing and Community Development Act of 1992) (42 U.S.C. 4852(e)(8) and 4852(g)(1)), and the Consolidated Appropriations Act, 2008 (Pub. L. 110-161, approved December 26, 2007). Section 1011(e)(8) and Section 1011(g)(1) authorize outreach grants on the causes and control of lead hazards, as well as capacity-building lead outreach grants to state and local governments to develop their own capacity and to non state and local government organizations where outreach activities will be conducted to develop the capacity of state and local governments.

II. Award Information

A. Available Funding

Approximately $1.5 million from the current and previous fiscal year's funding is available under this program. HUD anticipates that approximately five to eight grants will be awarded, for a minimum of $100,000 and a maximum of $300,000 each, for the entire period of performance.

B. Type of Award and Period of Performance

1. Awards will be made as grants.

2. HUD anticipates announcing awards under this program no later than September 30, 2008, with an anticipated start date of November 1, 2008.

3. The period of performance for awards will be 24 months from the date of award.

4. HUD reserves the right to offer partial funding to any or all applicants. Applicants offered a reduced grant amount will have a maximum of 14 calendar days to accept such a reduced award. If the applicant fails to respond within the 14-day limit, the organization shall be considered to have declined the award. Please see the General Section for a discussion of adjustments to funding that may be made by HUD during the selection process.

5. Period of performance extensions for delays due to exceptional conditions will be considered by HUD in accordance with 24 CFR 84.25(e)(2) or 85.30(d)(2), as applicable, and the OHHLHC Program Guide. If approved, grantees will be eligible to receive a single extension of up to 12 months in length. Applicants should not include the ability to obtain an extension in their application or project planning.

II. Eligibility Information

A. Eligible Applicants

Academic, not-for-profit and for-profit institutions located in the United States, states and units of general local government, and federally recognized Native American tribes are eligible to apply. For-profit firms are eligible to apply, but not allowed to earn a fee (i.e., make a profit from the project).

B. Cost Sharing or Matching

There are no cost sharing or matching requirements. See Section V. Rating Factor 4 for more information on this topic.

C. Threshold Requirements

1. Applicants must meet the threshold requirements of the General Section of the Super NOFA, including the Civil Rights and Fair Housing threshold (See General Section III.C.). Refer to the General Section for information regarding the DUNS requirement. A DUNS number must be provided for the institution that is submitting an application and must be included in the electronic application submission; use the same DUNS number that is used to register as an Authorized Organization Representative (AOR) with Grants.gov. Be sure that the eBusiness Point of Contact has authorized the submission of an application on behalf of the applicant organization (see the General Section for details about the Grants.gov registration process).

2. Allowable Costs and Eligible Activities.

a. Direct Costs and Activities. You should align all forms of outreach activities with the stated program purpose and outcomes. There should be a demonstrable connection between proposed activities and the purpose of the grant. All eligible activities must identify at-risk populations (or areas); propose activities to meet those populations' information needs; and evaluate the program's effectiveness in accordance with the grant's stated purpose (Section I.A.) and outcomes (Section 1.B.). Eligible activities may include, but are not limited to, the following:

(1) Improve or establish systems, infrastructure, or procedures, to enroll units in existing lead hazard control programs.

(2) Perform direct education and training for residents, businesses, local officials and community leaders in target areas.

(3) Develop and evaluate educational and training tools or methods.

(4) Develop and evaluate outreach methods, especially for families with children under 6 years of age or with pregnant women.

(5) Prepare and distribute lead hazard information in various media formats.

b. Indirect Costs and Administrative Costs. Administrative costs may not exceed 10 percent of the grant award. Please see unit IV.E.1., Indirect Costs and Administrative Costs.

3. Unallowable Costs and Ineligible Activities.

HUD will not fund the following ineligible activities:

a. Purchase of real property;

b. Purchase or lease of equipment having a per-unit cost in excess of $5,000, unless prior written approval is obtained from HUD;

c. Identification of lead-based paint or lead-based paint hazards, hazard reduction (including interim controls or abatement), rehabilitation, remodeling, maintenance, repair, or any other construction work, blood lead testing of adults or children, laboratory analysis, medical treatment, clearance examinations and visual assessment;

d. Renovations or construction work on office space leased for the program;

e. Activities required in order to fulfill court orders or consent decrees, settlements, conciliation agreements, or other compliance agreements.

4. Program Requirements.

a. Awardees must ensure that materials are appropriate for the target populations, including persons with Limited English Proficiency (LEP) (Please see Final LEP Guidance at http://www.hud.gov/offices/fheo/promotingfh/lep.cfm for information), and for visually impaired or other disabled persons. All new products and adaptations/translations must be submitted to HUD as deliverables, in electronic format suitable for Web posting. All products must utilize universal formatting and type-editing to the best of the awardee's ability.

b. Awardees are responsible for first determining if a translation already exists. Reimbursements will not be allowed for translations of federal documents that have previously been translated into the target language.

c. Awardees must use existing outreach, training, and technical assistance documents unless their application can demonstrate a great need exists in their community to substantively modify existing documents or create new ones.

III. Application and Submission Information

A. Address to Request Application Package. All the information required to submit an application can be downloaded from http://www.grants.gov/applicants/apply_for_grants.jsp. Consult the General Section for more information. If you have difficulty accessing the information, you may call the Grants.gov helpline toll-free at (800) 518-GRANTS or e-mail Support@grants.gov.

B. Content and Form of Application Submission

1. Application Format. The electronic submission process requires proposals to conform to the formatting requirements below to be eligible.

a. Only submit material that is indicated as mandatory or directly in support of the rating factors. The application narrative response to the Rating Factors is limited to a maximum of 25 pages (excluding appendices and worksheets) of size 8½″ x 11″ using a 12-point (minimum) font with not less than 1” margins on all sides. The 25-page rating factor response does not include attachments, tables, appendices, and other required forms. Applicants should be aware that any narrative information submitted in response to the Rating Factors that exceeds the page limit will not be reviewed.

b. Materials provided in the appendices should directly refer to the specific rating factor narrative. Applicants are strongly urged not to submit information that is not required and/or requested in the NOFA or relevant to a specific narrative response. The narrative response to the rating factors should be submitted as a single Microsoft Word document file. All attachments must identify the related factor in the footer by providing the rating factor and the page number (e.g., Factor 1 Attachment, pg. 1), and should be submitted as a single zip file attachment to the electronic application. Applicants are encouraged to submit as few files as possible to ensure that all materials are received.

c. Mandatory HUD forms do not count towards the 25-page limit.

d. Each attachment or appendix must be an individual electronic file.

e. Applicants are responsible for verifying the successful transmission of all documents submitted with their applications. Grants.gov will not allow you to submit applications if the mandatory forms are not attached. The mandatory forms are the ones indicated below.

2. Required Application Contents. The application must contain all of the mandatory information requested in this NOFA and the General Section to be eligible for all available points. These items include the standard forms, and the certifications and assurances listed in the General Section that are applicable to this NOFA. Points will be deducted for incomplete forms associated with each rating factor. The forms required for application submission and instructions can be found in the application at http://www.grants.gov/applicants/apply_for_grants.jsp. The checklist below includes a list of the required items needed for submitting a complete application.

a. Application Abstract (limited to 2 pages). Summarize the proposed project, expected activities and results and applicant contact information. Information contained in the abstract will not be considered in the evaluation and scoring of the application.

b. Rating Factor Responses (total narrative response limited to 25 pages)

(1) Capacity of the Applicant and Relevant Organizational Experience (20 points) and Form HUD-96012

(2) Need/Extent of the Problem (15 points) and Form HUD-96013.

(3) Soundness of Approach (40 points).

(4) Leveraging Resources (10 points) and Form HUD-96015.

(5) Achieving Results and Program Evaluation (15 points) and Form HUD-96010.

(6) Bonus Points (RC/EZ/EC-II) (2 points).

c. Required materials in response to rating factors (does not count towards 25-page limit):

(1) Resumes of Key Personnel (limited to 3 pages per resume).

(2) Organizational Chart.

(3) Letters of Commitment (if applicable)—Letters of commitment should include language defining the activities to be performed, the contributions to be made, and the monetary value of each. Note: HUD recommends against including letters of support that do not commit services, materials, or funds; they will not be considered.

(4) Material in support of the Rating Factors (25 page limit).

d. Other Materials in Support of Rating Factors

(1) Form SF 424 (Application for Federal Assistance).

(2) Form HUD-424-CBW (Budget Worksheet) One form for each partner receiving ten percent or greater of total budget.

(3) Budget narrative.

(4) Form SF-424 Supplement (Survey on Ensuring Equal Opportunities for Applicants) (“Faith Based EEO Survey (SF-424 SUPP)” on Grants.gov) (to be completed by private nonprofit organizations only).

(5) Form SF LLL (Disclosure of Lobbying Activities, if applicable).

(6) Form HUD-2880 (Applicant/Recipient Disclosure/Update Report) (“HUD Applicant Recipient Disclosure Report” on Grants.gov).

(7) Form HUD-2990 (Certification of Consistency with the RC/EZ/EC-II Strategic Plan, required only for applicants who are seeking these 2 bonus points).

(8) Form HUD-2994-A (You Are Our Client! Grant Applicant Survey, Optional).

(9) Form HUD-27300 (Questionnaire for HUD's Removal of Regulatory Barriers) (“HUD Communities Initiative Form” on Grants.gov) including the required information, if applicable.

(10) Form HUD-96011 (Third Party Documentation Facsimile Transmittal) (“Facsimile Transmittal Form” on Grants.gov) (Used as the cover page to transmit third party documents and other information designed for each specific application for tracking purposes. HUD will not read faxes that do not use the HUD-96011 as the cover page to the fax.). Applications must be received and validated electronically via the Web site http://www.grants.gov/applicants/apply_for_grants.jsp. See the General Section for additional information on the electronic process.

C. Submission Dates and Times

Applications must be received and validated by Grants.gov by 11:59:59 p.m. eastern time on the deadline date. Submission of the application electronically does not constitute “validation” by Grants.gov. Refer to the General Section for additional requirements including registration requirements, deadline dates, Grants.gov validation, proof of delivery, and other information regarding electronic application submission via http://www.grants.gov/applicants/apply_for_grants.jsp. Applicants are strongly encouraged to submit their applications well ahead of the deadline. Validation by Grants.gov may take up to three days. Applications validated after the deadline will not be eligible for review.

D. Intergovernmental Review. Not required.

E. Funding Restrictions

1. Indirect Costs and Administrative Costs. Administrative costs may not exceed 10 percent of the grant award. Detailed explanations of indirect and administrative costs are provided in applicable OMB Circulars (A-21—Cost Principles for Educational Institutions, A-87—Cost Principles for State, Local, and Indian Tribal Governments, or A-122—Cost Principles for Nonprofit Organizations) that can be accessed at the White House Web site, http://www.whitehouse.gov/omb/circulars/index.html. Eligible administrative costs include the leases for office space, under the following conditions:

a. The lease must be for existing facilities not requiring rehabilitation or construction;

b. No repairs or renovations of the property may be undertaken with Federal funds; and

c. Properties in the Coastal Barrier Resource System designated under the Coastal Barrier Resources Act (16 U.S.C. 3501) cannot be leased with Federal funds.

2. Ineligible Activities. See Section III.C.3, Unallowable Costs and Activities.

F. Other Submission Requirements

1. Waiver of Electronic Submission Requirements. HUD requires applicants to submit applications electronically through http://www.grants.gov unless the applicant requests and is granted a waiver to the electronic submission requirements. Waivers may only be granted for cause. See General Section for further discussion. Applicants should submit waiver requests by e-mail. Waiver requests must be submitted no later than 15 days prior to the application deadline date and should be submitted to Jonnette Hawkins, Director, Programs Division, Office of Healthy Homes and Lead Hazard Control, Jonnette.G.Hawkins@hud.gov. If a waiver is granted, the application must be received by HUD no later than 11:59:59 p.m. on the application deadline date. The waiver approval notification will provide further information on where to send the application and the number of copies to be provided.

2. Applicants should use the application checklist in this NOFA (Section IV. B. 2) to help them identify any missing elements and complete the application before it is submitted.

3. No information may be submitted after the deadline date except under the threshold review process.

4. Although applications with curable deficiencies are offered an opportunity at threshold review to submit certain information to cure these deficiencies, non-curable deficiencies are not correctable and may disqualify an application. (See General Section.)

V. Application Review Information

A. Criteria. Applications that meet all of the threshold requirements will be eligible to be scored and ranked, based on the total number of points allocated for each of the rating factors described in Section V. B. of this NOFA. The application must receive a total score of at least 75 points to be considered for funding.

1. Rating Factor 1: Capacity of the Applicant and Relevant Organizational Experience (20 points). This factor addresses your organization's capacity to successfully implement the proposed activities. The following areas will be evaluated: organizational capacity, experience and past performance, individual staff and participants' qualifications, and specific qualifications related to the categories of activities under this NOFA.

a. Organizational Capacity (6 points).

(1) Describe your program's resources to be dedicated to this project. This entails number and type of staff, or the ability to hire qualified experts or professionals within 90 days of award, partnerships and agreements that provide staff and other resources, and general access to needed materials and work space.

(2) Include a project-specific organizational chart indicating the relationships among the various entities involved in the project. Do not provide an organization chart of your employer with elements beyond those necessary to illustrate who within the organization will conduct the project.

(3) Describe how the principal components/entities will support the project, and how all partners will communicate.

b. Organizational Experience (9 points). HUD will consider organizational experience that has occurred within the last 5 years.

(1) List relevant, recent outreach projects with brief descriptions for each; include the period of performance, achievement of specific tasks, measurable objectives and benchmarks and whether outcomes were consistent with the approved timeline/work plan and budget.

(2) Explain previous success in leveraging resources for similar outreach initiatives.

c. Individual Qualifications (5 points).

(1) Project Director and Project Manager (Day-to-Day). Identify by name the individuals proposed to serve as the overall project director and day-to-day project manager. Describe their individual qualifications that will enable them to function effectively in their assigned roles, including knowledge, work experience, management experience, education, training, and publications. Include specific projects they have performed involving planning and managing large and complex interdisciplinary outreach or educational programs, especially those involving housing, public health, or environmental initiatives.

(2) Other Key Personnel. Identify by name and position up to three additional key personnel. Provide the individual qualifications, experience, percentage commitment to the project, and role in the proposed project for each key personnel.

(3) Please provide resumes (or position descriptions and copies of job announcements including salary range for vacant positions) for the project director, day-to-day project manager, and up to three additional key personnel. Please do not include the Social Security Numbers (SSN) of any staff members.

(4) Complete Factor 1 form HUD-96012.

2. Rating Factor 2: Need/Extent of the Problem (15 Points).

This factor addresses the extent to which there is a need for the proposed project activities. Need is demonstrated by documenting specific problems in identified target area(s) and target population(s). Applicants will be evaluated on the degree of need for lead outreach beyond existing levels of outreach activities. Use specific and reliable data in responses.

a. Please complete form HUD 96013 (5 points). Part A of this form should be used to document the blood lead levels in children residing within the applicant's jurisdiction and target area for the most recent complete calendar year and identify the source of the data. Data prior to calendar year 2004 will not be accepted. For the purposes of this application, the “documented number of children” is based on a blood lead level test performed by a medical health care provider. Part B of this form should be used to document where the applicant intends to conduct outreach activities. The data submitted to HUD will be verified using data available from the Census http://factfinder.census.gov, HUDuser http://www.huduser.org/datasets/fmr.html, and other sources available to HUD. HUD will use data on the housing age and tenure and individuals living below the poverty level in the jurisdictions where the applicant intends to conduct outreach activities as the basis for review.

b. In an accompanying narrative include the following (10 points):

(1) Describe the community being targeted (provide supporting data).

(2) Describe the characteristics of the target population (provide supporting data).

(3) Discuss the current level of lead outreach in the target community and population; what barriers are present that hamper effective lead outreach, and how your proposed outreach program responds to lead outreach gaps/needs not being met at present.

(4) Discuss how the targeted community's Five-Year Consolidated Plan and Analysis of Impediments to Fair Housing Choice (AI) (see paragraph III. C. of the General Section of this Super NOFA) identifies the level of the problem, the urgency in meeting the need, and the community's implementation plan for meeting this need.

3. Rating Factor 3: Soundness of Approach (40 Points).

This factor addresses the quality and cost-effectiveness of the proposed work plan. Plans are evaluated on having a reasonable scope of activities aimed at a specific outcome, which can be accomplished in the time allotted, with available resources. There should be a clear connection between the proposed activities, the stated needs in Factor 2, the desired outcomes for this program as stated in Section I.B. of this NOFA, and activities, outcomes and the timeframe identified in your Logic Model submission under Factor 5.

a. Objectives and Goals (4 points).

(1) Detail the proposed goals and objectives for the project based on the needs explained in Factor 2.

(2) Provide proposed outcomes which should relate to the stated Desired Outcomes in Section 1B. Please estimate outcomes based on the programs specific goals and objectives. For instance, you can indicate the estimated total number of individuals expected to be reached or trained, the number of low-income housing units expected to be enrolled in lead hazard treatment programs, etc.

(3) Explain how the proposed activities support HUD's policy priorities (See Section II of the General Section for an explanation of HUD's policy priorities):

(a) Providing Full and Equal Access to Grassroots Faith-Based and Other Community Organizations in HUD Implementation. (Please detail how these organizations will be involved in your program implementation),

(b) Improving our nation's communities, and

(c) Removing regulatory barriers to affordable housing (complete form HUD-27300).

b. Approach for Developing the Project. Describe the overall approach for developing the proposed project (19 points).

(1) Describe theory or research that supports the effectiveness of the proposed activities in achieving identified outcomes.

(a) Demonstrate your knowledge of the outreach methodology relevant to the proposed approach.

(b) Past successful experiences that would not qualify as scientifically proven theory can be discussed as well.

(2) Summarize the outreach strategy or marketing plan to be implemented.

(a) Describe in detail how those receiving outreach will be identified, tracked, and served under the project, especially participants in high-risk groups and communities, vulnerable populations (especially families with young children and pregnant women) and persons traditionally underserved, including minority families.

(b) Describe proposed approaches to overcome poor response, low attendance or low participation.

(3) Describe the methods of community education to be used, including community awareness, education, and training, in support of stated objectives.

(4) Explain how education and training methods are culturally sensitive and targeted to specific target populations.

(5) Describe how and why specific outreach materials will be utilized or created. Explain how these materials effectively reach target populations.

(a) Describe methods to ensure materials will be of high quality, accurate, and technically sound.

(b) Detail how materials will be made available in alternative formats for persons with disabilities and in languages other than English which are common in the target area.

(6) Explain how you will ensure proposed activities will not duplicate actions of other local organizations.

(7) Discuss if proposed programs can be duplicated by other communities.

c. Organization and Implementation of Project (10 points). This section details how the proposed project will be implemented and monitored. You should demonstrate an organized, logical, and feasible work plan.

(1) The work plan should contain the following elements, which may be combined into one chart or addressed individually.

(a) List all specific, measurable, and time phased objectives and outputs, including reports and all deliverables, for each major activity of the proposed program.

(b) List all major tasks and sub-activities in sequential order of implementation in relation to relative objectives.

(c) Identify major benchmarks and milestones.

(d) List proposed dates of completion for major program activity.

(e) Identify required resources and inputs for each major activity.

(f) Designate who is responsible for each activity.

(2) Include a process flow chart depicting the creation and implementation of the outreach process or product from start to finish. Indicate all major organizations involved.

(3) Describe project management and oversight to ensure goals are met and resources are used efficiently.

(4) Describe the management processes to be used to ensure the cost-effectiveness of activities and how expenditures will be tracked.

(5) Describe who is responsible for quality control of processes and materials produced by sub-recipients.

d. Institutionalization of Program (3 points).

(1) Describe how lead poisoning prevention will be incorporated in to your existing, permanent programs. Explain your commitment to continue lead outreach activities in the future. Address leadership and policy development and the logistics of implementing the program.

(2) Describe how the proposed project compliments or supports existing local/regional lead hazard control strategies and activities.

e. Budget Narrative (4 points). The proposed budget will be evaluated for the extent to which it is reasonable, clearly justified, and consistent with the project management plan. HUD is not required to approve or fund all proposed activities.

(1) Fill out HUD-424-CBW.

(2) Describe and justify all costs for each category on HUD-424-CBW, include all major tasks from work plan. Address all direct and indirect costs. Identify all direct and indirect administrative costs and ensure allocated amount does not exceed 10 percent limit.

(a) Explain how each cost was calculated, include estimated unit prices and time periods.

(b) Indicate expenditures that will be made by sub-grantees and partner organizations.

(3) Include a separate budget (HUD-424-CBW) and budget narrative for any sub-grantee receiving 10 percent or greater of total budget request.

4. Rating Factor 4: Leveraging Resources (10 points).

This factor evaluates your ability to secure resources beyond those provided by this specific HUD program. You can receive points for resources contributed that are directly supportive of, and integrated into, achieving the program's purposes.

a. Contributed Resources (5 points). You are encouraged to contribute resources from your own organization and to leverage (secure) other allowable public and/or private sector resources (such as financing, supplies, or services) that can be added to HUD's funds to perform allowable activities. Contributed resources can come from public or private sources. Include commitment letters signed by an authorized official indicating a specific dollar amount or dollar value for services to be contributed. The letter(s) must describe the contributed resource(s) that will be used in the project, and roles and responsibilities as they relate to the proposed project. Contributed resources will provide points for this rating factor in accordance with the chart below. You must complete form HUD-96015.

Other Contributed Resources Point Table
Minimum percent of federal amount | Points awarded
10 percent or less | 0
> 10 percent up to < 20 percent | 1
20 percent up to < 30 percent | 2
30 percent up to < 40 percent | 3
40 percent up to < 50 percent | 4
50 percent or greater | 5

b. Describe the extent to which you have coordinated your activities with other organizations that are not directly participating in your proposed work activities, but with which you share common goals and objectives.

c. Describe the extent to which your project exhibits the potential to be financially self-sustaining by decreasing dependence on federal funding and relying more on State, Tribal, local and private funding to continue educational and outreach activities after the grant period is completed.

5. Rating Factor 5: Achieving Results and Program Evaluation (15 points).

This rating factor reflects HUD's goal to embrace high standards of ethics, management, and accountability. You should have a formal plan to evaluate your performance. HUD will evaluate the degree to which you address all program goals, have self-evaluation features, use realistic and quantifiable measures, and demonstrate the ability to adjust activities to ensure goals and objectives are met. The evaluation plan should encompass the entire grant period and correspond to the eLogic Model (HUD 90610).

a. Explain what indicators your organization will measure to track progress towards goals, how they will be measured, and how adjustments will be made if necessary to keep the program on track to achieve goals in the stated period of time (5 points). Incorporate and expand upon benchmarks, indicators and objectives identified in the eLogic Model (HUD 90610).

b. You are required to complete the eLogic Model (10 points). The eLogic Model must contain quantifiable performance goals for each activity. See the General Section for detailed information on the use of the “Master” eLogic Model. Instructions for completing the eLogic Model are found in Tab 1 of the eLogic Model itself. Training on using and completing the eLogic Model is available via satellite broadcast and Web cast. This training schedule can be found on http://www.hud.gov/offices/admin/grants/fundsavail.cfm.

HUD will evaluate the Logic Model in accordance with the matrix provided in Attachment 1 to the General Section.

6. Bonus Points for Federally Designated Zones and Communities (2 points).

HUD will award two bonus points to each application that includes a valid Form HUD-2990 certifying that the proposed activities/projects in the application are consistent with the strategic plan for an empowerment zone (EZ) designated by HUD or the United States Department of Agriculture (USDA), the tax incentive utilization plan for an urban or rural renewal community designated by HUD (RC), or the strategic plan for an enterprise community designated in round II by USDA (EC-II) and that the proposed activities/projects will be located within the RC/EZ/EC-II identified above and are intended to serve the residents. A listing of the RC/EZ/EC-IIs is available on the Internet at http://www.hud.gov/cr.

B. Review and Selection Process

Each of the five factors is weighted as indicated by the number of points that are assigned to it. The maximum score that can be attained is 100, plus 2 bonus points. The review and selection process is provided in the General Section.

VI. Award Administration Information

A. Award Notices

1. Notice of Award. Applicants that have been selected for award will be notified by letter from the Office of Healthy Homes and Lead Hazard Control Grant Officer. The letter will state the program for which the application has been selected, the amount the grantee is eligible to receive, and the name of the Government Technical Representative (GTR). This letter is not an authorization to begin work or incur costs under the grant agreement.

2. Negotiations. HUD may require that selected applicants participate in negotiations to determine the specific terms of the grant agreement budget and eLogic Model. In cases where HUD cannot successfully conclude negotiations with a selected applicant or a selected applicant fails to provide HUD with requested information, an award will not be made to that applicant. In this instance, HUD may offer an award to, and proceed with negotiations with the next highest-ranking applicant. If you accept the terms and conditions of the grant agreement, you must return your signed grant agreement by the date specified during negotiation.

3. Award Adjustments. If funds remain after all selections have been made, the remaining funds may be redistributed or made available for other competitions.

4. LOCCS Payment System. After receiving the letter, additional instructions on how to have the grant account entered into HUD's Line of Credit Control System (LOCCS) payment system will be provided. Other forms and program requirements will also be provided.

5. Start of Work. All awardees are expected to commence activity immediately upon completion of negotiations, and execution of the grant agreement.

6. Applicant Debriefing. See the General Section for information regarding unsuccessful applicant debriefing.

B. Administrative and National Policy Requirements

1. Environmental Review. In accordance with 24 CFR 50.19(b)(2), (b)(3) and (b)(9), activities assisted under this program are categorically excluded from the requirements of the National Environmental Policy Act of 1969 (42 U.S.C. 4321) and are not subject to environmental review under the related laws and authorities.

2. HUD Reform Act of 1989. You must comply with the requirements for funding competitions established by the HUD Reform Act of 1989 (42 U.S.C. 3531 et seq.) as defined in the General Section.

3. Audit Requirements. Any grant recipient that expends $500,000 or more in federal financial assistance in a single year must meet the audit requirements established in 24 CFR parts 84 and 85 in accordance with OMB Circular A-133. In accordance with OMB Circular A-133 (Audits of States, Regional/local Governments and Non-Profit Organizations), grantees will have to submit their completed audit-reporting package along with the Data Collection Form (SF-SAC) to the Single Audit Clearinghouse, at the address obtained from their Web site. The SF-SAC can be downloaded at: http://harvester.census.gov/sac/.

4. Timely Hiring of Staff. HUD reserves the right to terminate awards made to recipients that fail to timely hire (within 90 days of award) staff to fill key positions identified in your proposal as vacant.

5. Procurement of Recovered Materials. See the General Section for further information.

6. Conducting Business in Accordance with HUD Core Values and Ethical Standards. Refer to the General Section for information about conducting business in accordance with HUD's core values and ethical standards.

C. Reporting. The following items are Post-Award Reporting Requirements:

1. Final Budget and Work Plan. Final budget and work plans are due 60 days after the effective date of the grant agreement.

2. Racial and Ethnic Data. HUD does not require Lead Outreach applicants to report ethnic and racial beneficiary data as part of their initial application package. However, such data must be reported on an annual basis, at a minimum, during the implementation of your grant agreement. You must report the data as described in the General Section and use the Office of Management and Budget's Standards for the Collection of Racial and Ethnic Data, using Form HUD-27061, Racial and Ethnic Data Reporting Form, found on http://www.hudclips.org/sub_nonhud/html/forms.htm along with instructions for its use.

3. Progress reporting. Progress reporting is done on a quarterly and annual basis. OHHLHC awardees will submit quarterly reports via an on-line reporting system and will use the eLogic Model approved as part of the grant agreement to measure and report performance for each quarter. The quarterly report must reflect all benchmarks (output goals) and proposed outcomes (results) that are indicated on the eLogic Model with an associated cost estimate. For FY 2008, HUD is considering a new concept for the eLogic Model. The new concept is a Return on Investment (ROI) statement. HUD will be publishing a separate notice on the ROI concept. Deviations from projected outputs and outcomes, either positive or negative, should be reported in the eLogic Model under the reporting Tab. The completed eLogic Model showing output and outcome status must be submitted as part of the quarterly progress report.

4. Final Report. A final report, due at the completion of the grant agreement, will detail activities (e.g., the number of low-income housing units enrolled in lead hazard treatment programs as a result of activities performed under the grant agreement, number and type of materials produced, activities conducted, evaluation of the various outreach and educational methods used, findings, and recommended future actions at the conclusion of grant agreement activities). The final report shall include cumulative achievements, final project outputs, outcomes and results reported against the project's eLogic Model (Form HUD-96010) as approved and incorporated into your award agreement, including explanations of any deviations from projected levels of performance.

VII. Agency Contacts

For programmatic questions, you may contact Jonnette Hawkins, Director, Programs Division, Office of Healthy Homes and Lead Hazard Control; telephone (202) 402-7593 (this is not a toll-free number) or via e-mail at Jonnette.G.Hawkins@hud.gov. For grants administrative questions, you may contact Mr. Royal Rucker, Grants Officer, Office of Healthy Homes and Lead Hazard Control; telephone (202) 402-7584 (this is not a toll-free number) or via e-mail at Royal.A.Rucker@hud.gov. If neither of these individuals is available, you may contact the Office's general Lead Regulations hotline, at (202) 755-1785, extension 7698. Your call will be forwarded in one business day for subsequent response by the appropriate staff. Hearing-or speech-challenged individuals may access these numbers through TTY by calling the toll-free Federal Information Relay Service at 800-877-8339.

VIII. Other Information

A. More Information. For additional information about this NOFA, program, or for general, technical, and grant program information pertaining to the Office of Healthy Homes and Lead Hazard Control, visit: http://www.hud.gov/offices/lead.

B. Paperwork Reduction Act. The information collection requirements contained in this document have been approved by the Office of Management and Budget (OMB) under the Paperwork Reduction Act of 1995 (44 U.S.C. 3501-3520) and assigned OMB control number 2539-0015. In accordance with the Paperwork Reduction Act, HUD may not conduct or sponsor, and a person is not required to respond to, a collection of information unless the collection displays a currently valid OMB control number. Public reporting burden for the collection of information is estimated to average 80 hours to prepare the application, 16 hours to finalize the grant agreement, and 32 hours per annum for grant administration (progress reporting) per respondent. This includes the time for collecting, reviewing, and reporting the data for the application, semi-annual reports, and final report. The information will be used for grantee selection and monitoring the administration of funds. Response to this request for information is required in order to receive the benefits to be derived.

Healthy Homes Demonstration Program

Overview Information

A. Federal Agency Name: U.S. Department of Housing and Urban Development, Office of Healthy Homes and Lead Hazard Control (OHHLHC).

B. Funding Opportunity Title: Healthy Homes Demonstration Program.

C. Announcement Type: Initial announcement.

D. Funding Opportunity Number: FR-5200-N-17, OMB Paperwork approval number 2539-0015.

E. Catalog of Federal Domestic Assistance (CFDA) Number(s): 14.901, Healthy Homes Demonstration Program.

F. Dates: The application deadline date is July 17, 2008. Applications must be received and validated by Grants.gov no later than 11:59:59 pm eastern time on the application deadline date. See section IV of the SuperNOFA General Section, published on March 19, 2008 (73 FR 14882), regarding application submission procedures and timely filing requirements.

G. Additional Information

1. Purpose of the Program. The purpose of the Healthy Homes Demonstration Program is to develop, demonstrate, and promote cost-effective, preventive measures to correct multiple residential safety and health hazards that produce serious diseases and injuries in children and other sensitive subgroups such as the elderly, with a particular focus on low income households. The Healthy Homes Demonstration Program is committed to supporting the Departmental Strategic Goal of strengthening communities by addressing housing conditions that threaten health.

2. Available Funds. HUD anticipates that approximately $4,375,000 in fiscal year 2008 and prior year funds will be available.

3. Anticipated Awards. Approximately four to five cooperative agreements will be awarded for a maximum of $875,000 each for the entire period of performance.

4. Eligible Applicants. Not-for-profit institutions and for-profit firms, state and local governments, housing authorities, federally-recognized Indian Tribes, and colleges and universities located in the United States. For-profit firms are not allowed to make a profit from the project. Individuals are not eligible to apply.

5. Type of Award. Cooperative Agreements, with substantial involvement of the Government, will be awarded (see Section II.C for a description of substantial involvement).

6. Match. None required, but leveraging strongly encouraged.

7. Limitations. There are no limitations on the number of applications that each applicant may submit.

8. Information on Application. The applications for this NOFA can be found at http://www.grants.gov/applicants/apply_for_grants.jsp. The General Section of the SuperNOFA contains information about Grants.gov registration, submission requirements, and submission procedures.

Full Text of Announcement:

I. Funding Opportunity Description:

A. Background

The Healthy Homes Demonstration Program is a part of HUD's Healthy Homes Initiative (HHI). In April 1999, HUD submitted to Congress a “Healthy Homes Initiative: Preliminary Plan” containing a full description of the HHI. This description (Summary and Full Report) is available at http://www.hud.gov/offices/lead/hhi/index.cfm. This site also contains additional information on the HHI.

The HHI seeks proposals that provide a coordinated approach to address multiple hazards caused by a limited number of building deficiencies. The HHI approach is anticipated to reduce labor and travel costs and provide substantial savings, since separate visits to a home by an inspector, public health nurse, or outreach worker can add significant costs to project activities. HUD is interested in capturing the costs and benefits of the healthy homes approach and encourages applicants to develop their project designs in such a way as to allow the capture of project costs and an estimate of the value of the resulting benefits.

In addition to deficiencies in basic housing facilities that may impact health and safety, changes in the U.S. housing stock and more sophisticated epidemiological methods and biomedical research have led to the identification of new, and often more subtle, health and safety hazards in the residential environment. While such health hazards will tend to be found disproportionately in housing that is substandard, these environmental health and safety hazards also exist in housing that is otherwise of good quality. See “Key Residential Health and Injury Hazards,” Appendix A, for a brief description of the housing-associated environmental health and injury hazards that HUD considers as key targets for remediation. Appendix A can be downloaded with your application package at http://www.grants.gov/applicants/apply_for_grants.jsp. The Web site http://www.hud.gov/offices/lead/hhi/index.cfm also lists some of the references that serve as the basis for information provided in the Healthy Homes Demonstration Program NOFA.

HUD believes that it is important for grantees to incorporate meaningful community participation, to the greatest extent possible, in the development and implementation of programs that are conducted in communities and/or involve significant interaction with community residents. Community participation can improve program effectiveness in various ways, including the development of more salient program objectives, recruitment and retention of project participants, improving participants' understanding of the program, ensuring ongoing communication, and more effective dissemination of project findings.

Although the focus of your application may not be research, approaches to community involvement that are commonly incorporated into “community-based participatory research (CBPR)” models may be applicable for incorporation into your project. CPBR is characterized by substantial community input in all phases of a project, including the design, implementation, data interpretation, conclusions, and communications of results. The National Institute of Environmental Health Sciences published a report titled “Successful Models of Community-Based Participatory Research”, which can be found at: http://www.hud.gov/offfices/lead/researchers.cfm.

Because of the importance of residential asthma triggers, many Healthy Homes Demonstration Program applicants and grantees have included asthma trigger control as a core component of their projects. If you are including the control of asthma triggers as a core component of your Healthy Homes Demonstration Program application, you are encouraged to review the findings of a systematic review of 223 community-based asthma intervention programs that was sponsored by the U.S. Environmental Protection Agency (EPA). This effort, titled the Asthma Health Outcomes Project (AHOP), resulted in the identification of components that were associated with the most effective intervention programs (see: http://www.alliesagainstasthma.net/AHOP). Many of these program components are likely to also be important for maximizing the effectiveness of programs that conduct other community health interventions as well. HUD also encourages applicants with an asthma intervention focus to join the EPA-sponsored online peer to peer learning network, “Communities in Action for Asthma Friendly Environments (CAAFE)”, accessible from: http://www.asthmacommunitynetwork.org/.

HUD's authority for making funding available under this NOFA is the Consolidated Appropriations Act, 2008 (Pub. L. 110-161).

B. Healthy Homes Initiative Goals

1. Develop and implement demonstration projects that address multiple housing-related problems affecting the health of children and other sensitive subgroups;

2. Achieve the Healthy Homes Initiative's Departmental Strategic Goal objective of reducing allergen levels in 5,000 units by 2011, and correspondingly, reducing asthmatic episodes for 3,000 children living in those units;

3. Mobilize public and private resources, involving cooperation among all levels of government, the private sector, and grassroots community-based, nonprofit organizations, including faith-based organizations, to develop the most promising, cost-effective methods for identifying and controlling housing-related environmental health and safety hazards;

4. Build local capacity to operate sustainable programs that will prevent and control housing-related environmental health and safety hazards in low- and very low-income residences when HUD funding is exhausted; and

5. Affirmatively further fair housing and environmental justice. Applicants should review the General Section at III.C.4.b for information on what comprises the duty to affirmatively further fair housing. HUD also encourages applicants to undertake specific activities that will assist the Department in implementing its Policy Priorities. HUD's fiscal year 2008 Policy Priorities are discussed in the General Section of the SuperNOFA.

C. Healthy Homes Demonstration Program Objectives:

The major objectives of the Healthy Homes Demonstration Program include the following:

1. Identify and remediate priority health hazards in high risk target housing where environmental conditions may contribute to a child's illness or risk of injury;

2. Support public education and outreach that furthers the goal of protecting children and other vulnerable populations from environmentally induced illnesses;

3. Develop a professional workforce that is trained in healthy homes principles;

4. Evaluate the efficacy of healthy homes program activities and facilitate the dissemination of findings, with a focus on evidence-based best practices;

5. Increase public awareness of housing related environmental health and safety hazards that threaten the health of children and other vulnerable populations;

6. Further the principles of environmental justice and fair housing by increasing the availability of safe, low income housing.

II. Award Information

A. Funding Available

Approximately $4,375,000 in fiscal year 2008 and prior year funds are available for Healthy Homes Demonstration cooperative agreements. HUD anticipates that approximately four to five cooperative agreements will be awarded, for a maximum of $875,000 each for the entire period of performance.

Applicants may wish to review currently funded grants on the Healthy Homes Web site at: http://www.hud.gov/offices/lead/hhi/index.cfm.

B. Anticipated Start Date and Period of Performance for New Cooperative Agreements

1. The start date for new cooperative agreements is expected to be no later than November 1, 2008, with a period of performance not to exceed 36 months. Applicants are encouraged to plan projects with shorter implementation periods than 36 months, considering the possibility that issues may arise that could cause delays. For planning purposes, applicants need to include adequate time for start up activities such as the Institutional Review Board (IRB) approval process, recruitment of project participants, fulfillment of environmental requirements, and development of new methods (e.g., survey forms, database, etc) within this period of performance. Because delays have been associated with obtaining IRB approval, achieving participant recruitment targets, and coordinating the activities of project partners, HUD encourages applicants to consider these issues in particular and to involve all partners in pre-planning processes. When multiple organizations are collaborating on a proposed project and each has an IRB approval requirement, this can lead to significant delays. In such situations HUD strongly encourage grantees to work with their partners to investigate other options such as designating a primary IRB for the project. For further guidance on this topic, see the Office for Human Research Protections (OHRP) Web site at: http://www.hhs.gov/ohrp.

2. If approved, grantees are eligible to receive a single period of performance extension of up to 12 months in accordance with 24 CFR 85.24(e)(2) or 85.30(d)(2), as applicable, and the OHHLHC Program Guide.

C. Type of Award Instrument

Awards will be made as cooperative agreements. Anticipated substantial involvement by HUD staff for cooperative agreements may include, but will not be limited to:

1. Review and suggestion of amendments to the project design, including: project objectives; project implementation plan; data collection methods; and project evaluation;

2. Review and provision of technical recommendations in response to quarterly progress reports (e.g., amendments to project design based on preliminary results); and

3. Review and provision of technical recommendations on the final report, journal articles, or other project-related reports or publications.

III. Eligibility Information

A. Eligible Applicants

Eligible applicants include not-for-profit institutions and for-profit firms, state and local governments, housing authorities, federally-recognized Indian Tribes, and colleges and universities located in the United States. For-profit firms are not allowed to make a profit from the project. Individuals are not eligible to apply.

B. Cost Sharing or Matching

Cost sharing or matching is not required. In rating your application, however, HUD will award a higher score under Rating Factor 4 if you provide documentation of commitments for significant leveraging.

C. Other

1. Threshold Requirements Applicable to all Applicants under the SuperNOFA. As an applicant, you must meet all the threshold requirements described in the General Section of the SuperNOFA. Applications that do not address the threshold items will not be reviewed. Cooperative agreements will be awarded on a competitive basis following evaluation of all proposals according to the rating factors described in this NOFA. A minimum score of 75 points is required for consideration for award. The maximum score that can be attained is 100 points for the narrative responses plus an additional 2 bonus points for any activities proposed to be located in a Renewal Communities/Empowerment Zone/Enterprise Community (RC/EZ/EC-II communities). In order to receive the bonus points, Form 2990 must be completed and signed by the appropriate official of the RC/EZ/EC-II.

2. Eligible Costs and Activities. The allowable costs under this grant program per 24 CFR 85.22 or 24 CFR 84.27 include: (1) Direct costs (as defined below, must be tracked separately), (2) indirect costs, and (3) administrative costs. Explanations of costs are provided in applicable OMB Circulars (A-21—Cost Principles for Educational Institutions, A-87—Cost Principles for State, Local, and Indian Tribal Governments, or A-122—Cost Principles for Nonprofit Organizations) that can be accessed at the White House Web site, http://www.whitehouse.gov/omb/circulars/index.html. Because the development and evaluation of effective methods for assessing and remediating housing-related hazards is the principal focus of the Healthy Homes Demonstration Program, awardees must expend at least 65 percent of grant funds on direct remediations and related activities in the home. The following kinds of activities can be included in the 65% expenditure:

a. Development of appropriately scaled, flexible, cost-effective and efficient assessment and intervention strategies that take into account the range of unhealthy conditions encountered in housing and maximizes the number of housing units that receive remediations.

b. Development of cost-effective protocols for identifying homes that are candidates for remediations, identifying environmental health and safety hazards in these homes, and screening out homes where structural or other factors, including cost issues, make remediations impractical.

c. Conducting sampling and analysis for lead, allergens, carbon monoxide and/or other housing-related environmental health and safety hazards as appropriate, following established protocols and procedures when possible. A laboratory recognized by the U.S. Environmental Protection Agency's (EPA's) National Lead Laboratory Accreditation Program (NLLAP) must analyze paint, soil or dust samples related to lead-based paint. Samples to be analyzed for mold should be submitted to a laboratory accredited in the Environmental Microbiological Laboratory Accreditation Program (EMLAP), administered by the American Industrial Hygiene Association (AIHA).

d. Remediating existing residential environmental health and safety hazards and addressing conditions that could cause these hazards to recur.

e. Undertaking rehabilitation activities to effectively control housing deficiencies that are required for remediating environmental health and safety hazards in the unit. Funds under this program may only be used to address lead-based paint hazards at the de minimis level (see 24 CFR 35.1350(d)). These lead hazard evaluation and/or control activities may not be a principal focus of the cooperative agreement. (Lead hazard evaluation and control activities are carried out under HUD's Lead-Based Paint Hazard Control Grant Program, Lead Hazard Reduction Demonstration Grant Program, and Operation Lead Elimination Action Program.) For information about conducting remediation of de minimis amounts of lead-based paint hazards, refer to the HUD Guidelines for the Evaluation and Control of Lead-Based Paint Hazards in Housing (HUD Guidelines). The HUD Guidelines and/or applicable regulations may be downloaded from HUD's Web site at http://www.hud.gov/offices/lead/lbp/hudguidelines/index.cfm.

f. Environmental sampling and medical testing to protect the health of the remediation workers, supervisors, and contractors, unless reimbursable from another source.

g. Carrying out necessary architectural, engineering and work specification development and other construction management services.

h. Carrying out temporary relocation of families and individuals while the remediation is conducted and until the time the affected unit receives clearance for re-occupancy. See III.C.4.e, Real Property Acquisition and Relocation, of the General Section of the SuperNOFA, and Section VI.B.4 of this NOFA for a discussion of regulations that apply when relocating families.

i. Providing training on Healthy Homes practices to homeowners, renters, landlords, painters, remodelers, and housing maintenance staff working in low-or very low-income housing.

j. Providing cleaning supplies for hazard remediation to grassroots community-based nonprofit organizations, including faith-based organizations, for use by homeowners and tenants in low-income housing, or providing these supplies to homeowners and tenants directly. (See the General Section of the SuperNOFA for more information about grassroots community-based nonprofit organizations, including faith-based organizations.)

k. Providing reasonable incentives (financial or other incentives, including, but not limited to, coupons for video rentals, coupons for groceries, stipends for completion of surveys, child care, cleaning kits, etc). These incentives are subject to approval by HUD. Their purpose is to encourage recruitment and retention in the Healthy Homes program, and participation in educational and training activities and other program-related functions.

l. Securing liability insurance for housing-related environmental health and safety hazard evaluation and control activities. This is not considered an administrative cost.

m. Supporting data collection, analysis, and evaluation of project activities. (As a condition of the receipt of financial assistance under this NOFA, all successful applicants will be required to cooperate with HUD staff and contractors who are performing HUD-funded research and evaluation studies.)

n. Development of methodologies for evaluating the effectiveness of remediations on the health of the resident or program participant. HUD believes health outcomes, particularly the reduction in asthmatic episodes or injuries, are an important component of projects funded through this NOFA and wants to assess how Healthy Homes remediations affect the health of the population being served relative to the population at large.

3. Other Direct Costs

a. Education and outreach that furthers the goal of protecting children from environmentally induced illnesses, including:

(1) Targeting specific communities which include low-or very low-income families, pregnant women, children, persons with disabilities, and other audiences such as homeowners, landlords, health care providers, residential construction contractors, maintenance personnel, housing inspectors, real estate professionals or home buyers;

(2) Conducting community education programs on housing-related environmental health and safety hazards. Materials should be available in alternative formats for persons with disabilities including Braille, audio, large type, upon request, and in languages other than English that are common in the community, consistent with HUD's published “Limited English Proficiency (LEP) Recipient Guidance” (see http://www.hud.gov/offices/fheo/promotingfh/lep.cfm);

(3) Development of local capacity for target groups to operate sustainable programs to prevent and control housing-related environmental health and safety hazards and to sustain Healthy Homes programs beyond the life of the award period.

4. Program Requirements. In addition to the program requirements in the General Section of the SuperNOFA, applicants must also meet the following program requirements:

a. Institutional Review Board (IRB) Approval. This requirement is discussed in detail in Section V, Rating Factor 3.

b. HIPAA Authorization. This requirement is discussed in detail in Section V, Rating Factor 3.

c. Community Involvement. Applicants must incorporate meaningful community involvement into any program that requires a significant level of interaction with a community (including projects being conducted within occupied dwellings or that involve surveys of community residents). This requirement is further discussed under Section V, Rating Factor 3.

d. Program Performance. Awardees shall take all reasonable steps to accomplish all healthy homes activities within the approved period of performance. HUD will closely monitor the awardee's performance with particular attention to completion of specified activities, deliverables and milestones, and number of units proposed to be assessed or to receive remediation.

e. Lead Hazard Control Activities. All lead hazard control activities must be conducted in compliance with HUD's Lead Safe Housing Rule, 24 CFR part 35, subparts B-R. Grantees must also comply with any additional requirements in effect under a state or Native American Tribal Lead-Based Paint Training and Certification Program that has been authorized by the EPA pursuant to 40 CFR 745.320. See Section III.C.2.e regarding lead hazard control activity limitations.

f. Compliance with the Lead Disclosure Rule. All lead-based paint and lead-based paint hazard test and hazard reduction results must be provided to the owner of the unit, with a statement describing the owner's legal duty to disclose the results to tenants (before initial leasing, or before lease renewal with changes) and buyers (before sale) if the housing was constructed before 1978 (24 CFR part 35, subpart A). Disclosure of other identified housing-related environmental health and safety hazards to the owner of the unit, for purposes of remediation, is encouraged but not required unless disclosure is required by Federal, state or local regulation.

g. Integrated Pest Management. All pest control activities shall incorporate the principles and methods of integrated pest management (IPM). In technical terms, IPM is the coordinated use of pest and environmental information with available pest control methods to prevent unacceptable levels of pest damage by the most economical means and with the least possible hazard to people, property, and the environment. The IPM approach emphasizes a targeted use of pesticides that limits the possibility of human exposure (e.g., as opposed to broadcast applications) and includes interventions based on the behavior of the target pest (e.g., preventing access to food or water). One source for information on IPM is Environmental Health Watch; you can download information from its Web site: http://www.ehw.org/Asthma/ASTH_Cockroach_Control.htm. Other IPM resources are provided in Appendix C.

h. Dust Sampling Protocol. Collection of settled dust samples for environmental allergen analysis (e.g., cockroach, dust mite) must follow HUD's standard dust sampling protocol, which is posted on the OHHLHC Web site under “Grantee Resources” at: http://www.hud.gov/offices/lead/hhi/hhd.cfm. If you choose to use a different protocol, you must provide a strong justification to HUD.

i. Hazardous Waste Disposal. Awardees must follow procedures for hazardous waste disposal as required by the EPA (e.g., 40 CFR parts 61, 260-282, 300-374, and/or 700-799, as applicable), the Department of Transportation (e.g., 49 CFR parts 171-177), and/or appropriate state or local regulatory agencies.

j. Worker Protection Procedures. Awardees must comply with the procedures for worker protection established in the HUD Guidelines as well as the requirements of OSHA, (e.g., 29 CFR part 1910 and/or 1926), as applicable, or the state or local occupational safety and health regulations, whichever are more stringent.

k. Written Policies and Procedures. You must have written policies and procedures for all phases of interventions, including recruitment, enrollment, participant prioritization, unit assessment, development of specifications, remediations, training, financing, occupant relocation, independent project inspection, and lead clearance testing. You should document how you will address mold, carbon monoxide or other hazards, as applicable. You and your subcontractors, sub-recipients, and their contractors must comply with these policies and procedures.

l. Data Collection and Provision. You must collect, maintain, and provide to HUD the data necessary to document the various approaches used to evaluate and control housing-related environmental health and safety hazards, including assessment and remediation methods, building conditions, medical and familial information (with confidentiality of individually-identifiable information ensured) in order to determine the effectiveness and relative cost of these methods.

m. Evaluation. You must develop an evaluation protocol in order to document the findings of your program. You may use a qualified individual or individuals associated with your program or other evaluators/researchers (e.g., from a local university) to develop the protocol and conduct the evaluation. HUD strongly encourages grantees to publish evaluation results in a scientific or professional journal to facilitate the distribution of project findings.

n. Section 3 Employment Opportunities. Recipients of assistance in the Healthy Homes Demonstration Program must comply with Section 3 of the Housing and Urban Development Act of 1968, 12 U.S.C. 1701u (Economic Opportunities for Low- and Very-Low-Income Persons in Connection with Assisted Projects) and the HUD regulations at 24 CFR part 135, including the reporting requirements of subpart E. See Section V, Rating Factor 3, for recommendations for implementing Section 3 Employment Opportunities.

o. Requirements for peer review of scientific data in accordance with the Office of Management and Budget (OMB) Information Quality Guidelines. All HUD-sponsored research is subject to the OMB Final Information Quality Bulletin for Peer Review (70 FR 2664-2667, January, 2005) prior to its public dissemination. In accordance with Paragraph II.2 of the Bulletin, HUD will not need further peer review conducted on information that has already been subjected to adequate peer review.

4. DUNS Requirement. Refer to the General Section of the SuperNOFA for information regarding the DUNS requirement.

IV. Application and Submission Information

A. Web Address To Access an Application Package

Copies of this published NOFA and application forms for this program may be downloaded from the Grants.gov Web site at http://www.grants.gov/applicants/apply_for_grants.jsp. If you have difficulty accessing the information you may call the Grants.gov helpline toll-free at (800) 518-GRANTS (4726) or e-mail support@grants.gov. Helpline customer representatives will assist you in accessing the information.

B. Content and Form of Application Submission

The following section provides instructions on the items to be submitted as part of the application. See the General Section of the SuperNOFA for instructions for submitting third party documents and electronic files.

1. An abstract describing the goals and objectives of your proposed program (2 page limit, single-spaced, 12 point, standard font, at least 3/4-inch margins) must be included in the proposal. The abstract should include the title of your proposed project, amount of funding requested from HUD, amount of funding leveraged, period of performance, a short summary of the proposed project and the mailing address, e-mail address, telephone and fax numbers of the principal contact person for the primary entity. Information contained in the abstract will not be considered in the evaluation and scoring of your application. Any information you wish considered should be provided under the appropriate rating factor. The abstract will not be included in the 25 page limit of the application.

2. A narrative statement addressing the rating factors for award must be included. You should number the pages of your narrative statement, and identify the rating factor to which the narrative is responding (for example, Factor 1, Capacity of the Applicant, etc.). You are strongly advised to use the format of the NOFA as an outline for discussion of your rating factors. The overall response to the rating factors must not exceed a total of 25 pages including all rating factors (single-sided, single-spaced, 12 point standard font, at least 3/4-inch margins). Any pages in excess of this limit will not be read. Application packages without a narrative statement addressing the rating factors will not be reviewed or considered for funding. You should carefully review each narrative attached to the electronic application to make sure that you have attached the correct file and not an incomplete one.

3. The score for each rating factor will be based on the content of the narrative submitted for each rating factor, supplemented by materials referenced and discussed in that portion of your narrative statement. Information relative to a given rating factor must be contained in the narrative for that rating factor. If it is found in another rating factor, it will not be considered. In addition, supplemental material that is not referenced and discussed within the narrative statement will not be credited towards your rating factor responses.

4. The position descriptions and resumes, if available, of your project director and project manager and up to three additional key personnel (in accordance with Rating Factor 1) shall not exceed 3 pages each (single-spaced, 12-point standard font, with at least 3/4 inch margins). These resumes or position descriptions will not be counted toward the 25-page limit.

5. An organizational chart for the proposed Healthy Homes Demonstration Project (not the sponsoring organization) that shows the relationship between the primary entity and partners, sub-contractors, etc.

6. Any attachments, materials, references, or other relevant information that directly supports the narrative may be included as an Appendix and must not exceed 20 pages for your entire application. Any pages in excess of this limit will not be read. See the General Section of the SuperNOFA for instructions for submitting third party documents or material not readily available in electronic format.

7. A detailed budget narrative (maximum 4 pages) with supporting justification for all budget categories of your funding request, in accordance with Rating Factor 3, Section V.A.2.c(4). This budget narrative will not be counted towards the 25-page limit of the application. In completing the budget forms and justification, you should address the following elements:

a. Direct Labor costs should include all full- and part-time staff required for the planning and implementation phases of the project. These costs should be based on full-time equivalent (FTE) or hours per year (hours/year). (One FTE equals 2,080 hours/year.)

b. You should budget for one trip annually for two people for meetings at HUD Headquarters in Washington, DC, assuming a 2-3 day stay per trip depending upon your location.

c. A separate budget proposal should be provided for any sub-recipients receiving more than 10 percent of the total federal budget request.

d. You should be prepared to provide supporting documentation for salaries and prices of materials and equipment, upon request.

e. Organizations that have a federally negotiated indirect cost rate should use that rate and the appropriate base. Organizations that do not have a federally negotiated rate schedule must obtain a rate from their cognizant agency; otherwise the organization will be required to obtain a negotiated rate through HUD.

f. You should submit a copy of the negotiated rate agreements for fringe benefits and indirect costs, if applicable, as an attachment to the budget sheets. This documentation will be verified during award negotiations.

8. Applicants are encouraged to use the following checklist to ensure that all required materials have been prepared and submitted. You are not required to submit this checklist with your application.

Checklist for Healthy Homes Demonstration Program Applicants

a. Applicant Abstract (limited to 2 pages).

b. Rating Factor Responses (Total narrative response limited to 25 pages. Rating Factor tables (Forms HUD-96012, 96016, 96015 and 96010) do not count toward the 25-page limit.).

(1) Capacity of the Applicant and Relevant Organizational Experience—Form HUD-96012.

(2) Need/Extent of the Problem—Form HUD-96016.

(3) Soundness of Approach.

(4) Leveraging Resources—Form HUD-96015.

(5) Achieving Results and Program Evaluation—Form HUD-96010 (Program Outcome Logic Model).

c. Required materials in response to rating factors (does not count towards 25-page limit).

(1) Form SF 424, “Application for Federal Assistance” .

(2) Form HUD-424-CBW, “Grant Application Detailed Budget Worksheet”.

(3) Form SF-424 Supplement (SF-424 SUPP), “Survey on Ensuring Equal Opportunities for Applicants” (Faith Based EEO Survey on Grants.gov), (to be completed by private nonprofit organizations only).

(4) Form SF-LLL, “Disclosure of Lobbying Activities” (if applicable).

(5) Form HUD-2880, “Applicant/Recipient Disclosure/Update Report” (HUD Applicant Recipient Disclosure Report on Grants.gov).

(6) Form HUD-2990, “Certification of Consistency with the RC/EZ/EC-II Strategic Plan”, signed by the authorized representative of the RC/EZ/EC-II (if applicable).

(7) Form HUD-27300, “Questionnaire for HUD's Removal of Regulatory Barriers” (HUD Communities Initiative Form on Grants.gov) (required only if applicant is seeking points regarding removal of regulatory barriers.).

(8) Form HUD-96011, “Third Party Documentation Facsimile Transmittal” (Facsimile Transmittal Form on Grants.gov). This is to be used as the cover page for faxing third party information for electronic applications only. See the General Section of the SuperNOFA.

(9) Resumes of Project Director, Project Manager and up to 3 Key Personnel (limited to 3 pages per resume).

(10) Position Descriptions for Key Personnel to be hired (limited to 1 page per description).

(11) Organizational Chart.

(12) Letters of Commitment (if applicable).

(13) Form HUD-2994A,—“You are Our Client! Grant Applicant Survey” (Optional).

d. Optional material in support of the Rating Factors (20-page limit)

C. Submission Dates and Times: Electronic applications must be received and validated by Grants.gov on or before 11:59:59 p.m. eastern time on the application submission date. Refer to the General Section of the SuperNOFA for submission requirements. Materials associated with your electronic application submitted by facsimile transmission must also be received by 11:59:59 p.m. eastern time on the application submission date. See Sections IV.B and IV.F of the General Section of the SuperNOFA for additional information on the electronic process and how to request a waiver from this requirement, if necessary.

D. Intergovernmental Review: Not required for this submission.

E. Funding Restrictions

1. Administrative Costs. There is a 10 percent maximum allowance for administrative costs. Detailed explanations of administrative costs are provided in applicable OMB Circulars (A-21—Cost Principles for Educational Institutions, A-87—Cost Principles for State, Local and Indian Tribal Governments, or A-122—Cost Principles for Nonprofit Organizations) that can be accessed at the White House Web site, https://www.whitehouse.gov/omb/circulars/index.html.

2. Purchase of Real Property is not permitted.

3. Purchase or lease of equipment having a per-unit cost in excess of $5,000 is not permitted, unless prior written approval is obtained from HUD.

4. Medical costs are not permitted (except for medical testing to protect the health of the intervention workers, supervisors, and contractors, if not reimbursable from another source).

5. For-profit organizations cannot receive a fee or profit.

6. Applicants must comply with the Coastal Barrier Resources Act (16 U.S.C. 3501).

7. You may not use grant funds for hazard control of a building or manufactured home that is located in an area identified by the Federal Emergency Management Agency (FEMA) under the Flood Disaster Protection Act of 1973 (42 U.S.C. 4001-4128) as having special flood hazards unless:

a. The community in which the area is situated is participating in the National Flood Insurance Program in accordance with the applicable regulations (44 CFR parts 59-79), or less than a year has passed since FEMA notification regarding these hazards; and

b. Where the community is participating in the National Flood Insurance Program, flood insurance on the property is obtained in accordance with Section 102(a) of the Flood Disaster Protection Act (42 U.S.C. 4012a(a)). You are responsible for assuring that flood insurance is obtained and maintained for the appropriate amount and term.

F. Other Submission Requirements: HUD requires applicants to submit applications electronically through http://www.grants.gov unless you request and are granted a waiver to the electronic submission requirements. See the General Section of the SuperNOFA. Applicants should submit their waiver requests in writing by e-mail. Waiver requests must be submitted no later than 15 days prior to the application deadline date and should be submitted to Jonnette Hawkins, Director, Program Management and Assurance Division, Office of Healthy Homes and Lead Hazard Control, at Jonnette.G.Hawkins@hud.gov. If granted a waiver, the notification will provide instructions on where to submit the application and how many copies are required. HUD will not accept a paper application without a waiver being granted. If you receive a waiver of the electronic application submission requirement, your application must be received by HUD no later than 11:59:59 PM on the application deadline date.

V. Application Review Information

A. Criteria

1. Rating and Ranking. Applications that meet all of the threshold requirements will be eligible to be scored and ranked, based on the total number of points allocated for each of the rating factors described in Section V.A.2 of this NOFA. Your application must receive a total score of at least 75 points to be considered for funding.

Each of the five factors is weighted as indicated by the number of points that are assigned to it. The maximum score that can be attained is 100 points for the narrative responses, plus an additional 2 bonus points for activities carried out in a RC/EZ/EC-II. Applicants should be certain that each of these factors is clearly and comprehensively addressed in the project description and accompanying materials.

HUD will not review any applications with a request for federal funding that exceeds the maximum amount specified in this NOFA.

2. Rating Factors. The factors for rating and ranking applicants, and maximum points for each factor, are provided below. Applicants should be certain that these factors are adequately addressed in the narrative responses to the rating factors and in the accompanying materials. Applicants are required to submit an eLogic Model in conjunction with the response to Rating Factor 5. The Logic Model is developed using a form which can be downloaded at the Grants.gov Web site. It is important that the Logic Model is consistent with the project narrative.

a. Rating Factor 1: Capacity of the Applicant and Relevant Organizational Experience (15 Points)

This factor addresses your organizational capacity, as well as that of your partner organizations, to successfully implement your proposed activities in a timely manner. The rating of your program includes any grassroots community-based nonprofit organizations firmly committed to your project, including faith-based organizations, sub-contractors, consultants, sub-recipients, and members of consortia. HUD strongly encourages the formation and development of consortia to increase the effectiveness of your Healthy Homes project. Applicants are encouraged to partner, fund, or sub-contract with grassroots community-based nonprofit organizations, including faith-based organizations, to carry out program activities. If these partnerships are proposed, applicants will receive higher rating points as specified in the General Section of the SuperNOFA. Applicants should note in their Rating Factor 1 narrative whether they are submitting multiple applications to OHHLHC, and, if so, the percentage commitment of staff for each application. In rating this factor, HUD will consider the three items listed below.

(1) Capacity and Qualifications of Key and Supporting Personnel (6 points). Describe your recent, relevant, and successfully demonstrated experience in undertaking eligible program activities. Describe the knowledge and experience of the proposed overall project director and day-to-day project manager in planning and managing large and complex interdisciplinary programs, especially those involving housing, public health, or environmental programs. Include information on your project support staff, their experience with housing and health programs, percentage commitment to the project, and position titles. Describe how other principal components of your organization will participate in, or support, your project. The day-to-day project manager's time commitment should be at least 50 percent and you should clearly indicate the project director's time commitment and describe why it is appropriate for the project. HUD will evaluate these percentages and determine if there is adequate project oversight. Resumes of up to 3 pages each for up to three key personnel, in addition to the project director and project manager, and a clearly delineated organizational chart for the proposed project (including all partner organizations), must be included in your application submission. Position descriptions or job announcements (including salary range, percent of time commitment, percentage of time covered by cooperative agreement funds) for unfilled positions, should be included for any key positions that are currently vacant or contingent upon an award. Successful applicants must hire all key staff positions identified in the proposal as vacant or required in the award agreement within 120 days of award. Please do not include the Social Security Numbers (SSN) of any staff members.

(2) Qualifications of Partner Organizations and Contractors (4 points). Include names and descriptions of the experience and qualifications of partner organizations and contractors. If partners are grassroots community-based, non-profit organizations, including faith-based organizations, include documentation demonstrating their grassroots community-based status, such as organizational profile, 501(c)(3) status or Social Services budget. (Lengthy documents are not required; face pages or extracted relevant text is adequate.)

(3) Past Performance of the Organization (5 points). This section refers to applicants who have any prior experience in another Healthy Homes or Lead Hazard Control grant, another grant related to environmental health and safety issues, or other experience in a similar program. If your organization is an existing Healthy Homes grantee, or if you received previous Healthy Homes Demonstration Program funding, provide your grant number(s) and HUD will review the information it has regarding your current and/or prior performance. If you received funding for a related grant from another agency or organization, provide details about the nature of the project, the funding agency, and your performance, relative to performance measures and the achievement of desired outcomes. You must complete and submit the Factor 1, Table 1, Form HUD-96012, which can be downloaded with your application at http://www.grants.gov/applicants/apply_for_grants.jsp, to support narrative information.

b. Rating Factor 2: Need/Extent of the Problem (14 Points)

This factor addresses housing-related environmental health and safety hazards (including, but not limited to, mold, allergens, lead-based paint hazards, carbon monoxide, pesticides, home safety hazards) in your target area(s) that impact on your targeted group(s), in order to demonstrate the need for your proposed project activities.

(1) Target Area for Proposed Activities (8 points). Specifically identify a target area for your proposed activities. Document the critical level of need for your proposed activities in this target area by providing relevant data identifying needs of area residents, especially those who are members of groups that are traditionally underserved or have special needs. If data are not available for your specific target area, indicate this (describe your efforts in documenting that data are not available) and provide data for the most relevant geographic area for which they are available and explain their relevance for your target area. Points will be awarded under this subfactor based on the following data.

(a) Economic and demographic data (4 points), including poverty and unemployment rates and the number and percentage of low- and very-low-income families with incomes less than 50 percent and 80 percent of the area median income (AMI), respectively, as determined by HUD, for the area. Statistics that describe low- and very-low-income families are available at http://factfinder.census.gov/home/saff/main.html?_lang=en. Applicants should also consult local data sources, such as city governments, for target area data.

(b) The age and condition of housing (4 points). In responding, provide data available in your jurisdiction's currently approved Consolidated Plan, the Analysis of Impediments to Fair Housing Choice (AI) or Indian Housing Plan, or derived from current census data or from other sources of comparable quality. Information of interest includes, for example, the age of housing, the frequency of code violations and other indicators of housing quality, and a description of recent events such as flooding or other disasters (if such data are relevant/available).

(2) Link to Housing-related Health and Safety Hazards (6 points). Your documentation should summarize available data linking housing-based environmental health and safety hazards to disease or injuries to children, especially in low- and very low-income families, in your target area. Data that might be used to demonstrate need include statistics for your target area that present rates of childhood illnesses (including asthma, elevated blood-lead levels) or injuries (falls, burns) among children that could be caused or exacerbated by exposure to conditions in the home environment. You must complete and submit the Factor 2 Table, Form HUD-96016, posted at http://www.grants.gov/applicants/apply_for_grants.jsp.

c. Rating Factor 3: Soundness of Approach (50 Points)

(1) Approach for Implementing the Project (33 points). HUD would like to be able to compare results achieved by Healthy Homes Demonstration projects and, to that end, would like to see standard approaches which would lead to comparable outcomes and performance measures. In HUD's experience, grantees have identified effective approaches to remediate a number of frequently identified housing/health hazards. You are encouraged to employ these or similar approaches as you develop your project plan. For further guidance, see Appendix C (Resources for Designing and Implementing Healthy Homes Demonstration Projects).

(a) Project Plan (5 Points). Describe your approach to implementing your proposed project. In particular describe the methods that will be used to identify and control housing-related environmental health and safety hazards and to achieve the desired improvements in the health of the families you serve. Include summary information about the estimated numbers of clients to be contacted, clients to be enrolled, units to be assessed, units to receive remediations, and individuals or groups that will be reached through education or outreach activities. You are expected to document environmental outputs (e.g., reduction in allergen levels) and health outcome measures, such as reduction in asthmatic episodes, pediatric asthma hospitalizations, emergency room visits for asthma, falls, burns, etc. These outputs and outcomes are critical to achieving the Healthy Homes Initiative Departmental Goal of reducing allergen levels in 5,000 units, and correspondingly reducing asthmatic episodes for 3,000 children living in these units by 2011. To facilitate the comparability of data across programs, you are strongly urged to use standardized data collection instruments, such as those listed in Appendix C. The use of standardized instruments facilitates your and HUD's ability to compile meaningful statistics and to compare results between programs.

(b) Community Involvement (2 points). If you are proposing to conduct a project that includes a significant level of community interaction (e.g., resident recruitment, home-based assessment and remediations, data collection, environmental sampling in residences) describe your plan for meaningful involvement of the target community in your proposed project. There are many different approaches for involving the community in the conception, design, and implementation of a project and the subsequent dissemination of findings. Examples include, but are not limited to, establishing a structured approach to obtain community input and feedback (such as involving a community advisory board), including one or more community-based organizations as program partners, training and employing community residents to recruit program participants and collect data, and enlisting the community in the dissemination of findings and translation of results into improved policies and/or practices. A discussion of community involvement in research involving housing-related health hazards can be found in Chapter 5 of the Institute of Medicine publication titled “Ethical Considerations for Research on Housing-Related Health Hazards Involving Children,” at http://www.iom.edu/cms/12552/26004/29871.aspx. You should identify the community that is most relevant to your particular project and discuss your proposed approach to community involvement and why it will make a meaningful contribution to your project and to the community.

(c) Institutional Review Boards and HIPAA (2 Points). In conformance with the Common Rule (Federal Policy for the Protection of Human Subjects, codified by HUD at 24 CFR 60.101, which incorporates the Department of Health and Human Services (DHHS) regulation at 45 CFR part 46), if your project involves human subjects, your organization must provide proof (e.g., a letter signed by an appropriate official) that the project has been reviewed and approved by an Institutional Review Board before you can initiate activities that require IRB approval. You must also provide the number for your organization's assurance (i.e., an “institutional assurance”) that has been approved by the DHHS's Office for Human Research Protections (OHRP). For additional information on what constitutes human subject research (please note that this is broadly defined) or how to obtain an institutional assurance see the OHRP Web site at http://www.hhs.gov/ohrp/.

Although you do not have to provide proof of IRB approval with your application, you should address how and when you will obtain such approval. If appropriate, describe how you will obtain informed consent (e.g., from the subjects, their parents or their guardians, as applicable) and discuss the steps you will take to help ensure participants' understanding of the elements of informed consent, such as the purposes, benefits and risks of the project. Describe how this information will be provided and how the consent will be collected. For example, describe your use of “plain language” forms, flyers and verbal scripts, if applicable, and how you plan to work with families with Limited English Proficiency (LEP), (as defined at http://www.hud.gov/offices/fheo/promotingfh/lep.cfm) or primary languages other than English, and with families, including persons with disabilities. You must also comply with the Health Insurance Portability and Accountability Act of 1996 (HIPAA), if relevant. The Privacy Rule of HIPAA defines covered entities as those that transmit health information electronically (health care providers, health plans, etc.). Only those entities are required to protect that information under HIPAA. (Other requirements for confidentiality of personal data may apply.) This may be accomplished by obtaining authorization from the patient or parent, obtaining a waiver of authorization from an IRB or HIPAA Privacy Board, or de-identifying data. You should identify whether your proposal is subject to requirements of the HIPAA Privacy Rule and, if so, how you plan to address these requirements. Additional information on HIPAA and the Privacy Rule can be found at http://www.hhs.gov/ocr/hipaa. Additional information is also available at: http://privacyruleandresearch.nih.gov/authorization.asp.

(d) Staff and Partner Training and Capacity Building (2 points). Provide detailed information regarding how program staff and, where applicable, partnering organizations will be trained in the disciplines needed to successfully implement your project (e.g., resident education, assessments, remediations and project evaluation). Include an outline of training curricula, a description of qualifications of trainers, and describe how individuals or groups to be trained will be selected.

(e) Economic Opportunity (2 points). To the greatest extent feasible, your project should promote job training, employment, and other economic opportunities for low-income and minority residents and businesses that are owned by, and/or employ, low-income and minority residents as defined in 24 CFR 135.5. Describe how you or your partners will comply with Section 3 of the Housing and Urban Development Act of 1968 (12 U.S.C. 1701u) and HUD's implementing rules at 24 CFR part 135 by:

(i) Providing training and employment opportunities for low- and very low-income persons living within the target area, thus providing opportunities for self-sufficiency, particularly for persons enrolled in welfare-to-work programs.

(ii) Purchasing goods and supplies, or contracting for services from businesses that are owned by, and/or employ, low- and very low-income persons living within the target area. Information about Section 3 requirements is available at: http://www.hud.gov/offices/fheo/section3/section3.cfm.

(f) Recruitment and Enrollment (6 Points).

(i) Describe your proposed methods to reach high-risk groups and communities, vulnerable populations and traditionally underserved populations by affirmatively furthering fair housing, which would include, but not be limited to: (A) Affirmative marketing of the program to those least likely to apply based on race, color, sex, familial status, national origin, religion, or disability (especially when persons in these demographic groups are generally not served by the grassroots community-based, nonprofit organizations, including faith-based organizations or other partner organizations); (B) providing materials in alternative formats for persons with disabilities; providing materials in languages other than English for individuals with limited English proficiency and their families; (C) assuring long-term residency by families currently living in the community; and (D) assuring that priority for treated units go to those who need the features (treatment) of the unit.

(ii) Describe how you will monitor enrollment and recruitment status and implement measures identified to sustain enrollment and recruitment.

(iii) Discuss possible recruitment problems, and the probability of dropouts, and describe measures you will perform to sustain recruitment and enrollment, including over-recruitment to account for drop-outs, and incentives for sustainability of participants throughout the period of performance of the cooperative agreement.

(g) Unit Assessments and Medical Referrals (3 Points).

(i) Describe how you will identify, prioritize, and enroll units of housing in which you will assess and perform housing-based environmental health and safety remediations, targeting low- and very low-income families with young children and other sensitive subgroups to the extent feasible.

(ii) Describe the assessment tools your project will employ to evaluate and establish baseline data for unit condition, and the health of the occupant(s). These tools include questionnaires, visual assessment protocols, and protocols for environmental sampling and analysis.

(iii) If you are planning to conduct dust sampling for allergen analyses as part of your unit assessment plans, you should judiciously select the allergens that you will test for to avoid unnecessary expenditures on data that could be of little value. For example, it is often not necessary to analyze samples for dog or cat allergens because their presence can be assumed based on the presence of a pet. If possible, the allergen(s) that are targeted should reflect your knowledge of the housing stock (e.g., cockroach infestation is common in older, low income, multifamily housing) and if known, the sensitivities of the individual(s) in a specific household.

(iv) Describe the process to be followed for referring children for medical case management, if applicable. Describe the organizations that will be involved in this process, their knowledge of healthy homes issues, and their prior experience providing case management to the target population(s).

(h) Remediations (7 Points).

(i) Describe your process for the development of work specifications for the selected physical remediations and for identifying individuals (or organizations) to develop the work specifications. Include specifics about the individual's position or the organizational role in your project.

(ii) Discuss efforts to incorporate cost-effective methods to address multiple housing-related environmental health and safety hazards, and describe the specific remediations you will employ to control these hazards before children are affected; and/or to control these hazards in units where children have already been treated for illnesses or injuries associated with these hazards (e.g., burns, lead poisoning, asthma). Describe how you will track the costs of remediations and provide information about the strategy that you use to confirm the efficacy of these remediations.

(iii) Discuss your process to select and obtain contractors for conducting remediations in selected units and provide details about the competitive bidding process.

(iv) Discuss how you will assure that the contractor will comply with all applicable Federal, state and local regulations.

(v) Describe your plan for the relocation of occupants of units selected for remediation, if temporary relocation is necessary. Address the use of safe houses and other housing arrangements, storage of household goods, stipends, incentives, etc., and the source of funding for relocation.

(vi) If relocation is necessary for occupants of rental units, describe your plan for ensuring right of return and/or first referral for occupants of these units. (For further information, see Section VI.B.4., below).

(i) Community Education, Outreach and Capacity Building/Training (4 Points).

(i) Describe your proposed methods for community and/or targeted education and training. These should include community awareness, education, training, and outreach programs that support your work plan and are culturally sensitive and targeted appropriately. Provide information about specific educational/outreach activities with quantitative data (number of individuals to be reached, etc.) and a description of the intended audience (include plans for both program participants and the community at large).

(ii) Discuss whether Healthy Homes training programs will be expanded to include non sub-grantee organizations, such as public housing agencies, Tribally Designated Housing Entities, grassroots community-based or nonprofit organizations, including faith-based organizations. If so, describe your plan for doing this.

(2) Approach for Managing the Project (5 points). Considering your project goals and objectives, describe how you will manage the project. Provide information on the general management approach including a management plan that:

(a) Incorporates appropriate project objectives, major tasks/activities, responsible entities, performance goals, and the process that you will utilize to assign, track and monitor the performance of major tasks and activities. All major activities necessary to complete the proposed project, such as recruitment, unit assessment, enrollment, remediation, training, education and outreach, and project evaluation, should be included.

(b) Provides a schedule of milestones and deliverables for the completion of major tasks and activities, and the delivery of interim and final products.

(c) Discusses coordination with sub-recipients, partners and staff. Document how you propose to coordinate with and monitor sub-contractors, including frequency of meetings, on-site inspections and submission of formal monthly or quarterly reports. Discuss your communication and coordination with partners, including partner responsibilities, meeting frequency, etc.

(3) Quality Assurance (QA) Activities (2 Points). Successful Healthy Homes Demonstration Program applicants that are collecting housing, demographic, medical or environmental data must ensure the quality and integrity of the data. Describe the elements of your project that will integrate QA activities into the project design and applicable activities such as visual assessments, environmental assessments and questionnaires. Elements you may want to describe include the use of quality control samples. The awardee is also required to submit quality control (QC) samples of allergens in residential household dust, provided by HUD to the grantee at no cost, as blind samples in the train of samples submitted for laboratory analysis. For the purpose of budgeting for laboratory analyses of these samples, assume that 5 percent of your total allergen dust samples will consist of HUD-provided QC samples. You should also discuss the use of validated questionnaires and assessment tools (see Appendix C), data collection, data management (e.g., ensuring the accuracy of data entry), statistical analysis, staff training and monitoring. Your description will be evaluated relative to its thoroughness, level of detail, and appropriateness for ensuring the validity and quality of the data. If funded, you will be asked to develop a brief Quality Assurance Plan that incorporates these elements.

(4) Budget Justification (4 points). Your proposed budget will be evaluated for the extent to which it is reasonable, clearly justified, and consistent with the project management plan and intended use of program funds. HUD is not required to approve or fund all proposed activities. Your detailed budget should be submitted using Form HUD-424-CBW. An electronic copy is available at: http://www.grants.gov/applicants/apply_for_grants.jsp. You must thoroughly document and justify all budget categories and costs and all major tasks for yourself, sub-recipients, partners, major subcontractors, joint venture participants, or others contributing resources to the project. Provide an estimate of the average cost of each remediation (material costs and labor costs associated with installation) and an estimate of total costs projected per unit. Include a 4-page (maximum) narrative that describes clearly and in detail your budgeted costs for each required program element (major task) included in your overall plan. (At least 65 percent of the budget must be expended for direct remediation (see Section III: Eligibility Information, C, Other, 2, Eligible Costs and Activities for a discussion of activities which can be included in the 65% expenditures). Include a separate, detailed budget for any sub-grantee proposed to receive more than 10 percent of the total federal budget request.

(5) HUD's Departmental Policy Priorities (6 Points). Indicate if, and describe how, you will address any of HUD's Departmental policy priorities (see General Section of the SuperNOFA). You will receive points for each of the applicable FY 2008 policy priorities that are adequately addressed in your application and incorporated into work plan activities showing outputs and outcomes to a maximum of six points. Policy priorities that are applicable to the Healthy Homes Demonstration NOFA are: (1) Improving our Nation's Communities (focus on distressed communities); (2) Providing Full and Equal Access to Grassroots, Faith-Based and Other Community Organizations in HUD Program Implementation; (3) Participation of Minority-Serving Institutions in HUD Programs; (4) Removal of Regulatory Barriers to Affordable Housing; and (5) Reducing Energy Costs. Minority serving institutions are defined by the Department of Education and listed at http://www.ed.gov/about/inits/list/whhbcu/edlite-list.html. Only institutions appearing on this list are eligible for a point under Policy Priority (3).

Each policy priority is worth one point, except for policy priority (4), Removal of Regulatory Barriers to Affordable Housing, which is worth up to 2 points. In order to earn the points, applicant must submit the required documentation as described in Form HUD-27300 or may instead provide a Web site address where the documentation can be readily found.

d. Rating Factor 4: Leveraging Resources (8 Points)

This factor addresses your ability to secure other community resources (e.g., financing, supplies, and/or services) that can be combined with HUD's resources to achieve project outcomes. These community resources may be contributions from organizations such as the applicant, partners, or other organizations not directly involved in the project. Resources may also be provided by state and local governmental entities. Contributed resources must be shown to be specifically dedicated to and integrated into supporting program activities. While cost sharing or matching is not required, HUD will award a higher score under this rating factor if you provide documentation of commitments for significant leveraging. In assigning points for this factor, HUD will consider the significance of the leveraging in the context of the amount of federal funds you are requesting. Applicants proposing to contribute resources valued at 10% or more of the federal funds requested will receive the most points. Applicants should note that, if they are submitting multiple proposals to OHHLHC and are selected for multiple awards, they may not use the same resources for leveraging.

(1) HUD will consider the extent to which you have developed partnerships or consortia to secure additional resources to increase the effectiveness of your proposed project. Describe how other organizations will participate in or support your project. Resources may include funding or in-kind contributions (e.g., labor, fringe benefits, services, supplies, or equipment) budgeted for your proposed project. Include in the narrative the details of the commitment, the amount being leveraged, or if the commitment is in-kind, the specific names, percent of time, supplies and other resources. You should provide an estimate of the monetary value of each of the leveraged resources, which you should be prepared to document.

(2) The signature of the authorized official on the Form SF-424 commits contributed resources of the applicant organization. The applicant must obtain a letter of commitment from each organization (other than itself) that is contributing resources, whether cash or in-kind. The letter must describe the contributed resource(s) that will be used in your project and assign a dollar value to each contribution. Staff and in-kind contributions should be given a market-based monetary value. Each letter of commitment, memorandum of understanding, or agreement to participate shall include the organization's name and the proposed level of commitment and roles and responsibilities as they relate to the proposed project. The commitment must be on official letterhead and signed by an official legally able to make commitments on behalf of the organization and dated. Letters must be submitted with your application.

(3) Include information to address the following elements:

(a) Describe your plan for integrating and coordinating housing-related environmental health and safety hazard remediations with other housing-related activities (e.g., rehabilitation, weatherization, correction of code violations, and other similar work).

(b) Describe your plans to generate and use public subsidies or other resources, such as loan funds, to finance future remediations to prevent and control housing-related environmental health and safety hazards, particularly in low- or very low-income families with young children and other sensitive subgroups.

(c) The extent to which your project exhibits the potential to be financially self-sustaining by decreasing dependence on federal funding and relying more on state, local and private funding to continue healthy homes activities after the funding period is completed. Applicants are to complete the Factor 4 table, Form HUD-96015, Leveraging Resources, that is posted at http://www.grants.gov/applicants/apply_for_grants.jsp.

e. Rating Factor 5: Achieving Results and Program Evaluation (13 Points)

This rating factor reflects HUD's goal to embrace high standards of ethics, management and accountability. HUD is committed to ensuring that applicants keep promises made in their applications and assess their performance to ensure that performance goals are met. In your response to this rating factor, you are to discuss the performance goals for your project and specific outcome measure results. Discuss the specific methods you will use to measure progress towards your goals, track and report results of assessments and remediations, and evaluate the efficacy and cost-effectiveness of remediations. You should also identify milestones that are critical to achieving project objectives (e.g., developing questionnaires or protocols, hiring staff, recruitment of participants, and IRB approval and/or HIPAA Authorization, if applicable). Also identify benchmarks (e.g., number of units that receive assessments and interventions) that you will use to track the progress of your project, and identify project deliverables.

You should focus particular attention on providing details on the project outputs and outcomes that you will capture. While project outputs (e.g., homes assessed, individuals trained) are important for helping you and HUD to track the progress of your proposed project, the capture of outcomes is of the greatest importance. Outcome measures should follow logically from your program goals and activities. HUD is especially interested in measures of residential health risk (e.g., sustained reduction in cockroach allergen loadings, reduction in injury hazards), health outcomes, and quality of life. You should provide a description of how these outputs/outcomes will be measured. Resident health outcomes do not necessarily require medical testing, such as spirometry or documenting blood-lead levels, and may be assessed using standard questionnaires or other instruments (see Appendix C for examples of standardized instruments). Careful attention should be given to the relationship between the residential interventions implemented by the program (e.g., physical changes in the environment, changes to cleaning protocols, in-home training or provision of educational materials) and the effect on resident health and quality of life. To help ensure the quality and utility of project evaluations, HUD encourages applicants to consider teaming with experienced evaluators when developing your project (e.g., faculty at local colleges/universities) and conducting your evaluation.

In addition, you should describe how you will collect the data necessary to estimate the monetary costs and benefits of your proposed Healthy Homes project. Examples of benefits include reduction in medical care utilization and improved quality of life. For interventions for which benefits cannot be directly measured (e.g., reduction in residential fire injuries and mortality) it may be possible to estimate benefits based on the “risk reduction” that is achieved through the intervention (e.g., fire deaths likely to be prevented through installation of smoke alarms with 10-yr. batteries).

HUD believes that it is important to widely disseminate the findings of projects funded through Healthy Homes grants so that other programs can benefit from these findings. This can also help identify “best practices” for the design and implementation of Healthy Homes projects as well as ineffective approaches. Provide a discussion of your plan to disseminate the findings of your Healthy Homes program (e.g., posting information on the Web, presentation at public meetings, publication in journals). Applicants that provide a credible plan for publishing results in a professional or scientific journal will receive the most points for this subfactor. In evaluating Rating Factor 5, HUD will consider how you have described the benefits and outcome measures of your program. You must submit the Logic Model, Form HUD-96010. HUD is using an electronic Logic Model with drop down menus from which you can select needs, activities, and outcomes appropriate to your program. See the earlier discussion as well as the General Section of the SuperNOFA for detailed information on use of the Logic Model. Applicants must submit the Logic Model in the Microsoft Office Excel 2003 format provided. Do not convert the file to PDF format. HUD is requiring grantees to use program-specific questions to self-evaluate the management and performance of their program. Training on HUD's Logic Model will be provided via satellite broadcast.

f. Bonus Points: RC/EZ/EC-II (2 Points)

Applicants are eligible to receive 2 bonus points for projects located within federally designated Renewable Communities (RCs), Empowerment Zones (EZs), or Enterprise Communities (ECs) designated by USDA in round II (EC-IIs) (collectively referred to as RC/EZ/EC-IIs), and which will serve the residents of these communities (see the General Section of the SuperNOFA). In order to be eligible for the bonus points, applicants must submit a completed Form HUD-2990 signed by the appropriate official of the RC/EZ/EC-II.

B. Reviews and Selection Process: The review and selection process is provided in the General Section of the SuperNOFA. The General Section also provides the procedures for correcting deficient applications.

VI. Award Administration Information

A. Award Notices

1. Applicants Selected for Award.

a. Successful applicants will receive a letter from the Office of Healthy Homes and Lead Hazard Control Grant Officer providing details regarding the effective start date of the cooperative agreement and any additional data and information to be submitted to execute a cooperative agreement. This letter is not an authorization to begin work or incur costs under the cooperative agreement.

b. HUD may require that a selected applicant participate in negotiations to determine the specific terms of the cooperative agreement and budget. If the applicant accepts the terms and conditions of the cooperative agreement, a signed cooperative agreement must be returned by the date specified. In cases where HUD cannot successfully conclude negotiations with a selected applicant or a selected applicant fails to provide HUD with requested information, an award will not be made to that applicant. In this instance, HUD may offer an award, and proceed with negotiations with the next highest-ranking applicant. Applicants should note that, if they are selected for multiple OHHLHC awards, they must ensure that they have sufficient resources to provide the promised leveraging for the multiple awards. During negotiations, applicants selected for multiple awards will be required to provide alternative leveraged resources, if necessary, before the grant can be awarded. This is required in order to avoid committing duplicate leveraged resources to more than one OHHLHC grant. Refer to the General Section of the SuperNOFA for additional details on negotiation.

Instructions on how to have the cooperative agreement account entered into HUD's Line of Credit Control System (LOCCS) payment system will be provided. Other forms and program requirements will be provided. In accordance with OMB Circular A-133 (Audits of States, Local Governments and Nonprofit Organizations), awardees will have to submit their completed audit-reporting package along with the Data Collection Form (SF-SAC) to the Single Audit Clearinghouse. The SF-SAC can be downloaded at: http://harvester.census.gov/sac/.

2. Debriefing. The General Section of the SuperNOFA provides the procedures for applicants to request a debriefing. Applicants wanting to receive a debriefing must send an e-mail request to Christine.X.Freeman@hud.gov.

3. Adjustments to Funding. Refer to the General Section of the SuperNOFA for additional details.

B. Administrative and National Policy Requirements

1. Environmental Requirements. Under the Consolidated Appropriations Act, 2008 (Pub. L. 110-161), the provisions of section 305(c) of the Multifamily Housing Property Disposition Reform Act of 1994, implemented by HUD regulations at 24 CFR part 58, “Environmental Review Procedures for Entities Assuming HUD Environmental Responsibilities,” are applicable to properties assisted with Healthy Homes Demonstration funds. In accordance with Part 58, applicants under this NOFA that are States, units of general local government or Indian Tribes must act as the responsible entity and assume the environmental review responsibilities for activities funded under this NOFA. Other applicants, including for-profit/not-for-profit organizations, must contract with a state or unit of general local government or Indian Tribe to act as the responsible entity. The expenses associated with this contractual work should be clearly shown in the budget and discussed in the budget narrative. Under 24 CFR 58.11, if a non-recipient responsible entity objects to performing the environmental review, or if a recipient that is not a responsible entity objects to the local or tribal government performing the environmental review, HUD may designate another responsible entity to perform the review or may perform the environmental review itself under the provisions of 24 CFR part 50. Healthy Homes Demonstration Program applicants and other participants in activities under this NOFA may not undertake, or commit or expend federal or non-federal funds (including leveraged funds) for housing interventions, related rehabilitation or other physical activities until the responsible entity completes an environmental review and the applicant submits and obtains HUD approval of a request for release of funds and the responsible entity's environmental certification in accordance with Part 58 (or until HUD has completed an environmental review under Part 50). The results of environmental reviews on individual projects may require that proposed activities be modified or proposed sites rejected. For assistance, contact Edward Thomas, the Office of Healthy Homes and Lead Hazard Control Environmental Officer, at (215) 861-7670 (this is not a toll-free number) or the HUD Environmental Review Officer in the HUD Field Office serving your area. If you are a hearing- or speech-impaired person, you may reach the telephone number via TTY by calling the toll-free Federal Information Relay Service at 1-800-877-8339. Recipients of a cooperative agreement under this NOFA will be given guidance in these responsibilities.

2. Executive Order 13202. “Preservation of Open Competition and Government Neutrality Towards Government Contractors' Labor Relations on Federal and Federally-Funded Construction Projects.” See General Section of the SuperNOFA for information concerning this requirement. http://www.hud.gov/.

3. Procurement of Recovered Materials. See the General Section of the SuperNOFA for information concerning this requirement.

4. Relocation. The relocation requirements of the Uniform Relocation Assistance and Real Property Acquisition Policies Act of 1970 (URA), as amended, and the implementing government wide regulation at 49 CFR part 24, that cover any person (including individuals, businesses, and farms) displaced as a direct result of the acquisition, rehabilitation, or demolition of real property, apply to this grant program. If such persons are required to temporarily relocate for a project, the requirements of the URA regulations at 49 CFR 24.2(a)(9) must be met. HUD recommends you review these regulations when preparing your proposal. (They can be downloaded from the Government Printing Office Web site at http://www.gpoaccess.gov/cfr/index.html by entering the regulatory citation in quotes without any spaces (e.g., “49CFR24.2”) in the Quick Search box.) See Section III.C.4.e of the General Section for additional information about relocation.

5. Conducting Business in Accordance with HUD Core Values and Ethical Standards. If selected for an award under the Healthy Homes Demonstration Program NOFA, you will be required to submit a copy of your Code of Conduct and describe the methods you will use to ensure that all officers, employees, and agents of your organization are aware of your Code of Conduct. If you previously submitted your Code of Conduct to HUD and it appears in the listing on HUD's Web site at http://www.hud.gov/offices/adm/grants/codeofconduct/cconduct.cfm, you do not have to resubmit the information unless: (1) There has been a change in the legal name, address or authorizing official for your organization or (2) there has been any change to the actual Code of Conduct since it was last submitted. See the General Section of the SuperNOFA for information about conducting business in accordance with HUD's core values and ethical standards.

6. Davis-Bacon Wage Rates. The Davis-Bacon wage rates are not applicable to this program. However, if you use grant funds in conjunction with other federal programs, Davis-Bacon requirements will apply to the extent required under the other federal programs.

7. Audit Requirements. Any grant recipient that spends $500,000 or more in federal financial assistance in a single year must meet the audit requirements established in 24 CFR part 84 or part 85, as applicable, in accordance with OMB Circular A-133.

C. Reporting

Successful applicants will be required to submit quarterly and final program and financial reports according to the requirements of the Office of Healthy Homes and Lead Hazard Control. Specific guidance and additional details will be provided to successful applicants. The following items are a part of OHHLHC reporting requirements.

1. Final Work Plan and Budget are due prior to the effective start of the cooperative agreement.

2. Progress reports are due on a quarterly basis. In quarterly reports, grantees provide information about accomplishments in the areas of program management and capacity building; assessment and intervention activities; environmental outputs, health outcomes, community education, outreach, training and capacity building; data collection and analysis; as well as a listing of completed units and financial report. Project benchmarks and milestones will be tracked using a benchmark spreadsheet that uses the benchmarks and milestones identified in the Logic Model form (HUD-96010) approved and incorporated into your award agreement. For specific reporting requirements, see policy guidance at http://www.hud.gov/offices/lead/grants/index.cfm#reports.

3. A final report is due at the end of the project period, which includes final project benchmarks and milestones achieved against the proposed benchmarks and milestones in the Logic Model (HUD-96010) approved and incorporated into your award agreement. The final report shall also respond to the management questions found in the Logic Model and approved for your program. Successful applicants are strongly encouraged to submit a draft of a publishable paper as a major component of the final report. Specific information on all reporting requirements will be provided to successful applicants.

4. Racial and Ethnic Beneficiary Data. HUD does not require Healthy Homes Demonstration Program awardees to report ethnic and racial beneficiary data as part of their initial application package. However, such data must be reported on an annual basis, at a minimum, during the implementation of your cooperative agreement. You must use the Office of Management and Budget's Standards for the Collection of Racial and Ethnic Data to report these data, using Form HUD-27061, “Race and Ethnic Data Reporting Form,” if applicable (HUD Race Ethnic Form on Grants.gov) found on http://www.hudclips.org/sub_nonhud/html/forms.htm, along with instructions for its use.

VII. Agency Contacts

For questions related to the application download submission process, you may contact the Grants.gov helpline at (800) 518-GRANTS. For programmatic questions, you may contact by writing Dr. Suzanne Gaynor; Department of Housing and Urban Development; Office of Healthy Homes and Lead Hazard Control; 451 Seventh Street, SW., Room 8236; Washington, DC 20410-3000; or by telephone at (202) 402-7689 (this is not a toll-free number); or via e-mail at: Suzanne.M.Gaynor@hud.gov. For administrative questions, you may contact Curtissa L. Coleman, Grants Officer, at the address above or by telephone at: (202) 402-7580 (this is not a toll-free number) or via e-mail at: Curtissa.L.Coleman@hud.gov. If you are hearing- or speech-impaired, you may reach the above telephone numbers via TTY by calling the toll-free Federal Information Relay Service at 800-877-8339.

VIII. Other Information

A. General: For additional general, technical, and program information pertaining to the Office of Healthy Homes and Lead Hazard Control, visit: http://www.hud.gov/offices/lead.

B. Paperwork Reduction Act: The information collection requirements contained in this document have been approved by the Office of Management and Budget (OMB) under the Paperwork Reduction Act of 1995 (44 U.S.C. 3501-3520) and assigned OMB control number 2539-0015. In accordance with the Paperwork Reduction Act, HUD may not conduct or sponsor, and a person is not required to respond to, a collection of information unless the collection displays a currently valid OMB control number. Public reporting burden for the collection of information is estimated to average 80 hours to prepare the application and 16 hours to finalize the cooperative agreement. This includes the time for collecting, reviewing, and reporting the data for the application. The reporting burden for completion of the Quality Assurance Plan by applicants who are awarded a cooperative agreement is estimated at 24 hours per grantee (OMB approval is pending). Response to this request for information is required in order to receive the benefits to be derived.

C. Appendices. Appendices A, B, and C to this NOFA are available for downloading with the application at http://www.grants.gov/applicants/apply_for_grants.jsp.

Housing Choice Voucher Family Self-Sufficiency Program Coordinators

Overview Information

A. Federal Agency Name: Department of Housing and Urban Development, Office of Public and Indian Housing, Office of Public Housing and Voucher Programs.

B. Funding Opportunity Title: Housing Choice Voucher (HCV) Family Self-Sufficiency (FSS) Program Coordinators.

C. Announcement Type: Initial announcement.

D. Funding Opportunity Number: FR 5200-N-03, the OMB Approval Number is 2577-0178.

E. Catalog of Federal Domestic Assistance (CFDA) Number(s): 14.871, Section 8 Housing Choice Vouchers.

F. Dates: The application deadline date is June 12, 2008. Please see the General Section for timely receipt requirements.

G. Additional Information: The purpose of the HCV FSS program is to promote the development of local strategies to coordinate the use of assistance under the HCV program with public and private resources to enable participating families to increase earned income, reduce or eliminate the need for welfare assistance, and make progress toward economic independence and self-sufficiency. The FSS program and this FSS NOFA support the Department's strategic goal of helping HUD-assisted renters make progress toward self-sufficiency. The FSS program provides critical tools that can be used by communities to support welfare reform and help families develop new skills that will lead to economic self-sufficiency. As a result of their participation in the FSS program, many families have achieved stable, well-paid employment. An FSS program coordinator assures that program participants are linked to the supportive services they need to achieve self-sufficiency.

Full Text of Announcement

I. Funding Opportunity Description

A. Authority and Program Description. The Consolidated Appropriations Act, 2008 (Pub. L. 110-161, approved December 26, 2007) allows funding for program coordinators under the HCV FSS program under section 23 of the United States Housing Act of 1937. Through annual NOFAs, HUD has provided funding to public housing agencies (PHAs) that are operating HCV FSS programs to enable those PHAs to employ program coordinators to support their HCV FSS programs. In the Fiscal Year (FY) 2008 HCV FSS Program Coordinator NOFA, HUD is again making funding available to PHAs to employ HCV FSS program coordinators and HCV FSS homeownership program coordinators for one year. Funding priority under this NOFA will be provided to applicants with Public Housing Information Center (PIC) data confirming that their FSS families have purchased homes and to applicants whose PIC data demonstrate program accomplishments, such as increased HCV FSS program size, increased earned income of program participants, and families successfully completing their FSS contracts. HUD will accept applications from both new and renewal PHAs that have HUD approval to administer an HCV FSS program. PHAs funded under the HCV FSS NOFA in FY 2005, FY 2006, or FY 2007 are considered “renewal” PHAs in this NOFA. These renewal PHAs are invited to apply for funds to continue previously funded HCV FSS program coordinator and HCV FSS homeownership coordinator positions that they have filled.

Because of the importance of the FSS program in helping families increase earned income and develop assets, HUD will also accept applications from “new” PHAs (PHAs that do not qualify as renewal PHAs as defined under this FSS NOFA). The maximum number of positions that a new applicant PHA, including new PHA joint applicants, may receive is one full-time FSS program coordinator.

To support the Department's initiatives on Colonias, a selection preference is again included for “new” applicant PHAs that provide services and support to rural under-served communities in the Southwest Border regions of Arizona, California, New Mexico, and Texas. See Section III.C.3.c. of this NOFA for requirements that must be met to qualify for the Colonias preference.

PHAs are encouraged to outreach to persons with disabilities who are HCV program participants and might be interested in participating in the FSS program. PHAs are also encouraged to include agencies on their FSS Program Coordinating Committee (PCC) that work with and provide services to families with disabilities.

Applicants must administer the HCV FSS program in accordance with HUD regulations and requirements in 24 CFR part 984, which govern the HCV FSS Program, and must comply with existing HCV program requirements, notices, and guidebooks.

B. Number of Positions for Which Eligible PHAs May Apply. Eligible PHAs may apply for funding for HCV FSS program coordinator positions under this NOFA as follows:

1. Renewal PHA Applicants. PHAs that qualify as eligible renewal PHA applicants under this NOFA may apply for continuation of each FSS coordinator position, including homeownership coordinator positions, awarded under the HCV FSS NOFA in FY 2005, FY 2006 or FY 2007 that has been filled by the PHA.

2. New PHA Applicants. New PHA applicants may apply for HCV FSS program coordinator positions as follows: (a) Up to one full-time HCV FSS coordinator position for a PHA applicant with HUD approval to administer a HCV FSS program of 25 or more FSS slots and, (b) up to one full-time HCV FSS coordinator position per application for joint PHA applicants that together have HUD approval to administer a total of at least 25 HCV FSS slots.

C. Definitions. The following definitions apply to the funding available under this NOFA.

1. Renewal PHA Applicant. A PHA or PHAs that received funding under the HCV FSS NOFA in FY 2005, FY 2006 or FY 2007.

2. New PHA Applicant. PHAs that did not receive funding under the HCV FSS NOFA in FY 2005, FY 2006 or FY 2007 that have HUD approval to administer a HCV FSS program of at least 25 slots or that fulfill the 25 slot minimum by applying jointly with one or more other PHAs.

3. FSS Program Size. The total number of HCV FSS program slots identified in the PHA's HUD-approved FSS Action Plan, or if requested by Moving to Work (MTW) PHA applicants, the number of slots in the applicant's MTW agreement. The total may include both voluntary and mandatory HCV FSS program slots. This number is used in determining the eligibility of new applicant PHAs under this NOFA.

4. Qualifying FSS Homeownership Program. Qualifying homeownership programs include the HCV Homeownership Program and other programs administered by the PHA or other entities that prepare HCV program FSS participants for making the transition from renting to homeownership.

5. The Number of HCV FSS Program Participants. The total number of families shown in HUD's PIC data system or applicable MTW report, as enrolled in the applicant's HCV FSS program at the end of a specified calendar year, plus those families that successfully completed their FSS contracts during that calendar year.

6. Percentage of Families with Positive FSS Escrow Balances. A percentage that will be computed by HUD and used to determine funding order of priority 3 applicants under this NOFA. It is the sum of the number of HCV FSS families with positive escrow balances and the number of families that successfully completed their FSS contracts as a percentage of HCV FSS families with FSS progress reports. This calculation will be made using data for the period from December 31, 2006 through December 31, 2007 that has been submitted to HUD on the Form HUD-50058. For MTW applicants, a comparable reporting source may be used.

7. HCV Program Size. The number of HCVs in a PHA's program as determined by HUD using Voucher Management System (VMS) data.

8. HCV FSS Program Size Increase Percentage. A percentage calculated for renewal PHA applicants whose number of HCV FSS participants in Calendar Year 2007 is higher than their Calendar Year 2006 number of participants.

II. Award Information

Available Funds. This NOFA announces the availability of up to $49 million in FY 2008 to employ FSS program and FSS homeownership coordinators for the HCV FSS program. If additional funding becomes available during FY 2008, HUD may increase the amount available for coordinators under this NOFA. A maximum of $66,000 is available for each full-time coordinator position funded. Salaries are to be based on local comparables. The funding will be provided as a one-year HCV funding increment under the PHA's Annual Contributions Contract (ACC). HUD reserves the right to adjust funding for renewal positions in order to ensure a fair and reasonable distribution of funding.

III. Eligibility Information

A. Eligible Applicants. PHAs eligible to apply for funding under this NOFA are:

1. Renewal PHA Applicants. Those PHAs that received funding under the HCV FSS NOFA in FY 2005, FY 2006 or FY 2007. To continue to qualify as renewal PHAs, the FY 2008 application of joint applicants must include at least one PHA applicant that meets this standard. Joint applicants can change the lead PHA in their FY 2008 application. A PHA that was originally funded as part of a joint application that wishes to now apply separately would continue to be considered a renewal PHA applicant for funding purposes, but must be able to meet the FSS minimum program size requirement of a HUD-approved HCV FSS program of at least 25 slots that applies to new applicant PHAs.

2. New PHA Applicants. PHAs that were not funded under the HCV FSS NOFA in FY 2005, FY 2006 or FY 2007. The new applicant PHA must be authorized through its HUD-approved FSS Action Plan to administer an HCV FSS program of at least 25 slots, or be a PHA with HUD approval to administer an HCV FSS program of fewer than 25 slots that applies jointly with one or more other PHAs so that together they have HUD approval to administer at least 25 HCV FSS slots. Joint applicants must specify a lead co-applicant that will receive and administer the FSS program coordinator funding.

3. MTW PHAs. New and renewal PHAs that are under MTW agreements with HUD may qualify for funding under this NOFA if the PHA administers an FSS program. When determining the size of a new applicant MTW PHA's HUD-approved FSS program, the PHA may request that the number of FSS slots reflected in the PHA's MTW agreement be used instead of the number in the PHA's FSS Action Plan.

4. Troubled PHAs.

a. A PHA that has been designated by HUD as a troubled PHA under the Section Eight Management Assessment Program (SEMAP), or that has serious program management findings from Inspector General audits or serious outstanding HUD management review or Independent Public Accountant (IPA) audit findings for the PHA's HCV or Moderate Rehabilitation programs that are resolved prior to this NOFA's application deadline is eligible to apply under this NOFA. Serious program management findings are those that would cast doubt on the capacity of the PHA to administer its HCV FSS program in accordance with applicable HUD regulatory and statutory requirements.

b. A PHA whose SEMAP troubled designation has not been removed by HUD or whose major program management findings or other significant program compliance problems have not been resolved by the application deadline may apply if the PHA meets the requirements stated in Section III.C.3.e. of this NOFA.

B. Cost Sharing or Matching. None required.

C. Other

1. Eligible Activities. Funds awarded to PHAs under this FSS NOFA may only be used to pay salaries and fringe benefits of HCV FSS program staff. Funding may be used to employ or otherwise retain for one year the services of HCV FSS program coordinators and HCV FSS homeownership coordinators. HCV FSS coordinator support positions funded under previous FSS NOFAs that made funding available for such FSS positions may be continued. A part-time program coordinator may be retained where appropriate.

2. Threshold Requirements.

a. All Applicants.

(1) Each applicant must qualify as an eligible PHA under Section III.A. of this NOFA and must have submitted their FSS application by the application deadline and in the format required in Section IV. of this NOFA.

(2) All applications must include a Dun and Bradstreet Universal Numbering System (DUNS) number. (See the General Section for further information about the DUNS number requirement.)

(3) Compliance with Fair Housing and Civil Rights Laws. The General Section of the SuperNOFA applies.

(4) Additional nondiscrimination and other requirements. See Affirmatively Furthering Fair Housing requirements in section III.C.3.g. of this NOFA.

(5) The PHA must have a financial management system that meets federal standards. See the General Section regarding those applicants that may be subject to HUD's arranging for a pre-award survey of an applicant's financial management system.

(6) Applicants must comply with the requirements for funding competitions established by the HUD Reform Act of 1989 (42 U.S.C. 3531 et seq.) and other requirements as defined in the General Section.

b. Renewal Applicants. Continued funding for existing coordinator positions. In addition to meeting the requirements of Section III.A. of this FSS NOFA, renewal PHA applicants must continue to operate an HCV FSS program, have filled eligible FSS program coordinator positions for which they are seeking renewal funding, executed FSS contracts of participation with HCV FSS program families, and submitted reports on participant families to HUD via the form HUD-50058, or a similar report for MTW PHA applicants.

c. New Applicants. New applicants must meet the requirements of Section III.A. and Section III. C.2.a of this FSS NOFA.

3. Program Requirements.

a. Salary Comparables. For all positions requested under this NOFA, evidence of salary comparability to similar positions in the local jurisdiction must be kept on file in the PHA office.

b. FSS Action Plan. The requirements for the FSS Action Plan are stated in 24 CFR 984.201. For a new PHA applicant to qualify for funding under this NOFA, the PHA's initial FSS Action Plan or amendment to change the number of HCV FSS slots in the PHA's previously HUD-approved FSS Action Plan must be submitted to and approved by the PHA's local HUD field office prior to the application deadline of this FSS NOFA. An FSS Action Plan can be updated by means of a simple one-page addendum that reflects the total number of HCV FSS slots (voluntary and/or mandatory slots) the PHA intends to fill. New PHA applicants with previously approved HCV FSS Action Plans may wish to confirm the number of HUD-approved slots their local HUD field office has on record for the PHA. A new applicant MTW PHA may request that the number of FSS slots in its MTW agreement be used instead of the number of slots in the PHA's FSS Action Plan.

c. Colonias Preference. New applicant PHAs claiming the Colonias preference must meet the requirements of Sections III.A., III.C.2.a. and III.C.2.c. of this FSS NOFA and must operate in a Southwest border area that contains Colonia communities and administer programs that include outreach to members of those Colonia communities. Attachment A of this NOFA provides a listing of PHAs in Arizona, California, New Mexico, and Texas that HUD has identified as operating in areas containing Colonia communities. PHAs not listed in Attachment A that are claiming the Colonias preference will be required to submit a written request that HUD determine their eligibility for the preference. The request must be submitted prior to the application deadline date and must be sent to Lorenzo “Larry” Reyes, Coordinator, SW Border Colonias and Migrant Farmworker Initiative, Office of Departmental Operations and Coordination, Department of Housing and Urban Development, 451 Seventh Street, SW., Room 3120, Washington, DC 20410. Any PHA that fails to submit its request by the application deadline will be ineligible for the Colonias preference.

d. Homeownership Preferences. See priority funding categories in Section V.B.2. of this FSS NOFA. Reported HCV FSS home purchase numbers will be subject to post audit.

e. Troubled PHAs. A PHA whose SEMAP troubled designation has not been removed by HUD or that has major program management findings or other significant program compliance problems that have not been resolved by the application deadline, may apply if the PHA submits an application that designates another organization or entity that is acceptable to HUD and that:

(1) Includes an agreement by the other organization or entity to administer the FSS Program on behalf of the PHA; and

(2) In the instance of a PHA with unresolved major program management findings, includes a statement that outlines the steps the PHA is taking to resolve the program findings. Immediately after the publication of this NOFA, the Office of Public Housing in the local HUD field office will notify, in writing, those PHAs that have been designated by HUD as troubled under SEMAP, and those PHAs with unresolved major program management findings or other significant program compliance problems that are not eligible to apply without such an agreement. Concurrently, the local HUD field office will provide a copy of each such written notification to the Director of the Grants Management Center. If an applicant that is required to have an agreement under this section fails to submit the required agreement, this will be treated as a technical deficiency. See General Section for more information on Corrections to Deficient Applications.

f. Conducting Business in Accordance with Core Values and Ethical Standards. To reflect core values, all PHAs shall develop and maintain a written code of conduct in the PHA administrative plan that:

(1) Requires compliance with the conflict-of-interest requirements of the HCV program at 24 CFR 982.161; and

(2) Prohibits the solicitation or acceptance of gifts or gratuities, in excess of a nominal value, by any officer or employee of the PHA, or any contractor, subcontractor, or agent of the PHA. The PHA's administrative plan shall state PHA policies concerning PHA administrative and disciplinary remedies for violation of the PHA code of conduct. The PHA shall inform all officers, employees, and agents of its organization of the PHA's code of conduct. See the General Section for additional information on the Code of Conduct requirement.

g. Affirmatively Furthering Fair Housing. The General Section of the SuperNOFA directs applicants to submit a statement of their plans to affirmatively further fair housing if they receive funding or, if directed in the particular program NOFA, to demonstrate otherwise that they will affirmatively further fair housing. Prior to the application due date under this NOFA, each applicant must submit to the public housing director in the applicant's local HUD field office an addendum to the applicant's HCV administrative plan that outlines reasonable steps the applicant will take to affirmatively further fair housing in its HCV FSS program and how it will maintain records of those steps and their impacts. Reasonable steps include: (1) Advertising widely in the community for the coordinator position or positions, (2) marketing the program to all eligible persons, including persons with disabilities and persons with limited English proficiency, (3) making buildings and communications that facilitate applications and service delivery accessible to persons with disabilities (see, for example, HUD's rule on effective communications at 24 CFR 8.6), (4) providing fair housing counseling services or referrals to fair housing agencies, (5) informing participants of how to file a fair housing complaint, including providing the toll-free number for the Housing Discrimination Hotline: 1-800-669-9777, and (6) if the program has a goal of homeownership or housing mobility, recruiting landlords and service providers in areas that expand housing choice to program participants. Record-keeping covers, but is not limited to, the race, ethnicity, familial status, and disability status of program participants.

IV. Application and Submission Information

A. Addresses To Request Application Package

1. Web site. A copy of this funding announcement for the HCV FSS program may be downloaded from the following Web site: http://www.Grants.gov/applicants/apply_for_grants.jsp.

2. Further Information. When requesting information, please refer to the name of the program you are interested in. The NOFA Information Center opens for business simultaneously with the publication of the SuperNOFA. You can also obtain information on this NOFA when you download the instructions from the http://www.Grants.gov Web site identified above.

3. Technical Assistance. See Section VII. of this FSS funding announcement.

B. Content and Form of Application Submission

1. Content of Application. Each new and renewal PHA must complete form SF-424; the SF-LLL, if appropriate; the form HUD-52651, the HCV FSS application form; HUD-2880, “Applicant/Recipient Disclosure/Update Report” (HUD Applicant Recipient Disclosure Report on Grants.gov); HUD-2994-A, You are our Client! Grant Applicant Survey, (Optional); Acknowledgment of Application Receipt (HUD-2993), if applicable; HUD Facsimile Transmittal (HUD-96011, Third Party Documentation Facsimile Transmittal); HUD-2991, Certification of Consistency with the Consolidated Plan or a copy of the signed PHA Certification of Compliance for their current Annual PHA Plan. In addition, the application must include a completed Logic Model (form HUD-96010) showing proposed performance measures applicable to the one-year term of the funding requested under this NOFA. See the General Section for information on the Logic Model. A copy of form HUD-52651, the HCV FSS application form, and the HUD-96010, Logic Model form, are part of the INSTRUCTIONS download. In completing the SF-424, renewal PHAs should select the continuation box on question 2, type of application. The Federal Identifier requested in 5a. is the PHA number of each applicant PHA (e.g., MD035 or AK002). The Federal Award Identifier is the PHA number including the increment number for the last award from your agency's Annual Contributions Contract (ACC) (e.g., MD035V012 or AK002V005). Both new and renewal PHA applicants should enter the proposed ACC amendment effective and ending dates for the requested FSS coordinator funding in Section 17 of the SF-424. In Section 18 of SF-424 (Estimated Funding), complete only 18.a., which will be the amount requested from HUD in the FY 2008 FSS application, and 18.g., Total. The dollar amounts entered in 18.a. and 18.g. must be the total requested under this NOFA. Those totals should include amounts for fringe benefits, if applicable, and the percentage increase for renewal PHA applicants. In completing Part IV.A. of form HUD-52651, enter the total salary requested per position under the NOFA including the percentage increase requested.

C. Submission Date and Time. Your completed application must be received and validated by Grants.gov no later than 11:59:59 p.m. eastern time on the application deadline date. Please note that validation may take up to 72 hours. Applicants should carefully read the section titled “Application and Submission Information” in the General Section.

D. Intergovernmental Review. This NOFA is not subject to Executive Order (EO) 12372, Intergovernmental Review of Federal Programs.

E. Funding Restrictions

1. Salary Cap. Awards under this NOFA are subject to a cap of $66,000 per year per full-time coordinator position funded. Under this NOFA, if PHAs apply jointly, the $66,000 maximum amount that may be requested per position applies to up to one full-time coordinator position for the application as a whole, not to each PHA separately.

2. Limitation on Renewal Funding Increases. For renewal coordinator positions, PHAs will be limited to a one (1) percent increase above the amount of the most recent award for the position unless a higher increase is approved by the local HUD field office after review of the PHA's written justification and at least three comparables that must be submitted to the field office by the application deadline. Examples of acceptable reasons for increases above one percent would be a need for a coordinator with higher level of skills or to increase the hours of a part-time coordinator to full time. Total positions funded cannot exceed the maximum number of positions for which the PHA is eligible under this NOFA.

3. Ineligible Activities.

a. Funds under this NOFA may not be used to pay the salary of an FSS coordinator for a public housing FSS program. An HCV FSS program coordinator may only serve HCV families while the public housing FSS program serves only public housing residents. In FY 2008, funding for public housing FSS program coordinators is being made available through the Public Housing Resident Opportunities and Self-Sufficiency (ROSS) NOFA for Public Housing FSS Program Coordinators that is included in the FY 2008 SuperNOFA.

b. Funds under this FSS NOFA may not be used to pay for services for FSS program participants.

c. Funds under this NOFA may not to be used for performance of routine HCV program functions that are reimbursed through HCV administrative fees.

d. Funds under this NOFA may not be used to compensate coordinators for homeownership functions performed for families not enrolled in the HCV/FSS program.

F. Other Submission Requirements

1. Application Submission and Receipt Procedures. See the General Section. Electronic application submission is mandatory unless an applicant requests, and is granted, a waiver to the requirement. Applicants should submit their waiver requests in writing using e-mail. Waiver requests must be submitted no later than 15 days prior to the application deadline date and should be submitted to Danielle.L.Bastarache@hud.gov and to Kathryn.L.Greenspan@hud.gov. The subject line of the e-mail message should be FY'08 HCV FSS NOFA Waiver Request. If an applicant is granted a waiver, then the approval will provide instructions for submitting paper copies to the appropriate HUD office(s). All paper applications must be received by the application deadline date to meet the requirements for timely submission.

V. Application Review Information

A. Criteria. The funds available under this NOFA are being awarded based on demonstrated performance. Applications are reviewed by the local HUD field office and Grants Management Center (GMC) to determine whether or not they are technically adequate based on the NOFA requirements. Field offices will provide to the GMC in a timely manner, as requested, information needed by the GMC to make its determination, such as the HUD-approved HCV FSS program size of new PHA applicants and information on the administrative capabilities of PHAs. Categories of applications that will not be funded are stated in Section V.B.6. of this FSS NOFA.

B. Review and Selection Process

1. Technically Acceptable Applications. All technically adequate applications will be funded to the extent funds are available.

2. Funding Priority Categories. If HUD receives applications for funding greater than the amount made available under this NOFA, HUD will divide eligible applications into priority categories as follows:

Funding Category 1—Applications from eligible renewal PHAs with qualifying homeownership programs with a minimum of twenty (20) HCV FSS program participants or graduates that purchased homes between October 1, 2000, and the publication date of this FSS NOFA and an increase of at least ten (10) percent in the number of participants in the applicant's HCV FSS program from Calendar Year 2006 to Calendar Year 2007. Both the number of home purchases and the percentage increase in the number the HCV FSS program participants will be determined by HUD using PIC data from form HUD-50058 or as otherwise reported for MTW PHAs.

Funding Category 2—Eligible renewal PHA applicants with qualifying homeownership programs and an increase in the number of HCV FSS program participants of at least ten (10) percent from Calendar Year 2006 to Calendar Year 2007.

Funding Category 3—Eligible renewal PHA applicants with programs that have families with positive escrow balances and/or families that successfully completed their HCV FSS contracts between December 31, 2006, and December 31, 2007.

Funding Category 4—New PHA applicants with HUD approval to implement an FSS program of at least 25 slots.

3. Order of Funding. Starting with Funding Category 1, HUD will first determine whether there are sufficient monies to fund all eligible positions requested in the funding category. If available funding is not sufficient to fund all positions requested in the category, HUD will fund applications in the following order:

a. Funding Category 1. HUD will calculate the Percentage Increase of HCV FSS Program Participants for each eligible applicant that has a minimum of twenty (20) HCV FSS program participants or graduates that purchased homes between October 1, 2000 and the publication date of this FSS NOFA and will use this percentage in making funding decisions. HUD will fund eligible applicants in order starting with those that have the highest Percentage Increase of HCV FSS Program Participants. If funding is not sufficient to fund all applicants with the same Percentage Increase of HCV FSS Program Participants, HUD will select among eligible applicants by HCV program size starting with eligible applicants with the smallest HCV program size.

b. Funding Category 2. If funds remain, HUD will process eligible Funding Category 2 applications. If there is not enough funding for all applicants, HUD will use the Percentage Increase of HCV FSS Participants to determine selection order, starting with applicants with the highest Percentage Increase of HCV FSS Participants. If funds are not sufficient for all applicants with the same Percentage Increase of HCV FSS Participants, HUD will fund eligible applicants by HCV program size starting with eligible applicants with the smallest HCV program size.

c. Funding Category 3. If funds remain, HUD will process requests of eligible Funding Category 3 applicant PHAs. HUD will first calculate the Percentage of Families with Positive FSS escrow balances for all eligible Funding Category 3 applicants. If there are not sufficient monies to fund all eligible funding category 3 applicants, HUD will fund eligible applications starting with those with the highest positive escrow percentage. If there are not sufficient monies to fund all applications with the same positive escrow percentage, HUD will select eligible applicants in order by HCV program size starting with eligible applicants with the smallest HCV program size.

d. Funding Category 4. If funds remain after all Category 1, 2 and 3 applicants have been funded, HUD will process applications from eligible Category 4 new PHA applicants. If there are not sufficient monies to fund all eligible Category 4 PHA applicants, HUD will first fund eligible applications from those PHAs qualifying for the Colonias preference. If there are not sufficient monies to fund all eligible Colonias PHA applicants, HUD will fund them starting with the smallest HCV program size first. If funding remains after funding all eligible Category 4 Colonias PHA applicants, HUD will then begin funding eligible non-Colonias applicants by HCV program size, starting with eligible applicants with the smallest HCV program size first.

4. Based on the number of applications submitted, the GMC may elect not to process applications for a funding priority category where it is apparent that there are insufficient funds available to fund any applications within the priority category.

5. Corrections to Deficient Applications. The General Section provides the procedures for corrections to deficient applications.

6. Unacceptable Applications. After the technical deficiency correction period (as provided in the General Section), the GMC will disapprove PHA applications that it determines are not acceptable for processing. Applications from PHAs that fall into any of the following categories are ineligible for funding under this NOFA and will not be processed:

a. An application submitted by an entity that is not an eligible PHA as defined under Section III.A. and Section III.C. of this NOFA or an application that does not comply with the requirements of Section IV.B., IV.C., and IV.F. of this NOFA.

b. An application from a PHA that does not meet the fair housing and civil rights compliance requirements of the General Section.

c. An application from a PHA that does not comply with the prohibition against lobbying activities of the General Section.

d. An application from a PHA that as of the application deadline has not made progress satisfactory to HUD in resolving serious outstanding Inspector General audit findings, or serious outstanding HUD management review or Independent Public Accountant audit findings for the HCV program and/or Moderate Rehabilitation program or has a “troubled” rating under SEMAP, and has not designated another organization acceptable to HUD to administer the FSS program on behalf of the PHA as required in Section III.C.3.e. of this FSS NOFA.

e. An application from a PHA that has been debarred or otherwise disqualified from providing assistance under the program.

f. An application that did not meet the application deadline and timely receipt requirements as specified in this NOFA and the General Section.

g. Applications will not be funded that do not meet the Threshold requirements identified in this NOFA and the General Section.

C. Anticipated Announcement and Award Dates. It is anticipated that award announcements will take place during either the month of August or September 2008.

VI. Award Administration Information

A. Award Notices. Successful applicants will receive an award letter from HUD. Funding will be provided to successful applicants as an amendment to the ACC of the applicant PHA. In the case of awards to joint applicants, the funding will be provided as an amendment to the ACC of the lead PHA that was identified in the application.

Unsuccessful applicants will receive a notification of rejection letter from the GMC that will state the basis for the decision. The applicant may request an applicant debriefing. Beginning not less than 30 days after the awards for assistance are publicly announced in the Federal Register and for at least 120 days after awards for assistance are announced publicly, HUD will, upon receiving a written request, provide a debriefing to the requesting applicant. (See the General Section for additional information regarding a debriefing.) Applicants requesting to be debriefed must send a written request to: Iredia Hutchinson, Director, Grants Management Center, U.S. Department of Housing and Urban Development, 501 School Street, SW., Suite 800, Washington, DC 20024.

B. Administrative and National Policy Requirements

1. Environmental Impact. Under 24 CFR 50.19(b)(4) and (12), no environmental review is required in connection with activities conducted under this NOFA, because the NOFA provides funds for employing a coordinator to from environmental review under the National Environmental Policy Act of 1969 (42 U.S.C. 4321) and not subject to the related environmental authorities.

2. HUD's Strategic Goals. HUD is committed to ensuring that programs result in the achievement of HUD's strategic mission. The FSS program and this FSS NOFA support the Department's strategic goals of increasing homeownership activities and helping HUD-assisted renters make progress toward self-sufficiency by giving funding preference to PHAs whose FSS programs show success in moving families to self-sufficiency and homeownership. You can find out about HUD's Strategic Framework and Annual Performance Plan at http://www.hud.gov/offices/cfo/reports/cforept.cfm.

3. HUD Policy Priorities. This NOFA supports HUD's policy priorities of providing increased homeownership opportunities and increased self-sufficiency of low-income families through employment. Consequently, funding priority in this NOFA will be given to those PHA applicants that demonstrate that a minimum of 20 of their FSS families have become homeowners, that have increased their FSS program size by at least 10 percent in calendar year 2007 and to applicants with program participants who have increased their earned income since enrolling in FSS and/or have families that completed their FSS contracts in the last calendar year. See the General Section for a full discussion of HUD's policy priorities.

C. Reporting. Successful applicants must report activities of their FSS enrollment, progress and exit activities of their FSS program participants through required submissions of the Form HUD-50058. HUD's assessment of the accomplishments of the FSS programs of PHAs funded under this NOFA will be based primarily on PIC system data obtained from form HUD-50058. MTW PHAs that do not report to HUD on form HUD-50058 will be asked to submit an annual report to HUD with the same information on FSS program activities that is provided to HUD by non-MTW PHAs via form HUD-50058. Each recipient is also required to submit a completed Logic Model showing accomplishments against proposed outputs and outcomes as part of their annual reporting requirement to HUD. Recipients shall use quantifiable data to measure performance against goals and objectives contained in their Logic Model (HUD-96010). An annual Performance Report consisting of the updated Logic Model (HUD-96010) and answers to the Program Management and Evaluations Questions must be submitted to the Public Housing Director in the recipient's local HUD field office no later than 30 days after the ending date of the one-year funding increment provided to the recipient under this NOFA. For FY 2008, HUD is considering a new concept for the Logic Model. The new concept is a Return on Investment (ROI) statement. HUD plans to issue a Federal Register notice soliciting comment on the ROI concept. In addition, HUD requires that funded recipients collect racial and ethnic beneficiary data. It has adopted the Office of Management and Budget's Standards for the Collection of Racial and Ethnic Data. In view of these requirements, funded recipients should use Form HUD-27061, Racial and Ethnic Data Reporting Form (HUD Race Ethnic Form on Grants.gov), or a comparable form. Form HUD-50058, which provides racial and ethnic data to HUD's PIC data system, is a comparable program form.

VII. Agency Contacts

A. For Technical Assistance. For answers to your questions, you may contact the Public and Indian Housing Resource Center at 800-955-2232. Persons with hearing or speech impairments may access this number via TTY (text telephone) by calling the Federal Information Relay Service at 800-877-8339. (These are toll-free numbers). Prior to the application deadline, staff at the numbers given above will be available to provide general guidance, but not guidance in actually preparing the application. Following selection, but prior to award, HUD staff will be available to assist in clarifying or confirming information that is a prerequisite to the offer of an award by HUD.

B. Satellite Broadcast. HUD will hold an information broadcast via satellite for potential applicants to learn more about the HCV FSS program and preparation of an application. For more information about the date and time of this broadcast, you should consult the HUD Web site at http://www.hud.gov.

VIII. Other Information

A. Paperwork Reduction Act. The information collection requirements contained in this document have been approved by the Office of Management and Budget (OMB) under the Paperwork Reduction Act of 1995 (44 U.S.C. 3501-3520) and assigned OMB control number 2577-0178. In accordance with the Paperwork Reduction Act, HUD may not conduct or sponsor, and a person is not required to respond to, a collection of information unless the collection displays a currently valid OMB control number. Public reporting burden for the collection of information is estimated to average one hour per annum per respondent for the application and grant administration. This includes the time for collecting, reviewing, and reporting the data for the application and other required reporting. The information will be used for grantee selection and monitoring the administration of funds. Response to this request for information is required in order to receive the benefits to be derived.

B. Public Access, Documentation, and Disclosure. See Section VIII. G. of the General Section.

Attachment A—PHAs That Operate in Areas Containing Colonia Communities
ARIZONA PHAs
City of Douglas Housing Authority | City of Nogales Housing Authority.
City of Eloy Housing Authority | City of Yuma Housing Authority.
Cochise County Housing Authority | Yuma County Housing Authority.
Pinal County Housing Authority | Section 8 Housing for Graham County, Arizona Department of Housing.
CALIFORNIA PHAs
City of Calexico Housing Authority | Housing Authority of the County of Riverside.
Imperial Valley Housing Authority
NEW MEXICO PHAs
City of Alamogordo Housing Authority | City of Las Cruces/Dona Ana County Housing Authority.
City of Truth or Consequences Housing Authority | City of Socorro Housing Authority.
Eddy County—Region VI | Housing Authority of the Village of Santa Clara.
Lordsburg Housing Authority | Otero County—Region VI.
Silver City Housing Authority—Region V | Sunland Park Housing Authority.
Town of Baynard Housing Authority
TEXAS PHAs
Alamo Housing Authority | Asherton Housing Authority.
Bracketville Housing Authority | Brownsville Housing Authority.
Cameron County Housing Authority | Carrizo Housing Authority.
Del Rio Housing Authority | Dona Housing Authority.
Eagle Pass Housing Authority | Ed Couch Housing Authority.
Edinburg Housing Authority | Elsa Housing Authority.
Harlingen Housing Authority | Hidalgo County Housing Authority.
Laredo Housing Authority | La Joya Housing Authority.
Los Fresnos Housing Authority | McAllen Housing Authority.
Mercedes Housing Authority | Mission Housing Authority.
Pharr Housing Authority | Port Isabel Housing Authority.
San Benito Housing Authority | San Juan Housing Authority.
Starr County Housing Authority | Weslaco Housing Authority.
Willacy County Housing Authority | Uvalde Housing Authority.
Zapata County Housing Authority

Rural Housing and Economic Development Program

Overview Information

A. Federal Agency Name: Department of Housing and Urban Development, Community Planning and Development, Office of Rural Housing and Economic Development.

B. Funding Opportunity Title: Rural Housing and Economic Development (RHED) program.

C. Announcement Type: Initial Announcement.

D. Funding Opportunity Number: FR-5200-N-04, OMB Approval Number 2506-0169.

E. Catalog of Federal Domestic Assistance (CFDA) Numbers: 14.250, Rural Housing and Economic Development.

F. Application Date: The application deadline date is May 30, 2008. Applications submitted through http://www.grants.gov must be received and validated by Grants.gov no later than 11:59:59 Eastern time on the application deadline date. The validation process may take up to 72 hours. Please be sure to read the General Section, published March 19, 2008 (73 FR 14882), for electronic application submission and receipt requirements.

G. Optional, Additional Overview Information

Purpose of Program: The purpose of the Rural Housing and Economic Development program is to provide support for innovative housing and economic development activities in rural areas. The funds made available under this program will be awarded competitively through a selection process conducted by HUD in accordance with the HUD Reform Act.

Full Text of Announcement

I. Funding Opportunity Description

A. Background. There has been a growing national recognition of the need to provide support for local rural nonprofit organizations, community development corporations, federally recognized Indian tribes, state housing finance agencies (HFAs), and state economic development and community development agencies to expand the supply of affordable housing and to engage in economic development activities in rural areas. A number of resources are available from the federal government to address these problems, including programs of the U.S. Department of Agriculture (USDA), the Economic Development Administration (EDA), the Appalachian Regional Commission (ARC), the Department of Interior (for Indian tribes), and HUD. The Rural Housing and Economic Development program was developed to supplement these resources and to focus specifically on promoting innovative approaches to housing and economic development in rural areas. In administering these funds, HUD encourages you to coordinate your activities with those supported by any of the agencies listed above.

B. Definitions

1. Appalachia's Distressed Counties means those counties in Appalachia that the Appalachian Regional Commission (ARC) has determined to have unemployment and poverty rates that are 150 percent of the respective U.S. rates and a per capita income that is less than 67 percent of the U.S. per capita income, and have counties with 200 percent of the U.S. poverty rate and one other indicator, such as the percentage of overcrowded housing. Refer to http://www.arc.gov for a list of ARC-distressed counties and more information.

2. Colonia means any identifiable, rural community that:

a. Is located in the state of Arizona, California, New Mexico, or Texas;

b. Is within 150 miles of the border between the United States and Mexico; and

c. Is determined to be a colonia on the basis of objective need criteria, including a lack of potable water supply, lack of adequate sewage systems, and lack of decent, safe, sanitary, and accessible housing.

3. Farm Worker means a farm employee of an owner, tenant, labor contractor, or other operator raising or harvesting agricultural or aquacultural commodities, or a worker who, in the employment of a farm operator, engages in handling, planting, drying, packing, grading, storing, delivering to storage or market, or carrying to market agricultural or aquacultural commodities produced by the operator. Seasonal farm workers are those farm employees who typically do not have a constant year-round salary.

4. Firm Commitment means a letter of commitment from a partner by which an applicant's partner agrees to perform an activity specified in the application, demonstrates the financial capacity to deliver the resources necessary to carry out the activity, and commits the resources to the activity, either in cash or through in-kind contributions. It is irrevocable, subject only to approval and receipt of a fiscal year FY2008 Rural Housing and Economic Development grant. Each letter of commitment must include the organization's name and applicant's name, reference the Rural Housing and Economic Development program, and describe the proposed total level of commitment and responsibilities, expressed in dollar value for cash or in-kind contributions, as they relate to the proposed program. The commitment must be written on the letterhead of the participating organization, must be signed by an official of the organization legally able to make commitments on behalf of the organization, and must be dated no earlier than the date of publication of this NOFA. In documenting a firm commitment, the applicant's partner must:

a. Specify the authority by which the commitment is made, the amount of the commitment, the proposed use of funds, and the relationship of the commitment to the proposed investment. If the committed activity is to be self-financed, the applicant's partner must demonstrate its financial capability through a corporate or personal financial statement or other appropriate means. If any portion of the activity is to be financed through a lending institution, the participant must provide evidence of the institution's commitment to fund the loan; and

b. Affirm that the firm commitment is contingent only upon the receipt of FY 2008 Rural Housing and Economic Development funds and state a willingness on the part of the signatory to sign a legally binding agreement (conditioned upon HUD's environmental review and approval of a property, where applicable) upon award of the grant.

5. Federally Recognized Indian tribe means any tribal entity eligible to apply for funding and services from the Bureau of Indian Affairs by virtue of its status as an Indian tribe. The list of federally recognized tribes can be found in the notice published by the Department of the Interior on April 4, 2008 (73 FR 18553) and is also available from HUD.

6. Innovative Housing Activities means projects, techniques, methods, combinations of assistance, construction materials, energy efficiency improvements, or financing institutions or sources new to the eligible area or to its population. The innovative activities can also build upon and enhance a model that already exists.

7. Local Rural Nonprofit Organization or Community Development Corporation means either of the following:

a. Any private entity with tax-exempt status recognized by the Internal Revenue Service (IRS) that serves the eligible rural area identified in the application (including a local affiliate of a national organization that provides technical assistance in rural areas); or

b. Any public nonprofit entity such as a Council of Governments that will serve specific local nonprofit organizations in the eligible area.

8. Lower Mississippi Delta Region means the eight-state, 240-county/parish region defined by Congress in the Lower Mississippi Delta Development Act, Public Law 100-460. Refer to http://www.dra.gov for more information.

9. Eligible Rural Area means one of the following:

a. A non-urban place having fewer than 2,500 inhabitants (within or outside of metropolitan areas).

b. A county or parish with an urban population of 20,000 inhabitants or less.

c. Territory, including its persons and housing units, in the rural portions of “extended cities.” The U.S. Census Bureau identifies the rural portions of extended cities.

d. Open country that is not part of or associated with an urban area. The USDA describes “open country” as a site separated by open space from any adjacent, densely populated urban area. Open space includes undeveloped land, agricultural land, or sparsely settled areas, but does not include physical barriers (such as rivers and canals), public parks, commercial and industrial developments, small areas reserved for recreational purposes, or open space set aside for future development.

e. Any place with a population of 20,000 or less and not located in a Metropolitan Statistical Area.

10. State Community and/or Economic Development Agency means any state agency whose primary purpose is promotion of economic development statewide or in a local community.

11. State Housing Finance Agency means any state agency created to assist local communities and housing providers with financing assistance for development of housing in rural areas, particularly for low- and moderate-income people.

II. Award Information

A. Amount Allocated

1. Available Funds. Approximately $17,000,000 in FY2008 funding (plus any additional funds available through recapture) are being made available through this NOFA.

2. Funding Award Amount. HUD will award up to approximately $17,000,000 on a competitive basis for Support for Innovative Housing and Economic Development Activities to federally recognized Indian tribes, state housing finance agencies (HFAs), state community and/or economic development agencies, local rural nonprofit organizations, and community development corporations to support innovative housing and economic development activities in rural areas. The maximum amount awarded to a successful applicant will be $300,000.

B. Grant Amount

In the event, you, the applicant, are awarded a grant that has been reduced (e.g., the application contained some activities that were ineligible or budget information did not support the request), you will be required to modify your project plans and application to conform to the terms of HUD's approval before execution of the grant agreement.

HUD reserves the right to reduce or deobligate the award if suitable modifications to the proposed project are not submitted by the awardee within 90 days of the request. Any modifications must be within the scope of the original application. HUD reserves the right to not make awards under this NOFA.

C. Grant Period

Recipients will have 36 months from the date of the executed grant agreement to complete all project activities.

III. Eligibility Information

A. Eligible Applicants. Eligible applicants for the Rural Housing and Economic Development program are local rural nonprofit organizations, community development corporations, federally recognized Indian tribes, state housing finance agencies, and state community and/or economic development agencies. Also, you must meet all of the applicable eligibility requirements described in section III.C of the General Section.

B. Cost Sharing or Matching. There is no match required under the Rural Housing and Economic Development program. Applicants that submit evidence of leveraging dollars under Rating Factor 4 will receive points according to the scale under that factor.

C. Other

1. Eligible Activities. The following are examples of eligible activities under the Rural Housing and Economic Development program.

Permissible activities may include, but are not limited to the following:

a. The cost of using new or innovative construction, energy efficiency, or other techniques that will result in the design or construction of innovative housing and economic development projects;

b. Preparation of plans or of architectural or engineering drawings;

c. Preparation of legal documents, government paperwork, and applications necessary for construction of housing and economic development activities to occur in the jurisdiction;

d. Acquisition of land and buildings;

e. Demolition of property to permit construction or rehabilitation activities to occur;

f. Purchase of construction materials;

g. Homeownership counseling, including on the subjects of fair housing counseling, credit counseling, budgeting, access to credit, and other federal assistance available, including features for persons with disabilities, such as full accessibility, visitability, and universal design;

h. Conducting conferences or meetings with other federal or state agencies, tribes, tribally designated housing entities (TDHE), or national or regional housing organizations, to inform residents of programs, rights, and responsibilities associated with homebuying opportunities (all meetings and conferences should be provided in alternative formats for persons with a variety of disabilities, as appropriate, and in applicable languages common in the community for limited English proficient (LEP) families);

i. Establishing Community Development Financial Institutions (CDFIs), lines of credit, revolving loan funds, microenterprises, and small business incubators; and

j. Provision of direct financial assistance to homeowners/businesses/developers, etc. This can be in the form of default reserves, pooling/securitization mechanisms, loans, grants, the funding of existing individual development accounts, or similar activities.

2. Statutory and Regulatory Requirements. To be eligible for funding under HUD NOFAs issued during FY2008, you, the applicant, must meet all statutory and regulatory requirements applicable to this NOFA as described in the General Section. HUD may also eliminate ineligible activities from funding consideration and reduce funding amounts accordingly.

3. General HUD Threshold Requirements. You must meet all threshold requirements described in the General Section.

a. Ineligible Applicants. HUD will not consider an application from an ineligible applicant.

b. Economic Opportunities for Low- and Very Low-Income Persons (Section 3).

(1) Recipients of assistance under this NOFA must comply with section 3 of the Housing and Urban Development Act of 1968, 12 U.S.C. 1701u (Economic Opportunities for Low- and Very Low-Income Persons in Connection with Assisted Projects) and the HUD regulations at 24 CFR part 135, including the reporting requirements at subpart E. The purpose of Section 3 is to ensure that employment and other economic opportunities generated by HUD financial assistance shall, to the greatest extent feasible, and consistent with existing Federal, state and local laws and regulations, be directed to low- and very-low income persons, particularly those who are recipients of government assistance for housing, and to business concerns which provide economic opportunities to low- and very-low income persons. Section 3 applies to training, employment, contracting, and other economic opportunities arising in connection with the expenditure of housing assistance (including Section 8 assistance, and including other housing assistance not administered by the Assistant Secretary of Housing) and community development assistance that is used for the following projects: (1) Housing rehabilitation (including reduction and abatement of lead-based paint hazards, but excluding maintenance, repair and replacement); Housing construction; and (3) Other public Construction. The Section 3 requirements apply to recipients where the amount of the assistance exceeds $200,000. Section 3 requirements apply to contractors and subcontractors performing work on Section 3 covered projects for which the amount of assistance exceeds $200,000 and the contract or subcontract exceeds $100,000. If a recipient receives Section 3 covered housing and community development assistance in excess of $200,000, but no contract exceeds $100,000, the Section 3 preference requirements only apply to the recipient. The Section 3 requirements apply to the entire project or activity that is funded with section 3 covered assistance, regardless of whether the Section 3 activity is fully or partially funded with Section 3 covered assistance.

Applicants that propose Section 3 covered projects or activities must demonstrate that they will train and employ Section 3 residents and contract with Section 3 business concerns for economic opportunities generated in conjunction with the assisted project or activity.

Recipients and covered contractors may demonstrate compliance with the “greatest extent feasible” requirement of Section 3 by providing training, employment, and contracting opportunities to Section 3 residents and Section 3 business concerns. Numerical goals established in 24 CFR 135.30 (b)(2) may demonstrate compliance with the requirement by committing to employ Section 3 residents as 10 percent of the aggregate number of new hires for each year over the duration of the Section 3 project. Numerical goals set forth in paragraph (c) apply to contracts awarded in conjunction with all section 3 covered projects and all section 3 covered activities. Each contractor and subcontractor covered by the regulations, may demonstrate compliance with the requirements by committing to award to Section 3 business concerns: (1) At least 10 percent of the total dollar amount of all section 3 covered contracts for building trades work arising in connection with housing rehabilitation, housing construction and other public construction; and (2) At least 3 percent of the total dollar amount of all other Section 3 covered contracts. A recipient that meets the minimum numerical goals set forth in this Section will be considered to have complied with the Section 3 preference requirements. In evaluation compliance, a recipient that has not met the numerical goals set forth in this section has the burden of demonstrating why it is not feasible to meet the numerical goals. Such justification may include impediments encountered despite actions taken. A recipient or contractor also can indicate other economic opportunities, such as those listed in 24 CFR part 135.40, which were provided in its efforts to comply with Section 3 requirements.

(2) Section 3 Reporting. Each recipient which receives directly from HUD financial assistance that is subject to Section 3 requirements, shall submit to the Assistant Secretary an annual report. If the program requires submission of an annual report, the section 3 report shall be submitted with the annual performance report. If the program does not require an annual report, the Section 3 report is to be submitted by January 10, of each year or within 10 days of project completion, which ever is earlier. Grantees are required to report on form HUD 60002. Section 3 shall also be reported using the RHED Logic Model. All reports are made available to the public.

See; 24 CFR part 135 and the General Section.

4. Program-Specific Threshold Requirements.

a. The application must receive a minimum rating score of 75 points to be considered for funding.

b. HUD will only fund eligible applicants as defined in this NOFA under section III.A.

c. Applicants must serve an eligible rural area as defined in section I. of this NOFA.

d. Proposed activities must meet the objectives of the Rural Housing and Economic Development program.

e. Applicants must demonstrate that their activities will continue to serve populations that are in need and that beneficiaries will have a choice of innovative housing and economic development opportunities as a result of the activities.

IV. Application and Submission Information

A. Address To Request Application Package

This section describes how you may obtain application forms. Copies of the published Rural Housing and Economic Development NOFA and application forms may be downloaded from the Grants.gov Web site at http://www.grants.gov/applicants/apply_for_grants.jsp. You may call the Grants.gov support desk at 800-518-GRANTS, or e-mail the support desk at Support@Grants.gov for assistance in downloading the application.

B. Content and Form of Application Submission

1. Application Submission Requirements. Be sure to read and follow the application submission requirements carefully.

a. Page Numbering. All pages of the application must be numbered sequentially if you are submitting a paper copy application. For electronic application submission, you should follow the directions in the General Section.

b. Application Items. Your application must contain the items listed below.

(1) An abstract with the dollar amount requested, the category under which you qualify for “Demographics of Distress-Special Factors” under Rating Factor 2 (Need and Extent of the Problem), which of the five definitions of the term “rural area” set forth in section I B.9 of this NOFA applies to the proposed service area, and accompanying documentation as indicated on the SF-424 form.

(2) Table of Contents.

(3) A signed Application for Federal Assistance (SF-424) (application form).

(4) SF-424 Supplement Survey on Equal Opportunity for Applicants “Faith Based EEO Survey” (SF-424 SUPP) on Grants.gov (optional submission).

(5) Facsimile Transmittal (HUD-96011). (This must be used as the cover page to transmit third-party documents as part of your electronic application).

(6) Disclosure of Lobbying Activities (SF-LLL).

(7) Applicant/Recipient Disclosure/Update Report (HUD-2880) “HUD Applicant Recipient Disclosure Report” on Grants.gov.

(8) You Are Our Client! Grant Applicant Survey (HUD 2994-A) (Optional).

(9) Program Outcome Logic Model (HUD-96010).

(10) A budget for all funds (federal and non-federal including the Detailed Budget Form (HUD-424-CB) and the Grant Application Detailed Budge Worksheet (HUD 424-CBW).

(11) Certification of Consistency with RC/EZ/EC-II Strategic Plan (HUD-2990), if applicable.

(12) Certification of Consistency with the Consolidated Plan (HUD-2991), if applicable.

(13) Documentation of funds pledged in support of Rating Factor 4—“Leveraging Resources.” This documentation, which will not be counted in the 15-page limitation, must be in the form of a “firm commitment” as defined in section I.B.4 of this NOFA.

(14) If you are a private nonprofit organization, a copy of your organization's IRS ruling providing tax-exempt status under section 501 of the Internal Revenue Code of 1986, as amended.

(15) Narrative response to Factors for Award. The total narrative response to all factors should not exceed 15 pages and should be submitted on 8.5 × 11 inch single-sided paper, with 12-point font and double lined spacing. Please note that although submitting pages in excess of the page limit will not disqualify your application, HUD will not consider or review the information on any excess pages, and if you place key information on those pages, you may fail to meet a threshold requirement. In addition, applicants should be aware that additional pages increase the size of the application and the length of time it will take to electronically submit the document and have it electronically received by Grants.gov.

(16) Questionnaire for HUD's Initiative on Removal of Regulatory Barriers (Form HUD-27300) “HUD Communities Initiative Form” on Grants.gov. To get the points for this policy priority, you must include the documentation or references to Web site links where the information can be found.

All applicants are required to use the following format in their 15-page narrative responses to the rating factors included in the program NOFA:

Factor 1—Relevant Organizational Experience;

Factor 2—Need and Extent of the Problem;

Factor 3—Soundness of Approach;

Factor 4—Leveraging Resources; and

Factor 5—Achieving Results and Program Evaluation.

See section V. of this NOFA for further details.

(17) Per the General Section, successful applicants engaged in housing or housing related activities are obliged to affirmatively further fair housing including taking reasonable steps to overcome barriers to fair housing choice in its service area such as:

(a) Identify Barriers—Applicants must submit a description of barriers to fair housing in their jurisdiction or service area (based on the applicable state or local Consolidated Plan and Analysis of Impediments or other source of information on impediments to fair housing). See http://www.hud.gov/offices/fheo/promotingfh.cfm for further information.

(b) Specify Activities to Affirmatively Further Fair Housing—Applicants must describe how they will address barriers to fair housing, including specifying applicable and eligible uses of RHED funds—for example, housing counseling to make persons aware of discriminatory practices, innovative housing design or construction to increase access for persons with disabilities, language assistance services to persons with limited English proficiency (on the basis of national origin), affirmative fair housing marketing, or location of new or rehabilitated housing in a manner that provides greater housing choice or mobility for persons in classes protected by the Fair Housing Act.

(c) Reporting—Applicants are obliged to maintain records of their activities to affirmatively further fair housing and describe how they plan to document such activities, as well as maintaining records on the race, ethnicity, disability status, and family status of the beneficiaries of RHED programs.

C. Submission Dates and Times

1. Electronic Application Submission. Applications for the Rural Housing and Economic Development program must be received and validated by Grants.gov no later than 11:59:59 p.m. Eastern Time on May 30, 2008, the application deadline date. Applicants are advised to submit their applications at least 48 to 72 hours in advance of the deadline date and when the Grants.gov help desk is open so that any issues can be addressed prior to the deadline date and time. Please note that validation may take up to 72 hours. You will receive an acknowledgement of receipt from Grants.gov when your application has been successfully received, and later that it has been validated or rejected. Please see the General Section for more detailed information. If you do not receive the validation or rejection notice within 24 to 48 hours, contact the Grants.gov help desk.

2. Applicants are advised to carefully read the application submission and timely receipt requirements in the General Section since they have changed from previous years.

3. Only one application will be accepted from any given organization. If more than one application is submitted electronically, the last application received and validated before the deadline date will be the one reviewed by HUD. HUD will not accept application addendums after the deadline unless HUD has specifically asked the applicant for a correction to a technical deficiency in the application. Responses to technical deficiencies must be received by HUD within the time allocated to cure the deficiency and must be submitted by facsimile using the form Facsimile Transmittal (HUD 96011) submitted to the 800-894-4047 and (215) 825-8796 fax numbers. Applicants must use the Facsimile Transmittal form submitted with the last application that was received and validated by Grants.gov prior to the deadline. This will ensure that your technical cure will be electronically associated to your previously submitted application. Failure to follow these instructions may result in your information being misdirected. The request for a technical cure will also contain instructions for when the cure must be received by the Department and other pertinent information.

D. Intergovernmental Agency Review

Intergovernmental agency review is not required for this program.

E. Funding Restrictions

1. Administrative Costs. Administrative costs for assistance under the Rural Housing and Economic Development program may not exceed 15 percent of the total HUD Rural Housing and Economic Development grant award.

2. Ineligible Activities. RHED funds cannot be used for the following activities:

a. Income payments to subsidize individuals or families;

b. Political activities;

c. General governmental expenses other than expenses related to the administrative cost of the grant; or

d. Projects or activities intended for personal gain or private use.

HUD reserves the right to reduce or deobligate the award if suitable modifications to the proposed project are not submitted by the awardee within 90 days of a request from HUD. Any modification must be within the scope of the original application. HUD reserves the right not to make awards under this NOFA.

F. Other Submission Requirements. Carefully review the procedures presented in Section IV of the FY2008 General Section because HUD will only accept electronic applications submitted through http://www.grants.gov/applicants/apply_for_grants.jsp. Applicants may request a waiver of the electronic submission requirement. Paper applications will not be accepted unless the applicant has received a waiver to the electronic submission requirement. Applicants should submit their waiver requests in writing in the form of a letter. Waiver requests must be submitted no later than 15 days prior to the application deadline date and should be submitted to the Office of Rural Housing and Economic Development, 451 7th Street, SW., Room 7137, Washington, DC 20410. Instructions regarding the number of copies to submit and to what address will be contained in the approval to the waiver request. Paper submissions must be received at the appropriate HUD office(s) no later than the deadline date.

V. Application Review Information

A. Criteria. Carefully review all the Application Review procedures in Section V of the General Section. In addition, the following Rating Factors will be used to rate your application.

1. Rating Factor 1—Capacity of the Applicant and Relevant Organizational Experience (25 points). This rating factor addresses the extent to which you have the organizational resources necessary to successfully implement your proposed workplan, as further described in Rating Factor 3, within the 36-month award period.

a. Team members, composition, and experience (10 points). HUD will evaluate the experience (including for recentness and relevancy) of your project director, core staff, and any outside consultant, contractor, subrecipient, or project partner as it relates to innovative housing and economic development and to the implementation of the activities in your work plan. HUD also will assess the services that consultants or other parties will provide to fill gaps in your staffing structure to enable you to carry out the proposed work plan; the experience of your project director in managing projects of similar size, scope, and dollar amount; the lines of authority and procedures that you have in place for ensuring that work plan goals and objectives will be met, that consultants and other project partners will perform as planned, and that beneficiaries will be adequately served. In judging your response to this factor, HUD will only consider work experience gained within the last 7 years. When responding, please be sure to provide the dates, job titles, and relevancy of the past experience to the work to be undertaken by the employee or contractor under your proposed Rural Housing and Economic Development award. The more recent, relevant, and successful the experience of your team members is in relationship to the work plan activities, the greater the number of points you will receive. Please do not include the Social Security Numbers (SSN) of any staff members.

b. Organizational structure and management capacity (15 points). HUD will evaluate the extent to which you can demonstrate your organization's ability to manage a workforce composed of full-time or part-time staff, as well as any consultant staff, and your ability to work with community-based groups or organizations in resolving issues related to affordable housing and economic development. In evaluating this subfactor, HUD will take into account your experience in working with community-based organizations to design and implement programs that address the identified housing and economic development issues. The more recent, relevant, and successful the experience of your organization and any participating entity, the greater the number of points you will receive.

c. Experience with performance based funding requirements. HUD will evaluate your performance in any previous grant program undertaken with HUD funds or other federal, state, local, or nonprofit or for-profit organization funds. (Note: Previous HUD performance-based experience will be verified through HUD's field offices as needed. Other relevant past performance information should be included as part of the application.)

In assessing points for this sub-factor, HUD reserves the right to take into account your past performance in meeting performance and reporting goals for any previous HUD award, in particular whether the program achieved its outcomes.

HUD reserves the right to give zero points for Rating Factor 1, if the applicant has been determined to have a pattern or practice of any or all of the following activities related to the management and operation of previous grant awards: (1) Mismanagement of funds, including the inability to account for funds appropriately; (2) untimely use of funds received either from HUD or other federal, state, or local programs; and (3) significant and consistent failure to measure performance outcomes. Among the specific outcomes to be measured are the increases in program accomplishments as a result of capacity building assistance and the increase in organizational resources as a result of assistance.

Applicants who have been awarded Rural Housing and Economic Development program funds prior to FY 2008 must indicate in their response to Rating Factor 1 the fiscal year and funding amount. HUD field offices may be consulted to verify information submitted by the applicant as a part of the review of applications.

2. Rating Factor 2—Need and Extent of the Problem (20 points).

The Rural Housing and Economic Development program is designed to address the problems of rural poverty, inadequate housing, and lack of economic opportunity. This factor addresses the extent to which there is a need for funding the proposed activities based on levels of distress, and the urgency of meeting the need/distress in the applicant's target area. In responding to this factor, applications will be evaluated on the extent to which the level of need for the proposed activity and the urgency in meeting the need are documented and compared to target area and national data.

a. In applying this factor, HUD will compare the current levels of need in the area (i.e., Census Tract(s) or Block Group(s)) immediately surrounding the project site or the target area to be served by the proposed project to national levels of need. This means that an application that provides data that show levels of need in the project area at a percent greater than the national average will be rated higher under this factor. Applicants should provide data that address indicators of need as follows:

(1) Poverty Rate (5 points)—Data should be provided in both absolute and percentage form (i.e., whole numbers and percents) for the target area(s). An application that compares the local poverty rate in the following manner to the national average at the time of submission will receive points under this section as follows:

(a) Less than the national average = 0 points;

(b) Equal to but less than twice the national average = 1 point;

(c) Twice but less than three times the national average = 3 points;

(d) Three or more times the national average = 5 points.

(2) Unemployment (5 points)—for the target area:

(a) Less than the national average = 0 points;

(b) Equal to but less than twice the national average = 1 point;

(c) Twice but less than three times the national average = 2 points;

(d) Three but less than four times the national average = 3 points;

(e) Four but less than five times the national average= 4 points;

(f) Five or more times the national average = 5 points.

(3) Other indicators of social or economic decline that best capture the applicant's local situation (5 points).

(a) Data that could be provided under this section are information on the community's stagnant or falling tax base, including recent commercial or industrial closings; housing conditions, such as the number and percentage of substandard or overcrowded units; rent burden (defined as average housing cost divided by average income) for the target area; and local crime statistics, falling property values, etc. To the extent that the applicant's statewide or local Consolidated Plan, its Analysis of Impediments to Fair Housing Choice (AI), its Indian housing plan, or its anti-poverty strategy identify the level of distress in the community and the neighborhood in which the project is to be carried out, references to such documents should be included in preparing the response to this factor.

(b) In rating applications under this factor, HUD reserves the right to consider sources of available objective data other than or in addition to those provided by applicants, and to compare such data to those provided by applicants for the project site. These may include U.S. Census data.

(c) HUD requires use of sound, verifiable, and reliable data (e.g., U.S. Census data, state statistical reports, university studies/reports, or Home Mortgage Disclosure Act or Community Reinvestment Act databases) to support distress levels cited in each application. See http://www.ffiec.gov/ or http://www.ffiec.gov/Webcensus/ffieccensus.htm for census data. A source for all information along with the publication or origination date must also be provided.

(d) Updated Census data are available for the following indicators:

(i) Unemployment rate—estimated monthly for counties/parishes, with a 2-month lag;

(ii) Population—estimated for incorporated places and counties/parishes, through 2000;

(iii) Poverty rate—through 2000.

(4) Demographics of Distress—Special Factors (5 points). Because HUD is concerned with meeting the needs of certain underserved areas, you will be awarded a total of five points if you are located in or propose to serve one or more of the following populations, or if your application demonstrates that 100 percent of the beneficiaries supported by Rural Housing and Economic Development funds are in one or more of the following populations. You must also specifically identify how each population will be served and that the proposed service area meet the definition of “eligible rural area” in section I of this NOFA:

(a) Areas with very small populations in non-urban areas (2,500 population or less);

(b) Seasonal farm workers;

(c) Federally recognized Indian tribes;

(d) Colonias;

(e) Appalachia's Distressed Counties; or

(f) The Lower Mississippi Delta Region (eight states and 240 counties/parishes).

For these underserved areas, you should ensure that the populations that you serve and the documentation that you provide are consistent with the information described in the above paragraph under this rating factor.

3. Rating Factor 3—Soundness of Approach (21 points). This factor addresses the overall quality of your proposed work plan, taking into account the project and the activities proposed to be undertaken; the cost-effectiveness of your proposed program; and the linkages between identified needs, the purposes of this program, and your proposed activities and tasks. In addition, this factor addresses your ability to ensure that a clear linkage exists between innovative rural housing and economic development. In assessing cost-effectiveness, HUD will take into account your staffing levels, beneficiaries to be served, and your timetable for the achievement of program outcomes, the delivery of products and reports, and any anticipated outcome or product. You will receive a greater number of points if your work plan is consistent with the purpose of the Rural Housing and Economic Development program, your program goals, and the resources provided.

a. Management Plan (13 points). A clearly defined management plan should be submitted that: identifies each of the projects and activities you will carry out to further the objectives of this program; describes the linkage between rural housing and economic development activities; and addresses the needs identified in Factor 2, including needs that previously were identified in a statewide or local Analysis of Impediments to Fair Housing Choice (AI) or Consolidated Plan. The populations that were described in Rating Factor 2 for the purpose of documenting need should be the same populations that will receive the primary benefit of the activities, both immediately and over the long term. The benefits should be affirmatively marketed to those populations least likely to apply for and receive these benefits without such marketing. Your timetable should address the measurable short-term and long-term goals and objectives to be achieved through the proposed activities based on annual benchmarks; the method you will use for evaluating and monitoring program progress with respect to those activities; and the method you will use to ensure that the activities will be completed on time and within your proposed budget estimates. Your management plan should also include the budget for your program, broken out by line item. Documented projected cost estimates from outside sources are also required. Applicants should submit their work plan on a spreadsheet showing each project to be undertaken and the tasks (to the extent necessary or appropriate) in your work plan to implement the project with your associated budget estimate for each activity/task. Your work plan should provide the rationale for your proposed activities and assumptions used in determining your project timeline and budget estimates. Failure to provide your rationale may result in your application receiving fewer points for lack of clarity in the proposed management plan.

This subfactor should include information that indicates the extent to which you have coordinated your activities with other known organizations (e.g., through letters of participation or coordination) that are not directly participating in your proposed work activities, but with which you share common goals and objectives and that are working toward meeting these objectives in a holistic and comprehensive manner. The goal of this coordination is to ensure that programs do not operate in isolation. Additionally, your application should demonstrate the extent to which your program has the potential to be financially self-sustaining by decreasing dependence on Rural Housing and Economic Development funding and relying more on state, local, and private funding. The goal of sustainability is to ensure that the activities proposed in your application can be continued after your grant award is complete.

b. Policy Priorities (8 points). Policy priorities are outlined in detail in the General Section. You should document the extent to which HUD's policy priorities are advanced by the proposed activities. Applicants that include activities that can result in the achievement of the following departmental policy priorities will receive higher rating points in evaluating their application for funding. Seven departmental policy priorities are listed below. When you include policy priorities, describe in brief detail how those activities will be carried out and if selecting item (6), Removal of Barriers to Affordable Housing, be sure to include the required Points of Contact information and documentation or references to the documentation to receive points.

The point values for policy priorities are as follows:

(1) Providing increased homeownership and rental opportunities for low- and moderate-income persons, persons with disabilities, the elderly, minorities, and families with limited English proficiency = 1 point;

(2) Improving our nation's communities = 1 point;

(3) Encouraging accessible design features = 1 point;

(4) Providing full and equal access to grassroots faith-based and other community-based organizations in HUD program implementation = 1 point;

(5) Ending chronic homelessness = 1 point;

(6) Removal of regulatory barriers to affordable housing = 2 points; and

(7) Reducing energy costs = 1 point.

4. Rating Factor 4—Leveraging Resources (10 points). This factor addresses the extent to which applicants have obtained firm commitments of financial or in-kind resources from other federal, state, local, and private sources. For every Rural Housing and Economic Development program dollar anticipated, you should provide the specific amount of dollars leveraged. In assigning points for this criterion, HUD will consider the level of outside resources obtained in the form of cash or in-kind goods or services that support activities proposed in your application. HUD will award a greater number of points based on a comparison of the extent of leveraged funds with the requested Rural Housing and Economic Development award. The level of outside resources for which commitments are obtained will be evaluated based on their importance to the total program. Your application must provide evidence of leveraging in the form of letters of firm commitment from any entity, including your own organization, that will be providing the leveraging funds to the project. Each commitment described in the narrative of this factor must be in accordance with the definition of “firm commitment,” as defined in section I.B. of this NOFA. The commitment letter must be on letterhead of the participating organization, must be signed by an official of the organization legally able to make commitments on behalf of the organization, and must not be dated earlier than the date this NOFA is published.

Points for this factor will be awarded based on the satisfactory provision of evidence of leveraging and financial sustainability, as described above, and the ratio of leveraged funds to requested HUD Rural Housing and Economic Development funds as follows:

a. 50 percent or more of requested HUD Rural Housing and Economic Development funds = 10 points;

b. 49-40 percent of requested HUD Rural Housing and Economic Development funds = 8 points;

c. 39-30 percent of requested HUD Rural Housing and Economic Development funds = 6 points;

d. 29-20 percent of requested HUD Rural Housing and Economic Development funds = 4 points;

e. 19-9 percent of requested HUD Rural Housing and Economic Development funds = 2 points;

f. Less than 9 percent of HUD requested Rural Housing and Economic Development funds = 0 points.

See the General Section for instructions for submitting third-party letters and other documents with your electronic application.

5. Rating Factor 5—Achieving Results and Program Evaluation (24 points).

This factor emphasizes HUD's commitment to ensure that applicants keep promises made in their application. This factor assesses their performance to ensure that rigorous and useful performance measures are used and goals are met. Achieving results means you, the applicant, have clearly identified the benefits or outcomes of your program. Outcomes are ultimate project end goals. Benchmarks or outputs are interim activities or products that lead to the ultimate achievement of your goals. Program evaluation requires that you, the applicant, identify program outcomes, interim products or benchmarks, and performance indicators that will allow you to measure your performance. Performance indicators should be objectively quantifiable and measure actual achievements against anticipated achievements. Your evaluation plan should identify what you are going to measure, how you are going to measure it, and the steps you have in place to make adjustments to your work plan if performance targets are not met within established time frames.

Applicants must also complete the “Logic Model” HUD Form (HUD-96010) included in the application instructions at http://www.grants.gov/applicants/apply_for_grants.jsp and submit the completed form with their application. HUD has provided an electronic Logic Model that will enable applicants to select from lists the appropriate needs statement(s), activities/outputs, and outcomes that the applicant is proposing in the application submission. The listing of the activities is referred to as the Master Logic Model List and each list is unique to the program funding opportunity. The application instructions found on http://www.grants.gov/applicants/apply_for_grants.jsp include the eLogic Model™ that you can complete and attach to your electronic application submission. Applicants who do not have Microsoft Excel software should contact the SuperNOFA Information Center at 800-HUD-8929. Persons with speech or hearing impairments may access this number via TTY by calling the toll-free Federal Information Relay Service at 800-877-8339. Applicants may select items from each column of the list that reflect their activity outputs and outcomes and copy and paste them into the appropriate column in the Logic Model form. In completing the Logic Model, applicants are expected to select from the lists of appropriate outputs and outcomes for their proposed work plan. The eLogic Model™ and Master Logic Model listing also identify the unit of measure that HUD is interested in collecting for the outputs and outcomes selected. In making the selections for each output and outcome, applicants are to complete the appropriate proposed number of units of measure to be accomplished. The space next to the output and outcome should be used to capture the anticipated units of measure. Multiple outputs and outcomes may be selected per project.

Under this rating factor, applicants will receive a maximum of 24 points. The rating will be in accordance with the matrix found in Attachment 1 of the General Section and how the applicant proposes to effectively address program goals and performance measures. HUD will evaluate and analyze how well an applicant implemented the required Rural Housing and Economic Development output and outcome goals and identified other stated benefits or outcomes of the applicant's program. In order to receive the highest number of points, applicants should present a clear plan to address the RHED output and outcome measures.

a. Output Measures are quantifiable. RHED outputs include: Number of housing units constructed; number of housing units rehabilitated; number of jobs created; number of participants trained; number of new businesses created; and number of existing businesses assisted.

b. Outcomes Measures are benefits accruing to the program participants and/or communities during or after participation in the RHED program. RHED outcomes include: The number of housing units rehabilitated that will be made available to low-to-moderate-income participants; the percentage change in earnings as a result of employment for those participants; the percent of participants trained who find a job; annual estimated savings for low-income families as a result of energy efficiency improvements; and the increase in organizational resources as a result of assistance (e.g., dollars leveraged).

You must clearly identify the outcomes to be achieved and measured. Proposed program benefits should include program activities, benchmarks, and interim activities or performance indicators with timelines. Applications should include an evaluation plan that will effectively measure actual achievements against anticipated achievements.

c. Logic Model. HUD requires RHED applicants to develop an effective, quantifiable, outcome-oriented evaluation plan for measuring performance and determining whether goals have been met using the Master Logic Model for RHED. The model can be found in the download instructions portion of the application at http://www.grants.gov/applicants/apply_for_grants.jsp. In preparing your Logic Model, first open the Form HUD-96010 and go to the instruction tab and follow the directions in the tab. Your application must include the form to receive any points under this factor.

This rating factor reflects HUD's goal to embrace high standards of ethics, management, and accountability. HUD will hold a training broadcast via satellite for potential applicants to learn more about Rating Factor 5. For more information about the date and time of the broadcast, consult the HUD Web site at http://www.hud.gov/grants/index.cfm.

Although the following list is not all-inclusive, program outcomes for the Rural Housing and Economic Development program must include, where applicable:

(1) Total number of housing units constructed;

(2) Total number of housing units rehabilitated;

(3) Number of housing units rehabilitated that will be made available to low-to-moderate-income participants;

(4) Number of housing units constructed that will be made available to low-to-moderate-income participants;

(5) Number of jobs created;

(6) Percentage change in earnings as a result of employment for those participants;

(7) Number of participants trained;

(8) Percent of participants trained who find a job;

(9) Number of new businesses created;

(10) Number of existing businesses assisted;

(11) Annual estimated savings for low-income families as a result of energy efficiency improvements.

(12) Increase in program accomplishments as a result of capacity building assistance (e.g. the number of employees hired or retained, or the efficiency or effectiveness of services provided); and

(13) Increase in organizational resources as a result of assistance (e.g., dollars leveraged).

If you receive an award of funds, you will be required to use the Logic Model to report progress against the proposed outcomes in your approved application and award agreement.

The applicant's proposed budget must reflect a breakdown of estimated dollar amount of the Rural Housing and Economic Development grant to be expended on each of the activities/outputs and the anticipated results included on the Form HUD-96010 and under the Rating Factor 5 narrative section of your application.

6. RC/EZ/EC-II bonus points (2 points)

HUD will award two bonus points to all applications that include documentation stating that the proposed eligible activities/projects will be located in and serve federally designated renewal community (RCs), empowerment zone (EZs), or enterprise communities (ECs) designated by the U.S. Department of Agriculture (USDA) in round II RC/EZ/EC. A listing of federally designated RC/EZ/EC-II is available on the Internet at www.hud.gov/crlocator.

This notice contains a certification (Form HUD-2990) that must be completed for the applicant to be considered for Rural EZ/Round II EC bonus points.

B. Review and Selection Process

1. Application Selection Process.

a. Rating and Ranking.

(1) General. To review and rate applications, HUD may establish panels that may include outside experts or consultants to obtain certain expertise and outside points of view, including views from other federal agencies.

(2) Rating. All applicants for funding will be evaluated against applicable criteria. In evaluating applications for funding, HUD will take into account an applicant's past performance in managing funds, including the ability to account for funds appropriately, the applicant's timely use of funds received either from HUD or other federal, state, or local programs; its success in meeting performance targets for completion of activities; and the number of persons to be served or targeted for assistance. HUD may use information relating to these items based on information at hand or available from public sources such as newspapers, HUD Inspector General or Government Accountability Office reports or findings, or hotline complaints that have been found to have merit, or other such sources of information. In evaluating past performance, HUD will deduct points from rating scores as specified under Rating Factor 1.

(3) Ranking. Applicants will be selected for funding in accordance with their rank order. An application must receive a minimum score of 75 points to be eligible for funding. If two or more applications are rated fundable and have the same score, but there are insufficient funds to fund all of them, the application(s) with the highest score for Rating Factor 2 will be selected. If applications still have the same score, the highest score in the following factors will be selected sequentially until one highest score can be determined: Rating Factor 3, Rating Factor 1, Rating Factor 5, and Rating Factor 4.

b. Initial screening. During the period immediately following the application deadline, HUD will screen each application to determine eligibility. Applications will be rejected if they:

(1) Are submitted by ineligible applicants;

(2) Do not serve an eligible rural area as defined in section III of this NOFA;

(3) Do not meet the objectives of the Rural Housing and Economic Development program; or

(4) Propose a project for which the majority of the activities are ineligible.

c. Rating Factors for Award Used to Evaluate and Rate Applications. The factors for rating and ranking applicants and the maximum points for each factor are provided above. The maximum number of points for this program is 102. This includes 100 points for all five rating factors and two RC/EZ/EC-II bonus points, as described above.

d. Environmental Review. Each application constitutes an assurance that the applicant agrees to assist HUD in complying with the provisions set forth in 24 CFR part 50. Selection for award does not constitute approval of any proposed site. Following selection for award, HUD will perform an environmental review of activities proposed for assistance under this part, in accordance with 24 CFR part 50. The results of the environmental review may require that proposed activities be modified or that proposed sites be rejected. Applicants are particularly cautioned not to undertake or commit HUD funds for acquisition or development of proposed properties (including establishing lines of credit that permit financing of such activities or making commitments for loans that would finance such activities from a revolving loan fund capitalized by funds under this NOFA) prior to HUD approval of specific properties or areas. Each application constitutes an assurance that you, the applicant, will assist HUD in complying with part 50; will supply HUD with all available relevant information to perform an environmental review for each proposed property; will carry out mitigating measures required by HUD or select alternate property; and will not acquire, rehabilitate, convert, demolish, lease, repair, or construct property, or commit or expend HUD or local funds for these program activities with respect to any eligible property until HUD approval of the property is received. In supplying HUD with environmental information, grantees must use the guidance provided in Notice CPD 05-07, entitled “Field Environmental Review Processing for Rural Housing and Economic Development (RHED) Grants,” issued August 30, 2005, which can be found at http://www.hud.gov/offices/cpd/energyenviron/environment/lawsandregs/notices.cfm. HUD's funding commitment is contingent on HUD's site approval following an environmental review.

e. Adjustments to Funding.

(1) HUD will not fund any portion of your application that is ineligible for funding and does not meet the requirements of this NOFA, or is duplicative of other funded programs or activities from prior year awards or other selected applicants. Only the eligible non-duplicative portions of your application will be funded.

(2) HUD reserves the right to utilize this year's funding to fund previous years' errors prior to rating and ranking this year's applications.

(3) If a balance remains, HUD reserves the right to utilize those funds toward the following year's awards.

(4) Please see the section VI.A.2 and 3 of the General Section for more information about funding.

(5) Performance and Compliance Actions of Funding Recipients. HUD will measure and address the performance and compliance actions of funding recipients in accordance with the applicable standards and sanctions of the Rural Housing and Economic Development program.

f. Corrections to Deficient Applications. After the application deadline date, HUD may not, consistent with its regulations in 24 CFR part 4, subpart B, consider any unsolicited information that you, the applicant, may want to provide. HUD may contact you to clarify an item in your application or to correct technical deficiencies. See section V.B.4. of the General Section for more detailed information on this topic.

VI. Award Administration Information

A. Award Notice

1. HUD will notify you whether or not you have been selected for an award. If you are selected, HUD's notice to you concerning the amount of the grant award (based on the approved application) will constitute HUD's conditional approval, subject to negotiation and execution of a grant agreement by HUD. Successful Rural Housing and Economic Development program applicants will be notified of the grant award and will receive post-award instructions by mail.

2. Debriefing. See the General Section for information on how to obtain a debriefing on your application review and evaluation.

B. Administrative and National Policy Requirements. In addition to the requirements listed below, please review all requirements in section III of the General Section.

1. Lead-Based Paint Hazard Control. All property assisted under the Rural Housing and Economic Development program is covered by the Lead-Based Paint Poisoning Prevention Act (42 U.S.C. 4821-4846), the Residential Lead-Based Paint Hazard Reduction Act (42 U.S.C. 4851 et seq.), and HUD's implementing regulations at 24 CFR part 35.

2. Procurement of Recovered Materials. See the General Section for further information.

3. Executive Order 13202, “Preservation of Open Competition and Government Neutrality Towards Government Contractors' Labor Relations on Federal and Federally Funded Construction Projects.” (See the General Section for further information.)

4. Audit Requirements. Any grantee that expends $500,000 or more in federal financial assistance in a single year (this can be program year or fiscal year) must meet the audit requirements established in 24 CFR parts 84 and 85 in accordance with OMB A-133.

5. Accounting System Requirements. The Rural Housing and Economic Development program requires that successful applicants have in place an accounting system that meets the policies, guidance, and requirements described in the following applicable OMB Circulars and Code of Federal Regulations:

a. OMB Circular A-87 (Cost Principles for State, Local, and Indian Tribal Governments);

b. OMB Circular A-122 (Cost Principles for Non-Profit Organizations);

c. OMB Circular A-133 (Audits of States, Local Governments, and Non-Profit Organizations);

d. 24 CFR part 84 (Grants and Agreements with Institutions of Higher Education, Hospitals, and other Non-Profit Organizations); and

e. 24 CFR part 85 (Administrative Requirements for Grants and Cooperative Agreements to State, Local, and Federally Recognized Indian Tribal Governments).

C. Reporting.

1. Reporting Requirements. Reporting documents apply to the award, acceptance and use of assistance under the Rural Housing and Economic Development program and to the remedies for noncompliance, except when inconsistent with HUD's Appropriation Act, or other federal statutes or the provisions of this NOFA.

For each semi-annual reporting period, as part of your required report to HUD, grantees must include a completed Logic Model (Form HUD 96010), which identifies output and outcome achievements. For FY 2008, HUD is considering a new concept for the Logic Model. The new concept is a Return on Investment statement. HUD will be publishing a separate notice on the ROI concept. If you are reporting race and ethnic data, you must use Form HUD-27061, Race and Ethnic Data Reporting Form.

2. Racial and Ethnic Data. HUD requires that funded recipients collect racial and ethnic beneficiary data. It has adopted the Office of Management and Budget's Standards for the Collection of Racial and Ethnic Data. In view of these requirements, you should use Form HUD-27061, Racial and Ethnic Data Reporting Form (instructions for its use), found on http://www.HUDclips.org, a comparable program form, or a comparable electronic data system for this purpose.

VII. Agency Contact(s)

Further Information and Technical Assistance. For information concerning the HUD Rural Housing and Economic Development program, contact Ms. Linda Streets, Community Planning and Development Specialist, Ms. Monica Wallace, Community Planning and Development Specialist, Mr. James Hedrick, Presidential Management Fellow, or Ms. Nikki Bowser, Community Planning and Development Specialist, Office of Rural Housing and Economic Development, Office of Community Planning and Development, Department of Housing and Urban Development, 451 Seventh Street, SW., Room 7137, Washington, DC 20410-7000; telephone 202-708-2290 (this is not a toll-free number) or 1-877-787-2526 (this is a toll-free number). Persons with speech or hearing impairments may access this number via TTY by calling the toll-free Federal Information Relay Service at 800-877-8339.

Prior to the application deadline, staff will be available at the above number to provide general guidance and clarification of the NOFA, but not guidance in actually preparing your application. Following selection, but prior to award, HUD staff will be available to assist in clarifying or confirming information that is a prerequisite to the offer of an award by HUD.

VIII. Other Information

A. Satellite Broadcast. HUD will hold an information Webcast via satellite for potential applicants to learn more about the program and preparation of an application. For more information about the date and time of this Webcast, consult the HUD Web site at http://www.hud.gov.

B. The Paperwork Reduction Act. The information collection requirements contained in this document have been approved by the Office of Management and Budget (OMB) under the Paperwork Reduction Act of 1995 (44 U.S.C. 3501-3520) and assigned OMB control number 2506-0169. In accordance with the Paperwork Reduction Act, HUD may not conduct or sponsor and a person is not required to respond to a collection of information, unless it displays a currently valid OMB control number. Public reporting burden for the collection of information is estimated to average 100 hours per annum per respondent for the application and grant administration. This includes the time for collecting, reviewing, and reporting the data for the application, semi-annual reports, and final report. The information will be used for grantee selection and monitoring the administration of funds.

Resident Opportunity and Self-Sufficiency (ROSS) Service Coordinators Program

Overview Information

A. Federal Agency Name: Department of Housing and Urban Development, Office of Public and Indian Housing.

B. Funding Opportunity Title: Resident Opportunity and Self-Sufficiency (ROSS) Service Coordinators program.

C. Announcement Type: Initial announcement.

D. Funding Opportunity Number: FR 5200-N-14; OMB Approval Number 2577-0229.

E. Catalog of Federal Domestic Assistance (CFDA) Number(s): Resident Opportunity and Self Sufficiency, 14.870

F. Dates: The application deadline date is August 14, 2008. Applications submitted through http://www.grants.gov must be received and validated by grants.gov no later than 11:59:59 eastern time on the application deadline date. The validation process may take up to 72 hours.

G. Additional Overview Content Information

1. Purpose of Program. The purpose of the Public and Indian Housing Resident Opportunity and Self Sufficiency (ROSS) program is to provide grants to public housing agencies (PHAs), tribes/tribally designated housing entities (TDHEs), Resident Associations (RAs), and nonprofit organizations (including grassroots, faith-based and other community-based organizations) for the provision of a Service Coordinator to coordinate supportive services and other activities designed to help Public and Indian housing residents attain economic and housing self-sufficiency. This program works to promote the development of local strategies to coordinate the use of assistance under the Public Housing program with public and private resources, for supportive services and resident empowerment activities. These services should enable participating families to increase earned income, reduce or eliminate the need for welfare assistance, make progress toward achieving economic independence and housing self-sufficiency, or, in the case of elderly or disabled residents, help improve living conditions and enable residents to age-in-place. A Service Coordinator ensures that program participants are linked to the supportive services they need to achieve self-sufficiency or remain independent. Funds in this program will no longer be allowed to be used for the direct provision of these services. This program is similar to the Public Housing FSS program (PH FSS), however, the PH FSS program is open only to PHAs and Tribes/TDHEs, has a requirement of an escrow account for its participants and is one-year funding. The ROSS SC program is open to non-profit and Resident Association applicants, is three-year funding, includes admin expenses and training as eligible uses of the funds and requires a 25% match by statute. A PHA or Tribe may receive grants in both programs.

2. Funding Available. A total of approximately $28 million is available for the ROSS Service Coordinator program in fiscal year 2008, plus any carryover or recaptured funds from prior ROSS appropriations that may become available.

3. Award Amounts. Awards will pay for the annual salary and fringe benefits of Service Coordinators. Awards may be for up to three coordinators, depending on size and type of applicant and each coordinator salary must not exceed $68,000. Awards will also include funds for training and for administrative expenses. Total awards for 3-year grant term will range from approximately $240,000 to $720,000. Please see the program description for more specific information about funding amounts.

Grant program | Total funding | Number of SCs | To serve | Maximum grant amount
ROSS-Service Coordinators | $28 million | 1 SC | 50-1000 units | $240,000
|  | 2 SCs | 1001-2500 units | 480,000
|  | 3 SCs | 2501 + units | 720,000

4. Eligible Applicants. Eligible applicants are PHAs; tribes/TDHEs; nonprofit organizations including grassroots faith-based and other community-based organizations that have resident support or the support of tribes; RAs; resident councils (RCs); resident organizations (ROs); City-Wide Resident Organizations (CWROs); Intermediary Resident Organizations (IROs); Jurisdiction-Wide Resident Organizations; Regional Resident Organizations; Resident Management Corporations (RMCs); Site-Based Resident Organizations; Statewide Resident Organizations (SROs); and Tribal/TDHE resident groups. The term “resident association” or “RA” will be used to refer to all types of eligible resident organizations. Please see the section on “Definition of Terms” for a complete definition of each type of eligible resident organization.

5. Cost Sharing/Match Requirement. At least 25 percent of the requested grant amount is required as a match. The match may be in cash and/or in-kind donations. Match may also be made up of self-sufficiency and supportive services/programs provided to participants in the ROSS-Service Coordinators program. The match is a threshold requirement.

6. Grant term. The grant term for each funding category is 3 years from the execution date of the grant agreement.

Full Text of Announcement

I. Funding Opportunity Description

A. Purpose.

The purpose of the ROSS Service Coordinator program is to provide funding to hire and maintain Service Coordinators who will assess the needs of residents of conventional Public Housing or Indian housing and coordinate available resources in the community to meet those needs. The ultimate goal of a Family Service Coordinator is to assist families to increase earned income and move towards economic and housing self-sufficiency. The ultimate goal of an Elderly/Disabled Service Coordinator is to ensure that residents can maintain independent living and age-in-place in their units and avoid placement in a full-care facility to the greatest extent possible. Applicants will indicate if their Service Coordinators will serve families, elderly residents, or a mix of both.

B. Number of Positions for Which Eligible Applicants May Apply

1. For PHA and Tribe/TDHE applicants, the number of positions is determined by number of ACC units. (Tribes/TDHEs should use the number of units counted as Formula Current Assisted Stock for FY 2007 as defined in 24 CFR 1000.316). Tribes that have not previously received funds from the Department under the U.S. Housing Act of 1937 should count housing units under management that are owned and operated by the Tribe and that are identified in their housing inventory as of September 30, 2007. Applicants may apply for up to 3 Service Coordinators depending on the size and type of the applicant. Program ratio for number of eligible Service Coordinators is in the table above under “Award Amounts.”

The Service Coordinator does not have to serve all residents in a particular PHA or development however each Service Coordinator must serve a minimum of 50 units. Service Coordinators generally serve an average of between 75-400 residents. Part of the Service Coordinator's role is to convene a Program Coordinating Committee, similar to that required in the Family Self-Sufficiency program, to coordinate services for families and/or elderly residents. HUD expects that all entities wishing to serve residents at a particular PHA will have coordinated their grant-seeking efforts. If more than one application proposing to serve the same development/Asset Management Project (AMP) is received, they will both be reviewed and if both are deemed to enter the lottery, the first chosen will be funded.

2. Non-Profit Applicants may apply with the support of a PHA or with the support of one or more RAs. A non-profit applicant with support from a PHA may apply to serve a PHA/Tribe/TDHE using the same ratio as above. A non-profit applicant applying with the support of an RA(s) may apply for up to one Service Coordinator per RA (or set of RAs if combining RAs is required to achieve the minimum number of units to be served) for a total of not more than three SCs per PHA. (This may serve more than three RAs per PHA, if more than one RA need to combine in order to meet the minimum number of residents required for an SC position.)

A non-profit applicant may apply to serve as many as 3 PHAs (up to 9 SCs), but must submit a separate application for each PHA to be served unless they are proposing to split one SC's time between PHAs. In this case, one application may be submitted, but a letter of support from each PHA (or RA at each PHA) is required and the PHA listed first on the HUD-52768 will be considered the lead PHA.

3. Local Resident Association Applicants may apply for one coordinator each, provided that the minimum number of units will be served.

4. State-wide and National and other Resident Associations with non-profit status should apply using the eligibility guidelines for non-profit applicants.

5. Joint Applicants—more than one PHA/Tribe/TDHE or RA may combine their eligible units and share the number of Service Coordinators for which they are eligible together. In this case, a lead applicant must be identified.

C. Definition of Terms

1. City-Wide Resident Organization consists of members of Resident Councils, Resident Management Corporations, and Resident Organizations who reside in public housing developments that are owned and operated by the same PHA within a city.

2. Contract Administrator means an overall grant administrator or a financial management agent (or both) that oversees the implementation of the grant and/or the financial aspects of the grant.

3. Elderly person means a person who is at least 62 years of age.

4. Jurisdiction-Wide Resident Organization means an incorporated nonprofit organization or association that meets the following requirements:

a. Most of its activities are conducted within the jurisdiction of a single housing authority;

b. There are no incorporated resident councils or resident management corporations within the jurisdiction of the single housing authority;

c. It has experience in providing start-up and capacity-building training to residents and resident organizations; and

d. Public housing residents representing unincorporated resident councils within the jurisdiction of the single housing authority must comprise a majority of the board of directors.

5. Tribally Designated Housing Entity (TDHE) is an entity authorized or established by one or more Indian tribes to act on behalf of each such tribe authorizing or establishing the housing entity as defined by section 4(21) of NAHASDA.

6. Indian Tribe means any tribe, band, nation, or other organized group of a community of Indians, including any Alaska Native village, regional, or village corporation as defined in or established pursuant to the Alaska Native Claims Settlement Act, and that is recognized as eligible for the special programs and services provided by the United States to Indians because of their status as Indians pursuant to the Indian Self Determination and Education Act of 1975 or any state-recognized tribe eligible for assistance under section 4(12)(C) of the Native American Housing Assistance and Self-Determination Act of 1996 (NAHASDA).

7. Intermediary Resident Organizations means jurisdiction-wide resident organizations, citywide resident organizations, statewide resident organizations, regional resident organizations, and national resident organizations.

8. NAHASDA-assisted resident means a member of a tribe (as defined above) who has been assisted by NAHASDA.

9. National Resident Organization (NRO) is an incorporated nonprofit organization or association for public housing that meets each of the following requirements:

a. It is national (i.e., conducts activities or provides services in at least two HUD areas or two states);

b. It has the capacity to provide start-up and capacity-building training to residents and resident organizations; and

c. Public housing residents representing different geographical locations in the country are members of the board of directors.

10. Nonprofit organization is an organization that is exempt from federal taxation. A nonprofit organization can be organized for the following purposes: Charitable, religious, educational, scientific, or other similar purposes in the public interest. To obtain nonprofit status, qualified organizations must file an application with the Internal Revenue Service (IRS) and receive designation as such by the IRS. For more information, go to http://www.irs.gov. Applicants who are in the process of applying for nonprofit status, but have not yet received nonprofit designation from the IRS by the deadline date, will not be considered nonprofit organizations. All nonprofit applicants must submit their IRS determination letter to prove their nonprofit (e.g., 501(c)(3)) status. Please see the section on Threshold Requirements for more information. Nonprofit applicants must also provide letters of support as described in the Threshold Requirements section.

11. Past Performance. HUD's field offices will evaluate applicants for past performance to determine whether an applicant has the capacity to manage the grant for which it is applying. The area Office of Native American Programs (ONAP) will review past performance for tribal/TDHE submissions. Field offices will also evaluate the past performance of contract administrators for applicants required to have a contract administrator. New applicants will be evaluated using their narrative responses to the Past Performance requirement below.

12. Person with disabilities means a person who:

a. Has a condition defined as a disability in section 223 of the Social Security Act; or

b. Has a developmental disability as defined in section 102 of the Developmental Disabilities Assistance Bill of Rights Act.

The term “person with disabilities” does not exclude persons who have acquired immunodeficiency syndrome (HIV/AIDS) or any conditions arising from the etiologic agent for AIDS. In addition, no individual shall be considered a person with disabilities, for purposes of eligibility for low-income housing, solely on the basis of any drug or alcohol dependence.

The definition of a person with disabilities contained in section 504 of the Rehabilitation Act of 1973 and its implementing regulations must be used for purposes of reasonable accommodations and program accessibility. Please see 24 CFR 5.403.

13. Resident Association (RA) means any or all of the forms of resident organizations as they are defined elsewhere in this definitions section and includes Resident Councils (RC), Resident Management Corporations (RMC), Regional Resident Organizations (RRO), Statewide Resident Organizations (SRO), Jurisdiction-Wide Resident Organizations, and National Resident Organizations (NRO). The NOFA will use “Resident Association” or “RA” to refer to all eligible types of resident organizations. See 24 CFR 964.115 for more information.

14. Regional Resident Organization (RRO) means an incorporated nonprofit organization or association for public housing that meets each of the following requirements:

a. The RRO is regional (i.e., not limited by HUD Areas);

b. The RRO has experience in providing start-up and capacity-building training to residents and resident organizations; and

c. Public housing residents representing different geographical locations in the region must comprise the majority of the Board of Directors.

15. Resident Management Corporation (RMC) means an entity that proposes to enter into, or enters into a contract to conduct one or more management activities of a PHA and meets the requirements of 24 CFR 964.120.

16. Resident Organization (RO) for tribal entities means an incorporated or unincorporated nonprofit tribal organization or association that meets each of the following criteria:

a. It shall consist of residents only, and only residents may vote;

b. If it represents residents in more than one development or in all of the developments of the tribal/TDHE community, it shall fairly represent residents from each development that it represents;

c. It shall adopt written procedures providing for the election of specific officers on a regular basis; and

d. It shall have an elected governing board.

17. Site-Based Resident Associations means resident councils or resident management corporations representing a specific public housing development.

18. Statewide Resident Organization (SRO) is an incorporated nonprofit organization or association for public housing that meets the following requirements:

a. The SRO has statewide jurisdiction;

b. The SRO has experience in providing start-up and capacity-building training to residents and resident organizations; and

c. Public housing residents representing different geographical locations in the state must comprise the majority of the Board of Directors.

19. Tribal/TDHE Resident Group means tribal/TDHE resident groups that are democratically elected groups such as IHA-wide resident groups, area-wide resident groups, single development groups, or resident management corporations (RMCs).

D. Regulations Governing the ROSS Program. ROSS is governed by 24 CFR part 964.

II. Award Information

A. Performance Period and Award Type

1. Grant Period. Three years. The grant period shall begin the day the grant agreement and the form HUD-1044 (Assistance Award/Amendment) are signed by both the grantee and HUD.

2. Grant Extensions. Requests to extend the grant term beyond the three-year grant term must be submitted in writing to the local HUD field office or area ONAP at least 60 days prior to the expiration of the grant term. Requests must explain why the extension is necessary, what work remains to be completed, and what work and progress was accomplished to date. Extensions may be granted only once by the field office or area ONAP for a period not to exceed 6 months and may be granted for a further 6 months by the HUD Headquarters program office at the request of the Field Office or area ONAP. Required extensions may be considered as part of future Past Performance reviews.

3. Type of Award. Grant agreement.

4. Subcontracting. Subcontracting is permitted. Grantees must follow federal procurement regulations found in HUD regulations at 24 CFR 84.40-84.48 and 24 CFR 85.36.

5. Total Funding. HUD expects to award $28,000,000 under this funding category of ROSS.

III. Eligibility Information

A. Eligible Applicants

1. Eligible applicants are PHAs, tribes/TDHEs, RAs, and nonprofit organizations supported by PHAs, tribes/TDHEs or RAs.

2. PHA applicants that are currently eligible to receive funding for one or more Elderly/Disabled Service Coordinators (EDSC) through the Operating Subsidy and that are granted ROSS Service Coordinator funding to serve Elderly residents through this NOFA will forgo all future eligibility for EDSC Renewal Funding through the Operating Subsidy.

3. Nonprofits are eligible applicants if they are representing or acting at the behest of an RA or PHA/Tribe/TDHE. Accordingly, nonprofit applicants must show support from one or more RAs or PHAs/Tribes/TDHEs. Applicants should see the General Section for instructions on submitting support letters and other documentation with their electronic application.

B. Cost Sharing or Matching

The required match is 25 percent of requested funds. Match is a threshold requirement. Therefore, applicants who do not demonstrate the minimum 25 percent match will not receive further consideration for funding. Match may be cash or in-kind and may also be made up of self-sufficiency and supportive services/programs provided to participants in the ROSS-Service Coordinators program. Please see the section below on threshold requirements for more information on what is required for the match.

C. Other

1. Eligible Program Activities. Funds awarded to applicants under this NOFA may be used for:

a. Salaries and fringe benefits of one or more Service Coordinators. A part-time Service Coordinator may be retained where appropriate, however, the minimum units served remains the same. One or more PHAs may share a full-time position if that is deemed most appropriate for the applicant's program. Although the exact role for the SC shall be designed to meet the needs of the project's community, below is a listing of recommended functions for an SC:

(1) Coordinate a Local Program Committee with local service providers to ensure that program participants are linked to supportive services needed to achieve self-sufficiency. The Service Coordinator will act as a liaison between the residents/PHA and local service providers.

(2) Market the program to residents.

(3) Provide general case management which includes intake, assessment, education, and referral of residents to service providers in the general community.

(4) Coordinate and oversee the delivery of services, ensuring services are provided on a regular, ongoing, and satisfactory basis.

(5) Coordinate and sponsor educational events, which may include subjects relating to health care, job search seminars, life skills training, etc.

(6) Assist the PHA, Tribe/TDHE or RA to create a resident group to promote self-sufficiency efforts and/or encourage residents to build informal support networks with other residents, family, and friends.

(7) Facilitate the formation of Self-Help Groups with residents and faith-based and/or other community-based groups if a particular need is evident. The formation of small groups will assist in fostering a sense of community and encourage residents' efforts to support and assist each other.

(8) Monitor the ongoing provision of services including supportive services from community agencies and keep the case management and provider agency current with the progress of the individual. Monitor the provision of supportive services where appropriate.

(9) Track and report to HUD on the progress of residents enrolled in the program.

(10) Evaluate the overall success of the program.

b. Training and travel pursuant to training related to professional and/or program development. All training must be approved by the HUD Field Office or Area ONAP. HUD anticipates providing Start-Up training for all new SCs after awards are made.

c. Administrative Costs may be used for activities including but not limited to the list contained in Section IV.E of this NOFA.

d. Supportive services to which residents might be connected will vary with need and community resources. However, the spectrum of services offered should be as broad and as responsive to residents' needs as possible. Please Note: These services cannot be paid for using funds from this grant (except where allowed under Admin costs). SCs might connect residents to organizations providing the following types of services. The provision of these and similar services would qualify as match.

(1) Life-Skills Training, including:

(a) Financial Literacy/Credit Repair/Banking and Money Management.

(b) Real Life Issues. Information on tax forms, leases, car insurance, health insurance, long-term care insurance, etc.

(c) Literacy training and GED preparation/Basic Education/ESOL.

(d) Mentoring.

(2) Job Training, Job Search, and Placement Assistance, including:

(a) Skills assessment of participating residents.

(b) Applying for a job. How to complete employment forms; highlighting skills employers are looking for, researching job opportunities in the area, and calculating net wages.

(c) Soft skills training including problem-solving and other cognitive skills, oral and written communication skills, workplace norms (appropriate dress, punctuality, respectful communication, etc.), work ethic, and interpersonal and teamwork skills.

(d) Resume writing.

(e) Interviewing techniques.

(3) Employer linkage and job placement. Working with local employers and job placement providers who design and offer training that addresses local employers' needs, and offer a job placement program that refers trained residents to participating employers and other local area employers.

(4) Provision of professional clothing or uniforms related to new employment.

(5) Career advancement and planning programs. Such programs should be designed to:

(a) Set career goals;

(b) Provide strategies such as finding a strong professional mentor within an organization for which residents may be working, and focusing on the organization's priorities.

(c) Reinforce welfare-to-work programs and focus efforts on increasing residents' earning capacity. Activities can include job counseling, helping residents secure better paying jobs or jobs in better work environments, preparing for work in a new job category, obtaining additional job skills, and other job-related or educational training.

(d) Working with local employers to create opportunities that combine education and skills training with jobs. Strategies that promote work-based learning can offer the most effective method for giving new workers the tools they need to move onto a career ladder and achieve upward mobility.

(6) Post-Employment Follow-up and Activities to Support Career Advancement and Long-Term Economic Self-Sufficiency;

(a) Individual Savings Accounts (ISAs).

(b) Housing Counseling and Homeownership readiness programs. This can include information to help residents move to market-rate rental housing and/or “pre-purchase” homeownership counseling and training. This may include training on such subjects as credit and financial management, credit repair, housing search, how to finance the purchase of a home, including use of FHA mortgages or other mortgage vehicles, fair housing, fair lending, Individual Savings Accounts, the Real Estate Settlement Procedures Act (RESPA), energy efficiency measures/Energy Star appliances, and home maintenance. Applicants are strongly encouraged to refer residents to HUD-approved housing counseling agencies. For a list of HUD-approved housing counseling agencies, go to: http://www.hud.gov/offices/hsg/sfh/hcc/hccprof14.cfm. This type of training could include:

(i) Asset building;

(ii) Credit counseling and credit scoring;

(iii) Financial literacy and management;

(iv) Selecting a real estate broker;

(v) Choosing a lender;

(vi) Appraisals;

(vii) Home inspections;

(viii) Avoiding delinquency and predatory lending;

(ix) Foreclosure prevention;

(x) Home maintenance and financial management for first-time homeowners;

(xi) RESPA; and

(xii) Fair Housing and fair lending Counseling.

(c) Community Safety.

(d) Health Coordination and Outreach.

(e) Resident Empowerment/Capacity Building.

(f) Computer Skills.

(g) Coordinating Services necessary for elderly or disabled residents to age-in-place.

(h) Good Neighbor Programs.

(i) After-school and or summer programs for school-age children to include tutoring, remedial training, and using computers.

(j) Information on the Earned Income Tax Credit Program, Food Stamps, Child Tax Credit Program, Medicaid, the State Child Health Insurance Program (S-CHIP), Student Loan Interest Deduction, tribal welfare programs, and other benefit programs that can help individuals and families make a successful transition from welfare to work.

(k) Transportation to enable residents to participate in program activities, find and maintain employment, maintain independent living, etc.

(l) Child Care to enable residents to work or participate in program activities.

(m) Parenting Courses.

(n) Nutrition courses.

(o) Health care information and services including referrals to mental health providers and alcohol and other drug abuse treatment programs.

(p) Resident Business Development.

(q) Assistance with Activities of Daily Living for Elderly/Disabled Residents.

(r) Meal services to meet nutritional need for Elderly/Disabled Residents.

(s) Disability Services Counseling.

(t) Personal Emergency Response Resources.

(u) Wellness Programs.

SCs may also create and maintain linkages to other local social service agencies such as employment agencies, health departments, transportation agencies, economic/community development agencies, community colleges, recreational and cultural services, and other community organizations such as Boys & Girls Clubs, 4H Clubs, Boy Scouts, Girl Scouts, etc.

2. Threshold Requirements. Applicants must respond to each threshold requirement clearly and thoroughly by following the instructions below. If your application fails one threshold requirement (regardless of the type of threshold) it will be considered a failed application and will not receive consideration for funding.

a. Match. All applicants are required to have in place a firmly committed 25 percent of the total grant amount in match of cash or in-kind donations as defined in this NOFA. Match does not have to be for only the eligible activities under this grant (e.g. salary, fringe, admin and training). The intention is that the match will be either cash or, if in-kind, made up of services provided to participants in the ROSS-Service Coordinators program. Activities eligible to be counted for match may be both the activities eligible for federal funding under this program as well as self-sufficiency and supportive services/programs provided to participants in the ROSS-Service Coordinators program.

Applicants are not required to submit match commitment letters with their application, but they must be kept on file. The match certification on the HUD-52769 Needs/Partners Form must be signed by the applicant's Executive Director, Resident Association Board President, Tribal Chairman or other person authorized to make the stated commitment, attesting to at least 25% match for activities pursuant to this grant. Please note that all forms with signatures must be scanned and attached to your application or submitted by fax, using the facsimile cover sheet provided with your application.

Joint applicants must together have at least a 25 percent match. Applicants who do not demonstrate the minimum 25 percent match will fail this threshold requirement and will not receive further consideration for funding.

Match donations must be firmly committed, which means that the amount of match resources and their dedication to ROSS-funded activities must be explicit, in writing, and signed by a person authorized to make the commitment. The letters of commitment/MOUs/tribal resolutions must indicate the total dollar value of the commitment and be dated between the publication date of this NOFA and the application deadline published for this NOFA and indicate how the commitment will relate to the proposed program. If the commitment is in-kind, the letters should explain exactly what services or material will be provided. The commitment must be available at time of award. Applicants proposing to use their own, non-ROSS grant funds to meet the match requirement, in whole or in part, must also have a letter of commitment indicating the type of match (cash or in-kind) and how the match will be used.

(1) The value of volunteer time and services shall be computed by using the normal professional rate for the local area or the national minimum wage rate per hour.

(2) In order for HUD to determine the value of any donated material, equipment, staff time, building, or lease, your application must provide a letter from the organization making the donation stating the value of the contribution.

(3) Other resources/services that can be committed include: In-kind services provided to the applicant; funds from federal sources (not including ROSS funds) that by statute allow those funds to be used for matching purposes, including, for example, Community Development Block Grant (CDBG) funds; Indian Housing Block Grant (IHBG) funds; funds from any state or local government sources; and funds from private contributions. Applicants may also partner with other program funding recipients to coordinate the use of resources in the target area.

b. Past Performance. HUD's field offices will evaluate data provided by applicants as well as applicants' past performance to determine whether applicants have the capacity to manage the grant for which they are applying. The area ONAP will review past performance for tribal and TDHE submissions. Field offices will evaluate the contract administrators' past performance for applicants required to have a contract administrator. In evaluating past performance HUD will look at the applicant's record of completing grant activities on time, within budget, and the results achieved. Using the narrative provided by the applicant, the field office/area ONAP will evaluate applicants' past performance. Applicants should carefully prepare their Past Performance statement to ensure it addresses the criteria requested therein.

c. Letters of Support for Nonprofit Applicants.

(1) All nonprofit applicants must include a letter of support from either the Public Housing Authority/Tribe/TDHE(s) or the particular Resident Association(s) they intend to serve. All letters of support must be signed by an authorized representative of the supporting organization and be dated between the publication date of this NOFA and the application deadline published in this NOFA, or the amended deadline. Please be advised that all letters with signatures will need to be scanned and attached to the application or faxed using the facsimile cover sheet included with the application package.

(2) Nonprofit applicants that receive support only from Resident Associations must submit form HUD-52753 (Certification of Resident Council Board of Election) for each RA from which the non-profit is receiving support. Submitting this form is not applicable where non-profits submit letters of support from the PHA/Tribe/TDHE .

(3) PHA/RA Letters of support must indicate the number of eligible units at the PHA (or the number of eligible units represented by the RA, in the case of RA support letters) and list the names of the developments to be served. The letter should also describe to what extent the PHA/RA is familiar with the nonprofit applicant and indicate their support of the nonprofit application. Letters must include contact information and the name and title of the person authorized to sign for the organization. Please see the General Section for instructions for submitting the required letters with your electronic application.

HUD expects that all entities wishing to serve residents at a particular PHA will have coordinated their grant-seeking efforts. If more than one application proposing to serve the same development/AMP is received, they will both be reviewed and if both are deemed eligible to enter the lottery, the first chosen will be funded.

d. General Section Thresholds. All applicants will be subject to all Threshold requirements listed in the General Section including the Dun and Bradstreet Universal Numbering System (DUNS) Number Requirement. You will need to obtain a DUNS number to receive an award from HUD. Obtaining a waiver to submit a paper application does not release an applicant from this requirement. Refer to the General Section for more information.

3. Program Requirements

a. Contract Administrator. All RA and PHAS Troubled PHA applicants must have a Contract Administrator. The contract administrator must assure that the financial management system and procurement procedures that will be in place during the grant term will fully comply with either 24 CFR parts 84 or 85, as appropriate. If an applicant that is required to have a Contract Administrator Partnership Agreement fails to submit one or if it is incomplete, incorrect, or insufficient, this will be treated as a technical deficiency. Contract administrators are expressly forbidden from accessing HUD's Line of Credit Control System (LOCCS) and submitting vouchers on behalf of grantees. Contract Administrators must also assist grantees in meeting HUD's reporting requirements. Contract Administrators may be: local housing agencies; community-based organizations such as community development corporations (CDCs), churches, temples, synagogues, mosques; nonprofit organizations; state/regional/local associations, agencies and organizations. Troubled PHAs are not eligible to be contract administrators. Organizations that the applicant proposes to use as the contract administrator must not violate or be in violation of other conflicts of interest as defined in 24 CFR part 84 and 24 CFR part 85.

b. Nonprofit status. All nonprofit applicants must submit their IRS determination letter to prove their nonprofit (e.g., 501(c)(3)) status. Please see the General Section for instructions for submitting the required documentation with your electronic application.

c. Requirements Applicable to All Applicants. All applicants, lead and non-lead, should refer to “Other Requirements and Procedures Applicable to All Programs” of the General Section for requirements pertaining specifically to procurement of recovered materials and for information regarding other requirements to which they may be subject.

d. Affirmatively Furthering Fair Housing. The General Section of the SuperNOFA directs applicants to submit a statement of their plans to affirmatively further fair housing if they receive funding or, if directed in the particular program NOFA, to demonstrate otherwise that they will affirmatively further fair housing. Successful applicants for this program will certify in their grant agreement/other funding arrangement that they will take reasonable steps to affirmatively further fair housing and maintain records of these steps and their impacts. Reasonable steps include: (1) Advertising for the Service Coordinator position widely in the community, (2) marketing the program to all eligible persons, including persons with disabilities and persons with limited English proficiency, (3) making buildings and communications that facilitate applications and service delivery accessible to persons with disabilities (see, for example, HUD's rule on effective communications at 24 CFR 8.6), (4) providing fair housing counseling services or referrals to fair housing agencies, (5) informing participants of how to file a fair housing complaint, including providing the toll-free number for the Housing Discrimination Hotline: 1-800-669-9777, and (6) if the program has a goal of homeownership or housing mobility, recruiting landlords and service providers in areas that expand housing choice to program participants. Record-keeping covers, but is not limited to, the race, ethnicity, familial status, and disability status of program participants. Prior to execution of the grant agreement/other funding arrangement, the successful applicant will submit a statement to HUD outlining the reasonable steps it plans to take affirmatively further fair housing and how it proposes to maintain records of such activities and their impact.

4. Number of Applications Permitted.

a. PHA/Tribe/TDHE Applicants may submit only one application each. PHAs may propose to serve their own developments. Local RAs may propose to serve their own residents and may submit one application each. Non-Profit Organizations (including state and national non-profit Resident Associations) may be funded to serve residents at as many as three (3) PHAs/Tribes/TDHEs, but must submit a separate application for each PHA to be served unless they will be serving more than one PHA with only one SC. If this is the case, one application is acceptable, but a letter of support from each PHA (or an RA from each PHA) to be served must be included in the application and the PHA listed first on the HUD-52768 will be considered the lead PHA. Each application should be complete in and of itself and will be evaluated independently. If an applicant submits more than one application, separate, non-duplicative match letters must be kept on file.

b. More than one application per development. HUD expects that all entities wishing to serve residents at a particular PHA will have coordinated their grant-seeking efforts. If more than one application proposing to serve the same development/AMP is received, they will both be reviewed and if both are deemed eligible to enter the lottery, the first chosen will be funded.

c. Joint applications. Two or more applicants may join together to submit a joint application for proposed grant activities. However, joint applications must designate a lead applicant. The PHA listed first on the HUD-52768 will be considered the lead PHA. In addition, the lead applicant must be registered with Grants.gov and submit the application using the Grants.gov portal. Lead applicants are subject to all threshold requirements. Non-lead applicants are subject to the following threshold requirements as applicable:

(1) Letter(s) of support from each PHA or RA to be served for nonprofit applicants;

(2) Evidence of nonprofit status as outlined under the section covering threshold requirements for nonprofit applicants; and

(3) Threshold requirements outlined in Section III.C. of the General Section.

Applicants that are part of a joint application may not also submit separate applications as sole applicants under this NOFA.

Note: Joint applicants may combine their eligible units to determine the maximum funding amount the applicants are eligible to receive. However, if more than one PHA is to be served by a non-profit applicant, a letter of support from each PHA (or an RA at each PHA) to be served is required in the application. Also, a Certification of Consistency with the Consolidated Plan is required for each PHA to be served.

5. Eligible Participants. All residents assisted by ROSS Service Coordinators must be residents of conventional public housing or NAHASDA-assisted housing

6. Eligible Developments. Only conventional Public and Indian housing developments and NAHASDA-assisted developments may be served by ROSS grant funds. Other housing/developments, including, but not limited to private housing, federally insured housing, federally subsidized, or assisted (i.e., assisted under Section 8, Section 202, Section 811, Section 236), and others are not eligible to participate in ROSS.

IV. Application and Submission Information

A. Address To Request an Application Package. Copies of the published NOFAs and application forms for HUD programs announced through NOFAs may be downloaded from the grants.gov Web site at http://www.grants.gov/applicants/apply_for_grants.jsp; if you have difficulty accessing the information, you may receive customer support from Grants.gov by calling its Support Desk at (800) 518-GRANTS, or by sending an e-mail to support@grants.gov. You may request general information from the NOFA Information Center (800-HUD-8929) or 800-HUD-2209 (TTY) between the hours of 10 a.m. and 6:30 p.m. (Eastern Time) Monday through Friday, except on federal holidays. When requesting information, please refer to the name of the program you are interested in. The NOFA Information Center opens for business simultaneously with the publication of the SuperNOFA. You can also obtain information on this NOFA from HUD's Web site at http://www.hud.gov/offices/adm/grants/fundsavail.cfm.

B. Content and Form of Application Submission

1. Application Format Information for All Applicants. Applicants should make sure to include all requested information, according to the instructions found in this NOFA and in the General Section. This will help ensure a fair and accurate review of your application.

2. Content and Format for Submission.

a. Content and Format of Application. Narrative pages must be typed, double-spaced, numbered, be in Times New Roman, 12-point font, and have one-inch margins. Please see the General Section for instructions on how to submit supporting documentation with your electronic application.

A checklist is provided here to ensure applicants submit all required forms and information. (Note: Applicants who receive a waiver to submit paper applications must meet the requirements for submission specified in their waiver notification.) Copies of the forms may be downloaded with the application package and instructions from http://www.grants.gov/applicants/apply_for_grants.jsp. You must use the forms that are included with the 2008 application so as to avoid using outdated forms that may be on HUDClips or found from another source.

General Forms

(1) Acknowledgement of Application Receipt (HUD-2993), (paper application submissions only. You must have an approved waiver to submit a paper application);

(2) Application for Federal Financial Assistance (SF-424)—The Federal Identifier requested in 5a. is the PHA number of each applicant (e.g., MD035 or AK002).;

(3) SF-424 Supplement, Faith Based EEO Survey (also known as the Survey on Ensuring Equal Opportunity for Applicants) (SF-424 SUPP) (non-profit applicants only);

(4) Applicant/Recipient Disclosure Report (HUD-2880);

(5) Disclosure of Lobbying Activities (SF-LLL), if applicable;

(6) Disclosure of Lobbying Activities Continuation Sheet (SF-LLL-A), if applicable;

(7) You Are Our Client Grant Applicant Survey (HUD-2994-A) (Optional);

(8) Facsimile Transmittal Form (HUD-96011) (MUST be used as the cover sheet for any faxes pursuant to an electronic application. Must also be included in the application even if faxes are not sent. See General Section for more information.);

(9) Code of Conduct per General Section Instructions.

If any of the above requirements are missing, incomplete or incorrect in your application, they may be requested through the technical deficiency process.

Program Required Submissions:

(1) HUD-52768—ROSS SC Application Form (This serves as the budget form—a separate budget form is NOT required in this application.)

(2) Narrative on Capacity/Past Performance

(3) HUD-52769 Needs/Partners Form with Signed Certification from Executive Director, Resident Association Board President, or Tribal Chairman or other person authorized to make stated commitment attesting to at least 25% of the entire amount of grant funds requested in match for administrative support or services pursuant to this grant. (The actual match letters or MOUs should be kept on file with the applicant and be made available in case of review or audit.)

(4) Logic Model (HUD-96010) showing proposed performance measures. See the General Section for information on the Logic Model.

(5) Letter(s) of Support from PHA or RA (Nonprofit applicants)

(6) IRS nonprofit determination letter proving non-profit status (nonprofit applicants)

(7) Certification of Consistency with the Consolidated Plan (HUD-2991) (for all applicants except for tribes/TDHEs and non-profits serving tribes/TDHEs). If more than one PHA is to be served, there must be one for each PHA.

(8) Certification of Consistency with the Indian Housing Plan (HUD-52752) (for tribes/TDHEs and non-profits serving tribes/TDHEs). If more than one tribe/TDHE is to be served, there must be one for each tribe/TDHE;

(9) Certification of Resident Council Board of Election (HUD-52753) (for RA applicants and non-profit applicants supported by an RA only. One Certification is required from each RA applying or submitting a letter of support. If RA applicants are submitting a joint application, one is needed for each RA applying);

(10) Contract Administrator Partnership Agreement (required for all Resident Associations, and PHAS-troubled PHAs. NOT required for Non-Profit applicants.) (HUD-52755).

Please note that all forms that are not grants.gov electronic forms requiring a signature must be actually signed and then faxed or scanned and attached to your application. ONLY the grants.gov electronic forms are electronically signed.

If any of the above requirements are missing, incomplete or incorrect in your application, they may be requested through the technical deficiency process.

C. Submission Dates and Times

1. Deadline Dates. The application must be received and validated by Grants.gov no later than 11:59:59 p.m. eastern time on the deadline date of August 14, 2008. Please note that the validation process may take up to 72 hours. If a waiver request is approved, the notification of approval of the waiver request will provide instructions on where to submit the paper application. Applicants should submit their waiver requests in writing using mail or e-mail. Waiver requests must be postmarked (or for e-mail, dated) no later than 15 days prior to the application deadline date and should be sent to Anice Schervish, 451 Seventh Street, SW., Room 4130, Washington, DC 20410 or Anice.M.Schervish@hud.gov. If an applicant receives a waiver to the electronic application submission requirement, the application must be received by the application deadline date.

D. Intergovernmental Review: Not applicable.

E. Funding Restrictions

1. Reimbursement for Grant Application Costs. Grantees are prohibited from using ROSS grant funds to reimburse any costs incurred in conjunction with preparation of their ROSS application.

2. Covered Salaries. Service Coordinator. This program will fund up to $68,000 in combined annual salary and fringe benefits for each eligible full-time Service Coordinator. Applicants may propose a part-time coordinator at a lesser salary. However, the minimum number of units still must be served. For audit purposes, applicants must have documentation on file demonstrating that the salary and fringe benefits of the project coordinator are comparable to similar professions in their local area.

3. Training/Travel. This program will cover up to $2,000 per year, per Service Coordinator position for pertinent training and associated travel. All training must be approved by the local HUD Field Office or Area ONAP. HUD anticipates providing a Start-Up training after awards are made. A part-time SC will be entitled to the full amount of training/travel funds.

4. Administrative Costs. Administrative Costs will be approved up to $10,000 per year per SC position. A part-time position will be entitled to the full amount of administrative funds. These funds may be used for activities including but not limited to:

a. Administrative staff support.

b. Local transportation by the SCs.

c. Stipends for reasonable out-of-pocket costs incurred by the residents for such things as local transportation to and from job training and job interviews, supplemental educational materials, and child care expenses.

d. Tracking and evaluation.

e. Purchase of office furniture or office equipment and supplies.

f. Program outreach, printing and postage.

g. Utilities.

h. Lease or rental of space for program activities, but only under the following conditions:

(1) The lease must be for existing facilities not requiring rehabilitation or construction except for minimal alterations to make the facilities accessible for a person with disabilities;

(2) No repairs or renovations of the property may be undertaken with ROSS funds; and

(3) Properties in the Coastal Barrier Resources System designated under the Coastal Barrier Resources Act (16 U.S.C. 3501) cannot be leased or rented with federal funds.

5. Funding Requests in Excess of Maximum Grant Amount. Applicants that request funding in excess of the maximum grant amount that they are eligible to receive will be given consideration only for the maximum grant for which they are eligible. If a grant is awarded, the grantee will work with the field office or area ONAP to re-apportion the grant funds for salaries, travel/training and/or administrative costs, within allowable limits, up to the maximum grant amount for which the applicant is eligible.

6. Ineligible Activities/Costs. Grant funds may not be used for ineligible activities.

a. Funds may not be used for any other activities other than the salary and fringe of ROSS Service Coordinators and related administrative and training activities.

b. Funds under this NOFA may not be used to pay the salary of an FSS coordinator for a Housing Choice Voucher (HCV) or Public Housing (PH) FSS program. The funding for PH and HCV FSS program coordinators is being made available through a separate NOFA included in the FY 2008 Super NOFA.

c. If, upon review, the Field Office or Area ONAP finds that funds have been used for ineligible activities, these funds may be recaptured.

7. ROSS funds cannot be used to hire or pay for the services of a Contract Administrator.

F. Other Submission Requirements

1. All applicants are required to submit their applications electronically via Grants.gov unless they request and are approved by HUD for a waiver of that requirement. Please refer to the General Section for information on how to submit your application and all attachments electronically via Grants.gov.

2. Proof of Timely Submission. Please see the General Section for this information. Applicants that fail to meet the deadline for application receipt will not receive funding consideration.

3. For Waiver Recipients Only. If HUD grants a waiver, the applicant will be notified of the application submission requirements for paper copy applications. Paper copy applications must be received by the appropriate HUD office no later than the application deadline date to meet the deadline submission requirements.

All paper applications must be received by the deadline date. Any paper applications submitted without an approved waiver will be considered ineligible and will not receive funding consideration.

V. Application Review Information

A. Criteria

1. Factors for Award Used To Evaluate Applications to the ROSS program. Eligibility for this program will be evaluated on three factors—Past Performance, Demonstrated Link between Partners and Local Need, and Match. All three requirements must meet the stated eligibility standards in order to be considered for funding. The Logic Model is also required in order to be funded.

a. Past Performance—Capacity of the Applicant and Relevant Organizational Staff.

Please include with your application a narrative statement of no more than ten pages (12 point, Times New Roman, double spaced, 1″ margins) addressing the factors below. This will be used by the Field Office or Area ONAP in conjunction of their knowledge of the applicant's (and/or service coordinator's) past performance to evaluate the Past Performance. The Field Office or Area ONAP will evaluate this requirement on a pass/fail basis.

This factor addresses whether the applicant has the organizational capacity and resources necessary to successfully implement the proposed activities within the grant period. The narrative should include:

(1) Past Performance of Applicant/Contract Administrator and proposed Staff

Applicants' narratives must describe how the applicants (or Contract Administrator) successfully implemented past grant programs designed to promote resident self-sufficiency or assisted elderly or disabled residents to remain independent and age-in-place. This should include the recent, relevant and successful knowledge and experience of the applicant, proposed Service Coordinator(s) and/or partners in planning and managing Service Coordinator or similar programs. You may provide resumes or position descriptions (where staff is not yet hired) for Service Coordinators that will be on applicant staff or contracted. (Resumes/position descriptions and other HUD forms do not count toward the page limit. Please do not include any Social Security numbers.)

The applicant must provide the requested materials in sufficient detail to demonstrate the applicant's capacity to manage a Service Coordinator program. The narrative or other documentation should show that the applicant and/or the Service Coordinator(s) on staff or proposed to be hired have (or will have)

(a) Recent experience (within the last 5 years),

(b) Relevant experience (pertaining to having provided or coordinated supportive services) and

(c) Successful experience (attracted a significant number of residents, kept them involved, and produced specific results) in conducting and completing similar activities.

(2) Program Administration and Fiscal Management

Applicants should include (applicants required to have a Contract Administrator should provide relevant data regarding their Contract Administrator as well):

(a) A list of self-sufficiency grants received in the last five years, the grant amounts, and grant terms (years) of the grants, which are being counted toward past experience;

(b) A description of timely expenditure of program funding throughout the term of past grants. Timely means regular draw-downs throughout the life of the grant, i.e., quarterly draw-downs, with all funds expended by the end of the grant term;

(c) A description of how the applicant has leveraged funding or in-kind services equal to or beyond amounts that were originally proposed for past projects;

(d) The project management structure and program accountability, including the use of a contract administrator, if applicable, including how partners will report to the Service Coordinator and how the Service Coordinator(s) will work with other senior staff; and

(e) If applicable, a list of any audit findings in the past 5 years (HUD IG, management review, fiscal, etc.), material weaknesses and what the applicant has done to address them.

b. Demonstrated Link Between Partners and Local Need.

Applicants should use the HUD-52769 Needs/Providers Form to identify local needs. Applicants must identify a minimum of ten (10) need categories. If less than 10 are identified, this requirement will not be considered to have been met. Then, applicants should identify a partner in the community who will meet each need category. In order to be considered for funding, applicants will need to show that they have partners in the community that can meet at least 50% of the service categories identified as being needed. It will be a part of the role of the Service Coordinator to continue to build upon the partnerships that are in place at the time of the application and to expand the services available to residents. The applicant itself may be listed as meeting the service need if the funding for the service/program comes from funding other than a current or previous ROSS grant and will continue for the three-year grant term.

c. Match.

Applicants must use the HUD-52769 Needs/Providers Form to identify the in-kind or cash match that will be provided pursuant to this grant. All providers listed are not required to provide a letter attesting to match. However, if applicants list match, be it in-kind or cash, on the HUD-52769, a letter attesting to that match commitment must be on file with the applicant and available for review upon request. Applicants must show, and have letters to attest to, a match of at least 25% of the grant amount requested in order to be considered for funding. This match percentage is to be shown on the HUD-52769 as well. On the HUD-52769, the Executive Director, Tribal Leader, Board President or other person authorized to make such certification must certify that this match has been firmly committed to the applicant. Match can be for any type of service that meets the needs indicated on the HUD-52769 or other eligible grant activities. See Threshold section on match for additional information.

d. Achieving Results and Program Evaluation.

(1) An important element in any supportive service program is the development and reporting of performance measures and outcomes. This factor emphasizes HUD's determination to ensure that applicants develop performance and outcome measures that are focused on residents' achieving economic and housing self-sufficiency—reducing and eliminating dependency on any type of subsidized housing or welfare assistance. Additionally, achieving outcomes and accurate evaluation will assist HUD in meeting its commitment to federal requirements for accountability. Applicants must demonstrate how they propose to measure their success and outcomes as they relate to the Department's Strategic Plan.

(2) HUD requires ROSS applicants to develop an effective, quantifiable, outcome-oriented plan for measuring performance and determining that goals have been met. Applicants must use the Logic Model form HUD-96010 for this purpose. The narrative describes how the measurement tools are used to collect and verify reported data and to modify the program if goals are not being met.

(3) Applicants must establish interim benchmarks, or outputs, for their proposed program that lead to the ultimate achievement of outcomes. “Outputs” are the direct products of a program's activities. Examples of outputs are: The number of eligible families that participate in supportive services, the number of new services provided, the number of residents receiving counseling, or the number of households using a technology center. Outputs should produce outcomes for your program. “Outcomes” are benefits accruing to the residents, families, and/or communities during or after participation in the ROSS program. Outcomes are not the development or delivery of services or program activities but the results of the services delivered or program activities—the ultimate results of the program. Applicants must clearly identify the outcomes to be achieved and measured. Examples of outcomes are: Increasing homeownership rates, increasing residents' financial stability (e.g., increasing assets of a household through savings), or increasing employment stability (e.g., whether persons assisted obtain or retain employment for one or two years after job training completion).

(4) This program requirement requires that applicants identify program outputs, outcomes, and performance indicators that will allow applicants to measure the outcomes achieved by themselves and their partners. Performance indicators should be objectively quantifiable and measure actual achievements against anticipated achievements. Applicants' Logic Models should identify what applicants are going to measure, how they are going to measure it, and the steps they have in place to make adjustments to their work plan and management practices if performance targets begin to fall short of established benchmarks and time frames. Applicants must include the standards, data sources, and measurement methods they will use to measure performance. If an applicant proposed to refer residents to homeownership counseling, the applicant should report on the homeownership-related policy priorities listed as options for activities and outcomes in the Logic Model.

B. Review and Selection Process

1. Review Process. Three types of reviews will be conducted: An initial screening to determine if your application is on time, you are eligible to apply for funding under this grant program, and whether your application submission is complete; a review by the field office or Area ONAP to evaluate past performance, and a threshold review.

2. Selection Process for All Grant Categories and All Applicants. All qualified applications will be awarded based on a lottery. Per statute, twenty-five percent (25%) of funds will be set aside for Resident Associations and all qualifying Resident Association applications will be funded first, up to 25 percent of the funding amount. Even if applying as non-profits, state, national, and other incorporated non-profit Resident Associations will be included in this set-aside. To be included in this Resident Association Category, you must indicate your status on the HUD-52768. If there are more qualified resident organizations than 25% of the available funding, there will be an initial lottery for all resident organizations, then the remaining resident organizations will be put together with the rest of the qualified applicants for a second general lottery.

If there are remaining funds in any ROSS program after all qualifying applications have been awarded, those funds may be transferred to another ROSS program.

3. Deficiency Period. Applicants will have 14 calendar days in which to provide missing information requested by HUD. For other information on correcting deficient applications, please see the General Section.

VI. Award Administration Information

A. Award Notices. HUD will make announcements of grant awards after the review process is completed. Grantees will be notified by letter and will receive instructions on what steps they must take in order to access funding and begin implementing grant activities. Applicants who are not funded will also receive letters via U.S. postal mail.

B. Debriefings. All applicants may request a debriefing. Applicants requesting to be debriefed must send a written request to Iredia Hutchinson, Director, Grants Management Center, 501 School Street, SW., Suite 800, Washington, DC 20024.

C. Administrative and National Policy Requirements

1. Environmental Impact. In accordance with 24 CFR 58.34 (a)(3) or (a)(9), 58.35(b)(2), (b)(4) or (b)(5), 50.19(b)(3), (b)(9), (b)(12), (b)(14), or (b)(15), activities under this ROSS program are categorically excluded from the requirements of the National Environmental Policy Act of 1969 and are not subject to environmental review under related laws and authorities.

2. Applicable Requirements. Unless specifically enumerated in this NOFA, all applicants (lead and non-lead) are subject to the requirements specified in Section III.C. of the General Section. Grantees are subject to regulations and other requirements found in:

a. 24 CFR part 84 (“Uniform Administrative Requirements for Grants and Agreements with Institutions of Higher Education, Hospitals, and Other Non-Profit Organizations”);

b. 24 CFR part 85 (“Administrative Requirements for Grants and Cooperative Agreements to State, Local, and Federally Recognized Indian Tribal Governments”);

c. 24 CFR part 964 (“Tenant Participation and Tenant Opportunities in Public Housing”);

d. OMB Circular A-87 (“Cost Principles for State, Local, and Indian Tribal Governments”);

e. OMB Circular A-110 (“Uniform Administrative Requirements for Grants and Other Agreements with Institutions of Higher Education, Hospitals and Other Non-Profit Organizations”);

f. OMB Circular A-122 (“Cost Principles for Non-Profit Organizations”); and

g. OMB Circular A-133 (“Audits of States, Local Governments, and Non-Profit Organizations”).

3. Economic Opportunities for Low- and Very Low-Income Persons (Section 3). Grantees must comply with Section 3 of the Housing and Urban Development Act of 1968, 12 U.S.C. 1701u and ensure that training, employment, and other economic opportunities shall, to the greatest extent feasible, be directed toward low- and very low-income persons, particularly those who are recipients of government assistance for housing and to business concerns that provide economic opportunities to low- and very low-income persons For this program, this applies to the hiring of ROSS Service Coordinators.

4. Fair Housing and Civil Rights Laws. Grantees and their sub-recipients must comply with all Fair Housing and Civil Rights laws, statutes, regulations, and Executive Orders as enumerated in 24 CFR 5.105(a), as applicable. Please see the General Section III.C(2)(c) for more information.

D. Reporting

1. Annual Performance Reports. Grantees must submit annual performance reports to the field office or area ONAP. These progress reports must include financial reports (SF-269A) and a Logic Model (HUD-96010) showing achievements to date against outputs and outcomes proposed in the application and approved by HUD. A narrative describing milestones, work plan progress, and problems encountered and methods used to address the problems to support the data in the Logic Model is optional. HUD anticipates that some of the reporting of financial status and grant performance will be through electronic or Internet-based submissions. Grantees must use quantifiable data to measure performance against goals and objectives outlined in their work plan. Performance reports are due to the field office on January 31 of each year. If reports are not received by the due date, grant funds will be suspended until reports are received. For FY 2008, HUD is considering a new concept for the Logic Model. The new concept is a Return on Investment (ROI) statement. HUD will be publishing a separate notice on the ROI concept.

2. Final Report. All grantees must submit a final report to their local field office or area ONAP that will include a financial report (SF-269A) and a final Logic Model. A narrative describing milestones, work plan progress, and problems encountered and methods used to address the problems to support the data in the Logic Model is optional. Grantees must use quantifiable data to measure performance against goals and objectives outlined in their work plan. The financial report must contain a summary of all expenditures made from the beginning of the grant agreement to the end of the grant agreement and must include any unexpended balances. The final report is due to the field office 90 days after the termination of the grant agreement.

3. Final Audit. Grantees that expend $500,000 in federal funds in a given program or fiscal year are required to obtain a complete final close-out audit of the grant's financial statements by a Certified Public Accountant (CPA), in accordance with generally accepted government audit standards. A written report of the audit must be forwarded to HUD within 60 days of issuance. Grant recipients must comply with the requirements of 24 CFR part 84 or 24 CFR part 85, as stated in OMB Circulars A-87, A-110, and A-122, as applicable.

4. Racial and Ethnic Data. HUD requires that funded recipients collect racial and ethnic beneficiary data. HUD has adopted the Office of Management and Budget's (OMB) Standards for the Collection of Racial and Ethnic Data. In view of these requirements, funded recipients should use form HUD-27061, Racial and Ethnic Data Reporting Form.

VII. Agency Contact(s)

A. For Technical Assistance. For answers to your questions, you may contact the Public and Indian Housing Resource Center at 800-955-2232. Prior to the application deadline, staff at the number given above will be available to provide general guidance, but not guidance on actually preparing the application. Following selection, but prior to award, HUD staff will be available to assist in clarifying or confirming information that is a prerequisite to the offer of an award by HUD. For persons with hearing or speech impairments, please call the toll-free Federal Information Relay Service at 800-877-8339.

B. Satellite Broadcast. HUD will hold an information broadcast via satellite for potential applicants to learn more about the ROSS SC program and preparation of an application. For more information about the date and time of this broadcast, you should consult the HUD Web site at http://www.hud.gov.

VIII. Other Information

A. Code of Conduct. Please see the General Section for more information.

B. Transfer of Funds. If transfer of funds from any of the ROSS programs does become necessary, HUD will consider the amount of unfunded qualified applications in deciding to which program the extra funds will be transferred.

C. Paperwork Reduction Act. The information collection requirements contained in this document have been approved by the Office of Management and Budget (OMB) under the Paperwork Reduction Act of 1995 (44 U.S.C. 3501-3520) and assigned OMB control number 2577-0229. In accordance with the Paperwork Reduction Act, HUD may not conduct or sponsor, and a person is not required to respond to, a collection of information unless the collection displays a currently valid OMB control number. Public reporting burden for the collection of information is estimated to average 7 hours per respondent for the application. This includes the time for collecting, reviewing, and reporting the data for the application. The information will be used for grantee selection and monitoring the administration of funds. Response to this request for information is required in order to receive the benefits to be derived.

Public and Indian Housing Family Self-Sufficiency Program Coordinators Under Resident Opportunities & Self-Sufficiency (ROSS) Program

Overview Information

A. Federal Agency Name: Department of Housing and Urban Development, Office of Public and Indian Housing, Office of Public Housing Investments.

B. Funding Opportunity Title: Public and Indian Housing Family Self-Sufficiency (PH FSS) Program Coordinators.

C. Announcement Type: Initial announcement.

D. Funding Opportunity Number: FR 5200-N-09; OMB Approval Number is 2577-0229.

E. Catalog of Federal Domestic Assistance (CFDA) Number: 14.877.

F. Application Deadline: The application deadline date is July 18, 2008. Please see the General Section published on March 19, 2008 (73 FR 14882) for application submission, delivery, and timely receipt requirements.

G. Additional Overview Content Information

1. Purpose of Program. The purpose of the Public Housing FSS (PH FSS) program is to promote the development of local strategies to coordinate the use of assistance under the Public Housing program with public and private resources, enable participating families to increase earned income, reduce or eliminate the need for welfare assistance, and make progress toward achieving economic independence and housing self-sufficiency. The FSS program and this FSS NOFA support the Department's strategic goals of helping HUD-assisted renters make progress toward housing self-sufficiency. The FSS program provides critical tools that can be used by communities to support welfare reform and help families develop new skills that will lead to economic self-sufficiency. As a result of their participation in the FSS program, many families have achieved stable, well-paid employment, which has made it possible for them to become homeowners or move to other non-assisted housing. An FSS program coordinator assures that program participants are linked to the supportive services they need to achieve self-sufficiency.

2. Funding Available. HUD expects to award a total of approximately $12 million in FY 2008.

3. Award Amounts. Awards will pay only for the annual salary and fringe benefits of PH FSS Coordinators. Award amounts will be based on locality pay rates for similar professions. Each new or renewal position amount will not exceed $68,000.

4. Eligible Applicants. Eligible applicants are Public Housing Authorities (PHAs) and tribes/Tribally Designated Housing Entities (TDHEs) that administer PH FSS programs. All applicants must have an approved PH FSS Action Plan on file with their local HUD field office or Area Office of Native American Programs (ONAP) prior to this NOFA's application deadline. Non-profit organizations and resident associations are not eligible to apply for funding under this program.

5. Cost Sharing/Match Requirement. At least 25 percent of the requested grant amount is required as a match. The match may be in cash and/or in-kind donations. Match may also be made up of self-sufficiency and supportive services/programs provided in-kind to participants in this program. Selected applicants will be required to show proof of committed match at the time of grant agreement execution before any grant agreement will be executed. If a selected applicant fails to provide this documentation, the grant will not be made and the funds will go to the next eligible applicant.

6. Grant Term. The grant term is one year from the execution date of the grant agreement.

Full Text of Announcement

I. Funding Opportunity Description

A. Authority and Program Description. The Consolidated Appropriations Act, 2008 (Pub. L. 110-161, approved December 26, 2007), allows funding for program coordinators under the Resident Opportunity & Self-Sufficiency program. Through annual NOFAs, HUD has provided funding to public housing agencies (PHAs) or tribes/TDHEs that are operating PH FSS programs to enable those applicants to employ program coordinators to support their PH FSS programs. In this FY2008 PH FSS Program Coordinator NOFA, HUD is again making funding available to PHAs/Tribes/TDHEs to employ PH FSS program coordinators for one year. HUD will accept applications from both new and renewal applicants that have HUD approval to administer a PH FSS program. PHA/Tribe/TDHEs funded under the ROSS PH FSS NOFA in FY 2005, 2006 or 2007 are considered “renewal” applicants in this NOFA. These renewal applicants are invited to apply for funds to continue previously funded PH FSS program coordinator positions. Funding priority will be given to renewals for applicants that have achieved a “High Performer” status on their most recent Public Housing Assessment System (PHAS) review and tribes/THDEs that have been determined eligible as a renewal applicant (PHAS score requirement is not applicable to tribes/THDEs). Second priority will be given to standard performer renewal applicants. Third priority will be given to troubled performer renewal applicants and fourth priority will be given to new applicants. There will be no funding for expanding the number of coordinator positions in an existing program.

The maximum number of positions that a new applicant, including new joint applicants, may receive is one full-time FSS program coordinator.

Applicants must administer the FSS program in accordance with HUD regulations and requirements in 24 CFR part 984, which govern the PH FSS program and must comply with the existing Public Housing program requirements, notices, and guidebooks. This includes using a Program Coordinating Committee (PCC) to secure the necessary resources to implement the FSS Program. See 24 CFR 984.202 for more information.

B. Number of Positions for Which Eligible Applicants May Apply. Eligible applicants may apply for funding for PH FSS program coordinator positions under this NOFA as follows:

1. Renewal Applicants. Applicants that qualify as eligible renewal applicants under this NOFA may apply for the continuation of each PH FSS coordinator position awarded under the ROSS PH FSS NOFA in FY 2005, 2006 or 2007 (whichever was the latest year funded).

2. New Applicants. An applicant that meets the requirements for a new applicant under this FSS NOFA may apply for PH FSS program coordinator positions as follows:

a. Up to one full-time PH FSS coordinator position for an applicant with HUD approval to administer a PH FSS program of 25 or more FSS slots; or

b. Up to one full-time PH FSS coordinator position per application for joint applicants that together have HUD approval to administer a total of at least 25 PH FSS slots.

C. Definitions. The following definitions apply to the funding available under this NOFA.

1. Renewal Applicant. Applicants that received funding under the ROSS PH FSS NOFA in FY 2005, 2006 or 2007.

2. New Applicant. Applicants that did not receive funding under the ROSS PH FSS NOFA in FY 2005, FY2006, or FY2007 that have HUD approval to administer a PH FSS program of at least 25 slots or that fulfill the 25 slot minimum by applying jointly with one or more other applicants who together have approval to administer at least 25 PH FSS slots.

3. Tribally Designated Housing Entity (TDHE) is an entity authorized or established by one or more Indian tribes to act on behalf of each such tribe authorizing or establishing the housing entity as defined by Section 4(21) of the Native American and Housing Assistance and Self-Determination Act of 1996 (NAHASDA).

4. Indian Tribe means any tribe, band, nation, or other organized group or a community of Indians, including any Alaska Native village, regional, or village corporation as defined in or established pursuant to the Alaska Native Claims Settlement Act, and that is recognized as eligible for the special programs and services provided by the United States to Indians because of their status as Indians pursuant to the Indian Self Determination and Education Act of 1975, or any state-recognized tribe eligible for assistance under section 4 (12)(C) of NAHASDA.

5. MTW PHAs. New and renewal PHAs that are under MTW agreements with HUD may qualify for funding under this NOFA if the PHA administers an FSS program. When determining the size of a new applicant, MTW PHA's HUD-approved FSS program, the PHA may request the number of FSS slots reflected in the PHA's MTW agreement be used instead of the number in the PHA's FSS Action Plan. However, this number must be at least 25 in order to qualify as a new applicant.

6. FSS Program Size. The total number of PH FSS program slots identified in the applicant's HUD-approved PH FSS Action Plan, or, if requested by MTW PHA applicants, the number of slots in the applicant's MTW agreement. The total may include both voluntary and mandatory PH FSS program slots.

7. Action Plan. Describes the policies and procedures of the PHA or tribe/TDHE for operation of a local FSS program. For a full description of the minimum amount of information that the Action Plan must contain, please see 24 CFR 984.201.

8. Positive Graduation Percentage. The percent of public housing FSS families that have successfully graduated from the program between October 1, 2000, and the publication date of this NOFA as shown in FSS exit reports submitted to HUD on Form HUD-50058 or as otherwise reported to HUD by MTW PHAs. The data source is Form HUD-52767 as well as HUD's PIC data system records of Form HUD-50058 PH FSS program exit reports that were effective between October 1, 2000, and the publication date of this NOFA.

9. The Number of PH FSS Program Participants. The total number of families formerly or currently enrolled in the applicant's PH FSS program between October 1, 2000 and the publication date of this NOFA. For renewal applicants funded for the first time under the 2007 NOFA, please use the enrollments anticipated by the deadline date of this NOFA. The data source is Form HUD-52767 as well as HUD's PIC data system records of Form HUD-50058 reports that were effective between October 1, 2000, and the publication date of this NOFA.

10. Percentage of Families with Positive FSS Escrow Balances. The number of current or former PH FSS families with positive escrow balances as a percentage of total number of PH FSS program participants. The data source is Form HUD-52767 as well as HUD's PIC data system records of Form HUD-50058 PH FSS program progress reports that were effective between October 1, 2000, and the publication date of this NOFA, or as otherwise reported to HUD by MTW PHAs.

11. PH FSS Program Coordinator. A person responsible for linking FSS program participants to supportive services. Program Coordinators will work with the Program Coordinating Committee and local service providers to ensure that the necessary services and linkages to community resources are being made, such as ensuring that the services included in participants' contracts of participation are provided on a regular, ongoing, and satisfactory basis; making sure that participants are fulfilling their responsibilities under the contracts, and ensuring that FSS escrow accounts are established and properly maintained for eligible families. FSS Coordinators may also perform job development functions for the FSS program.

II. Award Information

A. Available Funds. This NOFA announces the availability of approximately $12 million in FY2008 to employ FSS program coordinators for the PH FSS program. If additional funding becomes available during FY2008, HUD may increase the amount available for PH FSS program coordinators under this NOFA. A maximum of $68,000 is available for each full-time coordinator position funded. Salaries are to be based on local comparables. The funding will be provided as a one-year grant. Funding amounts for individual grantees will be contingent upon HUD field office approval.

B. Grant Term. The grant term is one year from the execution date of the grant agreement.

C. Grant Extensions. Requests to extend the one-year grant term beyond the grant term must be submitted in writing to the local HUD field office or area ONAP at least 90 days prior to the expiration of the grant term. Requests must explain why the extension is necessary, what work remains to be completed, and what work and progress was accomplished to date. Extensions may be granted only once by the field office or area ONAP for a period not to exceed 6 months and may be granted for longer by the HUD Headquarters Program Office at the request of the Field Office or Area ONAP.

III. Eligibility Information

A. Eligible Applicants. Eligible applicants are PHAs and tribes/TDHEs that administer low-rent public housing programs. New and renewal applicants must have an approved PH FSS Action Plan on file with their local HUD field office or Area ONAP prior to this NOFA's application deadline. PHAs/tribes/TDHEs eligible to apply for funding under this NOFA are:

1. Renewal Applicants. PHAs or Tribes/TDHEs that received funding under the PH FSS NOFA in FY 2005, 2006 or 2007. To continue to qualify as renewal applicants, the FY2008 application of joint applicants must include at least one applicant that meets this standard. Joint applicants can change the lead applicant in their FY2008 application. A grantee that was originally funded as part of a joint application, that wishes to now apply separately will continue to be considered a renewal applicant for funding purposes, but must be able to meet the FSS minimum program size requirement of a HUD-approved PH FSS program of at least 25 slots that applies to new applicants.

2. New Applicants. Applicants that were not funded under the PH FSS NOFA in FY 2005, 2006 or 2007. The new applicant PHA or Tribe/TDHE must be authorized through its HUD-approved FSS Action Plan to administer a PH FSS program of at least 25 slots, or be an applicant with HUD approval to administer PH FSS programs of fewer than 25 slots that applies jointly with one or more other applicants so that together they have HUD approval to administer at least 25 PH FSS slots. Joint applicants must specify a lead co-applicant that will receive and administer the FSS program coordinator funding.

3. Moving to Work (MTW) PHAs. New and renewal PHAs that are under the MTW demonstration may qualify for funding under this NOFA if the PHA administers a PH FSS program. When determining the size of a MTW PHA's HUD-approved PH FSS program, the PHA may request that the number of PH FSS slots reflected in the PHA's MTW agreement be used instead of the number in the PHA's PH FSS Action Plan. However, this number must be at least 25 in order to qualify as a new applicant.

4. Troubled Applicants

a. An applicant that has been designated by HUD as troubled under the Public Housing Assessment System (PHAS), or that has serious program management findings from Inspector General audits or serious outstanding HUD management review or Independent Public Accountant (IPA) audit findings for the applicant's Low Rent Public Housing program that are resolved prior to the application deadline date is eligible to apply under this NOFA. Serious program management findings are those that would cast doubt on the capacity of the applicant to administer its PH FSS program in accordance with applicable HUD regulatory and statutory requirements.

b. The requirements that apply to an applicant whose PHAS troubled designation has not been removed by HUD or whose major program management findings or other significant program compliance problems that have not been resolved by the deadline date are stated in the Program Requirements section of this NOFA.

B. Cost Sharing or Matching. At least 25 percent of the requested grant amount is required as a match. The match may be in cash and/or in-kind donations. Match may also be made up of self-sufficiency and supportive services/programs provided in-kind to participants in this program. Selected applicants will be required to show proof of committed match at the time of grant agreement execution before any grant agreement will be executed. If a selected applicant fails to provide this documentation, the grant will not be made and the funds will go to the next eligible applicant.

C. Other

1. Eligible Activities. Funds awarded to applicants under this FSS NOFA may only be used to pay salaries and fringe benefits of PH FSS program staff. Funding may be used to employ or otherwise retain for one year the services of PH FSS program coordinators. PH FSS coordinator support positions funded under previous FSS NOFAs that made funding available for such FSS positions may be continued. A part-time program coordinator may be retained where appropriate. Please note that even with a part-time program coordinator, the 25-slot minimum must be retained.

2. Threshold Requirements

a. All Applicants

(1) Each applicant must qualify as an eligible applicant under this NOFA and must have submitted an FSS application in the format required by this NOFA that was received and validated by Grants.gov by the application deadline date. Validation may take up to 72 hours.

(2) At least 25 percent of the requested grant amount is required as a match. The match may be in cash and/or in-kind donations. Match may also be made up of self-sufficiency and supportive services/programs provided in-kind to participants in this program. Selected applicants will be required to show proof of committed match at the time of grant agreement execution before any grant agreement will be executed. If a selected applicant fails to provide this documentation, the grant will not be made and the funds will go to the next eligible applicant.

(3) All applications must include a Dun and Bradstreet Universal Numbering System (DUNS) number. (See the General Section for further information about the DUNS number requirement.)

(4) The applicant must have a financial management system that meets federal standards. See the General Section regarding those applicants that may be subject to HUD's arranging for a pre-award survey of an applicant's financial management system.

(5) Applicants must comply with the requirements for funding competitions established by the HUD Reform Act of 1989 (42 U.S.C. 3531 et seq.) and other requirements as defined in the General Section.

b. Renewal Applicants. Continued funding for existing coordinator positions. In addition to meeting the other requirements of this FSS NOFA, renewal applicants must continue to operate a PH FSS program and have executed FSS contract(s) of participation with PH FSS program families.

c. New Applicants. New applicants must meet all requirements of this FSS NOFA including those in Section III.A above regarding eligibility.

d. Troubled Applicants. Contract Administrator Partnership Agreement. Applicants that are troubled at the time of application are required to submit a signed Contract Administrator Partnership Agreement. The agreement must be for the entire grant term. If an applicant that is required to have a Contract Administrator Partnership Agreement fails to submit one or if it is incomplete, incorrect, or insufficient, this will be treated as a technical deficiency. See General Section for more information on Corrections to Deficient Applications. The Contract Administrator must ensure that the financial management system and procurement procedures that will be in place during the grant term will fully comply with 24 CFR Part 85. Contract administrators are expressly forbidden from accessing HUD's Line of Credit Control System (LOCCS) and submitting vouchers on behalf of grantees. Contract administrators must also assist grantees to meet HUD's reporting requirements. Contract administrators may be: Local housing agencies; community-based organizations such as community development corporations (CDCs), churches, temples, synagogues, mosques; nonprofit organizations; state/regional/local associations, agencies and organizations. Troubled PHAs are not eligible to be contract administrators. Organizations that the applicant proposes to use as the contract administrator must not violate or be in violation of other conflicts of interest as defined in 24 CFR part 85.

3. Program Requirements.

a. Hiring a PH FSS Program Coordinator. Funds awarded under this NOFA may only be used to employ or retain the services of a PH FSS Program Coordinator for the one-year grant term. A PH FSS Program Coordinator must:

(1) Work with the Program Coordinating Committee and with local service providers to ensure that PH FSS program participants are linked to the supportive services they need to achieve self-sufficiency.

(2) Ensure that the services included in participants' contracts of participation are provided on a regular, ongoing, and satisfactory basis; that participants are fulfilling their responsibilities under the contracts; and that FSS escrow accounts are established and properly maintained for eligible families. All of these tasks should be accomplished through case management. FSS coordinators may also perform job development functions for the FSS program.

(3) Monitor the progress of program participants and evaluate the overall success of the program.

b. Salary Comparables. For all positions requested under this NOFA, evidence of salary comparability to similar positions in the local jurisdiction must be kept on file in the PHA/Tribe/TDHE office.

c. FSS Action Plan. The requirements for the PH FSS Action Plan are provided in 24 CFR 984.201. For a new applicant to qualify for funding under this NOFA, the PHA/Tribe/TDHE's initial PH FSS Action Plan or amendment to change the number of PH FSS slots in the PHA/Tribe/TDHE's previously HUD-approved PH FSS Action Plan, must be submitted to and approved by the local HUD field office or Area ONAP prior to the application deadline date of this PH FSS NOFA. An FSS Action Plan can be updated by means of a simple one-page addendum that reflects the total number of PH FSS slots (voluntary and/or mandatory slots) the applicant intends to fill. New applicants with previously approved PH FSS Action Plans may wish to confirm the number of HUD-approved slots their local HUD field office has on record. An MTW PHA may request that the number of PH FSS slots reflected in its MTW agreement be used instead of the number of slots in the PHA's PH FSS Action Plan.

d. Eligible families. Current residents of public/Indian housing are eligible. Eligible families that are currently enrolled or participating in local public/Indian housing self-sufficiency programs are also eligible.

e. Contract of participation. Each family that is selected to participate in an FSS program must enter into a contract of participation with the PHA or tribe/TDHE that operates the FSS program. The contract shall be signed by the head of the FSS family and be individually designed to benefit the subject family.

f. Contract term. The contract with participating families shall be for 5 years. During this time, each family will be required to fulfill its contractual obligations. PHAs or tribes/TDHEs may extend contracts for no more than 2 years for any family that requests an extension of its contract, provided the PHA or tribe/TDHE finds good cause exists to provide an extension. This extension request must be in writing. See 24 CFR 984.303 for more information on contracts of participation.

g. Escrow accounts for very low or low-income participating families. Such accounts shall be computed using the guidelines set forth in 24 CFR 984.305.

Note: FSS families that are not low-income are not entitled to an escrow/credit.

h. Civil Rights Thresholds, Non-discrimination. All applicants must comply with these requirements.

i. Affirmatively Furthering Fair Housing. The General Section of the SuperNOFA directs applicants to submit a statement of their plans to affirmatively further fair housing if they receive funding or, if directed in the particular program NOFA, to demonstrate otherwise that they will affirmatively further fair housing. Successful applicants for this program will certify in their grant agreement/other funding arrangement that they will take reasonable steps to affirmatively further fair housing and maintain records of these steps and their impacts. Reasonable steps include: (1) Advertising for the Service Coordinator position widely in the community, (2) marketing the program to all eligible persons, including persons with disabilities and persons with limited English proficiency, (3) making buildings and communications that facilitate applications and service delivery accessible to persons with disabilities (see, for example, HUD's rule on effective communications at 24 CFR 8.6), (4) providing fair housing counseling services or referrals to fair housing agencies, (5) informing participants of how to file a fair housing complaint, including providing the toll-free number for the Housing Discrimination Hotline: 1-800-669-9777, and (6) if the program has a goal of homeownership or housing mobility, recruiting landlords and service providers in areas that expand housing choice to program participants. Record-keeping covers, but is not limited to, the race, ethnicity, familial status, and disability status of program participants. Prior to execution of the grant agreement/other funding arrangement, the successful applicant will submit a statement to HUD outlining the reasonable steps it plans to take to affirmatively further fair housing and how it proposes to maintain records of such activities and their impact.

IV. Application and Submission Information

A. Addresses to Request Application Package. Applications are available from http://www.grants.gov/applicants/apply_for_grants.jsp. The Download Instructions and the Application Download provide the information and forms that you need to apply for funding under this NOFA. If you have difficulty accessing the information you may receive customer support from Grants.gov by calling their Support Desk at (800) 518-GRANTS, or sending an e-mail to support@grants.gov. You may request general information, from the NOFA Information Center (800-HUD-8929) between the hours of 10 a.m. and 6:30 p.m. (Eastern Time) Monday through Friday, except on federal holidays. Persons with hearing or speech impairments may use the Grants.gov helpdesk e-mail or may access this number via TTY (text telephone) by calling the Federal Information Relay Service at 800-877-8339. (These are toll-free numbers.) When requesting information, please refer to the name of the program you are interested in. The NOFA Information Center opens for business simultaneously with the publication of the SuperNOFA.

B. Content and Format of Application Submission

1. Content of Application. In addition to any information required in the General Section, each new and renewal applicant must complete the forms on the list below. Copies of the forms may be downloaded with the application package and instructions from http://www.grants.gov/applicants/apply_for_grants.jsp. You must use the forms that are included with the 2008 application so as to avoid using outdated forms that may be on HUDCLIPS or found from another source.

a. SF-424 Application for Federal Assistance—In completing the SF-424, renewal applicants should select the continuation box on question 2, type of application. In section 18 of the SF-424, estimated funding, complete only 18.a., which will be the amount requested from HUD in the FY2008 FSS application, and 18.g., Total. The Federal Identifier requested in 5a. is the PHA number of each applicant (e.g., MD035 or AK002). The Federal Award Identifier is the grant number on your Grant Agreement/1044 from your last grant (e.g. AZ004RFS008A006). If you are a new applicant, you will not have a Federal Award Identifier.

b. SF-LLL Disclosure of Lobbying Activities (if applicable).

c. HUD-2880—Applicant/Recipient Disclosure/Update Report (“HUD Applicant Recipient Disclosure Report” on Grants.gov).

d. HUD-2991—Certification of Consistency with the Consolidated Plan (for PHA applicants).

e. HUD-52752—Certification of Consistency with Indian Housing Plan (for Tribes/TDHE applicants).

f. Contract Administrator Partnership Agreement, required for troubled PHA applicants (see HUD-52755).

g. HUD-96011 Facsimile Transmittal, even if not transmitting any faxes (“HUD Facsimile Transmittal” on Grants.gov).

h. HUD-52767 Family Self-Sufficiency Funding Request Form.

i. The HUD-2994-A—“You Are Our Client Applicant Survey” is optional.

j. Completed Logic Model (form HUD 96010) showing proposed performance measures. See the General Section for information on the Logic Model.

k. Code of Conduct per General Section instructions.

2. Budget Forms. There are no budget forms required for this application.

C. Submission Date and Time. Your completed application must be received and validated by Grants.gov no later than 11:59:59 p.m. eastern time on the application deadline date. Please note that validation may take up to 72 hours. Applicants should carefully read section IV titled “Application and Submission Information” in the General Section regarding HUD's procedures pertinent to the submission of your application.

D. Intergovernmental Review. Intergovernmental Review is not applicable to this program.

E. Funding Restrictions

1. Salary Cap. Awards under this NOFA are subject to a cap of $68,000 per year per full-time coordinator position funded. Under this NOFA, if applicants apply jointly, the $68,000 maximum amount that may be requested per position applies to up to one full-time coordinator position for the application as a whole, not to each applicant separately.

2. Limitation on Renewal Funding Increases. For renewal coordinator positions, applicants will be limited to a three percent increase above the amount of the most recent award for the position unless a higher increase is approved by the local HUD field office after review of the applicant's written justification and at least three comparables that must be submitted to the field office by the applicant at the time they submit their FY2008 PH FSS Program Coordinator application to HUD. Examples of acceptable reasons for increases above 3 percent would be the need for a coordinator with higher level of skills or to increase the hours of a part-time coordinator to full-time. Total positions funded cannot exceed the maximum number of positions for which the applicant is eligible under this NOFA. If the funding increase is not approved by the local field office or area ONAP, the applicant will be eligible for renewal at the level of the most recent award.

3. Ineligible Activities

a. Funds under this NOFA may not be used to pay the salary of an FSS coordinator for a Housing Choice Voucher (HCV) FSS program. A PH FSS program coordinator may only serve Low-Rent Public Housing families while the HCV FSS program serves only HCV families. The funding for HCV FSS program coordinators is being made available through a separate NOFA included in the FY2008 Super NOFA.

b. Funds under this FSS NOFA may not be used to pay for services for FSS program participants.

c. Funds under this FSS NOFA may not be used to pay for administrative activities.

F. Other Submission Requirements. Electronic application submission is mandatory unless an applicant requests, and is granted, a waiver to the requirement. Applicants should submit waiver requests in writing using mail or e-mail. Waiver requests must be postmarked (or, for e-mail, dated) no later than 15 days prior to the application deadline date and should be sent to Anice Schervish, 451 7th Street, SW., Room 3236, Washington, DC 20410 or Anice.M.Schervish@hud.gov. If HUD grants a waiver, the applicant will be notified of the application submission requirements for paper copy applications. Paper copy applications must be received by the appropriate HUD office no later than the application deadline date to meet the deadline submission requirements.

V. Application Review Information

A. Criteria. The funds available under this NOFA are being awarded based on demonstrated performance. Applications are reviewed by the local HUD field office or area ONAP office and the Grants Management Center to determine whether or not they are technically adequate based on the NOFA requirements. Field offices or area ONAPs will provide to the Grants Management Center (GMC) in a timely manner, as requested, information needed by the GMC to make its determination, such as the HUD-approved PH FSS program size of new applicants and information on the administrative capabilities of applicants.

B. Reviews and Selection Process

1. Funding Priority Categories. If HUD receives applications for funding greater than the amount made available under this NOFA, HUD will divide eligible applications into priority categories as follows:

a. Funding Category 1—Applications from eligible renewal applicants designated “high performer” in their most recent PHAS review and tribes/THDEs that have been determined eligible as a renewal applicant (PHAS score requirement is not applicable to tribes/THDEs) will be funded for continuation of previously funded eligible positions.

b. Funding Category 2—Eligible renewal applicants designated standard performers on the most recent PHAS review will be funded for continuation of previously funded eligible positions.

c. Funding Category 3—Eligible renewal applicants designated troubled performers on the most recent PHAS review will be funded for continuation of previously funded eligible positions.

d. Funding Category 4—Applications from eligible new applicants agreeing to implement an FSS program of at least 25 slots.

2. Order of Funding.

a. Funding Category 1. Starting with Funding Category 1, HUD will first determine whether there are sufficient monies to fund all eligible positions requested in the funding category. If available funding is not sufficient to fund all positions requested in the category, HUD will calculate, for each eligible applicant, the applicant's Positive Escrow Percentage and Graduation Percentage and will use these percentages in making funding decisions. Definitions of the FSS Positive Escrow Percentage and Graduation Percentage are included in the Definitions Section (Section I.C.) of this NOFA.

HUD will begin funding eligible Funding Category 1 applicants starting with the applicants with the highest Graduation Percentage first. If monies are not sufficient to fund all applicants with the same Graduation Percentage, HUD will fund eligible applicants in order starting with those that have the highest Positive Escrow Percentage first. If funding is not sufficient to fund all applicants with the same FSS Graduation Percentage and/or Positive Escrow Percentage, HUD will select among eligible applicants by PH FSS program size (number of approved slots) starting with eligible applicants with the largest PH FSS program size first.

b. Funding Category 2. If funding remains after funding all Funding Category 1 applications, HUD will then process eligible Funding Category 2 applications. If there are not enough funds to fund all of Funding Category 2, HUD will use the same criteria as provided for Funding Category 1.

c. Funding Category 3. If funding remains after funding all Funding Category 2 applications, HUD will then process eligible Funding Category 3 applications. If there are not enough funds to fund all of Funding Category 2, HUD will use the same criteria as provided for Funding Category 1.

d. Funding Category 4. If funding remains after funding all Funding Category 1, 2, and 3 applications, HUD will then process requests of eligible Funding Category 4 applicants. If there are not sufficient monies to fund all eligible positions requested, HUD will begin funding positions starting with applicants with the largest PH FSS program size (number of approved slots) first.

3. Based on the number of applications submitted, the GMC may elect not to process applications for a funding priority category where it is apparent that there are insufficient funds available to fund any applications within the priority category.

4. Corrections to Deficient Applications. The General Section of the SuperNOFA provides the procedures for corrections to deficient applications.

5. Unacceptable Applications. After the technical deficiency correction period (as provided in the General Section), the GMC will disapprove applications that it determines are not acceptable for processing.

VI. Award Administration Information

A. Award Notices. Successful applicants will receive an award letter from HUD. Successful applicants will be notified by letter and will receive instructions for the steps they must take to access funding and begin implementing grant activities. Applicants who are not funded will also receive letters via U.S. postal mail.

B. Administrative and National Policy Requirements

1. Environmental Impact. Under 24 CFR 50.19(b)(4) and (12), activities under this NOFA are categorically excluded from environmental review under the National Environmental Policy Act of 1969 (42 U.S.C. 4321) and not subject to compliance actions for related environmental authorities.

2. Applicable Requirements. Grantees are subject to regulations and other requirements found in:

a. OMB Circular A-87 “Cost principles for State, Local, and Indian Tribal Governments”;

b. OMB Circular A-133 “Audits of States, Local Governments, and Non-Profit Organizations”;

c. HUD Regulations 24 CFR Part 984 “Section 8 and Public Housing Family Self-Sufficiency Program”; and

d. HUD Regulations 24 CFR Part 85 “Administrative Requirements for Grants and Cooperative Agreements to State, Local, and Federally Recognized Indian Tribal Governments”.

3. Economic Opportunities for Low- and Very Low-Income Persons (Section 3). Grantees must comply with Section 3 of the Housing and Urban Development Act of 1968, 12 U.S.C. 1701u and ensure that training, employment, and other economic opportunities shall, to the greatest extent feasible, be directed toward low- and very low-income persons, particularly those who are recipients of government assistance for housing and to business concerns that provide economic opportunities to low- and very low-income persons. For this program, this applies to the hiring of FSS Coordinators.

4. Fair Housing and Civil Rights Laws. Grantees and their sub-recipients must comply with all Fair Housing and Civil Rights laws, statutes, regulations and Executive Orders as enumerated in 24 CFR 5.105(a), as applicable. Please see the General Section III.C.(2)(c) for details.

5. Provision of Services to Individuals with Limited English Proficiency (LEP). Applicants other than EOI General Translation Component should comply with Final Guidance to Federal Financial Assistance Recipients Regarding Title VI Prohibition Against National Origin Discrimination Affecting Limited English Proficient Persons, (72 FR 2732, Jan. 22, 2007).

6. Communications. Successful applicants should ensure that notices of and communications during all training sessions and meetings shall be provided in a manner that is effective for persons with hearing, visual, and other communication-related disabilities consistent with Section 504 of the Rehabilitation Act of 1973. See 24 CFR 8.6.

7. HUD's Strategic Goals. HUD is committed to ensuring that programs result in the achievement of HUD's strategic mission. The FSS program and this FSS NOFA support the Department's strategic goals of helping HUD-assisted renters make progress toward self-sufficiency by giving funding preference to PHAs/Tribes/TDHEs whose FSS programs show success in moving families to economic self-sufficiency. You can find out about HUD's Strategic Framework and Annual Performance Plan at http://www.hud.gov/offices/cfo/reports/cforept.cfm.

8. HUD Policy Priorities. This NOFA supports the HUD policy priority of helping HUD-assisted renters make progress toward self-sufficiency. See Section V.B. of the General Section for a full discussion of HUD's policy priorities.

C. Reporting. Successful applicants must report activities of their FSS enrollment, progress and exit activities of their FSS program participants through required submissions of the Form HUD-50058 or as otherwise agreed for MTW PHAs. HUD's assessment of the accomplishments of the FSS programs of grantees funded under this NOFA may be based in part on Public Housing Information Center (PIC) system data obtained from the Form HUD-50058. MTW PHAs that do not report to HUD on Form HUD-50058 will be asked to submit an annual report to HUD with the same information on FSS program activities that is provided to HUD by non-MTW PHAs via Form HUD-50058. A grantee is also required to submit a completed Logic Model (HUD-96010) showing accomplishments against proposed outputs and outcomes as part of their annual reporting requirement to HUD. Grantees shall use quantifiable data to measure performance against goals and objectives outlined in their Logic Model. Annual Performance Reports consisting of the updated Logic Model are due in the field office on January 31 of each year. For FY 2008, HUD is considering a new concept for the Logic Model. The new concept is a Return on Investment statement. HUD will be publishing a separate notice on the ROI concept. In addition, HUD requires that funded recipients collect racial and ethnic beneficiary data. It has adopted the Office of Management and Budget's Standards for the Collection of Racial and Ethnic Data. In view of these requirements, funded recipients should use Form HUD-27061, Racial and Ethnic Data Reporting Form. Form 50058 used in concurrence with the PIC Data system is a comparable form. In furtherance of the Federal Funding Accountability and Transparency Act of 2006, funded applicants will be required to provide information on sub-awards made as a result of this award. Sub-award reporting requirements take effect January 1, 2009. HUD will provide further details of this reporting requirement as details are finalized. Applicants that receive awards from HUD should be prepared to report on additional measures that HUD may designate at the time of award.

D. Debriefings. The applicant may request an applicant debriefing. Applicants requesting to be debriefed must send a written request to: Iredia Hutchinson, Director; Grants Management Center, U.S. Department of Housing and Urban Development, 501 School Street, SW., Suite 800, Washington, DC 20024.

VII. Agency Contacts

A. For Technical Assistance. For answers to your questions, you may contact the Public and Indian Housing Resource Center at 800-955-2232. Prior to the application deadline, staff at the number given above will be available to provide general guidance, but not guidance with actually preparing the application. Following selection, but prior to award, HUD staff will be available to assist in clarifying or confirming information that is a prerequisite to the offer of an award by HUD. Persons with hearing or speech impairments may use the Grants.gov helpdesk e-mail or the toll-free Federal Information Relay Service at 800-877-8339.

B. Satellite Broadcast. HUD will hold an information broadcast via satellite for potential applicants to learn more about the PH FSS program and preparation of an application. For more information about the date and time of this broadcast, you should consult the HUD Web site at http://www.hud.gov.

VIII. Other Information

A. Code of Conduct. Please see the General Section for more information.

B. Transfer of Funds. If transfer of funds from any of the ROSS programs does become necessary, HUD will consider the amount of unfunded qualified applications in deciding to which program the extra funds will be transferred.

C. Paperwork Reduction Act. The information collection requirements contained in this document have been approved by the Office of Management and Budget (OMB) under the Paperwork Reduction Act of 1995 (44 U.S.C. 3501-3520) and assigned OMB control number 2577-0229. In accordance with the Paperwork Reduction Act, HUD may not conduct or sponsor, and a person is not required to respond to, a collection of information unless the collection displays a currently valid OMB control number. Public reporting burden for the collection of information is estimated to average 6 hours per respondent for the application. This includes the time for collecting, reviewing, and reporting the data for the application. The information will be used for grantee selection and monitoring the administration of funds. Response to this request for information is required in order to receive the benefits to be derived.

[GPO: Photograph MS page 770]

Self-Help Homeownership Opportunity Program (SHOP)

Overview Information

A. Federal Agency Name: Department of Housing and Urban Development, Office of Community Planning and Development.

B. Funding Opportunity Title: Self-help Homeownership Opportunity Program (SHOP).

C. Announcement Type: Initial announcement.

D. Funding Opportunity Number: FR-5200-N-23; OMB Approval Number 2506-0157.

E. Catalog of Federal Domestic Assistance (CFDA) Number: Self-help Homeownership Opportunity Program. The CFDA number is 14.247.

F. Dates: The application deadline date for electronic submission and validation in Grants.gov is July 11, 2008. Applications submitted through http://www.grants.gov must be received and validated by grants.gov no later than 11:59:59 Eastern time on the application deadline date. The validation process may take up to 72 hours.

G. Optional, Additional Overview Information

SHOP funds are awarded to national and regional nonprofit organizations and consortia demonstrating experience in administering self-help housing programs in which the homebuyers contribute a significant amount of sweat-equity toward construction or rehabilitation of the dwelling. The amount available for SHOP in Fiscal Year (FY) 2008 is $26,500,000.

Full Text of Announcement

I. Funding Opportunity Description

A. Program Description

SHOP funds are to be used to facilitate and encourage innovative homeownership opportunities on a national geographically diverse basis through self-help housing programs that require significant sweat-equity by the homebuyer toward the construction or rehabilitation of the dwelling.

SHOP programs are administered by national and regional nonprofit organizations and consortia. Units developed with SHOP funds must be decent, safe, and sanitary non-luxury dwellings and must be made available to eligible homebuyers at prices below the prevailing market prices. Eligible homebuyers are low-income individuals and families (i.e., those whose annual incomes do not exceed 80 percent of the median income for the area, as established by HUD) who would otherwise be unable to purchase a dwelling but for the provision of sweat equity. Housing assisted under this Notice of Funding Availability (NOFA) must involve labor contributed by homebuyers and volunteers in the construction of dwellings and other activities that involve the community in the project.

B. Authority

Funding made available under SHOP is authorized by section 11 of the Housing Opportunity Program Extension Act of 1996 (42 U.S.C. 12805 note) (the “Extension Act”).

II. Award Information

Approximately $26,500,000 will be available for this program in FY 2008. Any unobligated funds from previous competitions or additional funds that may become available due to deobligation or recapture from previous awards or budget transfers may be added to the FY 2008 appropriation to fund applications submitted in response to this NOFA. Awards will be made to successful applicants in the form of a grant. Grant funds must be expended within 24 months of the date that they are first made available for draw-down in a line of credit established by HUD for the grantee, except that grant funds provided to affiliates that develop five or more units must be expended within 36 months.

III. Eligibility Information

A. Eligible Applicants

You must be a national or regional nonprofit public or private organization or consortium that has the capacity and experience to provide or facilitate self-help housing homeownership opportunities. Your organization or consortium must undertake eligible SHOP activities directly and/or provide funding assistance to your local affiliates to carry out SHOP activities. You must propose in your application to use a significant amount of SHOP funds in at least two states. Affiliates must be located within the regional organization's or consortium's service area. A national organization is defined as an organization that carries out self-help housing activities or funds affiliates that carry out self-help housing activities on a national scale. A regional organization is defined as an organization that carries out self-help housing activities or funds affiliates that carry out self-help housing activities on a regional scale. A regional area is a geographic area, such as the Southwest or Northeast that includes at least two states. The states in the region need not be contiguous, and the service area of the organization need not precisely conform to state boundaries.

A consortium is defined as two or more nonprofit organizations located in at least two states that individually have the capacity and experience to carry out self-help housing activities or fund affiliates that carry out self-help housing activities on a national or regional scale and enter into an agreement to submit a single application for SHOP funding on a national or regional basis. The consortium must propose to use a significant amount of SHOP funds in each state represented in the consortium. All consortium members must receive SHOP funds and one organization must be designated as the lead entity. The lead entity must submit the application and, if selected for funding, execute the SHOP Grant Agreement with HUD and assume responsibility for the grant on behalf of the consortium in compliance with all program requirements.

A consortium agreement, executed and dated by all consortium members for the purpose of applying for and using FY 2008 SHOP funds, must be submitted with your application. A consortium's application must be a single integrated document that demonstrates the consortium's comprehensive approach to self-help housing. All consortium members must be identified in your application. The integrated application must reflect all consortium members' programs as a single program and may only briefly summarize the individual consortium members' past experiences in factor 1. All other components of the application must reflect an overall consortium program design. Individual program designs for consortium members or affiliates within the integrated document will not be considered by HUD in scoring an application. Upon being funded, the lead entity must enter into a separate agreement with each individual consortium member. The agreement must include the requirements of the FY 2008 SHOP Grant Agreement between HUD and the consortium and set forth the individual consortium member's responsibilities for compliance with HUD's 2008 SHOP program.

An affiliate is defined as:

(1) A local public or private nonprofit self-help housing organization that is a subordinate organization (i.e., chapter, local, post, or unit) of a central organization and covered by the group exemption letter issued to the central organization under section 501(c)(3) of the Internal Revenue Code; or

(2) A local public or private nonprofit self-help housing organization with which the applicant has an existing relationship (e.g., the applicant has provided technical assistance or funding to the local self-help housing organization); or

(3) a local public or private nonprofit self-help housing organization with which the applicant does not have an existing relationship, but to which the applicant will provide necessary technical assistance and mentoring as part of funding under the application.

You must carry out eligible activities or you must enter into an agreement to fund affiliates to carry out eligible activities. If you are a consortium, each of your affiliates must receive funds and be linked to an individual consortium member.

Your application may not propose to fund any affiliate or consortium member that is also included in another SHOP application. You must ensure that any affiliate or consortium member under your FY2008 application is not also seeking FY2008 SHOP funding from another SHOP applicant. If an affiliate applies for funds through more than one applicant, it may be disqualified for funding from any applicant that receives a grant.

B. Cost Sharing or Matching

Applicants are required to leverage resources for the construction of self-help housing assisted with SHOP. Failure to provide documentation of leveraged resources that meet the submission requirements for firm commitments as stated in factor 4 will result in a lower application score.

C. Other

1. Eligible Activities

The costs of eligible activities may be incurred by the applicant (and by affiliates, if permitted by the applicant) after the publication date of the NOFA and charged to the SHOP grant, provided the applicant and affiliates comply with the requirements of this NOFA (including relocation and environmental review requirements) and provided that these costs are included in the application. Applicants and affiliates incur pre-agreement costs at their own risk, because applicants that do not receive a SHOP grant cannot be reimbursed or reimburse affiliates.

Eligible activities are:

a. Land acquisition, including financing and closing costs, which may include reimbursing an organization, consortium, or affiliate, upon approval of any required environmental review, for non-grant funds expended by the organization, consortium, or affiliate to acquire land before completion of the environmental review;

b. Infrastructure improvements, including installing, extending, constructing, rehabilitating, or otherwise improving utilities and other infrastructure, including removal of environmental hazards; and

c. Administration, planning, and management development, including the costs of general management, oversight, and coordination of the SHOP grant; staff and overhead costs of the SHOP grant; costs of providing information to the public about the SHOP grant; costs of providing civil rights and fair housing training to local affiliates as well as any expenses involved in affirmatively furthering fair housing; and indirect costs (such as rent and utilities) of the grantee or affiliate in carrying out the SHOP activities.

2. Threshold Requirements

HUD will not consider an application from an ineligible applicant. An applicant must meet all applicable threshold requirements listed in the General Section published on March 19, 2008 (73 FR 14882) and the SHOP threshold requirements described below:

a. Organization and Eligibility. You must be eligible to apply under SHOP (see Section III.A.).

b. Nonprofit Status. You must describe how you qualify as an eligible applicant and provide evidence of your public or private nonprofit status, such as a current Internal Revenue Service (IRS) ruling that your organization is exempt from taxation under section 501(c)(3) or 501(c)(4) of the Internal Revenue Code of 1986. If you are a consortium, each consortium member must submit evidence of its nonprofit status to the lead entity for inclusion in the consortium's application package.

c. Consortium Agreement. If you are a consortium, each consortium member must enter into and sign a consortium agreement for the purpose of applying for SHOP funds and carrying out SHOP activities. Your consortium agreement must be submitted as an appendix to your application.

d. Amount. The amount of SHOP funds you request must be sufficient for a minimum of 30 self-help housing units and may not exceed an average investment of $15,000 per unit.

e. Homebuyer Eligibility. Eligible homebuyers are low-income individuals and families (i.e., those whose incomes do not exceed 80 percent of the median income for the area, as established by HUD). You must specify the definition of “annual income” to be used in your proposed program. You may use one of the following three definitions of “annual income” to determine whether a homebuyer is income-eligible under SHOP:

(1) “Annual income” as defined at 24 CFR 5.609; or

(2) “Annual income” as reported under the Census long-form for the most recent available decennial Census; or

(3) “Adjusted gross income” as defined for purposes of reporting under the IRS Form 1040 series for individual federal annual income tax purposes.

You may also adopt or develop your own definition of annual income for use in determining income eligibility under SHOP subject to review and approval by HUD. You must include your definition of “annual income” in your Program Summary.

f. Experience. You must demonstrate successful completion of at least 30 self-help homeownership units in a national or regional area within the 24-month period immediately preceding the publication of this NOFA. For dwellings to qualify as self-help homeownership units, the homebuyers must have contributed a significant amount of sweat-equity toward the construction as set forth in this section.

g. Sweat Equity. Your program must require homebuyers to contribute a minimum of 100 hours of sweat equity toward the construction or rehabilitation of their own homes and/or the homes of other homebuyers participating in the self-help housing program. In the case of a household with only one adult, the requirement is 50 hours of sweat equity toward the construction of these homes. Sweat equity includes training for construction on the dwelling units, but excludes homebuyer counseling and home maintenance training. All homebuyers, including homebuyers with disabilities, must meet these minimum hourly sweat equity requirements; however, grantees must permit reasonable accommodations for persons with disabilities in order for them to meet the hourly requirements. For example, homebuyers with disabilities may work on less physical tasks or administrative tasks to meet this requirement, or a volunteer(s) may enter into a written agreement to substitute for the disabled person. No exception to meeting these hourly sweat equity requirements may be made.

h. Community Participation. Your program must involve community participation in which volunteers assist in the construction or rehabilitation of dwellings. Volunteer labor is work performed by an individual without promise, expectation, or compensation for the work rendered. For mutual self-help housing programs that are assisted by the U.S. Department of Agriculture's Rural Housing Services/Rural Development under section 523 of the Housing Act of 1949 (7 CFR part 1944, subpart I) or which have a program design similar to the section 523 program, the work by each participating family on other participating families' homes may count as volunteer labor. A mutual self-help housing program generally involves four to ten participating families organized in a group to use their own labor to reduce the total construction cost of their homes and complete construction work on their homes by an exchange of labor with one another.

i. Eligible Activities. You must use the SHOP funds for eligible activities (see Sections III.C.1 and IV.E.) and carry out the activities yourself or fund affiliates to carry out the activities.

3. Threshold Submission Requirements.

In order for your application to be rated and ranked, all threshold requirements must be met. Threshold requirements 2(d) through (i) above do not require separate submissions, but must be addressed in the program summary and/or in the submission requirements for the rating factors listed below in Section V, Application Review Information.

4. Other Requirements.

Other requirements applicable to the SHOP program are set forth in Section III.C.4, “Additional Nondiscrimination and Other Requirements” of the General Section. The following requirements also apply to SHOP:

a. Affirmatively Furthering Fair Housing.

Successful applicants must affirmatively further fair housing by promoting fair housing rights and fair housing choice in housing programs funded by the award. Instead of the actions for affirmatively furthering fair housing in the General Section of the SuperNOFA, successful applicants must affirmatively further fair housing by requiring each affiliate to adopt and follow procedures and requirements to affirmatively market the self-help housing program. (If the applicant will carry out self-help housing activities under the grant, it must also adopt and follow affirmative marketing requirements.) Affirmative marketing consists of taking actions to provide information and otherwise attract eligible persons in the housing market to the self-help housing program without regard to race, color, national origin, sex, religion, familial status or disability. The requirements and procedures include: methods for informing the public and potential homebuyers about federal fair housing laws; use of the Equal Housing Opportunity logo; procedures to inform and solicit applications from persons in the housing market area who are not likely to apply for the program without special outreach.

b. Economic Opportunities for Low- and Very Low-Income Persons (Section 3). SHOP recipients must comply with section 3 of the Housing and Urban Development Act of 1968 (Section 3), 12 U.S.C. 170lu (Economic Opportunities for Low- and Very Low-Income Persons in Connection with Assisted Projects), and the HUD regulations at 24 CFR part 135, including the reporting requirement of subpart E. Section 3 requires recipients to ensure that to the greatest extent feasible, training, employment, and other economic opportunities will be directed to low- and very-low income persons, particularly those who are recipients of government assistance for housing, and to business concerns that provide economic opportunities to low- and very-low income persons.

c. Real Property Acquisition and Relocation. SHOP projects are subject to the Uniform Relocation Assistance and Real Property Acquisition Policies Act of 1970, as amended (Uniform Act or URA) (42 U.S.C. 4601), and the government-wide implementing regulations issued by the U.S. Department of Transportation at 49 CFR part 24. The URA is a federal law that establishes minimum standards for federally-funded programs and projects that require the acquisition of real property (real estate) or displace persons from their homes, businesses, or farms. The URA's protections and assistance apply to the acquisition, rehabilitation, or demolition of real property for federal or federally funded projects.

SHOP grantees and affiliates must comply with all applicable URA requirements in order to receive SHOP funds for their programs and projects; non-compliance could jeopardize SHOP funding. Real property acquisitions for a SHOP-assisted program or project conducted before completion of an environmental review and HUD's approval of a request for release of funds and environmental certification are also subject to the URA. SHOP grantees and affiliates must ensure that all such real property acquisitions comply with applicable URA requirements.

Generally, real property acquisitions conducted without the threat or use of eminent domain, commonly referred to as “voluntary acquisitions,” must satisfy the applicable requirements and criteria of 49 CFR 24.101(b)(1) through (5). Evidence of compliance with these requirements must be maintained by the affiliate and submitted to and maintained by the SHOP grantee. It is also important to note that tenants who occupy property that may be acquired through voluntary means must be fully informed of their eligibility for relocation assistance. This includes notifying such tenants of their potential eligibility when negotiations are initiated, notifying them if they become fully eligible, and, in the event the purchase of the property will not occur, notifying them that they are no longer eligible for relocation benefits. Evidence of compliance with these requirements must be maintained by the affiliate and submitted to and maintained by the SHOP grantee.

Additional information and resources pertaining to real property acquisition and relocation for HUD-funded programs and projects are available on HUD's Real Estate Acquisition and Relocation Web site at http://www.hud.gov/relocation. You will find applicable laws and regulations, policy and guidance, publications, training resources, and a listing of HUD contacts if you have questions or need assistance.

d. Environmental Requirements. The environmental review requirements for SHOP supersede the environmental requirements in the General Section. All SHOP assistance is subject to the National Environmental Policy Act of 1969 and related federal environmental authorities and regulations at 24 CFR part 58. SHOP grant applicants are cautioned that no activity or project may be undertaken, or federal or non-federal funds or assistance committed, if the project or activity would limit reasonable choices or could produce an adverse environmental impact, until all required environmental reviews and notifications have been completed by a unit of general local government, tribe, or state, and until HUD approves a recipient's request for release of funds under the environmental provisions contained in 24 CFR part 58. Notwithstanding the preceding sentence, in accordance with section 11(d)(2)(A) of the Housing Opportunity Extension Act of 1996 and HUD Notice CPD-01-09, an organization, consortium, or affiliate may advance non-grant funds to acquire land before completion of an environmental review and HUD's approval of a request for release of funds and environmental certification. Any advances to acquire land prior to such approval are made at the risk of the organization, consortium, or affiliate, and reimbursement from SHOP funds for such advances will depend on the result of the environmental review.

e. Reduce Energy Costs. Applicants are required to take specific energy-saving actions. In the construction and/or rehabilitation of self-help housing, SHOP applicants must incorporate energy-efficiency measures in the design, construction, and/or rehabilitation of self-help housing units. Applicants must meet Energy Star construction standards and use Energy Star labeled products and appliances.

f. Statutory and Program Requirements. SHOP is governed by section 11 of the Housing Opportunity Program Extension Act of 1996 (42 U.S.C. 12805 note) (the Extension Act), and this NOFA. There are no program regulations. You must comply with all statutory requirements applicable to SHOP as cited in Section I, Funding Opportunity Description, and the program requirements cited in this NOFA. Pursuant to these requirements, you must:

(1) Develop, through significant amounts of sweat-equity by each homebuyer and volunteer labor, at least 30 dwelling units at an average cost of no more than $15,000 per unit of SHOP funds for land acquisition and infrastructure improvements;

(2) Use your grant to leverage other sources of funding, including private or other public funds, to complete construction or rehabilitation of the housing units;

(3) Develop quality dwellings that comply with local building and safety codes and standards that will be made available to homebuyers at prices below the prevailing market price;

(4) Schedule SHOP activities to expend all grant funds awarded and substantially fulfill your obligations under your grant agreement, including timely development of the appropriate number of dwelling units. Grant funds must be expended within 24 months of the date that they are first made available for draw-down in a line of credit established by HUD for the grantee, except that grant funds provided to affiliates that develop five or more units must be expended within 36 months; and

(5) Not require a homebuyer to make an up-front financial contribution to a housing unit other than cash contributed for down payment or closing costs at the time of acquisition.

IV. Application and Submission Information

A. Address To Request Application Package

This NOFA contains all the information necessary for national and regional nonprofit organizations and consortia to submit an application for SHOP funding. This section describes how you may obtain application forms and additional information about the SHOP program NOFA. Copies of the published SHOP NOFA and related application forms for this NOFA may be downloaded from the grants.gov Web site at http://www.grants.gov/applicants/apply_for_grants.jsp. If you have difficulty accessing the information, you may receive customer support from Grants.gov by calling its help desk at (800) 518-GRANTS or by sending an e-mail to support@grants.gov. If you do not have Internet access and you need to obtain a copy of this NOFA, you may contact HUD's NOFA Information Center toll-free at (800) HUD-8929. Individuals with hearing or speech impairments may access this number via the toll-free Federal Information Relay Service at 800-877-8339.

1. Application Kit. There is no paper application kit for this program. All the information you need to apply is contained in this NOFA and is available on-line at http://www.grants.gov/applicants/apply_for_grants.jsp. The NOFA forms are available to be downloaded from http://apply.grants.gov/forms_apps_idx.html. Pay attention to the submission requirements and format for submission specified for this NOFA to ensure that you have submitted all required elements of your application.

The published Federal Register document is the official document that HUD uses to solicit applications. Therefore, if there is a discrepancy between any materials published by HUD in its Federal Register publications and other information provided in paper copy, electronic copy, or at http://www.grants.gov, the Federal Register publication prevails. Be sure to review your application submission against the requirements in the Federal Register for this NOFA.

2. Guidebook and Further Information. See the General Section.

B. Content and Form of Application Submission

You must meet all application and submission requirements described in the General Section. Your application should consist of the items listed in the section below called Assembly Format and Content. HUD's standard forms can be found in the application located on Grants.gov.

1. Page Limits. There are page limits for responses to the five rating factors. A national or regional organization is limited to 40 pages of narrative to respond to the five rating factors. A consortium is permitted up to 5 additional pages to address the past experiences of its individual consortium members. Required appendices, forms, certifications, statements, and assurances are not subject to the page limitations. All pages must be numbered sequentially 1 through 40 or 45, for factors 1 through 5. Your application may contain only the items listed in the Assembly Format and Content checklist below. In responding to the five factors, information must be included in your narrative response to each factor, unless this NOFA states that it should be included as an appendix. If you are submitting material using the fax method described in the General Section, the narrative should refer to the documents being faxed as part of your narrative response to the factor. Any supplemental information not required in the program summary, narratives or appendices requested by HUD that further explains information required in the five factors will not be reviewed for consideration in the scoring of the application.

2. Assembly Format and Content. Your FY 2008 application will be composed of an Application Overview, Narrative Statements (rating factors), Forms, and Appendices. In order to receive full consideration for funding, you should use the following checklist to ensure that all requirements are addressed and submitted with your electronic application.

a. Application Overview. (Not subject to the page limitations.)

__SF-424, Application for Federal Assistance (signed by the Authorized Organization Representative (AOR) who is legally authorized to submit the application on behalf of the applicant and has been approved by the eBusiness Point of Contact to submit the application via Grants.gov. (See the General Section.)

__SF-424 Supplement, Survey on Ensuring Equal Opportunities for Applicant (“Faith Based EEO Survey (SF-424-SUPP)” on Grants.gov).

__Self-Help Housing Organization Qualification—Narrative describing qualification as an eligible applicant and Evidence of Nonprofit Tax Exempt Status (in accordance with Section III.C. of this NOFA).

__Consortium Agreement, if applicable.

__Program Summary (including definition of “annual income”). (Limited to five pages.)

b. Narrative Statements Addressing: (Subject to the page limitations described above.)

__Factor 1—Capacity of the Applicant and Relevant Organizational Staff (including organizational chart).

__Factor 2—Need/Extent of the Problem. (Limited to five pages.)

__Factor 3—Soundness of Approach.

__Factor 4—Leveraging Resources.

__Factor 5—Achieving Results and Program Evaluation.

c. Forms, Certifications, and Assurances: (Not subject to the page limitations.)

__HUD-424-CB, Grant Application Detailed Budget (“HUD Detailed Budget Form” on Grants.gov).

__HUD-424-CBW, Grant Application Detailed Budget Worksheet.

__SF-LLL, Disclosure of Lobbying Activities, as applicable.

__HUD-2880, Applicant/Recipient Disclosure/Update Report. (“HUD Applicant Recipient Disclosure Report” on Grants.gov.)

__HUD-2990, Certification of Consistency with the RC/EZ/EC-II Strategic Plan.

__HUD-96011, Third Party Documentation Facsimile Transmittal (“Facsimile Transmittal Form” on Grants.gov) required for electronic submissions of third party documents.

__HUD-2994-A, You Are Our Client Grant Applicant Survey (Optional).

__HUD-96010, Program Outcome Logic Model.

d. Appendices (Not subject to the page limitations.)

__A copy of your code of conduct. (see the General Section.)

__Leveraging documentation—firm commitment letters. (See factor 4.)

__Survey of potential affiliates, if applicable. (See factor 2.)

__Demonstration of past performance for new applicants. (See factor 1.)

__HUD-27300, Questionnaire for HUD's Initiative on Removal of Regulatory Barriers (“HUD Communities Initiative Form” on Grants.gov), if applicable. (See factor 3.)

__Evaluative criteria for Removal of Regulatory Barriers to Affordable Housing in affiliate selection process, if applicable. (See factor 3.)

Other information should not be submitted and will not be considered in scoring the application.

e. Certifications and Assurances. Applicants are placed on notice that by signing or electronically submitting the SF-424 cover page noted above in 2.a., Application Overview, the applicant is certifying to all information described in Section IV.F.2 of the General Section.

C. Submission Date and Time

The electronic application must be received and validated no later than 11:59:59 p.m. Eastern time by Grants.gov on the application deadline date, which is July 11, 2008. The validation process may take 24-48 hours. Applicants are advised to submit applications 72 hours in advance. By doing so, if your application fails validation and Grants.gov rejects the application, you have time to correct the noted problems prior to the deadline date. If an applicant is granted a waiver to the electronic application submission requirement, the application must be received at HUD Headquarters by the application deadline date (see General Section).

D. Intergovernmental Review

Executive Order 12372 review does not apply to SHOP.

E. Funding Restrictions

1. Administrative costs. Administrative costs may not exceed 20 percent of any SHOP grant. Indirect costs may only be charged to the SHOP grant under a cost allocation plan prepared in accordance with OMB Circular A-122.

2. Pre-agreement costs. After the publication date of the NOFA, but before the effective date of the SHOP Grant Agreement, an applicant and affiliates, if permitted by the applicant, may incur costs that may be charged to their SHOP grant, provided the costs are eligible (see Section III.C.1.) and in compliance with the requirements of this NOFA (including relocation and environmental review requirements) and the application. Applicants and affiliates incur costs at their own risk, because applicants that do not receive a SHOP grant cannot be reimbursed or reimburse affiliates. To be eligible for reimbursement with SHOP funds, pre-agreement costs must be identified in the application.

3. Ineligible Costs. Costs associated with the rehabilitation, improvement, or construction of dwellings and any other costs not identified in Section III.C.1. are not eligible uses of SHOP funds. Acquiring land for land banking purposes (i.e., holding land for an indefinite period) is an ineligible use of program funds. Acquisition undertaken by the applicant or its affiliate before the publication date of the NOFA is not an eligible cost. Pre-agreement costs not identified in the application are ineligible costs. SHOP funds may not be expended on a property unless its acquisition by the grantee, (includes individual consortium members), or its affiliates complies with the Uniform Relocation Assistance and Real Property Acquisition Policies Act of 1970 (URA). SHOP funds may not be used for lobbying activities. These requirements also apply to the reimbursement of pre-agreement costs (see Section IV.E.2).

F. Other Submission Requirements

You must meet all submission requirements described in the General Section. Refer to the General Section for detailed submission instructions, including methods and deadlines for submission.

1. No Facsimiles or Videos. HUD will not accept an entire application sent by facsimile (fax). However, third-party documents or other materials sent by facsimile in compliance with the submission requirements and received by the application deadline date will be accepted. Facsimile corrections to technical deficiencies will not be accepted. Videos submitted as part of an application will not be viewed.

2. Applications must be received and validated by Grants.gov by the application deadline date.

3. Waivers to the Electronic Submission Process: Applicants may request a waiver of the electronic submission process for good cause (see the General Section for more information). Applicants may submit waiver requests by facsimile or by e-mail no later than 15 days prior to the application deadline date. Applicants may e-mail their requests to louise.d.thompson @hud.gov or send a facsimile to Lou Thompson at (202) 708-1744. Requests should include a subject line titled “SHOP—Electronic Application Waiver Request.” Applicants who are granted a waiver based on a HUD-approved justification must submit their applications in accordance with the requirements stated in the approval to the waiver request.

V. Application Review Information

A. Criteria

1. Rating Factor l: Capacity of the Applicant and Relevant Organizational Staff (30 Points)

This factor examines the extent to which you, as a single applicant or consortium (including individual consortium members), have the experience and organizational resources necessary to carry out the proposed activities effectively and in a timely manner. Any applicant that does not receive at least 20 points under this factor will not be eligible for funding.

In evaluating this factor, HUD will consider your recent (last five years) and relevant experience in carrying out the activities you propose (including experience in developing accessible/visitable housing), and your administrative and fiscal management capability to administer the grant, including the ability to account for funds appropriately. All applicants, including individual consortium members, must have capacity and experience in administering or facilitating self-help housing. If you are sponsoring affiliate organizations that do not have experience in developing self-help housing, HUD will assess your organization's experience in providing technical assistance as it relates to self-help housing and the ability to mentor new affiliates.

For applicants that previously received SHOP grants, HUD will assess your organization's past performance based upon performance reports and other available data that demonstrate your organization's completion of eligible SHOP activities, the number of families provided housing, financial status information focusing on timely use of funds, and other program outcomes. HUD will consider whether you had funds deobligated for failure to meet your drawdown and construction schedules or funds were returned because of monitoring findings or other program deficiencies. HUD may also use monitoring reports, audit reports, prior years' logic models, financial closeout reports, and other information available to HUD in making its determination under this factor. For applicants that received SHOP grants in previous years, HUD will assess your success in meeting benchmarks for all open grants during the most recent five full years of participation in the program. “Open grants” means all grants with incomplete properties and/or a final Closeout Agreement has not been issued. If you are not a current SHOP grantee, HUD will assess your performance in undertaking similar activities and identifying and meeting outcomes during the past five years. You must supplement your narrative with internal or external performance reports or other information that will assist HUD in making its determination under this factor. Supplemental information and reports from applicants that have not received SHOP grants do not count against the page limitations.

Submission Requirements for Rating Factor 1

a. Past Experience (10 points). You must describe the most recent five years of your organization in carrying out self-help housing activities (specify the time frame during which these activities occurred) that are the same as, or similar to, the activities you propose for funding, and demonstrate that you have had reasonable success in carrying out and completing those activities. In addition, you must provide the specific number of self-help housing units completed within the previous 24 months of the date of this NOFA. Further, you must include the average number of sweat equity hours provided per homebuyer family, and the average number of volunteer labor hours provided per unit. You may demonstrate reasonable success by showing that your previous activities were carried out as proposed, consistent with the time frame you proposed for completion of all work.

b. Past Performance (7 points). For applicants that received SHOP grants in previous years, you must summarize your past performance, including any delays you encountered and the mitigating actions taken to overcome them to successfully complete your program. HUD will measure your past performance using tools such as monitoring reports, audit reports, quarterly and annual reports, disbursement data, prior years' logic models demonstrating success in meeting outputs and outcomes, closeout reports and other information currently in-house against what you stated you would do in your previous applications and your summary. New applicants must provide a summary of your performance in carrying out self-help housing, including any delays you encountered and the mitigating actions taken to overcome them to successfully complete your program. Your narrative summary must be supported by existing internal or external performance reports or other information that will assist HUD in measuring your performance for carrying out self-help housing and demonstrating outcomes beyond the provision of housing units as stated in prior years' logic models. The supplemental reports and information must be included as an appendix and will not count against the page limitations.

c. Management Structure (10 points). You must provide a description of your organization's or consortium's management structure, including an organizational chart that identifies all key management positions and the names and positions of staff managing SHOP. You must also describe your key staff and their specific roles and responsibilities for the day-to-day management of your proposed program to be funded from FY 2008 SHOP funds. Do not include individuals' Social Security Numbers in your application.

You must specifically state that you will or will not be working with affiliates that are inexperienced in carrying out self-help housing. If you propose to fund inexperienced affiliates, you must describe the technical assistance you will provide and how you will directly or indirectly mentor these affiliates to develop their capacity that results in development of FY 2008 SHOP-assisted units.

d. Experience Developing Accessible Housing (3 points). You must demonstrate your experience in and ability to construct and alter self-help housing by describing the kinds of features you have used to design homes in accordance with universal design and visitability standards, or to otherwise make homes physically accessible. You must provide yearly data for the last five years from the date of the NOFA on the number of accessible units completed.

2. Rating Factor 2: Need/Extent of the Problem (5 Points)

This factor examines the extent to which you demonstrate an urgent need for SHOP funds in your proposed target areas based on the need for affordable housing, using quality data identified by sources to substantiate that need.

The purpose of this factor is to make sure that funding is provided where a need for SHOP funding exists. You must identify the community need or needs that your proposed SHOP activities are designed to address. If you plan to select some or all affiliates after application submission, you must demonstrate how the selection of affiliates will help to address the needs identified in the proposed target areas.

Submission Requirements for Rating Factor 2 (Five Page Limit)

Extent of Need for Self-help Housing (5 points). You must establish the need for self-help housing and the specific need for SHOP funds in identified communities or areas in which your proposed activities will be carried out. You must specifically address the need for acquisition and/or infrastructure assistance for self-help housing activities in these identified areas and how your proposed SHOP activities meet these needs. You must include data on housing problems in the proposed target areas, such as overcrowding, cost burden, housing age or deterioration, low homeownership rate (especially among minority families, lack of housing for families with children, and families with members with disabilities), and lack of adequate infrastructure or utilities. Also, to the extent information is available, you must address the need for accessible homes in the target area(s); evidence of housing discrimination in the target area(s); and any need for housing shown in the local Analysis of Impediments to Fair Housing Choice, if appropriate. This information must be tied to the examples of housing problems noted above.

Applicants that select affiliates after application submission must submit a list of affiliates they surveyed and upon which they are basing their need for SHOP funding, and the specific criteria to be used to select communities or projects based on need.

In reviewing applications, HUD will consider the extent, quality, and validity of the information and data submitted that addresses the need for self-help housing in the target area and how recent the data sources are. “Recent” means the most recent updated U.S. Census data, as appropriate, and other information and data issued within the last five years of this NOFA that address indicators of social or economic decline that best capture the applicant's situation.

3. Rating Factor 3: Soundness of Approach (45 Points)

This factor examines the quality and soundness of your plan to carry out a self-help housing program. In evaluating this factor, HUD will consider the areas described below:

a. Your proposed use of SHOP funds, including the number of units and the type(s) of housing to be constructed, and the use of sweat equity and volunteer labor; your schedule for expending funds and completing construction, including interim milestones; the proposed budget and cost effectiveness of your program; your plan to reach all potentially eligible homebuyers, including those with disabilities and others least likely to apply; and your procedures for meeting Section 3 requirements.

b. How your planned activities further four of eight HUD policy priorities described in the General Section. The four policy priorities that apply specifically to SHOP in FY 2008 are:

(1) Providing increased homeownership opportunities for low- and moderate-income persons, persons with disabilities, the elderly, minorities, and families with limited English proficiency;

(2) Encouraging accessible design features: visitability in new construction and substantial rehabilitation and universal design;

(3) Providing full and equal access to grassroots, faith-based, and other community-based organizations in HUD program implementation; and

(4) Removal of regulatory barriers to affordable housing.

c. How you plan to meet Section 3 requirements for jobs and training and contracting opportunities for SHOP-funded infrastructure improvements.

Submission Requirements for Rating Factor 3.

Activities. Describe the types of activities that you propose to fund with SHOP, the proposed number of units to be assisted with SHOP funding, the housing type(s) (single family or multifamily, or both) to be assisted, the form of ownership (fee simple, condominium, cooperative, etc.) and the Energy Star measures and appliances you propose to use. Applicants must indicate if they will provide pre- and post-homebuyer counseling and/or training.

a. Sweat Equity and Volunteer Labor (7 points). Describe your program's requirements for sweat equity and volunteer labor (i.e., types of tasks and numbers of hours required for both sweat equity and volunteer labor) and how you will provide reasonable accommodations for persons with disabilities by identifying sweat equity assignments that can be performed by the homebuyer regardless of the disability, such as providing administrative, clerical, organizational, or other office work or minor tasks on-site. Reasonable accommodation can include sweat equity by the homebuyer that can be performed regardless of the disability or substitution of a non-homebuyer designee(s) to perform the sweat equity assignments on behalf of the homebuyer. Volunteers substituting for disabled homebuyers must enter into a written agreement to complete the work on behalf of the homebuyers. Include the per unit and total dollar values of both the sweat equity and volunteer labor contributions.

b. Funds Expenditure, Construction, and Completion Schedules (7 points). Submit a construction and completion schedule that expends SHOP funds and substantially fulfills your obligations if you are funded. You must specifically state the percentage or number of properties that you propose to be completed and conveyed to homebuyers at the time all grant funds are expended. Your construction schedule must include the number of dwelling units to be completed within 24 months or, in the case of affiliates that develop five or more units, within 36 months, and a time frame for completing any unfinished units.

Your schedule must also include interim milestones or benchmarks against which HUD can measure your progress in: (1) Selecting local affiliates if they are not specifically identified in the application, (2) expending funds, and (3) completing acquisition, infrastructure, and housing construction activities, and occupancy by homebuyers within these schedules. These milestones or benchmarks should be established at reasonable intervals (e.g., monthly, quarterly, but no greater than semiannually).

c. Budget (7 points). Provide a detailed budget including a breakdown for each proposed task and each budget category (acquisition, infrastructure improvements, and administration) funded by SHOP in the HUD-424-CB and 424-CBW. The budget must include line items for the cost of monitoring consortium members and affiliates at least once during the grant period and pre- and post-homebuyer counseling for homebuyers regardless of the funding source(s). Your detailed budget must also include leveraged funding to cover costs of completing construction of the proposed number of units, including the cost of Energy Star appliances. You must state whether your budget includes the value of sweat equity contributions of homebuyers and other volunteer labor. Budget amounts on the HUD-424-CB and 424-CBW must agree with amounts stated elsewhere in the application.

d. Cost Effective to the Homebuyer (7 points). State how the sales price for SHOP-assisted units is established (provide a table outlining separate costs for land purchase and infrastructure improvements paid by the affiliate; land and infrastructure improvements charged to the homebuyer; construction and project-related soft costs, such as architectural, engineering and related professional services; and any other costs charged to the homebuyer including 2nd or additional mortgages that must be repaid by the homebuyer upon sale of the property). You must demonstrate the extent to which the investment of SHOP funds, the contribution of sweat equity and volunteer labor, donations (e.g., land or building materials), in-kind contributions, and financing subsidies, further reduce the sales price to the homebuyer below the appraised value of the house or market value of comparable housing in the neighborhood. This must be demonstrated for homebuyers receiving both USDA and non-USDA construction assistance. Applicants showing a larger reduction of the sales price to the homebuyer from the appraised or market value as a result of the use of the SHOP funds for costs that are not charged to the homebuyer, the SHOP homebuyer's sweat equity, volunteer labor, and other contributions and subsidies not repaid by the homebuyer will receive a higher score.

e. Policy Priorities (5 points). Describe how each of the four HUD policy priorities identified specifically for SHOP is furthered by your proposed activities. You will receive up to one point for each of the first three policy priorities based on how well your proposed work activities address the specific policy. You can receive up to two points based on how well you address policy priority 4, removal of regulatory barriers to affordable housing, for which you must submit form HUD-27300 (America's Affordable Communities Initiative, Questionnaire for HUD's Initiative on Removal of Regulatory Barriers) and where required, provide the documentation and point of contact information. Applicants are encouraged to read HUD's notices published in the Federal Register on March 22 (69 FR 13450) and April 21 (69 FR 21663), 2004, to obtain an understanding of this policy priority and how it can impact your score. There are exceptions as provided below.

Applicants that identify affiliate organizations and jurisdictions to be served in their application to HUD should address the questions in Part A or Part B, but not both, of form HUD-27300 for the jurisdiction in which the majority or plurality of services will be performed.

Applicants that do not identify affiliates and communities to be served in their application to HUD, but select affiliates competitively or through another method after application submission to HUD, may address this policy priority by including it as an evaluative criterion in their affiliate selection process. Such applicants may receive up to 2 points by requiring affiliate applicants for the awarded SHOP funds to complete the questions in either Part A or B, as appropriate. In order to receive points, applicants that identify affiliates after application submission must include their evaluative criterion as an appendix, and, if awarded SHOP funds in FY 2007, must demonstrate how the evaluative criteria that were included in your FY 2007 application were implemented. You must also describe how the evaluative criteria in your FY2007 SHOP program affected or will affect the selection and funding of affiliates for FY 2008, to the extent this has been completed. The narrative for your evaluative criteria may be included as an appendix and will not count against the page limits described in Section IV.B.1., Page Limits.

Applicants applying for funds for projects located in local jurisdictions and counties/parishes are invited to answer the 20 questions under Part A. An applicant that scores at least five points in column 2 will receive 1 point in the NOFA evaluation. An applicant that scores 10 points or more in column 2 will receive 2 points in the NOFA evaluation. The community(ies) must be identified on the form HUD-27300.

Applicants applying for funds for projects located in unincorporated areas or areas otherwise not covered in Part A are invited to answer the 15 questions in Part B. Under Part B, an applicant that scores at least 4 points in Column 2 will receive 1 point in the NOFA evaluation. An applicant that scores 8 points or greater will receive a total of 2 points in the evaluation. The community(ies) must be identified on the form HUD-27300. A limited number of questions on form HUD-27300 expressly request the applicant to provide brief documentation with its response. For the remaining questions for each affirmative response, applicants must supply a reference, Web site address, or brief statement indicating where the back-up information may be found, and a point of contact including a telephone number or e-mail address. To receive points for this priority, applicants must provide this additional information, including separate contact information if the contacts are different for the individual questions. If the contact is the same, please note that is the case.

f. Program Outreach (5 points). Describe procedures and materials or services that will be used to reach potential homebuyers in the proposed housing market area, including persons least likely to apply without special outreach. In addition, describe alternative formats to be used to reach persons with a variety of disabilities and the language accommodations that will be made for persons with limited English proficiency.

g. Performance and Monitoring (5 points). Describe your plan for overseeing the performance of consortium members and affiliates and provide a schedule for monitoring each consortium member and affiliate for program compliance at least once during the term of the grant. Over 50 percent of the monitoring reviews must be conducted on site. Your plan should address when and how you will shift funds among consortium members and affiliates to ensure timely and effective use of SHOP funds within the schedule submitted for item b. above.

h. Section 3 Procedures (2 points). Under Section 3 of the Housing and Urban Development Act of 1968, to the greatest extent feasible, opportunities for job training and employment arising in connection with housing rehabilitation, housing construction, or other public construction projects must be given to low- and very low-income persons in the metropolitan area (or non-metropolitan county/parish) in which the project is located. In addition, to the greatest extent feasible, contracts for work to be performed in connection with housing rehabilitation, housing construction, or other public construction projects are given to business concerns that provide economic opportunities for low- and very low-income persons in the metropolitan area (or non-metropolitan county/parish) in which the project is located. The regulations implementing Section 3 are found at 24 CFR part 135. Because SHOP funds may only be used for acquisition and infrastructure improvements, Section 3 requirements apply only to SHOP projects for which the amount of SHOP funds for the infrastructure improvements (together with any other covered Section 3 housing and community development assistance for infrastructure) meets the threshold amount of $200,000. Based on the SHOP maximum average investment of $15,000 per unit, Section 3 would generally only apply to a SHOP project with at least 14 units where the entire SHOP amount (if no other covered Section 3 housing and community development assistance is provided to the grantee or affiliate for infrastructure) is $200,000 or more.

Regardless of whether the Section 3 threshold is met, all applicants are required to describe procedures they have in place for Section 3 compliance in the event that they meet the Section 3 threshold in carrying out their proposed FY 2008 SHOP activities. You must clearly explain your procedures for complying with these requirements (1) for projects you will undertake directly, and (2) for projects to be undertaken by affiliates. In the case of projects undertaken by affiliates, your procedures must state how you will inform affiliates of their responsibilities under Section 3 and how you will monitor compliance. One point will be awarded for addressing job training and employment opportunities. One point will be awarded for addressing contracting opportunities.

4. Rating Factor 4: Leveraging Resources (10 points)

This factor addresses your ability to secure other resources that can be combined with HUD's program resources to fully fund your proposed program. When combined with the SHOP grant funds, homebuyer sweat equity, and volunteer labor, your leveraged resources must be sufficient to develop the number of units proposed in your application. HUD will consider only those leveraging contributions for which current firm commitments as described in this factor are submitted. A firm commitment means a written agreement under which the applicant, a partner, or an entity agrees to perform services or provide resources for an activity specified in your application. Firm commitments in the form of cash funding (e.g., grants or loans), in-kind contributions, donated land and construction materials, and donated services will count as leverage. Leveraging does not include the dollar value of sweat equity and volunteer labor for your proposed activities. Leveraging does not include mortgage financing provided to homebuyers. However, financing provided through the U.S. Department of Agriculture's Section 502 direct loans to homebuyers for construction of their dwellings counts as leveraging for mutual self-help housing programs. Firm commitments must be substantiated by the documentation described below.

Submission Requirements for Rating Factor 4

Firm Commitments of Resources (10 points). Provide firm commitments (letters, agreements, pledges, etc.) of leveraged resources or services from the source of the commitment. In order to be considered, leveraged resources or services must be committed in writing and include your organization's name, the contributing organization's name (including designation as a federal, state, local, or private source), the proposed type of commitment, and the dollar value of the commitment as it relates to your proposed FY 2008 SHOP-funded activities. Each letter of commitment must be signed by an official of the organization legally able to make the commitment on behalf of the organization. See Other Submission Requirements, of the General Section regarding the procedures for submitting third-party documentation. Each letter of commitment must specifically support your FY 2008 SHOP application or specific projects in your FY 2008 application. If your organization depends upon fundraising and donations from unknown sources/providers, you must submit a separate letter committing a specific amount of dollars in fundraising to your proposed FY 2008 SHOP program. Applicants must ensure that duplicate letters for fundraising amounts are not submitted by both the applicant and its affiliates. Also, if you have received funds from organizations and agencies from previous years that are not committed to another activity and you have the sole discretion to commit these funds to your FY 2008 SHOP program, you must submit a separate letter committing these dollars to your FY 2008 SHOP program. In all instances, the dollar amount must be stated in the letters. Letters of commitment may be contingent upon your receiving a grant award. Letters of commitment must be included as an appendix to your application, and do not count toward the page limitation noted in Section IV.B.1. Unsigned, undated, or outdated letters, letters only expressing support of your organization or its proposal, or those not specifically stating the dollar amount or linking the resources to your FY 2008 SHOP application or specific projects in your FY 2008 application do not count as firm commitments.

To receive full credit for leveraging, an applicant's leveraging resources must be clearly identified for its FY 2008 SHOP application and must total at least 50 percent of the amount shown on forms HUD-424-CB needed to complete all properties, minus the proposed SHOP grant amount, homebuyer sweat equity, and volunteer labor.

5. Rating Factor 5. Achieving Results and Program Evaluation (10 points)

This factor emphasizes HUD's determination to track whether applicants meet commitments made in their applications. HUD requires SHOP applicants to develop an effective, quantifiable, outcome-oriented evaluation plan for measuring performance and determining whether goals have been met using the Master Logic Model for SHOP, which can be found in the download instructions portion at http://www.grants.gov/applicants/apply_for_grants.jsp. Applicants must clearly identify the “Outputs” and “Outcomes” to be achieved and measured. Completed newly constructed or rehabilitated self-help housing units are outputs. Outcomes are benefits accruing to the families and/or communities during or after participation in SHOP. Examples of outcomes include increasing the homeownership rate in a neighborhood or among low-income families by a certain percentage, increasing the property tax base by a certain value, or increasing housing stability (e.g., increasing assets of the low-income homebuyer households by creating household equity or reducing total housing costs compared to rents that SHOP participants previously paid) during and beyond the grantee's period for reporting on property completions. See Reporting in Section VI.C. In addition, applicants must establish interim benchmarks for which outputs lead to the ultimate achievement of outcomes. “Interim benchmarks” are steps or stages in your activities that, if reached or completed successfully, will result in outputs for your program. Examples of interim benchmarks for SHOP include acquisition of land, completion of infrastructure, identification of income-qualified homebuyers, obtaining building permits, or securing construction materials and equipment.

Program evaluation requires that you identify program outcomes, outputs, benchmarks, and performance indicators that will allow you to measure your performance. Performance indicators must be objectively quantifiable and measure actual achievements against anticipated achievements within a specified timeframe. Your evaluation plan must identify what you are going to measure, how you are going to measure it, and the steps you have in place to make adjustments to your work plan if performance targets are not met within established time frames. This factor reflects HUD's goal to embrace high standards of ethics, management, and accountability. Successful applicants will be required to report quarterly on their progress in achieving the proposed outcomes identified in the Logic Model. Applicants should refer to the General Section for more information on the Master Logic Model.

Submission Requirements for Rating Factor 5

Program Evaluation Plan and Logic Model (10 Points). The FY 2008 application requires submission of a written program evaluation plan and a completed eLogicModel™. The eLogicModel™ allows the applicant to select from drop down menus the elements of their program that are captured in the Logic Model. Instructions for the eLogic Model™ are found in Tab 1 of the form HUD-96011 found in the instructions download to your electronic application. The Master Logic Model listing also identifies the unit of measure that HUD will collect for the output(s) and outcome(s) selected. Applicants must identify a unit of measure and establish a goal for each output and outcome.

HUD has designated mandatory outputs and outcomes that must be addressed by the applicant. For both “Housing Constructed” and “Housing Rehabilitated,” applicants must address the following five mandatory Outputs: (1) Sweat Equity (hours); (2) Volunteer Labor (hours); (3) Design incorporates energy efficiency measures and Energy Star Standards (units); (4) Policy Priority—Design incorporates universal design (units); and (5) Policy Priority—Design incorporates visitability standards (units).

For both “ New construction” and “Rehabilitated units,” applicants must address the following four mandatory Outcomes: (1) One of the three sets of “average reduced sales price” from 1-10 % (dollars and units) or from 11-30% (dollars and units) or greater than 30% (dollars and units)—each set counts as two outcomes; (2) Increased housing stability—average decreased housing costs (dollars); and (3) Increased housing stability—average increased assets in savings (dollars).

If an applicant's program consists of new construction or rehabilitation, but not both, the five mandatory outputs and four outcomes applicable to the program must be selected. If an applicant's program includes both new construction and rehabilitation, applicant must address all mandatory outputs/outcomes. However, applicants are expected to select additional outputs and outcomes identified in their work plan. Further, interim benchmarks, program indicators, outputs, and outcomes must be quantifiable.

You must summarize your program evaluation plan that measures your own program performance. Your plan must measure the performance of individual consortium members and affiliates, including the standards and measurement methods, and the steps you have in place or how you plan to make adjustments if you begin to fall short of established benchmarks and time frames. Applicants that include both mandatory and optional outputs and outcomes and interim benchmarks, and prepare a written evaluation plan that meets the specified content requirements will receive a higher score. HUD will rate the eLogicModel™ submission based upon the matrix contained in Attachment 1 to the General Section.

B. Review and Selection Process

1. Factors for Award Used To Evaluate Applications

HUD will evaluate all SHOP applications that successfully complete technical processing and meet threshold and submission requirements for Factors 1 through 5. The maximum number of points awarded for the rating factors is 100 plus the possibility of an additional 2 bonus points for RC/EZ/EC-II.

2. RC/EZ/EC-II Bonus Points. Applicants may receive up to 2 bonus points for eligible activities that the applicant proposes to locate in federally designated Empowerment Zones (EZs), renewal communities (RCs), or enterprise communities (ECs) designated by the United States Department of Agriculture (USDA) in Round II (EC-IIs) that are intended to serve the residents of these areas and that are certified to be consistent with the area's strategic plan or RC Tax Incentive Utilization Plan for an urban or rural renewal community designated by HUD (RC) on the strategic plan for an enterprise community designed in round II by USDA (EC-II). For ease of reference in this notice, all of the federally designated areas are collectively referred to as “RC/EZ/EC-IIs” and the residents of these federally designated areas as “RC/EZ/EC-II residents.” The RC/EZ/EC-II certification, a valid HUD-2990 form, must be completed for an applicant to be considered for RC/EZ/EC-II bonus points. A list of RC/EZ/EC-IIs can be obtained from HUD's grants Web site at http://www.hud.gov/offices/adm/grants/fundsavail.cfm. Applicants can determine if their program or project activities are located in one of these designated areas by using the locator on HUD's Web site at http://egis.hud.gov/egis/. Copies of the certification can be found in the electronic application. The certification must be completed and signed by the appropriate official in the RC/EZ/EC-II for an applicant to be considered for RC/EZ/EC-II bonus points. In addition to the RC/EZ/EC-II certification, applicants must provide the location of the EC/EZ/EC-II (name of town, city, state, or other locale) if not otherwise identified on the certification, and the number of units to be developed within the RC/EZ/EC-II in order to receive credit.

RC/EZ/EC-II bonus points will be awarded as follows: 2 points to an applicant with over 25 percent of its proposed units in RC/EZ/EC-II; 1 point for 10 to 25 percent of units in RC/EZ/EC-IIs; and 0 points below 10 percent of units in RC/EZ/EC-II zones.

3. Rating

Applications that meet all threshold requirements listed in Section III.C will be rated against the criteria in Factors 1 through 5 and assigned a score. Applications that do not meet all threshold factors will be rejected and not rated.

4. Ranking and Selection Procedures

Applications that receive at least 20 of 30 points for Factor 1 will be fully reviewed. Applications that receive a total of 75 points or more (without the addition of RC/EZ/EC-II bonus points) will be eligible for selection. After adding any bonus points for RC/EZ/EC-IIs HUD will place applications in ranked order. HUD will consider ranked order, funds availability, and past performance in the selection and funding of applications.

5. Technical Deficiencies. After the application deadline date and consistent with regulations in 24 CFR part 4, subpart B, HUD will not consider any unsolicited information you may want to provide. However, HUD may contact you to clarify an item in your application or to correct technical deficiencies. In order not to unreasonably exclude applications from being rated and ranked, HUD may contact applicants to ensure proper completion of the application and will do so on a uniform basis for all applicants. However, HUD may not seek clarification of items or responses that improve the substantive quality of your response to any rating factor.

Examples of curable (correctible) technical deficiencies include inconsistencies in the funding request or a failure to submit certifications. In each case, HUD will notify you in writing by describing the clarification or technical deficiency. See the General Section for additional information.

6. HUD's Strategic Goals to Implement HUD's Strategic Frameworks and Demonstrate Results. See the General Section for HUD's Strategic Goals.

7. Policy Priorities. Refer to the General Section for information regarding application criteria addressing HUD's policy priorities.

Note: From all applications that receive SHOP funds, HUD intends to add relevant data obtained from the “Removal of Regulatory Barriers” policy priority factor to the database on state and local regulatory reform actions maintained at the Regulatory Barrier Clearinghouse Web site at http://www.huduser.org/rbc/ used by states, localities, and housing providers to identify regulatory barriers and learn of exemplary local efforts at regulatory reform.

VI. Award Administration Information

A. Award Notices

1. HUD reserves the right to:

a. Fund less than the amount requested by any applicant based on the application's rank, the applicant's past performance, and the amount of funds requested relative to the total amount of available funds; and/or

b. Fund less than the full amount requested by any applicant to ensure a fair distribution of the funds and the development of housing on a national, geographically diverse basis as required by the statute.

HUD will not fund any portion of an application that is ineligible for funding under program threshold requirements in Section III.C or which does not meet other threshold and pre-award requirements in Section III.C. The minimum grant award shall be the amount necessary to fund eligible SHOP activities for at least 30 units at an average investment of not more than $15,000 per unit or a lesser amount if lower costs for SHOP activities are reflected in the application. If any funds remain after all selections have been made, these funds may be available for subsequent competitions.

2. Debriefing. For a period of at least 120 days, beginning 30 days after the awards for assistance are publicly announced, HUD will provide to a requesting applicant a debriefing related to its application. A debriefing request must be made in writing or by e-mail by its authorized official whose signature appears on the SF-424, or his or her successor in the office and submitted to Ms. Lou Thompson, Office of Affordable Housing Programs, U.S. Department of Housing and Urban Development, 451 Seventh Street, SW., Room 7164, Washington, DC 20410-7000. Information provided during a debriefing will include, at a minimum, the final score you received for each rating factor, final evaluation comments for each rating factor, and the final assessment indicating the basis upon which assistance was provided or denied.

B. Administrative and National Policy Requirements

1. Grantees are required to comply with the following administrative and financial requirements: A-122 Cost Principles for Non-Profit Organizations; A-133 (Audits of States, Local Governments, and Non-Profit Organizations); and the regulations at 24 CFR part 84 (Grants and Agreements with Institutions of Higher Education, Hospitals, and other Non-Profit Organizations).

2. Copies of the OMB Circulars may be obtained from EOP Publications, New Executive Office Building, Room 2200, Washington, DC 20503, telephone (202) 395-3080 (this is not a toll-free number) or (800) 877-8339 (toll-free TTY Federal Information Relay Service) or from the Web site at http://www.whitehouse.gov/omb/circulars/index.html.

3. Refer to all award administration information requirements described in Section VI (“Award Administration Information”) of the General Section.

C. Reporting. Grantees are required to submit quarterly and annual (consortium members/affiliates) reports providing data on the construction status, unit characteristics, and income and racial and ethnic composition of homeowners in SHOP-funded properties. Following issuance of a grant agreement and establishment of a line of credit for the grantee, as part of the required quarterly reporting to HUD, grant recipients must include a completed Logic Model (form HUD-96010), which updates the output and outcome achievements identified in your application with which HUD can evaluate the effectiveness of the SHOP funding. Applicants are also required to report annually their response to the management questions contained in the eLogic Model™ for the SHOP program.

VII. Agency Contact

Further Information and Technical Assistance. Before the application deadline date, HUD staff may provide general guidance and technical assistance about this NOFA. However, staff is not permitted to assist in preparing your application. Also, following selection of applicants, but before awards are announced, staff may assist in clarifying or confirming information that is a prerequisite to the offer of an award. You may contact Ms. Lou Thompson, SHOP Program Manager, Office of Affordable Housing Programs, Department of Housing and Urban Development, 451 Seventh Street, SW., Room 7164, Washington, DC 20410-7000, telephone (202) 708-2684 (this is not a toll-free number). This number can be accessed via TTY by calling the toll-free Federal Information Relay Service Operator at (800) 877-8339. For technical support for downloading an application or electronically submitting an application, please call Grants.gov help desk at 800-518-GRANTS (this is a toll-free number) or send an e-mail to support@grants.gov.

VIII. Other Information

A. Review Sections VIII.A., B., E., F., and G. (“Other Information”) of the General Section, and note that these subsections are incorporated by reference into this NOFA.

B. Paperwork Reduction Act. The information collection requirements contained in this document were approved by the Office of Management and Budget (OMB) under the Paperwork Reduction Act of 1995 (44 U.S.C. 3501-3520) and assigned OMB control number 2506-0157. In accordance with the Paperwork Reduction Act, HUD may not conduct or sponsor, and a person is not required to respond to, a collection of information unless the collection displays a currently valid OMB control number. Public reporting burden for the collection of information is estimated to average 60 hours per annum per respondent for the application and grant administration. This includes the time for collecting, reviewing, and reporting the data for the application, quarterly and annual reports, and final report. The information will be used for grantee selection and monitoring the administration of funds. Response to this request for information is required in order to receive the benefits to be derived.

Housing Opportunities For Persons With Aids (HOPWA)

Overview Information

A. Federal Agency Name: Department of Housing and Urban Development, Office of Community Planning and Development (CPD), Office of HIV/AIDS Housing.

B. Funding Opportunity Title: Housing Opportunities for Persons With AIDS (HOPWA).

C. Announcement Type: Initial Announcement.

D. Funding Opportunity Number: FR-5200-N-21; OMB Approval Number 2506-0133.

E. Catalog of Federal Domestic Assistance (CFDA) Number: 14.241 Housing Opportunities for Persons With AIDS Program.

F. Dates: The application deadline date is July 18, 2008. Applications submitted through http://www.grants.gov must be received and validated by grants.gov no later than 11:59:59 PM Eastern time on the application deadline date. The validation process may take up to 72 hours. Refer to the General Section, published March 19, 2008 (73 FR 14882), for application submission and timely receipt requirements.

G. Additional Information

1. Purpose of the Program: To provide states and localities with the resources and incentives to devise long-term comprehensive strategies for meeting the housing needs of low-income persons with Human Immunodeficiency Virus/Acquired Immunodeficiency Syndrome (HIV/AIDS). Grant recipients will measure client outcomes to assess how housing assistance creates or maintains stable housing, reduces risks of homelessness, and improves access to health care and other needed support. States, units of general local government, and nonprofit organizations interested in applying for funding under this grant program should carefully review the General Section and detailed information listed in this NOFA.

2. Available Funds. Approximately $8 million in Fiscal Year (FY) 2008 funding is made available under the Consolidated Appropriations Act, 2008 (Pub. L. 110-5, December 26, 2007). Funds for the renewal of expiring HOPWA competitive grants that have successfully undertaken permanent supportive housing projects will be distributed under a separate process described in a separate notice from this NOFA. The remaining funds will be made available under this NOFA after renewals have been funded. This notice makes funding available for two types of new HOPWA projects: (1) Long-term projects for housing activities conducted by eligible states and units of general local government in areas that are not eligible for formula allocations or in the balance of the state areas outside of eligible metropolitan statistical areas by a governmental agency that is not eligible to receive formula grants; and (2) Special Projects of National Significance (SPNS) projects that will undertake housing service delivery models to provide HOPWA clients with improved stable housing arrangements by a governmental agency or an eligible nonprofit organization.

The Department will advise existing competitive grantees that provide permanent supportive housing of the procedure for qualifying for additional funds as a renewal of an expiring HOPWA grant. As implemented in FY2006 and FY2007, the renewal process has changed: Existing grantees will not be required to submit an application under this competition for a renewal grant. In FY2005, one-time funding was also made available for 17 transitional housing demonstration projects that are not eligible for the renewal as permanent supportive housing projects. The 2005 selection criteria noted that funded projects would only be for demonstration efforts and that applications were reviewed for on-going sustainability, evidenced by plans that continued to outplace clients to permanent housing arrangements and plans for continued operation of projects from other sources following the demonstration effort. However, along with other applicants, the transitional housing projects awarded under the 2005 NOFA could be eligible to apply and compete for additional funding under this NOFA. A project application could propose new activities to be undertaken over the next three year period and applicants are not required to maintain the same design elements for any currently operating projects by making changes to address needs. HUD further advises that the amount of funds available for the new awards would potentially only support 6 to 8 new projects and that this number of awards will be significantly less than the likely number of new applications, including potential applications from grantees now operating one of these 17 expiring demonstration grants.

3. Eligible Applicants. States, units of general local government, and nonprofit organizations are eligible to apply.

4. Match. None.

5. Authorities. HOPWA program regulations at 24 CFR part 574 and the AIDS Housing Opportunity Act (42 U.S.C. 12901-12912) govern the program.

Full Text of Announcement

I. Funding Opportunity Description

A. Program Description

1. Long-Term Projects in Non-formula Areas. HUD will award funding for short-term, transitional and/or permanent supportive housing activities. These projects should improve stable housing arrangements for eligible persons who reside in areas that do not qualify for FY2008 HOPWA formula allocations. Applications should be submitted by the state or the unit of general local government undertaking activities in an area not eligible for formula funds or in the balance of state areas outside of eligible metropolitan statistical areas.

2. Special Projects of National Significance (SPNS). SPNS projects will provide assistance that stabilizes housing for eligible persons through model and/or innovative service delivery models. Consistent with the selection considerations established at 42 U.S.C. 12903(c)(3)(C), SPNS projects must demonstrate potential replicability in the larger HOPWA program. Applications should be submitted by states, units of general local government, and non-profit organizations in accordance with the General Eligibility for Applicants and Sponsors section of this NOFA.

3. Definitions for all HOPWA grants.

a. Chronically Homeless Person. An unaccompanied homeless individual with a disabling condition who has either been continuously homeless for a year or more OR has had at least 4 episodes of homelessness in the past 3 years. For this program, a disabling condition is defined as a diagnosable substance abuse disorder, serious mental illness, developmental disability, or chronic physical illness or disability, including AIDS or a disabling condition due to HIV, including the co-occurrence of two or more of these conditions.

b. Lease or Occupancy Agreement. In establishing that an eligible person has obtained permanent supportive housing and a legal right to remain in that housing unit, the lease or occupancy agreement must be for a term of at least one year. The lease or occupancy agreement must also be automatically renewable upon expiration, except on reasonable and timely prior notice by either the tenant or the landlord. A short-term lease or lease in the name of the provider may be used to undertake transitional housing activities.

c. Nonprofit Organization. Nonprofit organizations include those that: (1) Are state or locally chartered; (2) Are organized under state or local laws; (3) Have no part of earnings inuring to the benefit of any member, founder, contributor or individual; (4) Have a functioning accounting system that is operated in accordance with generally accepted accounting principles, or has designated an entity that will maintain such an accounting system; and (5) Have among its purposes significant activities related to providing services or housing to persons with acquired immunodeficiency syndrome or related diseases, as clarified to include infection with the human immunodeficiency virus (HIV).

d. Permanent Supportive Housing. Housing in which the eligible person has a continuous legal right to remain in the unit and which provides the eligible person with ongoing supportive services through qualified providers.

e. Transitional Housing. Housing that will help facilitate the movement of eligible person(s) to permanent housing within 24 months.

B. Statutory and Regulatory Requirements

For more information on the HOPWA program, including eligible uses of funds, see the HOPWA program regulations at 24 CFR part 574 and the AIDS Housing Opportunity Act (42 U.S.C. 12901-12912), which govern the program.

C. Availability of Other HOPWA Resources

1. Formula Allocations and Renewal Funds. Applicants are advised to also consider seeking funds from the formula component of the HOPWA program and from other resources. Ninety percent of the HOPWA program is allocated by formula to eligible states and qualifying cities. In FY2007, HUD distributed $256,162,000 in HOPWA funds by formula to the qualifying cities and one county in 84 eligible metropolitan statistical areas (EMSAs) and to 39 eligible states for areas outside of EMSAs. In addition, expiring projects that provided permanent supportive housing under a competitive award in a prior year may qualify for renewal funds, as authorized by HUD appropriations acts. In 2007, HUD provided $27,280,081 to 27 renewal projects that were eligible, consistent with CPD Notice 07-13, Standards for Fiscal Year 2007 HOPWA Permanent Supportive Housing Renewal Grant Applications, issued on February 21, 2007.

2. National HOPWA Technical Assistance. To apply for funding to serve as a provider of HOPWA technical assistance, you must submit an application for funds under the Community Development Technical Assistance (CDTA) section of the SuperNOFA. The CDTA notice makes HOPWA funds available to organizations qualified to provide technical assistance support to HOPWA grantees and project sponsors. Organizations seeking help in managing their current HOPWA project, such as advice or other help needed in planning, operating, reporting to HUD and evaluating HOPWA programs, can request technical assistance by contacting their state or area CPD office.

II. Award Information

A. Total. The total available HOPWA competitive funding in FY2008 is approximately $300 million. After first awarding funds to renew existing HOPWA permanent housing projects in FY2008, HUD estimates that approximately $8 million will be available for new projects.

B. Announcement of Awards. HUD anticipates that projects awarded under this notice will be announced by August 31, 2008. HUD expects that selected projects will undertake program activities under a grant agreement for a 3-year operating period.

C. Minimum and Maximum Grant Award. In order to fairly distribute available funding, the conditions on grant size for an award that you may receive are:

1. For program activities (e.g., activities that directly benefit eligible persons): At least $500,000 and up to $1.3 million;

2. For grant administrative costs of the grantee: 3 percent of the awarded grant amount (e.g., an additional $39,000 if the maximum grant is awarded);

3. For grant administrative costs for project sponsors: 7 percent of the amount received by the project sponsor under the grant (e.g., an additional $91,000 if the maximum grant is awarded). A grantee carrying out all program activities without the use of a project sponsor is only eligible to receive grantee administrative costs of 3 percent and is not eligible for the additional project sponsor administrative costs of 7 percent;

4. Total maximum grant amount for all categories of grant awards under this NOFA is $1.43 million with an additional onetime funding of up to $30,000 for Return on Investment (ROI) activities if your organization submits a Return on Investment plan that is awarded for funding. For more information on Return on Investment activities see Section III.C..3..b.(4), Other HUD-Approved Activities, in this NOFA.

D. Average Grant Award. Based on the results of the FY2007 HOPWA competition, the average grant award for the four new project grants selected was $1.2 million.

III. Eligibility Information

A. Eligible Applicants

1. Eligibility for Funding to Nonprofit Organizations. If you are a nonprofit organization, you must also satisfy the nonprofit requirements established in the definition for eligible nonprofit organization found in 24 CFR 574.3 and in the definitions section of this Program NOFA.

2. General Eligibility for Expiring Grant Projects. To be eligible for a new grant for an existing HOPWA project, a project that does not qualify for renewal as a permanent supportive housing project, such as the transitional housing demonstration grants funded under the FY2005 NOFA, or a grantee that wishes to significantly change an existing project, the project must meet all program requirements. Existing HOPWA projects that show poor performance or unresolved grants management issues up to the date of the public announcement of awards under this NOFA will not be funded. Unresolved problems may include: (1) HUD knowledge that activities approved under a grant agreement remain significantly delayed in their implementation; (2) A significant number of the housing units approved under a grant agreement are vacant; (3) Required annual progress reports are not timely filed with HUD; (4) Unresolved actions pending under a HUD notice of default on your current grant or significant citizen complaints are unresolved or not responded to with justified reasons.

3. General Eligibility for Applicants and Sponsors. States, units of general local government, and nonprofit organizations may apply under the SPNS grants category to propose new projects or to obtain additional funding for existing projects that do not qualify as permanent supportive housing renewal grants.

States and units of general local government may apply under the “Long-term” category, if the project entails housing activities in areas that did not receive or are not designated to receive HOPWA formula allocations in FY2008 or if the government agency is not eligible to receive formula funds and will serve a balance of state area outside of any EMSA. Nonprofit organizations are not eligible to apply directly for Long-term grants, but may serve as project sponsors for an eligible state or local government applicant.

B. Cost Sharing or Matching

There are no cost sharing or matching requirements for applications under this program NOFA. However, leveraging is encouraged and addressed in Rating Factor 4, Leveraging.

C. Other

1. Threshold Requirements for All Applications. Applicants must meet the threshold requirement identified in the General Section. HUD will also review your application to determine that you are eligible for funding, as follows:

a. Eligible Applicant.

(1) Your application is consistent with the requirements of Section III.A of this NOFA for eligibility based on applicant requirements, project sponsor requirements, and the lack of any unresolved management issues for applicants who currently administer HOPWA grants; and

(2) Your application complies with the Dun and Bradstreet Data Universal Numbering System (DUNS). More information on the requirement of the DUNS can be found in the General Section.

b. Eligible Project Sponsors. Your application is consistent with the requirements for eligibility of project sponsors, as follows:

If the project sponsor is a nonprofit organization, it must also satisfy the nonprofit requirements established in the definition of an eligible nonprofit organization found in 24 CFR 574.3 and in the definition section of this NOFA.

2. Program Requirements.

All grant recipients must also meet the following program requirements, including performance goals and operational benchmarks, and conduct project activities in a consistent and ongoing manner over the approved grant operating period. If a selected project does not meet the appropriate requirement, HUD reserves the right to cancel and/or withdraw the grant funds.

a. General Provisions. The provisions outlined within the General Section apply to the HOPWA program unless otherwise stated within this NOFA. Specifically, you are encouraged to review Section III.C., entitled, Other Requirements and Procedures Applicable to All Programs.

b. Environmental Requirements. All HOPWA assistance is subject to the National Environmental Policy Act and applicable related federal environmental authorities. While some eligible activities, such as tenant-based rental assistance, supportive services, operating costs, and administrative costs, are excluded from environmental review because of the lack of environmental impact, other activities require environmental review. All new facility-based projects must undergo an environmental review. In accordance with the HOPWA regulations at 24 CFR 574.510, environmental reviews for HOPWA activities are to be completed by responsible entities in accordance with 24 CFR part 58. Applicants or grantees that are not a responsible entity must request the unit of general local government to perform the environmental review. HOPWA grantees and project sponsors may not commit or expend any grant or non-federal funds on project activities (other than those listed in 24 CFR 58.22(f), 58.34 or 58.35(b) for which the responsible entity documents its findings of exemption or exclusion for the environmental review record (24 CFR 58.34(b) or 24 CFR 58.35(d)) until HUD has approved a “Request for Release of Funds and Certification” (RROF), form HUD-7015.15, on compliance with the National Environmental Policy Act and implementing regulations at 24 CFR Part 58 (Environmental Review Procedures for Entities Assuming HUD Environmental Responsibilities). The recipient, its project sponsors and their contractors may not acquire, rehabilitate, convert, lease, repair, dispose of, demolish, or construct property for a project, or commit or expend HUD or local funds for such eligible activities, until the responsible entity (as defined in 24 CFR 58.2) has completed the environmental review procedures required by 24 CFR part 58 and the environmental certification and the RROF have been approved. HUD will not release grant funds if the recipient or any other party commits grant funds (i.e., incurs any costs or expenditures to be paid or reimbursed with such funds) before the recipient submits and HUD approves its RROF (where such submission is required). The recipient shall supply all available, relevant information necessary for the responsible entity to perform, for each property, any environmental review required.

c. Required HOPWA Performance Goals. Grant recipients must conduct activities consistent with their planned annual housing assistance performance output goals, objectively measure actual achievements against anticipated achievements, and report on their actual performance housing outputs and client outcomes. Applicants are required to use the HOPWA Budget Form (form HUD-40110-B) found in the instructions to the published NOFA on Grants.gov/Apply in this NOFA for recording the funding for housing assistance activities that are associated with these performance outputs, including any funding request for HOPWA funds and/or commitment to use other funds for this purpose. This form is consistent with the new Annual Progress Report that grantees will be required to complete. In establishing and reporting on performance goals, applicants are required to use the Logic Model (Form HUD-96010) as described under paragraph (e). Applicants must establish a reasonable client outcome goal on achieving housing stability, reducing risks of homelessness and improving access to care to be quantified after each year of operation to demonstrate client outcomes. HUD expects that each HOPWA grantee will show that at least 80 percent of the beneficiaries achieve stable housing, have reduced risks of homelessness and improve access to care in their program during the operating year, as shown by an assessment of the housing status for the household at the end of each operating year. The grantee will assist in establishing a baseline on annual performance to help measure how future efforts lead to the achievement of higher levels of housing stability. On a national basis, HUD has established the goal that more than 80 percent of clients will be in stable housing situations by 2009. The following performance measures must be used in your project plan and your logic model under paragraph (e):

(1) Required Output refers to the number of units of housing/households assisted during the year, as measured by the annual use of HOPWA funds. For HOPWA, the application must specify one-year goals for the number of households to be provided housing through the use of HOPWA activities for: (a) Short-term rent, mortgage, and utility assistance payments to prevent homelessness of the individual or family; (b) tenant-based rental assistance; and (c) units provided in housing facilities that are being developed, leased, or operated with HOPWA funds. You should also include the projected numbers of low-income eligible households who are expected to benefit from the other types of HOPWA assistance to be provided through your project during each operating year, such as the number receiving permanent housing placement support, or supportive services.

(2) Required Outcomes refer to the number of eligible households who have been provided housing assistance (as noted above for outputs) and thereby maintain a stable living environment in housing that is safe, decent, and sanitary. The program will measure these results in annual assessments on the housing status of beneficiaries along with other outcome measures on the reduced risks of homelessness and improved access to HIV treatment and other health care and support. On a nationwide basis, the program is expected to demonstrate stable housing, reduced risks of homelessness and improved access to care results for beneficiaries through the use of annual resources with a national goal that this status be achieved by 80 percent of all HOPWA beneficiaries by 2008.

d. Optional Program Performance Goals.

In addition to required performance measures described in the paragraph above, you may include other measures or annual indicators in your project plan and in your logic model under paragraph (e).

e. HUD Logic Model. You must use the Logic Model (Form HUD-96010) in this NOFA to illustrate the planning for the use of resources, project activities, required outputs and outcomes, and other grantee-identified goals, and for reporting on annual accomplishments. Applicants must make use of the required elements in paragraph (a) in this form. If you are awarded a grant under this notice, please note that the Logic Model form will also be used as part of your Annual Progress Report to document results obtained under your approved plans during each operating year. Training on the logic model will be conducted via satellite broadcast and archived on HUD's Web site and the satellite broadcast and Webcast date will be published on HUD's Web site. See Section VI.C., Reporting for additional information on Logic Model reporting requirements.

f. HOPWA Facility Use Period Requirement. Any building or structure assisted with amounts under this part will be maintained as a facility to provide assistance for eligible persons: (1) for not less than 10 years in the case of assistance involving new construction, substantial rehabilitation or acquisition of a building or structure; and (2) for not less than 3 years in cases involving non-substantial rehabilitation or repair of a building structure.

g. Execution of Grant Agreement and Obligation of Awards. HOPWA grants are obligated upon execution of the grant agreement by both parties (i.e., the recipient and HUD). Applicants selected to receive FY2008 funding must execute grant agreements as soon as practicable, but no later than 6 months after the notice of selection.

h. Disbursement of Funds. Grant recipients must fully expend their grant funding no later than 3 years following the effective date or the operation start date in the grant agreement, unless HUD has approved a one-time extension for an additional 12 months or less. A time limit on grant expenditures that is established in the National Defense Authorization Act for FY1991 requires the expenditure of all HOPWA funds awarded under this NOFA by September 30, 2013. After September 30, 2013, any unexpended funds shall be canceled and, thereafter, shall not be available for obligation or expenditure for any purpose.

i. Site Control of Housing Facilities through Acquisition or Lease. If you propose to acquire a site or structure or lease a structure to serve as a housing facility in your project, you are required to gain site control within one year from the date of your notice of selection by HUD.

j. Rehabilitation or New Construction. If you propose to use HOPWA funds for rehabilitation or new construction activities for housing projects, you must agree to begin the rehabilitation or construction within 18 months (including any time taken in the facility's acquisition or lease under paragraph (i)), and all rehabilitation or construction work must be completed within the terms of your grant agreement with HUD. Such activities will trigger certain accessibility requirements of Section 504 of the Rehabilitation Act of 1973 and/or the Design and Construction requirements of the Fair Housing Act of 1988.

k. Project Operations. If funds are used for operating costs of existing housing facilities, you must agree to begin to use these funds within 6 months, consistent with the terms of your grant agreement with HUD. If funds are to be used for operating costs, in connection with the new construction or substantial rehabilitation of housing facilities, the amount of funds designated for operating costs must be limited to the amount to be used during the portion of the planned three-year period for your grant agreement for which the facility will be operational and assisting eligible program participants. Delays in the project's development activities, such as the planned completion of the construction or rehabilitation activities, could result in the loss of funds designated for operating costs, if such funds remain in excess after the authorized use period for this award. For example, if you expect to take two years to complete the rehabilitation of the facility, any operating costs could only be requested for use in the remaining one-year of the planned 3-year operating period for this award.

l. Section 3 of the Housing and Urban Development Act of 1968. If HOPWA funds are requested for new construction or rehabilitation costs, the applicant must agree to comply with Section 3 of the Housing and Urban Development Act of 1968, as amended (12 U.S.C. 1701(u)), and comply with regulations pursuant thereto (24 CFR part 135), which require that, to the greatest extent feasible, employment and other economic opportunities generated by federal financial assistance for housing and community development programs be directed toward the low and very low-income residents of the project's service area and that contracts for work in connection with the project be awarded in substantial part to persons residing in the service area of the project. Applicants that propose New Construction and/or Rehabilitation activities must address the Section 3 requirements, at a minimum, by (a) quantifying the opportunity, such as number and type of jobs to be made available, scope and nature of contacts for development services or other similar elements, (b) establishing a schedule or elements of a plan to implement the opportunity and (c) a plan to track and report on accomplishments in performance under this requirement. If selected, the applicant/grantee would report on accomplishments in annual reports to HUD.

m. Improving Access to Services for Persons with Limited English Proficiency (LEP). Applicants obtaining an award from HUD must comply with Executive Order 13166, “Improving Access to Services for Persons with Limited English Proficiency.” For more information on Executive Order 13166, reference Section IV, Additional Nondiscrimination and Other Requirements in the General Section of the FY2008 SuperNOFA.

n. Affirmatively Furthering Fair Housing. Funding recipients are obligated to affirmatively further fair housing. For more information on the Affirmatively Furthering Fair Housing program requirement reference Section III.C.4. in the General Section.

3. Eligible Activities

a. Proposed Project Activities. In your application, you must specify the activities and budget amounts for which HOPWA funds are being requested, consistent with the eligible activities found in the HOPWA regulations at 24 CFR 574.300. Your activities must address housing needs of eligible members of the community and specify whether the project will be undertaking permanent, transitional, short-term and/or emergency housing assistance. A copy of the regulations may be downloaded from www.hud.gov/offices/cpd/aidshousing/lawsregs/index.cfm. You are encouraged to review the HOPWA regulations before seeking funding, and other program guidance, such as CPD Notice 06-07, HOPWA Short-term Rent, Mortgage and Utility Payments (STRMU) and Connections to Permanent Housing, issued August 3, 2006. HOPWA documents can be found on the program Web page noted above. HUD will not approve proposals that depend on a prospective determination as to how program funds will be used. For example, a proposal to establish a local request-for-proposal process to select either activities or project sponsors, that would have the effect of delaying the obligation of funds due to the unplanned use of HOPWA funds, will not be approved.

b. Additional Guidance on Use of Program Funds.

(1) Housing Assistance. HOPWA projects must demonstrate that housing assistance is the main focus of program activities. Please indicate if you propose to use HOPWA funds to provide permanent supportive housing (as defined in Section I.A.). If you are proposing emergency or transitional housing assistance, your plan must include linkages to permanent supportive housing. See 24 CFR 574.300(b)(8) for descriptions of appropriate operating costs for a housing project.

(2) Supportive Services. Many of the eligible persons who will be served by HOPWA may need other support in addition to housing. It is important that you design programs that enhance access to those existing mainstream resources through communitywide strategies to coordinate assistance to eligible persons. These mainstream programs include: The Ryan White CARE Act; Medicaid; the Children's Health Insurance Program; Temporary Assistance for Needy Families; Food Stamps; Mental Health Block Grant; Substance Abuse Block Grant; Workforce Investment Act; the Welfare-to-Work grant program; as well as other state, local and private sources. No more than 35 percent of the proposed budget for program activities undertaken by project recipients can be designated for supportive services costs. In addition, HUD will not award funds for the acquisition, lease, rehabilitation, or new construction of a supportive services-only facility. Additional restrictions and limitations that apply to supportive services such as limitations addressing only uncompensated health care costs, can be found at 24 CFR 574.300. HUD will not provide funds for medications or other health care costs, as these are reasonably available from other sources. Costs for staff engaged in delivering the supportive service is part of the supportive service activity cost, and should not be listed as operating costs or “other” costs in the application's proposed HOPWA budget.

(3) Permanent Housing Placement Assistance. Permanent housing placement at 24 CFR 574.300(b)(7) may also be used in connection with the provision of housing support provided under these awards and is not considered a supportive service under limitations stated in paragraph (2). Permanent housing placement costs may involve costs associated with helping eligible persons establish a new residence where ongoing occupancy is expected to continue, including rental application fees, related credit checks, and reasonable security deposits necessary to move persons to permanent housing, provided such deposits do not exceed 2 months of rent. Leveraged resources may involve other forms of move-in support, such as essential housing supplies, smoke alarms, standard furnishings, minor repairs to the unit associated with move-in, and other incidental costs for occupancy of the housing unit. While these items are not eligible as permanent housing placement costs, grantees may make use of other leveraged funds for these costs.

(4) Other HUD-Approved Activities. You may propose other activities not already authorized at 24 CFR 574.300(b), subject to HUD's approval. Your proposal should address the expected beneficial impact of this alternative activity in addressing housing needs of eligible persons by describing the project impact and the identified performance output and client outcome measures for this activity.

In addition, HUD is interested in developing Return-On-Investment models to provide insight from specific community-based efforts that can help determine the cost effectiveness of the HOPWA program and related services delivered in the community. As discussed in the General Section, the Carter-Richmond Methodology presents the building blocks for effective program management and for developing Return-On-Investment models. There are nine questions in the Carter-Richmond Methodology, the first seven are the building blocks for effective program management and can be used to develop benefit/cost models, and the last two questions address valuing outcomes and calculating Return-On-Investment (ROI).

When developing ROI models there are several principles to be considered:

• These models should address the connection between investment and results.

• In order to compute an ROI effectively, one must clearly delineate the nature of investment and the nature of results or outcomes.

• All public services, including housing assistance and related support provided through HOPWA projects, should produce a measurable outcome. All outcomes have a value; however the value is not always monetary. It is incumbent upon agencies to determine the value of these outcomes for the individual client/family and for the community in monetary or non-monetary terms.

• In technical terms, ROI is a rate of “dollars saved per dollars invested.” If the investment and return are measurable in dollars, one has a quantifiable ROI methodology.

• When calculating an ROI, the calculation may result in an effective ROI, a neutral ROI, or a less than effective ROI. An effective ROI is where the value of the benefit or dollars saved exceeds the cost of the investment. A neutral ROI is where the value of the benefit or dollars saved equals the cost of the investment. A less than effective ROI is where the value of the benefit or dollars saved is less than the investment. Your organization will not be penalized for a less than effective ROI.

An example of a “dollars saved per dollars invested” ROI could be that HOPWA funds provided to the grantee for supportive housing (the investment) would result in a cost savings by maintaining clients in the community (the return) rather than a longer term institutional placement. The grantee would need to compare the funds provided from the supportive housing grant to the savings resulting from community placement compared to an institutional or long term placement. An effective ROI would be achieved if the savings achieved were greater than the initial grant investment.

HUD is also interested in calculating ROI as “benefits per dollars invested.” An example of a “benefits per dollars invested” ROI is the number of people housed in permanent housing compared to the development cost of constructing the housing, along with related operating costs for a facility based program, or costs in providing rental assistance over a measured period of support.

Additional support is also available in this notice to assist HOPWA grantees in conducting program evaluation using the ROI methodology. This NOFA provides additional one-time funding for related ROI data collection and analysis efforts up to a maximum of $30,000 per grantee. These additional funds are available under rating factor 5, Achieving New Results, (see rating criteria under Section V.A.1.d. Application Selection Process for Projects, Rating Factor 5 Achieving New Results). You may earn up to an extra five points for developing and submitting a plan to demonstrate a ROI for your program activities. Projects must demonstrate a viable ROI plan and methodology with data sources that support relevant and accurate reports on the project's ROI to the community's public systems of support for HOPWA-eligible households. The highest scored ROI plan (5 points) would need to establish:

• For 1 point under ROI: A description of your methodology, including the rationale for using one or both of the ROI types as described above (“dollars saved per dollars invested” and “benefits per dollars invested”) and the reason this type of methodology was selected.

• For 1 point under ROI: Identify the program or service to be addressed by the ROI and why it was selected. When establishing the cost for delivering the program housing assistance or service addressed by the ROI, add the direct HOPWA portion of these project costs to the related leveraged resources that are used to support beneficiaries with the program or service addressed by the ROI.

• For 1 point under ROI: A description of the expected benefit(s)/outcome(s) whether resulting in cost savings or achieving a specific program benefit(s).

• For 1 point under ROI: A submission of your data collection and analysis plan describing the source(s) of output and outcome data, establishment of baseline data for comparative analysis over a three-year time period and how the outcome is to be valued. For example, if the case is being made that community based supportive housing is less expensive than institutional care, how was the cost of institutional care derived? This is necessary to support a legitimate comparison of costs.

• For 1 point under ROI: A description of your organization's capacity to conduct the project. Your organization must provide a brief description of the staff you propose to assign to the ROI effort and their relevant experience in working with data collection and evaluation activities.

In general HOPWA is looking for ROI methodologies that address:

• Cost savings to the HOPWA-funded project or to related public systems of housing, care and related support.

• Greater efficiencies in service delivery for the types and levels of support provided to HOPWA beneficiaries.

Here are several examples of areas of interest to HOPWA. These are only examples and not necessarily recommended courses of action:

• An ROI model that could compare average HOPWA costs to costs associated with the reliance on other public services, such as hospitalization, and services that offer higher levels of personal care (dollars saved per dollars invested).

• An ROI model that proposes how to assess if the program resulted in improved quality of life measured by households' achieving better relative health, greater family stability, and improved life outcomes compared to possible institutional placement (benefits per dollars invested and dollars saved per dollars invested).

• An ROI model that could compare the average costs for delivering HOPWA supportive permanent housing assistance in contrast to greater reliance on hospitalization or inpatient health care services. The model could also provide insight on how housing stability achieved with HOPWA resources reduces reliance, where appropriate, on this other type of support (benefits per dollars invested).

• An ROI model related to care and treatment efforts to maintain independent living in the community (benefits per dollars invested and/or dollars saved per dollars invested).

HUD is interested in developing pragmatic models and norms based on the actual costs it takes to operate your program including programs assisting persons with various levels of supportive housing needs. This evaluation can help ensure that resources are targeted to reduce the most pressing needs for vulnerable populations, including housing and related assistance for persons who are homeless or have severe risks of homelessness, along with challenges of serious mental illness and/or chronic substance abuse.

When applying for these supplemental ROI funds, please enter the requested amount up to $30,000 under the “other” budget line item. HUD reserves the right to deny your request for funding under the Other budget line item for ROI activities if your ROI plan is deemed limited, incomplete, or unresponsive to this assessment objective (i.e., receives less than half of these points in the rating review), or duplicative in the process and methodology of other higher rated applications.

The following is an example of calculating “benefits per dollars invested” ROI, using the Carter-Richmond Methodology and a published example:

(i) How many clients are you serving? 100.

(ii) Who are they? Single unemployed women ages 21-34 who are seeking employment and have at least one child under the age of 12.

(iii) What services do you give them? A package of job readiness training, job placement and 90-day follow-up services after job placement.

(iv) What does it cost? $100,000.

(v) What does it cost per service delivered? $100,000/100 = $1,000/job readiness/training/placement package, or $1,000/client.

(vi) What happens to clients as a result of the service? 10 clients or 10% of the program participants will obtain a full time job above minimum wage with employer provided benefits.

(vii) What does it cost per outcome? $100,000/10 clients = $10,000/outcome. The outcome is a full time job above minimum wage with employer provided benefits.

(viii) What is the value of a successful outcome? The value of the outcome is income from employment ($20,000), benefits from employer ($5,000), EITC ($2,000), payment of taxes ($500), elimination of welfare and other subsidized benefits ($22,500) for a total of $50,000 per year. (EITC increases the client's benefit value which should reduce or offset the value associated with elimination or decrease in subsidized benefits. The total value of the return may be disputable depending on how we identify the investor.)

(ix) What is the return on investment?

—ROI Individual = Value of outcome $50,000/ Cost of outcome $10,000 or a 500% return.

—ROI Program = Value of outcomes ($50,000) × (10) participants = $500,000/ Cost of outcomes ($10,000) × (10) participants = $100,000.

—The cost of the program at $100,000 returned $500,000 in benefits.

—Every $1.00 invested in the program returned $5.00 in benefits.

Example cited from: Return-On-Investment Training for Community Action, © 2007, F. Richmond, B. Nazar, with permission from Reginald Carter, The Center for Applied Management Practices, Camp Hill, PA 717-730-3705, http://www.appliedmgt.com, all rights reserved.

(5) Resource Identification. Resource Identification activities may be used to establish, coordinate, and develop housing assistance resources in your community.

IV. Application and Submission Information

A. Addresses To Request Application Package

Copies of the published NOFAs and application forms for HUD programs announced through NOFA are available at the Grants.gov Web site, http://www.grants.gov/applicants/apply_for_grants.jsp. If you have difficulty accessing the information, customer support is available from Grants.gov by calling its Support Desk at (800) 518-4726 between 7 a.m. and 9 p.m. eastern time or by sending an e-mail to support@grants.gov. If you do not have Internet access and need to obtain a copy of the NOFA, you can contact HUD's NOFA Information Center toll-free at (800) HUD-8929. Persons with hearing or speech impairments may access this number via the toll-free Federal Information Relay Service at (800) 877-8339.

B. Content and Form of Application Submission

By signing the SF-424, applicants are agreeing to the assurances found in the General Section. If conditionally selected for funding, the following certifications as noted must be provided prior to the signing of a grant agreement. Standard certifications and forms are listed in the General Section and the HOPWA budget and certification (form HUD-40110-B), is identified in this NOFA.

1. Forms: Applicants are requested to submit the following information:

a. SF-424, Application for Federal Assistance (Required).

b. SF-424 Supplement, Survey on Ensuring Equal Opportunities for Applicants (“Faith Based EEO Survey (SF-424 SUPP)” on Grants.gov) (Optional).

c. HUD-96010, Program Outcome Logic Model (Required).

d. HUD-2991, Certification of Consistency with the Consolidated Plan (Required).

e. HUD-2990, Certification of Consistency with the RC/EZ/EC-II Plan—if applicable to the service area of your project (Optional).

f. HUD-2880, Applicant/Recipient Disclosure/Update Report (“HUD Applicant Recipient Disclosure Report” on Grants.gov) (Required).

g. SF-LLL, Disclosure of Lobbying Activities, if applicable (Required).

h. HUD-40110-B, HOPWA Application Budget Summary, including HOPWA Applicant Certifications (Required).

i. HUD-27300, Questionnaire for HUD's Removal of Regulatory Barriers (“HUD Communities Initiative Form” on Grants.gov) (Optional).

j. HUD-2993, Acknowledgement of Application Receipt, if applicable due to an approved waiver of the electronic submission requirement (Optional).

k. HUD 2994-A, You Are Our Client! Grant Applicant Survey (Optional).

l. HUD-96011, Third Party Documentation Facsimile Transmittal (“Facsimile Transmittal Form” on Grants.gov) (for electronic applications).

2. Additional HOPWA guidance on forms.

a. HOPWA Application Budget Summary (form HUD-40110-B). Do not complete the standard budget form contained in the General Section. Applicants must use this program-specific budget form (HUD-40110-B, HOPWA Budget Application Summary) that demonstrates how funds will be used for eligible activities. The HOPWA HUD-40110-B will provide a summary of the total budget for your project, the annual HOPWA amounts to be used in each of the three years of operation and description budget by project sponsor of the HOPWA funds to be used by each sponsor. On this form, you must provide a short narrative which outlines each of your requested budget line items and how the funds will be used, including the amount of requested funding, by line item for you and your project sponsors.

b. Certification of Consistency with the Consolidated Plan (HUD-2991). Except as stated below, you must obtain a Consolidated Plan certification signed by the applicable state or local government official for submitting the appropriate plan for the areas in which activities are targeted. This form must be submitted to HUD prior to the signing of a grant agreement. The authorizing official from the state or local government must sign this certification. If your project will be carried out on a national basis or will be located on an Indian reservation or in one of the U.S. Territories of Guam, the Virgin Islands, American Samoa, or the Northern Mariana Islands, you are not required to include a Consolidated Plan certification from these areas with your application.

3. Application Content for Long-term and Special Projects of National Significance (SPNS) Project Applications. The review criteria for long-term, and SPNS applications can be found in Section V.A. of this NOFA. For your narrative responses, number the pages and include a header or a footer that provides the name of the applicant or the project.

a. Executive Summary. On no more than two double-spaced pages, provide an Executive Summary of the proposed project. The summary should provide an overview of the main components of your planned HOPWA project, any special service delivery method or project purposes and the projected annual housing output for the first year of operation. In the executive summary, provide the name of the grantee and any project sponsors, along with contact names, phone numbers, and e-mail addresses.

For projects involving sites (e.g., a structure where HOPWA funds will be used for the housing activities, involving construction, acquisition, rehabilitation, leasing, operating costs, and/or project-based rental assistance), provide the address of the proposed site of this structure and describe what other resources will be used to complete the development of this housing facility. Please identify if the site is a Confidential Site or a Public Site. (HUD will not release the address of confidential sites).

b. Proof of Nonprofit Status and AIDS Purpose. Excluding situations where nonprofit documentation was submitted to HUD under prior HOPWA awards and there has been no change in this status for the project sponsor(s), all conditionally selected applicants must provide a copy of the nonprofit documentation for each sponsor that is a nonprofit organization consistent with the standards under paragraph (1) below prior to the signing of a grant agreement. Conditionally selected applicants must also provide documentation consistent with paragraph (2) below prior to the signing of a grant agreement to demonstrate that each sponsor's organizational documents include a purpose of significant activities related to providing housing or services to persons with HIV/AIDS. For submission of the documentation in paragraphs (1) and (2) on paper forms, you should follow the directions in the General Section, with the exception of the budget forms.

(1) HUD will accept as evidence of your nonprofit status:

(a) A copy of the Internal Revenue Service (IRS) ruling providing tax-exempt status under Section 501(c) (3), (4), (6), (7), (9) or (19) of the IRS code; or

(b) A ruling from the Treasury Department of the Commonwealth of Puerto Rico granting income tax exemption under section 101 of the Income Tax Act of 1954, as amended (13 LPRA 3101); or

(c) Documentation that the applicant is a certified United Way agency; or

(d) Copy of your most recent completed tax statement, Form IRS-990 or Form 990-EZ; or

(e) All of the following:

(i) A certification by the appropriate official of the jurisdiction where the nonprofit was organized that your organization was organized as a nonprofit organization and is in good standing;

(ii) A certification from a designated official of the organization that no part of the net earnings of the organization inures to the benefit of any member, founder, contributor, or individual; that the organization has a voluntary board; and that the organization practices nondiscrimination in the provision of assistance in accordance with applicable program requirements; and

(iii) An opinion letter from an independent public accounting firm that the nonprofit entity has a functioning accounting system that provides for each of the following:

(A) Accurate, current, and complete disclosure of the financial results of each federally funded project;

(B) Records that identify adequately the source and application of funds for federally funded activities;

(C) Effective control over and accountability for all funds, property and other assets;

(D) Comparison of outlays with budget amounts;

(E) Written procedures to minimize the time elapsing between the transfer of funds to the recipient from the U.S. Treasury and the use of funds for program purposes;

(F) Written procedures for determining reasonableness, allocable, and allowable costs; and

(G) Accounting records including cost accounting records that are supported by source documentation.

(2) HUD will also accept, as evidence of your organization's HIV/AIDS-related purpose, a copy of the organization's articles of incorporation and bylaws, mission statement, program management plan, or other organizational policy document that evidences the organization's activities or objectives related to providing services or housing to persons with HIV/AIDS.

c. Capacity of Applicant and Project Sponsors and Relevant Organizational Experience Narrative. On no more than 5 double-spaced typed pages or similar chart or table, for the Applicant, and no more than 2 double-spaced pages or similar chart or table per additional sponsor, demonstrate the extent to which you and any project sponsor(s) have the organizational resources necessary to successfully implement your proposed activities in a timely manner.

d. Need/Extent of the Problem Narrative. On no more than 5 double-spaced typed pages or similar chart or table define your planned service area and demonstrate the need for funding eligible activities in the area to be served.

e. Soundness of Approach: Model Qualities and Responsiveness/Coordination Narrative. On no more than 10 double-spaced, typed pages or a similar chart or table, address the method by which your plan meets your identified needs. Demonstrate how your project will provide its planned activities through HOPWA and other resources, and how it will serve as a model with exemplary qualities to address the ongoing housing and supportive service needs of eligible persons within a replicable operational framework. If HOPWA funds are requested for new construction or rehabilitation costs, the applicant must agree to comply with Section 3 of the Housing and Urban Development Act of 1968, as amended (12 U.S.C. 1701(u)), and comply with regulations pursuant thereto (24 CFR part 135), which require that, to the greatest extent feasible, employment and other economic opportunities generated by federal financial assistance for housing and community development programs be directed toward the low and very low-income residents of the project's service area and that contracts for work in connection with the project be awarded in substantial part to persons residing in the service area of the project. Applicants that propose New Construction and/or Rehabilitation activities must on one additional page describe their plan for addressing the Section 3 requirements, at a minimum, by (a) Quantifying the opportunity, such as number and type of jobs to be made available, scope and nature of contacts for development services or other similar elements, (b) establishing a schedule or elements of a plan to implement the opportunity and (c) a plan to track and report on accomplishments in performance under this requirement. If selected, the applicant/grantee would report on accomplishments in annual reports to HUD.

f. Documentation of Leveraged Resources. As described in paragraph 4 of this section, to receive a leverage score for your project, provide a detailed chart of commitments that you have obtained and have on file that provides evidence of your ability to secure community resources for operating and sustaining your housing project.

g. Achieving Results and Program Evaluation Narrative. To complement the use of the Logic Model form, in no more than three double-spaced, typed pages or a similar chart or table, provide a supplemental optional narrative that may detail or further demonstrate your commitment to ensuring that the goals that you set forth and your performance will be assessed in a clear and effective manner. Address how you will implement the HOPWA Program goals and identify the benefits or outcomes of your program, including details on your activities, benchmarks, and interim activities or performance indicators shown in the Logic Model. Provide comments as may be needed on details for an evaluation plan that will objectively measure actual achievements against anticipated achievements. In addition, under rating factor 5 Achieving New Results you may earn an extra 5 rating points for developing a plan to demonstrate a ROI on your program activities, (see rating criteria under Section V.A.1.d. Application Selection Process for Projects, Rating Factor 5 Achieving New Results). Your ROI evaluation plan should test new methods or other innovations and serve as a model with developed features. When developing ROI models there are several principles to be considered:

• These models should address the connection between investment and results.

• In order to compute an ROI effectively, one must clearly delineate the nature of investment and the nature of results or outcomes.

• All public services, including housing assistance and related support provided through HOPWA projects, should produce a measurable outcome. All outcomes have a value; however the value is not always monetary. It is incumbent upon agencies to determine the value of these outcomes for the individual client/family and for the community in monetary or non-monetary terms.

• In technical terms, ROI is a rate of “dollars saved per dollars invested.” If the investment and return are measurable in dollars, one has a quantifiable ROI methodology.

• When calculating an ROI, the calculation may result in an effective ROI, a neutral ROI, or a less than effective ROI. An effective ROI is where the value of the benefit or dollars saved exceeds the cost of the investment. A neutral ROI is where the value of the benefit or dollars saved equals the cost of the investment. A less than effective ROI is where the value of the benefit or dollars saved is less than the investment. Your organization will not be penalized for a less than effective ROI.

An example of a “dollars saved per dollars invested” ROI could be that HOPWA funds provided to the grantee for supportive housing (the investment) would result in a cost savings by maintaining clients in the community (the return) rather than a longer term institutional placement. The grantee would need to compare the funds provided from the supportive housing grant to the savings resulting from community placement compared to an institutional or long term placement. An effective ROI would be achieved if the savings achieved were greater than the initial grant investment.

HUD is also interested in calculating ROI as “benefits per dollars invested.” An example of a “benefits per dollars invested” ROI is the number of people housed in permanent housing compared to the development cost of constructing the housing, along with related operating costs for a facility based program, or costs in providing rental assistance over a measured period of support.

Additional support is also available in this notice to assist HOPWA grantees in conducting program evaluation using the ROI methodology. This NOFA provides additional one-time funding for related ROI data collection and analysis efforts up to a maximum of $30,000 per grantee. Projects must demonstrate a viable ROI plan and methodology with data sources that support relevant and accurate reports on the project's ROI to the community's public systems of support for HOPWA-eligible households. The highest scored ROI plan (5 points) would need to establish:

• For 1 point under ROI: A description of your methodology, including the rationale for using one or both of the ROI types as described above (“dollars saved per dollars invested” and “benefits per dollars invested”) and the reason this type of methodology was selected.

• For 1 point under ROI: Identify the program or service to be addressed by the ROI and why it was selected. When establishing the cost for delivering the program housing assistance or service addressed by the ROI, add the direct HOPWA portion of these project costs to the related leveraged resources that are used to support beneficiaries with the program or service addressed by the ROI.

• For 1 point under ROI: A description of the expected benefit(s)/outcome(s) whether resulting in cost savings or achieving a specific program benefit(s).

• For 1 point under ROI: A submission of your data collection and analysis plan describing the source(s) of output and outcome data, establishment of baseline data for comparative analysis over a three-year time period and how the outcome is to be valued. For example, if the case is being made that community based supportive housing is less expensive than institutional care, how was the cost of institutional care derived? This is necessary to support a legitimate comparison of costs.

• For 1 point under ROI: A description of your organization's capacity to conduct the project. Your organization must provide a brief description of the staff you propose to assign to the ROI effort and their relevant experience in working with data collection and evaluation activities.

In general HOPWA is looking for ROI methodologies that address:

• Cost savings to the HOPWA-funded project or to related public systems of housing, care and related support.

• Greater efficiencies in service delivery for the types and levels of support provided to HOPWA beneficiaries.

Here are several examples of areas of interest to HOPWA. These are only examples and not necessarily recommended courses of action:

• An ROI model that could compare average HOPWA costs to costs associated with the reliance on other public services, such as hospitalization, and services that offer higher levels of personal care (dollars saved per dollars invested).

• An ROI model that proposes how to assess if the program resulted in improved quality of life measured by households' achieving better relative health, greater family stability, and improved life outcomes compared to possible institutional placement (benefits per dollars invested and dollars saved per dollars invested).

• An ROI model that could compare the average costs for delivering HOPWA supportive permanent housing assistance in contrast to greater reliance on hospitalization or inpatient health care services. The model could also provide insight on how housing stability achieved with HOPWA resources reduces reliance, where appropriate, on this other type of support (benefits per dollar invested).

• An ROI model related to care and treatment efforts to maintain independent living in the community (benefits per dollars invested and/or dollars saved per dollars invested).

HUD is interested in developing pragmatic models and norms based on the actual costs it takes to operate your program including programs assisting persons with various levels of supportive housing needs. This evaluation can help ensure that resources are targeted to reduce the most pressing needs for vulnerable populations, including housing and related assistance for persons who are homeless or have severe risks of homelessness, along with challenges of serious mental illness and/or chronic substance abuse.

When applying for these supplemental ROI funds, please enter the requested amount up to $30,000 under the “other” budget line item. HUD reserves the right to deny your request for funding under the Other budget line item for ROI activities if your ROI plan is deemed limited, incomplete, or unresponsive to this assessment objective (i.e., receives less than half of these points in the rating review), or duplicative in the process and methodology of other higher rated applications.

The following is an example of calculating “benefits per dollars invested” ROI, using the Carter-Richmond methodology and a published example:

(i) How many clients are you serving? 100.

(ii) Who are they? Single unemployed women ages 21-34 who are seeking employment and have at least one child under the age of 12.

(iii) What services do you give them? A package of job readiness training, job placement and a 90 day follow-up services after job placement.

(iv) What does it cost? $100,000.

(v) What does it cost per service delivered? $100,000/100 = $1,000/job readiness/training/placement package, or $1,000/client.

(vi) What happens to clients as a result of the service? 10 clients or 10% of the program participants will obtain a full time job above minimum wage with employer provided benefits.

(vii) What does it cost per outcome? $100,000/10 clients = $10,000/outcome. The outcome is a full time job above minimum wage with employer provided benefits.

(viii) What is the value of a successful? The value of the outcome is income from employment ($20,000), benefits from employer ($5,000), EITC ($2,000), payment of taxes ($500), elimination of welfare and other subsidized benefits ($22,500) for a total of $50,000 per year. (EITC increases the client's benefit value which should reduce or offset the value associated with elimination or decrease in subsidized benefits. The total value of the return may be disputable depending on how we identify the investor.)

(ix) What is the return on investment?

—ROI Individual = Value of outcome $50,000/Cost of outcome $10,000 or a 500% return.

—ROI Program = Value of outcomes ($50,000) × (10) participants = $500,000/ Cost of outcomes ($10,000) × (10) participants = $100,000.

—The cost of the program at $100,000 returned $500,000 in benefits.

—Every $1.00 invested in the program returned $5.00 in benefits.

Example cited from: Return-On-Investment Training for Community Action, © 2007, F. Richmond, B. Nazar, The Center for Applied Management Practices, Camp Hill, PA 717-730-3705, http://www.appliedmgt.com, all rights reserved. Sponsored by OACCA/OCATO, Columbus, Ohio, April 21, 2007.

4. Application Content on Leveraging for All Types of Applications

To receive consideration for leveraged resources, all types of applications must include information on the commitments from other state, local, federal, or private entities to provide additional resources in operating and sustaining your planned activities to support project beneficiaries. Other HOPWA funds, such as formula allocations, may not be used for this purpose in determining leveraging. To receive a score for leveraging, any project must provide a list in a chart with information on the nature of the secured leveraged commitments that you have in hand at the time of your application submission to HUD. You may also describe a plan for how the project will continue to operate in future years, with a decreased reliance on these federal resources.

As a change from prior year competitions, you should not submit an electronic copy or facsimile transmittal of these letters of commitment with your HOPWA application, but should use these letters or documents to report on the information requested below. The applicant must retain in its files all of the leveraging letters or documents, and a conditionally selected applicant may be required to provide HUD with a copy or other evidence of these letters or documents as part of the conditions for receiving HOPWA funds.

In the application, provide information only for contributions for which you have a written commitment in hand at the time of application. A written commitment could include signed letters, memoranda of agreement, and other documented evidence of a firm commitment for resources to be available during the operating period of your project, if selected for award. This does not include resources that are in use prior to the new grant operating period. Leveraging items may include any written commitments that will be used towards your leveraging of the project, as well as any written commitments for buildings, equipment, materials, services and volunteer time. The value of commitments of land, buildings and equipment are one-time only and cannot be claimed by more than one selected project (e.g., the value of donated land, buildings or equipment claimed in 2007 and prior years for a project that was selected for funding cannot be claimed as leveraging by that project in subsequent competitions). The written commitments must be documented on letterhead stationery, signed by an authorized representative, dated and in your possession prior to the deadline for submitting your application.

The Department will periodically monitor the use of your commitments by requiring the collection of information in annual progress reports to establish that the leveraged resources are being used, as committed, in undertaking the project. Failure to provide evidence of these commitments or the related use of these additional resources in operating your project could result in a notice of default and affect the project's continued access to federal funds awarded under this NOFA.

C. Submission Dates

Application Deadline Date. Your completed application must be received and validated electronically by Grants.gov no later than 11:59:59 p.m. Eastern time on the deadline date for HOPWA July 18, 2008. The validation process may take up to 72 hours. Failure to have the application validated by Grants.gov prior to the deadline will result in a late application, making the application ineligible for funding under this NOFA. Please follow the application submission and timely receipt requirements that are established in the General Section.

All parts of an electronic application must be submitted via the Grants.gov portal with additional documentation as called for in this NOFA provided via electronic facsimile transmittal in accordance with the requirements stated in the General Section. For electronic applications, HUD will not accept parts of an application submitted through the mail or entire applications by facsimile. For applications receiving a waiver of the electronic application submission requirements, the entire application must be submitted in hard paper copy format with the required number of copies.

D. Intergovernmental Review

The HOPWA program is not subject to Executive Order (EO) 12372, Intergovernmental Review of Federal Programs.

E. Funding Restrictions

1. Limitations on Maximum Grant Amounts. Your request for funding must be consistent with the following limitations on minimum and maximum grant amounts:

a. For program activities (e.g., activities that directly benefit eligible persons): At least $500,000 and a maximum of $1.3 million, subject to the limitations in this section;

b. For grant administrative costs of the grantee: A maximum of no more than an additional $39,000, subject to the limit on administrative costs of 3 percent of the amount requested for project activities in your application for grantees.

c. For grant administrative costs for project sponsors: A maximum of no more than an additional $91,000, subject to the limit on administrative costs of 7 percent of the amount requested for project activities to be conducted by project sponsors in your application. (Note: An applicant that will serve as a grantee, but carry out activities directly without a third-party project sponsor, cannot add amounts from this paragraph to its eligible amount under paragraph (b) above.)

d. Total for maximum grant amount: $1.43 million, with an additional onetime funding up to a maximum of $30,000 for Return on Investment (ROI) activities if your organization submits a Return on Investment plan that is awarded for funding. For more information on Return on Investment activities see Section III.C..3..b.(4), “Other HUD-Approved Activities,” in this NOFA.

2. Limitation on Supportive Services. Your request for the supportive services line item in program activities must be consistent with the program limits of not more than 35 percent of the proposed budget for program activities undertaken by project recipients.

3. Limitation on Prospective Determinations. HUD will not approve proposals that depend on a prospective determination as to how program funds will be used, except as needed in securing housing units for participants. More specifically, proposals to establish a local request-for-proposal process to select either activities or project sponsors, and other similar proposals that have the effect of delaying the obligation of funds due to the unplanned use of HOPWA funds, will not be approved.

Eligible HOPWA costs cannot involve costs for personal items, such as grooming, clothing, pets, financial assistance, consumer credit payments, entertainment activities, personal vehicle maintenance and repairs, property taxes, condominium fees, and other non-housing-related costs. Eligible costs are also subject to additional HOPWA standards at 24 CFR part 574.

F. Other Submission Requirements

1. Electronic Delivery. HUD requires applicants to electronically submit via http://www.grants.gov. See Sections IV.B. and F. of the General Section for instructions for submitting leveraging documentation, certifications, and other required forms.

2. Waivers to the Electronic Submission Process: Applicants may request a waiver of the electronic submission process (see the General Section for more information). Applicants should submit waiver requests in writing, by e-mail, fax, or to the address listed below. Waiver requests must be submitted no later than 15 days prior to the application deadline date, July 18, 2008, to: Office of HIV/AIDS Housing, Department of Housing and Urban Development, 451 Seventh Street, SW., Suite 7212, Washington, DC 20410-7000, E-mail: mail to: HOPWA@hud.gov, facsimile (fax) 202-708-9313.

Applicants who are granted a waiver based on a HUD-approved justification must submit their applications in accordance with the requirements stated in the approval to the waiver request. Paper applications must be received by HUD at the proper location by the deadline date of July 18, 2008.

V. Application Review Information

A. Criteria

1. Criteria for Project Applications.

a. Departmental Policy Priorities. As outlined in the General Section, HUD has identified policy priorities that project applicants are encouraged to address through their proposed project plans. HUD has identified 5 Departmental policy priorities as being applicable for new HOPWA projects. Applications for HOPWA funding will receive rating points for each applicable Departmental policy priority initiative addressed through the proposed program activities and performance goals and objectives. Applicants must demonstrate how these priorities will be addressed through the Soundness of Approach of the application as outlined under Rating Factor 3. Under the points available for Rating Factor 3, one or two Rating Points, as specified below, will be awarded for each of the following addressed priorities:

(1) In accordance with the General Section, for applicants seeking HOPWA funds for capital development activities, including rehabilitation or new construction, or identifying leveraged commitments of other funds for these activities in assisting HOPWA beneficiaries, for one rating point under project soundness of approach, you are encouraged to institute visitability and universal design standards in these activities undertaken with HOPWA funds. Visitability standards allow a person with mobility impairments access into the home, but do not require that all features be made accessible; and such standards incorporate universal design in the construction or rehabilitation of housing undertaken with HOPWA funds. Universal design provides housing that is usable by all without the need for adaptation or specialized design.

(2) For 1 rating point under project soundness of approach, you are encouraged to propose projects in which the grantee, or the project sponsor(s), fulfills the policy priority for being a nonprofit, grassroots community-based organization, including faith-based organizations, as defined in the General Section.

(3) For 1 rating point under project soundness of approach, you are encouraged to propose applications in which the grantee, or project sponsor(s), commits to follow the Energy Star standard in any new construction, or rehabilitation activity, or in maintaining housing or community facilities to be undertaken in the proposed project with HOPWA or other funds. This would also apply to undertaking program activities that include developing Energy Star promotional and information materials, providing outreach to low- and moderate-income renters and buyers on the benefits and savings when using Energy Star products. The Energy Star standard is as defined in the General Section.

(4) For up to 2 rating points under project soundness of approach, you are encouraged to propose an application in which the grantee, or project sponsor(s), if it is a state or local government agency, as defined in the General Section, completes the regulatory barriers policy questionnaire, “Questionnaire for HUD's Initiative on Removal of Regulatory Barriers” (Form HUD-27300) and provides the required documentation, contact information and/or a Web site link where the information can be readily found.

(5) For up to 2 rating points under project soundness of approach, you are encouraged to propose an application in which the grantee will serve the special population of HOPWA-eligible persons who are chronically homeless persons with HIV/AIDS. Persons who are infected with HIV are more likely to be able to follow complex treatment regimens if they have a reliable address where they can be reached by care providers, a safe place to keep medications, refrigeration for drugs that require it, and other necessities that many of us take for granted. HUD is encouraging applications that strive to create additional models for permanent housing for eligible persons living with HIV/AIDS that are experiencing chronic homelessness. Applicants must work collaboratively with the local Continuum of Care Plans to create these models for persons living with HIV/AIDS and their families and demonstrate a plan for the integration of HOPWA activities with those systems such as the use of Homeless Management Information Systems (HMIS). HMIS participation is required for all recipients of award funding under this NOFA whose projects intentionally target HOPWA eligible persons who are homeless or chronically homeless. In a number of Continuum of Care communities, HOPWA projects are directly involved in providing outreach, assessment, housing and supportive services to HOPWA eligible persons who are homeless at the time they enter into program support. HMIS activities or the use of related information technology systems may already be operating to support the delivery of housing information services to these HOPWA clients.

d. Application Selection Process for Projects.

Rating Factor 1:

Capacity of the Applicant and Project Sponsors and Relevant Organizational Experience (20 points); (Minimum for Funding Eligibility—14 points) Address the following factor by using not more than five double-spaced, typed pages or a similar chart or table. For each project sponsor, you may add two additional pages. This factor addresses the extent to which you and any project sponsor have the organizational resources necessary to successfully implement your proposed activities in a timely manner. If you will be using project sponsor(s) in your project, you must identify each project sponsor in your application. HUD will award up to 20 points based on your and any project sponsor's ability to develop and operate your proposed program in relation to which entity is carrying out an activity.

(1) With regard to both you and your project sponsor(s), you should demonstrate:

(a) Past experience and knowledge in serving persons with HIV/AIDS and their families;

(b) Past experience and knowledge in programs similar to those proposed in your application, including HOPWA formula funding;

(c) Experience and knowledge in monitoring and evaluating program performance and disseminating information on project housing outputs and client outcomes similar to the HOPWA outcomes of stable housing, reduced risks of homelessness, and access to care; and

(d) Past experience as measured by expenditures and measurable progress in achieving the purpose for which funds were provided.

(2) In reviewing the elements of the paragraph above, HUD will consider:

(a) The knowledge and experience of the proposed project director and staff, including the day-to-day program manager, consultants, and contractors in planning and managing the proposed activities. You and any project sponsor will be judged in terms of recent, relevant, and successful experience of staff in undertaking eligible program activities.

(b) Your and/or the project sponsor's experience in managing complex interdisciplinary programs, especially those involving housing and community development programs directly relevant to the work activities proposed and carrying out grant management responsibilities.

(c) If you and/or the project sponsor received funding in previous years in the program area for which you seek funding, those past experiences will be evaluated in terms of the ability to attain demonstrated measurable progress in the implementation of your grant awards. Measurable progress is defined as:

(i) Meeting applicable performance benchmarks in program development and operation;

(ii) Meeting project goals and objectives, such as the HOPWA output for the number of homeless persons assisted in comparison to the number that was planned at the time of the application;

(iii) Submitting timely performance reports and other results, such as client outcomes in maintaining stable housing, reducing risks of homelessness and improving access to care; and

(iv) Expending prior funding as outlined in the existing HOPWA grant agreement with HUD, with no outstanding audit or monitoring issues.

Applicants must receive a minimum of 14 points in Rating Factor 1 to be eligible for funding under this NOFA. An application that plans to use project sponsors but fails to provide information on their capacity could not receive the minimum score.

Rating Factor 2: Need/Extent of the Problem (15 points)

Address the following factor using not more than 5 double-spaced, typed pages or similar chart or table. Up to 15 points will be awarded for this factor.

a. AIDS Cases (5 points). You must define your planned service area. HUD will obtain AIDS surveillance information pertinent to that area from the Director of the Centers for Disease Control and Prevention. Up to 5 points will then be awarded based on the relative numbers of AIDS cases and per capita AIDS incidence within your service area, in metropolitan areas of over 500,000 population and in areas of a state outside of these metropolitan areas, in the state for proposals involving state-wide activities, and in the nation for proposals involving nationwide activities.

b. Description of Unmet Housing Need (10 points). Up to 10 points will be awarded based on demonstration of need for funding eligible housing activities in the area to be served. To receive the maximum points, demonstrate that substantial housing and related service needs of eligible persons and/or the target population, as outlined in Section V.A.1.b., are not being met in the project area and that reliable statistics and data sources (e.g., Census, health department statistics, research, scientific studies, and Needs Analysis of Consolidated Plan and/or Continuum of Care documentation) show this unmet need. To receive the maximum points, show that specific elements of your jurisdiction's Consolidated Plan and Analysis of Impediments to Fair Housing Choice, Continuum of Care Homeless Assistance plans (if homeless persons are to be served), and comprehensive HIV/AIDS housing plans are applicable to your project, and identify the level of the problem and the urgency of the need. A Consolidated Plan certification alone is not sufficient to demonstrate need for the project as established under this criterion.

(1) If you apply for a SPNS grant, you must describe a housing need that is not currently addressed by other projects or programs in the area, including reference to the area's existing HOPWA programs. You must further describe how the planned activity will complement these in a manner that is consistent with the community's plan for a comprehensive and coordinated approach to housing needs of persons living with HIV/AIDS that establishes stable housing for clients and helps foster greater self sufficiency and independence. Also, describe any unresolved or emerging issues and the need to provide new or alternative forms of assistance that, if provided, would enhance your area's programs for housing and related care for persons living with HIV/AIDS and their families. You must also describe how your project will enhance the community's Consolidated Plan strategies for providing affordable housing and access to related mainstream services to HOPWA-eligible persons; or

(2) If you apply as a long-term project that will operate in a non-formula area or balance-of-state area, you must describe the housing need that is not currently addressed by other projects or programs in the area including any HOPWA competitive grants or other HIV/AIDS housing projects and how the planned activity will complement these in a manner that is consistent with the community's plan for a comprehensive and coordinated approach to housing needs of persons living with HIV/AIDS. You must also describe any unresolved or emerging issues and/or the need to provide forms of assistance that enhance the community's strategy for providing housing and related services to eligible persons.

HUD will evaluate your presentation of statistics and data sources based on soundness, reliability, and the specificity of information to the target population and the area to be served. If you propose to serve a subpopulation of eligible persons on the basis that these persons have been traditionally and are currently under-served (e.g., HOPWA eligible persons who are chronically homeless), your application must demonstrate the need for this targeted effort through statistics and data sources that support the need of this population in your service area. Programs may serve a qualified subpopulation of persons with AIDS based on the presence of another disability or group of disabilities, only if doing so is necessary to provide this subpopulation with as effective housing, benefits, aid, or services as that provided to others. See 24 CFR 8.4(b)(1)(iv).

Rating Factor 3: Soundness of Approach: Responsiveness, Coordination and Public Policy Priorities, and Model Qualities (45 Points)

Address this factor on not more than 10 double-spaced, typed pages or similar chart or table. Include the HOPWA Budget forms identified in this NOFA. This factor addresses the method by which your plan meets your identified needs. HUD will award up to 45 points (15 for responsiveness, 5 for coordination, 7 for public policy priorities, and 18 for model qualities) based on the extent to which your plan evidences a sound approach for conducting the HOPWA activities in a manner that is responsive to the needs of eligible persons and that your plan for project coordination will offer model qualities in providing supportive housing opportunities for eligible persons with access to mainstream health and human welfare services, when compared to other applications and projects funded under previous HOPWA competitions.

a. Responsiveness, Coordination, and Public Policy Priorities (27 points). HUD will award up to 27 points (Responsiveness—15 points and Coordination—5 points and Public Policy Priorities—7 points) based on how well your project plans respond to the unmet needs in housing and related supportive services for the eligible population, including target populations outlined under Section V.A.1.b. You should demonstrate the extent to which you have coordinated your activities and the activities of your project sponsors with other organizations that are not directly participating in your proposed work activities. This involves organizations with which you share common goals and objectives in assisting eligible persons. In order to ensure that resources are used to their maximum effect within the community, it is important that you demonstrate collaboration and leveraging of other resources from state, local, and private funding resources.

(1) Responsiveness (15 points). To receive the highest rating in this element your application must address:

• The projected number of persons to be served through each activity for each year of your program;

• The projected number of housing units, by type, to be provided through your project, by year, over a 3-year period; and

• The specific organizations, either through an agreement with your organization or through funding from your project, that will provide housing, and agreements with organizations that will provide mainstream supportive services, or other activities.

Include a description of the roles and responsibilities of your project sponsors and/or other organizations within your project plan and how these will be coordinated in conducting eligible activities. To receive the maximum points for your project plan, you must explain and describe the eligible housing activities you or your project sponsor intend to conduct, where these activities will take place (either on-site or at another location), and how those activities will benefit eligible persons. Please describe:

(a) Housing Activities. You must demonstrate how the emergency, transitional, or permanent housing needs of eligible persons will be addressed through one or more of the HOPWA eligible activities and through any other resources and how such activities are coordinated with other available housing assistance. Your plan for housing assistance must include:

(i) Access to permanent supportive housing for applicants. In proposing a housing project, you must describe how eligible persons will access permanent housing and/or use emergency, short-term and transitional housing support through your project and through any specific commitments with other community housing providers. If your project involves some initial emergency or transitional assistance for clients, please describe your plans to facilitate the movement of eligible persons receiving this emergency or transitional housing support to permanent housing or independent living arrangements within 24 months.

(ii) Permanent housing placement. If you use funds to help beneficiaries secure new housing units, please describe your plans to use funds and the related housing outputs for these permanent housing placement services (under that budget line item) such as costs for first month's rent and security deposits;

(iii) Description of Housing Site. You must describe any appropriate site features including use of universal design, accessibility, visitability, and access to other community amenities associated with your project.

(iv) Development and Operations Plan. You must describe a development and/or operations plan for the emergency, transitional, or permanent housing assistance you are proposing to provide. For rental assistance programs, this will include your plan for providing rental assistance, proposed housing sites if project-based, and length of stay if less than ongoing permanent supportive housing. If you are proposing to use HOPWA funds for the acquisition, rehabilitation, or new construction of a housing facility, your plan must also document that you have secured other funding sources, including plans for coordinating the use of other resources that are committed to undertaking the development activities. Please identify the planned site or structure and describe any progress on securing the identified project site(s) or structure(s), to demonstrate that the development activities will be undertaken consistent with the related benchmarks for those activities. The project must be cost-effective, including costs not deviating substantially from the norm in that locale for the type of structure or kind of activity. The highest rated projects involving development costs will demonstrate that HOPWA funds will not be used as the initial or sole funding source for capital development housing projects and significant progress has been made to identify and secure the proposed project site or structure. If HOPWA funds are requested for new construction or rehabilitation costs, the applicant must comply with Section 3 of the Housing and Urban Development Act of 1968, as amended (12 U.S.C. 1701(u)), and comply with regulations pursuant thereto (24 CFR part 135), Applicants that propose New Construction and/or Rehabilitation activities must on one additional page describe their plan for addressing the Section 3 requirements, at a minimum, by (a) quantifying the opportunity, such as number and type of jobs to be made available, scope and nature of contacts for development services or other similar elements, (b) establishing a schedule or elements of a plan to implement the opportunity, and (c) a plan to track and report on accomplishments in performance under this requirement. If selected, the applicant/grantee would report on accomplishments in annual reports to HUD.

(v) Operational Procedures. Describe your outreach, intake, engagement and assessment procedures, as well as how eligible persons will receive housing support with access to medical care and other supportive services provided by other organizations. Describe the use of housing being funded from other sources, and how your project provides for ongoing assessments of the housing service benefits received by eligible persons. Include a description of how a client moves through the housing program from outreach, intake, client assessment, the delivery of housing services, the use of emergency, transitional, or permanent housing, and when appropriate, the outplacement to more self-sufficient independent housing. If persons who are homeless are to be assisted, including persons who are chronically homeless, describe the housing activities and necessary support to identify, prioritize and respond to their supportive housing needs in coordination with other area assistance for persons who are homeless. Also address the number of permanent housing beds for the chronically homeless that would become available for occupancy during each of your project operating years.

(b) Supportive Service Activities. You must describe how you will address the supportive service needs of eligible persons with HOPWA assistance (subject to applicable limitations) and the use of any additional leveraged resources by describing the type of supportive services that will be offered directly by the program and/or how agreements and project plans will assure that services will be accessed and coordinated from other mainstream health and human welfare sources. Explain the connection of these services in helping eligible persons obtain and/or maintain stable housing. Supportive service costs may represent no more than 35 percent of your proposed budget for program activities. In describing your supportive services delivery plan explain:

(i) How agreements provide that eligible persons will have access to mainstream programs that offer health care and other supportive services;

(ii) How project plans ensure that eligible persons will participate in decision-making in the project operations and management; and

(iii) Your plan for delivering supportive services through a comprehensive plan that shows how agreements provide that eligible persons access medical care and other mainstream supportive services to address their needs.

(c) Additional HOPWA Activities. You must describe your plan for utilizing other requested HOPWA funds (described at 24 CFR 574.300(b)). Explain how these activities will be integrated into your overall plan in the provision of housing and related supportive services to eligible persons.

(d) Other Approvable Activities. As authorized by statute, HUD may approve other activities that are in addition to the activities at 24 CFR 574.300(b). You may propose other activities in your application, which can be undertaken only if approved by HUD due to their relevance in addressing the housing needs of eligible persons. You must describe the reason for the need to request authorization for “other activities” and the benefits likely to occur if the activities are authorized. Also, address how the project would operate, or not, if such request were not approved.

(2) Coordination (5 points). You should demonstrate the extent to which you have coordinated your planned application activities and the activities of your project sponsors with other organizations that are not directly participating in your proposed work activities. This involves organizations for which you share common goals and objectives. You may provide information on your primary decision-making group in providing leadership to your efforts as well as other organizations participating in planning activities, such as committees, workgroups, public meetings, forums etc. and the frequency of meetings. You will be rated on the extent to which you demonstrate you have:

(a) Coordinated your proposed application activities with those of other groups or organizations within the community or region prior to submission, to best complement, support, and coordinate all housing and supportive service activities including specific reference to how the proposal is coordinated with existing HOPWA programs in that area (formula and competitive) and how the planned efforts complement the existing programs;

(b) Developed your project through consultation with other stakeholders, such as organizations, groups, or consumers involved with area HIV/AIDS housing and service planning, including planning under the Ryan White CARE Act and other federal planning. The highest rated applications will demonstrate that the project is closely and fully integrated with HUD's planning processes, such as the jurisdiction's Consolidated Planning process or the community's Continuum of Care Homeless Assistance planning process (if homeless persons are to be served by proposed activities and related use of HMIS to coordinate benefits for clients);

(c) Coordinated with other HUD-funded programs outside of the Consolidated Planning process; for example, accessing additional housing resources through a local public housing authority; and

(d) Coordinated with mainstream resources including private, other public, and mainstream services and housing programs. To achieve the maximum points, applicants must evidence explicit agency strategies to coordinate client assistance with mainstream health, social service, and employment programs for which eligible persons may benefit.

(3) Public Policy Priorities (7 points). Applications for HOPWA funding will receive rating point(s) for each applicable Department policy priority initiative addressed through the proposed program activities and performance goals and objectives. Applicants must make a specific statement on their commitment to address each priority or to otherwise demonstrate how these priorities will be addressed:

(a) In accordance with the General Section, applicants seeking HOPWA funds or the use of related leveraged funds for capital development activities, (including rehabilitation or new construction), for one rating point under project soundness of approach, your application describes:

(i) the use of universal design and visitability standards in development activities undertaken with HOPWA or leveraged funds; and

(ii) how you will incorporate universal design in the construction or rehabilitation of housing undertaken with HOPWA funds.

Visitability standards allow a person with mobility impairments access into the home, but do not require that all features be made accessible. Universal design provides housing that is usable by all without the need for adaptation or specialized design.

(b) For 1 rating point under project soundness of approach, your application involves participation as the grantee, or as a project sponsor(s), by a nonprofit grassroots community-based organization, including faith-based organizations, as defined in the General Section.

(c) For 1 rating point under project soundness of approach, the grantee, or project sponsor(s), commits to promote energy efficiency by adopting or following the Energy Star standard in any new construction or rehabilitation activity or in maintaining housing or community facilities to be undertaken in the proposed project with HOPWA or other funds. This would also apply to undertaking program activities that include developing Energy Star promotional and information materials, providing outreach to low- and moderate-income renters and buyers on the benefits and savings when using Energy Star products. The Energy Star standard is as defined in the General Section.

(d) For 2 rating points under project soundness of approach, your application involves a state or local government agency as the grantee, or as a project sponsor(s), and that agency completes the regulatory barriers policy questionnaire, including providing the required documentation, as defined in the General Section.

(4) For up to 2 rating points under project soundness of approach, your application exclusively targets the population of the chronically homeless. If your project does not exclusively target those individuals classified as chronically homeless but will serve some chronically homeless individuals or families then one point will be earned. If your project does not address the chronically homeless no points will be earned. Chronically homeless is defined in section I.A. 3., Definitions for all HOPWA grants of this program NOFA.

b. Model Qualities (18 points). HUD will award up to 18 points based on your service delivery plan and how well it will serve as a model for a housing project during the operating period. HUD expects the proposed project to show exemplary and/or innovative qualities that address the ongoing housing needs of eligible persons by establishing or maintaining stable housing arrangements by project activities that will be undertaken within a replicable operational framework. To receive the maximum points, you must offer a housing plan that describes the following:

(1) Policy Priorities. If applicable to your application, describe how you will meet the Departmental policy priorities for assisting the special population of HOPWA-eligible persons who are chronically homeless persons with HIV/AIDS. HUD is encouraging applications that strive to create additional models for permanent housing for persons living with HIV/AIDS that are experiencing chronic homelessness. Applicants addressing this population must work collaboratively with the local Continuum of Care plans to create this permanent housing for persons living with HIV/AIDS and their families.

(2) Project Management and Oversight. Describe your method for managing and overseeing activities, including those of your organization, your project sponsor, and any other organization. Identify staff members who are responsible for management and oversight of the project and activity implementation and sustainability plans.

(3) Evaluation Plan. In addition to required HOPWA outputs and outcomes your evaluation plan should identify what you are going to measure, how you are going to measure it, the steps you have in place to make adjustments to your work plan if performance targets are not met within established timeframes, and how you plan to share successes and lessons learned in undertaking your activities with other communities.

(4) Model Features. Describe how the planned efforts for the type of proposed project, Long-term or SPNS, will represent model or exemplary qualities in service delivery, management, or other features in connection with other HOPWA-funded projects in your community including any local assessment of these features. For a Long-term project, the features must involve housing activities to be undertaken in a non-formula area. A SPNS project must involve a plan and commitments to establish or maintain stable housing arrangements by showing exemplary and/or innovative qualities. If you propose a new program, or an alternative method of meeting the needs of your eligible population, describe how the innovative qualities of your activities will result in knowledge gained or lessons learned for achieving greater housing opportunities and supportive services for persons living with HIV/AIDS. HUD will rate your application higher if you provide strong evidence that your methods will yield qualities that will benefit or expand knowledge in serving eligible persons, when compared to other applications and HOPWA projects. To learn about qualities of previously funded and ongoing HOPWA projects, you may review the HOPWA Executive Summaries for HOPWA grantees at http://www.hud.gov/offices/cpd/aidshousing.

(5) Model Descriptive Budget. HUD will review your budget under the HOPWA budget form (HUD-40110-B) in describing:

(a) How each amount of requested funding for you and your project sponsors will be used and the related use of leveraged resources;

(b) How each line item will relate to your description of planned eligible HOPWA activities; and

(c) The clarity and completeness of your summary statement of the planned activities for your project by budget line item and the use of any leveraged funds or other resources by the grantee and sponsor(s).

You must complete the HOPWA Project Budget Form as described above.

Rating Factor 4: Leverage (5 Points) (Minimum for Funding Eligibility 1 Point)

This factor addresses your ability to secure community resources that can be combined with HUD's funds to achieve program purposes and to ensure sustainability of the housing efforts. HUD will award up to 5 points based on the extent to which resources from other state, local, federal, or private resources are listed with the required elements to demonstrate that these funds are committed at the time of application to support and sustain your project. To receive the highest leveraging points based on the amount of commitments you must provide information on the commitment of other resources that at least equal the amount of the HOPWA request for program activities (not including administrative costs) as part of your plan to operate this project over the next 3 year period. Applications must receive a minimum of 1 point in this Rating Factor to demonstrate the commitment of other resources to be eligible for funding under this NOFA with the standards described in Section IV(B)4 on Leveraging. Applicants will be awarded points based on the content of a list or chart for the commitments with the following information: The name and address of the organization(s) providing the commitment(s) (note if the organization will serve as a project sponsor); the type of commitment (applicant or third party cash resources, non-cash resources, volunteer time, contribution of a building, contribution of lease hold interest); the dollar value of the commitment; the date of the commitment letter or other document; the source of the funding, such as federal, state, local, private or in-kind contributions; and the organization's authorized representative's name, title, and contact information who has made this commitment.

Factor 5: Achieving Results and Program Evaluation (Maximum 15 Points)

Address this factor in your Logic Model for 10 points and in a Return on Investment (ROI) plan for 5 points. The ROI narrative should be presented in not more than 5 double spaced pages (and is an option, not a requirement for submission). In addition, as may be needed, you may submit a supplemental related narrative if other project performance elements are added to those available on this Logic Model form on not more than three additional, double-spaced, typed pages or similar chart or table. Under this factor, HUD will award 10 points based on how well your application's logic model demonstrates a commitment to ensuring that the goals that you set forth and your performance will be assessed in a clear and effective manner. HUD will analyze how well you have clearly implemented the required HOPWA program output and outcome goals and identified other stated benefits or outcomes of your program including your activities, benchmarks, and interim activities or performance indicators with timelines. HUD will award the highest points to applications that demonstrate an evaluation plan that will objectively measure actual achievements against anticipated achievements.

In addition, under rating factor 5, Achieving Results, you may earn an extra 5 points for developing a plan to demonstrate a ROI on your program activities. When developing ROI models there are several principles to be considered:

• These models should address the connection between investment and results.

• In order to compute an ROI effectively, one must clearly delineate the nature of investment and the nature of results or outcomes.

• All public services, including housing assistance and related support provided through HOPWA projects, should produce a measurable outcome. All outcomes have a value; however the value is not always monetary. It is incumbent upon agencies to determine the value of these outcomes for the individual client/family and for the community in monetary or non-monetary terms.

• In technical terms, ROI is a rate of “dollars saved per dollars invested.” If the investment and return are measurable in dollars, one has a quantifiable ROI methodology.

• When calculating an ROI, the calculation may result in an effective ROI, a neutral ROI, or a less than effective ROI. An effective ROI is where the value of the benefit or dollars saved exceeds the cost of the investment. A neutral ROI is where the value of the benefit or dollars saved equals the cost of the investment. A less than effective ROI is where the value of the benefit or dollars saved is less than the investment. Your organization will not be penalized for a less than effective ROI.

An example of a “dollars saved per dollars invested” ROI could be that HOPWA funds provided to the grantee for supportive housing (the investment) would result in a cost savings by maintaining clients in the community (the return) rather than a longer term institutional placement. The grantee would need to compare the funds provided from the supportive housing grant to the savings resulting from community placement compared to an institutional or long term placement. An effective ROI would be achieved if the savings achieved were greater than the initial grant investment.

HUD is also interested in calculating ROI as “benefits per dollars invested.” An example of a “benefits per dollars invested” ROI is the number of people housed in permanent housing compared to the development cost of constructing the housing, along with related operating costs for a facility based program, or costs in providing rental assistance over a measured period of support.

Additional support is also available in this notice to assist HOPWA grantees in conducting program evaluation using the ROI methodology. This NOFA provides additional one-time funding for related ROI data collection and analysis efforts up to a maximum of $30,000 per grantee. Projects must demonstrate a viable ROI plan and methodology with data sources that support relevant and accurate reports on the project's ROI to the community's public systems of support for HOPWA-eligible households. The highest scored ROI plan (5 points) would need to establish:

• For 1 point under ROI: A description of your methodology, including the rationale for using one or both of the ROI types as described above (“dollars saved per dollars invested” and “benefits per dollars invested”) and the reason this type of methodology was selected.

• For 1 point under ROI: Identify the program or service to be addressed by the ROI and why it was selected. When establishing the cost for delivering the program housing assistance or service addressed by the ROI, add the direct HOPWA portion of these project costs to the related leveraged resources that are used to support beneficiaries with the program or service addressed by the ROI.

• For 1 point under ROI: A description of the expected benefit(s)/outcome(s) whether resulting in cost savings or achieving a specific program benefit(s).

• For 1 point under ROI: A submission of your data collection and analysis plan describing the source(s) of output and outcome data, establishment of baseline data for comparative analysis over a three-year time period and how the outcome is to be valued. For example, if the case is being made that community based supportive housing is less expensive than institutional care, how was the cost of institutional care derived? This is necessary to support a legitimate comparison of costs.

• For 1 point under ROI: A description of your organization's capacity to conduct the project. Your organization must provide a brief description of the staff you propose to assign to the ROI effort and their relevant experience in working with data collection and evaluation activities.

In general HOPWA is looking for ROI methodologies that address:

• Cost savings to the HOPWA-funded project or to related public systems of housing, care and related support.

• Greater efficiencies in service delivery for the types and levels of support provided to HOPWA beneficiaries.

Here are several examples of areas of interest to HOPWA. These are only examples and not necessarily recommended courses of action:

• An ROI model that could compare average HOPWA costs to costs associated with the reliance on other public services, such as hospitalization, and services that offer higher levels of personal care (dollars saved per dollars invested).

• An ROI model that proposes how to assess if the program resulted in improved quality of life measured by households' achieving better relative health, greater family stability, and improved life outcomes compared to possible institutional placement (benefits per dollars invested and dollars saved per dollars invested).

• An ROI model that could compare the average costs for delivering HOPWA supportive permanent housing assistance in contrast to greater reliance on hospitalization or inpatient health care services. The model could also provide insight on how housing stability achieved with HOPWA resources reduces reliance, where appropriate, on this other type of support (benefits per dollars invested).

• An ROI model related to care and treatment efforts to maintain independent living in the community (benefits per dollars invested and/or dollars saved per dollars invested).

HUD is interested in developing pragmatic models and norms based on the actual costs it takes to operate your program including programs assisting persons with various levels of supportive housing needs. This evaluation can help ensure that resources are targeted to reduce the most pressing needs for vulnerable populations, including housing and related assistance for persons who are homeless or have severe risks of homelessness, along with challenges of serious mental illness and/or chronic substance abuse.

When applying for these supplemental ROI funds, please enter the requested amount up to $30,000 under the “other” budget line item. HUD reserves the right to deny your request for funding under the Other budget line item for ROI activities if your ROI plan is deemed limited, incomplete, or unresponsive to this assessment objective (i.e., receives less than half of these points in the rating review), or duplicative in the process and methodology of other higher rated applications.

The following is an example of calculating “benefits per dollars invested” ROI, using the Carter-Richmond methodology and a published example:

(i) How many clients are you serving? 100.

(ii) Who are they? Single unemployed women ages 21-34 who are seeking employment and have at least one child under the age of 12.

(iii) What services do you give them? A package of job readiness training, job placement and 90 day follow-up services after job placement.

(iv) What does it cost? $100,000.

(v) What does it cost per service delivered? $100,000/100 = $1,000/job readiness/training/placement package, or $1,000/client.

(vi) What happens to clients as a result of the service? 10 clients or 10% of the program participants will obtain a full-time job above minimum wage with employer provided benefits.

(vii) What does it cost per outcome? $100,000/10 clients = $10,000/outcome. The outcome is a full time job above minimum wage with employer provided benefits.

(viii) What is the value of a successful outcome? The value of the outcome is income from employment ($20,000), benefits from employer ($5,000), EITC ($2,000), payment of taxes ($500), elimination of welfare and other subsidized benefits ($22,500) for a total of $50,000 per year. (EITC increases the client's benefit value, which should reduce or offset the value associated with elimination or decrease in subsidized benefits. The total value of the return may be disputable depending on how we identify the investor.)

(ix) What is the return on investment?

—ROI Individual = Value of outcome $50,000/ Cost of outcome $10,000 or a 500% return.

—ROI Program = Value of outcomes ($50,000) × (10) participants = $500,000/Cost of outcomes ($10,000) × (10) participants = $100,000.

—The cost of the program at $100,000 returned $500,000 in benefits.

—The every $1.00 invested in the program returned $5.00 in benefits.

Example cited from: Return-On-Investment Training for Community Action,© 2007, F. Richmond, B. Nazar, The Center for Applied Management Practices, Camp Hill, PA, 717-730-3705, http://www.appliedmgt.com, all rights reserved. Sponsored by OACCA/OCATO, Columbus, Ohio, April 21, 2007.

The highest rated applications will have a clear plan to address the HOPWA client outcome goals, to increase the amount of housing assistance provided to eligible persons, to establish or maintain housing stability, to reduce the risks of homelessness for eligible persons, to improve access to health care and other support, to collect information on your project's ROI. The application may also optionally address other related indicators of relevant outcomes.

The highest rated applications will also have a clear plan to use the HOPWA housing output measures—the projected number of households to be assisted in HOPWA-supported housing units by type (tenant-based rental assistance, STRMU payments and assistance in housing facilities) to be provided to eligible households through your project during each project-operating year. The application may also optionally address other related outputs.

Your application must include the Logic Model form (HUD-96010) to receive any points under this factor.

B. Reviews and Selection Process

1. HOPWA Project Applications.

a. Threshold Reviews. HUD will review your HOPWA application to ensure that it meets the threshold requirements found in the General Section and Section III.C of this NOFA pertaining to a request for a long-term project or a SPNS project.

b. HUD Reviews. HUD staff will conduct this review, including HUD staff from Community Planning and Development (CPD) at headquarters and HUD's state and area field offices.

c. Procedures for the Rating and Selection of Applications. HUD will rate all HOPWA applications based on the factors listed above. The points awarded for the factors total 100. In addition, HUD will award two bonus points to each application that includes a valid form HUD-2990 certifying that the proposed activities/projects in the application are consistent with the strategic plan for an empowerment zone (EZ) designated by HUD or the United States Department of Agriculture (USDA), the tax incentive utilization plan for an urban or rural renewal community designated by HUD (RC), or the strategic plan for an enterprise community designated in Round II by USDA (EC-II) and that the proposed activities/projects will be located within the RC/EZ/EC-II identified above and are intended to serve the residents. A listing of the RC/EZ/EC-IIs is available on the Internet at http://www.hud.gov/offices/cpd/economicdevelopment/programs/rc/tour/roundnumber.cfm. This notice contains the certification form HUD-2990 that must be completed for the applicant to be considered for RC/EZ/EC-II bonus points. Whether your HOPWA application is conditionally selected will depend on your overall ranking compared to other applications within each of the two categories of assistance, long-term projects or SPNS projects, and the amount of funds that are available to be awarded by this competition. Funds made available from federal FY2008 must first be used to fund the priority selection of expiring competitive projects that undertake permanent supportive housing activities (as a change from prior years, renewal applicants are not part of this NOFA process and will be conducted by HUD by a separate action). If any such funds remain after renewal actions are funded, then the funds will be used under this NOFA competition in combination with recaptured funds made available from related grant management actions to fund projects under this NOFA. HUD will select applications in rank order in each category of assistance (long-term and SPNS) to the extent that funds are available. In allocating amounts to the categories of assistance, HUD reserves the right to ensure that sufficient funds are available for the selection of at least one application with the highest ranking under each category of assistance. HUD will not select an application that is rated below 75 points, nor will an application be funded if it receives a Rating Factor 1—Capacity score lower than 14 points or Rating Factor 4—Leveraging score lower than 1 point.

In the event of a tie between applications in a category of assistance, HUD reserves the right to break the tie by selecting the proposal that was scored higher on a rating criterion in the following order: Rating Factor 3; Rating Factor 1; Rating Factor 2; Rating Factor 5; and Rating Factor 4.

C. Anticipated Announcement and Award Dates

The anticipated announcement of the projects selected under this notice is no later than September 31, 2008.

VI. Award Administration Information

A. Award Notices

1. Applicant Notification. HUD will notify the eligible applicants of their conditional selection or rejection for awards by e-mail or by a letter to be mailed to the applicant's authorized official at the address or e-mail address provided in your application. For conditionally selected applicants, the CPD Division of HUD's state or area office will provide a second letter with a copy of a proposed grant agreement along with instructions on any adjustments to the grant amount requested and other conditions identified during the review for conducting planned activities and on the close out of the current grant.

2. Award Modifications. After reviewing each application, HUD reserves the right to take each of the following actions:

a. HUD reserves the right to make award adjustments as outlined in Section VI.A.2, Adjustments to Funding, of the General Section.

b. In the event that a conditionally selected applicant is unable to meet any conditions for funding within the specified time, HUD reserves the right not to make an award to that applicant. In the event that a conditionally selected applicant is continuing to operate under the prior grant, and has sufficient funds to continue current operations for at least six months following the date of notification of selection, HUD may take any of the following actions: (i) Follow procedures to terminate the prior grant and recapture remaining funds after this date, consistent with the terms of the applicable grant agreement and 24 CFR 574.500(c); or (ii) adjust the amount of the new award by the amount of funds remaining after this date in the prior grant.

c. In making an award to the final selected project (by order of ranking), HUD may offer less than the full amount requested by an applicant that had received sufficient points to be selected, but for which there are insufficient funds remaining to provide the full funding request. HUD may also use funds from an award reduced under item b, above, to restore amounts to a funding request that had been reduced in this competition due to the application's lower rating status;

d. If an applicant turns down an award, an award is not made, or if there are sufficient award adjustments to make additional awards feasible, HUD reserves the right to: (a) Offer an award to the next highest rated application(s) in this competition in their ranked order; (b) add remaining or recaptured amounts to the funds that become available for a future competition; or (c) restore amounts to a funding request that had been reduced in this competition.

3. Applicant Debriefing. Applicants requesting to be debriefed must send a written request to: Department of Housing and Urban Development; Attention: Office of HIV/AIDS Housing; 451 Seventh Street, SW., Room 7212; Washington, DC 20401-7000. Telephone number is (202) 708-1934. Persons with hearing or speech challenges may access the above number via TTY (text telephone) by calling the Federal Information Relay Service at 800-877-8339 (this is a toll-free number). Additional information regarding debriefing can be found in the General Section.

B. Administrative and National Policy Requirements

1. Executive Order 13202, Preservation of Open Competition and Government Neutrality Toward Government Contractors' Labor Relations on Federal and Federally Funded Construction Projects. See the General Section for the information on how to meet this requirement.

2. Davis-Bacon wage rates. The Davis-Bacon wage rates are not applicable to the HOPWA program. However, if the applicant uses grant funds in conjunction with other federal programs, the Davis-Bacon requirements will apply to the extent required under the other federal programs.

3. Procurement of Recovered Materials. See the General Section for the information on how to meet this requirement.

C. Reporting

1. Six-Month Report. For any new project (i.e., a conditionally-selected applicant that has not previously received a HOPWA competitive grant), you must provide an initial report to the field office and HUD Headquarters on the startup of the planned activities within six months of your selection. Your report must outline your accomplishments and identify any barriers or issues for which the Department may provide assistance on the start-up on your new award.

2. Measuring Performance. You must report after each year of operation on the annual accomplishments of your project under the HOPWA annual progress report (form HUD-40110-C), comparing your results to proposed plans, including reporting on the required HOPWA Performance Goals on annual housing outputs and client outcomes in achieving housing stability, reduced risks of homelessness, and improved access to health care and other needed support. For each reporting period, you must provide a completed Logic Model showing progress to date against projected outputs and outcomes contained in your approved grant agreement. In addition, on an annual basis, you must respond to the management questions in the Program Logic Model found as an appendix to this program Section. HUD will use these reports and information obtained from HUD financial systems, along with any remote or on-site monitoring, to measure your progress and achievements in evaluating your performance on your HOPWA grant.

3. Beneficiary Information. HUD requires that funded recipients collect racial and ethnic beneficiary data. It has adopted the Office of Management and Budget's (OMB) Standards for the collection of Racial and Ethnic Data. In view of these requirements, you should use one of the following:

a. HUD-27061, Racial and Ethnic Data Reporting Form (instructions for its use) found on http://www.HUDclips.org;

b. A comparable program form (HOPWA—Annual Progress Report (APR) form HUD-40110-C); or

c. A comparable electronic data system for this purpose.

VII. Agency Contacts

A. For Further Information and Technical Assistance (TA). For technical assistance in downloading an application package from Grants.gov/Apply, contact the Grant.gov help desk at 800-518-Grants or send an e-mail to support@grants.gov. For programmatic information, you may contact the HUD field office serving your area. You can find the telephone number for the State or Area Office of Community Planning and Development on HUD's Web site at: http://www.hud.gov/offices/adm/grants/fundsavail.cfm. HUD staff can assist with program questions, but may not assist in preparing your application. Persons with hearing or speech impairments may access the above number via TTY (text telephone) by calling the toll-free Federal Information Relay Service at 800-877-8339.

B. Seeking Technical Assistance (TA) in Developing a HOPWA Application. HOPWA TA providers may not provide technical assistance in the drafting of responses to HUD's NOFA due to the unfair advantage such assistance gives to one organization over another. If HUD determines that HOPWA technical assistance has been used to draft a HOPWA application, HUD reserves that right to reject the application for funding. If, after your application has been selected for an award, HUD determines that HOPWA technical assistance was used to draft your application, the award will be withdrawn and you may be liable to return to HUD any funds already spent.

C. Satellite Broadcast. HUD will hold information broadcasts via satellite for potential applicants to learn more about the program and preparation of the application. For more information about the date and time of the broadcast, you should consult the HUD Web site at http://www.hud.gov/grants.

VIII. Other Information

Paperwork Reduction Act. The information collection requirements contained in this document have been approved by OMB under the Paperwork Reduction Act of 1995 (44 U.S.C. 3501-3520) and assigned OMB control number 2506-0133. In accordance with the Paperwork Reduction Act, HUD may not conduct or sponsor, and a person is not required to respond to, a collection of information unless the collection displays a currently valid OMB control number. Public reporting burden for the collection of information is estimated to average 413 hours per annum per respondent for the application and grant administration. This includes the time collecting, reviewing, and reporting the data for the application, semi-annual reports, and final report. The information will be used for grantee selection and monitoring the administration of funds. Response to this request for information is required in order to receive the benefits to be derived.

Assisted Living Conversion Program (ALCP) for Eligible Multifamily Housing Projects

Overview Information

A. Federal Agency Name: Department of Housing and Urban Development, Office of the Assistant Secretary for Housing-Federal Housing Commissioner.

B. Funding Opportunity Title: The Assisted Living Conversion Program for Eligible Multifamily Projects.

C. Announcement Type: Initial announcement.

D. Funding Opportunity Number: The OMB Approval Number is: 2502-0542. The Federal Register number for this NOFA is FR-5200-N-10.

E. Catalog of Federal Domestic Assistance (CFDA) Number: The Assisted Living Conversion Program for Eligible Multifamily Housing Projects is 14.314.

F. Dates: Applications must be received and validated by Grants.gov no later than 11:59:59 p.m. Eastern Time on the deadline date of July 3, 2008. See the General Section, published March 19, 2008 (73 FR 14882), for specific instructions regarding application submission.

G. Optional, Additional Overview Content Information: The purpose of this program is to provide grants for the conversion of some or all of the dwelling units in an eligible project into assisted living facilities (ALFs) for frail elderly persons. Private nonprofit owners of eligible developments interested in applying for funding under this grant program should carefully review the General Section and the detailed information listed in this NOFA. Funding will only be provided for those items related to the conversion.

Full Text of Announcement

I. Funding Opportunity Description

A. Program Description. Assisted living facilities (ALFs) are designed to accommodate frail elderly persons and people with disabilities who need certain support services (e.g., assistance with eating, bathing, grooming, dressing, and home management activities). ALFs must provide support services such as personal care, transportation, meals, housekeeping, and laundry. Frail elderly person means an individual 62 years of age or older who is unable to perform at least three activities of daily living (ADLs) as defined by the regulations for HUD's Section 202 Program (Supportive Housing for the Elderly) at 24 CFR 891.205. Assisted living is defined in section 232(b)(6) of the National Housing Act (12 U.S.C. 1715w).

The ALCP provides funding for the physical costs of converting some or all of the units of an eligible multifamily development into an ALF, including unit configuration and related common and services space and any necessary remodeling, consistent with HUD or the state's statutes/regulations (whichever is more stringent). Typical funding will cover basic physical conversion of existing project units, as well as related common and services space. There must be sufficient community space to accommodate a central kitchen or dining facility, lounges, recreation, and other multiple-areas available to all residents of the project, and/or office/staff spaces in the ALF. When food is prepared at an off-site location, the preparation area of the facility must be of sufficient size to allow for the installation of a full kitchen, if necessary. You must provide supportive services for the residents either directly or through a third party. Your application must include a firm commitment for the supportive services to be offered within the ALF. You may charge assisted living residents for meals and/or service fees. Residents may contract with third party agencies directly for nursing, therapy, or other services not offered by the ALF.

B. Authority. The Assisted Living Conversion Program is authorized by Section 202b of the Housing Act of 1959 (12 U.S.C. 1701q-2) and the Consolidated Appropriations Act, 2008 (Pub. L. 110-161), which provides up to $24,750,000 for the conversion of eligible projects to assisted-living or related use and for emergency repairs.

II. Award Information

A. Available Funds. This NOFA makes available up to $24,750,000 in grant funds. The funds will be used for the physical conversion of eligible multifamily assisted housing projects or portions of projects to ALFs.

Under the ALCP, the 18 HUD Multifamily Hubs are grouped into four geographical areas so that the amount of fair-shared grant funds will be sufficient to enable reasonable competition, and ensure projects of feasible size and quality. The four geographical areas and the lead Hub under the ALCP for each are:

The lead Hub for the East Geographic Area is Buffalo (the other Hubs which feed into Buffalo for the ALCP are Boston, New York, Philadelphia and Baltimore).

The lead Hub for the South Geographic Area is Fort Worth (the other Hubs which feed into Fort Worth for the ALCP are Greensboro, Jacksonville, and Atlanta).

The lead Hub for the Central Geographic Area is Kansas City (the other Hubs which feed into Kansas City for the ALCP are Chicago, Columbus, Detroit, and Minneapolis).

The lead Hub for the West Geographic Area is San Francisco (the other Hubs which feed into San Francisco for the ALCP are Seattle, Los Angeles, and Denver).

The allocation formula used to fair share the $24,750,000 for the ALCP reflects demographic characteristics of age and incidence of frailty that would be expected for program participants. The FY2008 formula consists of one data element from the 2000 decennial census: The number of non-institutional elderly population aged 75 years or older with a disability. A fair share factor for each state was developed by taking the sum of the persons aged 75 or older with a disability within each state as a percentage of the sum of the same number of persons for the total United States. The resulting percentage for each state was then adjusted to reflect the relative difference in the cost of providing housing among the states. The total of the grant funds available was multiplied by the adjusted fair share percentage for each state, and the resulting funds for each state were totaled for each Hub.

The ALCP grant funds fair share allocations, based on the formula above, for the four geographical areas are as shown on the following chart:

B. FY2008 Allocation

FY2008 Allocation for the Assisted Living Conversion Program (ALCP) of Eligible Assisted Multifamily Projects
Area | Grant authority
East | $6,213,067.00
South | 7,841,079.00
Central | 5,810,557.00
West | 4,885,297.00
Total | 24,750,000.00

The ALCP Grant Agreement, when fully executed, obligates the HUD funds. This Agreement establishes the legal relationship between HUD and the ALCP award recipient. The period of performance will be based on the scope of work but shall not exceed 18 months.

III. Eligibility Information

A. Eligible Applicants. Only private nonprofit owners of eligible multifamily assisted housing developments specified in section 683(2)(B), (C), (D), (E), (F), and (G) of the Housing and Community Development Act of 1992 (Pub. L. 102-550, approved October 28, 1992) may apply for an ALCP grant.

Note: If your eligibility status changes during the course of the grant term, making you ineligible to receive the grant (e.g., prepayment of mortgage, sale/TPA of property, opting out of a Section 8 Housing Assistance Payment (HAP) contract, or the transfer of the grant to a single asset entity), HUD retains the right to terminate the grant and recover funds made available through this NOFA.

1. Ineligible Applicants. Ineligible applicants are:

a. Owners of developments designed specifically for people with disabilities.

b. Owners of Section 232 developments.

c. Property management companies and agents of property management companies.

d. Limited dividend partnerships.

e. Nonprofit Public Agencies.

f. Owners of hospitals or other health-related facilities which are considered to be eleemosynary institutions.

g. Owner of an existing insured or privately owned Assisted Living Facility.

h. Owners of commercial structures.

2. Eligible Developments. Eligible projects must be owned by a private, nonprofit entity and designated primarily for occupancy by elderly persons. Projects must have completed final closing and must have been in occupancy for at least five years from the date of the HUD approved form HUD-92485 (Permission to Occupy Project Mortgage). Eligible projects may only receive one grant award. Additionally, eligible projects must meet one of the following criteria:

a. Section 202 direct loan projects with or without Section 8 rental assistance,

b. Section 202 capital advance projects receiving rental assistance under their Project Rental Assistance Contract (PRAC),

c. Section 515 rural housing projects receiving Section 8 rental assistance,

d. Other projects receiving Section 8 project-based rental assistance,

e. Projects subsidized with Section 221(d)(3) below-market interest mortgage,

f. Projects assisted under Section 236 of the National Housing Act.

B. Cost Sharing or Matching. No matching required.

C. Eligibility Requirements

1. Eligible conversion activities are:

a. Retrofitting to meet Section 504 accessibility requirements, minimum property standards for accessibility and/or building codes and health and safety standards for ALFs in that jurisdiction. Examples are items such as addition of:

(1) Upgrading to accessible units for the ALF with moveable cabinetry, accessible appliances, sinks, bathroom and kitchen fixtures, closets, hardware and grab bars, widening of doors, etc.;

(2) An elevator or upgrades thereto;

(3) Lighting upgrades;

(4) Major physical or mechanical systems of projects necessary to meet local code or assisted living requirements;

(5) Sprinkler systems;

(6) Upgrades to safety and emergency alert systems;

(7) Addition of hallway railings; and

(8) Medication storage and workstations.

b. Retrofitting to add, modify and/or outfit common space, office or related space for ALF staff including a service coordinator and file security, and/or a central kitchen/dining facility to support the ALF function (e.g., outfit lounge/common space/dining furniture, kitchen equipment for cooking/serving and dishware).

c. Retrofitting to upgrade a regular unit to an accessible unit for a person/family with disabilities who is being displaced from an accessible unit in the portion of the project that is being converted to the ALF, where another accessible unit is not available.

d. Temporary relocation.

e. Consultant, architectural, and legal fees.

f. Vacancy payments limited to 30 days after conversion to an ALF.

g. Any excess Residual Receipts (over $500/unit) and Reserve for Replacement funds (over $1000/unit) in Project Accounts that are not approved for another use at the time of application to HUD under this NOFA are considered available funds and must be applied toward the cost of conversion activities. Before making this determination, however, HUD staff will consider the extent of repair/replacement needs indicated in the most recent Real Estate Assessment Center (REAC) physical inspection and not yet approved and any ongoing commitments such as non-grant-based service coordinator or other funding, where existing, deduct the estimated costs of such items from the reserve for replacement and residual receipts balances to determine the extent of available residual receipts and reserve for replacement funds for the ALCP.

2. Threshold Requirements. In addition to the threshold criteria outlined in the General Section, applicants must meet the following requirements to receive funding for this program.

a. Be an eligible applicant.

b. DUNS Requirement. All ALCP applicants must have a DUN and Bradstreet Universal Data Numbering Systems (DUNS) number. The DUNS number must be included in the data entry field labeled “organizational DUNS” on the form SF-424. Instructions for obtaining a DUNS number can be found at either http://www.hud.gov/offices/adm/grants/duns.cfm or http://www.grants.gov/applicants/request_duns_number.jsp.

c. You cannot request more funds than allocated for your geographical area. (See the allocation chart above in Section II.B.)

d. You must provide commitment and funding support letters from the appropriate funding organizations and the appropriate licensing agency(ies). HUD will reject your application if the commitment and support letter(s) from the appropriate funding organizations and the appropriate licensing agency(ies):

(1) Are not submitted by the application deadline date as part of your application for financial assistance;

(2) Indicate that the ALF units, facilities, meals and supportive services to be provided are not designed to meet the special needs of the residents who will reside in the ALF as defined in this NOFA;

(3) Do not show commitment for funding the meals and supportive services proposed; or

(4) Indicate that the project as proposed will not meet the licensing requirements of the appropriate state/local agency(ies).

e. You must comply with all applicable statutory requirements specified in Section 202b and statutory requirements under Section 232(b)(6).

f. Minimum Size Limits for an ALF. An ALF must be economically feasible. Consistent with HUD Handbook 4600.1, CHG-1, the minimum size for an ALF is five units.

g. You must submit the required number of copies of your completed ALCP application by the deadline date, if you requested and received a waiver of the electronic submission requirement. The notification granting your waiver request will specify requirements for paper application submission, including the required number of copies and where to submit the application.

h. If you submit a substantially deficient application, that is, an application missing six or more exhibits, the application will be considered non-responsive to the NOFA, thus leaving your application ineligible for review. Refer to Section IV.B, Content and Form of Application Submission for further information.

3. Program Requirements.

a. You must have a residual receipts account separate from the Reserve for Replacement account, or agree to establish this account as a condition for getting an award.

b. You must be in compliance with your Loan Agreement, Capital Advance Agreement, Regulatory Agreement, Housing Assistance Payment contract, Project Rental Assistance Contract, Rent Supplement or Loan Management Set-Aside (LMSA) contract, or any other HUD grant or contract document.

c. If selected, you must file a form HUD-2530 for all construction contractors, architects, consultants, and service provider organizations under direct contract with you that will be engaged under this NOFA within 30 days of execution of the grant award.

d. Your project must meet HUD's Uniform Physical Conditions Standards at 24 CFR part 5, subpart G. Meeting these standards, based on the most recent REAC physical inspection report and responses thereto, means that the project, must have a “satisfactory” rating as evidenced by a score of 60 or better or a HUD-approved and on schedule repair plan for developments scoring less than 60. Additionally, the project must have no uncorrected and outstanding Exigent Health and Safety violations. Finally, the project must not have a management review with a rating of “minimally satisfactory” or “unsatisfactory” with open and unresolved findings.

e. You must submit, with your application, an agreement to pursue appropriate ALF licensing in a timely manner.

f. Meals and Supportive Services. You must develop and submit a Supportive Services Plan (SSP) for the services and coordination of the supportive services, which will be offered in the ALF to the appropriate state or local organization(s), which are expected to fund those supportive services. (See Section IV.B. below for information regarding what must be in the SSP.) You must submit one copy of your SSP to each appropriate state or local service funding organizations well in advance of the application deadline, for appropriate review. The state or local funding organization(s) must return the SSP to you with appropriate comments and an indication of the funding commitment, which you will then include with the application you submit to HUD.

g. Licensing Requirements. You must ALSO submit the SSP to the appropriate organization(s), which license(s) ALFs in your jurisdiction. The licensing agency(ies) must approve your plan, and must also certify that the ALF and the proposed supportive services identified in your SSP, are consistent with local statute and regulations and well designed to serve the needs of the frail elderly and people with disabilities who will reside in the ALF portion of your project.

h. Your ALF must be licensed and regulated by the state (or if there is no state law providing such licensing and regulation, by the municipality or other subdivision in which the facility is located). Each assisted living unit must include its own kitchen, bathroom, bedroom, living/dining area (1 bedroom unit) or kitchen, bathroom, bedroom/living/dining area (efficiency unit) and must meet the state and/or local licensing, building, zoning, and other requirements for an ALF.

i. Your ALF must be available to qualified elderly persons; frail elderly persons; and persons with disabilities, consistent with the rules and payment plans of the state, who need and want the supportive services in order to remain independent and avoid premature institutionalization.

j. Your ALF's residents must be tenants or residents of the multifamily project and must comply with the requirements applicable to the project. Thus, you cannot charge additional rent over what is charged to residents in the non-ALF portion of the project. All admissions to the ALF must be through the applicable project admissions office. However, persons accepted into the ALF also must sign an ALF admissions agreement, which shall be an addendum to the applicable project lease.

k. At a minimum, your ALF must provide room, board, and continuous protective oversight (CPO). CPO involves a range of activities and services that may include such things as awareness by management and staff of the occupant's condition and location as well as an ability to intervene in a crisis for ALF occupants on a 24-hour basis. The two occupant groups in an ALF are:

(1) Independent Occupants. Awareness by management and staff of the occupant's condition and whereabouts as well as the availability of assistance for the occupants as needed.

(2) Dependent occupants. Supervision of nutrition, assistance with medication and continuous responsibility for the occupants' welfare.

l. Anyone moving into an ALF unit must agree to accept as a condition of occupancy the board and services required for the purpose of complying with state and local law and regulation.

m. Your ALF must provide three meals per day.

(1) Residents whose apartments have kitchens must take at least the number of meals a day provided by the facility, per their mandatory meals requirement, or as required by state or local rules, if more stringent. If the facility does not have a mandatory meals plan, then state and local rules govern.

(2) Residents in projects which were originally constructed without kitchens in their units must take such meals as required by their mandatory meals agreement, if applicable, or by the state's mandated requirements if more stringent (e.g., two meals, two snacks daily).

In either case, ALF management must coordinate meal requirements with the needs of residents who are out part of the day (e.g., in day care). The meal program may not be operated at a profit by the project owner.

n. Priority admissions for ALF units are as follows:

(1) Current residents desiring an ALF unit and meeting the program requirements (no resident can be required to accept an ALF unit);

(2) Qualified individuals or families needing ALF services that are already on the project's waiting list;

(3) Qualified individuals or families in the community needing ALF services wanting to be added to the project's waiting list.

(4) Qualified disabled non-elderly persons needing assisted living services are eligible to occupy these units on the same basis as elderly persons, except for section 202 project rental assistance contracts (PRAC) projects.

o. The management of the project must set up a separate waiting list for ALF units. ALF units must be for eligible residents who meet the admissions/discharge requirements as established for assisted living by state and local licensing, or HUD frailty requirements under 24 CFR 891.205 if more stringent.

p. Upon receipt of a grant under this program, all project owners participating in the ALCP must provide a Declaration of Restrictive Covenants (DRC), which will be recorded with the land, to retain the low income character of the housing, and to maintain the project (including the ALF), as a moderate-, low-, or very low-income facility (as appropriate) for at least 20 years beyond the current 40- to 50-year term of the mortgage loan or capital advance.

q. The ALCP requires service coordination for linking the ALF to available services in the community for low-income persons. All projects funded under this NOFA must have sufficient service coordination in place to ensure that services meeting licensing requirements are available to ALF residents on an ongoing basis. Service coordination must be described in the application (see Section IV.B. of this NOFA). Show evidence that funding for service coordination is provided by other sources by indicating such funding on the form SF-424.

Note: Service coordinator funds are not available this fiscal year. Therefore, if there is a need to enhance an existing service coordination program or add one where it does not exist, project owners must pay for the service coordination program or seek funding from other resources.

(1) The ALF must be staffed either directly or through coordination with local agencies, depending on state regulations or local requirements. These may also serve non-ALF residents of the project on a time available and appropriate fee basis.

(2) If you are a Section 202 PRAC project owner, you can pay for the service coordinator out of PRAC funds.

(3) The ALF may cater to the special needs of residents depending on their condition or diagnosis, such as Alzheimer's disease. If it does so, the design/environment of such facilities must accommodate those needs, e.g., dementia special care unit. However, the ALF cannot provide a service it is not licensed by the state or locality to provide.

(4) Owners of Section 202/PRAC projects are reminded that they may include a PRAC payment of up to $15/unit/month not to exceed 15 percent of the total program cost, consistent with 24 CFR 891.225(b)(2) to cover part of the cost of meals and/or supportive services for frail elderly residents, including residents of the ALF.

For further guidance on service coordinators, please refer to Handbook 4381.5 REV-2, CHANGE-2, Chapter 8, “The Management Agent's Handbook,” which is also available through the HUDCLIPS database.

(5) Training for ALF staff is an eligible project cost under existing operating procedures.

For further information on ALFs, please refer to Handbook 4600.1, CHG-1, “Mortgage Insurance for Residential Care Facilities,” Chapter 13. This Handbook and recent ALF program Notices are accessible through HUDCLIPS on HUD's Web site at http://www.hud.gov/offices/adm/hudclips/index.cgi. These documents are in HUD's Client Information and Policy System (HUDCLIPS)—Housing database. Enter only the number without the letter prefix (e.g., 99-16) in the “Search HUDCLIPS” to retrieve the program notice.

r. Your ALF's operation must be part of the project owner's management organization. Some or all of its functions may be contracted out. The ALF must predicate its budget on a two-tiered structure under which board and supportive service income and expenses must be maintained separately and independently from the regular income and expenses of the applicable project. The two components of ALF costs are:

(1) Charges/payment for board, (not including rent for the unit) which may be on a sliding scale or any other equitable fee system; and

(2) Charges/payment for necessary supportive services, which may include a combination of resident fees, Medicaid and/or other third party payments.

s. Prohibition Against Lobbying Activities. The Byrd Amendment prohibits ALCP recipients of federal contracts, grants, or loans from using appropriated funds for lobbying activities. (Refer to Section III.C. of the General Section for further instructions regarding this requirement.)

t. Economic Opportunities for Low and Very Low-Income Persons (Section 3). You must comply with Section 3 of the Housing and Urban Development Act of 1968, 12 U.S.C. 1701u (Economic Opportunities for Low and Very Low-Income Persons), and implementing regulations at 24 CFR part 135. You must ensure that training, employment, and other economic opportunities shall, to the greatest extent feasible, be directed toward low- and very low-income persons, particularly those who are recipients of government assistance for housing and to business concerns which provide economic opportunities to low- and very low-income persons and including people with disabilities.

4. Additional Non-discrimination and Other Requirements. Refer to Section III.C of the General Section for additional requirements and information regarding non-discrimination and other Requirements, including compliance with the requirements of Section 504 of the Rehabilitation Act of 1973, the Fair Housing Act, Executive Order 11063, Title VI of the Civil Rights Act, the Age discrimination Act of 1975, the affirmative fair housing marketing requirements of section 24 CFR 200.600, Subpart M and the implementing regulations at 24 CFR part 108, which requires that the project be marketed to those least likely to apply, including those who are not generally served by the agency administering the program, and other applicable federal, state, and local laws prohibiting discrimination and promoting equal opportunity, including affirmatively furthering fair housing, and other certifications listed in the application.

a. Comply with the Uniform Federal Accessibility Standards (http://www.access-board.gov/ufas/ufas-html/ufas.htm); section 504 of the Rehabilitation Act of 1973 and HUD's implementing regulations at 24 CFR part 8; and any applicable provisions of the Americans with Disabilities Act of 1990 for all portions of the development physically affected by this proposal.

b. Comply with Section 232 of the National Housing Act as applicable.

c. Comply with the Davis-Bacon requirements and the Contract Work Hours and Safety Standards Act as applied to this program. While it has been determined that Davis-Bacon does not apply statutorily to the ALCP, the Department has administratively determined that Davis-Bacon standards and overtime rates in accordance with the Contract Work Hours and Safety Standards Act will be adhered to in any ALCP conversion grant program in which the total cost of the physical conversion to an ALF (and including any additional renovation work undertaken at the same time) is $500,000 or more (this includes ALCP grant funds, owner funds, or any third party funds loaned or granted in support of the conversion or other renovation for the project associated with this grant), and in which the ALF portion of the project is 12 units or more.

d. Ensuring the Participation of Small Business, Small Disadvantaged Businesses, and Woman-Owned Businesses. HUD is committed to ensuring that small businesses, small disadvantage businesses, and woman-owned businesses participate fully in HUD's direct contracting and in contracting opportunities generated by HUD's financial assistance. (Refer to the General Section for further instructions regarding this requirement.)

e. Executive Order 13166, Improving Access to Persons with Limited English Proficiency (LEP). ALCP applicants must seek to improve access to persons with limited English proficiency by providing materials and information in languages other than English. Make applications and other materials available in languages other than English that are common in the community, if speakers of these languages are found in significant numbers and come into frequent contact with the program.

f. Executive Order 13279, Equal Protection of the Laws for Faith-Based and Community Organizations. HUD has undertaken a review of all policies and regulations that have implications for faith-based and community organizations, and has established a policy priority to provide full and equal access to grassroots faith-based and other community-based organizations. (Refer to the General Section for specific instructions regarding this requirement.)

g. Accessible Technology. The Rehabilitation Act Amendments of 1998 apply to all electronic information technology (EIT) used by an ALCP recipient for transmitting, receiving, using, or storing information to carry out the responsibilities of the ALCP awards. (Refer to Section III.C. of the General Section for specific instructions regarding this requirement.)

h. Participation in HUD-Sponsored Program Evaluation. As a condition of the receipt of ALCP funds, successful applicants are required to cooperate with all HUD staff or contractors performing HUD-funded research and evaluation studies.

i. Comply with Executive Order 13202, Preservation of Open Competition and Government Neutrality toward Government Contractors' Labor Relations on Federal and Federally Funded Construction Projects. (Refer to the General Section for additional information on this requirement).

j. OMB Circulars and Government-wide Regulations Applicable to Financial Assistance. ALCP applicants are subject to the Administrative Requirements of OMB Circular A-133, Audits of States, Local Governments and Non-Profit Organizations; OMB Circular A-122, Cost Principles for Non-Profit Institutions; the administrative requirements of 24 CFR part 84; and the procurement requirements of 24 CFR 84.44. (Refer to the General Section for additional information on this requirement).

k. Environmental Requirements. Your ALCP application is subject to the National Environmental Policy Act of 1969 and applicable related federal environmental authorities. (See 24 CFR part 50, as applicable.) An environmental review will be completed by HUD before awarding any grant under this program. ALCP projects are `critical actions' for purposes of 24 CFR part 55 and must comply with requirements applicable to `critical actions,' including floodplain management review requirements, if proposed to be carried out in the 500-year floodplain.

IV. Application and Submission Information

A. Addresses to Request Application Package. All information for requesting an application is included in this NOFA and Section IV.A. of the General Section. The application for the ALCP is available on the Internet from the grants.gov Web site at http://www.grants.gov/applicants/apply_for_grants.jsp. If you have difficulty accessing the information, you can receive customer support from Grants.gov by calling the help line at (800) 518-Grants or by sending an e-mail to support@grants.gov. If you do not have access, you may obtain an ALCP application by calling the NOFA Information Center at (voice) 800-HUD-8929 (800-483-8929). Persons with a hearing or speech impairment may access this number via TTY by calling the Federal Information Relay Service at 800-877-8339. Please be sure to provide your name, address (including zip code), and telephone number (including area code).

1. Multiple Applications. Owners may not submit multiple applications for the same elderly housing development. HUD will only accept one ALCP application per project.

2. For Technical Assistance. Before the ALCP application deadline date, HUD staff will be available to provide you with general guidance and technical assistance. However, HUD staff is not permitted to assist in preparing your application. For technical support for downloading the ALCP application or submitting the application, call the toll free Grants.gov Customer Support line at 1-800-518-Grants or send an e-mail message to support@grants.gov.

3. Satellite Broadcast. HUD will provide a satellite broadcast for potential applicants. For more information about the date and time of the broadcast, you should contact your local HUD Office or go to HUD's Web site at: http://www.hud.gov/Webcasts/index.cfm.

B. Content and Form of Application Submission. There are eleven required exhibits under the ALCP, including prescribed forms and certifications. In cases where your articles of incorporation and by-laws have NOT changed since the project was originally approved by HUD, your signature on the SF-424 signifies that you are self-certifying to that effect—that the documents on file with HUD are current—is sufficient. Exhibits for which self-certification of currency is possible are Exhibits 2(a) and (b).

In addition to the relief of paperwork burden, you will not have to submit certain information and exhibits you have previously prepared. See individual item descriptions, below to identify such items. An example of such an item may be the FY2008 Annual Financial Statement. Your application must include all of the information, materials, forms, and exhibits listed below (Please see the General Section for instructions on how to submit third party and other documents such as Articles of Incorporation; by-laws; copies of original plans; evidence of financial commitment; letter(s) from zoning officials; etc.):

1. Table of Contents

Exhibit I—Form HUD-92045, Application Summary for the Assisted Living Conversion Program.

Exhibit II—Evidence of private nonprofit status and legal ability to operate an ALF program:

a. Articles of Incorporation.

b. Bylaws.

Exhibit III—Community support:

a. Links to the community at large and to the minority and elderly communities in particular; and

b. Efforts to involve elderly persons, including minority elderly persons and persons with disabilities in:

(1) Development of the application;

(2) Development of the ALF operating philosophy;

(3) Review of the application prior to submission to HUD; and

(4) Intent to involve eligible ALF residents in the operation of the project.

Exhibit IV—Evidence of occupancy.

Exhibit V—Evidence of need for project.

a. Need for the ALF by current project residents:

(1) Demographic characteristics of the elderly residents currently living in the project,

(2) Services currently available to the residents.

b. Need for ALF units by very low-income elderly and disabled households in the market area.

c. Type, availability and cost of alternate care and services,

d. How the community's Analysis of Impediments to Fair Housing Choice was used.

Exhibit VI—Narrative of the physical construction aspect of the ALF conversion:

a. Project development and timeline.

b. Narrative stating the number of units, special design features, common areas,

c. Energy efficiency features,

d. Original plans and specifications,

e. Description of how project will conform to UFAS,

f. Architectural sketches:

(1) All doors being widened;

(2) Kitchen and bathroom reconfiguration;

(3) Bedroom/living/dining area modification,

(4) Reconfigured common space;

(5) Added/reconfigured office and storage space;

(6) Monitoring stations,

(7) Kitchen and dining facility.

g. Budget.

h. Commitment letters.

i. Relocation:

(1) Cost of temporary relocation;

(2) Staff to carry out relocation activities;

(3) List of tenants to be temporarily relocated.

(4) Statement that temporary relocation will not extend beyond one year.

j. Section 3 requirements.

Exhibit VII—Description of Retrofitting or renovations.

Exhibit VIII—Zoning.

Exhibit IX—Supportive Services Plan:

a. Description of the supportive services needed;

b. Description of how the supportive services will be provided;

c. Description of how the operation of your ALF will work;

d. Costs for board and supportive services;

e. List who will pay for the board and supportive services:

(1) Meals by sponsors—$20

(2) Housekeeping services by the City government—$30

(3) Personal care by State Department of Health—$60

(4) Service paid for by state program—$40

(5) Fees paid by tenants—$83

f. Support or commitment letter;

g. State or local support letter;

h. Experience in arranging services and/or delivering supportive services to frail residents.

Exhibit X—Project's resources.

Exhibit XI—Forms and Certifications:

a. Form HUD-92045, Multifamily Housing Assisted Living Conversion Program Application Summary Sheet.

b. Form SF-424, Application for Federal Assistance.

c. SF-424 Supplement, Survey for Ensuring Equal Opportunity for Applicants.

d. Form HUD-424-CB, Grant Applications Detailed Budget.

e. Form HUD-424-CBW, Grant Application Detailed Budget Worksheet.

f. Form HUD-2880, Applicant/Recipient Disclosure/Update Report.

g. Form HUD-2991, Certification of Consistency with the Consolidated Plan.

h. Form HUD-2994-A, You Are Our Client! Grant Application Survey.

i. Standard Form-LLL, Disclosure of Lobbying Activities.

j. Form HUD-96010, Program Outcome Logic Model.

k. Form HUD-27300, America's Affordable Communities Initiative/Removal of Regulatory Barriers.

l. Certification of Consistency with RC/EZ/EC-II Strategic Plan (HUD-2990).

m. HUD-96011, “Third Party Documentation Facsimile Transmittal”.

2. Programmatic Application Requirements

Exhibit 1. Application Summary for the Assisted Living Conversion Program, Form HUD-92045.

Exhibit 2. Evidence that you are a private nonprofit organization or nonprofit consumer cooperative and have the legal ability to operate an ALF program, per the following:

a. Articles of Incorporation, constitution, or other organizational documents, or self-certification of these documents if there has been no change in the Articles since they were originally filed with HUD and

b. By-laws, or self-certification of by-laws, if there has been no change in the by-laws since they were originally filed with HUD.

Exhibit 3. A description of your community support:

a. A description of your links to the community at large and to the minority and elderly communities in particular; and

b. A description of your efforts to involve elderly persons, including minority elderly persons and persons with disabilities in:

(1) The development of the application;

(2) The development of the ALF operating philosophy;

(3) Review of the application prior to submission to HUD; and

(4) Your intent whether or not to involve eligible ALF residents in the operation of the project.

c. A description of your involvement in your community's Consolidated Planning and Analysis of Impediments to Fair Housing (AI) processes including:

(1) An identification of the lead/facilitating agency(ies) that organizes and/or administers the process;

(2) A listing of the Consolidated Plan/AI issue areas in which you participate; and

(3) The level of your participation in the process, including active involvement with any neighborhood-based organizations, associations, or any committees that support programs and activities that enhance projects or the lives of residents of the projects, such as the one proposed in your application.

If you are not currently active, describe the specific steps you will take to become active in the Consolidated Planning and AI processes. (Consult the local HUD office for the identification of the Consolidated Plan community process for the appropriate area.)

d. A description of how the assisted living facility will implement practical solutions that will result in assisting residents in achieving independent living and improved living environment.

e. A description of how you have supported state and local efforts to streamline processes and procedures in the removal of regulatory barriers to affordable housing. To obtain up to 2 points for this policy priority you must complete the Form HUD-27300, Questionnaire for HUD's Initiative on Removal of Regulatory Barriers, complete Part A or Part B (not both), provide the required documentation, where requested, and include a point of contact. See Rating Factor 3 in Section V.A. of this NOFA for more details.

Exhibit 4. Evidence of your project being occupied for at least five years prior to the date of application to HUD.

Exhibit 5. A market analysis of the need for the proposed ALF units, including information from both the project and the housing market, containing:

a. Evidence of need for the ALF by current project residents:

(1) A description of the demographic characteristics of the elderly residents currently living in the project, including the current number of residents, distribution of residents by age, race, and sex, an estimate of the number of residents with frailties/limitations in activities of daily living, and an estimate of the number of residents in need of assisted living services.

(2) A description of the services currently available to the residents and/or provided on or off-site and what services are lacking;

b. Evidence of the need for ALF units by very low-income elderly and disabled households in the market area; a description of the trend in elderly and disabled population and household change; data on the demographic characteristics of the very low-income elderly in need of assisted living services (age, race, sex, household size, and tenure) and extent of residents with frailty/limitations in existing federally assisted housing for the elderly (HUD and Rural Housing Service); and an estimate of the very low-income elderly and disabled in need of assisted living taking into consideration any available state or local data.

c. A description of the extent, types, and availability and cost of alternate care and services locally, such as home health care; adult day care; housekeeping services; meals programs; visiting nurses; on-call transportation services; health care; and providers of supportive services who address the needs of the local low income population.

d. A description of how information in the community's Analysis of Impediments to Fair Housing Choice was used in documenting the need for the ALF (covering items in c. above).

Exhibit 6. A description of the physical construction aspects of the ALF conversion, including the following:

a. How you propose to carry out the physical conversion (including a timetable and relocation planning). Completion of the Logic Model will assist in completing your response to this Exhibit.

b. A short narrative stating the number of units, special design features, community and office space/storage, dining and kitchen facility and staff space, and the physical relationship to the rest of the project. Also, you must describe how this design will facilitate the delivery of services in an economical fashion in the most integrated setting appropriate to the needs of the participating residents with disabilities and accommodate the changing needs of the residents over at least the next 10 years.

c. A description on how the project will promote energy efficiency, including how energy efficiency features will be incorporated into the design, rehabilitation, and operation of the ALF through the use of Energy Star labeled products and appliances. Applicants that meet this policy priority will receive two points under Rating Factor 3 in Section V.A. of this NOFA. Refer to the General Section for further information on this requirement or for further information about Energy Star see http://www.energystar.gov/index.cfm?c=home.index.

d. A copy of the original plans for all units and other areas of the development, which will be included in the conversion.

e. A description of the conversion must clearly address how the units will conform to the accessibility requirements described in the Uniform Federal Accessibility Standards (UFAS). (For example, all door openings must have a minimum clear opening of 32 inches; and, all bathrooms and kitchens must be accessible to and functional for persons in wheelchairs.)

f. Architectural sketches of the conversion to a scale of ¼ inch to one foot that indicate the following:

(1) All doors being widened;

(2) Typical kitchen and bathroom reconfiguration: Show all wheelchair clearances, wall reinforcing, grab bars, and elevations of counters and work surfaces;

(3) Bedroom/living/dining area modification, if needed;

(4) Any reconfigured common space;

(5) Added/reconfigured office and storage space;

(6) Monitoring stations, and

(7) The kitchen and dining facility.

All architectural modifications must meet section 504 and ADA requirements as appropriate.

g. A budget showing estimated costs for materials, supplies, fixtures, and labor for each of the items listed in Section IV.B.6.f, items (1) through (7), above.

h. Include firm financial commitment letters with specific dollar amounts from appropriate organization(s) for conversion needs (within the scope of the ALF conversion NOFA) which will be supported by non-HUD funding.

i. A description of any relocation of current tenants including a statement that:

(1) Indicates the estimated cost of temporary relocation payments and other related services;

(2) Identifies the staff organization that will carry out the relocation activities; and

(3) Identifies all tenants that will have to be temporarily moved to another unit within the development OR from the development during the period that the physical conversion of the project is under way.

(4) Indicates temporary relocation will not extend beyond one year. If it takes more than one year to return the tenant to his or her previous unit or location, the grantee must pay permanent relocation benefits immediately. This assistance would be in addition to any assistance the person has already received for temporary relocation, and may not be reduced by the amount of any temporary relocation assistance. Receiving permanent relocation benefits does not mean that the resident has lost the right to return to the project or unit.

Note: If any of the relocation costs will be funded from sources other than the ALCP grant, you must provide evidence of a firm financial commitment of these funds. When evaluating applications, HUD will consider the total cost of proposals (i.e., cost of conversion, temporary relocation, service coordinator, and other project costs).

j. Address how training, employment, and economic opportunities will be directed to low- and very low-income persons that receive government assistance for housing and to business concerns which provide economic opportunities to low- and very low-income persons and people with disabilities.

Exhibit 7. A description of any retrofit or renovation that will be done at the project (with third party funds) that is separate and distinct from the ALF conversion. With such description, include as part of your application submission firm commitment letters from third party organizations in specific dollar amounts that will cover the cost of any work outside the scope of this NOFA.

Exhibit 8. A letter from the local zoning official indicating evidence of permissive zoning. Also, show that the modifications to include the ALF into the project as proposed are permissible under applicable zoning ordinances or regulations.

Exhibit 9. A supportive services plan (SSP), a copy of which must be submitted to the appropriate state and/or local agency as instructed in Section III.C. above. For those applicants needing to contact state Medicaid offices, a list is provided on the Internet at http://www.cms.hhs.gov. The SSP must include:

a. A description of the supportive services needed for the frail elderly the ALF is expected to serve. This must include at least (1) meals and such other supportive services required locally or by the state, and (2) such optional services or care to be offered on an “as needed” basis.

Examples of both mandatory and optional services (which will vary from state to state) are: Two meals and two snacks or three meals daily; 24-hour protective oversight; personal care; housekeeping services; personal counseling, and transportation.

b. A description of how you will provide the supportive services to those who are frail and have disabilities (i.e., on or off-site or combination of on or off-site), including an explanation of how the service coordination role will facilitate the adequate provision of such services to ALF residents, and how the services will meet the identified needs of the residents. Also indicate how you intend to fund the service coordinator role.

c. A description of how the operation of your ALF will work. Address: (1) General operating procedures; (2) ALF philosophy and how it will promote the autonomy and independence of the frail elderly and persons with disabilities; (3) what will the service coordination function do and the extent to which this function already exists, or will be augmented or new; (4) ALF staff training plans; and (5) the degree to which and how the ALF will relate to the day-to-day operations of the rest of the project.

d. The monthly individual rate for board and supportive services for the ALF listing the total fee and components of the total fee for the items required by state or local licensing, and list the appropriate rate for any optional services you plan to offer to the ALF residents. Provide an estimate of the total annual costs of the required board and supportive services you expect to provide and an estimate of the amount of optional services you expect to provide.

e. List who will pay for the board and supportive services and the amount. For example, include such items as:

(1) Meals by sponsors—$20.

(2) Housekeeping services by the City government—$30.

(3) Personal care by State Department of Health—$60.

(4) Service paid for by state program—$40.

(5) Fees paid by tenants—$83.

The amounts and commitments from both tenants and/or providers must equal the estimated amounts necessary to cover the monthly rates for the number of people expected to be served. If you include tenant fees in the proposal, list and show any proposed scaling mechanism. All amounts committed/collected must equal the annualized cost of the monthly rates calculated by the expected percentage of units filled.

f. A support/commitment letter from each listed proposed funding source per paragraph e. above, for the planned meals and supportive services listed in the application. The letter must cover the total planned annual commitment (and multiyear amount total, if different), length of time for the commitment, and the amounts payable for each service covered by the provider/paying organization. There must be a letter from each participating organization listed in paragraph (e), above.

g. A support letter from each governmental agency that provides licensing for ALFs in that jurisdiction.

h. A description of your relevant experience in arranging for and/or delivering supportive services to frail residents. The description should include any supportive services facilities owned/operated; also describe your past or current involvement in any project-based programs that demonstrates your management capabilities. The description should include data on the facilities and specific meals and/or supportive services provided on a regular basis, the racial/ethnic composition of the populations served, if available, and information and testimonials from residents or community leaders on the quality of the services.

Exhibit 10. A description of your project's resources:

a. A copy of the most recent project Reserve and Replacement account statement, and a Reserve for Replacement analysis showing plans for its use over the next five years, and any approvals received from the HUD field office to date.

b. A copy of the most recent Residual Receipts Account statement. Indicate any approvals for the use of such receipts from the field office for over $500/unit.

c. Annual Financial Statement (AFS). If your FY2008 AFS was due to REAC more than 120 days BEFORE the deadline date for this application, in the interest of reducing work burden, only include the date that it was sent to REAC. If the AFS was due to REAC 120 days or less from the deadline date of this application, you MUST include a paper copy of your AFS in the application. See Section IV.F.5. of this NOFA for information on addresses to submit paper applications.

Exhibit 11. Forms and Certifications. The electronic version of the NOFA contains all forms required for submitting the ALCP application. The following exhibits, forms, certifications, and assurances are required.

a. Form HUD-92045, Multifamily Housing Assisted Living Conversion Program Application Summary Sheet.

b. Form SF-424, Application for Federal Assistance, and compliance with Executive Order 12372 (a certification that you have submitted a copy of your application, if required, to the state agency (Single Point of Contact) for state review in accordance with Executive Order 12372 (refer to the General Section for instructions in submitting this form).

c. SF-424 Supplement, Survey for Ensuring Equal Opportunity for Applicants (“Faith Based EEO survey (SF-424SUPP)” on Grants.gov).

d. Form HUD-424-CB, Grant Applications Detailed Budget (HUD Detailed Budget Form” on Grants.gov).

e. Form HUD-424-CBW, Grant Application Detailed Budget worksheet.

f. Form HUD-2880, Applicant/Recipient Disclosure/Update Report (“HUD Applicant Recipient Disclosure Report” on Grants.gov), including Social Security and Employment Identification numbers. A disclosure of assistance from other government sources received in connection with the project.

g. Form HUD-2991, Certification of Consistency with the Consolidated Plan for the jurisdiction in which the proposed ALF will be located. The certification must be made by the unit of general local government if it is required to have, or has, a complete Plan. Otherwise, the certification may be made by the state, or by the unit of general local government if the project will be located within the jurisdiction of the unit of general local government authorized to use an abbreviated strategy, and if it is willing to prepare such a Plan.

All certifications must be made by the public official responsible for submitting the plan to HUD. The certifications must be submitted by the application deadline date set forth herein. The Plan regulations are published in 24 CFR part 91.

h. Form HUD 2994-A, You Are Our Client! Grant Application Survey, optional.

i. Standard Form-LLL, Disclosure of Lobbying Activities, if applicable.

j. Form HUD-96010, Program Outcome Logic Model.

k. Form HUD-27300, America's Affordable Communities Initiative/Removal of Regulatory Barriers (and supporting documentation) (“HUD Communities Initiative Form” on Grants.gov).

l. Certification of Consistency with RC/EZ/EC-II Strategic Plan (HUD-2990), if applicable.

m. HUD-96011, “Third Party Documentation Facsimile Transmittal” (“Facsimile Transmittal Form” on Grants.gov). This form must be used as the cover page to transmit third party documents and other information as described in the General Section as part of your electronic application submittal (if applicable).

C. Submission Date and Time

1. Application Submission Date. Unless you received a waiver to the electronic application submission requirements, your completed ALCP application must be submitted via http://www.grants.gov/applicants/applyfor_grants.jsp and must be received and validated by Grants.gov no later than 11:59:59 eastern time on the application deadline date of July 3, 2008. (Refer to Section IV. of the General Section for further instructions on the delivery and receipt of applications.)

D. Intergovernmental Review

1. Executive Order 12372. ALCP applicants are subject to the Executive Order 12372 process. (Refer to Section IV.D. of the General Section for instructions on the intergovernmental review process.)

2. You must submit a Supportive Services Plan (SSP) for the services and coordination of the supportive services that will be offered in the assisted living facility (ALF) to the appropriate state or local organization(s), which are expected to fund those supportive services. You must submit one copy of your SSP to each appropriate state or local service funding organizations well in advance of the application deadline, for appropriate review. The state or local funding organization(s) must return the SSP to you with appropriate comments and an indication of the funding commitment, which you will then include with the application you submit to HUD.

You must also submit the SSP to the appropriate organization(s) that license ALFs in your jurisdiction. The licensing agency(ies) must approve your plan, and must also certify that the ALF and the proposed supportive services identified in your SSP, are consistent with local statute and regulations and well designed to serve the needs of the frail elderly and people with disabilities who will reside in the ALF portion of your project.

E. Funding Restrictions

1. This program does NOT cover the cost of meals and supportive services. These items must be paid for through other sources (e.g., a mix of resident fees and/or third party providers). Evidence of third party commitment(s) must be included as part of the application. The assisted living supportive services program must promote independence and provide personal care assistance based on individual needs in a home-like environment. In accordance with Section 504 of the Rehabilitation Act of 1973 and HUD's regulations at 24 CFR 8.4(d), the project must deliver services in the most integrated setting appropriate to the needs of qualified individuals with disabilities.

2. This program does not allow permanent displacement of any resident living in the project at the time the application was submitted to HUD. (HUD will only provide temporary relocation costs for current tenants if they must vacate their unit while conversion work is underway (temporary relocation costs include increases in rent, reconnection of telephones, moving costs, and appropriate out-of-pocket expenses). See HUD Handbook 1378 and the URA for further guidance regarding relocation costs.

3. ALCP grants funds are to be considered the total amount of funds that the Department will provide for the conversion of the project. Amendment funds will only be provided in exceptional circumstances, that is, to cover increases in costs that are beyond the control of the owner. Otherwise, any costs over and above the award amount are the responsibility of the owner.

3. Applicants will not be awarded multiple grant funds for the same elderly housing development.

4. Ineligible Activities. You may not use funds available through this NOFA to:

a. Add additional dwelling units to the existing project;

b. Pay the costs of any of the necessary direct supportive services needed to operate the ALF;

c. Purchase or lease additional land;

d. Rehabilitate (see definition at 24 CFR 891.105) the project for needs unrelated directly to the conversion of units and common space for assisted living;

e. Use the ALCP to reduce the number of accessible units in the project that are not part of the ALF;

f. Permanently displace any resident out of the project (permanent relocation is prohibited under this program);

g. Pay management fees;

h. Cover the cost of activities not directly related to the conversion of the units and common space. (i.e., if an applicant is applying to convert 24 units on 2 floors of a 5-story elderly housing development and the inspection by the Fire Marshal reveals that sprinklers must be installed in the entire building, ALCP funds will be used only to install sprinklers for the 24 units on the 2 floors requested in the application. The cost to install sprinklers in the remaining units must be paid for out of other resources.

F. Other Submission Requirements

Application Submission and Receipt Procedures. Refer to Section IV.F. of the General Section for additional information on application submission requirements.

1. Electronic Delivery.

a. The Grants.gov Web site offers a simple, unified application process. There are several registration steps applicants need to complete. Further information is contained in the General Section. ALCP applicants should also read HUD's Federal Register Notice on Early Registration which can be found on HUD's Web site at http://www:hud.gov/offices/adm/grants/fundsavail.cfm.

b. Electronic signature. ALCP applications submitted through Grants.gov constitute submission as an electronically signed application.

2. Instructions on how to submit electronically are outlined in HUD's “Desktop User's Guide” located on HUD's Grants Web site at: http://www.hud.gov/grants/index.cfm.

3. Waiver of Electronic Submission Requirement. Applicants interested in applying for funding under this NOFA must submit their applications electronically or request a waiver of the electronic submission process. Waiver requests must be submitted by mail or by fax. For this program NOFA, e-mail requests will not be considered. Waiver requests submitted by mail or fax should be submitted on the applicant's letterhead and signed by an official with the legal authority to request a waiver from the Department. Waiver requests must be submitted no later than 15 days prior to the application deadline date and should be sent to Brian D. Montgomery, Assistant Secretary for Housing-Federal Housing Commissioner, Department of Housing and Urban Development, 451 Seventh Street, SW., Room 9100, Washington, DC 20410-8000. Waiver requests submitted by fax must be sent to (202) 708-3104. If you are granted a waiver to the electronic submission process, your application must be received by HUD no later than 11:59:59 p.m. eastern time on the application deadline date. See the General Section for additional information.

4. Proof of Timely Submission. ALCP applicants must submit their applications via grants.gov (http://www.grants.gov/applicants/apply_for_grants.jsp) in time for receipt and validation by 11:59:59 p.m. eastern time on the application deadline date of July 3, 2008. Validation can take up to 72 hours so applicants should submit with ample time for the process to be completed. Applicants are also advised to submit with sufficient time to correct any deficiencies that would prevent the acceptance of your application by Grants.gov. (Refer to the General Section for specific procedures regarding proof of timely submission of applications.)

5. Hubs and Field Offices addresses. If you are granted a waiver to the electronic application submission requirement, your waiver approval will provide the information on the number of copies of the application you are required to submit and where to submit the application. If you send your application to the wrong Hub Office, it will be rejected. Therefore, upon receiving your waiver approval, if you are uncertain as to which lead HUD Multifamily Hub to submit your application, you are encouraged to contact the local HUD Office that is closest to your project's location to ascertain the lead HUD Multifamily Hub to ensure that you submit your application to the correct local lead HUD Multifamily Hub Office. Paper applications must be received in the appropriate lead HUD Multifamily Hub by the application deadline date.

V. Application Review Information

A. Criteria. HUD will rate ALCP applications that successfully complete technical processing using the Rating Factors set forth below and in accordance with the application submission requirements identified in Section IV.B. above. The maximum number of points an application may receive under this program is 100 plus 2 bonus points as described in the General Section and Section V.A. below.

1. Rating Factor 1: Capacity of the Applicant and Relevant Organizational Staff (20 Points)

This factor addresses your capacity to carry out the conversion in a timely, cost-conscious and effective manner. It also addresses your experience at providing the proposed supportive services you intend to make available at the ALF for elderly residents, especially in such areas as meals, 24-hour staffing, and on-site health care. Submit information responding to this factor in accordance with Application Submission Requirements in Sections IV. B. Exhibits 6. a. and b. and 9. a. through c and h. of this NOFA.

In rating this factor, HUD will consider the extent to which your application demonstrates your ability to carry out a successful conversion of the project and to implement the plan to deliver the supportive services on a long-term basis, considering the following:

a. (9 points). The time frame planned for carrying out the physical conversion of the development to the ALF. Timeframe for completion of the project in 9 months or less (9 points); completion in 13 months (5 points); completion in 18 months (3 points); completion in more than 18 months (0 points).

b. (10 points). Describe your past experience in providing or arranging for supportive services either on or off site for those who are frail. Examples are: Meals delivered to apartment of resident or in a congregate setting (2 points), arranging for or providing personal care (3 points), providing 24-hour staffing (2 point), providing or making available on-site preventive health care (1 points) and other support services (2 points).

c. (1 point). The Department will provide 1 point to those applicants who currently or propose to partner, fund, or subcontract with grassroots organizations. HUD will consider an organization a “grassroots organization” if the organization is headquartered in the local community and has a social services budget of $300,000 or less; or has six or fewer full-time equivalent employees. (Refer to the General Section for further information on policy priority points for activities related to grassroots organizations.)

2. Rating Factor 2: Need/Extent of the Problem (20 Points)

This factor addresses the extent to which the conversion is needed by the categories of elderly persons and persons with disabilities that the ALF is intended to serve. The application must include evidence of current needs among project residents and needs of potential residents in the housing market area for such persons including economic and demographic information on very low-income, frail, elderly, and persons with disabilities and information on current assisted living resources in the market area.

The factor also addresses your inability to fund the repairs or conversion activities from existing financial resources. In making this determination, HUD will consider the project's financial information. Submit information responding to this factor in accordance with Application Submission Requirements in Sections IV.B. Exhibits 3.c., 5. a. through d., and 10. a. through c. of this NOFA. In evaluating this factor, HUD will consider:

a. (7 points). The need for assisted living among the elderly and disabled residents of the project taking into consideration those currently in need and the depth of future needs given aging in place.

b. (3 points). The need for assisted living among very low-income elderly persons and persons with disabilities in the housing market area.

c. (9 points). Insufficient funding for any needed conversion work, as evidenced by the project's financial statements and specifically the lack of excess Reserve for Replacement dollars and residual receipts. If the available Reserve for Replacement and residual receipts are less than 10 percent of the total funds needed = 9 points; if the available Reserve for Replacement and residual receipts are 10-50 percent of need = 5 points; and, if the available Reserve for Replacement and residual receipts are 51 percent or more of the total funds needed = 0 points).

d. (1 point). The Department will provide one point to those applications which establish a connection between the proposed ALF and the community's Analysis of Impediments to Fair Housing Choice (AI) or other planning document that analyzes fair housing issues and is prepared by a local planning or similar organization.

3. Rating Factor 3: Soundness of Approach (40 Points)

This factor addresses the quality and effectiveness of your proposal in addressing the proposed conversion, effectiveness of service coordination and management planning and the meals and supportive services which the ALF intends to provide, whether the jurisdiction in which the ALF is located has taken successful efforts to remove regulatory barriers to affordable housing, whether you will incorporate energy efficiency in the design and operation of the assisted living facility, provide training, employment, and economic opportunities to low- and very low-income persons, and the extent to which you have evidenced general support for conversion by participating in your community's Consolidated Planning Process, involving the residents in the planning process. Submit information responding to this factor in accordance with Application Submission Requirements in Sections IV.B. Exhibits 3.a. through c. and e., IV.B.6.b. through e., IV. B.9.a. through e., g., and h. of this NOFA. In evaluating this factor, HUD will consider the following:

a. (10 points). The extent to which the proposed ALF design will meet the special physical needs of frail elderly persons or persons with disabilities (ALF design: meets needs = 10 points; ALF design partially meets needs = 5 points; and ALF design does not meet needs = 0 points).

b. (10 points). The extent to which the ALF's proposed management and operational plan ensures that the provision of both meals and supportive services planned will be accomplished upon completion of the conversion and receipt of license for the operation of the facility. (Consider ALF design/management plan: meets needs of management operations = 10 points; ALF design/management plan partially meets needs of management operations = 5 points; and ALF design/management plan does not meet needs of management operations = 0 points.)

c. (7 points). The extent to which the proposed supportive services meet the anticipated needs of the frail elderly and disabled residents (does meet = 7 points; partially meets needs = 4 points; and, does not meet needs = 0 points); and

d. (7 points). The extent to which the service coordination function is addressed and explained as augmented or new, and addresses the ongoing procurement of needed services for the residents of the ALF (does meet = 7 points, partially meets = 4 points, does not meet = 0 points).

e. (2 points). The steps you have taken in support of State and local efforts in streamlining processes and procedures that eliminate redundant requirements, statutes, regulations and codes which impede the availability of affordable housing. To receive points for removal of regulatory barriers, applicants must complete Part A or B (not both), include some form of documentation, where requested, and include a point of contact in their response using the completed Questionnaire HUD Form 27300. (Refer to the General Section for further information.)

f. (2 points). Describe how you plan to incorporate energy efficiency measures in the design, rehabilitation, or the operation of the assisted living facility through the use of Energy Star labeled products and appliances. (Refer to the General Section for further information.)

g. (2 points). To the greatest extent feasible, describe how you propose to provide opportunities to train and employ low- and very low-income persons in the project area; and how you plan to award contracts to business concerns which provide economic opportunities to low- and very low-income persons and people with disabilities in the project area.

4. Rating Factor 4: Leveraging Resources (10 Points)

This factor addresses your ability to secure other community resources that can be combined with HUD's grant funds to achieve program purposes. For the ALCP to succeed, you must generate local funding for the necessary supportive services to operate the ALF. HUD also encourages local funding for some of the necessary conversion work, or other work needed in the project (e.g., general modernization) which is NOT specifically linked to the ALF).

Submit information responding to this factor in accordance with Application Submission Requirements in Section IV.B. Exhibits 6.h. and i., B.7., and B.9.e. through g. of this NOFA.

a. (4 points). The extent to which there are commitments for the funding needed for the meals and the supportive services planned for the ALF and that the total cost of the estimated budget of the ALF is covered. Consider 90 percent or more commitment of the total budget with no more than 10 percent for meals and services = 4 points; 80-89.9 percent with no more than 20 percent for meals and services = 3 points; 65-79.9 percent with no more than 35 percent for meals and services = 2 points; 40-64.9 percent with no more than 60 percent for meals and services = 1 point; less than 40 percent commitment of the total budget with no more than 60 percent support for meals and services = 0 points.

b. (2 points) The extent to which your past performance evidence commitments for funding for meals and supportive services.

c. (2 points). The extent of local organizations' support, which is firmly committed to providing at least 50 percent of the total cost of ALF conversion (consider 50% or more = 2 points, 20-49.9 percent = 1 points, and under 20 percent = 0 points).

d. (2 points). The extent of local organizational support which is firmly committed to providing funds for additional repair or retrofit necessary for the project NOT specifically directed to activities eligible under this NOFA (funds firmly committed = 2 points, funds not committed = 0 points).

5. Rating Factor 5: Achieving Results and Program Evaluation (10 Points)

This factor reflects HUD's goal to embrace high standards of ethics, management and accountability. This factor emphasizes HUD's commitment to ensure that promises you make in the application are kept; and to ensure performance goals with outcomes are established and are met (refer to Section V.B. of the General Section for more detail). Outcomes may include the extent to which your project will implement practical solutions that will result in assisting residents in achieving independent living and an improved living environment, as well as the extent to which the project will be viable absent HUD funds but rely more on state, local, and private funds. Submit information responding to this factor in accordance with Application Submission Requirements in Section IV.B. Exhibits 3.d., 6.a. through g., and 9.a. through e. of this NOFA. Applicants must complete Form HUD-96010, Program Outcome Logic Model in responding to this Rating Factor. HUD will evaluate the Logic Model in accordance with the matrix provided in Attachment 1 to the General Section.

a. (4 points). Describe the extent to which your conversion time frame reflects the length of time it will take to convert the units describing how residents will benefit from the conversion of the units; and how the converted units will result in ALF residents being able to age in place;

b. (2 points). Describe the extent to which your assisted living facility will implement practical solutions that will result in assisting residents in achieving independent living and improved living environment.

c. (2 points). Demonstrate how the project will be viable absent HUD funds while relying more on state, local, and private funds.

d. (2 points). Describe the extent to which the ALFs operating philosophy promotes the autonomy and independence of the frail elderly persons it is intended to serve (is fully addressed = 2 points, “no” or not addressed = 0 points).

6. Bonus Points (2 bonus points). The project to be converted is located in an RC/EZ/EC-II area, as described in the General Section.

B. Reviews and Selection Process

1. The ALCP will fund those applications that may impact federal problem solving and policymaking and that are relevant to HUD's policy priorities and annual goals and objectives. (Refer to the General Section for discussion of these priorities and annual goals and objectives).

2. Review for Curable Deficiencies. You should ensure that your application is complete before submitting it to HUD electronically via grants.gov. If you received a waiver of the electronic submission requirement, you must submit an original and four copies to the appropriate lead HUD Multifamily Hub Office. Submitting fewer than the original and four copies of the application is not a curable deficiency and will cause your application to be considered non-responsive to the NOFA and returned to you.

HUD will screen all applications received by the deadline for curable deficiencies. With respect to correction of deficient applications, HUD may not, after the application deadline date and consistent with HUD's regulations in 24 CFR part 4, subpart B, consider any unsolicited information an applicant may want to provide. HUD may contact an applicant to clarify an item in the application or to correct curable deficiencies. Please note, however, that HUD may not seek clarification of items or responses that improve the substantive quality of a response to any rating factors. In order not to unreasonably exclude applications from being rated and ranked, HUD may contact applicants to ensure proper completion of the application and will do so on a uniform basis for all applicants. A curable deficiency is a missing Exhibit or portion of an Exhibit that will not affect the rating of the application. In each case, under this NOFA, the appropriate lead HUD Multifamily Hub office will notify you in writing by describing the clarification or curable deficiency. You must submit clarifications or responses to curable deficiencies in accordance with the information provided by the Hub office within 14 calendar days of the date of HUD notification. (If the due date falls on a Saturday, Sunday, or federal holiday, your correction must be received by HUD on the next day that is not a Saturday, Sunday, or federal holiday.) If the deficiency is not corrected within this time period, HUD will reject the application as incomplete, and it will not be considered for funding. The following is a list of the deficiencies that will be considered curable in ALCP applications:

List of Curable Exhibits

• *Application Summary;

• *Articles of Incorporation, or certification of Articles of Incorporation;

• *By-laws, or certification of by-laws;

• Evidence of occupancy for at least five years;

• Original project plans;

• Relocation Plan;

• Evidence of Permissive Zoning;

• Form SF-424 Supplement, Survey for Ensuring Equal Opportunity for Applicants (“Faith Based EEO Survey (SF-424 SUPP)” on Grants.gov);

• Form HUD-424-CB, Grant Applications Detailed Budget (“HUD Detailed Budget Form” on Grants.gov);

• Form HUD-424-CBW, Grant Application Detailed Budget worksheet;

• Form HUD-2880, Applicant/Recipient Disclosure/Update Report (“HUD Applicant Recipient Disclosure Report” on Grants.gov);

• Form HUD-2991, Certification of Consistency with the Consolidated Plan;

• Form HUD-2994-A, You Are Our Client! Grant Applicant Survey, optional;

• Standard Form-LLL, Disclosure of Lobbying Activities, if applicable;

• HUD-96011, “Third Party Documentation Facsimile Transmittal” (“Facsimile Transmittal Form on Grants.gov) (For use with electronic applications as the cover sheet to provide third party documentation.).

The appropriate Hub office will notify you in writing if your application is missing any of the exhibits listed above and you will be given 14 days from the date of the HUD notification to submit the information required to cure the noted deficiencies. The exhibits identified by an asterisk (*) must be dated on or before the application deadline date. If not dated the application will be rejected.

After the completeness review, HUD staff will review your application to determine whether the application meets the threshold requirements.

3. Threshold Review. Only those ALCP applications that meet all threshold requirements will be eligible to receive an award. Applications that do not pass threshold will be rejected. (See Section III.C 2. above for threshold requirements).

4. Appeal Process. Upon rejection of an ALCP application, HUD must send a letter to the Owner outlining all reasons for rejection. The Owner has 14 calendar days from the date of the letter to appeal the rejection. If the Owner submits an appeal, which causes the rejection to be overturned, the application will be rated, ranked, and submitted to the selection panel for consideration. If the Owner does not appeal or does appeal but the rejection is not overturned, the application will remain rejected.

5. Review Panels. The Office of Housing's Multifamily Hubs will establish panels to review all eligible applications that have passed threshold.

6. Rating of Applications. HUD staff teams will review and rate ALCP applications in accordance with the Ranking and Selection procedures outlined below. All applications will be either rated or technically rejected at the end of technical review. If your application meets all program eligibility requirements after completion of technical review, it will be rated according to the rating selection factors in Section V.A. above of this NOFA. HUD reserves the right to reduce the amount requested in the application if any proposed components are ineligible or if the cost of items is not deemed reasonable. HUD will NOT reject an ALCP application based on technical review without notifying you of that rejection with all the reasons for the rejection, and providing you an opportunity to appeal. You will have 14 calendar days from the date of HUD's written notice to appeal a technical rejection to the Multifamily Hub where the applications were sent originally. HUD staff will make a determination on an appeal before finalizing selection recommendations.

7. Ranking and Selection Procedures. Applications submitted in response to this NOFA that are eligible, pass threshold and have a total score of 75 points (or more) are eligible for ranking and selection.

a. Hub staff teams will be established for ALCP review in each geographical area to do the application ratings. After the team's ratings are finalized, the team will place all rated applications within that geographical area in rank order.

b. From within rank order, Hub staff teams in each of the four geographical areas will select the highest ranked applications from within that geographical area in rank order, without regard to which Hub the application was submitted which can be funded from within the dollars available.

c. After making the initial selections, however, HUD may use any residual funds in each geographical area to select the next rank-ordered application by reducing the dollars requested by no more than 10 percent and reducing the number of units proposed, but in no case reducing the number of units below the financial threshold feasibility of five ALF units.

d. Funds remaining after these processes are completed will be returned to HUD Headquarters. HUD Headquarters will use these funds to restore units to any project reduced as a result of using the residual grant funds in a geographical area. Finally, HUD will use these funds for selecting one or more additional applications based on the field staff rating and rankings, beginning with the highest rated application nationwide. Only one application will be selected per geographical area from the national residual amount. If there are no approvable applications in other geographical areas, the process will begin again with the selection of the next highest rated application nationwide. This process will continue until all approvable applications are selected using the available remaining funds. If there is a tie score between two or more applications, and there are insufficient residual funds to cover all tied applications, HUD Headquarters staff will choose the winning application(s) by lottery and/or reduction of grant requests consistent with the instructions above.

VI. Award Administration Information

A. Award Notices

1. The Grant Agreement, and the Form HUD-1044, signed by both the Recipient and Grant Officer, shall serve as the authorizing award documents. Unsuccessful applicants will be notified, by mail, within 30 days of the announcement of the awards.

2. Adjustments to Funding. HUD will not fund any portion of your application that is not eligible for funding under specific program statutory or regulatory requirements; does not meet the requirements of this notice; or may be duplicative of other funded programs or activities. Only the eligible portion of your application will be funded.

3. Applicant Debriefing. All requests for debriefing must be made in writing and submitted to the lead HUD Multifamily Hub in which you applied for assistance. Materials provided to you during your debriefing will include the final scores you received for each rating factor, final evaluator comments for each rating factor, and the final assessment indicating the basis upon which assistance was provided or denied. Information regarding this procedure may be found in the General Section.

B. Administrative and National Policy Requirements. See Section III.C. of this NOFA and the General Section.

C. Reporting

Recipients of funding under this program NOFA shall submit a progress report every six months after the effective date of the Grant Agreement. Every six months owners must report their progress in attaining the goals and objectives they proposed in their ALCP Logic Model that was included in their application. Each semi-annual report must identify any deviations (positive or negative) from outputs and outcomes proposed and approved by HUD, by providing the information in the reporting TAB of the approved Logic Model. For FY2008, HUD is considering a new concept for the Logic Model. The new concept is a Return on Investment statement. HUD will be publishing a separate notice on the ROI concept.

VII. Agency Contacts

A. For Further Information and Technical Assistance. You should contact the HUD Multifamily Hub in your geographical area. For a list of HUD Multifamily Hub Offices, see HUD's Web site at http://www.hud.gov/offices/adm/grants/fundsavail.cfm.

You also may contact Aretha Williams, Director, Grant Policy and Management Division, Room 6138 at (202) 708-3000, extension 2480 for questions regarding the ALF grant award process. This is not a toll-free number. Ms.Williams can be reached by e-mail at Aretha_M._Williams@hud.gov. If you have a hearing or speech impairment, you may access the telephone number via TTY by calling the Federal Information Relay Service at 800-877-8339.

VIII. Other Information

A. Paperwork Reduction Act. The information collection requirements contained in this document have been approved by the Office of Management and Budget (OMB) under the Paperwork Reduction Act of 1995 (4 U.S.C. 3501-3520) and assigned OMB control number 2502-0542. In accordance with the Paperwork Reduction Act, HUD may not conduct or sponsor, and a person is not required to respond to, a collection of information unless the collection displays a currently valid OMB control number. Public reporting burden for the collection of information is estimated to average 2,373 hours per annum per respondent for the application and grant administration. This includes the time for collecting, reviewing, and reporting data for the application, semi-annual reports, and final report. The information will be used for grantee selection and monitoring the administration of funds. Response to this request for information is required in order to receive the benefits to be derived.

B. Appendix. Appendix 1 provides a list of HUD Multifamily Hub Offices. Appendix 1 may be found at HUD's Web site at http://www.hud.gov.

Section 202 Supportive Housing for the Elderly Program

Overview Information

A. Federal Agency Name: Department of Housing and Urban Development, Office of Housing.

B. Funding Opportunity Title: Section 202 Supportive Housing for the Elderly.

C. Announcement Type: Initial announcement.

D. Funding Opportunity Number: FR-5200-N-25; OMB Approval Number is 2502-0267.

E. Catalog of Federal Domestic Assistance (CFDA) Number(s): 14.157, Section 202 Supportive Housing for the Elderly.

F. Dates: The application deadline date is on or before July 10, 2008. Applications must be received and validated by Grants.gov by 11:59:59 p.m. eastern time on the deadline date. Please be sure to read the General Section, published March 19, 2008 (73 FR 14882), for information regarding electronic application submission and receipt requirements.

G. Optional, Additional Overview Content Information

1. Purpose of the Program. This program provides funding for the development and operation of supportive housing for very low-income persons 62 years of age or older.

2. Available Funds. Approximately $431.7 million in capital advance funds, plus associated project rental assistance contract (PRAC) funds and any carryover funds available.

3. Types of Funds. Capital advance funds will cover the cost of developing the housing. PRAC funds will cover the difference between the HUD-approved operating costs of the project and the tenants' contributions toward rent (30 percent of their adjusted monthly income).

4. Eligible Applicants. Private nonprofit organizations and nonprofit consumer cooperatives. (See Section III.C.3.k of this NOFA for further details and information regarding the formation of the Owner corporation).

5. Eligible Activities. New construction, rehabilitation, or acquisition (with or without rehabilitation) of housing. See Section III.C.1 below of this NOFA for further information.

6. Match Requirements. None required.

7. Local HUD Offices. The local HUD office structure, for the purpose of implementing the Section 202 program, consists of 18 Multifamily Hub Offices. Within the Multifamily Hubs, there are Multifamily Program Centers with the exception of the New York Hub, the Buffalo Hub, the Denver Hub and the Los Angeles Hub. All future references shall use the term “local HUD office” unless a more detailed description is necessary as in Limitations on Applications and Ranking and Selection Procedures, below.

Full Text of Announcement

I. Funding Opportunity Description

A. Program Description. HUD provides capital advances and contracts for project rental assistance in accordance with 24 CFR part 891. Capital advances may be used for the construction or rehabilitation of a structure, or acquisition of a structure with or without rehabilitation. Capital advance funds bear no interest and are based on development cost limits in Section IV.E.3. Repayment of the capital advance is not required as long as the housing remains available for occupancy by very low-income elderly persons for at least 40 years.

PRAC funds are used to cover the difference between the tenants' contributions toward rent (30 percent of adjusted income) and the HUD-approved cost to operate the project. PRAC funds may also be used to provide supportive services and to hire a service coordinator in those projects serving frail elderly residents. The supportive services must be appropriate to the category or categories of frail elderly residents to be served.

B. Authority. The Section 202 Supportive Housing for the Elderly Program is authorized by section 202 of the Housing Act of 1959 (12 U.S.C. 1701q), as amended by section 801 of the Cranston-Gonzalez National Affordable Housing Act (Pub. L. 101-625; approved November 28, 1990); the Housing and Community Development Act of 1992 (Pub. L. 102-550; approved October 28, 1992); the Rescissions Act (Pub. L. 104-19; enacted on July 27, 1995); the American Homeownership and Economic Opportunity Act of 2000 (Pub. L. 106-569; approved December 27, 2000); and the Consolidate Appropriations Act, 2008 (Pub. L. 110-161; approved December 26, 2007).

C. Calculation of Fund Reservation. If selected, you will receive a fund reservation that will consist of both a reservation of capital advance funds and a reservation of three years for project rental assistance.

1. Capital Advance Funds. The reservation of capital advance funds is based on a formula which takes the development cost limit for the appropriate building type (elevator, non-elevator) and unit size(s) and multiplies it by the number of units of each size (including a unit for a resident manager, if applicable) and then multiplies the result by the high cost factor for the area. The development cost limits can be found in Section IV.E.3. of this NOFA.

2. PRAC Funds. The initial PRAC award covers three years. The amount awarded is determined by multiplying the number of revenue units for elderly persons by the appropriate operating cost standard times 3. The operating cost standards will be published by Notice.

II. Award Information

A. Available Funds. For FY2008, approximately $431.7 million is available for capital advances for the Section 202 Supportive Housing for the Elderly Program. The Consolidate Appropriations Act, 2008 (Pub. L. 110-161; approved December 26, 2007) provides approximately $735 million for capital advances, including amendments to capital advance contracts, for supportive housing for the elderly as authorized by Section 202 of the Housing Act of 1959 (12 U.S.C. 1701q), as amended by section 801 of the Cranston-Gonzalez National Affordable Housing Act (Pub. L. 101-625, approved November 28, 1990), for project rental assistance, amendments to contracts for project rental assistance, and the renewal of expiring contracts for such assistance for up to a one-year term, for supportive housing for the elderly under section 202(c)(2) of the Housing Act of 1959 as well as the amount of $1.4 million to be transferred to the Working Capital Fund. Additionally, of the amount appropriated, approximately $60,000,000 is provided for Service Coordinators and the continuation of Congregate Services grants, up to $24,750,000 is provided for Assisted Living Conversion grants and Emergency Capital Repairs, and approximately $20,000,000 is provided for a Section 202 Demonstration Pre-Development Grant Program.

The announcement of the availability of the funds for the Assisted Living Conversion program is covered elsewhere in this NOFA.

The announcement of the availability of funds for Emergency Capital Repairs will be addressed in a separate Federal Register publication.

In accordance with the waiver authority provided in the Consolidate Appropriations Act, 2008 (Pub. L. 110-161; approved December 26, 2007), the Secretary is waiving the following statutory and regulatory provision: The term of the project rental assistance contract is reduced from 20 to 3 years. HUD anticipates that at the end of the contract terms, renewals will be approved subject to the availability of funds. In addition to this provision, HUD will reserve project rental assistance contract funds based on 75 percent rather than on 100 percent of the current operating cost standards for approved units in order to take into account the average tenant contribution toward rent.

The allocation formula used for Section 202 reflects the “relevant characteristics of prospective program participants,” as specified in 24 CFR 791.402(a). The FY2008 formula consists of one data element from the 2000 Census: Number of one-person elderly renter households (householder age 62 and older) with incomes at or below the applicable Section 8 very low-income limit, and with housing conditions. Housing conditions are defined as paying more than 30 percent of income for gross rent, or occupying a unit lacking some or all kitchen or plumbing facilities, or occupying an overcrowded unit (1.01 persons per room or more). To view the exact income limits for a particular area of the country you may access the FY2008 Income Limit Documentation System at: http://www.huduser.org/datasets/il/il08/index.html.

Under Section 202, 85 percent of the total capital advance amount is allocated to metropolitan areas and 15 percent to nonmetropolitan areas. In addition, each local HUD office jurisdiction receives sufficient capital advance funds for a minimum of 20 units in metropolitan areas and 5 units in nonmetropolitan areas. The total amount of capital advance funds to support these minimum set-asides are subtracted from the respective (metropolitan or nonmetropolitan) total capital advance amounts available. The remainder is fair shared to each local HUD office jurisdiction whose fair share exceeds the minimum set-aside based on the allocation formula fair share factors described below.

Note: The allocations for metropolitan and nonmetropolitan portions of the local HUD office jurisdictions reflect the definitions of metropolitan and nonmetropolitan areas as of the June 2003 definitions by the Office of Management and Budget.

A fair share factor is developed for each metropolitan and nonmetropolitan portion of each local HUD office jurisdiction by dividing the number of elderly renter households in the respective metropolitan and nonmetropolitan portion of the jurisdiction by the total number of elderly rental households in the metropolitan and nonmetropolitan portions of the United States. The resulting percentage for each local HUD office jurisdiction is then adjusted to reflect the relative cost of providing housing among the local HUD office jurisdictions. The adjusted needs percentage for the applicable metropolitan or nonmetropolitan portion of each jurisdiction is then multiplied by the respective total remaining capital advance funds available nationwide. Based on the allocation formula, HUD has allocated the available capital advance funds as shown on the following chart:

BILLING CODE 4210-01-C

B. Type of Award. Capital Advance and Project Rental Assistance Contract Funds for new Section 202 applications.

C. Type of Assistance Instrument. The Agreement Letter stipulates the terms and conditions for the Section 202 fund reservation award as well as the submission requirements following the fund reservation award. The duration of the fund reservation award for the capital advance is 18 months from the date of issuance of the fund reservation.

D. Anticipated Start and Completion Date. Immediately upon your acceptance of the Agreement Letter, you are expected to begin work toward the submission of a Firm Commitment Application, which is the next application submission stage. You are required to submit a Firm Commitment Application to the local HUD office within 180 days from the date of the Agreement Letter. Initial closing of the capital advance and start of construction of the project are expected to be accomplished within the duration of the fund reservation award period as indicated in the above paragraph regarding the Type of Assistance Instrument. Final closing of this capital advance is expected to occur no later than six months after completion of project construction.

III. Eligibility Information

A. Eligible Applicants. Private nonprofit organizations and nonprofit consumer cooperatives that meet the threshold requirements contained in the General Section and Section III.C.2. of this NOFA are the only eligible applicants under this Section 202 program. Neither a public body nor an instrumentality of a public body is eligible to participate in the program.

Applicant eligibility for purposes of applying for a Section 202 fund reservation under this NOFA has not changed; i.e., all Section 202 Sponsors and Co-Sponsors must be private nonprofit organizations and nonprofit consumer cooperatives. However, the Owner corporation, when later formed by the Sponsor, may be (1) a single-purpose private nonprofit organization that has tax-exempt status under Section 501(c)(3) or Section 501(c)(4) of the Internal Revenue Code of 1986, (2) nonprofit consumer cooperative, or (3) for purposes of developing a mixed-finance project pursuant to the statutory provision under Title VIII of the American Homeownership and Economic Opportunity Act of 2000, a for-profit limited partnership with a private nonprofit organization as the sole general partner.

See Section III.C.3.b. regarding limits on the total number of units and projects for which you may apply for funding.

B. Cost Sharing or Matching. No cost sharing or match is required; however, you are required to make a commitment to cover the estimated start-up expenses, the minimum capital investment of one-half of one percent of the HUD-approved capital advance, not to exceed $10,000 or for a national Sponsor not to exceed $25,000, and any funds required in excess of the capital advance, including the estimated cost of any amenities or features (and operating costs related thereto) which are not covered by the capital advance. You make such a commitment by signing the Form HUD-92042, Sponsor's Resolution for Commitment to Project in Exhibit 8(g) of the application found in Section IV.B.

C. Other

1. Eligible Activities. Section 202 capital advance funds must be used to finance the development of housing through new construction, rehabilitation, or acquisition with or without rehabilitation. Capital advance funds may also be used in combination with other non-Section 202 funding sources leveraged by a for-profit limited partnership (of which a single-purpose private nonprofit organization is the sole general partner) to develop a mixed-finance project, including a mixed-finance project for additional units for the elderly over and above the Section 202 units. The development of a mixed-use project in which the Section 202 units are mortgaged separately from the other uses of the structure is not considered a mixed-finance project. Project rental assistance funds are provided to cover the difference between the HUD-approved operating costs and the amount the residents pay (each resident pays 30 percent of adjusted income) as well as to provide supportive services to frail elderly residents.

Note: For purposes of approving Section 202 capital advances, HUD will consider proposals involving mixed-financing for additional units over and above the Section 202 units. However, you must obtain funds to assist the additional units with other than PRAC funds. HUD will not provide PRAC funds for non-Section 202 units.

A portion of the PRAC funds (not to exceed $15 per unit/per month) may be used to cover some of the cost of any supportive services for those frail elderly or those elderly determined to be at-risk of being institutionalized. The balance of the cost for services must be paid for from sources other than the capital advance or PRAC funds. Also, the cost of employing a service coordinator for those projects serving principally the frail elderly (when at least 25 percent of the residents will be frail or determined to be at-risk of being institutionalized) is an eligible use of PRAC funds. Section 202 projects receiving Congregate Housing Services assistance under Section 802 of the National Affordable Housing Act are not eligible to use capital advance or PRAC funds for supportive services or the cost of a service coordinator.

2. Threshold Requirements for Funding Consideration. In addition to the threshold criteria outlined in the General Section, the following threshold requirements must be met:

a. Non-Responsive Application. Your application will be considered non-responsive to the NOFA and will not be accepted for processing if you:

(1) Requested and received approval to submit a paper application and you submit less than the required number of paper copies. Applicants receiving waiver approval to submit a paper application must follow the instructions in the approval notification regarding where to submit the application and the number of copies required. Failure to submit paper applications to the appropriate local HUD office by that office's close of business on the application deadline date will deem the application late and therefore ineligible for funding consideration;

(2) Submit paper copies of the application if you have not received approval from HUD for a waiver of the electronic submission requirements;

(3) Submit a substantially deficient application (i.e., a majority of the required exhibits, are not submitted with your application, particularly, but not limited to, those exhibits which are not curable). HUD reserves the right to determine whether your application is substantially deficient for purposes of determining whether the application is non-responsive to the NOFA. Refer to Section IV.B., Content of Form of Application Submission, for information on the required exhibits for submission with your application to ensure that your application is complete at time of submission;

(4) Request more units than were allocated in either the metropolitan or nonmetropolitan allocation category to the local HUD office that will be reviewing your application or 125 units, whichever is less (see the allocation chart in Section II.A. above);

(5) Request less than the minimum number of 5 units per site;

(6) Request assistance for an ineligible activity as defined in Section IV.E., Funding Restrictions, of this program NOFA; or

(7) Are an ineligible applicant (see Section III.A, Eligible Applicants of this program NOFA).

b. Other Criteria.

(1) You, or a co-Sponsor, must have experience in providing housing or services to elderly persons.

(2) You and any co-Sponsor must be eligible private nonprofit organizations or nonprofit consumer cooperatives with tax exempt status under Internal Revenue Service code.

(3) Your application must contain acceptable evidence of the following:

(a) Evidence of Site Control. You must provide evidence of site control as described in this section and Exhibit 4(d)(i) of Section IV.B. of this NOFA.

(b) Historic Preservation. You are required to send a letter to the State/Tribal Historic Preservation Officer (SHPO/THPO) that attempts to initiate consultation with their office and requests their review of your determinations and findings with respect to the historical significance of your proposed project. A sample letter to the SHPO/THPO that you may adapt for your use, if you so choose, is available on HUD's Web site at http://www.hud.gov/offices/adm/grants/fundsavail.cfm. You must include a copy of your letter to the SHPO/THPO in your application and a statement that you have not received a response letter(s) from the SHPO/THPO or a copy of the response letter(s) received from the SHPO/THPO.

(c) Contamination. HUD must determine if a proposed site contains contamination, such as hazardous waste, petroleum, or petroleum products, and, if so, HUD must be satisfied that it is eliminated to the extent necessary to meet non site-specific federal, state or local health standards. You must assist HUD by doing the following:

(i) Phase I Environmental Site Assessment (ESA). You must undertake and submit a Phase I ESA, prepared in accordance with the ASTM Standard E 1527-05, as amended, using the table of contents and report format specified at Appendix X4 thereto, completed or updated as specified at Section 4.6 thereto no earlier than 180 days prior to the application deadline date. The Phase I ESA must be completed and submitted with the application. Therefore, it is important that you start the Phase I ESA process as soon after publication of the SuperNOFA as possible.

Note: A Phase I ESA that is not properly updated, does not use the report format specified at Appendix X4 of ASTM Standard E 1527-05, or that is prepared in accordance with an older version of ASTM E 1527 will result in a technical rejection of your application.

To help you choose an environmentally safe site, HUD invites you to review the documents “Choosing an Environmentally Safe Site” and “Supplemental Guidance, Environmental Information”, which are available on the HUD Web site at http://www.hud.gov/offices/adm/grants/fundsavail.cfm.

(ii) Phase II ESA. If the Phase I ESA indicates the possible presence of contamination and/or hazards, you must decide whether to continue with this site or choose another site. Should you choose another site, the same Phase I ESA process identified above must be followed for the new site. However, if you choose to continue with the original site on which the Phase I ESA indicated contamination or hazards, you must undertake a detailed Phase II ESA by an appropriate professional. In order for your application to be considered for review under this FY2008 funding competition, the Phase II must be received by the local HUD office on or before August 11, 2008.

(iii) Clean-up—If the Phase II ESA reveals site contamination, the extent of the contamination and a plan for clean-up of the site must be submitted to the local HUD office. The plan for clean-up must include a contract for remediation of the problem(s) and an approval letter from the applicable federal, state, and/or local agency with jurisdiction over the site. In order for your application to be considered for review under the FY2008 funding competition, this information must be received by the local HUD office on or before August 11, 2008. If the above information is not received by the local HUD office by that date, the application will be rejected.

Note: Clean-up could be an expensive undertaking. You must pay for the cost of any clean-up and/or remediation with sources other than the capital advance funds. If the application is approved, clean-up must be completed prior to initial closing. Completion of clean-up means that HUD must be satisfied that the contamination has been eliminated to the extent necessary to meet non site-specific federal, state or local health standards, with no active or passive remediation still taking place, no capping over of any contamination, and no monitoring wells. However, it is acceptable if contamination remains solely in groundwater that is at least 25 feet below the surface.

(d) Asbestos. Asbestos is a hazardous substance commonly used in building products until the late 1970s. Therefore, you must submit one of the following with your application:

(i) If there are no pre-1978 structures on the site or if there are pre-1978 structures, that most recently consisted of solely four or fewer units of single-family housing including appurtenant structures thereto, a statement to this effect, or

(ii) If there are pre-1978 structures on the site, other than for a site that most recently consisted of solely four or fewer units of single-family housing including appurtenant structures thereto, a comprehensive building asbestos survey that is based on a thorough inspection to identify the location and condition of asbestos throughout any structures. In those cases where suspect asbestos is found, it would either be assumed to be asbestos or would require confirmatory testing. If the asbestos survey indicates the presence of asbestos or the presence of asbestos is assumed, and if the application is approved, HUD will condition the approval on an appropriate mix of asbestos abatement and an asbestos Operations and Maintenance Plan.

(4) There must be a market need for the number of units proposed in the area of the project location.

(5) You are required to include a Supportive Services Plan that describes the supportive services proposed to be provided to the anticipated occupants, including a description of the public or private funds that are expected to fund the proposed services and the manner in which the services will be provided to the proposed residents (see Exhibit 5 in Section IV.B. of this NOFA). You must not require residents to accept any supportive services as a condition of occupancy or admission.

(6) Delinquent Federal Debt. Refer to the General Section for information regarding delinquent federal debt.

3. Program Requirements. By signing Form HUD-92015-CA, Supportive Housing for the Elderly Section 202, Application for Capital Advance Summary Information, you are certifying that you will comply with all program requirements listed in the General Section as well as the following requirements:

a. Statutory and Regulatory Requirements. In addition to the statutory, regulatory, threshold and public policy requirements listed in the General Section and in this NOFA, you must comply with all statutory and regulatory requirements that govern the Section 202 program.

b. Application/Project Size Limits.

(1) Application Limits Applicable to Sponsors or Co-Sponsors. A Sponsor or Co-sponsor may not apply for more than 200 units of housing for the elderly in a single Hub or more than 10 percent of the total units allocated to all HUD offices. Affiliated entities (organizations that are branches or offshoots of a parent organization) that submit separate applications are considered a single entity for the purpose of this limit.

(2) Maximum Project Size. No single application may propose the development of a project for more than the number of units allocated to a local HUD office (in either the metropolitan or nonmetropolitan allocation category, depending on the location of your proposed project) or 125 units, whichever is less. For example, the local HUD office, which has jurisdiction over the area of your proposed project, was allocated 80 units (metropolitan) and 20 units (nonmetropolitan) for a total of 100 units. You cannot apply for more than 80 units if your proposed project is in a metropolitan area and no more than 20 units if the project is in a nonmetropolitan area. The maximum project size includes a resident manager's unit, if proposed.

(3) Minimum Project Size. The minimum number of units that can be applied for in one application is five units. If the proposed project will be a scattered-site development, the five-unit minimum requirement will apply to each site.

c. Minimum Capital Investment. If selected, you must provide a minimum capital investment of one-half of one percent of the HUD-approved capital advance amount, not to exceed $10,000 in accordance with 24 CFR 891.145, with the following exception: If you, as Sponsor or Co-Sponsor, have one or more Section 202 or one or more Section 811 project(s) under reservation, construction, or management in two or more different HUD geographical regions (Hubs), the minimum capital investment shall be one half of one percent of the HUD-approved capital advance amount, not to exceed $25,000.

d. Accessibility. Your project must meet accessibility requirements published at 24 CFR 891.120, 24 CFR 891.210, and Section 504 of the Rehabilitation Act of 1973 and its implementing regulations at 24 CFR Part 8, and, if new construction, the design and construction requirements of the Fair Housing Act and HUD's implementing regulations at 24 CFR part 100. In addition, 24 CFR 8.4(b)(5) prohibits the selection of a site or location which has the purpose or effect of excluding persons with disabilities from the federally assisted program or activity. Refer to Section V.A. below and the General Section for information regarding the policy priority of encouraging visitability and universal design.

e. Conducting Business in Accordance with HUD Core Values and Ethical Standards. You are not subject to the requirements of 24 CFR parts 84 and 85 as outlined in the General Section, except that the disposition of real property may be subject to 24 CFR part 84. However, you are still subject to the core values and ethical standards as they relate to the conflict of interest provisions in 24 CFR 891.130. To ensure compliance with the program's conflict of interest provisions, you are required to sign a Sponsor's Conflict of Interest Resolution, Form HUD 92041, and include it in your Section 202 application. Further, if awarded a Section 202 fund reservation, the officers, directors, board members, trustees, stockholders and authorized agents of the Section 202 Sponsor and Owner entities will be required to submit to HUD individual certifications regarding compliance with HUD's conflict of interest requirements.

f. National Environmental Policy Act. You must comply with the National Environmental Policy Act of 1969 (NEPA) (42 U.S.C. 4321) and applicable related environmental authorities at 24 CFR 50.4, HUD's programmatic implementing regulations at 24 CFR part 50 and 24 CFR 891.155(b), especially, but not limited to, the provision of information to HUD at 24 CFR 50.31(b), and you must comply with any environmental “conditions and safeguards” at 24 CFR 50.3(c).

Under 24 CFR part 50, HUD has the responsibility for conducting the environmental reviews. HUD will commence the environmental review of your project upon receipt of your completed application. However, HUD cannot approve any site unless it first completes the environmental review and finds that the site meets its environmental requirements. In rare cases where HUD is not able to complete the environmental review, it is due to a complex environmental issue that could not be resolved during the time period allocated for application processing. Thus, HUD requires you to attempt to obtain comments from the State/Tribal Historic Preservation Officer (see Exhibit 4(d)(ix) of Section IV.B. below) to help HUD complete the environmental review on time. It is also why HUD may contact you for additional environmental information. So that you can review the type of information that HUD needs for its preparation of the environmental review, the type of information requests that HUD may make to you, and the criteria that HUD uses to determine the environmental acceptability of a site, you are invited to go to the following Web site to view the HUD form 4128, including the Sample Field Notes Checklist, which HUD uses to record the environmental review: http://www.hud.gov/utilities/intercept.cfm?/offices/cpd/energyenviron/environment/compliance/forms/4128.pdf.

g. Executive Order 13202, Preservation of Open Competition and Government Neutrality Towards Government Contractors' Labor Relations on Federal and Federally Funded Construction Projects. Refer to the General Section.

h. Fair Housing Requirements. Refer to the General Section for information regarding fair housing requirements.

i. Economic Opportunities for Low and Very Low-Income Persons (Section 3). You must comply with Section 3 of the Housing and Urban Development Act of 1968, 12 U.S.C. 1701u (Economic Opportunities for Low and Very Low-Income Persons) and its implementing regulations at 24 CFR part 135. You must ensure that training, employment and other economic opportunities shall, to the greatest extent feasible, be directed toward low and very low-income persons, particularly those who are recipients of government assistance for housing and to business concerns which provide economic opportunities to low and very low-income persons in the area in which the proposed project will be located. To comply with Section 3 requirements you are hereby certifying that you will strongly encourage your general contractor and subcontractors to participate in local apprenticeship programs or training programs registered or certified by the Department of Labor's Office of Apprenticeship, Training, Employer and Labor Services or recognized State Apprenticeship Agency. To receive up to two (2) points, you must submit, under Exhibit 3(j), a description on how you plan to incorporate the Section 3 requirements into your proposed project with goals for expanding training and employment opportunities for low and very low-income (Section 3) residents as well as business concerns.

j. Design and Cost Standards. You must comply with HUD's Section 202 design and cost standards (24 CFR 891.120 and 891.210), the Uniform Federal Accessibility Standards (24 CFR 40.7), Section 504 of the Rehabilitation Act of 1973 and HUD's implementing regulations at 24 CFR part 8, and for covered multifamily dwellings designed and constructed for first occupancy after March 13, 1991, the design and construction requirements of the Fair Housing Act and HUD's implementing regulations at 24 CFR part 100, and, where applicable, the Americans with Disabilities Act of 1990.

k. Formation of Owner Corporation. You must form an Owner entity (in accordance with 24 CFR 891.205) after issuance of the capital advance fund reservation and must cause the Owner entity to file a request for determination of eligibility and a request for capital advance, and must provide sufficient resources to the Owner entity to ensure the development and long-term operation of the project, including capitalizing the Owner entity at firm commitment processing in an amount sufficient to meet its obligations in connection with the project over and above the capital advance amount.

l. Davis-Bacon. You must comply with the Davis-Bacon requirements (12 U.S.C. 1701q(j)(5)) and the Contract Work Hours and Safety Standards Act in accordance with 24 CFR 891.155(d).

4. Energy Efficiency.

HUD has adopted a wide-ranging energy action plan for improving energy efficiency in all program areas. As a first step in implementing the energy plan, HUD, the Environmental Protection Agency (EPA) and the Department of Energy (DoE) have signed a joint partnership to promote energy efficiency in HUD's affordable housing efforts and programs. The purpose of the Energy Star partnership is not only to promote energy efficiency of the affordable housing stock, but also to help protect the environment.

Although it is not a requirement, you are encouraged to promote energy efficiency in design and operation of your proposed project and your application will receive one point if you describe your plans for doing so in the proposed project. You are urged especially to purchase and use Energy Star-labeled products. For further information about Energy Star, see http://www.energystar.gov, or call 1-888-STAR-YES (1-888-782-7937) or for the hearing-impaired, 1-888-588-9920 TTY.

IV. Application and Submission Information

Applicants are required to submit an electronic application unless they receive a waiver of the requirement in accordance with the procedures in Section IV.C. of this NOFA. See the General Section for information on electronic application submission and timely submission and receipt requirements.

A. Address to Request Application Package. All information required to complete and return a valid application is included in the General Section and this NOFA, including other related documents. Applicants may download the application and instructions from the Grants.gov Web site at http://www.grants.gov/applicants/apply_for_grants.jsp. If you have difficulty accessing the information you may call the Grants.gov Support Desk toll free 800-518-GRANTS or e-mail your questions to Support@Grants.gov. See the General Section for information regarding the registration process or ask for registration information from the Grants.gov Support Desk.

You may request general information, copies of the General Section and NOFA (including related documents), from the NOFA Information Center (800-HUD-8929), Monday through Friday, except on federal holidays. Persons with hearing and speech impairments may access the above number via TTY by calling the toll-free Federal Relay Service at 800-877-8339. When requesting information, please refer to the name of the program in which you are interested.

B. Content and Form of Application Submission. The exhibits to be included in your application are contained in the body of this NOFA. Before preparing your application, you should carefully review the requirements of the regulations (24 CFR part 891) and general program instructions in Handbook 4571.3 REV-1, Section 202 Capital Advance Program for Housing the Elderly. Note: Section 1001 of Title 18 of the United States Code (Criminal Code and Criminal Procedure, 72 Stat. 967) applies to all information supplied in the application submission. (18 U.S.C. 1001, among other things, provides that whoever knowingly and willfully makes or uses a document or writing containing any false, fictitious, fraudulent statement or entry, in any matter within the jurisdiction of any department or agency of the United States, shall be fined not more than $10,000 or imprisoned for not more than five years, or both.)

The Application for a Section 202 Capital Advance consists of four parts with a total of eight Exhibits. Included with the eight Exhibits are prescribed forms, certifications and resolutions. The components of the Application are:

• Part 1—Application Form for Section 202 Supportive Housing—Capital Advance (Exhibit 1).

• Part 2—Your Ability to Develop and Operate the Proposed Project (Exhibits 2 and 3).

• Part 3—The Need for Supportive Housing for the Target Population in the Area to be Served, Site Control and Suitability of Site, Adequacy of the Provision of Supportive Services and of the Proposed Project (Exhibits 4 and 5).

• Part 4—General Application Requirements, Certifications and Resolutions (Exhibits 6 through 8).

The following additional information, which may assist you in preparing your application, is available on HUD's Web site at http://www.hud.gov/offices/adm/grants/fundsavail.cfm:

• Listing of Local HUD Offices.

• Letter Requesting SHPO/THPO Review.

• Choosing an Environmentally Safe Site.

• Supplemental to Choosing an Environmentally Safe Site.

Your application must include all of the information, materials, forms, and exhibits listed below (unless you were selected for a Section 202 fund reservation within the last three funding cycles). If you qualify for this exception, you are not required to submit the information described in Exhibits 2(a), (b), and (c), which are the articles of incorporation, (or other organizational documents), Bylaws, and the IRS tax exemption, respectively. If there has been a change in any of these documents since your previous HUD approval, you must submit the updated information in your application. The local HUD office will verify your previous HUD approval by checking the project number and approval status with the appropriate local HUD office based on the information submitted.

In addition to this relief of paperwork burden in preparing applications, you will be able to use information and exhibits previously prepared for prior applications under Section 202, Section 811, or other funding programs. Examples of exhibits that may be readily adapted or amended to decrease the burden of application preparation include, among others, those on previous participation in the Section 202 or Section 811 programs, your experience in the provision of housing and services, supportive services plans, community ties, and experience serving minorities.

For programmatic information, you MUST contact the appropriate local HUD office about the submission of applications within the jurisdiction of that Office. A listing of the local HUD offices is available on HUD's Web site at http://www.hud.gov/offices/adm/grants/fundsavail.cfm.

Please submit your application using the following format provided in this NOFA. For applications to be submitted electronically, in which you have created files to be attached to the electronic application, you should number the pages of the attached file and include a header that identifies the exhibit that it relates to. Please be sure to follow the file labeling and file format instructions in the General Section.

For applicants that have received a waiver of the electronic application submission, you must number the pages of each file, narratives and other attached files. Include the name of your organization, your DUNS number, and the exhibit number that you are responding to on the header of each document.

1. Table of Contents.

a. Part I—Application Form.

(1) Exhibit 1: Form HUD-92015-CA Application for Capital Advance Summary Information.

b. Part II—Ability to Develop/Operate Project.

(1) Exhibit 2: Legal Status.

(a) Organizational Documents.

(b) Bylaws.

(c) IRS Tax Exemption Ruling.

(2) Exhibit 3: Purpose/Community Ties/Experience.

(a) Purpose(s), current activities, etc.

(b) Community ties, description of area.

(c) Other Funding Sources.

(d) Letters of support.

(e) Housing/Supportive Services experience.

(f) Involvement of target population.

(g) Practical solutions.

(h) Project Development Timeline.

(i) Form HUD-27300, America's Affordable Communities Initiative/Removal of Regulatory Barriers (HUD Communities Initiative Form on Grants.gov), with supporting documentation.

(j) Section 3 requirements.

c. Part III—Need for Housing, Site Requirements, Proposed Services.

(1) Exhibit 4: Project Information.

(a) Evidence of need for project.

(b) Benefit to population/community.

(c) Narrative project description:

(i) Building design;

(ii) Energy efficiency features;

(iii) Mixed-financing for additional units.

(d) Site control and zoning:

(i) Site control documents;

(ii) Freedom of site from restrictions;

(iii) Zoning requirements;

(iv) URA site notification requirements;

(v) Topographical/demographical description of site/area and opportunities for minorities;

(vi) Racial composition/map of site;

(vii) Phase I ESA;

(viii) Asbestos Statement/Survey;

(ix) SHPO/THPO requirements.

(2) Exhibit 5: Supportive Services Plan.

(a) Description of services.

(b) Other funding sources.

(c) How services will be provided.

d. Part IV—Requirements/Certifications/Resolutions.

(1) Exhibit 6: Other Applications.

(a) FY08 Sections 202/811 applications to other Offices.

(b) Information on FY07 and prior years' Sections 202/811 applications.

(2) Exhibit 7: Required information on:

(a) All property occupants;

(b) Relocation costs/services;

(c) Staff to carry out relocation;

(d) Occupant move-outs within past 12 months;

(e) Issuance of general information notice and advisory services information.

(3) Exhibit 8: Forms/Certifications/Resolutions.

(a) SF-424 Application for Federal Assistance;

(b) SF-424 Supplement “Survey on Ensuring Equal Opportunities for Applicants” (Faith Based EEO Survey (SF-424 SUPP) on Grants.gov);

(c) SF-LLL, Disclosure of Lobbying Activities;

(d) HUD-2880. “Applicant/Recipient Disclosure/Update Report” (HUD Applicant Recipient Disclosure Report on Grants.gov);

(e) HUD-2991 Certification of Consistency with the Consolidated Plan;

(f) HUD-92041 Sponsor's Conflict of Interest Resolution;

(g) HUD-92042 Sponsor's Resolution for Commitment to Project;

(h) HUD-2990 Certification of Consistency with the RC/EZ/EC-II Strategic Plan (if applicable);

(i) HUD-96010 Program Outcome Logic Model;

(j) HUD-96011 “Third Party Documentation Facsimile Transmittal” (Facsimile Transmittal Form on Grants.gov). This is to be used as the cover page for faxing third party information for electronic applications only. Please refer to the General Section for a detailed discussion.

(k) HUD-2994-A Form HUD-2994A—You are Our Client! Grant Applicant Survey (Optional).

2. Programmatic Applications Requirements.

a. Part I—Application Form for Section 202 Supportive Housing—Capital Advance.

(1) Exhibit 1—Form HUD-92015-CA, Supportive Housing for the Elderly Section 202, Application for Capital Advance Summary Information. A copy of the form is available in the instructions download at http://www.grants.gov/applicants/apply_for_grants.jsp.

b. Part II—Your Ability to Develop and Operate the Proposed Project.

(1) Exhibit 2—Evidence of your legal status (i.e., evidence of your status as a private nonprofit organization or nonprofit consumer cooperative). If another organization(s) is co-sponsoring the application with you, each co-sponsor must also submit the following:

(a) Articles of Incorporation, constitution, or other organizational documents;

(b) Bylaws;

(c) IRS tax exemption ruling (this must be submitted by all Sponsors, including churches).

Note: Based on a HUD review of your articles of incorporation, constitution, or other organizational documents, HUD must determine, among other things, that (1) you are an eligible private nonprofit entity and are not a public body or an instrumentality of a public body, (2) your corporate purposes are sufficiently broad to provide you the legal authority to sponsor the proposed project for the elderly, to assist the Owner, and to apply for a capital advance, (3) no part of the Sponsor's net earnings inures to the benefit of any private party, and (4) that you are not controlled by or under the direction of persons seeking to derive profit or gain therefrom. [EXCEPTION: If you received a section 202 fund reservation within the last three funding cycles, you are not required to submit the documents described in (a), (b), and (c) above. Instead, submit the project number of the latest application and the local HUD office to which it was submitted. If there have been any modifications or additions to the subject documents, indicate such, and submit the new material.]

(2) EXHIBIT 3—Your purpose, community ties and experience:

(a) A description of your purpose(s), current activities, including your ability to enlist volunteers and raise private and local funds, and how long you have been in existence.

(b) A description of your ties to the community in which your project will be located and to the minority and elderly communities in particular, including a description of the specific geographic area(s) in which you have served.

(c) A description of other funding sources for the project (including financial assistance, donation of land, provision of services, etc.).

(d) Letters of support for your organization and for the proposed project from organizations familiar with the housing and supportive services needs of the target population that you expect to serve in the proposed project.

(e) A description of your housing and/or supportive services experience. The description should include any rental housing projects and/or supportive services facilities that you sponsored, own and/or operate, your past or current involvement in any programs other than housing that demonstrates your management capabilities (including financial management) and experience, your experience in serving the target population (the elderly and/or families and minorities); and the reasons for receiving any increases in fund reservations for developing and/or operating previously funded Section 202 or Section 811 projects. The description should include data on the facilities and services provided, the racial/ethnic composition of the populations served, if available, and information and testimonials from residents or community leaders on the quality of the activities. Examples of activities that could be described include housing counseling, nutrition and food services, special housing referral, screening and information projects.

(f) A description of your efforts to involve members of the target population (elderly persons, including minority elderly persons) in the development of the application as well as your intent to involve the target population in the development and operation of the project.

(g) A description of the practical solutions you will implement which will enable residents of your project to achieve independent living. In addition, describe the educational opportunities you will provide for the residents and how you will provide them. This description should include any activities that will enhance the quality of life for the residents. And, finally, describe how your proposed project will be an improved living environment for the residents when compared to their previous place of residence.

(h) Describe your plan for completing the proposed project. Completion of Exhibit 8(i), Program Outcome Logic Model, will respond to this exhibit. The Logic Model must list the major development stages for the project with associated measures that must be met in order to get the project to initial closing and start of construction within the 18-month fund reservation period, full completion of the project, and final closing

(i) A description of the successful efforts the jurisdiction in which your project will be located has taken in removing regulatory barriers to affordable housing. To obtain up to 2 points for this policy priority, you must complete the optional Form HUD-27300, “Questionnaire for HUD's Initiative on Removal of Regulatory Barriers” and provide the necessary URL references or submit the documentary evidence. This exhibit is optional, but to obtain up to 2 points for this policy priority, you must submit this information using Form HUD-27300 and include the necessary URL references or other documentary evidence and contact information. When providing documents in support of your responses to the questions on the form, please provide the applicant name and project name and whether you were responding under column A or B, then identify the number of the question and the URL or document name and attach using the attachment function at the end of the electronic form. This exhibit will be used to rate your application under Rating Factor 3(j).

(j) A description on how you plan to incorporate the Section 3 requirements into your proposed project with goals for expanding training and employment opportunities for low- and very low-income (Section 3) persons as well as business concerns in the area in which the proposed project will be located. This exhibit is optional, but to obtain up to 2 points for this policy priority, you must submit this exhibit and adequately address your plans to provide opportunities to train and employ low- and very low-income residents of the project area and award substantial contracts to persons residing in the project area.

c. Part III—The Need for Supportive Housing for the Target Population, Site Control and Suitability of Site, Adequacy of the Provision of Supportive Services and of the Proposed Project

(1) Exhibit 4—Need and Project Information:

(a) Evidence of need for supportive housing. Include a description of the category or categories of elderly persons the housing is intended to serve and evidence demonstrating sustained effective demand for supportive housing for that population in the market area to be served, taking into consideration the occupancy and vacancy conditions in existing federally assisted housing for the elderly (HUD and the Rural Housing Service (RHS)) e.g., public housing, state or local data on the limitations in activities of daily living among the elderly in the area; aging in place in existing assisted rentals; trends in demographic changes in elderly population and households; the numbers of income eligible elderly households by size, tenure and housing condition; the types of supportive services arrangements currently available in the area; and the use of such services as evidenced by data from local social service agencies or agencies on aging. Also, a description of how information in the community's or (where applicable) the state's Consolidated Plan, Analysis of Impediments to Fair Housing Choice (AI) or other planning document that analyzes fair housing issues was used in documenting the need for the project.

(b) A description of how the proposed project will benefit the target population and the community in which it will be located.

(c) Description of the project.

(i) Narrative description of the building design including a description of the number of units with bedroom distribution, any special design features, including any features that incorporate visitability standards and universal design, amenities, and/or commercial and community spaces, and how this design will facilitate the delivery of services in an economical fashion and accommodate the changing needs of the residents over the next 10-20 years.

Note: If the community spaces, amenities, or features do not comply with the project design and cost standards of 24 CFR 891.120(a) and (c), the special standards of 24 CFR 891.210, and the limitation on bedroom unit sizes as required by paragraph 1-11.B.4. of HUD Handbook 4571.3 REV-1, you must demonstrate your ability and willingness to contribute both the incremental development cost and continuing operating cost associated with the community spaces, amenities, or features.

(ii) Describe how the project will promote energy efficiency, including any plans to incorporate energy efficiency measures in the design, construction, and operation of the project and the use of Energy Star labeled products and appliances. Refer to the General Section for additional guidance.

(iii) If you are proposing to develop a mixed-finance project by developing additional units for the elderly (i.e., in addition to the 202 units), a description of any plans and actions you have taken to create such a mixed-finance project with the use of Section 202 capital advance funds, in combination with other funding sources. Provide the number of non-Section 202 units to be included in the mixed-finance project (also provide the number of additional units in the appropriate space on Form HUD-92015-CA). Also, provide copies of any letters you have sent seeking outside funding for the non-Section 202 units and any responses thereto. You also must demonstrate your ability to proceed with the development of a Section 202 project, as proposed in your application, in the event you are later unable to obtain the necessary outside funding. NOTES: (1) If approved for a reservation of capital advance funds, you will be required to submit, with your Firm Commitment Application, the additional documents required by HUD for mixed-finance proposals. (2) A mixed-finance project does not include the development of a mixed-use project in which the Section 202 units are mortgaged separately from the other uses of the structure.

(d) Evidence of site control and permissive zoning.

(i) Acceptable evidence of site control is limited to any one of the following:

(A) Deed or long-term leasehold which evidences that you have title to or a leasehold interest in the site. If a leasehold, the term of the lease must be at least 50 years with renewable provisions for 25 years, except for sites on Indian trust land, in which case, the term of the lease must be at least 50 years with no requirement for extensions;

(B) Contract of sale for the site that is free of any limitations affecting the ability of the seller to deliver ownership to you after you receive and accept a notice of Section 202 capital advance. (The only condition for closing on the sale can be your receipt and acceptance of the capital advance.) The contract of sale cannot require closing earlier than the Section 202 closing;

(C) Option to purchase or for a long-term leasehold, which must remain in effect for six months from the date on which the applications are due, must state a firm price binding on the seller, and be renewable at the end of the six-month period. The only condition on which the option may be terminated is if you are not awarded a fund reservation;

(D) If the site is covered by a mortgage under a HUD program, (e.g., a previously funded Section 202 or Section 811 project or an FHA-insured mortgage) you must submit evidence of site control as described above and evidence that consent to release the site from the mortgage has been obtained or has been requested from HUD (all required information in order for a decision on the request for a partial release of security must have been submitted to the local HUD office) and from the mortgagee, if other than HUD. Approval to release the site from the mortgage must be done before the local HUD office makes its selection recommendations to HUD Headquarters. Refer to Chapter 16 of HUD Handbook 4350.1 REV-1, Multifamily Asset Management and Project Servicing, for instructions on submitting requests to the local HUD office for partial release of security from a mortgage under a HUD program; or

(E) For sites to be acquired from a public body, evidence is needed that the public body possesses clear title to the site and has entered into a legally binding agreement to lease or convey the site to you after you receive and accept a notice of Section 202 capital advance. The same requirements for site control are applicable to sites to be acquired from public bodies as are applicable to sites to be acquired from other entities. Where HUD determines that time constraints of the funding round will not permit you to obtain all of the required official actions (e.g., approval of Community Planning Boards) that are necessary to convey publicly-owned sites, you may include in your application a letter from the mayor or director of the appropriate local agency indicating that conveyance or leasing of the site is acceptable without imposition of additional covenants or restrictions, and only contingent on the necessary approval action. Such a letter of commitment will be considered sufficient evidence of site control but only if the commitment does not contain restrictions or qualifications that would be unacceptable in the case of other entities. Where a public housing site is to be acquired from a public housing agency (PHA), the PHA must have applied to HUD for permission to dispose of the site or received approval of the disposition from HUD.

(ii) Whether you have title to the site, a contract of sale, an option to purchase, or are acquiring a site from a public body, you must provide evidence (a current title policy or other acceptable evidence) that the site is free of any limitations, restrictions, or reverters which could adversely affect the use of the site for the proposed project for the 40-year capital advance period under HUD's regulations and requirements (e.g., reversion to seller if title is transferred). If the title evidence contains restrictions or covenants, copies of the restrictions or covenants must be submitted with the application. If the site is subject to any such limitations, restrictions, or reverters, the application will be rejected. Purchase money mortgages that will be satisfied from capital advance funds are not considered to be limitations or restrictions that would adversely affect the use of the site. If the contract of sale or option agreement contains provisions that allow a Sponsor not to purchase the property for reasons such as environmental problems, failure of the site to pass inspection, or the appraisal is less than the purchase price, then such provisions are not objectionable and a Sponsor is allowed to terminate the contract of sale or the option agreement.

Note: A proposed project site may not be acquired or optioned from a general contractor (or its affiliate) that will construct the Section 202 project or from any other development team member.

(iii) Evidence that the project, as proposed, is permissible under applicable zoning ordinances or regulations or a statement of the proposed action required to make the proposed project permissible and the basis for the belief that the proposed action will be completed successfully before the submission of the firm commitment application (e.g., a summary of the results of any requests for rezoning and/or the procedures for obtaining special or conditional use permits on land in similar zoning classifications and the time required for such rezoning, or preliminary indications of acceptability from zoning bodies, etc.).

(iv) Evidence of compliance with the URA requirement that the seller has been provided, in writing, with the required information regarding a voluntary, arm's length purchase transaction (i.e., (1) applicant does not have the power of eminent domain and, therefore, will not acquire the property if negotiations fail to result in an amicable agreement, and (2) of the estimate of the fair market value of the property).

Note: A certification for this requirement is not sufficient. Evidence must be submitted to meet this requirement. This information should have been provided before making the purchase offer. However, in those cases where there is an existing option or contract, the seller must be provided the opportunity to withdraw from the agreement or transaction, without penalty, after this information is provided.

(v) Narrative describing topographical and demographic aspects of the site, the suitability of the site and area (as well as a description of the characteristics of the neighborhood), how use of the site will promote greater housing opportunities for minority elderly and elderly persons with disabilities (if applicable), and how use of the site will affirmatively further fair housing.

Note: You can best demonstrate your commitment to affirmatively furthering fair housing by describing how your proposed activities will assist the jurisdiction in overcoming impediments to fair housing choice identified in the applicable jurisdiction's Analysis of Impediments (AI) to Fair Housing Choice, which is a component of the jurisdiction's Consolidated Plan or any other planning document that addresses fair housing issues. The applicable Consolidated Plan and AI may be the community's, the county's, or the state's, to which input should have been provided by local community organizations, agencies in the community and residents of the community. Alternatively, a document that addresses fair housing issues and remedies to barriers to fair housing in the community that was previously prepared by a local planning, or similar organization, may be used. Applicable impediments could include the need for improved housing quality and services for elderly minority families, lack of affirmative marketing and outreach to minority elderly persons, and the need for quality eldercare services within areas of minority concentration when compared with the type and quality of similar services and housing in nonminority areas.

(vi) A map showing the location of the site, the racial composition of the neighborhood, and any areas of racial concentration.

Note: For this competition, when determining the racial and ethnic composition of the neighborhood surrounding the proposed site, use data from the 2000 Census of Population. Data from the 2000 Census may be found at: http://www.factfinder.census.gov/servlet/BasicFactsServlet.

(vii) A Phase I Environmental Site Assessment (ESA), in accordance with the ASTM Standard E 1527-05, as amended, using the table of contents and report format specified at Appendix X4 thereto and completed or updated as specified at Section 4.6 thereto, must be undertaken and completed by you and submitted with the application. In order for the Phase I ESA to be acceptable, it must have been completed or updated no earlier than 180 days prior to the application deadline date. Therefore, it is important to start the site assessment process as soon after the publication of the NOFA as possible.

Note: A Phase I ESA that is not properly updated, does not use the report format specified at Appendix X4 of ASTM Standard E 1527-05, or that is prepared in accordance with an older version of ASTM E 1527 will result in a technical rejection of your application.

If the Phase I ESA indicates possible presence of contamination and/or hazards, you must decide whether to continue with this site or choose another site. Should you choose another site, the same Phase I ESA process identified above must be followed for the new site. If you choose to continue with the original site on which the Phase I ESA indicated contamination or hazards, you must undertake a detailed Phase II ESA by an appropriate professional. If the Phase II Assessment reveals site contamination, you must submit the extent of the contamination and a plan for clean-up of the site including a contract for remediation of the problem(s) and an approval letter from the applicable federal, state, and/or local agency with jurisdiction over the site to the local HUD office. The Phase II ESA and any necessary plans for clean-up do not have to be submitted with the application but must be received by the local HUD office by August 11, 2008. If it is not received by that date, the application will be rejected.

Note: You must pay for the cost of any clean-up or remediation which can be very expensive. See note at Section III.C.2.b.(3)(c)(iii).

(viii) You must submit one of the following:

(A) If there is no pre-1978 structures on the site or if there are pre-1978 structures, that most recently consisted of solely four or fewer units of single-family housing including appurtenant structures thereto, a statement to this effect, or

(B) If there are pre-1978 structures on the site, other than for a site that most recently consisted of solely four or fewer units of single-family housing including appurtenant structures thereto, a comprehensive building asbestos survey that is based on a thorough inspection to identify the location and condition of asbestos throughout any structures.

Note: In those cases where suspect asbestos is found, it would either be assumed to be asbestos or would require confirmatory testing. If the asbestos survey indicates the presence of asbestos, or the presence of asbestos is assumed, and if the application is approved, HUD will condition the approval on an appropriate mix of asbestos abatement and an asbestos Operations and Maintenance Plan.

(ix) Letter to State/Tribal Historic Preservation Officer (SHPO/THPO) and a statement that SHPO/THPO failed to respond to you OR a copy of the response letter received from SHPO/THPO.

(2) Exhibit 5—Supportive Services Plan

(a) A detailed description of the supportive services proposed to be provided to the anticipated occupancy.

(b) A description of public or private sources of assistance that reasonably could be expected to fund the proposed services.

(c) The manner in which such services will be provided to such persons (i.e., on or off-site), including whether a service coordinator will facilitate the adequate provision of such services, and how the services will meet the identified needs of the residents.

Note: You may not require residents, as a condition of admission or occupancy, to accept any supportive services.

d. Part IV—General Application Requirements, Certifications and Resolutions

(1) Exhibit 6: Other Applications

(a) A list of the applications, if any, you are submitting to any other local HUD office in response to the FY2008 Section 202 or Section 811 NOFA. Indicate by local HUD office the proposed location by city and state and the number of units requested in each application.

(b) Include a list of all FY2007 and prior years approved Section 202 and Section 811 capital advance projects to which you are a party. Identify each by project number and local HUD office and include the following information:

(i) Whether the project has initially closed and, if so, when;

(ii) If the project was older than 24 months when it initially closed (specify how old) or if older than 24 months now (specify how old) and has not initially closed, provide the reasons for the delay in closing;

(iii) Whether amendment money was or will be needed for any project in (ii) above, including the amount of the amendment money; and,

(iv) Those projects that have not been finally closed.

(2) Exhibit 7: A statement that:

(a) Identifies all persons (families, individuals, businesses and nonprofit organizations) by race/minority group, and status as owners or tenants occupying the property on the date of submission of the application for a capital advance.

(b) Indicates the estimated cost of relocation payments and other services.

(c) Identifies the staff organization that will carry out the relocation activities.

(d) Identifies all persons that have moved from the site within the past 12 months and the reasons for their moves.

(e) Indicates that all persons occupying the site have been issued the appropriate required General Information Notice and advisory services information receipt required, either at the time the option to acquire the property is executed, or at the time the application is submitted.

Note: If any of the relocation costs will be funded from sources other than the Section 202 capital advance, you must provide evidence of a firm commitment of these funds. When evaluating applications, HUD will consider the total cost of proposals (i.e., cost of site acquisition, relocation, construction and other project costs).

EXHIBIT 7 IS REQUIRED FOR ALL SECTION 202 APPLICATIONS.

(3) EXHIBIT 8: Standard Forms, Certifications and Resolutions. You are required to submit completed copies of the following forms, which are available in the instructions download at http://www.grants.gov/applicants/apply_for_grants.jsp.

(a) Standard Form 424-Application for Federal Assistance, including a DUNS number, an indication of whether you are delinquent on any federal debt, and compliance with Executive Order 12372 (a certification that you have submitted a copy of your application, if required, to the State agency (Single Point of Contact/(SPOC)) for state review in accordance with Executive Order 12372). If the SPOC requires a review of your application, you must include in your Section 202 application, a copy of the cover letter sent to the SPOC. Refer to Section IV.D. of this NOFA for additional information on compliance with Executive Order 12372. If you are located in a state that does not have a SPOC, please indicate such.

Note: For Section 202 program purposes, in Item 12, Areas Affected by Project, of SF-424, provide the names of the City, County and State where the project will be located (not the largest political entities as indicated on the instructions page of SF-424).

(b) Standard Form 424-Supplement, Survey on Ensuring Equal Opportunity for Applicants (“Faith-Based EEO Survey (SF-424 SUPP)” on Grants.gov). Although the information on this form will not be considered in making funding decisions, it will assist the federal government in ensuring that all qualified applicants have an equal opportunity to compete for federal funding.

(c) Standard Form LLL—Disclosure of Lobbying Activities (if applicable). A disclosure of activities conducted that may influence any federal transactions.

(d) Form HUD-2880, Applicant/Recipient Disclosure/Update Report (“HUD Applicant Recipient Disclosure Report” on Grants.gov), including Social Security and Employee Identification Numbers. A disclosure of assistance from other government sources received in connection with the project.

(e) Form HUD-2991, Certification of Consistency with the Consolidated Plan (Plan) for the jurisdiction in which the proposed project will be located. The certification must be made by the unit of general local government if it is required to have, or has, a complete Plan. Otherwise, the certification may be made by the state or by the unit of general local government if the project will be located within the jurisdiction of the unit of general local government authorized to use an abbreviated strategy, and if it is willing to prepare such a Plan. All certifications must be made by a public official responsible for submitting the Plan to HUD. The certifications must be submitted as part of the application by the application submission deadline date set forth in the NOFA. The Plan regulations are published in 24 CFR part 91.

(f) Form HUD-92041, Sponsor's Conflict of Interest Resolution. A certified Board Resolution that no officer or director of the Sponsor or Owner has or will have any financial interest in any contract with the Owner or in any firm or corporation that has or will have a contract with the Owner, including a current listing of all duly qualified and sitting officers and directors by title and the beginning and ending dates of each person's term.

(g) Form HUD-92042, Sponsor's Resolution for Commitment to Project. A certified Board Resolution acknowledging responsibilities of sponsorship, long-term support of the project(s), your willingness to assist the Owner to develop, own, manage and provide appropriate services in connection with the proposed project, and that it reflects the will of your membership. Also, it shall indicate your willingness to fund the estimated start-up expenses, the Minimum Capital Investment (one-half of one percent of the HUD-approved capital advance, not to exceed $10,000 or for national Sponsors, not to exceed $25,000), and the estimated cost of any amenities or features (and operating costs related thereto) that would not be covered by the approved capital advance.

(h) Form HUD-2990, Certification of Consistency with the RC/EZ/EC-II Strategic Plan. A certification that the project is consistent with the RC/EZ/EC-II's strategic plan, is located within the RC/EZ/EC-II, and serves RC/EZ/EC-II residents. (This certification is not required if the project site(s) will not be located in a RC/EZ/EC-II.)

(i) Form HUD-96010, Program Outcome Logic Model. In addition to the Project Development Timeline to be submitted in Exhibit 3(h) above, the information provided in the Logic Model will be used in rating your application for Rating Factor 5, Achieving Results and Program Evaluation.

(j) Form HUD-96011, Facsimile Transmittal (“Facsimile Transmittal Form” on Grants.gov). The form HUD-96011 must be used as the coversheet for any facsimile.

If you are not faxing any documents, you must still complete the facsimile transmittal form. In the section of the form titled “Name of Document Transmitting,” enter the words “Nothing Faxed with this Application.” Complete the remaining highlighted fields and enter the number “0” in the section of the form titled “How many pages (including cover) are being faxed?” You must move the form to the right side of the Grants.gov application to open and complete the form. Forms on the right side of the application get uploaded as part of your application submission with the forms getting embedded ID numbers. The embedded ID numbers allow HUD to match your faxes to your application submission. Please refer to the General Section for a detailed discussion.

Note: HUD will not accept entire applications by fax. If you submit the application entirely by fax, it will be disqualified.

(k) Form HUD-2994-A, You Are Our Client Grant Applicant Survey. This is an optional form, which may be used to provide suggestions and comments to the Department regarding your application submission experience.

C. Submission Dates and Time. Your application must be received and validated electronically by Grants.gov no later than 11:59:59 p.m. eastern time on July 10, 2008, the application deadline date, unless a waiver of the electronic delivery process has been approved by HUD in accordance with the following procedures. Applicants that are unable to submit their application electronically must seek a waiver of the electronic grant submission requirement. Wavier requests must be submitted no later than 15 days before the application deadline date. Waiver requests must be submitted by mail or by fax. For this program NOFA, e-mail requests will not be considered. Waiver requests submitted by mail or fax should be submitted on the applicant's letterhead and signed by an official with the legal authority to request a waiver from the Department. The request must be addressed to the Assistant Secretary for Housing at the following address: Brian D. Montgomery, Assistant Secretary for Housing-Federal Housing Commissioner, Department of Housing and Urban Development, 451 Seventh Street, SW., Room 9100, Washington, DC 20410-8000. Waiver requests submitted by fax must be sent to (202) 708-3104.

If a waiver is granted, you must submit the required number of copies of your application to the Director of the appropriate local HUD office, and the application must be received no later than that HUD office's close of business on the application deadline date. The waiver approval notification will identify the appropriate HUD office where the application should be submitted and the required number of copies that must be submitted.

D. Intergovernmental Review

1. State Review. This funding opportunity is subject to Executive Order (EO) 12372, “Intergovernmental Review of Federal Programs.” You must contact your State's Single Point of Contact (SPOC) to find out about and comply with the state's process under EO 12372. The names and addresses of the SPOCs are listed in the Office of Management and Budget's home page at http://www.whitehouse.gov/omb/grants/spoc.html. If required by the state, the submission to the state needs to occur before the Section 202 application deadline date, but in no event later than the application deadline date. It is recommended that you provide the state with sufficient time to review the application. Therefore, it is important that you consult with the SPOC for State review timeframes and take that into account when submitting the application. If the SPOC requires a review of your application, you must include a copy of the cover letter you sent to the SPOC in Exhibit 8(a) of your Section 202 application. If you are located in a state that does not have a SPOC, please indicate that on Exhibit 8(a) of your application.

2. HUD/RHS Agreement. HUD and the Rural Housing Service (RHS) have an agreement to coordinate the administration of the agencies' respective rental assistance programs. As a result, HUD is required to notify RHS of applications for housing assistance it receives. This notification gives RHS the opportunity to comment if it has concerns about the demand for additional assisted housing and possible harm to existing projects in the same housing market area. HUD will consider RHS' comments in its review and application selection process.

E. Funding Restrictions

1. Ineligible Activities. Section 202 funds may not be used for:

a. Nursing homes;

b. Infirmaries;

c. Medical facilities;

d. Mobile homes;

e. Community centers;

f. Headquarters for organizations for the elderly;

g. Residential units without kitchens and/or bathrooms;

h. Refinancing of sponsor-owned facilities without rehabilitation;

i. Housing that you currently own or lease that is occupied by elderly persons; and

j. Projects licensed or to be licensed as assisted living facilities.

Note: You may propose to rehabilitate an existing currently-owned or leased structure that does not already serve elderly persons, except that the refinancing of any federally-funded or assisted project or project insured or guaranteed by a federal agency is not permissible under this Section 202 NOFA. HUD does not consider it appropriate to utilize scarce program resources to refinance projects that have already received some form of assistance under a federal program. (For example, Section 202 or Section 202/8 direct loan projects cannot be refinanced with capital advances and project rental assistance.)

2. Application Limits (Units/Projects). Refer to Section III.C. of this NOFA for information applicable to the limitations on the number of units you may apply for in a single application and the project sizes.

3. Development Cost Limits.

a. The following development cost limits, adjusted by locality as described in Section IV.E.3.b. below must be used to determine the capital advance amount to be reserved for projects for the elderly.

Note: The capital advance funds awarded for this project are to be considered the total amount of funds that the Department will provide for the development of this project. Amendment funds will only be provided in exceptional circumstances (e.g., to cover increased costs for construction delays due to litigation or unforeseen environmental issues resulting in a change of sites) that are clearly beyond your control. Otherwise, you are responsible for any costs over and above the capital advance amount provided by the Department as well as any costs associated with any excess amenities and design features.

(1) The capital advance amount for the project attributable to dwelling use (less the incremental development cost and the capitalized operating costs associated with any excess amenities and design features and other costs you must pay for) may not exceed:

Non-elevator structures:

$48,328 per family unit without a bedroom;

$55,722 per family unit with one bedroom;

$67,202 per family unit with two bedrooms;

For elevator structures:

$50,859 per family unit without a bedroom;

$58,300 per family unit with one bedroom;

$70,893 per family unit with two bedrooms.

(2) These cost limits reflect those costs reasonable and necessary to develop a project of modest design that complies with HUD minimum property standards; the accessibility requirements of § 891.120(b); and the project design and cost standards of § 891.120 and § 891.210.

b. Increased development cost limits.

(1) HUD may increase the development cost limits set forth above, by up to 140 percent in any geographic area where the cost levels require, and may increase the development cost limits by up to 160 percent on a project-by-project basis. This increase may include covering additional costs to make dwelling units accessible through rehabilitation.

Note: In applying the applicable high cost percentage, the local HUD Office may use a percentage that is higher or lower than that which is assigned to the local HUD Office if it is needed to provide a capital advance amount that is comparable to what it typically costs to develop a Section 202 project in that area.

(2) If HUD finds that high construction costs in Alaska, Guam, the Virgin Islands, or Hawaii make it infeasible to construct dwellings, without sacrificing sound standards of construction, design, and livability, within the development cost limits provided in sections IV.E.3.a.(1) and IV.E.3.b.(1) above, the amount of the capital advances may be increased to compensate for such costs. The increase may not exceed the limits established under this section (including any high cost area adjustment) by more than 50 percent.

4. Commercial Facilities. A commercial facility for the benefit of the residents may be located and operated in the Section 202 project. However, the commercial facility cannot be funded with the use of Section 202 capital advance or PRAC funds. The maximum amount of space permitted for a commercial facility cannot exceed 10 percent of the total project floor space. An exception to this 10 percent limitation is if the project involves acquisition or rehabilitation and the additional space was incorporated in the existing structure at the time the proposal was submitted to HUD. Commercial facilities are considered public accommodations under Title III of the Americans with Disabilities Act of 1990 (ADA), and thus must comply with all the accessibility requirements of the ADA.

5. Expiration of Section 202 Funds. The Consolidated Appropriations Act, 2008 requires HUD to obligate all Section 202 funds appropriated for FY2008 by September 30, 2011. Under 31 U.S.C. section 1531, no funds can be disbursed from the account after September 30, 2016. The obligation of Section 202 funds occurs for both capital advances and project rental assistance upon execution of the agreement letter by the Assistant Secretary of Housing. If all funds are not disbursed by HUD and expended by the project Owner by September 30, 2016, the funds, even though obligated, will expire and no further disbursements can be made from this account. In submitting an application you need to carefully consider whether your proposed project can be completed through final capital advance closing and expenditure of PRAC funds no later than September 30, 2016. Furthermore, all unexpended balances, including any remaining balance on PRAC funds, will be cancelled as of October 1, 2016. Amounts needed to maintain PRAC payments for any remaining term on the affected contracts beyond that date will have to be funded from current appropriations, if available.

F. Other Submission Requirements

1. Address for Submitting Applications. Applications must be submitted electronically through the http://www.grants.gov/applicants/apply_for_grants.jsp Web site, unless the applicant receives a wavier from the electronic application submission requirement. See the General Section, Application Submission and Receipt Procedures and Section IV.C. of this NOFA for additional information. Refer to HUD's Web site at http://www.hud.gov/offices/adm/grants/fundsavail.cfm for a listing of local HUD offices. All applications submitted electronically via http://www.grants.gov/applicants/apply_for_grants.jsp will be downloaded and forwarded to the appropriate local HUD office.

2. Special Instructions for Section 202 Applications That Will Have More Than One Applicant, i.e., Co-Sponsors. The applicants must designate a single individual to act as the authorized representative for all co-Sponsors of the application. The designated authorized representative of the organization submitting the application must be registered with Grants.gov, the Federal Central Contractor Registry and with the credential provider for E-Authentication. Information on the Grants.gov registration process is found in Section IV.B. of the General Section. When the application is submitted through Grants.gov, the name of the designated authorized representative will be inserted into the signature line of the application. Please note that the designated authorized representative must be able to make legally binding commitments for each co-Sponsor to the application.

Each co-Sponsor must complete the documents required of all co-sponsoring organizations to permit HUD to make a determination on the eligibility of the co-Sponsor(s) and the acceptability of the application based on the assistance and commitments the co-Sponsor(s) has pledged to the project. Therefore, each co-Sponsor must submit the following information using the scanning and/or faxing method described in Section IV. of the General Section: Standard Form-424, Application for Federal Assistance; Standard Form-424 Supplement, Survey on Ensuring Equal Opportunity for Applicants; Standard Form LLL, Disclosure of Lobbying Activities (if applicable); Form HUD-92015-CA, Section 202 Application for Capital Advance, Summary Information; Form HUD-92041, Sponsor's Conflict of Interest Resolution; and Form HUD-92042, Sponsor's Resolution for Commitment to Project. The forms identified above are discussed in the Program instructions package and can be downloaded from Grants.gov under the program application download at http://www.grants.gov/applicants/apply_for_grants.jsp. The downloaded and completed forms should be saved as separate electronic files and attached to the electronic application submission following the requirements of Section IV.

As stated in the General Section as well as Section IV of this NOFA, scanning documents to create electronic files increases the size of the file. If your computer has the capacity to upload scanned documents, submit your documents with the application by using the Attachment Form in the Mandatory or Optional Forms section of the application. Such documents must be saved according to the instructions provided in the General Section and attached using the “Attachment” form included in the application package downloaded from Grants.gov. Electronic files must be labeled and numbered according to the appropriate Exhibit in order for HUD reviewers to identify the file and its contents. If the applicant is creating an electronic file, the file should contain a header that identifies the name of the Sponsor submitting the electronic application, that Sponsor's DUNS number, and the unique ID that is found at the top of the Facsimile Transmission form found in the electronic application package. The naming convention for each electronic file should correspond to the labeling convention used in the application Table of Contents found in Section IV.B.1. of this program NOFA and the General Section. For example, the organizational documents of a co-Sponsor would be included under Part II, Exhibit 2(a) of the Section 202 application.

Third party letters, certifications requiring signatures, and other information required to be submitted with the electronic application may be scanned or transmitted via fax using Form HUD-96011, Facsimile Transmittal found in the downloaded application package. Applicants should only use the fax method when documents cannot be attached to the electronic application package or when the size of the submission is too large to upload from the applicant's computer. Please note that the facsimile transmittal form, found in the downloaded application, contains an embedded ID number that is unique to your application submission. Make a copy of this facsimile transmittal cover page and provide that copy to the third party for use with the fax transmission. Co-Sponsors should use the form HUD-96011 provided by the Sponsor that is submitting the electronic application. The submitting Sponsor should fill in the SF-424 form prior to giving the Form HUD-96011 to the co-Sponsors. By following these directions, the Form HUD-96011 will be pre-populated with the submitting Sponsor's organizational information exactly as the submitting Sponsor has provided it on the electronic application. In addition, HUD will be using the unique identifier associated to the downloaded application package as a means of matching the faxes submitted with the applications received via Grants.gov. The Facsimile Transmittal form also has space to provide the number of pages being faxed and information on the type of document. Co-Sponsors or the submitting applicant can insert the document name in the space labeled Program Component.

Note: Do not insert any additional or other cover pages as it will cause problems in electronically matching the pieces of the application. See Section IV.B.3. of the General Section for further instructions.

If you are not faxing any documents: Even though you are not faxing any documents, you must still complete the facsimile transmittal form. In the section of the form titled “Name of Document Transmitting,” enter the words “Nothing Faxed with this Application.” Complete the remaining highlighted fields and enter the number “0” in the section of the form titled “How many pages (including cover) are being faxed?” You must move the form to the right side of the Gratns.gov application. Forms on the right side of the application get uploaded as part of your application submission with the forms getting embedded ID numbers. The embedded ID numbers allow HUD to match your faxes to your application submission.

V. Application Review Information

A. Criteria

Policy Priorities. HUD encourages applicants to undertake specific activities that will assist the Department in implementing its policy priorities and which help the Department achieve its strategic goals for FY2008. Refer to the General Section for information regarding HUD's Strategic Goals and Policy Priorities. For the Section 202 program, applicants who include work activities that specifically address the policy priorities of encouraging accessible design features by incorporating visitability standards and universal design, removing barriers to affordable housing, promoting energy efficiency in design, construction, rehabilitation, and operations, and expanding training and employment opportunities for low- and very low-income persons and business concerns (Section 3 requirements), will receive additional points. A Notice pertaining to the removal of barriers to affordable housing was published in the Federal Register and may be downloaded from the HUD Web site at http://www.hud.gov/offices/adm/grants/fundsavail.cfm.

Rating Factors. HUD will rate applications that successfully complete technical processing using the Rating Factors set forth below and in accordance with the application submission requirements in this NOFA. The maximum number of points an application may receive under this program is 102. This includes two (2) RC/EZ/EC-II bonus points, as described in the General Section and Section V.A.6. below.

1. Rating Factor 1: Capacity of the Applicant and Relevant Organizational Staff (25 Points)

This factor addresses the extent to which you have the organizational resources to successfully implement the proposed activities in a timely manner. Submit information responding to this factor in accordance with Application Submission Requirements in Exhibits 3(a), 3(b), 3(e), 5 and 6 of Section IV.B. of this NOFA. In rating this factor, HUD will consider the extent to which your application demonstrates your ability to develop and operate the proposed housing on a long-term basis, considering the following:

a. (15 points). The scope, extent, and quality of your experience in providing housing or related services to those proposed to be served by the project and the scope of the proposed project (i.e., number of units, services, relocation costs, development, and operation) in relationship to your demonstrated development and management capacity as well as your financial management capability.

b. (10 points). The scope, extent and quality of your experience in providing housing or related services to minority persons or minority families and your ties to the community at large and to the minority and elderly communities in particular.

(1) (5 points). The scope, extent, and quality of your experience in providing housing or related services to minority persons or minority families.

(2) (5 points). The scope, extent, and quality of your ties to the community at large and to the minority and elderly communities in particular.

To earn the maximum number of points under sub-criteria (b)(1) above, you must describe significant previous experience in providing housing and/or supportive services to minorities generally and to minority elderly in particular. For the purpose of this competition, “significant previous experience” means that the previous housing assistance or related services to minorities (i.e., the percentage of minorities being provided housing or related services in your current developments) was equal to or greater than the percentage of minorities in the housing market area where the previous housing or services occurred. To earn the maximum number of points under sub-criteria (b)(2) above, you should submit materials that demonstrate your efforts to make housing available to the community at large and the minority and elderly communities in particular and your relationships over time with the minority and elderly communities. Examples of documents that may be submitted to earn the maximum number of points under sub-criteria (b)(2) include letters of support from community leaders (including minority community leaders) that give information about the applicant's relationship over time with the community (including the minority community). You may also submit copies of your affirmative marketing plan and the advertising/outreach materials you utilize to attract minority communities (including limited English proficient communities), elderly communities, and the community at large. Regarding your advertising/outreach materials, you should identify when advertising/outreach materials are circulated, to whom they are circulated, where they are circulated and how they are circulated. Descriptions of other advertising/outreach efforts to the minority (including limited English proficient communities) and elderly communities and the dates and places of such advertising/outreach efforts should also be included.

c. (−3 to −5 points). HUD will deduct (except if the delay was beyond your control) 3 points if a fund reservation you received under either the Section 202 Program of Supportive Housing for the Elderly or the Section 811 Program of Supportive Housing for Persons with Disabilities in FY 2003 or later has been extended beyond 24 months, 4 points if beyond 36 months, or 5 points if beyond 48 months. Examples of such delays beyond your control include, but are not limited to, initial closing delays that are: (1) Directly attributable to HUD, (2) directly attributable to third party opposition, including litigation, and (3) due to a disaster, as declared by the President of the United States.

Note: Percentage calculations will be rounded to the nearest whole number (e.g. 5.5 percent will be rounded to 6 percent and 5.4 percent will be rounded to 5 percent).

d. (−3 to −5 points). HUD will deduct from 3 points to 5 points if HUD amendment money was required in connection with a fund reservation you received under either the Section 202 Program of Supportive Housing for the Elderly or the Section 811 Program of Supportive Housing for Persons with Disabilities in FY 2003 or later based on the following.

(1) (−3 points). The amount of the amendment money required was 25 percent or less of the original capital advance amount approved by HUD.

(2) (−4 points). The amount of the amendment money required was between 26 percent and 50 percent of the original capital advance amount approved by HUD.

(3) (−5 points). The amount of the amendment money required was over 50 percent of the original capital advance amount approved by HUD.

2. Rating Factor 2: Need/Extent of the Problem (13 Points)

This factor addresses the extent to which there is a need for funding the proposed activities to address a documented problem in the target area. Submit information responding to this factor in accordance with Application Submission Requirements in Exhibits 4(a) and 4(b) of Section IV.B. of this NOFA. HUD will take into consideration the following in evaluating this factor:

The extent of the need for the project in the area based on a determination by the local HUD Office. In making this determination, HUD will consider your evidence of need in the area, as well as other economic, demographic, and housing market data available to the local HUD office. The data should include but is not limited to:

• A general assessment of the current conditions in the market for the type of housing proposed,

• An estimate of the demand for additional housing of the type proposed in the applicable housing market area,

• Information on the numbers and types of existing comparable Federally assisted housing units for the elderly (HUD and RHS) and current occupancy in such housing and recent market experience,

• Comparable assisted housing for the elderly under construction or for which fund reservations have been issued, and

• In accordance with an agreement between HUD and RHS, comments from RHS on the demand for additional comparable subsidized housing and the possible harm to existing projects in the same housing market areas.

The Department will also review more favorably those applications that establish a connection between the proposed project and the community's Analysis of Impediments to Fair Housing Choice (AI) or other planning document that analyzes fair housing issues and is prepared by a local planning or similar organization. You must show how your proposed project will address an impediment to fair housing choice described in the AI or meet a need identified in the other type of planning document.

For all Section 202 projects that are determined to have sufficient demand, HUD will rate your application based on the ratio of the number of units in the proposed project to the estimate of unmet need for housing assistance by the income eligible elderly households with selected housing conditions. Unmet need is defined as the number of very low-income elderly one-person renter households age 75 and older with housing conditions problems, as of the 2000 Census, minus the number of project-based subsidized rental housing units (HUD, RHS, or LIHTC) that are affordable to very low-income elderly provided in the area since 1999. Units to be occupied by resident managers are not counted. After HUD determines the estimate of unmet need and whether a connection has been made between the project and community's Consolidated Plan, Analysis of Impediments to Fair Housing Choice, or other planning document, HUD will rate your application as follows:

a. (10 points). The area of the project has an unmet needs ratio of 15 percent or less; OR (5 points). The area of the project has an unmet needs ratio greater than 15 percent; OR (0 points). The area of the proposed project has no unmet needs for housing assistance.

b. (3 points). The extent that a connection has been established between the project and the community's Consolidated Plan, Analysis of Impediments to Fair Housing Choice (AI) or other planning document that analyzes fair housing issues and is prepared by a local planning or similar organization.

3. Rating Factor 3: Soundness of Approach (45 Points)

This factor addresses the quality and effectiveness of your proposal and the extent to which you involved elderly persons, including elderly minority persons, in the development of the application and will involve them in the development and operation of the project, whether the jurisdiction in which your project will be located has undertaken successful efforts to remove regulatory barriers to affordable housing, whether you will promote energy efficiency in the design, construction, rehabilitation, and operation of the proposed housing, and your plans to expand economic opportunities for low- and very low-income persons as well as certain business concerns (Section 3 requirements). There must be a clear relationship between your proposed design, proposed activities, the community's needs and purposes of the program funding for your application to receive points for this factor. Submit information responding to this factor in accordance with Application Submission Requirements in Exhibits 3(e), 3(f), 3(g), 3(j), 4(c)(i), 4(c)(ii), 4(d)(iii), 4(d)(v), 4(d)(vi), and 5 of Section IV.B. of this NOFA. In evaluating this factor, HUD will consider the following:

a. (18 points). The proximity or accessibility of the site to shopping, medical facilities, transportation, places of worship, recreational facilities, places of employment, and other necessary services to the intended occupants; adequacy of utilities and streets; freedom of the site from adverse environmental conditions; compliance with site and neighborhood standards (24 CFR 891.125(a), (d) and (e)).

b. (8 points). The suitability of the site from the standpoint of promoting a greater choice of housing opportunities for minority elderly persons/families and affirmatively furthering fair housing. In reviewing this criterion, HUD will assess whether the site meets the site and neighborhood standards at 24 CFR 891.125(b) and (c) by examining relevant data in your application or in the local HUD Office. Where appropriate, HUD may visit the site.

(1) The site will be deemed acceptable if it increases housing choice and opportunity by expanding housing opportunities in non-minority neighborhoods (if located in such a neighborhood). The term “non-minority area” is defined as one in which the minority population is lower than 10 percent. If the site will be in a minority neighborhood, the site will be deemed acceptable if it contributes to the revitalization of and reinvestment in the minority neighborhood, including improvement of the level, quality and affordability of services furnished to minority elderly. You should refer to the Site and Neighborhood Standards provisions of the regulations governing the Section 202 Supportive Housing for the Elderly program (24 CFR 891.125(b) and (c)) when considering sites for your project.

(2) For the purpose of this competition, the term “minority neighborhood (area of minority concentration)” is defined as one where any one of the following statistical conditions exists:

(a) The neighborhood's percentage of persons of a particular racial or ethnic minority is at least 20 percentage points higher than the percentage of that particular racial or ethnic minority in the housing market area.

(b) The neighborhood's total percentage of minority persons is at least 20 percentage points higher than the total percentage of minorities in the housing market area; or

(c) In the case of a metropolitan area, the neighborhood's total percentage of minority persons exceeds 50 percent of its population.

c. (2 points). The extent to which your proposed design will meet the special physical needs of elderly persons.

d. (2 points). The extent to which the proposed size and unit mix of the housing will enable you to manage and operate the housing efficiently and ensure that the provision of supportive services will be accomplished in an economical fashion.

e. (2 points). The extent to which the proposed design of the housing will accommodate the provision of supportive services that are expected to be needed, initially and over the useful life of the housing, by the category or categories of elderly persons the housing is intended to serve.

f. (3 points). The extent to which the proposed supportive services meet the identified needs of the anticipated residents and that the identified supportive services will be provided on a consistent, long-term basis.

g. (2 points). The extent to which your project will implement practical solutions that will assist residents in achieving independent living, educational opportunities, and improved living environments. Practical solutions may include but are not limited to activities that will improve access to educational, employment, and health resources.

h. (1 point). The extent to which the proposed design incorporates visitability standards and/or universal design in the construction or rehabilitation of the project. Refer to the General Section for further information.

i. (2 points). Your involvement of elderly persons, particularly minority elderly persons, in the development of the application and your intent to involve elderly persons, particularly minority elderly persons, in the development and operation of the project.

j. (2 points). The extent to which the jurisdiction in which your project will be located has undertaken successful efforts to remove regulatory barriers to affordable housing. (Note: This is an optional requirement, but to receive up to 2 points, the applicant must have submitted the Form HUD-27300, Questionnaire for HUD's Initiative on Removal of Regulatory Barriers, and provided some form of documentation where requested, including point of contact and URL references or submitted the required documentary evidence.) Refer to the General Section for further information.

k. (1 point). The extent to which you will promote energy efficiency in the design, construction, rehabilitation, and operation of the proposed housing. Refer to Section III.C.4. of this NOFA. (Note: Although this is not a requirement, to receive one (1) point, your application must demonstrate that you intend to incorporate energy efficiency measures in the design, construction, rehabilitation, and operation of your project and use Energy Star-labeled products.)

l. (2 points). The extent to which you have described your plans for expanding economic opportunities for low- and very-low income persons (provisions of Section 3). (Note: This is an optional requirement, but to receive up to 2 points, the applicant must have adequately addressed the following in Exhibit 3(j) of the application.) Refer to the General Section for further information.

(1) (1 point). Provide opportunities to train and employ low- and very low-income residents of the project area.

(2) (1 point). Award substantial contracts to persons residing in the project area.

4. Rating Factor 4: Leveraging Resources (5 Points)

This factor addresses your ability to secure other funding sources and community resources that can be combined with HUD's program resources to achieve program purposes. Submit information responding to this factor in accordance with Application Submission Requirements in Exhibits 3(a), 3(b), 3(c), 3(d), 3(e), and 5(b) of Section IV.B. of this NOFA.

Note: Percentage calculations will be rounded to the nearest whole number (e.g. 5.5 percent will be rounded to 6 percent and 5.4 percent will be rounded to 5 percent).

a. (0 point). The application contains general support and/or written evidence of firm commitments towards the development and operation of the proposed project (including, financial assistance, donation of land, provision of services, etc.) from other funding sources (e.g., private, local community, and government sources) where the dollar value totals 5 percent or less of the capital advance amount as determined by HUD.

b. (1 point). The application contains written evidence of firm commitments towards the development and operation of the proposed project (including, financial assistance, donation of land, provision of services, etc.) from other funding sources (e.g., private, local community, and government sources) where the dollar value totals between 6 percent and 10 percent of the capital advance amount as determined by HUD.

c. (2 points). The application contains written evidence of firm commitments towards the development and operation of the proposed project (including, finance, private, local community, and government sources) where the dollar value totals between 11 percent and 15 percent of the capital advance amount as determined by HUD.

d. (3 points). The application contains written evidence of firm commitments towards the development and operation of the proposed project (including, financial assistance, donation of land, provision of services, etc.) from other funding sources (e.g., private, local community, and government sources) where the dollar value totals between 16 percent and 20 percent of the capital advance amount as determined by HUD.

e. (4 points). The application contains written evidence of firm commitments towards the development and operation of the proposed project (including, financial assistance, donation of land, provision of services, etc.) from other funding sources (e.g., private, local community, and government sources) where the dollar value totals between 21 percent and 25 percent of the capital advance amount as determined by HUD.

f. (5 points). The application contains written evidence of firm commitments towards the development and operation of the proposed project (including, financial assistance, donation of land, provision of services, etc.) from other funding sources (e.g., private, local community, and government sources) where the dollar value totals over 25 percent of the capital advance amount as determined by HUD.

5. Rating Factor 5: Achieving Results and Program Evaluation (12 Points)

This factor reflects HUD's goal to embrace high standards of ethics, management and accountability and, as such, emphasizes HUD's commitment to ensuring that you keep the promises made in your application. This factor requires that you develop clear outputs and outcomes that measure your performance during the development of your project. Information provided in Exhibit 8(i), Project Outcome Logic Model (HUD-96010), as well as the Assessment Matrix will be used when reviewing and scoring this factor. This rating factor also addresses the extent to which your past performance demonstrates your ability to develop the project within a timely manner. Submit information responding to this factor in accordance with Application Submission Requirements in Exhibits 3(h), 6(b) and 8(i) of Section IV.B.

a. (10 points). The extent to which your Logic Model demonstrates your full understanding of the development process and will, therefore, result in the timely development of your project.

The following subfactors reflect the criteria for review as identified in the logic model matrix found in the General Section:

(1) (3 points). The extent to which the services/activities identified in your Logic Model are consistent with the information provided in your application as well as the extent to which you demonstrate your full understanding of the activities that must be accomplished in order to develop your project within the required timeframe.

(2) (3 points). The extent to which the outcomes identified in your Logic Model are consistent with the services/activities that must be accomplished in order to get the project to initial closing within the 18-month fund reservation period, completion of the project, and to final closing.

(3) (3 points). The extent to which your projected measures show a realistic understanding of the development process resulting in a timely initial closing, start of construction, and final closing.

(4) (1 point). The extent to which the evaluation tools selected in your Logic Model are consistent with the project described.

b. (2 points). The extent to which your past performance evidences that the proposed project will result in the timely development of the project. Evidence of your past performance could include the development of previous construction projects, including but not limited to Section 202 and Section 811 projects.

6. Bonus Points (2 bonus points). Location of proposed site in an RC/EZ/EC-II area, as described in the General Section. Submit the information responding to the bonus points in accordance with the Application Submission Requirements in Exhibit 8(h) of Section IV.B. of this NOFA.

B. Reviews and Selection Process

1. Review for Curable Deficiencies. Upon receipt of the application by HUD staff, HUD will screen all applications to determine if there are any curable deficiencies. For applicants receiving a waiver to submit a paper application, submitting fewer than the required original and four copies of the application is not a curable deficiency and will cause your application to be considered non-responsive to the NOFA and returned to you. A curable deficiency is a missing Exhibit or portion of an Exhibit that will not affect the rating of the application. Refer to the General Section for additional information regarding procedures for corrections to deficient applications. The following is a list of the only deficiencies that will be considered curable in a Section 202 application:

Curable exhibit | Description
1 | Form 92015-CA (Application Form)*.
2(a) | Articles of Incorporation*.
(b) | Bylaws*.
(c) | IRS tax exemption ruling*.
4(c)(iii) | Description of mixed-financing plans for additional units, if applicable.
4(d)(i)(A) | Deed or long-term leasehold.
4(d(i)(B) | Contract of sale.
4d(i)(C) | Option to purchase or for a long-term leasehold.
4d(i)(E) | Evidence that the public body possess clear title & binding agreement.
4(d)(ii) | Evidence site is free of limitations, restrictions or reverters.
4(d)(iv) | Evidence of compliance with URA site notification requirement.
4(d)(vii) | Phase I ESA.
4(d)(viii) | Asbestos Statement or Survey.
4(d)(ix) | Letter to the State/Tribal Historic Preservation Officer (SHPO/THPO) and a statement that the SHPO/THPO failed to respond.
| OR the Letter from the SHPO/THPO.
7 | Relocation.
8(a) | Letter sent to the State Point of Contact (SPOC)*.
(b) | Standard Form 424 Supplement, Survey on Ensuring Equal Opportunity for Applicants.
(c) | Standard Form LLL, Disclosure of Lobbying Activities, if applicable.
(d) | Form HUD-2880, Applicant/Recipient Disclosure/Update Report.
(e) | Form HUD-2991, Certification of Consistency With Consolidated Plan.
(f) | Form HUD-92041, Sponsor's Conflict of Interest Resolution.
(g) | Form HUD-92042, Sponsor's Resolution for Commitment to Project*.
(k) | Form HUD-2994-A, You Are Our Client! Grant Applicant Survey (optional).

The local HUD office will notify you in writing if your application is missing any of the above exhibits or portions of exhibits and will provide you with a specified deadline to submit the information required to cure the noted deficiencies. The items identified by an asterisk (*) must be dated on or before the application submission date. If an Exhibit or portion of an Exhibit listed above as curable is not discovered as missing until technical processing, HUD will provide you with a deadline to cure the deficiency.

2. Rating. HUD will review and rate your application in accordance with the Reviews and Selection Process in the General Section except as described in “3. Appeal Process” found below. Your application will be either rated or technically rejected at the end of technical review. If your application meets all program eligibility requirements after completion of technical review, it will be rated according to the rating factors in Section V.A. above.

3. Appeal Process. HUD will not reject your application based on technical review without notifying you of the rejection with all the reasons for rejection and providing you an opportunity to appeal. You will have 14 calendar days from the date of HUD's written notice to appeal a technical rejection to the local HUD office. In HUD's review of any appeal, it should be noted that in conformance with its regulations at 24 CFR part 4, subpart B, HUD will not consider any unsolicited information that you, the applicant, may want to provide. The local HUD office will make a determination on any appeals before making its selection recommendations.

4. Ranking and Selection Procedures. Applications submitted in response to the advertised metropolitan allocations or nonmetropolitan allocations that have a total base score of 75 points or more (without the addition of RC/EZ/EC-II bonus points) and meet all of the applicable threshold requirements of the General Section and this NOFA will be eligible for selection, and HUD will place them in rank order per metropolitan or nonmetropolitan allocation. These applications, after adding any bonus points for RC/EZ/EC-II, will be selected based on rank order, up to and including the last application that can be funded out of each HUD Multifamily Program Center's metropolitan or nonmetropolitan allocation. HUD Multifamily Program Centers will not skip over any applications in order to select one based on the funds remaining. After making the initial selections in each allocation area, however, HUD Multifamily Program Centers may use remaining available funds to select the next highest rank-ordered application by reducing the number of units by no more than 10 percent, rounded to the nearest whole number, provided the reduction will not render the project infeasible. For this purpose, however, HUD will not reduce the number of units in projects of five units or less.

Once this process has been completed, HUD Multifamily Program Centers may combine their unused metropolitan and nonmetropolitan funds in order to select the next highest ranked application in either category, using the unit reduction policy described above, if necessary.

After the HUD Multifamily Program Centers have funded all possible projects based on the process above, combined metropolitan and nonmetropolitan residual funds from all HUD Multifamily Program Centers within each Multifamily Hub will be combined. First, these funds will be used to restore units to projects reduced by HUD Multifamily Program Centers based on the above instructions. Second, additional applications within each Multifamily Hub will be selected in Hub-wide rank order with only one application selected per HUD Multifamily Program Center. More than one application may be selected per HUD Multifamily Program Center if there are no approvable applications in other HUD Multifamily Program Centers within the Multifamily Hub. This process will continue until there are no more approvable applications within the Multifamily Hub that can be selected with the remaining funds. Applications may not be skipped over to select one based on funds remaining. However, the Multifamily Hub may use any remaining residual funds to select the next highest rated application by reducing the number of units by no more than 10 percent rounded to the nearest whole number, provided the reduction will not render the project infeasible or result in the project being less than five units.

Funds remaining after the Multifamily Hub selection process is completed will be returned to Headquarters. HUD Headquarters will use these residual funds first to restore units to projects reduced by HUD Multifamily Program Centers or Multifamily Hubs as a result of the instructions for using their residual funds. Second, HUD Headquarters will use these funds for selecting applications based on HUD Multifamily Program Centers' rankings, beginning with the highest rated application nationwide. However, after restoring units to projects where necessary, priority will be given to those applications for projects in nonmetropolitan areas, if necessary to meet the statutory requirement of Section 202 of the Housing Act of 1959 pertaining to Section 202 funding in nonmetropolitan areas. Only one application will be selected per HUD Multifamily Program Center from the national residual amount. If there are no approvable applications in other HUD Multifamily Program Centers, the process will begin again with the selection of the next highest rated application nationwide. This process will continue until all approvable applications are selected using the available remaining funds. HUD Headquarters may skip over a higher-rated application in order to use as much of the available remaining funds as possible.

5. HUD Error. In the event HUD commits an error that, when corrected, would have resulted in the selection of an otherwise eligible applicant during the funding round of this NOFA, HUD may select that applicant when sufficient funds become available.

VI. Award Administration Information

A. Award Notices

1. Agreement Letter. If you are selected to receive a Section 202 fund reservation, you will receive an Agreement Letter that stipulates the terms and conditions for the Section 202 fund reservation award as well as the submission requirements following the fund reservation award. The duration of the fund reservation award for the capital advance is 18 months from the date of issuance of the fund reservation.

Immediately upon your acceptance of the Agreement Letter, you are expected to begin work towards the submission of a Firm Commitment Application, which is the next application submission stage. You are required to submit a Firm Commitment Application to the local HUD office within 180 days from the date of the Agreement Letter. Initial closing of the capital advance and start of construction of the project are expected to be accomplished within the duration of the fund reservation award. Final closing of the capital advance is expected to occur no later than six months after completion of project construction.

2. Non-Selection Letter. If your application is approvable but unfunded due to insufficient funds or receives a rating that is below the minimum threshold score established for funding eligibility, you will receive a letter to this effect.

3. Debriefing. Refer to the General Section for further information regarding debriefings, except that the request for a debriefing must be made to the Director of Multifamily Housing in the appropriate local HUD office.

B. Administrative and National Policy Requirements

1. Ensuring the Participation of Small Businesses, Small Disadvantaged Businesses, and Women-Owned Businesses. Although the Section 202 program is not subject to the provisions of 24 CFR 85.36(e) as described in the corresponding paragraph in the General Section, you are required to comply with Executive Order 12432, Minority Business Enterprise Development and Executive Order 11625, Prescribing Additional Arrangements for Developing and Coordinating a National Program for Minority Business Enterprise as they relate to the encouragement of HUD grantees to utilize minority business enterprises.

2. Acquisition and Relocation. You must comply with the Uniform Relocation Assistance and Real Property Acquisition Policies Act of 1970, as amended (49 CFR part 24, and 24 CFR 891.155(e)) (URA), which covers the acquisition of sites, with or without existing structures, and with 24 CFR 8.4(b)(5) of the Section 504 regulations which prohibits discrimination based on disability in determining the site or location of a federally-assisted facility. However, you are exempt from complying with the site acquisition requirements of the URA if you do not have the power of eminent domain and prior to entering into a contract of sale, option to purchase or any other method of obtaining site control, you inform the seller of the land in writing (1) that you do not have the power of eminent domain and, therefore, you will not acquire the property if negotiations fail to result in an amicable agreement, and (2) of the estimate of the fair market value of the property. An appraisal is not needed to meet this requirement; however, your files must include an explanation (with reasonable evidence) of the basis for the estimate. Evidence of compliance with this advance notice requirement must be included in Exhibit 4(d)(iv) of your application.

3. Flood Disaster Protection Act of 1973 and Coastal Barrier Resources Act. You must comply with the requirements under the Flood Disaster Protection Act of 1973 (42 U.S.C. 4001-4128) and the Coastal Barrier Resources Act (16 U.S.C. 3601).

C. Reporting

1. The Program Outcome Logic Model (Form HUD-96010) must be completed indicating the proposed measures against the proposed activities/output and proposed outcome(s) for the appropriate year. The proposed measures should be entered in the “Pre” column of the form. The Logic Model has been designed to clearly identify the stages of the development process and it must present a realistic annual projection of outputs and outcomes that demonstrates your full understanding of the development process. Using the “Year One” through “Year Three” tabs on the Logic Model, you must demonstrate your ability to ensure that the proposed measures will result in the timely development of your project. To provide for greater consistency in reporting, you must include all activities and outcomes excepted per year of the period of performance. Note: The reported outcome of an identified activity/output may be realized in a different year.

The Logic Model will capture information in two stages. Stage one will demonstrate your ability to develop the project within the required timeframe. This stage will capture data that relates to initial closing, construction, and final closing. Stage one will require the submission of a completed form HUD-96010, Logic Model on an annual basis, beginning with the date of the Agreement Letter and concluding with the date of Final Closing. At the time of the Project Planning Conference, HUD and the applicant will finalize the services and activities in association with this Logic Model and the development timeline. On an annual basis, applicants will report against the finalized logic model by documenting the achieved measures in the “Post” column. (Note: Applicants are not required to complete the YTD (year-to-date) column.) The final reporting requirement for the Logic Model will require that the applicant use the “Total” worksheet to fully document the activities and outcomes as well as the associated measures that have occurred during the period of activities. In addition, a response to each of the program management evaluation questions is required at time of final report.

The second stage will require the Owner to submit a completed form HUD-96010, Logic Model on an annual basis, beginning one year after the date of the final logic model submission that was required in stage one and concluding at the conclusion of the mortgage. Stage two will require the Owner to document the services/activities that are made available to tenants and the expected outcomes of such services.

2. The Regulatory Agreement (Form HUD-92466-CA) requires the Owner of the Section 202 project to submit an annual financial statement for the project. This financial statement must be audited by an Independent Public Accountant who is a Certified Public Accountant or other person accepted by HUD and filed electronically with HUD's Real Estate Assessment Center (REAC) through the Financial Assessment Subsystem for Multifamily Housing (MF-FASS). The submission of annual financial statements is required throughout the 40-year term of the mortgage.

VII. Agency Contact(s)

For Technical Assistance. For technical assistance in downloading an application package from http://www.Grants.gov, contact the Grants.gov help desk at 800-518-Grants or by sending an e-mail to support@grants.gov. For programmatic information, you may contact the appropriate local HUD office, or Alicia Anderson at HUD Headquarters at (202) 708-3000 (this is not a toll-free number), or access the Internet at http://www.hud.gov/offices/adm/grants/fundsavail.cfm. Persons with hearing and speech impairments may access the above number via TTY by calling the Federal Relay Service at 800-877-8339 (this is a toll-free number).

VIII. Other Information

A. Field Office Workshop. HUD encourages minority organizations and grassroots organizations (e.g., civic organizations, faith-communities and grassroots faith-based and other community-based organizations) to participate in this program and strongly recommends that prospective applicants attend the local HUD office workshop. At the workshops, HUD will explain application procedures and requirements, as well as address concerns such as local market conditions, building codes and accessibility requirements, contamination identification and remediation, historic preservation, floodplain management, other environmental requirements, displacement and relocation, zoning, and housing costs. If you are interested in attending the workshop, make sure that your name, address and telephone number are on the appropriate local HUD office's mailing list so that you will be informed of the date, time and place of the workshop. Persons with disabilities should call the appropriate local HUD Office to assure that any necessary arrangements can be made to enable their attendance and participation in the workshop.

If you cannot attend the workshop, call the appropriate local HUD office if you have any questions concerning the submission of applications to that particular office and to request any materials distributed at the workshop.

B. Satellite Broadcast. HUD will hold an information broadcast via satellite for potential applicants to learn more about the program and preparation of the application. It is strongly recommended that potential applicants, especially those who may be applying for Section 202 funding for the first time, tune in to this broadcast, if at all possible. Copies of the broadcast tapes are also available from the NOFA Information Center. For more information about the date and time of the broadcast, you should consult the HUD Web site at http://www.hud.gov/offices/adm/grants/fundsavail.cfm.

C. Related Programs. Funding for a related program, Section 202 Demonstration Pre-Development Grant Program, is available to provide predevelopment grants to private nonprofit organizations and consumer cooperatives in connection with the development of housing under the Section 202 program. The announcement of the availability of funding under this program will be addressed in a separate NOFA.

D. Paperwork Reduction Act

The information collection requirements contained in this document have been approved by the Office of Management and Budget (OMB) under the Paperwork Reduction Act of 1995 (44 U.S.C. 3501-3520) and assigned OMB control number 2502-0267. In accordance with the Paperwork Reduction Act, HUD may not conduct or sponsor, and a person is not required to respond to, a collection of information unless the collection displays a currently valid OMB control number. Public reporting burden for the collection of information is estimated to average 37.42 hours per annum per respondent for the application and grant administration. This includes the time for collecting, reviewing, and reporting the data for the application. The information will be used for grantee selection and monitoring the administration of funds. Response to this request for information is required in order to receive the benefits derived.

Section 811 Program of Supportive Housing for Persons With Disabilities (Section 811 Program)

Overview Information

A. Federal Agency Name: Department of Housing and Urban Development, Office of Housing.

B. Funding Opportunity Title: Section 811 Supportive Housing for Persons with Disabilities.

C. Announcement Type: Initial announcement.

D. Funding Opportunity Number: FR-5200-N-25 OMB Approval Number is 2502-0462.

E. Catalog of Federal Domestic Assistance (CFDA) Number: 14.181, Section 811 Supportive Housing for Persons with Disabilities.

F. Dates: Application deadline date is July 16, 2008. Application must be received and validated by Grants.gov by 11:59:59 p.m. eastern time on the deadline date. Refer to Section IV. below and the General Section, published March 19, 2008 (73 FR 14882) for information on application submission requirements.

G. Optional, Additional Overview Content Information

1. Purpose of the Program. This program provides funding for the development and operation of supportive housing for very low-income persons with disabilities who are at least 18 years old. If you receive funding through this program, you must assure that supportive services are identified and available.

2. Available Funds. Approximately $99.3 million in capital advance funds plus associated project rental assistance contract (PRAC) funds and any carryover funds available.

3. Types of Funds. Capital advance funds will cover the cost of developing the housing. PRAC funds will cover the difference between the HUD-approved operating costs of the project and the tenants' contributions toward rent (30 percent of their adjusted monthly income).

4. Eligible Applicants. Nonprofit organizations that have a section 501(c)(3) tax exemption from the Internal Revenue Service. (See Section III.C.3.m. below of this NOFA for further details and information regarding the formation of the Owner corporation.)

5. Eligible Activities. New construction, rehabilitation, or acquisition (with or without rehabilitation) of housing. (See Section III.C.1. below of this NOFA for further information.)

6. Match Requirements. None required.

7. Local HUD Offices. The local HUD office structure, for the purpose of implementing the Section 811 program, consists of 18 Multifamily Hub Offices. Within the Multifamily Hubs, there are Multifamily Program Centers with the exception of the New York Hub, the Buffalo Hub, the Denver Hub and the Los Angeles Hub. All future references shall use the term “local HUD office” unless a more detailed description is necessary as in Limitations on Applications and Ranking and Selection Procedures, below.

Full Text of Announcement

I. Funding Opportunity Description

A. Program Description. HUD provides capital advances and contracts for project rental assistance in accordance with 24 CFR part 891. Capital advances may be used for the construction or rehabilitation of a structure or acquisition of a structure with or without rehabilitation, to be developed into a variety of housing options described in Section III.C. Capital advance funds bear no interest and are based on development cost limits in Section IV.E.3. Repayment of the capital advance is not required as long as the housing remains available for occupancy by very low-income persons with disabilities for at least 40 years. PRAC funds are used to cover the difference between the tenants' contributions toward rent (30 percent of adjusted income) and the HUD-approved cost to operate the project.

B. Authority. 42 U.S.C. 8013 (Section 811 of the Cranston-Gonzalez National Affordable Housing Act (Pub. L. 101-625, approved November 28, 1990) (NAHA), as amended by the Housing and Community Development Act of 1992) (Pub. L. 102-550, approved October 28, 1992) (HCD Act of 1992); the Rescissions Act (Pub. L. 104-19, approved July 27, 1995); the American Homeownership and Economic Opportunity Act of 2000 (Pub. L. 106-569, approved December 27, 2000) and authorized a new supportive housing program for persons with disabilities, and replaced assistance for persons with disabilities previously covered by section 202 of the Housing Act of 1959 (section 202 continues, as amended by section 801 of the NAHA, and the HCD Act of 1992, to authorize supportive housing for the elderly).

C. Eligible Occupancy. You may propose a Section 811 project to serve persons with physical disabilities, developmental disabilities, chronic mental illness, or any combination of the three as defined in 24 CFR 891.305. In addition, you may request HUD approval to restrict occupancy to a subcategory of one of these three defined categories. If restricted occupancy is approved, however, you cannot deny occupancy to any otherwise qualified person that meets the definition of the overall category of disability under which the subcategory falls.

D. Calculation of Fund Reservation. If selected, you will receive a fund reservation that will consist of both a reservation of capital advance funds and a reservation of three years for project rental assistance.

1. Capital Advance Funds. The reservation of capital advance funds is based on a formula which, for an independent living project (including condominiums), takes the development cost limit for the appropriate building type (elevator, non-elevator) and unit size(s) and multiplies it by the number of units of each size (including a unit for a resident manager, if applicable) and then multiplies the result by the high cost factor for the area. For a group home, the formula is based on the number of persons with disabilities in the appropriate disability category (excluding any unit for a resident manager since such a unit is already incorporated in the development cost limit) multiplied by the high cost factor for the area. The development cost limits can be found in Section IV.E.3. of this NOFA.

2. PRAC funds. The initial PRAC award covers three years. The amount awarded is determined by multiplying the number of units for residents with disabilities in an independent living project or the number of residents with disabilities in a group home by the appropriate operating cost standard times three (3). The operating cost standards will be published by separate Notice.

II. Award Information

A. Available Funds. For FY2008, $99.3 million is available for capital advances for the Section 811 Program of Supportive Housing for Persons with Disabilities. The Consolidated Appropriations Act, 2008 (Pub. L. 110-161), approved December 26, 2007, provides $237 million for capital advances, including amendments to capital advance contracts, for supportive housing for persons with disabilities as authorized by section 811 of the National Affordable Housing Act of 1990 (NAHA); for project rental assistance for supportive housing for persons with disabilities under section 811 of the NAHA, including amendments to contracts for such assistance and renewal of expiring contracts for such assistance for up to a one-year term and for tenant-based rental assistance contracts and renewal of expiring contracts for such assistance entered into pursuant to section 811 of the NAHA, and $600,000 to be transferred to the Working Capital Fund. Approximately $74,745,000 will be provided for tenant-based rental assistance for persons with disabilities administered through public housing agencies (PHAs) and nonprofit organizations under the Mainstream Housing Opportunities for Persons with Disabilities Program.

In accordance with the waiver authority provided in the Consolidated Appropriations Act, 2008 (Pub. L. 110-161), approved December 26, 2007, the Secretary is waiving the following statutory and regulatory provision: The term of the project rental assistance contract is reduced from 20 to 3 years. HUD anticipates that at the end of the contract terms, renewals will be approved subject to annual appropriations. In addition to this provision, HUD will reserve project rental assistance contract funds based on 75 percent rather than on 100 percent of the current operating cost standards for approved units in order to take into account the average tenant contribution toward rent.

The allocation formula used for Section 811 reflects the “relevant characteristics of prospective program participants,” as specified in 24 CFR 791.402(a). The FY2008 formula consists of the following data element from the 2000 Census: The number of non-institutionalized persons age 16 to 64 with a disability. The data on disability status were derived from answers to a two-part question that asked about the existence of the following long-lasting conditions: (a) Blindness, deafness, or a severe vision or hearing impairment (sensory disability) and (b) a condition that substantially limits one or more basic physical activities, such as walking, climbing stairs, reaching, lifting, or carrying (physical disability); and a four-part question that asked if the individual had a physical, mental, or emotional condition lasting 6 months or more that made it difficult to perform certain activities. The four activity categories were: (a) Learning, remembering, or concentrating (mental disability); (b) dressing, bathing, or getting around inside the home (self-care disability); (c) going outside the home alone to shop or visit a doctor's office (going outside the home disability); and (d) working at a job or business (employment disability).

Under the Section 811 Program, each local HUD office jurisdiction receives sufficient capital advance funds for a minimum of 10 units. The total amount of capital advance funds to support this minimum set-aside is then subtracted from the total capital advance available. The remainder is fair shared to each local HUD office jurisdiction whose fair share would exceed the set-aside based on the allocation formula fair share factors describe below.

The fair share factors were developed by taking the number of persons with disabilities in the data element for each state, or state portion, of each local HUD office jurisdiction as a percent of the data element from the 2000 Census, described above, for the total United States. The resulting percentage for each local HUD office is then adjusted to reflect the relative cost of providing housing among the local HUD office jurisdictions. The adjusted needs percentage for each local HUD office is then multiplied by the total amount of capital advance funds available nationwide.

The Section 811 capital advance funds have been allocated based on the formula above, to 51 local HUD offices as shown on the following chart:

BILLING CODE 4210-01-P

B. Type of Award. Capital Advance and Project Rental Assistance Contract Funds for new Section 811 applications.

C. Type of Assistance Instrument. The Agreement Letter stipulates the terms and conditions for the Section 811 fund reservation award as well as the submission requirements following the fund reservation award. The duration of the fund reservation award for the capital advance is 18 months from the date of issuance of the fund reservation.

D. Anticipated Start and Completion Date. Immediately upon your acceptance of the Agreement Letter, you are expected to begin work toward the submission of a Firm Commitment Application, which is the next application submission stage. You are required to submit a Firm Commitment Application to the local HUD office within 180 days from the date of the Agreement Letter. Initial closing of the capital advance and start of construction of the project are expected to be accomplished within the duration of the fund reservation award as indicated in the above paragraph regarding the Type of Assistance Instrument. Final closing of this capital advance is expected to occur no later than six months after completion of project construction.

III. Eligibility Information

A. Eligible Applicants. Nonprofit organizations with a section 501(c)(3) tax exemption from the Internal Revenue Service and who meet the threshold requirements contained in the General Section NOFA and Section III.C.2 below are the only eligible applicants for this program.

Applicant eligibility for purposes of applying for a Section 811 fund reservation under this NOFA has not changed; i.e., all Section 811 Sponsors and Co-Sponsors must be nonprofit organizations. However, the Owner corporation, when later formed by the Sponsor, may be (1) a single-purpose nonprofit organization that has tax-exempt status under Section 501(c)(3) of the Internal Revenue Code (IRS) of 1986, OR (2) for purposes of developing a mixed-finance project pursuant to the statutory provision under Title VIII of the American Homeownership and Economic Opportunity Act of 2000, a for-profit limited partnership with a nonprofit organization that has tax exempt status under Section 501(c)(3) of the IRS code as the sole general partner.

See Section IV.E.2 below regarding limits on the total number of units and projects for which you may apply for funding.

B. Cost Sharing or Matching. No cost sharing or match is required; however, you are required to make a commitment to cover the estimated start-up expenses, the minimum capital investment of one half of one percent of the HUD-approved capital advance, not to exceed $10,000, and any funds required in excess of the capital advance, including the estimated cost of any amenities or features (and operating costs related thereto) which are not covered by the capital advance. You must make such a commitment by signing the form HUD-92042, Sponsor's Resolution for Commitment to Project, in Exhibit 8(g) of the application found in Section IV.B. below.

C. Other

1. Eligible Activities. Section 811 capital advance funds must be used to finance the development of housing through new construction, rehabilitation, or acquisition with or without rehabilitation. Capital advance funds may also be used in combination with other non-Section 811 funding sources leveraged by a for-profit limited partnership (of which a single-purpose nonprofit organization with a 501(c)(3) tax exemption is the sole general partner) to develop a mixed-finance project, including a mixed-finance project for additional units over and above the Section 811 units. A proposal to develop a mixed-use project or the development of a mixed-use project in which the Section 811 units are mortgaged separately from the other uses of the structure is not considered a mixed-finance project and is not allowed. Project rental assistance funds are provided to cover the difference between the HUD-approved operating costs and the amount the residents pay (each resident pays 30 percent of adjusted income). The types of housing that can be developed with Section 811 capital advance funds include independent living projects, dwelling units in multifamily housing developments, condominium and cooperative housing and small group homes.

Note: For purposes of approving Section 811 capital advances, HUD will consider proposals involving mixed-financing for additional units over and above the Section 811 units if you have legal control of an approvable site and the additional units do not cause the project to exceed the project size limits if the additional units will also house persons with disabilities (unless your project will be an independent living project and you request and receive HUD approval to exceed the project size limits (See IV.B.2.c.(1)(d)(xi)). However, you must obtain funds to assist the additional units with other than PRAC funds. HUD will not provide PRAC funds for non-Section 811 units.

2. Threshold Criteria for Funding Consideration. In addition to the threshold criteria outlined in the General Section of the SuperNOFA, the following threshold requirements must be met:

a. Non responsive Application. Your application will be considered non responsive to the NOFA and will not be accepted for processing if you:

(1) Submit less than the required number of copies if you requested and received approval for a waiver of the electronic submission requirement. Applicants receiving waiver approval to submit a paper application must follow the instructions in the approval notification regarding where to submit the application and the number of copies required. All paper applications granted a waiver to the electronic application submission requirement must be submitted to the appropriate local HUD office and received no later than that office's close of business on the application deadline date. Failure to submit paper applications to the appropriate local HUD office by that office's close of business on the application deadline date will deem the application late and therefore ineligible for funding consideration.

(2) submit paper copies of the application if you have not received approval from HUD for a waiver of the electronic submission requirements;

(3) submit a substantially deficient application (i.e., a majority of the required exhibits are not submitted with your application, particularly, but not limited to, those exhibits which are not curable). HUD reserves the right to determine whether your application is substantially deficient for purposes of determining whether the application is non-responsive to the NOFA. Refer to Section IV.B., Content and Form of Application Submission, for information on the required exhibits for submission with your application to ensure that your application is complete at time of submission;

(4) request more units than were allocated to the local HUD office that will be reviewing your application (See the allocation chart in Section II.A. above);

(5) request less than the minimum number of units for persons with disabilities in an independent living project (5 units) or a group home (2 units);

(6) request more than the maximum number of units for a group home (6 units); or

(7) request assistance for housing that you currently own or lease that has been occupied by people with disabilities for longer than one year prior to the application deadline date;

(8) request assistance for an ineligible activity as defined in Section IV.E., Funding Restrictions, of this program NOFA;

(9) are an ineligible applicant (see Section III.A., Eligible Applicants of this program NOFA).

b. Other Criteria.

(1) You, or a Co-Sponsor, must have experience in providing housing or services to persons with disabilities.

(2) You and a Co-Sponsor must be eligible nonprofit organizations with tax-exempt status under Section 501(c)(3) of the Internal Revenue Service code.

(3) Your application must contain evidence of site control or the identification of a site. Section 811(d)(3) of the National Affordable Housing Act requires you to provide either evidence of site control or a reasonable assurance that you will have control of a site within six months of the date of the Agreement Letter notifying you that you have been selected to receive a Section 811 fund reservation. Accordingly, you must include in your application the required information specified below for evidence of site control, or the required information specified below under site identification as a reasonable assurance that site control will be obtained within six months of the date of the Agreement Letter. If you submit the required information for an identified site(s), you must include a specific street address for each identified site or the application will be rejected.

(a) Evidence of Site Control—If you have control of a site at the time you submit your application, you must provide the information in Exhibit 4(d) in Section IV.B. of this NOFA relative to site control; or

(b) Site Identification—If you do not have site control of one or more of your sites, you must provide the information required in Exhibit 4(e) in Section IV.B. of this NOFA under “Identification of a Site” for any site not under control as a reasonable assurance that site control will be obtained within six months of fund reservation notification.

If your application contains evidence of site control where either the evidence or the site is not approvable, your application will not be rejected provided you indicate in your application that you are willing to seek an alternate site and provide an assurance that site control will be obtained within six months of fund reservation notification. During the selection process, all applications with acceptable evidence of site control for all proposed sites and all proposed sites that have been found approvable will be grouped in Category A. All applications that are submitted as “site identified” as well as those that are submitted with site control but the evidence of control and/or site(s) are not approvable (if the Sponsor indicates that it is willing to seek a different site if the proposed site is not approvable) will be grouped in Category B. All applications in Category A will be selected before any applications are selected from Category B. See Section V.B.4. for further information on the selection process.

(c) Historic Preservation. If you submit an application with evidence of site control, you are required to send a letter to the State/Tribal Historic Preservation Officer (SHPO/THPO) that attempts to initiate consultation with their office and requests their review of your determinations and findings with respect to the historical significance of your proposed project. A HUD's Web site at http://www.hud.gov/offices/adm/grants/fundsavail.cfm contains a sample letter to the SHPO/THPO that you may adapt for your use, if you so choose. You must include a copy of your letter to the SHPO/THPO in your application. You must then also include in your application either:

(i) The response letter(s) from the SHPO/THPO, or

(ii) A statement from you that you have not received a response letter(s) from the SHPO/THPO.

(d) Contamination. HUD must determine if a proposed site contains contamination such as hazardous waste, petroleum, or petroleum products, and, if so, HUD must be satisfied that it is eliminated to the extent necessary to meet non site-specific Federal, State or local health standards. If you submit an application with evidence of site control, you must assist HUD by doing the following:

(i) Phase I Environmental Site Assessment (ESA)—You must undertake and submit a Phase I ESA, prepared in accordance with the ASTM Standard E 1527-05, using the table of contents and report format specified at Appendix X4, completed or updated as specified at Section 4.6 no earlier than 180 days prior to the application deadline date in order for the application to be considered as an application with site control. The Phase I ESA must be completed and included in your application. Therefore, it is important that you start the Phase I ESA process as soon after publication of the SuperNOFA as possible. To help you choose an environmentally safe site, HUD invites you to review the document “Choosing An Environmentally Safe Site” and “Supplemental Guidance, Environmental Information”, which are available on HUD's Web site at http://www.hud.gov/offices/adm/grants/fundsavail.cfm.

Note: An application with a Phase I that is not properly updated, does not use the format specified at Appendix X4 of ASTM Standard E 1527-05 or that is prepared in accordance with an older version of ASTM E 1527 will result in the site being rejected and placed in Category B for selection purposes.

(ii) Phase II ESA—If the Phase I ESA indicates the possible presence of contamination and/or hazards, you must decide whether to continue with this site or choose another site. Should you choose another site, the same Phase I ESA process identified above must be followed for the new site. However, if you choose to continue with the original site on which the Phase I ESA indicated contamination or hazards, you must undertake a detailed Phase II ESA by an appropriate professional. In order for your application to be considered as an application with site control, the Phase II must be received in the local HUD office on or before August 18, 2008.

(iii) Clean-up—If the Phase II ESA reveals site contamination, the extent of the contamination and a plan for clean-up of the site must be submitted to the local HUD office. The plan for clean-up must include a contract for remediation of the problem(s) and an approval letter from the applicable federal, state, and/or local agency with jurisdiction over the site. In order for your application to be considered as an application with site control, this information must be received by the appropriate local HUD office on or before August 18, 2008.

Note: Clean-up could be an expensive undertaking. You must pay for the cost of any clean-up and/or remediation with sources other than the capital advance funds. If the application is approved, clean-up must be completed prior to initial closing. Completion of clean-up means that HUD must be satisfied that the contamination has been eliminated to the extent necessary to meet non site-specific federal, state or local health standards, with no active or passive remediation still taking place, no capping over of any contamination, and no monitoring wells. However, it is acceptable if contamination remains solely in groundwater that is at least 25 feet below the surface.

(e) Asbestos. Asbestos is a hazardous substance commonly used in building products until the late 1970s. Therefore, if you submit an application with evidence of site control, you must submit one of the following with your application:

(i) If there are no pre-1978 structures on the site or if there are pre-1978 structures that most recently consisted of solely four or fewer units of single-family housing including appurtenant structures thereto, a statement to this effect, or

(ii) If there are pre-1978 structures on the site, other than for a site that most recently consisted of solely four or fewer units of single-family housing including appurtenant structures thereto, a comprehensive building asbestos survey that is based on a thorough inspection to identify the location and condition of asbestos throughout any structures. In those cases where suspect asbestos is found, it would either be assumed to be asbestos or would require confirmatory testing. If the asbestos survey indicates the presence of asbestos or the presence of asbestos is assumed, and if the application is approved, HUD will condition the approval on an appropriate mix of asbestos abatement and an asbestos Operations and Maintenance Plan.

(4) There must be a market need for the number of units proposed in the area of the project location.

(5) Your application must contain a Supportive Services Plan and a Certification from the appropriate state or local agency that the Supportive Services Plan is well designed to address the individual health, mental health and other needs of persons with disabilities who will live in your proposed project. Exhibit 5 in Section IV.B. below outlines the information that must be in the Supportive Services Plan. You must submit one copy of your Supportive Services Plan to the appropriate State or local agency well in advance of the application submission deadline date for the state or local agency to review your Supportive Services Plan and complete the Certification for Provision of Supportive Services, Form HUD 92043 and return it to you so that you can include it in the application you submit to HUD.

(a) HUD will reject your application if the Certification for Provision of Supportive Services:

(i) Is not submitted with your application and is not submitted to HUD within the 14-day cure period; or

(ii) Indicates that the provision of supportive services is not well designed to address the individual health, mental health and other needs of persons with disabilities who will live in your project; or

(iii) Indicates that the provision of supportive services will not enhance independent living success or promote the dignity of the persons with disabilities who will live in your proposed project.

(b) In addition, if the agency completing the certification will be a major funding or referral source for your proposed project or be responsible for licensing the project, HUD will reject your application if the agency fails to complete item 3 or 4 of the Certification for Provision of Supportive Services or the certification indicates (or where HUD determines) that:

(i) You failed to demonstrate that supportive services will be available on a consistent, long-term basis; and/or

(ii) The proposed housing is not consistent with state or local agency plans/policies addressing the housing needs of people with disabilities.

Any prospective resident of a Section 811 project who believes he/she needs supportive services must be given the choice to be responsible for acquiring his/her own services or to take part in your Supportive Services Plan which must be designed to meet the individual needs of each resident.

You must not require residents to accept any supportive services as a condition of occupancy or admission.

(6) Delinquent Federal Debt. Refer to the General Section for information regarding delinquent federal debt.

3. Program Requirements. By signing Form HUD-92016-CA, Supportive Housing for Persons with Disabilities Section 811, Application for Capital Advance Summary Information, you are certifying that you will comply with the program requirements listed in the General Section as well as the following requirements:

a. Statutory and Regulatory Requirements. In addition to the statutory, regulatory, threshold and public policy requirements listed in the General Section and in this NOFA, you must comply with all statutory, regulatory, and handbook requirements that govern the Section 811 program.

b. Project Size Limits.

(1) Independent living project. The minimum number of units for persons with disabilities that can be applied for in one application is five units. Units may be comprised of efficiency, one, two or more bedrooms with three or more bedroom units restricted to occupancy by families comprised of at least one person 18 years or older with a disability. All of the units are not required to be in one structure and they may be on scattered sites. The maximum number of persons with disabilities that can be housed on one or adjacent sites is 14 plus one additional one- or two-bedroom unit for a resident manager, if necessary. If the proposed independent living project will be located on a site already containing housing for persons with disabilities or on an adjacent site containing such housing, the total number of persons with disabilities housed in both the existing and the proposed project cannot exceed 14.

(2) Exception to project size limit for an independent living project. If you are submitting an application for an independent living project with site control, you may request an exception to the above project size limit by providing the information required in Exhibit 4(d)(xi) of Section IV.B. below.

(3) Group home. The minimum number of persons with disabilities that can reside in a group home is two, and the maximum number is six. There are no exceptions to the maximum project size limit for a group home. An additional one-bedroom unit can be provided for a resident manager. Only one person per bedroom is allowed, unless two residents choose to share one bedroom or a resident determines he/she needs another person to share his/her bedroom. If you are applying for more than one group home, they cannot be located on the same or adjacent sites.

(4) Condominium Units. The total number of condominium units on one or adjacent sites cannot exceed the greater of 14 units or 10 percent of the total units at that site not to exceed 24 units. Units may be comprised of efficiency, one, two or more bedrooms with three or more bedroom units restricted to occupancy by families comprised of at least one person 18 years or older with a disability. You cannot request an additional condominium unit for a resident manager.

c. Minimum Capital Investment. If selected, you must provide a minimum capital investment of one-half of one percent of the HUD-approved capital advance amount, not to exceed a maximum of $10,000 in accordance with 24 CFR 891.145.

d. Accessibility. Your project must meet accessibility requirements published at 24 CFR 891.120, 24 CFR 891.310 and Section 504 of the Rehabilitation Act of 1973, and, if new construction, the design and construction requirements of the Fair Housing Act and HUD's implementing regulations at 24 CFR part 100. In addition, 24 CFR 8.4(b)(5) prohibits the selection of a site or location which has the purpose or effect of excluding persons with disabilities from the Federally assisted program or activity. Refer to Section V.A. below and the General Section for information regarding the policy priority of encouraging accessible design.

e. Conducting Business in Accordance With Core Values and Ethical Standards. You are not subject to the requirements of 24 CFR parts 84 and 85 as outlined in the General Section except for the disposition of real property, which may be subject to 24 CFR part 84. However, you are still subject to the core values and ethical standards as they relate to the conflict of interest provisions in 24 CFR 891.130. To ensure compliance with the program's conflict of interest provisions, you are required to sign a Sponsor's Conflict of Interest Resolution, Form HUD 92041 and include it in your Section 811 application. Further, if awarded a Section 811 fund reservation, the officers, directors, board members, trustees, stockholders and authorized agents of the Section 811 Sponsor and Owner entities will be required to submit to HUD individual certifications regarding compliance with HUD's conflict of interest requirements.

f. National Environmental Policy Act. You must comply with the National Environmental Policy Act of 1969 (NEPA) (42 U.S.C. 4321) and applicable related environmental authorities at 24 CFR 50.4, HUD's programmatic implementing regulations at 24 CFR part 50 and 24 CFR 891.155(b), especially, but not limited to, the provision of information to HUD at 24 CFR 50.31(b), and you must comply with any environmental “conditions and safeguards” at 24 CFR 50.3(c).

Under 24 CFR part 50, HUD has the responsibility for conducting the environmental reviews. HUD will commence the environmental review of your project upon receipt of your completed application. However, HUD cannot approve any site for which you have site control unless it first completes the environmental review and finds that the site(s) meets its environmental requirements. In rare cases where HUD is not able to complete the environmental review, it is due to a complex environmental issue that could not be resolved during the time period allocated for application processing. Thus, if you submit an application with evidence of site control, HUD requires you to attempt to obtain comments from the State/Tribal Historic Preservation Officer (see Exhibit 4(d)(ix) of Section IV.B. below) to help HUD complete the environmental review on time. It is also why HUD may contact you for additional environmental information. So that you can review the type of information that HUD needs for its preparation of the environmental review, the type of information requests that HUD may make to you, and the criteria that HUD uses to determine the environmental acceptability of a site, you are invited to go to the following Web site to view the HUD form 4128, including the Sample Field Notes Checklist, which HUD uses to record the environmental review: http://www.hud.gov/utilities/intercept.cfm?/offices/cpd/energyenviron/environment/compliance/forms/4128.pdf.

g. Lead-Based Paint. You must comply with the requirements of the Lead-Based Paint Poisoning Prevention Act (42 U.S.C. 4821-4846) and implementing regulations at 24 CFR part 35.

h. Executive Order 13202, Preservation of Open Competition and Government Neutrality Towards Government Contractors' Labor Relations on Federal and Federally Funded Construction Projects. Refer to the General Section.

i. Fair Housing Requirements. Refer to the General Section.

j. Economic Opportunities for Low- and Very Low-Income Persons (Section 3). You must comply with Section 3 of the Housing and Urban Development Act of 1968, U.S.C. 1701u (Economic Opportunities for Low- and Very Low-Income Persons) and its implementation regulations at 24 CFR part 135. You must ensure that training, employment and other economic opportunities shall, to the greatest extent feasible, be directed toward low- and very low-income persons, particularly those who are recipients of government assistance for housing and to business concerns which provide economic opportunities to low- and very-low income persons in the area in which the proposed project will be located. To comply with Section 3 requirements you are hereby certifying that you will strongly encourage your general contractor and subcontractors to participate in local apprenticeship programs or training programs registered or certified by the Department of Labor's Office of Apprenticeship, Training, Employer and Labor Services or recognized State Apprenticeship Agency. To receive up to two (2) points you must submit, under Exhibit 3(l), a description on how you plan to incorporate the Section 3 requirements into your proposed project with goals for expanding training and employment opportunities for low- and very low-income (Section 3) residents as well as business concerns.

k. Design and Cost Standards. You must comply with HUD's Section 811 project design and cost standards (24 CFR 891.120 and 891.310), the Uniform Federal Accessibility Standards (24 CFR 40.7), Section 504 of the Rehabilitation Act of 1973 and HUD's implementing regulations at 24 CFR part 8, and for covered multifamily dwellings designed and constructed for first occupancy after March 13, 1991, the design and construction requirements of the Fair Housing Act and HUD's implementing regulations at 24 CFR part 100, and, where applicable, the Americans with Disabilities Act of 1990.

l. Energy Efficiency. HUD has adopted a wide-ranging energy action plan for improving energy efficiency in all program areas. As a first step in implementing the energy plan, HUD, the Environmental Protection Agency (EPA) and the Department of Energy (DOE) have signed a joint partnership to promote energy efficiency in HUD's affordable housing efforts and programs. The purpose of the Energy Star partnership is not only to promote energy efficiency of the affordable housing stock, but also to help protect the environment. Although it is not a requirement, you are nonetheless encouraged to promote energy efficiency in design and operations and your application will receive one (1) point if you describe your plans for doing so in the proposed project. You are especially urged to purchase and use Energy Star-labeled products. For further information about Energy Star, see http://www.energystar.gov or call 888-STAR-YES (1-888-782-7937) or for the hearing-impaired, 888-588-9920 TTY.

m. Formation of Owner Corporation. You must form an “Owner” entity (in accordance with 24 CFR 891.305) after issuance of the capital advance fund reservation and must cause the Owner entity to file a request for determination of eligibility and a request for capital advance, and must provide sufficient resources to the Owner entity to ensure the development and long-term operation of the project, including capitalizing the Owner entity at firm commitment processing in an amount sufficient to meet its obligations in connection with the project over and above the capital advance amount.

n. Davis-Bacon. You must comply with the Davis-Bacon Requirements (42 U.S.C. 8013(j)(6)) and the Contract Work Hours and Safety Standards Act in accordance with 24 CFR 891.155(d).

IV. Application and Submission Information

A. Address to Request Application Package. Applicants are required to submit an electronic application unless they receive a waiver of the requirement in accordance with the procedures in Section IV.C. of this NOFA. See the General Section for information on electronic application submission and timely submission and receipt requirements. Copies of the General Section, this NOFA, the required forms, and other related documents are available and may be downloaded from the Grants.gov Web site at http:/www.grants.gov/applicants/apply_for_grants.jsp. Search for the program using the CFDA Number, Competition ID or Funding Opportunity Number. If you have difficulty accessing the information, you may call the Grants.gov Support Desk toll free @ 800-518-GRANTS or e-mail your questions to Support@Grants.gov. See the General Section for information regarding the registration process or ask for registration information from the Grants.gov Support Desk.

You may request general information, copies of the General Section and this NOFA (including related documents), and required forms from the NOFA Information Center (800-HUD-8929) Monday through Friday, except on federal holidays. Persons with hearing or speech impairments may access this number via TTY by calling the Federal Information Relay Service at (800) 877-8339. When requesting information, please refer to the name of the program you are interested in.

B. Content and Form of Application Submission. The exhibits to be included in your application are contained in the body of this NOFA below. Before preparing your application, you should carefully review the requirements of the regulations (24 CFR part 891) and general program instructions in Handbook 4571.2, Section 811 Capital Advance Program for Housing Persons with Disabilities. Note: Section 1001 of Title 18 of the United States Code (Criminal Code and Criminal Procedure, 72 Stat. 967) applies to all information supplied in the application submission. (18 U.S.C. 1001, among other things, provides that whoever knowingly and willfully makes or uses a document or writing containing any false, fictitious, fraudulent statement or entry, in any matter within the jurisdiction of any department or agency of the United States, shall be fined not more than $10,000 or imprisoned for not more than five years, or both.)

The Application for a Section 811 Capital Advance consists of four parts with a total of eight Exhibits. Included with the eight Exhibits are prescribed forms, certifications and resolutions. The components of the Application are:

• Part 1—Application Form for Section 811 Supportive Housing—Capital Advance (Exhibit 1).

• Part 2—Your Ability to Develop and Operate the Proposed Project (Exhibits 2 and 3).

• Part 3—The Need for Supportive Housing for the Target Population in the Area to be Served, Site Control and/or Identification of Site, Suitability of Site, Adequacy of the Provision of Supportive Services and of the Proposed Project (Exhibits 4 and 5).

• Part 4—General Application Requirements, Certifications and Resolutions (Exhibits 6 through 8).

The following additional information, which may assist you in preparing your application, is available on HUD's Web site at http://www.hud.gov/offices/adm/grants/fundsavail.cfm

• Listing of Local HUD Offices;

• Letter Requesting SHPO/THPO Review;

• Choosing an Environmentally Safe Site;

• Supplemental to Choosing An Environmentally Safe Site.

Your application must include all of the information, materials, forms, and exhibits listed below (unless you were selected for a Section 811 fund reservation within the last three funding cycles). If you qualify for this exception, you are not required to submit the information described in Exhibit 2(a), (b), and (c), which are the articles of incorporation (or other organizational documents), Bylaws, and the IRS tax exemption, respectively. If there has been a change in any of these documents since your previous HUD approval, you must submit the updated information in your application. The local HUD office will verify your previous HUD approval by checking the project number and approval status with the appropriate local HUD office based on information submitted.

In addition to this relief of paperwork burden in preparing applications, you are able to use information and exhibits previously prepared for prior applications under Section 811, Section 202, or other funding programs. Examples of exhibits that may be readily adapted or amended to decrease the burden of application preparation include, among others, those on previous participation in the Section 202 or Section 811 programs, your experience in the provision of housing and services, supportive services plans, community ties, and experience serving minorities.

For programmatic information, you MUST contact the appropriate local HUD office about the submission of applications within the jurisdiction of that Office. A listing of the local HUD offices is available on HUD's Web site at http://www.hud.gov/offices/adm/grants/fundsavail.cfm.

Please submit your application using the following format provided in this NOFA. For applications to be submitted electronically in which you have created files to be attached to the electronic application, you should number the pages of the attached file and include a header that identifies the exhibit that it relates to. Please be sure to follow the file labeling and file format instructions in the General Section.

For applicants that received a waiver of the electronic application submission requirement, you must number the pages of each file, narratives and other attached files. Include the name of your organization and your DUNS number, and the exhibit number that you are responding to on the header of each document.

1. Table of Contents

a. Part I—Application Form.

(1) Exhibit 1: Form HUD-92016-CA Application for Capital Advance Summary Information.

b. Part II—Ability To Develop/Operate Project.

(1) Exhibit 2: Legal Status.

(a) Organizational Documents.

(b) Bylaws.

(c) IRS Tax Exemption Ruling.

(d) Number of board members.

(2) Exhibit 3: Purpose/Community Ties/Experience.

(a) Purpose(s), current activities, etc.

(b) Community ties, description of area.

(c) Other Funding Sources.

(d) Letters of support.

(e) Housing/Services experience.

(f) Involvement of target population.

(g) Practical solutions.

(h) Project Development Timeline.

(i) Coordination with other organizations.

(j) Consultation with Continuum of Care organizations.

(k) Form HUD-27300, America's Affordable Communities Initiative/Questionnaire for HUD's Initiative on Removal of Regulatory Barriers (HUD Communities Initiative Form on Grants.gov), with supporting documentation.

(l) Section 3 requirements.

c. Part III—Need for Housing, Site Requirements, Proposed Services.

(1) Exhibit 4: Project Information.

(a) Evidence of need for project.

(b) Benefit to population/community.

(c) Narrative project description:

(i) Building design:

(ii) Energy efficiency features; and

(iii) Mixed-financing for additional units.

(d) Site control and zoning;

(i) Site control documents;

(ii) Freedom of site from restrictions;

(iii) Zoning requirements;

(iv) URA site notification requirements;

(v) Topographical/demographical description of site/area and opportunities for minorities;

(vi) Racial composition/map of site;

(vii) Phase I ESA;

(viii) Asbestos Statement/Survey;

(ix) SHPO/THPO requirements;

(x) Willingness to seek alternate site; and

(xi) Exception to project size limit:

(A) Preference/acceptance of people with disabilities to live in proposed housing;

(B) Increase number of people;

(C) Compatibility of project;

(D) Increased number will not prohibit integration in community;

(E) Project marketability;

(F) Consistency of project size with State/local policies; and

(G) Willingness to accept project size limit.

(e) Site identification:

(i) Site location;

(ii) Steps to identify site/activities to obtain site control;

(iii) Whether site is properly zoned;

(iv) Status of sale of site; and

(v) Whether site involves relocation.

(2) Exhibit 5: Supportive Services Plan.

(a) Description of occupancy.

(b) Request to limit occupancy:

(i) Population to which occupancy will be limited;

(ii) Why necessary to limit occupancy:

(A) Achievement of Section 811 goals;

(B) Why unable to meet housing/services needs in an integrated setting;

(iii) Housing/Services experience;

(iv) Assurance of integrating occupants in neighborhood/community.

(c) Services needs of proposed population.

(d) Community services providers with letters of intent.

(e) Service providers' capabilities/experience.

(f) State/local agency involvement in project.

(g) Your commitment to make services available or coordinate their availability.

(h) Employment opportunities for residents.

(i) Whether a manager's unit will be included.

(j) Statement that occupancy will not be conditioned on resident's acceptance of supportive services.

d. Part IV—Requirements/Certifications/Resolutions.

(1) Exhibit 6: Other Applications.

(a) FY08 Sections 202/811 applications to other Offices.

(b) Information on FY07 and prior years' Sections 202/811 applications.

(2) Exhibit 7: Required information on:

(a) All property occupants;

(b) Relocation costs/services;

(c) Staff to carry out relocation;

(d) Occupant move-outs within past 12 months.

(e) Issuance of general information notice and advisory services information.

(3) Exhibit 8: Forms/Certifications/Resolutions.

(a) SF-424, Application for Federal Assistance.

(b) SF-424 Supplement, “Survey on Ensuring Equal Opportunities for Applicants” (Faith Based EEO Survey (SF-424 SUPP) on Grants.gov).

(c) SF-LLL, Disclosure of Lobbying Activities.

(d) HUD-2880, “Applicant/Recipient Disclosure/Update Report” (HUD Applicant Recipient Disclosure Report on Grants.gov).

(e) HUD-2991, Certification of Consistency with the Consolidated Plan.

(f) HUD-92041, Sponsor's Conflict of Interest Resolution.

(g) HUD-92042, Sponsor's Resolution for Commitment to Project.

(h) HUD-2990, Certification of Consistency with the RC/EZ/EC-II Strategic Plan (if applicable).

(i) HUD-92043, Certification for Provision of Supportive Services.

(j) HUD-96010, Program Outcome Logic Model.

(k) HUD-96011, “Third Party Documentation Facsimile Transmittal” (Facsimile Transmittal Form on Grants.gov). This is to be used as the cover page for faxing third party information for electronic applications only. Please refer to the General Section for a detailed discussion.

(l) HUD-2994-A, You are Our Client! Grant Applicant Survey.

2. Programmatic Applications Requirements

a. PART I—Application Form for Section 811 Supportive Housing—Capital Advance

(1) Exhibit 1—Form HUD-92016-CA, Supportive Housing for Persons with Disabilities Section 811 Application for Capital Advance Summary Information. A copy of this form is available in the instructions download at either http://www.grants.gov/applicants/apply_for_grants.jsp or http://www.hudclips.org/sub_nonhud/html/forms.htm

b. Part II—Your Ability to Develop and Operate the Proposed Project

(1) Exhibit 2—Evidence of your legal status (i.e., evidence of your status as a nonprofit organization with 501(c)(3) IRS tax exemption). If another organization(s) is co-sponsoring the application with you, each Co-Sponsor must also submit the following:

(a) Articles of Incorporation, constitution, or other organizational documents;

(b) Bylaws;

(c) IRS tax exemption ruling (this must be submitted by all Sponsors, including churches).

Note: Based on a HUD review of your articles of incorporation, constitution, or other organizational documents, HUD must determine, among other things, that (1) you are an eligible nonprofit entity with a 501(c)(3) IRS tax exemption status, (2) your corporate purposes are sufficiently broad to provide you the legal authority to sponsor the proposed project for the disabled, to assist the Owner, and to apply for a capital advance, (3) no part of the Sponsor's net earnings inures to the benefit of any private party, and (4) that you are not controlled by or under the direction of persons seeking to derive profit or gain therefrom. [EXCEPTION: If you received a section 811 fund reservation within the last three funding cycles, you are not required to submit the documents described in (a), (b), and (c) above. Instead, submit the project number of the latest application and the local HUD office to which it was submitted. If there has been any modifications or additions to the subject documents, indicate such, and submit the new material.]

(d) The number of people on your board and the number of board members who have disabilities.

(2) Exhibit 3—Your Purpose, Community Ties, and Experience:

(a) A description of your purpose(s), current activities, including your ability to enlist volunteers and raise private and local funds and how long you have been in existence.

(b) A description of your ties to the community in which your project will be located and to the minority and disability communities in particular, including a description of the specific geographic area(s) in which you have served.

(c) A description of other funding sources for the project (including financial assistance, donation of land, provision of services, etc.).

(d) Letters of support for your organization and for the proposed project from organizations familiar with the housing and supportive services needs of the target population (e.g., the local center for independent living, the Statewide Independent Living Council) that you expect to serve in the proposed project.

(e) A description of your housing and/or supportive services experience. The description should include any rental housing projects (including any integrated housing developments) and/or supportive services facilities that you sponsored, own and/or operate, your past or current involvement in any programs other than housing that demonstrates your management capabilities (including financial management) and experience, your experience in serving the target population (persons with disabilities and minorities); and the reasons for receiving any increases in fund reservations for developing and/or operating previously funded Section 202 or Section 811 projects. The description should include data on the facilities and services provided, the racial/ethnic composition of the populations served, if available, and information and testimonials from residents or community leaders on the quality of the activities. Examples of activities that could be described include housing counseling, nutrition and food services, special housing referral, screening and information projects.

(f) A description of your efforts to involve members of the target population (persons with disabilities including minority persons with disabilities and persons with disabilities similar to those of the prospective residents) in the development of the application as well as your intent to involve the target population in the development and operation of the project.

(g) A description of the practical solutions you will implement which will enable residents of your project to achieve independent living and economic empowerment. In addition, describe the educational opportunities you will provide for the residents and how you will provide them. This description should include the activities you will undertake to improve computer access, literacy and employment opportunities (e.g., provide programs that can teach residents how to use computers to become educated as well as achieve economic self-sufficiency through job training and placement). And, finally, describe how your proposed project will be an improved living environment for the residents when compared to their previous place of residence.

(h) Describe your plan for completing the proposed project. Completion of Exhibit 8(j), Program Outcome Logic Model, will respond to this exhibit. The Logic Model must list the major development stages for the project with associated measures that must be met in order to get the project to initial closing and start of construction within the 18-month fund reservation period, full completion of the project, and final closing.

(i) A description of the steps you took to coordinate your application with other organizations (e.g., the local center for independent living) that will not be directly involved in your project but with which you share common goals and objectives, to complement and/or support the proposed project so that the project will provide a comprehensive and holistic solution to the needs of persons with disabilities.

(j) A description of your efforts to consult with Continuum of Care organizations in the community where the project will be located about the ways you can assist persons with disabilities who are chronically homeless as defined in the General Section.

(k) A description of the successful efforts the jurisdiction in which your project will be located has taken in removing regulatory barriers to affordable housing. To obtain up to 2 points for this policy priority, you must complete the optional Form HUD-27300, “Questionnaire for HUD's Initiative on Removal of Regulatory Barriers” and provide the necessary URL references or submit the documentary evidence. This exhibit is optional, but to obtain up to 2 points for this policy priority, you must submit this information using Form HUD-27300 and contact information. When providing documents in support of your responses to the questions on the form, please provide the applicant name and project name and whether you were responding under column A or B, then identify the number of the question and the URL or document name and attach using the attachment function at the end of the electronic form. This exhibit will be used to rate your application under Rating Factor 3(j).

(l) A description on how you plan to incorporate the Section 3 requirements into your proposed project with goals for expanding training and employment opportunities for low and very low-income (Section 3) persons as well as business concerns in the area in which the proposed project will be located. This exhibit is optional, but to obtain up to 2 points for this policy priority, you must submit this exhibit and adequately address your plans to provide opportunities to train and employ low and very low-income residents of the project area and award substantial contracts to persons residing in the project area.

c. Part III—The Need for Supportive Housing for the Target Population, Site Control and/or Identification of Site and Suitability of Site, Adequacy of the Provision of Supportive Services and of the Proposed Project

(1) EXHIBIT 4—Need and Project Information

(a) Evidence of need for supportive housing. Include a description of the proposed population and evidence demonstrating sustained effective demand for supportive housing for the proposed population in the market area to be served, taking into consideration the occupancy and vacancy conditions in existing comparable subsidized housing for persons with disabilities, state or local needs assessments of persons with disabilities in the area, the types of supportive services arrangements currently available in the area, and the use of such services as evidenced by data from local social service agencies. Also, a description of how information in the community's or (where applicable) the State's Consolidated Plan, Analysis of Impediments to Fair Housing Choice (AI) or other planning document that analyzes fair housing issues was used in documenting the need for the project.

(b) A description of how the proposed project will benefit the target population and the community in which it will be located.

(c) Description of the project.

(i) Narrative description of the building(s) including the number and type of structure(s), number of units with bedroom distribution if independent living units including dwelling units in multifamily housing developments, condominiums and cooperatives, number of bedrooms if group home, number of residents with disabilities, and any resident manager per structure; identification of all commercial and community spaces, amenities or features planned for the housing and a description of how the spaces, amenities, or features will be used, and the extent to which they are necessary to accommodate the needs of the proposed residents. A narrative description of the building design (both interior and exterior), including any special design features, as well as any features that incorporate visitability standards and universal design. Also include a description of how the design of the proposed project will facilitate the integration of the residents into the surrounding community and promote the ability of the residents to live as independently as possible.

Note: If the community spaces, amenities, or features do not comply with the project design and cost standards of 24 CFR 891.120 (a) and (c), the special project standards of 24 CFR 891.310 (a), and the limitations on bedroom sizes as required by paragraph 1-11.E.2.a of HUD Handbook 4571.2 REV-1, you must demonstrate your ability and willingness to contribute both the incremental development cost and continuing operating cost associated with the community spaces, amenities, or features.

(ii) Describe how the project will promote energy efficiency, including any plans to incorporate energy efficiency measures in the design, construction, and operation of the project and the use of Energy Star labeled products and appliances. Refer to the General Section for additional guidance.

(iii) For site control applications, if you are proposing to develop a mixed-finance project by developing additional units (i.e., in addition to the 811 units), provide a description of any plans and actions you have taken to create such a mixed-finance project with the use of Section 811 capital advance funds, in combination with other funding sources. Provide the number of non-Section 811 units to be included in the mixed-finance project (also provide the number of additional units in the appropriate space on Form HUD-92016-CA). Also, provide copies of any letters you have sent seeking outside funding for the non-Section 811 units and any responses thereto. You must also demonstrate your ability to proceed with the development of a Section 811 project in the event you are later unable to obtain the necessary outside funding for the additional units.

Note: (1) If approved for a reservation of capital advance funds, you will be required to submit with your Firm Commitment Application, the additional documents required by HUD for mixed-finance proposals. (2) A mixed-finance project does not include the development of a mixed-use project or the development of a mixed-use project in which the Section 811 units are mortgaged separately from the other uses of the structure. (3) For a Section 811 mixed-finance project, the additional units cannot cause the project to exceed the project size limit for the type of project proposed, unless you request and receive HUD approval to exceed the project size limit if the project will be an independent living project (See IV.B.2.c.(1)(d)(xi)) or the additional units will house people who do not have a disability.

(d) Evidence of site control and permissive zoning.

Note: If you are applying for Section 811 funding without control of any or all of your proposed sites, you must provide the information under (e), Identification of a Site, below for any site you are submitting without evidence of control of that site.

(i) Acceptable evidence of site control is limited to any one of the following:

(A) Deed or long-term leasehold which evidences that you have title to or a leasehold interest in the site. If a leasehold, the term of the lease must be 50 years with renewable provisions for 25 years except for sites on Indian trust land, in which case, the term of the lease must be at least 50 years with no requirements for extensions;

(B) Contract of sale for the site that is free of any limitations affecting the ability of the seller to deliver ownership to you after you receive and accept a notice of Section 811 capital advance. (The only condition for closing on the sale can be your receipt and acceptance of the capital advance.) The contract of sale cannot require closing earlier than the Section 811 closing;

(C) Option to purchase or for a long-term leasehold, which must remain in effect for six months from the date on which the applications are due, must state a firm price binding on the seller, and be renewable at the end of the six-month period. The only condition on which the option may be terminated is if you are not awarded a fund reservation;

(D) If the site is covered by a mortgage under a HUD program, (e.g., a previously funded Section 202 or Section 811 project or an FHA-insured mortgage) you must submit evidence of site control as described above AND evidence that consent to release the site from the mortgage has been obtained or has been requested from HUD (all required information in order for a decision on the request for a partial release of security must have been submitted to the local HUD office) and from the mortgagee, if other than HUD. Approval to release the site from the mortgage must be done before the local HUD office makes its selection recommendations to HUD Headquarters. Refer to Chapter 16 of HUD Handbook 4350.1 Rev-1, Multifamily Asset Management and Project Servicing, for instructions on submitting requests to the local HUD Office for partial release of security from a mortgage under a HUD program; or

(E) For sites to be acquired from a public body, evidence is needed that the public body possesses clear title to the site and has entered into a legally binding agreement to lease or convey the site to you after you receive and accept a notice of Section 811 capital advance fund reservation award. The same requirements for site control are applicable to sites to be acquired from public bodies as are applicable to sites to be acquired from other entities. Where HUD determines that time constraints of the funding round will not permit you to obtain all of the required official actions (e.g., approval of Community of Planning Boards) that are necessary to convey publicly-owned sites, you may include in your application a letter from the mayor or director of the appropriate local agency indicating that conveyance or leasing of the site is acceptable without imposition of additional covenants or restrictions, and only contingent on the necessary approval action. Such a letter of commitment is sufficient evidence of site control but only if the commitment does not contain restrictions or qualifications that would be unacceptable in the case of other entities. Where a public housing site is to be acquired from a public housing agency (PHA), the PHA needs to have applied to HUD for permission to dispose the site or received approval of the disposition from HUD.

(ii) Whether you have title to the site, a contract of sale, an option to purchase, or are acquiring a site from a public body, you must provide evidence (a current title policy or other acceptable evidence) that the site is free of any limitations, restrictions, or reverters which could adversely affect the use of the site for the proposed project for the 40-year capital advance period under HUD's regulations and requirements (e.g., reversion to seller if title is transferred). If the title evidence contains restrictions or covenants, copies of the restrictions or covenants must be submitted with the application. If the site is subject to any such limitations, restrictions, or reverters, the site will be rejected and the application will be considered a “site identified” application. Purchase money mortgages that will be satisfied from capital advance funds are not considered to be limitations or restrictions that would adversely affect the use of the site. If the contract of sale or option agreement contains provisions that allow a Sponsor not to purchase the property for reasons such as environmental problems, failure of the site to pass inspection, or the appraisal is less than the purchase price, then such provisions are not objectionable and a Sponsor is allowed to terminate the contract of sale or the option agreement.

Note: A proposed project site may not be acquired or optioned from a general contractor (or its affiliate) that will construct the Section 811 project or from any other development team member.

(iii) Evidence that the project, as proposed, is permissible under applicable zoning ordinances or regulations, or a statement of the proposed action required to make the proposed project permissible and the basis for the belief that the proposed action will be completed successfully before the submission of the firm commitment application (e.g., a summary of the results of any requests for rezoning and/or the procedures for obtaining special or conditional use permits on land in similar zoning classifications and the time required for such rezoning, or preliminary indications of acceptability from zoning bodies, etc.).

Note: You should be aware that under certain circumstances the Fair Housing Act requires localities to make reasonable accommodations to their zoning ordinances or regulations to offer persons with disabilities an opportunity to live in an area of their choice. If you are relying upon a theory of reasonable accommodation to satisfy the zoning requirement, then you must clearly articulate the basis for your reasonable accommodation theory.

(iv) Evidence of compliance with the URA requirement that the seller has been provided, in writing, with the required information regarding a voluntary, arm's length purchase transaction (i.e., (1) applicant does not have the power of eminent domain and, therefore, will not acquire the property if negotiations fail to result in an amicable agreement, and (2) of the estimate of the fair market value of the property).

Note: A certification for this requirement is not sufficient. Evidence must be submitted to meet this requirement. This information should have been provided before making the purchase offer. However, in those cases where there is an existing option or contract, the seller must be provided the opportunity to withdraw from the agreement or transaction, without penalty, after this information is provided.

(v) Narrative describing topographical and demographic aspects of the site, the suitability of the site and area (as well as a description of the characteristics of the neighborhood), how use of the site will promote greater housing opportunities for minority persons with disabilities, and how use of the site will affirmatively further fair housing.

Note: You can best demonstrate your commitment to affirmatively furthering fair housing by describing how your proposed activities will assist the jurisdiction in overcoming impediments to fair housing choice identified in the applicable jurisdiction's Analysis of Impediments (AI) to Fair Housing Choice, which is a component of the jurisdiction's Consolidated Plan or any other planning document that addresses fair housing issues. The applicable Consolidated Plan and AI may be the community's, the county's, or the state's, to which input should have been provided by local community organizations, agencies in the community and residents of the community. Alternatively, a document that addresses fair housing issues and remedies to barriers to fair housing in the community that was previously prepared by a local planning, or similar organization, may be used. Applicable impediments could include a lack of units that are accessible to persons with disabilities, a lack of transportation services or other assistance that would serve persons with disabilities, or the need for improved quality and services for all persons with disabilities.

(vi) A map showing the location of the site, the racial composition of the neighborhood, and any areas of racial concentration.

Note: For this competition, when determining the racial and ethnic composition of the neighborhood surrounding the proposed site, use data from the 2000 Census of Population. Data from the 2000 Census may be found at http://factfinder.census.gov/home/saff/main.html?_lang=en.

(vii) A Phase I Environmental Site Assessment (ESA), in accordance with the ASTM Standard E 1527-05, as amended, using the table of contents and report format specified at Appendix X4 thereto and completed or updated as specified at Section 4.6 thereto, must be completed and submitted with the application. In order for the Phase I ESA to be acceptable, it must have been completed or updated no earlier than 180 days prior to the application deadline date. Therefore, it is important to start the site assessment process as soon after the publication of the NOFA as possible.

Note: A Phase I ESA that is not properly updated, does not use the format specified at Appendix X4 of ASTM Standard E 1527-05, or that is prepared in accordance with an older version of ASTM E 1527 will result in the site being rejected and the application placed in Category B for selection purposes.

If the Phase I ESA indicates possible presence of contamination and/or hazards, you must decide whether to continue with this site or choose another site. Should you choose another site, the same Phase I ESA process identified above must be followed for the new site. If you choose to continue with the original site on which the Phase I ESA indicated contamination or hazards, you must undertake a detailed Phase II ESA by an appropriate professional. If the Phase II Assessment reveals site contamination, you must submit the extent of the contamination and a plan for clean-up of the site including a contract for remediation of the problem(s) and an approval letter from the applicable federal, state and/or local agency with jurisdiction over the site to the local HUD office. The Phase II ESA and any necessary plans for clean-up do not have to be submitted with the application but must be received in the local HUD office by August 18, 2008. If it is not received by that date, the site will be rejected and the application will be placed in Category B for selection purposes.

Note: You must pay for the cost of any clean-up or remediation which can be very expensive. [See Note at Section III.C.2.b.(3)(d)(iii)]

(viii) If you submit an application with evidence of site control, you must submit one of the following:

(A) If there are no pre-1978 structures on the site or if there are pre-1978 structures that most recently consisted of solely four or fewer units of single-family housing including appurtenant structures thereto, a statement to this effect, or

(B) If there are pre-1978 structures on the site other than for a site that most recently consisted of solely four or fewer units of single-family housing including appurtenant structures thereto, a comprehensive building asbestos survey that is based on a thorough inspection to identify the location and condition of asbestos throughout any structures.

Note: In those cases where suspect asbestos is found, it would either be assumed to be asbestos or would require confirmatory testing. If the asbestos report indicates the presence of asbestos, or the presence of asbestos is assumed, and if the application is approved, HUD will condition the approval on an appropriate mix of asbestos abatement and an asbestos Operations and Maintenance Plan.

(ix) Letter to State/Tribal Historic Preservation Officer (SHPO/THPO) and a statement that SHPO/THPO failed to respond to you OR a copy of the response letter received from SHPO/THPO.

(x) A statement that you are willing to seek a different site if the preferred site is not approvable and that site control will be obtained within six months of notification of fund reservation.

(xi) If an exception to the project size limits is being requested, describe why the site was selected and demonstrate the following: (Only for applications for independent living projects [not group homes] with site control).

(A) People with disabilities have indicated their acceptance or preference to live in housing with as many units/people as proposed for the project.

(B) The increased number of units/people is warranted by the market conditions in the area in which the project will be located.

(C) Your project is compatible with other residential development and the population density of the area in which the project is to be located.

(D) The increased number of people will not prohibit their successful integration into the community.

(E) The project is marketable in the community.

(F) The size of the project is consistent with state and/or local policies governing similar housing for the proposed population.

(G) A statement that you are willing to have your application processed at the project size limit should HUD not approve the exception.

(e) Identification of a Site. If you have identified a site, but do not have it under control, you must submit the following information:

Note: If an application is submitted without evidence of site control and does not provide a specific street address for the identified site(s) (e.g., only an indication that the project will be developed in a particular part of town but a site(s) has not been chosen) the application will be rejected.

(i) A description of the location of the site, including its street address or block and lot number(s), its unit number (if condominium), neighborhood/community characteristics (to include racial and ethnic data), amenities, adjacent housing and/or facilities, how the site will promote greater housing opportunities for minority persons with disabilities and affirmatively further fair housing. You can best demonstrate your commitment to affirmatively furthering fair housing by describing how your proposed activities will assist the jurisdiction in overcoming impediments to fair housing choice identified in the community's AI or any other planning document that addresses fair housing issues. Examples of the applicable impediments include the need for improved housing quality and services for minority persons with disabilities and the need for quality services for persons with disabilities within the type and quality of similar services and housing in minority areas.

(ii) A description of the activities undertaken to identify the site, as well as what actions must be taken to obtain control of the site, if approved for funding.

(iii) An indication as to whether the site is properly zoned. If it is not, an indication of the actions necessary for proper zoning and whether these can be accomplished within six months of fund reservation award, if approved for funding.

(iv) A status of the sale of the site.

(v) An indication as to whether the site would involve relocation.

(2) EXHIBIT 5—Supportive Services Plan

Note: Your supportive services plan and the Certification for Provision of Supportive Services (Exhibit 8(i)) must be sent to the appropriate state or local agency (identified by the local HUD office) far enough in advance of the application deadline date so that the agency can review the plan, complete the certification and return both to you for inclusion in your application to HUD.

(a) A detailed description of whether the housing is expected to serve persons with physical disabilities, developmental disabilities, or chronic mental illness or any combination of the three. Include how and from whom/where persons will be referred and admitted for occupancy in the project. You may, with the approval of the Secretary, restrict occupancy within housing developed under this NOFA to a subcategory of one of the three main categories of disability noted above (e.g., AIDS is a subcategory of physical disability). However, the Owner must permit occupancy by any qualified person with a disability that qualifies under the applicable main category of disability.

(b) If requesting approval to restrict occupancy, also submit the following:

(i) A description of the population of persons with disabilities to which occupancy will be limited.

(ii) An explanation of why it is necessary to restrict occupancy of the proposed project(s) to the population described in (i) above, including the following:

(A) An explanation of how restricting occupancy to a subcategory of persons with disabilities promotes the goals of the Section 811 program.

(B) An explanation of why the housing and/or service needs of this population cannot be met in a more integrated setting.

(iii) A description of your experience in providing housing and/or supportive services to proposed occupants.

(iv) A description of how you will ensure that occupants of the proposed project will be integrated into the neighborhood and community.

(c) A detailed description of the supportive service needs of the persons with disabilities that the housing is expected to serve.

(d) A list of community service providers, (including consumer-controlled providers), including letters of intent to provide services to proposed residents from as many potential providers as possible.

(e) The evidence of each service provider's capability and experience in providing such supportive services (even if you will be the service provider).

(f) Identification of the extent of state and/or local agency involvement in the project (i.e., funding for the provision of supportive services, referral of residents, or licensing the project). If there will be any state or local agency involvement, a description of the state/local agency's philosophy/policy concerning housing for the population to be served and a demonstration that your application is consistent with state and/or local agency plans and policies governing the development and operation of housing for persons with disabilities.

(g) If you will be making any supportive services available to the residents or will be coordinating the availability of any supportive services, a letter providing:

(i) A description of the supportive services that you will make available to the residents or, if you will be coordinating the availability of any supportive services, a description of the supportive service(s) and how the coordination will be implemented;

(ii) An assurance that any supportive services that you will make available to the residents will be based on their individual needs; and

(iii) A commitment to make the supportive services available or coordinate their availability for the life of the project.

(h) A description of how the residents will be afforded opportunities for employment.

(i) An indication as to whether the project will include a unit for a resident manager.

(j) A statement that you will not condition admission or occupancy on the resident's acceptance of any supportive services.

d. Part IV—General Application Requirements, Certifications and Resolutions

(1) EXHIBIT 6: Other Applications

(a) A list of the applications, if any, you are submitting to any other local HUD office in response to the FY2008 Section 202 or Section 811 NOFA. Indicate by local HUD office the proposed location by city and state and the number of units requested for each application.

(b) Include a list of all FY2007 and prior years Section 202 and Section 811 capital advance projects to which you are a party. Identify each by project number and local HUD office and include the following information:

(i) Whether the project has initially closed and, if so, when;

(ii) If the project was older than 24 months when it initially closed (specify how old) or if older than 24 months now (specify how old) and has not initially closed, provide the reasons for the delay in closing;

(iii) Whether amendment money was or will be needed for any project in (ii) above; including the amount of the amendment money and,

(iv) Those projects which have not been finally closed.

(2) EXHIBIT 7: A statement that: (Applicable to applications with site control only)

Note: For site identified projects, exhibit 7 must be submitted once site control is obtained.

(a) Identifies all persons (families, individuals, businesses and nonprofit organizations) by race/minority group, and status as owners or tenants occupying the property on the date of submission of the application for a capital advance.

(b) Indicates the estimated cost of relocation payments and other services.

(c) Identifies the staff organization that will carry out the relocation activities.

(d) Identifies all persons who were required to move from the site within the past 12 months and the reasons for their moves.

Note: If any of the relocation costs will be funded from sources other than the section 811 capital advance, you must provide evidence of a firm commitment of these funds when evaluating applications. HUD will consider the total cost of proposals (i.e., cost of site acquisition, relocation, construction and other project costs).

(3) EXHIBIT 8: Certifications and Resolutions—You are required to submit completed copies of the following forms which are included either in the General Section or with this NOFA and copies of the forms are available in the instructions download at http://www.grants.gov/applicants/apply_for_grants.jsp.

(a) Standard Form 424—Application for Federal Assistance, including a DUNS number, an indication of whether you are delinquent on any federal debt, and compliance with Executive Order 12372 (a certification that you have submitted a copy of your application, if required, to the State agency (Single Point of Contact) for state review in accordance with Executive Order 12372). If required by the State's Single Point of Contact (SPOC), a copy of your application needs to be submitted to the SPOC before the application deadline date, but in no event later than the application deadline date. Refer to Section IV.D. of this NOFA for additional information on compliance with Executive Order 12372. If you are located in a state that does not have a SPOC, please indicate such.

Note: For Section 811 program purposes, for item 12 of the SF-424, Areas Affected by Project, provide the name of the City, County and State where the project will be located (not the largest political entities as indicated on the instructions page of SF-424).

(b) Standard Form 424 Supplement, Survey on Ensuring Equal Opportunity for Applicants (“Faith Based EEO Survey (SF-424 SUPP)” on Grants.gov). Although the information on this form will not be considered in making funding decisions, it will assist the federal government in ensuring that all qualified applicants have an equal opportunity to compete for federal funding.

(c) Standard Form LLL—Disclosure of Lobbying Activities (if applicable). A disclosure of activities conducted to influence any federal transactions.

(d) Form HUD-2880, Applicant/Recipient Disclosure/Update Report (“HUD Applicant Recipient Disclosure Report” on Grants.gov), including Social Security and Employee Identification Numbers. A disclosure of assistance from other government sources received in connection with the project.

(e) Form HUD-2991, Certification of Consistency with the Consolidated Plan (Plan), for the jurisdiction in which the proposed project will be located. The certification must be made by the unit of general local government if it is required to have, or has, a complete Plan. Otherwise, the certification may be made by the state or by the unit of general local government if the project will be located within the jurisdiction of the unit of general local government authorized to use an abbreviated strategy, and if it is willing to prepare such a Plan. All certifications must be made by a public official responsible for submitting the Plan to HUD. The certifications must be submitted as part of the application by the application submission deadline date set forth in this NOFA. The Plan regulations are published in 24 CFR part 91.

(f) Form HUD-92041, Sponsor's Conflict of Interest Resolution. A certified Board Resolution that no officer or director of the Sponsor or Owner has or will have any financial interest in any contract with the Owner or in any firm or corporation that has or will have a contract with the Owner, including a current listing of all duly qualified and sitting officers and directors by title and the beginning and ending dates of each person's term.

(g) Form HUD-92042, Sponsor's Resolution for Commitment to Project. A certified Board Resolution acknowledging responsibilities of sponsorship, long-term support of the project(s), your willingness to assist the Owner to develop, own, manage and provide appropriate services in connection with the proposed project, and that it reflects the will of your membership. Also, it shall indicate your willingness to fund the estimated start-up expenses, the Minimum Capital Investment (one-half of one-percent of the HUD-approved capital advance, not to exceed $10,000), and the estimated cost of any amenities or features (and operating costs related thereto) that would not be covered by the approved capital advance.

(h) Form HUD-2990, Certification of Consistency with the RC/EZ/EC Strategic Plan. A certification that the project is consistent with the RC/EZ/EC-IIs strategic plan, is located within the RC/EZ/EC-II, and serves RC/EZ/EC-II residents. (This certification is not required if the project site(s) will not be located in an RC/EZ/EC-II.) A copy of the RC/EZ/EC-II Certification form is contained in the online application; and

(i) Form HUD-92043, Certification for Provision of Supportive Services. A certification from the appropriate state or local agency (identified in the application or obtained from the local HUD office), indicating whether the:

(i) Provision of supportive services is well designed to serve the needs of persons with disabilities the housing is expected to serve;

(ii) The provision of supportive services will enhance independent living success and promote the dignity of those who will access your proposed project;

(iii) Supportive services will be available on a consistent, long-term basis; and

(iv) Proposed housing is consistent with state or local plans and policies addressing the housing needs of people with disabilities. If the state or local agency will provide funding for the provision of supportive services, refer residents to the project or license the project. (The name, address, and telephone number of the appropriate agency can also be obtained from the appropriate local HUD Office.)

(j) Form HUD-96010, Program Outcome Logic Model. In addition to the Project Development Timeline to be submitted in Exhibit 3(h) above, the information provided in the Logic Model will be used in rating your application for Rating Factor 5, Achieving Results and Program Evaluation.

(k) Form HUD-96011, Facsimile Transmittal (“Facsimile Transmittal Form” on Grants.gov). The form HUD 96011 must be used as the coversheet for any facsimile.

If you are not faxing any documents, you must still complete the facsimile transmittal form. In the section of the form titled “Name of Document Transmitting,” enter the words “Nothing Faxed with this Application.” Complete the remaining highlighted fields and enter the number “0” in the section of the form titled “How many pages (including cover) are being faxed?” You must move the form to the right side of the Grants.gov application to open and complete the form. Forms on the right side of the application get uploaded as part of your application submission with the forms getting embedded ID numbers. The embedded ID numbers allows HUD to match your faxes to your application submission. Please refer to the General Section for a detailed discussion.

Note: HUD will not accept entire applications by fax. If you submit the application entirely by fax, it will be disqualified.

(l) Form HUD-2994-A, You Are Our Client Grant Applicant Survey. This is an optional form that may be used to provide suggestions and comments to the Department regarding your application submission experience.

C. Submission Dates and Time. Your application must be received and validated electronically by Grants.gov no later than 11:59:59 PM eastern time on July 16, 2008, the application deadline date unless a waiver of the electronic delivery process has been approved by HUD in accordance with the following procedures. Applicants that are unable to submit their application electronically must seek a waiver of the electronic grant submission requirement. Waiver requests must be submitted by mail or by fax. For this program NOFA, e-mail requests will not be considered. Waiver requests submitted by mail or fax should be submitted on the applicant's letterhead and signed by an official with the legal authority to request a waiver from the Department. The request must be addressed to the Assistant Secretary for Housing at the following address: Brian D. Montgomery, Assistant Secretary for Housing—Federal Housing Commissioner, Department of Housing and Urban Development, 451 Seventh Street, SW., Room 9100, Washington, DC 20410-8000. Waiver requests submitted by fax must be sent to (202) 708-3104. Applicants that are granted a waiver of the electronic submission requirement will not be afforded additional time to submit their applications. Therefore, submit your waiver requests to the above address no later than 15 days before the application deadline date. If a waiver is granted, you must submit the required number of copies of your application to the Director of the appropriate local HUD office, and the application must be received no later than that HUD office's close of business on the application deadline date. The waiver approval notification will identify the appropriate HUD office where the application should be submitted and the required number of copies that must be submitted.

D. Intergovernmental Review

1. State Review. This funding opportunity is subject to Executive Order (EO) 12372, “Intergovernmental Review of Federal Programs.” You must contact your State's Single Point of Contact (SPOC) to find out about and comply with the state's process under EO 12372. The names and addresses of the SPOCs are listed in the Office of Management and Budget's Web site at http://www.whitehouse.gov/omb/grants/spoc.html. If required by the state, the submission to the state needs to occur before the Section 811 application deadline date, but in no event later than the application deadline date. It is recommended that you provide the state with sufficient time to review the application. Therefore, it is important that you consult with the SPOC for state review time frames and take that into account when submitting the application. If the SPOC requires a review of your application, you must include a copy of the cover letter you sent to the SPOC in Exhibit 8(a) of your Section 811 application.

2. HUD/RHS Agreement. HUD and the Rural Housing Service (RHS) have an agreement to coordinate the administration of the agencies' respective rental assistance programs. As a result, HUD is required to notify RHS of applications for housing assistance it receives. This notification gives RHS the opportunity to comment if it has concerns about the demand for additional assisted housing and possible harm to existing projects in the same housing market area. HUD will consider RHS comments in its review and application selection process.

E. Funding Restrictions:

1. Ineligible Activities. Section 811 funds may not be used for any of the following:

a. Supportive Services;

b. Housing that you currently own or lease that has been occupied by people with disabilities for longer than one year prior to the application deadline date;

c. Nursing homes, infirmaries and medical facilities;

d. Transitional housing;

e. Mobile homes;

e. Intermediate care facilities;

f. Assisted living facilities;

g. Community centers, with or without special components for use by persons with disabilities;

h. Sheltered workshops and centers for persons with disabilities;

i. Headquarters for organizations for persons with disabilities; and

k. Refinancing of Sponsor-owned facilities without rehabilitation.

Note: You may propose to rehabilitate an existing currently-owned or leased structure (if the structure already serves persons with disabilities, it cannot have operated as housing for persons with disabilities for longer than one year prior to the application deadline date); however, the refinancing of any federally funded or assisted project or project insured or guaranteed by a federal agency is not permissible under this Section 811 NOFA. HUD does not consider it appropriate to utilize scarce program resources to refinance projects that have already received some form of assistance under a federal program or that have been operating as housing for persons with disabilities for longer than one year prior to the application deadline date. (For example, Section 202, Section 202/8 or Section 202/PAC direct loan projects cannot be refinanced with capital advances and project rental assistance.)

2. Application Limits (Units/Projects). A Sponsor or Co-Sponsor may not apply for more than 70 units of housing or 4 projects (whichever is less) for persons with disabilities in a single Hub or more than 10 percent of the total units allocated to all local HUD offices. Affiliated entities (organizations that are branches or offshoots of a parent organization) that submit separate applications are considered a single entity for the purpose of these limits. In addition, no single application may propose more units in a given local HUD office than allocated for the Section 811 program in that local HUD office. If the proposed project will be an independent living project, your application must request at least five units for persons with disabilities, not necessarily in one structure. If your proposed project will be a group home, you must request at least two units for persons with disabilities per group home. If your proposed project will be a combination of an independent living project and a group home, your application must request at least the minimum number of units for each project type (i.e., 5 units for an independent living project and 2 units for a group home).

3. Development Cost Limits.

a. The following development cost limits, adjusted by locality as described in Section IV.E.3.b. below must be used to determine the capital advance amount reserved for projects for persons with disabilities.

Note: The capital advance funds awarded for this project are to be considered the total amount of funds that the Department will provide for the development of this project. Amendment funds will only be provided in exceptional circumstances (e.g., to cover increased costs for construction delays due to litigation or unforeseen environmental issues resulting in a change of sites) that are clearly beyond your control. If amendment funds are not approved, you are responsible for any costs over and above the capital advance amount provided by the Department as well as any costs associated with any excess amenities and design features.

(1) For independent living projects and dwelling units in multifamily housing developments, condominium and cooperative housing: The capital advance amount for the project attributable to dwelling use (less the incremental development cost and the capitalized operating costs associated with any excess amenities and design features and other costs you must pay for) may not exceed:

Non-elevator structures:

$48,328 per family unit without a bedroom.

$55,722 per family unit with one bedroom.

$67,202 per family unit with two bedrooms.

$86,020 per family unit with three bedrooms.

$95,830 per family unit with four bedrooms.

For elevator structures:

$50,859 per family unit without a bedroom.

$58,300 per family unit with one bedroom.

$70,893 per family unit with two bedrooms.

$91,712 per family unit with three bedrooms.

$100,672 per family unit with four bedrooms.

(2) For group homes only (the development cost limits are capped by type of occupancy and number of person with disabilities):

Type of Disability
Residents | Physical/ developmental | Chronic mental illness
2 | $192,754 | $186,066
3 | 207,279 | 200,089
4 | 221,806 | 212,546
5 | 236,331 | 225,002
6 | 250,842 | 237,459

(3) These cost limits reflect those costs reasonable and necessary to develop a project of modest design that complies with HUD minimum property standards; the minimum group home requirements of 24 CFR 891.310(a) (if applicable); the accessibility requirements of 24 CFR 891.120(b) and 891.310(b); and the project design and cost standards of 24 CFR 891.120. b. Increased development cost limits.

(1) HUD may increase the development cost limits set forth above, by up to 140 percent in any geographic area where the cost levels require, and may increase the development cost limits by up to 160 percent on a project-by-project basis. This increase may include covering additional costs to make dwelling units accessible through rehabilitation.

Note: In applying the applicable high cost percentage, the local HUD office may use a percentage that is higher or lower than that which is assigned to the local HUD office if it is needed to provide a capital advance amount that is comparable to what it typically costs to develop a Section 811 project in that area.

(2) If HUD finds that high construction costs in Alaska, Guam, the Virgin Islands or Hawaii make it unfeasible to construct dwellings, without sacrificing sound standards of construction, design, and livability, within the development cost limits provided in Section IV.E.3.a.(1) and IV.E.3.b.(1) above, the amount of capital advances may be increased to compensate for such costs. The increase may not exceed the limits established under this section by more than 360 percent.

(3) For group homes only, local HUD offices may approve increases in the development cost limits in Section IV.E.3.a.(2), above, in areas where you can provide sufficient documentation that high land costs limit or prohibit project feasibility. An example of acceptable documentation is evidence of at least three land sales that have actually taken place (listed prices for land are not acceptable) within the last two years in the area where your project is to be built. The average cost of the documented sales must exceed ten percent of the development cost limit for your project in order for an increase to be considered.

4. Commercial Facilities. A commercial facility for the benefit of the residents may be located and operated in the Section 811 project. However, the commercial facility cannot be funded with the use of Section 811 capital advance or PRAC funds. The maximum amount of space permitted for a commercial facility cannot exceed 10 percent of the total project cost. An exception to this 10 percent limitation is if the project involves acquisition or rehabilitation and the additional space was incorporated in the existing structure at the time the proposal was submitted to HUD. Commercial facilities are considered public accommodations under Title III of the Americans with Disabilities Act of 1990 (ADA), and thus must comply with all the accessibility requirements of the ADA.

5. Expiration of Section 811 Funds. The Consolidated Appropriations Act, 2008 (Pub. L. 110-161), requires HUD to obligate all Section 811 funds appropriated for FY2008 by September 30, 2011. Under 31 U.S.C. section 1551, no funds can be disbursed from this account after September 30, 2016. Under Section 811, obligation of funds occurs for both capital advances and project rental assistance upon execution of the Agreement Letter by the Assistant Secretary of Housing. If all funds are not disbursed by HUD and expended by the project Owner by September 30, 2016, the funds, even though obligated, will expire and no further disbursements can be made from this account. In submitting an application, you need to carefully consider whether your proposed project can be completed through final capital advance closing and expenditure of PRAC funds no later than September 30, 2016. Furthermore, all unexpended balances, including any remaining balance on PRAC funds, will be cancelled as of October 1, 2016. Amounts needed to maintain PRAC payments for any remaining term on the affected contracts beyond that date will have to be funded from other current appropriations if available.

F. Other Submission Requirements

1. Address for Submitting Applications. Applications must be submitted electronically through the http://www.grants.gov/applicants/apply_for_grants.jsp Web site, unless the applicant receives a waiver from the electronic submission requirement. See the General Section, Application Submission and Receipt Procedures and Section IV.C. of this NOFA for additional information. Refer to HUD's Web site at http://www.hud.gov/offices/adm/grants/fundsavail.cfm for a listing of local HUD offices. All applications submitted electronically via http://www.grants.gov/applicants/apply_for_grants.jsp will be downloaded and forwarded to the appropriate local HUD office.

2. For Section 811 applications that have more than one applicant, i.e., Co-Sponsors. The applicants must designate a single individual to act as the authorized representative for all Co-Sponsors of the application. The designated authorized representative of the organization submitting the application must be registered with Grants.gov, the Federal Central Contractor Registry and with the credential provider for E-Authentication. Information on the Grants.gov registration process is found in Section IV.B. of the General Section. When the application is submitted through Grants.gov, the name of the designated authorized representative will be inserted into the signature line of the application. Please note that the designated authorized representative must be able to make legally binding commitments for each Co-Sponsor to the application.

Each Co-Sponsor must complete the documents required of all co-sponsoring organizations to permit HUD to make a determination on the eligibility of the Co-Sponsor(s) has pledged to the project. Therefore, each Co-Sponsor must submit the following information using the scanning and/or faxing method described in Section IV. of the General Section: Standard Form 424, Application for Federal Assistance SF-424; Standard Form 424 Supplement, Survey for Ensuring Equal Opportunity for Applicants; Standard Form LLL, Disclosure of Lobbying Activities (if applicable); Form HUD-92016-CA, Section 811 Application for Capital Advance, Summary Information; Form HUD-92041, Sponsor's Conflict of Interest Resolution; and Form HUD-92042, Sponsor's Resolution for Commitment to Project. The forms identified above are discussed in the Program instructions package and can be downloaded from http://www.grants.gov/applicants/apply_for_grants.jsp. The downloaded and completed forms should be saved as separate electronic files and attached to the electronic application submission following the requirements of Section IV.

As stated in the General Section as well as Section IV of this NOFA, scanning documents to create electronic files increases the size of the file. If your computer has the capacity to upload scanned documents, submit your documents with the application by using the Attachment Form in the Mandatory or Optional Forms section of the application. Such documents must be saved according to the instructions provided in the General Section and attached using the “Attachment” form included in the application package downloaded from Grants.gov. Electronic files must be labeled and numbered according to the appropriate Exhibit in order for HUD reviewers to identify the file and its contents. If the applicant is creating an electronic file, the file should contain a header that identifies the name of the Sponsor submitting the electronic application, that Sponsor's DUNS number, and the unique ID that is found at the top of the Facsimile Transmission form found in the electronic application package. The naming convention for each electronic file should correspond to the labeling convention used in the application Table of Contents found in Section IV.B.1. of this program NOFA and the General Section. For example, the organizational documents of a co-Sponsor would be included under Part II, Exhibit 2(a) of the Section 202 application.

Third-party letters, certifications requiring signatures, and other information required to be submitted with the electronic application may be scanned or transmitted via fax using Form HUD-96011, Facsimile Transmittal found in the downloaded application package. Applicants should only use the fax method when documents cannot be attached to the electronic application package or when the size of the submission is too large to upload from the applicant's computer. Please note that the facsimile transmittal form, found in the downloaded application, contains an embedded ID number that is unique to your application submission. Make a copy of this facsimile transmittal cover page and provide that copy to the third party for use with the fax transmission. Co-Sponsors should use the form HUD-96011 provided by the Sponsor that is submitting the electronic application. The submitting Sponsor should fill in the SF-424 form prior to giving the Form HUD-96011 to the Co-Sponsors. By following these directions, the Form HUD-96011 will be pre-populated with the submitting Sponsor's organizational information exactly as the submitting Sponsor has provided it on the electronic application. In addition, HUD will be using the unique identifier associated to the downloaded application package as a means of matching the faxes submitted with the applications received via Grants.gov. The Facsimile Transmittal form also has space to provide the number of pages being faxed and information on the type of document. Co-Sponsors or the submitting applicant can insert the document name in the space labeled Program Component. Note: Do not insert any additional or other cover pages as it will cause problems in electronically matching the pieces of the application. See Section IV.B.3. of the General Section for further instructions. If you are not faxing any documents: You must still complete the facsimile transmittal form. In the section of the form titled “Name of Document Transmitting,” enter the words “Nothing Faxed with this Application.” Complete the remaining highlighted fields and enter the number “0” in the section of the form titled “How many pages (including cover) are being faxed?” You must move the form to the right side of the Grants.gov application. Forms on the right side of the application get uploaded as part of your application submission with the forms getting embedded ID numbers. The embedded ID numbers allow HUD to match your faxes to your application submission.

V. Application Review Information

A. Criteria

Policy Priorities. HUD encourages applicants to undertake specific activities that will assist the Department in implementing its policy priorities and which help the Department achieve its strategic goals for FY2008. Refer to the General Section for information regarding HUD's Strategic Goals and Policy Priorities. For the Section 811 program, applicants who include work activities that specifically address the policy priorities of encouraging accessible design features by incorporating visitability standards and universal design, ending chronic homelessness, removing barriers to affordable housing, promoting energy efficiency in design, construction, rehabilitation, and operations, and expanding training and employment opportunities for low- and very low-income persons and business concerns (Section 3 requirements) will receive additional points. A Notice pertaining to the removal of barriers to affordable housing was published in the Federal Register and may be downloaded from the HUD Web site at http://www.hud.gov/offices/adm/grants/fundsavail.cfm.

Rating Factors. HUD will rate applications that successfully complete technical processing using the Rating Factors set forth below and in accordance with the application submission requirements in this NOFA. The maximum number of points an application may receive under this program is 100 plus 2 bonus points. This includes two (2) RC/EZ/EC-II bonus points, as described in the General Section of the SuperNOFA and Section V.A.6 below.

1. Rating Factor 1: Capacity of the Applicant and Relevant Organizational Staff (30 Points)

This factor addresses the extent to which you have the organizational resources to successfully implement the proposed activities in a timely manner. Submit information responding to this factor in accordance with Application Submission Requirements in Exhibits 3(a), 3(b), 3(e), 5 and 6 of Section IV.B. of this NOFA. In rating this factor, HUD will consider the extent to which your application demonstrates your ability to develop and operate the proposed housing on a long-term basis, considering the following:

a. (15 points). The scope, extent, and quality of your experience in providing housing or related services to those proposed to be served by the project and the scope of the proposed project (i.e., number of units, services, relocation costs, development, and operation) in relationship to your demonstrated development and management capacity as well as your financial management capability.

b. (10 points). The scope, extent, and quality of your experience in providing housing or related services to minority persons or minority families and your ties to the community at large and to the minority and disability communities in particular.

(1) (5 points). The scope, extent, and quality of your experience in providing housing or related services to minority persons or families.

(2) (5 points) The scope, extent, and quality of your ties to the community at large and to the minority and disability communities in particular.

To earn the maximum number of points under subcriteria (b)(1) above, you must describe significant previous experience in providing housing and/or supportive services to minorities generally and to minority persons with disabilities, in particular. For the purpose of this competition, “significant previous experience” means that the previous housing assistance or related services to minorities, i.e., the percentage of minorities being provided housing or related services in your current developments, was equal to or greater than the percentage of minorities in the housing market area where the previous housing or services occurred. To earn the maximum number of points under subcriteria (b)(2) above, you should submit materials that demonstrate your efforts to make housing available to the community at large and the minority and disability communities in particular and your relationships over time with the community, including the minority and disability communities. Examples of documents that may be submitted to earn the maximum number of points under subcriteria (b)(2), include letters of support from community leaders (including minority and disability community leaders) that give information about applicant's relationship over time with the community (including the minority and disability community). You may also submit copies of your affirmative marketing plan and the advertising/outreach materials you utilize to attract minority communities (including limited English-proficient communities), disabled communities and the community at large. Regarding your advertising/outreach materials, you should identify when advertising/outreach materials are circulated, whom they are circulated to, where they are circulated, and how they are circulated. Descriptions of other advertising/outreach efforts to the minority (including limited English-proficient communities) and disabled communities and the dates and places of such advertising/outreach efforts should also be included.

c. (−3 to −5 points). HUD will deduct (except if the delay was beyond your control) 3 points if a fund reservation you received under either the Section 811 program of Supportive Housing for Persons with Disabilities or the Section 202 program of Supportive Housing for the Elderly in FY2003 or later has been extended beyond 24 months, 4 points if beyond 36 months, and 5 points if beyond 48 months. Examples of delays beyond your control include, but are not limited to, initial closing delays that are: (1) directly attributable to HUD, (2) directly attributable to third-party opposition, including litigation, and (3) due to a disaster, as declared by the President of the United States. Note: Percentage calculations will be rounded to the nearest whole number (e.g., 5.5 percent will be rounded to 6 percent and 5.4 percent will be rounded to 5 percent).

d. (−3 to −5 points). HUD will deduct from 3 points to 5 points if HUD amendment money was required in connection with a fund reservation you received under either the Section 202 Program of Supportive Housing for the Elderly or the Section 811 Program of Supportive Housing for Persons with Disabilities in FY 2003 or later based on the following.

(1) (−3 points). The amount of the amendment money required was 25 percent or less of the original capital advance amount approved by HUD.

(2) (−4 points). The amount of the amendment money required was between 26 percent and 50 percent of the original capital advance amount approved by HUD.

3) (−5 points). The amount of the amendment money required was over 50 percent of the original capital advance amount approved by HUD. Note: Percentage calculations will be rounded to the nearest whole number (e.g., 5.5 percent will be rounded to 6 percent and 5.4 percent will be rounded to 5 percent).

e. (5 points). You have experience in developing integrated housing and/or the proposed project will be an integrated housing model (applies to condominium units scattered within one or more buildings or non-contiguous independent living units on scattered sites only).

2. Rating Factor 2: Need/Extent of the Problem (13 Points)

This factor addresses the extent to which there is a need for funding the proposed activities to address a documented problem in the target area. Submit information responding to this factor in accordance with Application Submission Requirements in Exhibits 4(a) and 4(b) of Section IV.B. of this NOFA. HUD will consider the following in evaluating this factor:

The extent of the need for the project in the area based on a determination by the local HUD office. In making this determination, HUD will consider your evidence of need in the area, as well as other economic, demographic, and housing market data available to the local HUD office. The data should include but is not limited to:

• A general assessment of the current conditions in the market for the type of housing proposed,

• An estimate of the demand for additional housing of the type proposed in the applicable housing market area,

• Information on the numbers and types of existing comparable Federally assisted housing units for persons with disabilities (HUD and RHS) and current occupancy in such housing and recent market experience,

• Comparable assisted housing for persons with disabilities under construction or for which fund reservations have been issued and,

• In accordance with an agreement between HUD and RHS, comments from RHS on the demand for additional comparable subsidized housing and the possible harm to existing projects in the same housing market areas.

The Department also will review more favorably those applications which establish a connection between the proposed project and the community's Analysis of Impediments to Fair Housing Choice (AI) or other planning document that analyzes fair housing issues and is prepared by a local planning or similar organization. You must show how the proposed project will address an impediment to fair housing choice described in the AI or meet a need identified in the other type of planning document.

In evaluating this factor, HUD will rate your application as follows:

a. (10 points) If a determination has been made that there is sufficient sustainable long-term demand for additional supportive housing for persons with disabilities in the area to be served, the project is to be awarded 10 points. If not, the project is to be awarded 0 points. No other point values are allowed under this subsection V.A.2.a.

b. (3 points) The extent that a connection has been established between the project and the community's Consolidated Plan, Analysis of Impediments to Fair Housing Choice (AI) or other planning document that analyzes fair housing issues and is prepared by a local planning or similar organization.

3. Rating Factor 3: Soundness of Approach (40 Points)

This factor addresses the quality and effectiveness of your proposal, the extent to which you involved persons with disabilities, including minority persons with disabilities, in the development of the application and will involve them in the development and operation of the project, the extent to which you coordinated your application with other organizations, including local independent living centers, with which you share common goals and objectives and are working toward meeting these objectives in a holistic and comprehensive manner, whether you consulted with Continuum of Care organizations to address efforts to assist persons with disabilities who are chronically homeless as defined in the General Section, whether the jurisdiction in which your project will be located has undertaken successful efforts to remove regulatory barriers to affordable housing, whether you will promote energy efficiency in the design, construction, rehabilitation and operation of the proposed housing, and your plans to expand economic opportunities for low and very low-income persons as well as certain business concerns (Section 3). There must be a clear relationship between the proposed design, the proposed activities, the community's needs and purposes of the program funding for your application to receive points for this factor. Submit information responding to this factor in accordance with Application Submission Requirements in Exhibits 2(d), 3(f), 3(i), 3(j), 3(k), 3(l), 4(c)(i), 4(c)(ii), 4(d)(iii), 4(d)(v), 4(d)(vi), 4(e)(i), and 5 of Section IV.B. of this NOFA. In evaluating this factor, HUD will consider the following:

a. (14 points) Site approvability—The proximity or accessibility of the site to shopping, medical facilities, transportation, places of worship, recreational facilities, places of employment, and other necessary services to the intended occupants; adequacy of utilities and streets, and freedom of the site from adverse environmental conditions (based on site visit for site control projects only); and compliance with site and neighborhood standards in 24 CFR 891.125(a), (d), and (e) and 24 CFR 891.320. Sites where amenities are accessible other than by project residence or private vehicle will be rated more favorably;

b. (−1 point) One or more of your proposed sites is not permissively zoned for the intended use.

c. (8 points) The suitability of the site from the standpoint of promoting a greater choice of housing opportunities for minorities and persons with disabilities and affirmatively furthering fair housing. In reviewing this criterion, HUD will assess whether the site meets the site and neighborhood standards at 24 CFR 891.125(b) and (c) by examining relevant data in your application or in the local HUD office. If appropriate, HUD may visit the site.

(1) The site will be deemed acceptable if it increases housing choice and opportunity by expanding housing opportunities in non-minority neighborhoods (if located in such a neighborhood). The term “non-minority area” is defined as one in which the minority population is lower than 10 percent. If the site will be in a minority neighborhood, the site will be deemed acceptable if it contributes to the revitalization of and reinvestment in the minority neighborhood, including improvement of the level, quality and affordability of services furnished to minority persons with disabilities. You should refer to the Site and Neighborhood Standards provisions of the regulations governing the Section 811 Supportive Housing Program (24 CFR 891.125(b) and (c)) when considering sites for your projects.

(2) For the purpose of this competition, the term “minority neighborhood (area of minority concentration)” is defined as one where any one of the following statistical conditions exists:

(a) The neighborhood's percentage of persons of a particular racial or ethnic minority is at least 20 percentage points higher than the percentage of that particular racial or ethnic minority in the housing market area;

(b) The neighborhood's total percentage of minority persons is at least 20 percentage points higher than the total percentage of minorities for the housing market area; or

(c) In the case of a metropolitan area, the neighborhood's total percentage of minority persons exceeds 50 percent of its population.

d. (2 points) Site and Neighborhood Standards and Persons with Disabilities: The extent to which the proposed design of the project (exterior and interior) and its placement in the neighborhood will meet the individual needs of the residents and will facilitate their integration into the surrounding community and promote their ability to live as independently as possible.

e. (1 point) The extent to which the proposed design incorporates visitability standards and universal design in the construction or rehabilitation of the project. Refer to the General Section for further information.

f. (4 points) Your board is comprised of persons with disabilities.

g. (3 points) You involved persons with disabilities (including minority persons with disabilities) in the development of the application, and will involve persons with disabilities (including minority persons with disabilities) in the development and operation of the project.

h. (2 points) The extent to which you coordinated your application with other organizations (including local independent living centers; a list of such can be obtained from the local HUD office) that will not be directly participating in your project, but with which you share common goals and objectives and are working toward meeting these goals and objectives in a holistic and comprehensive manner.

i. (1 point) You consulted with the Continuum of Care organizations in the community in which your proposed project will be located and have developed ways in which the proposed project will assist persons with disabilities who have been experiencing chronic homelessness become more productive members of society. Refer to the General Section for further information.

j. (2 points) The extent to which the jurisdiction in which your project will be located has undertaken successful efforts to remove regulatory barriers to affordable housing. (Note: This is an optional requirement, but to receive up to 2 points, the applicant must have submitted the Form HUD-27300, Questionnaire for HUD's Initiative on Removal of Regulatory Barriers, AND provided some form of documentation where requested, including point of contact and URL references or submitted the required documentary evidence.) Refer to the General Section for further information.

k. (1 point) The extent to which you will promote energy efficiency in the design, construction, rehabilitation, and operation of the proposed housing. (Note: Although this is not a requirement, to receive one (1) point, your application must demonstrate that you intend to incorporate energy efficiency measures in the design, construction, rehabilitation, and operation of your project and use Energy Star-labeled products.).

l. (2 points). The extent to which you have described your plans for expanding economic opportunities for low and very low-income persons (provisions of Section 3). Note: This is an optional requirement, but to receive up to 2 points, the applicant must have adequately addressed the following in Exhibit 3(l) of the application. Refer to the General Section for further information.

(1) (1 point). Provide opportunities to train and employ low and very low-income residents of the project area.

(2) (1 point). Award substantial contracts to persons residing in the project area.

4. Rating Factor 4: Leveraging Resources (5 Points)

This factor addresses your ability to secure other funding sources and community resources that can be combined with HUD's program resources to achieve program purposes. Submit information responding to this factor in accordance with Application Submission Requirements in Exhibits 3(a), 3(b), 3(c), 3(d), 3(e), and 5(f) of Section IV.B. of this NOFA. Note: Percentage calculations will be rounded to the nearest whole number (e.g. 5.5 percent will be rounded to 6 percent and 5.4 percent will be rounded to 5 percent).

a. (0 point). The application contains general support and/or written evidence of firm commitments towards the development and operation of the proposed project (including, financial assistance, donation of land, provision of services, etc.) from other funding sources (e.g., private, local community, and government sources) where the dollar value totals 5% or less of the capital advance amount as determined by HUD.

b. (1 point). The application contains written evidence of firm commitments towards the development and operation of the proposed project (including, financial assistance, donation of land, provision of services, etc.) from other funding sources (e.g., private local community and government sources) where the dollar value totals between 6% and 10% of the capital advance amount as determined by HUD.

c. (2 points). The application contains written evidence of firm commitments towards the development and operation of the proposed project (including, financial assistance, donation of land, provision of services, etc.) from other funding sources (e.g., private local community and government sources) where the dollar value totals between 11% and 15% of the capital advance amount as determined by HUD.

d. (3 points). The application contains written evidence of firm commitments towards the development and operation of the proposed project (including, financial assistance, donation of land, provision of services, etc.) from other funding sources (e.g., private, local community, and government sources) where the dollar value totals between 16% and 20% of the capital advance amount as determined by HUD.

e. (4 points). The application contains written evidence of firm commitments towards the development and operation of the proposed project (including, financial assistance, donation of land, provision of services, etc.) from other funding sources (e.g., private, local community, and government sources) where the dollar value totals between 21% and 25% of the capital advance amount as determined by HUD.

f. (5 points). The application contains written evidence of firm commitments towards the development and operation of the proposed project (including, financial assistance, donation of land, provision of services, etc.) from other funding sources (e.g., private, local community, and government sources) where the dollar value totals over 25% of the capital advance amount as determined by HUD.

5. Rating Factor 5: Achieving Results and Program Evaluation (12 Points)

This factor reflects HUD's goal to embrace high standards of ethics, management and accountability and, as such, emphasizes HUD's commitment to ensuring that you keep the promises made in your application. This factor requires that you clearly identify the benefits or outcomes of your project and develop an evaluation plan to measure performance, which includes what you are going to measure, how you are going to measure it, and the steps you will have in place to make adjustments to your project development timeline should you not be able to achieve any of the major milestones. Completion of Exhibit 8(j), Program Outcome Logic Model (HUD-96010), will assist you in completing your response to this rating factor. This rating factor also addresses the extent to which your project will implement practical solutions that result in residents achieving independent living, economic empowerment, educational opportunities and improved living environments. Finally, this factor addresses the extent to which the long-term viability of your project will be sustained for the duration of the 40-year capital advance period. Submit information responding to this factor in accordance with Application Submission Requirements in Exhibits 3(e), 3(g), 3(h), 3(i), 6(b), and 8(j) of Section IV.B. of this NOFA.

a. (10 points) The extent to which your Logic Model demonstrates your full understanding of the development process and will, therefore, result in the timely development of your project. The following subfactors reflect the criteria for review as identified in the logic model matrix found in the General Section:

(1) (3 points). The extent to which the services/activities identified in your Logic Model are consistent with the information provided in your application as well as the extent to which you demonstrate your full understanding of the activities that must be accomplished in order to develop your project within the required timeframe.

(2) (3 points). The extent to which the outcomes identified in your Logic Model are consistent with the services/activities that must be accomplished in order to get the project to initial closing within the 18-month fund reservation period, completion of the project, and to final closing.

(3) (3 points). The extent to which your projected measures show a realistic understanding of the development process resulting in a timely initial closing, start of construction, and final closing.

(4) (1 point). The extent to which the evaluation tools selected in your Logic Model are consistent with the project described.

b. (2 points) The extent to which your past performance evidences that the proposed project will result in the timely development of the project. Evidence of your past performances could include the development of previous construction projects, including but not limited to Section 202 or Section 811 projects.

c. (2 points) The extent to which your project will implement practical solutions that will result in assisting residents in achieving independent living, economic empowerment, educational opportunities, and improved living environments (e.g., activities that will improve computer access, literacy and employment opportunities).

d. (3 points) The extent to which you demonstrated that your project will remain viable as housing with the availability of supportive services for very low income persons with disabilities for the 40-year capital advance period.

6. Bonus Points (2 bonus points) Location of proposed site in an RC/EZ/EC-II area, as described in the General Section. Submit the information responding to the bonus points in accordance with the Application Submission Requirements in Exhibit 8(h) of Section IV.B. of this NOFA.

B. Reviews and Selection Process

1. Review for Curable Deficiencies. Upon receipt of the application by HUD staff, HUD will screen all applications to determine if there are any curable deficiencies. For applicants receiving a waiver to submit a paper application, submitting fewer than the required original and four copies of the application is not a curable deficiency and will cause your application to be considered non-responsive to the NOFA and returned to you. A curable deficiency is a missing Exhibit or portion of an Exhibit that will not affect the rating of the application. Refer to the General Section for additional information regarding procedures for corrections to deficient applications. The following is a list of the only deficiencies that will be considered curable in a Section 811 application:

Exhibit | Description
1 | Form 92016-CA (Application Form).*
2(a) | Articles of Incorporation.*
2(b) | Bylaws.*
2(c) | IRS tax exemption ruling.*
4(c)(iii) | Description of mixed-financing plans for additional units, if applicable.
4(d)(i) | Evidence of site control:
(A) | Deed or long-term leasehold;
(B) | Contract of sale;
(C) | Option to purchase or for long-term lease; or
(E) | Evidence that the public body possesses clear title & binding agreement.
4d(ii) | Evidence site is free of limitations, restrictions or reverters.
4(d)(iv) | Evidence of compliance with URA site notification requirement.
4(d)(vii) | Phase I ESA.
4(d)(viii) | Asbestos Statement or Survey.
4(d)(ix) | Letter to the State/Tribal Historic Preservation Officer (SHPO/THPO) and a statement that the SHPO/THPO failed to respond OR the letter from the SHPO/THPO.
4(d)(x) | Willingness to seek an alternate site.
4(d)(xi) | Exception to project size limit.
4(e)(ii) | Steps undertaken to identify site.
4(e)(iv) | Status of the sale of the site.
4(e)(v) | Whether the site would involve relocation.
5 | Supportive Services Plan.
7 | Relocation.
8(a) | Letter sent to the State Point of Contact (SPOC)* .
8(b) | Standard Form 424 Supplement, Survey on Ensuring Equal Opportunity for Applicants.
8(c) | Standard Form LLL, Disclosure of Lobbying Activities (if applicable).
8(d) | Form HUD-2880, Applicant/Recipient Disclosure/Update Report.
8(e) | Form HUD-2991, Certification of Consistency with Consolidated Plan.
8(f) | Form HUD-92041, Sponsor's Conflict of Interest Resolution.
8(g) | Form HUD-92042, Sponsor's Resolution for Commitment to Project.*
8(i) | Form HUD-92043, Supportive Services Certification.
8(l) | Form HUD-2994-A, You Are Our Client Grant Applicant Survey (optional).

The local HUD office will notify you in writing if your application is missing any of the above exhibits or portions of exhibits and will provide you with a specified deadline to submit the information required to cure the noted deficiencies. The items identified by an asterisk (.*) must be dated on or before the application submission date. If an Exhibit or portion of an Exhibit listed above as curable is not discovered as missing until technical processing, HUD will provide you with a deadline to cure the deficiency.

2. Rating. HUD will review and rate your application in accordance with the Reviews and Selection Process in the General Section except as described in “3 Appeal Process” found below. Your application will be either rated or technically rejected at the end of technical review. If your application meets all program eligibility requirements after completion of technical review, it will be rated according to the rating factors in Section V.A. above.

3. Appeal Process. HUD will not reject your application based on technical review without notifying you of the rejection with all the reasons for rejection and providing you an opportunity to appeal. You will have 14 calendar days from the date of HUD's written notice to appeal a technical rejection to the local HUD office. In HUD's review of any appeal, it should be noted that in conformance with its regulations at 24 CFR part 4, subpart B, HUD will not consider any unsolicited information that you, the applicant, may want to provide. The local HUD office will make a determination on any appeals before making its selection recommendations.

4. Ranking and Selection Procedures. Applications that have a total base score of 75 points or more (without the addition of RC/EZ/EC-II bonus points) and meet all of the applicable threshold requirements in the General Section and this NOFA will be eligible for selection and will be placed in rank order in two categories; Category A and Category B. Category A will consist of approvable applications that contain acceptable evidence of control of all proposed sites and all proposed sites have been found approvable. Category B will consist of the following approvable applications:

(a) Those that were submitted with identified sites;

(b) Those that were submitted with evidence of site control where the evidence and/or any of the proposed sites were found not approvable provided you indicate your willingness to locate another site(s) should the proposed site(s) be found not approvable; and

(c) Those that were submitted with a combination of sites under control and identified sites. Each HUD Multifamily Program Center will select applications, after adding any bonus points for RC/EZ/EC-II, based on rank order, from Category A first that most closely approximates the capital advance authority available in its allocation. If capital advance authority remains after selecting all approvable applications from Category A, each HUD Multifamily Program Center shall then select applications, in rank order, from Category B that most closely approximates the capital advance authority remaining in its allocation. HUD Multifamily Program Centers will not skip over any applications in order to select one based on the funds remaining. After making the initial selections from the applicable category, however, HUD Multifamily Program Centers may use remaining available funds to select the next highest rank-ordered application in that category by reducing the number of units by no more than 10 percent, rounded to the nearest whole number, provided the reduction will not render the project unfeasible. For this purpose, however, HUD will not reduce the number of units in projects of five units or less.

After the HUD Multifamily Program Centers have funded all possible projects based on the process above, residual funds from all HUD Multifamily Program Centers within each Multifamily Hub will be combined. First, these funds will be used to restore units to projects reduced by HUD Multifamily Program Centers based on the above instructions. Second, additional approvable applications within each Multifamily Hub will be selected in Hub-wide rank order, first from Category A, and if sufficient funds remain, from Category B, with only one application selected per HUD Multifamily Program Center. More than one application may be selected per HUD Multifamily Program Center if there are no approvable applications in other HUD Multifamily Program Centers within the Multifamily Hub. This process will continue until there are no more approvable applications within the Multifamily Hub that can be selected with the remaining funds. Applications may not be skipped over to select one based on funds remaining. However, the Multifamily Hub may use any remaining residual funds to select the next rank-ordered application in the applicable category by reducing the number of units by no more than 10 percent rounded to the nearest whole number, provided the reduction will not render the project infeasible or result in the project being less than 5 units.

Funds remaining after the Multifamily HUB selection process is completed will be returned to Headquarters. HUD Headquarters will use the residual funds first to restore units to projects reduced by HUD Multifamily Program Center or Multifamily Hub as a result of the instructions for using their residual funds. Second, HUD Headquarters will use these funds for selecting additional applications based on HUD Program Centers' rankings, beginning with the highest rated application nationwide in Category A. Only one application will be selected per HUD Multifamily Program Center in Category A from the national residual amount. Headquarters may skip over a higher rated Category A application to ensure that only one application is selected from each HUD Multifamily Program Center. This process will continue until the remaining available funds are used to select Category A applications, to the maximum extent possible. If all Category A applications are selected, Category B applications will then become eligible for selection in rank order, beginning with the highest rated application. Only one Category B application per HUD Multifamily Program Center will be selected from the remaining national residual amount. Headquarters may skip over a higher rated Category B application in order to ensure that only one application is selected from each HUD Multifamily Program Center. This process will continue until the remaining available funds are used to select approvable applications. If there are no approvable applications in Category A in other HUD Multifamily Program Centers, then the next highest rated application in Category B in another HUD Multifamily Program Center will be selected.

5. HUD Error. In the event HUD commits an error that, when corrected, would have resulted in the selection of an otherwise eligible applicant during the funding round of this NOFA, HUD may select that applicant when sufficient funds become available.

VI. Award Administration Information

A. Award Notices

1. Agreement Letter. If you are selected to receive a Section 811 fund reservation, you will receive an Agreement Letter that stipulates the terms and conditions for the Section 811 fund reservation award as well as the submission requirements following the fund reservation award. The duration of the fund reservation award for the capital advance is 18 months from the date of issuance of the fund reservation.

Immediately upon your acceptance of the Agreement Letter, you are expected to begin work towards the submission of a Firm Commitment Application, which is the next application submission stage. You are required to submit a Firm Commitment Application to the local HUD office within 180 days from the date of the Agreement Letter. Initial closing of the capital advance and start of construction of the project are expected to be accomplished within the duration of the fund reservation award. Final closing of the capital advance is expected to occur no later than six months after completion of project construction.

2. Non-selection Letter. If your application is approvable but unfunded due to insufficient funds or receives a rating that is below the minimum threshold score established for funding eligibility, you will receive a letter to this effect.

3. Debriefing. Refer to the General Section for further information regarding debriefings except that the request must be made to the Director of Multifamily Housing in the appropriate local HUD office.

B. Administrative and National Policy Requirements

1. Ensuring the Participation of Small Businesses, Small Disadvantaged Businesses, and Women-Owned Businesses. Although the Section 811 program is not subject to the provisions of 24 CFR 85.36(e) as described in the corresponding paragraph in the General Section you are required to comply with Executive Order 12432, Minority Business Enterprise Development and Executive Order 11625, Prescribing Additional Arrangements for Developing and Coordinating a National Program for Minority Business Enterprise as they relate to the encouragement of HUD grantees to utilize minority business enterprises.

2. Acquisition and Relocation. You must comply with the Uniform Relocation Assistance and Real Property Acquisition Policies Act of 1970, as amended (49 CFR part 24 and 24 CFR part 891.155(e)) (URA), which covers the acquisition of sites, with or without existing structures, and with 24 CFR 8.4(b)(5) of the Section 504 regulations which prohibits discrimination based on disability in determining the site or location of a federally-assisted facility. However, you are exempt from complying with the site acquisition requirements of the URA if you do not have the power of eminent domain and prior to entering into a contract of sale, option to purchase or any other method of obtaining site control, you inform the seller of the land in writing: (1) That you do not have the power of eminent domain and, therefore, you will not acquire the property if negotiations fail to result in an amicable agreement, and (2) of the estimate of the fair market value of the property. An appraisal is not required to meet this requirement; however, your files must include an explanation, (with reasonable evidence) of the basis for the estimate. Evidence of compliance with this advance notice requirement must be included in Exhibit 4(d)(iv) of your application.

If you had site control as an applicant, you must be able to identify all persons who were required to move from the site within the past 12 months and the reason for such a move. You will also have to be able to demonstrate that all persons occupying the site have been issued the appropriate required General Information Notice and advisory services information receipt required, either at the time of the execution of the option to acquire the property or at the time of application submission.

3. Flood Disaster Protection Act of 1973 and Coastal Barriers Resources Act. You must comply with the requirements under the Flood Disaster Protection Act of 1973 (42 U.S.C. 4001-4128) and the Coastal Barrier Resources Act (16 U.S.C. 3601).

C. Reporting

1. The Program Outcome Logic Model (Form HUD-96010) must be completed indicating the proposed measures against the proposed activities/output and proposed outcome(s) for the appropriate year. The proposed measures should be entered in the “Pre” column of the form. The Logic Model has been designed to clearly identify the stages of the development process and it must present a realistic annual projection of outputs and outcomes that demonstrates your full understanding of the development process. Using the “Year One” through “Year Three” tabs on the logic model, you must demonstrate your ability to ensure that the proposed measures will result in the timely development of your project. To provide for greater consistency in reporting, you must include all activities and outcomes excepted per year of the period of performance. Note: The reported outcome of an identified activity/output may be realized in a different year.

The Logic Model will capture information in two stages. Stage one will demonstrate your ability to develop the project within the required timeframe. This stage will capture data that relates to initial closing, construction, and final closing. Stage one will require the submission of a completed form HUD-96010, Logic Model on an annual basis, beginning with the date of the Agreement Letter and concluding with the date of Final Closing. At the time of the Project Planning Conference, HUD and the applicant will finalize the services and activities in association with this Logic Model and the development timeline. On an annual basis, applicants will report against the finalized logic model by documenting the achieved measures in the “Post” column. (Note: Applicants are not required to complete the YTD (year-to-date) column.) The final reporting requirement for the Logic Model will require that the applicant use the “Total” worksheet to fully document the activities and outcomes as well as the associated measures that have occurred during the period of activities. In addition, a response to each of the program management evaluation questions is required at time of final report.

The second stage will require the Owner to submit a completed form HUD-96010, Logic Model on an annual basis, beginning one year after the date of the final logic model submission that was required in stage one and concluding at the conclusion of the mortgage. Stage two will require the Owner to document the services/activities that are made available to tenants and the expected outcomes of such services.

2. The Regulatory Agreement (Form HUD-92466-CA) requires the Owner of the Section 811 project to submit an annual financial statement for the project. This financial statement must be audited by an Independent Public Accountant who is a Certified Public Accountant or other person accepted by HUD and filed electronically with HUD's Real Estate Assessment Center (REAC) through the Financial Assessment Subsystem for Multifamily Housing (MF-FASS). The submission of annual financial statements is required throughout the 40-year term of the mortgage.

VII. Agency Contact(s)

Technical Assistance. For technical assistance in downloading an application package from http://www.grants.gov/Apply, contact the Grants.gov help desk at 800-518-Grants or by sending an e-mail to support@grants.gov.

Programmatic Information. For programmatic information, you may contact the appropriate local HUD office, or Marvis Hayward at HUD Headquarters at (202) 402-2255 (this is not a toll-free number), or access the Internet at: http://www.hud.gov/offices/adm/grants/fundsavail.cfm. Persons with hearing and speech impairments may access the above number via TTY by calling the toll-free Federal Relay Service at 800-877-8339.

VIII. Other Information

A. Field Office Workshop. HUD encourages minority organizations and grassroots organizations (e.g., civic organizations, faith-communities and grassroots faith-based and other community-based organizations) to participate in this program and strongly recommends prospective applicants attend the local HUD office workshop. At the workshops, HUD will explain application procedures and requirements, as well as address concerns such as local market conditions, building codes and accessibility requirements, contamination identification and remediation, historic preservation, floodplain management, other environmental requirements, displacement and relocation, zoning, and housing costs. If you are interested in attending the workshop, make sure that your name, address and telephone number are on the appropriate local HUD office's mailing list so that you will be informed of the date, time and place of the workshop. Persons with disabilities should call the appropriate local HUD office to assure that any necessary arrangements can be made to enable their attendance and participation in the workshop.

If you cannot attend the workshop, call the appropriate local HUD office if you have any questions regarding the submission of applications to that particular office and to request any materials distributed at the workshop.

B. Satellite Broadcast. HUD will hold an information broadcast via satellite for potential applicants to learn more about the program and preparation of the application. It is strongly recommended that potential applicants, especially those who may be applying for Section 811 funding for the first time, tune in to this broadcast, if at all possible. Copies of the broadcast tapes are also available from the NOFA Information Center. For more information about the date and time of the broadcast, you should consult the HUD Web site at: http://www.hud.gov/offices/adm/grants/fundsavail.cfm.

C. Related Programs. Section 811 funding for tenant-based assistance is administered by public housing agencies and nonprofit organizations through the Mainstream Housing Opportunities for Persons with Disabilities Program.

D. Paperwork Reduction Act. The information collection requirements contained in this document have been approved by the Office of Management and Budget (OMB) under the Paperwork Reduction Act of 1995 (44 U.S.C. 3501-3520) and assigned OMB control number 2502-0462. In accordance with the Paperwork Reduction Act, HUD may not conduct or sponsor, and a person is not required to respond to, a collection of information unless the collection displays a currently valid OMB number. Public reporting burden for the collection of information is estimated to average 35.92 hours per annum per respondent for the application and grant administration. This includes the time for collecting, reviewing, and reporting the data for the application. The information will be used for grantee selection and monitoring the administration of funds. Response to this request for information is required in order to receive the benefits derived.

[FR Doc. E8-8863 Filed 5-9-08; 8:45 am]

BILLING CODE 4210-67-P